DEPARTMENT OF TRANSPORTATION

Research and Special Programs Administration

49 CFR Parts 171, 172, 173, 175, 176, 178 and 180

[Docket No. RSPA-04-17036 (HM-215G)]

RIN 2137-AD92

Harmonization With the United Nations Recommendations, International Maritime Dangerous Goods Code, and International Civil Aviation Organization's Technical Instructions

AGENCY: Research and Special Programs Administration (RSPA), DOT.

ACTION: Final rule.

SUMMARY: RSPA is amending the Hazardous Materials Regulations (HMR) to maintain alignment with international standards by incorporating various amendments, including changes to proper shipping names, hazard classes, packing groups, special provisions, packaging authorizations, air transport quantity limitations and vessel stowage requirements. Because of recent changes to the International Maritime Dangerous Goods Code (IMDG Code), the International Civil Aviation Organization's Technical Instructions for the Safe Transport of Dangerous Goods by Air (ICAO Technical Instructions), and the United Nations Recommendations on the Transport of Dangerous Goods (UN Recommendations), these revisions are necessary to facilitate the transport of hazardous materials in international commerce.

DATES: The effective date of these amendments is January 1, 2005

Delayed Compliance Date: Unless otherwise specified, compliance with the amendments adopted in this final rule is required beginning January 1, 2006.

Incorporation by Reference Date: The incorporation by reference of the publications adopted in § 171.7 of this final rule have been approved by the Director of the Federal Register as of January 1, 2005.

FOR FURTHER INFORMATION CONTACT: Charles Betts, Office of Hazardous Materials Standards, telephone (202) 366-8553, or Shane Kelley, International Standards, telephone (202) 366-0656, Research and Special Programs Administration, U.S. Department of Transportation, 400 Seventh Street, SW., Washington, DC 20590-0001.

SUPPLEMENTARY INFORMATION:

Contents

I. Background

II. Overview of Changes in this Final Rule

III. Overview of Amendments Not Being Considered for Adoption in this Final Rule

IV. Section-By-Section Review

V. Regulatory Analyses and Notices

A. Statutory/Legal Authority for this Rulemaking

B. Executive Order 12866 and DOT Regulatory Policies and Procedures

C. Executive Order 13132

D. Executive Order 13175

E. Regulatory Flexibility Act, Executive Order 13272, and DOT Regulatory Policies and Procedures

F. Paperwork Reduction Act

G. Regulatory Identifier Number (RIN)

H. Unfunded Mandates Reform Act

I. Environmental Assessment

J. Privacy Act

I. Background

On December 21, 1990, RSPA (we) published a final rule (Docket HM-181; 55 FR 52402) based on the UN Recommendations, which comprehensively revised the Hazardous Materials Regulations (HMR), 49 CFR Parts 171 to 180, for harmonization with international standards. Since publication of the 1990 final rule we have issued five additional international harmonization final rules (Dockets HM-215A, 59 FR 67390; HM-215B, 62 FR 24690; HM-215C, 64 FR 10742; HM-215D, 66 FR 33316; and HM-215E, 68 FR 44992). The rules provided additional harmonization with international transportation requirements by more fully aligning the HMR with the corresponding biennial updates of the UN Recommendations, the IMDG Code and the ICAO Technical Instructions.

The UN Recommendations are not regulations, but rather are recommendations issued by the UN Committee of Experts on the Transport of Dangerous Goods (TDG) and on the Globally Harmonized System of Classification and Labeling (GHS). These recommendations are amended and updated biennially by the UN Committee of Experts. They serve as the basis for National, regional, and international modal regulations; specifically, the IMDG Code issued by the International Maritime Organization (IMO), and the ICAO Technical Instructions issued by the ICAO. In 49 CFR 171.12, the HMR authorize domestic transportation of hazardous materials shipments prepared in accordance with the IMDG Code if all or part of the transportation is by vessel, subject to certain conditions and limitations. In § 171.11, subject to certain conditions and limitations, the HMR authorize the offering, acceptance and transport of hazardous materials by aircraft, and by motor vehicle either before or after being transported by aircraft, provided the shipment is in accordance with the ICAO Technical Instructions.

The continually increasing amount of hazardous materials transported in international commerce warrants the harmonization of domestic and international requirements to the greatest extent possible. Harmonization serves to facilitate international transportation and at the same time ensures the safety of people, property and the environment. While the intent of the harmonization rulemakings is to align the HMR with international standards, we review and consider each amendment on its own merit. Each amendment is considered on the basis of the overall impact on transportation safety and the economic implications associated with its adoption into the HMR. Our goal is to harmonize without diminishing the level of safety currently provided by the HMR and without imposing undue burdens on the regulated public. In our efforts to continue to align the HMR with international requirements, this final rule incorporates changes into the HMR based on the Thirteenth Revised Edition of the UN Recommendations, Amendment 32 to the IMDG Code, and the 2005-2006 ICAO Technical Instructions, which become effective January 1, 2005. Petitions for rulemaking concerning harmonization with international standards and additional measures concerning facilitation of international transportation are also addressed in this final rule and serve as the basis of certain amendments. Other amendments are based on feedback from the regulated industry, other DOT modal administrations and our initiative. Also included are various editorial clarifications. Unless otherwise stated, the revisions are for harmonization with international standards.

II. Overview of Changes in This Final Rule

Amendments to the HMR in this final rule include, but are not limited to the following:

—Amendments to the Hazardous Materials Table (HMT) which add, revise or remove certain proper shipping names, hazard classes, packing groups, special provisions, packaging authorizations, bulk packaging requirements, passenger and cargo aircraft maximum quantity limitations and vessel stowage provisions.

—Amendments to the List of Marine Pollutants.

—Revisions and additions of special provisions.

—Removal of the air eligibility marking requirement.

—Addition of a “KEEP AWAY FROM HEAT” marking requirement for packages offered for transportation by air.

—Amendment to require that aerosols that are carried aboard an aircraft in accordance with § 175.10(a)(4) have their release devices protected by a cap or other suitable means.

—A grandfather provision to allow the shipment of materials classified as corrosive to steel or aluminum under ASTM G 31-72.

— A provision to require that the word “overpack” be marked on overpacks to indicate that inside packages comply with prescribed specifications.

—An amendment to the criteria for classification of materials that are corrosive to metals.

—Revision of the limited quantity provisions for Class 6.1, PG II materials and for materials with a subsidiary hazard of 6.1, PG II.

—Amendments to the packaging requirements for materials classified as Division 6.1, Packing Group I, Hazard Zone A or Hazard Zone B.

—Revision of the organic peroxide packaging requirements in order to have one consolidated packaging section for organic peroxides. The revised section will include three separate tables for organic peroxides authorized for transport in non-bulk packagings, IBCs, and bulk packagings other than IBCs, respectively. Additionally, the packaging tables will be updated through the amendments to the organic peroxide requirements that will add, revise, or delete certain entries in the organic peroxide tables.

III. Overview of Amendments Not Being Considered for Adoption in This Final Rule

This final rule makes changes to the HMR based on amendments to the Thirteenth Revised Edition of the UN Recommendations, Amendment 32 to the IMDG Code, and the 2005-2006 ICAO Technical Instructions, which become effective January 1, 2005. However, we are not adopting all of the amendments to those documents into the HMR. In many cases, amendments to the international regulation have not been adopted because of the framework or structure of the HMR. In several cases, we are handling certain amendments in separate rulemakings. For example, all amendments related to infectious substances are being handled under Docket HM-226A. In some instances, such as the amendment to ICAO Technical Instructions to allow certain oxygen generators aboard passenger carrying aircraft, we do not believe the amendment to be in the interest of public safety.

One of the goals of this rulemaking is to continue to maintain consistency between the HMR and the international requirements. We are not striving to make the HMR identical to the international regulations but rather striving to remove or avoid potential barriers to international transportation.

Below is a listing of those significant amendments to the international regulations that we have not included in this final rule with a brief explanation of why the amendment was not included:

• Requirements for infectious substances and genetically modified micro-organisms;

[Amendments to the HMR related to infectious substances will be addressed in a future rulemaking under Docket HM-226A. Several other federal agencies regulate genetically modified micro-organisms; thus we do not plan to adopt provisions for their transport in the HMR.]

• Compressed gas cylinders;

[Amendments to the HMR related to compressed gas cylinders will be addressed in a future rulemaking under Docket HM-220E.]

• Environmentally hazardous substances;

[Delay in action pending further amendments to the international regulations.]

• Hazardous materials security;

[Amendments to the HMR related to the UN Model Regulation's hazardous materials security requirements were promulgated in a rulemaking under the HM-232 Docket series.]

• Requirements for radioactive materials;

[Amendments to the HMR related to Class 7 (radioactive) materials are being addressed in a rulemaking under the HM-230 Docket series.]

• Non-specification bulk packagings;

[We are not adopting the new requirements in the UN Recommendations for non-specification bulk packagings including the additional inspection, testing and marking requirements. We are unsure about the cost impacts of imposing these additional amendments and, therefore, are not adopting any additional amendments at this time.]

• The reference to EN 10028-3, Part 3 for defining steel grain size relevant to the definition of fine grain steel;

[We do not believe there is a need to adopt the European standard EN 10028-3, Part 3 because this standard is equivalent to ASTM E 112-96 (IBR, see § 171.7 of this subchapter). In addition, the ASTM standard is currently referenced in the HMR and is more commonly used and recognized in the U.S.]

• Bulk authorization for UN0331, UN0332 and UN3375;

[For several years, we have authorized, under exemption, the transport of certain blasting agents in bulk packagings. We are currently reviewing those exemptions to determine if they should be included in the HMR. The amendments in the UN Recommendations related to the bulk authorizations for UN0331, UN0332 and UN3375 will be included in that review.]

• The removal of wooden barrel requirements;

[The removal of the wooden barrel requirements (2C1 and 2C2) may be considered in a future rulemaking.]

• The 24-hour gasket relaxation requirement;

[A requirement that removable head packagings for liquids not be drop tested until at least 24 hours after filling and closing to allow for any possible gasket relaxation was adopted in the thirteenth revised edition of the UN Model Regulations. We have conducted testing in coordination with drum manufacturers and have determined that this requirement is not substantiated by the results of the tests conducted. Therefore, we are not adopting into the HMR amendments relative to the 24-hour gasket relaxation requirement. We also opposed this requirement when it was considered by the UN TDG Sub-Committee.]

• Authorization to transport protective breathing equipment (PBE's) with an oxygen generator as cargo onboard a passenger-carrying aircraft.

[We do not believe that oxygen generators should be transported aboard passenger carrying aircraft. Therefore, we are not adopting the ICAO amendment that would allow oxygen generators in protective breathing equipment to be transported in passenger carrying aircraft.]

IV. Section-By-Section Review

Part 171

Section 171.7

Paragraph (a)(3) (incorporation by reference materials) is updated to include the most recent editions of the ICAO Technical Instructions, the IMDG Code and the UN Recommendations. The updated editions of these standards become effective January 1, 2005. Additionally, the International Maritime Organization (IMO) recommends authorizing a one-year transition period, with a delayed compliance date of January 1, 2006, for the use of the updated edition (Amendment 32) of the IMDG Code.

The updated additions are as follows:

—The ICAO Technical Instructions, 2005-2006 Edition.

—The IMDG Code, Amendment 32.

—The UN Recommendations, Thirteenth Edition.

—The UN Manual of Tests and Criteria, 4th Revised Edition.

Paragraph (b) (list of informational materials not requiring incorporation by reference) is revised by adding an additional reference for a new method for determining the size of an emergency-relief device for portable tanks transporting organic peroxides. This revision is based on a petition for rulemaking numbered P-1428. The petition was submitted by the Organic Peroxides Producers Safety Division of the Society of the Plastics Industry, Inc.

One commenter recommended that we revise the “Note to Paragraph (h)(3)(vi)” in § 173.225 to maintain format consistency with the incorporation by reference entry for “Example of a Test Method for Venting Sizing: OPPSD/SPI Methodology” found in § 171.7(a). We disagree. The reference to a second example of a test method for venting sizing is not found in § 171.7(a) as a material incorporated by reference. Rather, it is found in § 171.7(b) as informational material not requiring incorporation by reference. Therefore, for clarification we are revising § 171.7(b) to include the reference to the “American Institute of Chemical Engineers Process Safety Progress Journal.” In addition, we are revising the “Note to Paragraph (h)(3)(vi)” in § 173.225 to include a reference to § 171.7(b), list of informational materials not requiring incorporation by reference.

Section 171.8

The definition for “salvage packaging” is revised to include the term “non-conforming.” The term “non-conforming” was added to the definition by the UN Committee of Experts in December 2000 to accommodate the use of salvage packaging for. Occasionally an undamaged package is found to be tested to a performance level which is less than that required for the specific substance it contains (e.g., a drum tested to PG II standards containing a PG I substance). In other instances, the package is found to be a non-performance tested packaging containing a regulated substance. In these situations, it may not be safe or practical to transfer the material to the correct packaging to continue on to the consignee in order to ensure compliance with the HMR. Therefore, the use of salvage packaging to contain “non-conforming” packages will minimize the risk to those handling the package during its transport back to the shipper or to an appropriate disposal location.

Section 171.11

Paragraph (d)(15) is revised to clarify that the limitations therein also apply to oxygen generators contained in personal breathing equipment. In addition, paragraph (d)(17) is revised to indicate that an organic peroxide that is not identified by a technical name in any of the organic peroxide tables found in § 173.225 must be approved by the Associate Administrator in accordance with the requirements of § 173.128(d).

Section 171.12

In § 171.12, paragraph (b)(20) is revised to indicate that an organic peroxide that is not identified by a technical name in any of the organic peroxide tables found in § 173.225 must be approved by the Associate Administrator in accordance with the requirements of § 173.128(d).

Section 171.12a

Paragraph (a) is revised to clarify the requirements for the return to Canada of bulk packagings that correspond to DOT or UN Specifications. Paragraph (b)(9)(ii) is revised to indicate that the shipping certification must be completed for shipments from Canada that enter the U.S. Paragraph (b)(18) is revised to indicate that an organic peroxide that is not identified by a technical name in any of the organic peroxide tables found in § 173.22 must be approved by the Associate Administrator in accordance with the requirements of § 173.128(d).

Section 171.14

Paragraphs (d) and (d)(1) are revised to authorize a delayed implementation date for the amendments in this final rule. The effective date of this final rule is January 1, 2005. We are also, authorizing a delayed compliance date of January 1, 2006, which is comparable to the transitional provisions provided in the final rule published under Docket HM-215E. The delayed mandatory compliance date offers sufficient time to implement the new requirements.

Paragraph (d)(2) is revised to authorize certain intermixing of old and new requirements.

Part 172

Section 172.101

The regulatory text preceding the Hazardous Materials Table is revised as follows:

Paragraph (c)(11) and the corresponding note to paragraph (c)(11) are amended to revise a section reference. The reference to § 173.225(c) in the first sentence is revised to read § 173.225(b) and the reference to § 173.225(c)(2) in the note to paragraph (c)(11) is revised to read § 173.225(b)(2).

Paragraph (d)(4) is revised by adding a statement indicating that when the abbreviation “Comb liq.” is found in the “Hazard class or division” column of the Hazardous Materials Table (column 3), the material falls into the “Combustible liquid” hazard class.

Paragraph (i)(3) of this section is revised to specify that Column 7 of the Hazardous Materials Table contains additional bulk packaging authorizations and limitations for the use of UN portable tanks.

§ 172.101 The Hazardous Materials Table (HMT). In this final rule we made various amendments to the HMT. Readers should review all changes for a complete understanding of the Table amendments. The HMT has been reprinted in its entirety due to the numerous changes. Under this final rule the changes to the HMT for the purpose of harmonizing with international standards, unless otherwise stated, include, but are not limited to the following:

• We revised several entries by adding the qualifying word “liquid.” This action is consistent with the revisions to proper shipping names that were incorporated into the Thirteenth Revised Edition of the UN Recommendations. Affected entries are as follows:

UN1392 Alkaline earth metal amalgam

UN1420 Potassium metal alloys

UN1422 Potassium sodium alloys

UN1701 Xylyl bromide

UN1742 Boron trifluoride acetic acid complex

UN1743 Boron trifluoride propionic acid complex

UN2235 Chlorobenzyl chlorides

UN2236 3-Chloro-4-methylphenyl isocyanate

UN2306 Nitrobenzotrifluorides

UN2445 Lithium alkyls

UN2552 Hexafluoroacetone hydrate

UN2937 alpha-Methylbenzyl alcohol

UN3276 Nitriles, toxic, n.o.s.

UN3278 Organophosphorus compound, toxic, n.o.s.

UN3280 Organoarsenic compound, n.o.s.

UN3282 Organometallic compound, toxic, n.o.s.

UN3281 Metal carbonyls, n.o.s.

• We revised several entries by adding the qualifying word “solid.” This action is consistent with the revisions to proper shipping names that were incorporated into the Thirteenth Revised Edition of the UN Recommendations. Affected entries are as follows:

UN1445 Barium chlorate

UN1447 Barium perchlorate

UN1459 Chlorate and magnesium chloride mixture

UN1470 Lead perchlorate

UN1578 Chloronitrobenzenes

UN1579 4-Chloro-o-toluidine hydrochloride

UN1650 beta-Naphthylamine

UN1680 Potassium cyanide

UN1689 Sodium cyanide

UN1690 Sodium fluoride

UN1697 Chloroacetophenone

UN1709 2,4-Toluylenediamine

UN1812 Potassium fluoride

UN1843 Ammonium dinitro-o-cresolate

UN2074 Acrylamide

UN2239 Chlorotoluidines

UN2261 Xylenols

UN2446 Nitrocresols

UN2662 Hydroquinone

UN3283 Selenium compound, n.o.s.

• We revised several entries by removing the qualifying word “solid.” This action provides consistency with the Thirteenth Revised Edition of the UN Recommendations. The affected entries are as follows:

UN1489 Potassium perchlorate, solid

UN1598 Dinitro-o-cresol, solid

UN1638 Mercury iodide, solid

UN1740 Hydrogendifluorides, n.o.s. solid

UN2439 Sodium hydrogendifluoride, solid

• We deleted several entries. This action removes from the HMR the solution form of entries that are not identified as solutions in the Thirteenth Revised Edition of the UN Recommendations. The deleted entries are as follows:

UN1489 Potassium perchlorate, solution

UN1598 Dinitro-o-cresol, solution

UN1638 Mercury iodide, solution

UN1740 Hydrogendifluorides, n.o.s. solutions

UN2439 Sodium hydrogendifluoride solution

• We revised the proper shipping name “Butadienes, stabilized,” UN1010 to read “Butadienes, stabilized or Butadienes and hydrocarbon mixture, stabilized, containing more than 40% butadienes.”

• We revised the proper shipping name “Potassium hydrogendifluoride, solid,” UN1811 to read “Potassium hydrogendifluoride, solid.”

• We revised the proper shipping name “Refrigerating machines, containing non-flammable, non-toxic, liquefied gas or ammonia solution (UN2672),” UN2857 to read “Refrigerating machines containing non-flammable, non-toxic gases or ammonia solutions (UN2672).”

• We removed four references to IB52 and four references to T23 from column 7 of the HMT. This change is necessary because IB52 and T23 have been relocated to § 173.225. The affected entries are:

UN3109 Organic peroxide type F, liquid

UN3110 Organic peroxide type F, solid

UN3119 Organic peroxide type F, liquid, temperature controlled

UN3120 Organic peroxide type F, solid, temperature controlled

• IP5 is removed from column 7 of the HMT for the following UN entries:

UN1791 Hypochlorite solution

UN2014 Hydrogen peroxide, aqueous solution with not less than 20% but not more than 60% hydrogen peroxide (stabilized as necessary).

UN3149 Hydrogen peroxide and peroxyacetic acid mixture with acid(s), water and not more than 5% peroxyacetic acid.

• We deleted several entries. This action is consistent with the deletion of proper shipping names that were incorporated into the Thirteenth Revised Edition of the UN Recommendations that we are proposing to adopt into the HMR. The entries affected are:

UN2003 Metal alkyls, water-reactive, n.o.s. or Metal aryls, water-reactive, n.o.s.

UN3049 Metal alkyl halides, water-reactive, n.o.s. or Metal aryl halides, water-reactive, n.o.s.

UN3050 Metal alkyl hydrides, water-reactive, n.o.s. or Metal aryl hydrides, water-reactive, n.o.s.

UN3207 Organometallic compound or Compound solution or Compound dispersion, water-reactive, flammable, n.o.s.

UN3203 Pyrophoric organometallic compound, water-reactive, n.o.s., liquid Pyrophoric organometallic compound, water-reactive, n.o.s., solid

UN3372 Organometallic compound, solid, water-reactive, flammable, n.o.s.

• We added the following new entries. Many of these entries are the liquid or solid form of entries that are already listed in the HMT. This action is consistent with the addition of proper shipping names that were incorporated into the Thirteenth Revised Edition of the UN Recommendations. The new entries are as follows:

UN3377 Sodium perborate monohydrate

UN3378 Sodium carbonate peroxyhydrate

UN3379 Desensitized explosives, liquid, n.o.s.

UN3380 Desensitized explosives, solid, n.o.s.

UN3401 Alkali metal amalgam, solid

UN3402 Alkaline earth metal amalgam, solid

UN3403 Potassium metal alloys, solid

UN3404 Potassium sodium alloys, solid

UN3405 Barium chlorate solution

UN3406 Barium perchlorate solution

UN3407 Chlorate and magnesium chloride mixture solution

UN3408 Lead perchlorate solution

UN3409 Chloronitrobenzenes, liquid

UN3410 4-Chloro-o-toluidine hydrochloride solution

UN3411 beta-Naphthylamine solution

UN3413 Potassium cyanide solution

UN3414 Sodium cyanide solution

UN3415 Sodium fluoride solution

UN3416 Chloroacetophenone, liquid

UN3417 Xylyl bromide, solid

UN3418 2,4-Toluylenediamine solution

UN3419 Boron trifluoride acetic acid complex, solid

UN3420 Boron trifluoride propionic, acid complex, solid

UN3421 Potassium hydrogendifluoride solution

UN3422 Potassium fluoride solution

UN3423 Tetramethylammonium hydroxide, solid

UN3424 Ammonium dinitro-o-cresolate solution

UN3425 Bromoacetic acid, solid

UN3426 Acrylamide solution

UN3427 Chlorobenzyl chlorides, solid

UN3428 3-Chloro-4-Methylphenyl isocyanate, solid

UN3429 Chloro-toluidines, liquid

UN3430 Xylenols, liquids

UN3431 Nitrobenzotrifluorides, solid

UN3432 Polychlorinated biphenyls, solid

UN3433 Lithium alkyls, solid

UN3434 Nitrocresols, liquid

UN3435 Hydroquinone solution

UN3436 Hexafluoroacetone hydrate, solid

UN3437 Chlorocresols, solid

UN3438 alpha-Methylbenzyl alcohol, solid

UN3439 Nitriles, toxic, solid, n.o.s.

UN3440 Selenium compound, liquid, n.o.s.

UN3441 Chlorodinitrobenzenes, solid

UN3442 Dichloroanilines, solid

UN3443 Dinitrobenzenes, solid

UN3444 Nicotine hydrochloride, solid

UN3445 Nicotine sulphate, solid

UN3446 Nitrotoluenes, solid

UN3447 Nitroxylenes, solid

UN3448 Tear gas substance, solid, n.o.s.

UN3449 Bromobenzyl cyanides, solid

UN3450 Diphenylchloroarsine, solid

UN3451 Toluidines, solid

UN3452 Xylidines, solid

UN3453 Phosphoric acid, solid

UN3454 Dinitrotoluenes, solid

UN3455 Cresols, solid

UN3456 Nitrosyl-sulphuric acid, solid

UN3457 Chloronitrotoluenes, solid

UN3458 Nitroanisoles, solid

UN3459 Nitrobromobenzenes, solid

UN3460 N-Ethylbenzyltoluidines, solid

UN3461 Aluminium alkyl halides, solid

UN3462 Toxins, extracted from living sources, solid, n.o.s.

UN3464 Organophosphorus compound, toxic, solid, n.o.s.

UN3465 Organoarsenic compound, solid, n.o.s.

UN3466 Metal carbonyls, solid, n.o.s.

UN3467 Organometallic compound, toxic, solid, n.o.s.

UN3468 Hydrogen in a metal hydride storage system

A commenter stated that by adding the shipping names for desensitized explosives under identification numbers UN3379 and UN3380, approvals should be modified to authorize the use of classifications for the applicable hazardous materials. The commenter also noted that due to these additions, the definitions for flammable solids and flammable liquids require revision to account for the new shipping names. We do not anticipate a significant number of explosives being assigned to these shipping names. Therefore, we disagree with the commenter's contention that each holder of an EX number request an updated shipping classification. In addition, we do not agree with the commenter's request to revise the definitions of flammable solid and flammable liquid to include the additional proper shipping names. The definitions of flammable solid and flammable liquid adequately describe materials assigned to those shipping names. Additionally, shipping names are not found under hazard class definitions, but rather, in the HMT.

• We added the following new generic entries for materials that are toxic by inhalation. These new names will replace the existing generic entries in the HMT. This action is consistent with the addition of proper shipping names that were incorporated into the Thirteenth Revised Edition of the UN Recommendations. Affected entries are as follows:

UN3381 Toxic by inhalation liquid, n.o.s. with an inhalation toxicity lower than or equal to 200 ml/m³ and saturated vapor concentration greater than or equal to 500 LC50.

UN3382 Toxic by inhalation liquid, n.o.s. with an inhalation toxicity lower than or equal to 1000 ml/m³ and saturated vapor concentration greater than or equal to 10 LC50.

UN3383 Toxic by inhalation liquid, flammable, n.o.s. with an inhalation toxicity lower than or equal to 200 ml/m³ and saturated vapor concentration greater than or equal to 500 LC50.

UN3384 Toxic by inhalation liquid, flammable, n.o.s. with an inhalation toxicity lower than or equal to 1000 ml/m³ and saturated vapor concentration greater than or equal to 10 LC50.

UN3385 Toxic by inhalation liquid, water-reactive, n.o.s. with an inhalation toxicity lower than or equal to 200 ml/m³ and saturated vapor concentration greater than or equal to 500 LC50.

UN3386 Toxic by inhalation liquid, water-reactive, n.o.s. with an inhalation toxicity lower than or equal to 1000 ml/m³ and saturated vapor concentration greater than or equal to 10 LC50.

UN3387 Toxic by inhalation liquid, oxidizing, n.o.s. with an inhalation toxicity lower than or equal to 200 ml/m³ and saturated vapor concentration greater than or equal to 500 LC50.

UN3388 Toxic by inhalation liquid, oxidizing, n.o.s. with an inhalation toxicity lower than or equal to 1000 ml/m³ and saturated vapor concentration greater than or equal to 10 LC50.

UN3389 Toxic by inhalation liquid, corrosive, n.o.s. with an inhalation toxicity lower than or equal to 200 ml/m³ and saturated vapor concentration greater than or equal to 500 LC50.

UN3390 Toxic by inhalation liquid, corrosive, n.o.s. with an inhalation toxicity lower than or equal to 1000 ml/m³ and saturated vapor concentration greater than or equal to 10 LC50.

• We added the following new generic entries for organometallic substances. This action is consistent with the addition of proper shipping names that were incorporated into the Thirteenth Revised Edition of the UN Recommendations. The new entries are as follows:

UN3391 Organometallic substance, solid, pyrophoric

UN3392 Organometallic substance, liquid, pyrophoric

UN3393 Organometallic substance, solid, pyrophoric, water-reactive

UN3394 Organometallic substance, liquid, pyrophoric, water-reactive

UN3395 Organometallic substance, solid, water-reactive

UN3396 Organometallic substance, solid, water-reactive, flammable

UN3397 Organometallic substance, solid, water-reactive, self-heating

UN3398 Organometallic substance, liquid, water-reactive

UN3399 Organometallic substance, liquid, water-reactive, flammable

UN3400 Organometallic substance, solid, self-heating

In addition, we are continuing to allow the use of the following specific Organometallic entries: UN1366, UN1370, UN2005, UN2445, UN3051, UN3052, UN3053, and UN3076. However, we anticipate removing these entries from the HMT by January 1, 2007.

• The U.N. Recommendations have adopted a rationalized approach for the assignment of UN portable tank instructions for solid materials. Based on that rationalized approach, we made several changes to UN portable tank authorizations in the HMR. These changes are summarized as follows. For a more specific identification of the affected shipping descriptions, refer to the UN report located in the public Docket.

For Division 4.1, Packing Group I materials, the use of UN portable tanks is not authorized.

For Division 4.3 materials with a subsidiary class of 6.1, in Packing Group I, the use of portable tanks is not authorized.

For materials of Divisions 4.1, 4.2, 4.3, 5.1, 6.1, and Classes 8 and 9, in Packing Group II, Special Provisions T3 is specified.

For Division 4.2, Packing Group I materials, T21 and TP7 is specified.

For Division 4.3, Packing Group I materials, T9 and TP7 is specified.

For Division 5.1, Packing Group I materials, the use of UN portable tanks is not authorized.

For Division 6.1 and Class 8, Packing Group I materials, T6 is specified.

For materials of Divisions 4.1, 4.2, 4.3, 5.1, 6.1, and Classes 8 and 9, in Packing Group III, Special Provisions T1 is specified.

• Several entries in the HMT have been revised by amending column 9B to read “forbidden” so that the materials are no longer authorized for transport aboard cargo aircraft. The entries have been revised because they meet the criteria of either Zone C or Zone D inhalation toxicity. All other Zone C and Zone D toxic by inhalation materials listed in the HMR are currently already forbidden from transport aboard passenger and cargo aircraft (these materials are already forbidden from transport aboard passenger aircraft). The entries to be revised include:

Zone C

UN2204 Carbonyl sulfide

UN1023 Coal gas, compressed

UN1064 Methyl mercaptan

UN1048 Hydrogen bromide, anhydrous

UN1079 Sulfur dioxide

Zone D

UN1005 Ammonia, anhydrous

UN3318 Ammonia solution, relative density less than 0.880 at 15 degrees C in water, with more than 50 percent ammonia

UN1040 Ethylene oxide or Ethylene oxide with nitrogen up to a total pressure of 1MPa (10 bar) at 50 degrees C

UN1040 Ethylene oxide or Ethylene oxide with nitrogen up to a total pressure of 1MPa (10 bar) at 50 degrees C

UN2191 Sulfuryl fluoride

Also, see § 172.102 for additional HMT amendments.

Appendix B to § 172.101

In Appendix B to § 172.101, List of Marine Pollutants, we removed the entries “Diphenyl oxide and biphenyl phenyl ether mixtures,” “Isoamyl mercaptan,” “Pentanethiols,” and “Tetrachlorophenol.” We revised the entry “2, 6-Di-tert-Butylphenol” and we added the entry “Chloropicrin.”

Section 172.102

We amended § 172.102, Special Provisions, as follows:

• Several entries in the HMT are revised by adding special provisions A3, A6, A7, A9, A10, N3, and N36 to align this section with the equivalent special provisions in the ICAO Technical Instructions (13, 2, 5, 4, 7, 21, and 3 respectively). We removed the “A” special provisions for several entries because we have determined that the materials to which the provisions apply are currently not authorized for transportation on either passenger or cargo aircraft.

The following entries are revised by adding special provision A3:

UN1154 Diethylamine

UN1788 Hydrobromic acid, not more than 49% strength

UN1789 Hydrochloric acid

UN2031 Nitric acid, other than red fuming, with more than 70% nitric acid

UN2604 Boron trifluoride diethyl etherate

• The following entries are revised by adding A6:

UN1111 Amyl mercaptan

UN1228 Mercaptans, liquid, flammable, toxic, n.o.s.

UN1760 Corrosive liquid, n.o.s.

UN1903 Disinfectants, liquid, corrosive, n.o.s.

UN2031 Nitric acid, other than red fuming, with not more than 70% nitric acid

UN2054 Morpholine

UN2347 Butyl mercaptan

UN2363 Ethyl mercaptan

UN2402 Propanethiols

UN2801 Dye, liquid, corrosive, n.o.s.

UN2920 Corrosive liquid, flammable, n.o.s.

UN2922 Corrosive liquid, toxic, n.o.s.

UN3071 Mercaptans, liquid, toxic, flammable, n.o.s.

UN3093 Corrosive liquid, oxidizing, n.o.s.

UN3093 Corrosive liquid, oxidizing, n.o.s.

UN3094 Corrosive liquid, water-reactive, n.o.s.

UN3094 Corrosive liquid, water-reactive, n.o.s.

UN3098 Oxidizing liquid, corrosive, n.o.s.

UN3099 Oxidizing liquid, toxic, n.o.s.

UN3139 Oxidizing liquid, n.o.s.

UN3145 Alkylphenols, liquid, n.o.s. (including C2-C12 homologues)

UN3264 Corrosive liquid, acidic, inorganic, n.o.s.

UN3265 Corrosive liquid, acidic, organic, n.o.s.

UN3266 Corrosive liquid, basic, inorganic, n.o.s.

UN3267 Corrosive liquid, basic, organic, n.o.s.

UN3301 Corrosive liquid, self-heating, n.o.s.

• The following entries are revised by adding special provision A7:

UN1167 Divinyl ether, stabilized

UN1277 Propylamine

UN1389 Alkali metal amalgam, liquid

UN1389 Alkali metal amalgam, solid

UN1391 Alkali metal dispersion or Alkaline earth metal dispersion

UN1407 Cesium or Caesium

UN1420 Potassium metal alloys

UN1421 Alkali metal alloy, liquid, n.o.s.

UN1422 Potassium sodium alloys

UN1431 Sodium methylate

UN1796 Nitrating acid mixture with not more than 50% nitric acid

UN1796 Nitrating acid mixture with more than 50% nitric acid

UN1826 Nitrating acid mixture, spent with not more than 50% nitric acid

UN1826 Nitrating acid mixture, spent with more than 50% nitric acid

UN1828 Sulphur chlorides

UN1938 Bromoacetic acid

UN2257 Potassium

UN2749 Tetramethylsilane

UN3093 Corrosive liquid, oxidizing, n.o.s.

UN3093 Corrosive liquid, oxidizing, n.o.s.

UN3094 Corrosive liquid, water-reactive, n.o.s.

UN3094 Corrosive liquid, water-reactive, n.o.s.

UN3205 Alkaline earth metal alcoholates, n.o.s.

UN3205 Alkaline earth metal alcoholates, n.o.s.

UN3206 Alkali metal alcoholates, self-heating, corrosive, n.o.s.

UN3206 Alkali metal alcoholates, self-heating, corrosive, n.o.s.

UN3208 Metallic substance, water-reactive, n.o.s.

UN3208 Metallic substance, water-reactive, n.o.s.

UN3208 Metallic substance, water-reactive, n.o.s.

UN3209 Metallic substance, water-reactive, self-heating, n.o.s.

UN3209 Metallic substance, water-reactive, self-heating, n.o.s.

UN3209 Metallic substance, water-reactive, self-heating, n.o.s.

• The following entries are revised by adding special provision A9:

UN1449 Barium peroxide

UN1452 Calcium chlorate

UN3212 Hypochlorites, inorganic, n.o.s.

• The following entries are revised by adding special provision A10:

UN1828 Sulphur chlorides

UN2401 Piperidine

• The following entry is revised by adding special provision N3:

UN2817 Ammonium hydrogendifluoride solution

• The following entries are revised by adding special provision N36:

UN1184 Ethylene dichloride

UN1732 Antimony pentafluoride

UN1777 Fluorosulphonic acid

UN2699 Trifluoroacetic acid

• The following entries are revised by removing certain “A” special provisions since the materials themselves are forbidden for transportation aboard passenger and cargo aircraft:

UN1541 Acetone cyanohydrin, stabilized (remove A3)

UN1722 Allyl chloroformate (remove A3)

UN2692 Boron tribromide (remove A3, A7)

UN1744 Bromine or Bromine solutions (remove A3, A6)

UN2484 tert-Butyl isocyanate (remove A7)

UN2485 n-Butyl isocyanate (remove A7)

UN1752 Chloroacetyl chloride (remove A3, A6, A7)

UN1754 Chlorosulfonic acid (with or without sulfur trioxide) (remove A3, A6, A10)

UN2382 Dimethylhydrazine, symmetrical (remove A7)

UN1182 Ethyl chloroformate (remove A3, A6, A7)

UN2481 Ethyl isocyanate (remove A7)

UN2014 Hydrogen peroxide, aqueous solutions with more than 40 percent but not more than 60 percent hydrogen peroxide (stabilized as necessary) (remove A3, A6)

UN2015 Hydrogen peroxide, stabilized or Hydrogen peroxide aqueous solutions, stabilized with more than 60 percent hydrogen peroxide (remove A3, A6)

NA9206 Methyl phosphonic dichloride (remove A3)

UN2534 Methylchlorosilane (remove A2, A3, A7)

UN2304 Naphthalene, molten (remove A1)

UN1670 Perchloromethyl mercaptan (remove A3, A7)

UN1810 Phosphorus oxychloride (remove A7)

UN2740 n-Propyl chloroformate (remove A3, A6, A7)

UN1829 Sulfur trioxide, stabilized (remove A7)

UN1831 Sulfuric acid, fuming with 30 percent or more free sulfur trioxide (remove A3, A6, A7)

UN1834 Sulfuryl chloride (remove A3)

UN1836 Thionyl chloride (remove A7)

UN2474 Thiophosgene (remove A7)

UN1838 Titanium tetrachloride (remove A3, A6)

UN2441 Titanium trichloride, pyrophoric or Titanium trichloride mixtures, pyrophoric (remove A7, A8, A19, A20)

UN2442 Trichloroacetyl chloride (remove A3, A7)

UN1295 Trichlorosilane (remove A7)

UN2438 Trimethylacetyl chloride (remove A3, A6, A7)

• Paragraph (b)(3) of this section is amended to specify that a “B” code refers to a special provision that applies only to certain bulk packaging requirements and that, unless otherwise stated, does not apply to UN, IM Specification portable tanks or IBCs.

• Paragraph (b)(4) of this section is amended to specify that a code containing the letters “IB” or “IP” refers to a special provision that applies only to transportation in IBCs.

• Paragraph (b)(7) of this section is amended to specify that a code containing the letter “T” refers to a special provision which applies only to transportation in UN or IM Specification portable tanks.

• Paragraph (b)(8) is redesignated (b)(9) and a new paragraph (b)(8) is added to specify that a code containing the letters “TP” refers to a special provision that is in addition to those provided by the portable tank instructions or the requirements in part 178.

• Special Provision 47 is revised to include an additional exception currently in the UN Model Regulations specifying that a leakproofness test is not required when the liquids are fully absorbed in solid material contained in sealed bags.

• Special Provision 135 is revised to expand the applicability of the proper shipping names “Vehicle, flammable liquid powered” and “Vehicle, flammable gas powered” to include hybrid electric vehicles.

• Special Provision 137 is revised to expand the exception for “Cotton, dry”.

• Special Provision 143 is removed and relocated to § 173.219 so that the limitations on the types of hazardous materials authorized apply to both self-inflating and non-self-inflating life-saving appliances.

• Special Provision 153 is relocated to new paragraph (k) in § 173.115 and revised to include amended classification criteria for aerosols containing flammable constituents consistent with criteria in the UN Model Regulations. The revised criteria include methods for the classification of aerosols based on the percentage of flammable components. One commenter agreed with the removal of Special Provision 153 and the relocation of classification criteria for aerosols to § 173.115(k).

• New Special Provision 163 is added to specify that Ammonium Nitrate Emulsions are required to satisfactorily pass Test Series 8 of the UN Manual of Tests and Criteria, Part I, Section 18.

• New Special Provision 164 is added to specify that an approval is required for “Desensitized explosives, liquid, n.o.s.” and “Desensitized explosives, solid, n.o.s.”

• New Special Provision 165 is added to the calcium hypochlorite PG II and the PG III entries for UN1748 and UN2880 to specify the danger of exothermic decomposition and require shading from direct sunlight and sources of heat during transportation. One commenter agreed with our efforts to harmonize the HMR with UN Recommendations, but was concerned with the intent of Special Provision 165. This commenter agreed that calcium hypochlorite should be shaded from direct sunlight but questioned the ambient heat and ventilation provisions. The commenter stated that calcium hypochlorite is currently transported in closed cargo transport units, thus, satisfying the requirement to protect this hazardous material from direct sunlight. However, since the cargo transport units are not ventilated by fan or induced ventilation, and the cargo transport units would be subjected to ambient heat, a violation of Special Provision 165 appears imminent. We disagree. We feel Special Provision 165 provides latitude for compliance with the ventilation and ambient heat requirements. Proper ventilation and protection from ambient heat can be achieved during the loading process of the cargo transport units and throughout the transportation cycle by allowing adequate space for air movement around the calcium hypochlorite packages. We do agree; however, that cargo transport units themselves should not be required to be shaded from direct sunlight. Therefore, we have revised the regulatory text accordingly.

• New Special Provision 166 is added to the PG II entry for calcium hypochlorite, UN2880 and UN1748 to indicate that calcium hypochlorite in the non-friable tablet form may be transported as a PG III material.

• New Special Provision 167 is added to the new entry for “Hydrogen in a metal hydride storage system” to specify that such storage systems shall always be considered as containing hydrogen.

• New Special Provision 170 is added to Organometallic substances entries (UN3391, UN3392, UN3393, and UN3394). The special provision requires air to be eliminated from the vapor space by nitrogen or other means.

• New Special Provision 171 is added to the UN2880 PG III entry. Since UN2880 also covers mixtures of hydrated calcium hypochlorite in any concentration, some formulations in other than tablet form (e.g., in granular form) may meet the criteria for classification in Division 5.1, Packing Group III when subjected to the relevant test in the UN Manual of Tests and Criteria. The PG III entry for calcium hypochlorite is only authorized when the material is offered in the non-friable tablet form or for granular or powdered mixtures. This entry is not authorized for the pure form of “Calcium hypochlorite, hydrated”. We also recognize that some formulations, when tested, do not meet the criteria for classification in Division 5.1. In light of this, we added a new Special Provision 171 to the UN2880, PG III entry in the HMT to allow for the possibility to classify powdered or granular mixtures of hydrated calcium hypochlorite in Packing Group III when data indicate that the mixture meets the criteria for assignment to PG III. One commenter supports the revisions that align calcium hypochlorite entries in the HMT with UN Recommendations. However, this commenter requested the addition of Special Provision 171 to the entry, “Calcium hypochlorite, dry or Calcium hypochlorite mixtures dry, (UN1748)” for consistent alignment with the UN Recommendations. We agree. After further review of the UN Recommendations, we have determined that the UN Special Provision 316 is equivalent to the proposed Special Provision 171 in Docket HM-215G, and is applicable to both the “dry” and “hydrated” calcium hypochlorite entries. Therefore, we are assigning Special Provision 171 to the “Calcium hypochlorite, dry or Calcium hypochlorite mixtures dry, (UN1748)” entry.

• Special Provision A11 is currently assigned to UN 2983, Ethylene oxide and Propylene oxide mixtures and UN 1411, Lithium aluminum hydride, ethereal. In the ICAO Technical Instructions these substances are only authorized for transport in metal cylinders. A11 states “For combination packagings, when metal inner packagings are permitted, only specification cylinders constructed of metals which are compatible with the hazardous material may be used. In the NPRM, we proposed to harmonize with the applicable ICAO Technical Instruction particular packing requirement (PPR 8), however discussions with the ICAO Dangerous Goods Panel and further analysis of ICAO PPR 8 has revealed that the requirement may need to be amended. Our analysis showed that other packagings, including glass inner packagings, are authorized, and as such restricting packagings to only specification cylinders appears unnecessarily restrictive. As such we are not proposing to amend Special Provision A11 in this final rule.

• Consistent with ICAO, we are adding a proper shipping name to the HMT for “Receptacles, small containing gas, 2.2 with a subsidiary of 5.1.” A new “A” code (A14) is added to prohibit this material from being transported as a limited quantity or consumer commodity in accordance with § 173.306 aboard an aircraft. This new “A” code has also been added to the following additional shipping names: “Oxygen, compressed,” Carbon dioxide and oxygen mixtures,” “Nitrous oxide”, “Compressed gas oxidizing,” and “Liquefied gas, oxidizing.”

• For consistency, the authorization in Special Provision B69 to allow dry sodium or potassium cyanide in siftproof, water-resistant fiberboard IBCs is relocated to new Special Provision IP20.

• Paragraph (c)(4) of this section is amended by relocating “Table 2.—Organic Peroxide IBC Code (IB52)” to paragraph (e) of § 173.225 and renaming it the “Organic Peroxide IBC Table.” Table 3.—IP Codes is redesignated Table 2.—IP Codes. The wording of paragraph (c)(4) is revised to indicate that Table 3.—IP Codes had been redesignated Table 2.—IP Codes. All references to IB52 in the HMR are removed and replaced with “Organic Peroxide IBC Table” or “§ 173.225(e),” as applicable.

• Paragraph (c)(7) is amended by relocating the Portable Tank Code T50 Table to § 173.313 and renaming it “UN Portable Tank Table for Liquefied Compressed Gases.” The T50 Table and its description is removed from paragraph (c)(7)(iv) and replaced with a statement indicating that the new “UN Portable Tank Table for Liquefied Compressed Gases” is found in § 173.313. All references to T50 in the HMR are removed and replaced with “UN Portable Tank Table for Liquefied Compressed Gases in § 173.313.” In addition, paragraph (c)(7) is amended by relocating Portable Tank Code T23 to paragraph (g) of § 173.225 and renaming it the “Organic Peroxide Portable Tank Table.” Portable Tank Code T23 and its description found in paragraph (c)(7)(iii) are removed and paragraphs (c)(7)(iv)-(c)(7)(vii) are redesignated (c)(7)(iii)-(c)(7)(vi), respectively. All references to T23 in the HMR are removed and replaced with “Organic Peroxide Portable Tank Table” or “§ 173.225(g),” as applicable.

• New paragraph (c)(8) is added to provide an introduction to the “TP” codes (i.e., portable tank special provisions). The existing paragraph (c)(8) is redesignated paragraph (c)(9).

• New Special IBC Packing Provision IP13 is added to specify that transportation by vessel in IBCs is prohibited.

• New Special IBC Packing Provision IP14 is added to specify that air must be eliminated from the vapor space by nitrogen purging or other means.

• New Special IBC Packing Provision IP20 is added to specify that dry sodium cyanide and potassium cyanide are also permitted in siftproof, water-resistant, fiberboard IBCs when transported in closed freight containers or transport vehicles.

• Portable tank Special Provision TP3 is revised to include the maximum degree of filling (in %) for solids transported above their melting points.

• Special Provision TP6 is revised by removing the word “event” and replacing it with the word “incident.”

• Portable tank Special Provision TP9 is removed from column (7) of the HMT for all materials that reference a T code special provision. Special provision TP9 states that a material with TP9 in Column (7) may only be transported in a portable tank if approved by the Associate Administrator. A material that has been given a T code does not require approval and is not subject to Special Provision TP9.

• In the NPRM we proposed adoption of a new portable tank special provision, TP33, by adding the new provision to certain entries in the HMT. However, we neglected to include the text of the provision itself. We are correcting this omission in this final rule.

Section 172.202

We are editorially revising paragraph (a)(2)(iii) by removing the examples that illustrate the optional provision to enter primary and subsidiary hazard class or division names on shipping papers for domestic shipments. In the HM-215E response to appeals final rule (69 FR 34604) that was published on June 22, 2004, we reinstated the provision which was removed in a previous rulemaking (68 FR 44992). During the process of correcting a printing error in one of the examples, we determined that the regulatory text is complete and sufficient without the use of examples.

In the NPRM [69 FR 34741] we proposed to amend paragraph (a)(5)(i) to require the quantity shown on a shipping paper for an explosive article, such as Cartridges, small arms, to be the net mass of the entire article rather than the net mass of the explosive contained in the article. Commenters generally support the proposal, suggesting that it will provide for consistency across modes of transportation and for more accurate calculations. However, several of these commenters note that, for certain explosive articles that contain very small amounts of an explosive, showing the net mass of the article rather than of the explosive contained in the article could misrepresent the transportation risk associated with the article. Two commenters state that, because shippers have historically calculated the net mass based on the actual explosive material contained in the article rather than the entire article, the clarification proposed in the NPRM could cause increased confusion for shippers.

Internationally, as well, there is some concern that, at least for large explosive articles, the quantity indicated on the shipping paper should be the net mass of the explosive substances contained in the article rather than the net mass of the article itself. As suggested by some commenters to the NPRM, a number of the members of UN Transport of Dangerous Goods Sub-Committee agree using the net mass of the entire article rather than the net mass of the explosive material contained in the article may not appropriately communicate the explosive hazard to emergency responders. Until this issue is resolved through a change to the UN Model Recommendations, we are, in this final rule, amending paragraph (a)(5)(i) to clarify that for explosive articles the quantity shown on a shipping paper may be expressed in terms of the net mass of the article or the net mass of the explosive substances contained in the article. It should be noted, however, that for purposes of determining the per-package quantity limitations shown in Column 9 of the HMT, § 172.101(j)(3) specifies that when articles or devices are specifically listed by name, the net quantity limitation applies to the entire article or device rather than to its hazardous components. This would include explosive articles listed by name in the HMT. For example, in the case of a listed explosive article weighing 15 kg and containing 500 grams of explosive substance, the weight shown on the shipping paper may be 500 grams or 15 kg, but the weight used for purposes of compliance with Column (9) of the HMT must be 15 kg as required by § 172.101(j)(3).

Particularly for large articles, the quantity indicated on the shipping paper should be the net mass of the explosive substances contained in the article. For small explosive articles, such as Cartridges, small arms, we believe that the net mass of the article can be used to satisfy the total quantity requirement in § 172.202(a)(5)(i). As a practical matter, it is easier, and in certain instances necessary, for an offeror to provide the net mass of the article and the net explosive mass. For example, as previously stated, the net mass of an article must be used to ensure compliance with the per package quantity limitations set forth in Column 9 of the § 172.101 Hazardous Materials Table for transport aboard aircraft or passenger rail (see § 172.101(j)(3)). However, for operational purposes, such as for stowage and segregation of large quantities of explosives or determining the quantity of explosives that can be transported on a vessel [see § 176.142(b)], the net explosive mass of the explosive substances contained in articles is needed.

Section 172.203

Paragraph (f) is revised by including the passenger and cargo aircraft limitation certification statement that is found in § 172.204. This aligns the HMR with the ICAO TI (see 4.1.5.8.1(b) of the ICAO TI). A new paragraph (i)(3) is added to specify additional shipping paper description requirements for a hazardous material consigned under an “n.o.s.” entry when offered for transportation by vessel. In addition, paragraph (m)(2) is revised to specify that the phrase “Poison Inhalation Hazard” or “Toxic Inhalation Hazard” is not required to be repeated if it otherwise appears in the shipping description. Finally, in paragraph (o)(3), the reference to § 173.225(c)(2) is amended to read § 173.225(b)(2).

One commenter felt the requirement to add a segregation code on the shipping paper for “n.o.s.” entries is unnecessary and unduly burdensome. In addition, the commenter is concerned that there may not be sufficient space on the shipping paper to indicate this notation. If, however, this requirement is adopted, the commenter requested an example of the required entry on shipping papers. We disagree. We do not feel this additional requirement is unnecessary or overly burdensome. The additional shipping paper description requirements apply only to hazardous material consigned under an “n.o.s.” entry when offered for transportation by vessel. We believe that consignors should be familiar with the hazards and segregation risks of their shipments, specifically “n.o.s.” materials that are not assigned segregation groups. By indicating the need to segregate such materials on the shipping paper, the consignor increases the likelihood that appropriate stowage procedures are followed, ensuring the safety of the vessel and its cargo. We also do not agree that there is inadequate space available on shipping papers to include the segregation group. However, we do agree that an example of the required entry should be presented for clarity and uniformity. Therefore, as recommended by the commenter, we are adding the example “IMDG Code segregation group—1 Acids” to § 172.203.

Section 172.204 and Section 172.321—Air Eligibility Marking

Under HM-215E (68 FR 44992), the air eligibility marking was adopted into the HMR as new § 172.321. Since publication of that final rule, the ICAO's Dangerous Goods Panel removed the air eligibility marking requirement from the ICAO Technical Instructions. In lieu of this marking, ICAO adopted a requirement that the shipping paper certification statement include the statement “I declare that all of the applicable air transport requirements have been met” when a hazardous material is offered for air transportation. Additionally, the revised section provided examples of the applicable air transport requirements that must be met. Based on this action, we revised the air eligibility marking requirement by making it optional rather than mandatory and adding the additional shipping paper certification statement for shipments going by aircraft. Therefore, we revised § 172.204(c)(3) by requiring that the statement “I declare that all of the applicable air transport requirements have been met” be included on the shipping paper in addition to the current certification statement when a hazardous material is offered for air transportation. Additionally, the revised section provides examples of the applicable air transport requirements that must be met and various section references. In order to allow shippers to expend stocks of preprinted shipping papers containing the previous certification statement, we are providing an additional ten month transitional provision for the new certification statement. Two commenters support RSPA's decision requiring shippers to sign the certification declaring compliance with requirements for air transportation. Additionally, several commenters agree with the revision to make the air eligibility marking optional. However, some commenters suggest making the marking “permissible” instead of “optional” to avoid potential confusion. We disagree. We are removing the requirement for shippers to mark packages acceptable for air transport with the air eligibility marking. This revision does not prohibit the use of the marking.

Section 172.315

Section 172.315 is amended to ensure that packages containing limited quantities which are transported by air are marked with the proper shipping name. Although the amendment was not proposed in this rulemaking, it was previously proposed and adopted under HM-215E (68 FR 45000) but was omitted due to an editorial error during publication. The amendment provides harmonization with the ICAO Technical Instructions, which do not allow the UN number within a square-on-point border as a substitute for the proper shipping name. Note that this amendment does not preclude the ID number/square-on-point border from appearing on a package transported by air, it simply ensures that the proper shipping name is also required.

Section 172.317

A new § 172.317 is added to require a “KEEP AWAY FROM HEAT” handling mark on packages containing self-reactive substances of Division 4.1 or organic peroxides of Division 5.2 when such packages are transported by air.

Part 173

Section 173.3

The NPRM proposed to revise the requirements for use of salvage drums to include packages of hazardous materials that are found not to conform with the requirements of the HMR. In addition, the NPRM proposed to clarify that salvage drums may only be used for damaged, defective, non-conforming, or leaking packages identified as such after the packages have been placed in transportation. One commenter suggests that the phrase “after having been placed in transportation” as used in the NPRM is confusing and requests that we clarify the phrase using the terms “pre-transportation functions” and “transportation functions” as defined in a final rule published under Docket HM-223 October 30, 2003 (68 FR 61905). In response to this comment, in this final rule, we modified § 173.3(c) to clarify that salvage drums are to be used for damaged, defective, non-conforming, or leaking packages identified during transportation as “transportation” is defined in § 5102(12) of Federal hazardous materials transportation law—that is, the movement of property and loading, unloading, or storage incidental to the movement. When the HM-223 final rule becomes effective, the statutory definition for “transportation” will be added to § 171.8 of the HMR, as will definitions for “movement,” “loading incidental to movement,” “unloading incidental to movement,” and “storage incidental to movement.” Note that a package found to be leaking prior to its being placed in transportation may not be packaged in a salvage drum. Instead, it must be repackaged into an authorized packaging in accordance with applicable HMR requirements.

Section 173.24

For consistency with the UN Recommendations, paragraphs (g)(4) and (g)(5) are revised to clarify the following:

(A) That IBCs (subject to the requirements in § 173.24(g)) are permitted to be vented to reduce internal pressure; and

(B) That venting of IBCs is not conditional upon whether a bulk special provision is indicated for a particular hazardous material in the § 172.101 hazardous materials table.

In addition, paragraph (i) is revised to clarify that other general requirements specific to air transportation apply and are found in § 173.27.

Section 173.25

Paragraph (a)(2) is revised by removing the requirement to mark an overpack with the air eligibility marking. In addition, in paragraph (a)(4), we are amending the HMR to require overpacks to be marked with the word “OVERPACK” or, alternatively, until October 1, 2007, with a statement indicating that inside packages comply with prescribed specifications. This is in response to adoption by the United Nations of the “OVERPACK” marking to indicate that packages within an overpack comply with prescribed specifications when specification markings on inside packagings within the overpack are not visible.

Section 173.27

Paragraph (i) is revised to indicate that the air eligibility mark has been removed. This section references a new requirement for shippers to place the following statement at the end of the certification statement when a hazardous material is authorized for air transportation: “I declare that all applicable air transport requirements have been met.”

Section 173.28

In paragraph (c)(2), we deleted the words “or a UN 1H1 plastic drum” in order to harmonize the HMR with the UN Model Regulations and remove a source of confusion within the regulated community regarding the reconditioning of a non-bulk packaging.

Section 173.115

In § 173.115, a new paragraph (k) is added (see discussion under § 172.102, Special Provision 153). One commenter noted that the proposed new § 173.115(k) would not allow aerosols to contain corrosive substances of Packing Group II. The commenter further noted that UN Special Provision 63 allows aerosols to contain corrosive substances of Packing Group II and requested we harmonize with the UN Special Provision 63 in this regard. We agree with the commenter and further note that currently, the HMR authorizes a proper shipping name of “Aerosols, corrosive Packing Group II or III, each not exceeding 1 L capacity”. We are amending § 173.115(k) accordingly to clarify that aerosols may contain corrosive substances of Packing Group II.

Section 173.120 and Appendix H to Part 173

A commenter noted that under section § 173.120(a)(3), the reference to Appendix H for sustained combustibility tests directs the reader to Figures 5.1 and 5.2 found in the UN Recommendations. These figures are no longer in the UN Recommendations, but, rather, are located in section 32.5.2 of the Fourth Revised Edition of the UN Manual of Tests and Criteria. We agree with the commenter. Therefore, we are amending Appendix H to Part 173 to reference the UN Manual of Tests and Criteria.

Section 173.128

In paragraph (d)(1)(i), the section reference is revised to read § 173.225(c). In addition, in paragraphs (d)(1)(ii) and (d)(1)(iii), the section reference is revised to read § 173.225(b).

Section 173.132

In paragraph (b)(1), we revised the definition of LD⁵⁰ for acute oral toxicity to indicate that adult albino rats may be tested without regard to gender. The current definition for LD⁵⁰ for acute oral toxicity in § 173.132(b)(1) is based on the Organization for Economic Co-Operation and Development (OECD) Test Guideline (TG) 401. The OECD has agreed to three test methods that will replace the current TG 401. The United Kingdom, Germany and the United States of America took the lead in the development of the three alternative tests that OECD has now adopted and published in the OECD Guidelines for the Testing of Chemicals. In a continuing attempt to improve the estimate of acute oral toxicity while reducing the number of animals used per test, three alternative TGs have been developed and implemented to replace TG 401. The three TGs are the Fixed Dose Procedure (FDP, TG 420), the Acute Toxic Class Method (ATCM, TG 423), and the Up-and-Down Procedure (UDP, TG 425). The text is consistent with the text in the 13th revised edition of the UN Model Regulations.

Section 173.136

We added a new paragraph (d) to provide a grandfather clause that will allow for the continued shipment of materials classified as corrosive to steel or aluminum under ASTM G 31-72 without retesting.

Section 173.137

In paragraph (c)(2), we propose to eliminate the references to ASTM G 31-72 as an acceptable test description and add a statement indicating an acceptable test is prescribed in the Manual of Tests and Criteria, Part III, Section 37.

Sections 173.150, 173.151, 173.152, 173.153 and 173.154

We are allowing most Division 6.1, Packing Group II materials to be transported under the limited quantity provisions when the packagings contain not more than 100 mL (3.38 ounces) each for liquids or 0.5 kg (1.1 pounds) each for solids. However, consistent with the limited quantity authorization for Division 6.1, Packing Group III, we are not providing a labeling exception for these materials. We are also not allowing these materials to be shipped as consumer commodities. In addition, we revised the limited quantity sections for the other hazard classes of materials to take into account materials with a subsidiary hazard of 6.1 Packing Group II. One commenter agreed with the amendment allowing numerous Class 3, PG II materials with Class 8 and other subsidiary hazards to be transported as limited quantities.

Section 173.185

In § 173.185, we amended paragraphs (c)(3) and (e)(6), to require those lithium cell and battery design types that are required to be subjected to the UN performance tests to be of a type that is proven to meet the requirements of the performance tests specified in the UN Manual of Tests and Criteria, Fourth Revised Edition. These cells and batteries are currently required to be of a type that is proven to meet the tests in the third revised edition. We also proposed a grandfather provision that would authorize a lithium cell or battery that was transported prior to the effective date of this rule that is of a type proven to meet the UN performance tests in the third revised edition to not be required to be retested in accordance with the tests in the fourth revised edition. One commenter supported this approach and stated that it is both necessary and appropriate to allow continued transport of cells and batteries tested and qualified under the UN lithium battery design qualification tests in accordance with the UN Manual of Tests and Criteria, Third Revised Edition. The commenter further stated that providing a grandfather provision for previously tested cells and batteries would avoid the need and expense of requalifying these cells and batteries in accordance with the new tests prescribed in the Fourth Revised Edition of the UN Manual of Tests and Criteria. After further consideration, we believe that authorizing an indefinite period for the transport of batteries that were tested in accordance with the UN Manual of Tests and Criteria, Third Revised Edition, 1999 may not be in the best interest of safety. The tests in the UN Manual of Tests and Criteria, Fourth Revised Edition provide a slightly higher level of safety and we believe that further consideration needs to be taken in considering whether at some point in time all applicable lithium batteries and cell design types should be proven to meet the requirements of the UN Manual of Tests and Criteria, Fourth Revised Edition. As a result, we will issue a proposal shortly specifically to address the full unrestricted adoption of the Fourth Revised Edition of the UN Manual of Tests and Criteria.

Section 173.186

In § 173.186, in paragraph (e), we amended the gross weight for UN 4G outer packages authorized for the transportation of strike-anywhere matches, to be consistent with the UN Model Regulations by increasing the weight from 27 kg (60 pounds) to 30 kg (66 pounds).

Section 173.187

We revised § 173.187 to authorize certain solid hazardous materials to be transported in DOT specification cylinders other than Specification 8 and 3HT cylinders. This change eliminates the need for DOT Exemption “DOT-E 11548.”

Sections 173.211, 173.212, and 173.213

We revised these sections to authorize certain solid hazardous materials to be transported in DOT specification cylinders other than Specification 8 and 3HT cylinders. This change removed the need for DOT Exemption “DOT-E 11548.”

Section 173.219

We revised § 173.219 for consistency with the UN Model Regulations and the ICAO Technical Instructions. Included in the revision is an allowance for self-inflating life-saving appliances to contain cartridges, power devices of Division 1.4S, for purposes of the self-inflating mechanism. In addition, we provided an exception from regulation for life-saving appliances containing only carbon dioxide cylinders not exceeding 100 cm³ capacity, provided they are overpacked in rigid outer packagings with a maximum gross mass of 40 kg. Finally, the limitations currently found in Special Provision 143 are relocated to § 173.219 (see preamble discussion under Special Provision 143).

Section 173.220

Paragraph (b)(2) is amended to harmonize the requirements for transporting flammable gas powered vehicles by air with the requirements of Packing Instruction 900 of the ICAO Technical Instructions.

Section 173.224

Paragraph (b)(4) of this section is amended to include the new references for § 173.225. The section reference to § 173.225(e) for the authorization of bulk packagings is replaced with § 173.225(f) for IBCs and § 173.225(h) for other bulk packagings.

Section 173.225

This section is amended to update the Organic Peroxide Table and eliminate special provisions IB52 and T23 from § 172.102(c). The purpose of the change is to consolidate the packaging requirements for organic peroxides into one section and to have separate tables for organic peroxides authorized for transport in non-bulk packagings, IBCs, and bulk packagings other than IBCs. The changes are as follows:

Paragraph (a) is revised by adding paragraphs (b) and (b)(6), which state that bulk packagings may require a lower control temperature than those specified for non-bulk packagings and that an organic peroxide not identified in either the Organic Peroxide Table, Organic Peroxide IBC Table, or Organic Peroxide Portable Tank Table must be approved under § 173.128(c).

Paragraph (b) is revised to eliminate all IBC and other bulk packaging authorizations from column 6 of the Organic Peroxide Table. Various obsolete entries were also removed. The current paragraph (b), “Organic Peroxide Table,” is moved to paragraph (c) and the current paragraph (c), “New organic peroxides, formulations and samples,” is moved to paragraph (b).

The notes following the Organic Peroxide Table are changed as follows:

• Revise note 22 to indicate that ethylbenzene with greater than or equal to 25% of dilutant type A is acceptable.

• Revise note 23 to indicate that methyl isobutyl keytone with greater than or equal to 19% of dilutant type A is acceptable.

• Add a new note 29 to identify materials which are not included in the UN Model Regulations and note that a Competent Authority approval is required for international transportation.

• Remove Notes 9, 11, and 14 following the Organic Peroxide Table.

In addition, The Packing Method Table found in paragraph (d), is revised by replacing the 200 kg maximum quantity for solids and combination packagings listed in OP8 with a 400 kg maximum quantity. Note 2, following the table, is revised to allow 200 kg of solid material per box and up to 400 kg of material per authorized combination packaging. The note also indicates that the outer packaging must be a box (4C1, 4C2, 4D, 4F, 4G, 4H1, and 4H2) and each inner packaging must be of plastics or fiber with a maximum net mass of 25 kg. Paragraph (d)(3) is clarified by revising the text to state that the maximum content acceptable for glass receptacles used as inner packagings of a combination packaging is 0.5 kg for solids or 0.5 L for liquids.

A new paragraph (e) is added to include the new “Organic Peroxide IBC Table” that replaces the current “Table 2.—Organic Peroxide IBC Code (IB52)” in § 172.102(c)(4). The new table is revised to add an organic peroxide, “Dicyclohexylperoxydicarbonate, not more than 42% as a stable dispersion, in water.” In addition, the new Organic Peroxide IBC Table identifies, by technical name, those organic peroxides authorized for transportation in the IBCs that are specifically listed in the table.

A new paragraph (f) is added to include the current IBC requirements contained in paragraph (e)(5) of this section. Paragraph (f) also includes requirements that are specific to organic peroxides packaged in IBCs.

A new paragraph (g) is added to include the new “Organic Peroxide Portable Tank Table,” that replaces the current “Portable Tank Code T23” found in § 172.102(c)(7)(iii). The new table is identical to the current table except that for UN 3109, in the entry for Pinanyl hydroperoxyde, 50% is replaced by 56% and all references to self-reactive materials are removed. In addition, the Organic Peroxide Portable Tank Table provides certain portable tank requirements and identifies, by technical name, those organic peroxides authorized for transportation in the bulk packagings listed in the new paragraph (h).

The current paragraph (e) is redesignated as paragraph (h). Paragraph (h) establishes requirements that are specific to organic peroxides packaged in certain bulk packagings. Additionally, the new “Note to Paragraph (h)(3)(vi)” is revised to include changes brought forth by petition for rulemaking P-1428. The petition proposed to amend the current paragraph (e)(3)(vi) and allow for a second but equally acceptable example of an emergency-relief device sizing method to be added to the HMR. We agreed with the petitioner and added a statement to the new paragraph (h)(3)(vi) indicating that an additional example of an emergency-relief device sizing method can be found in the “American Institute of Chemical Engineers Process Safety Progress Journal, June 2002 issue (Vol. 21, No. 2)” as referenced in § 171.7(b).

The changes to this section altered the order of the paragraphs within this section; therefore, various citations were changed. Also, paragraphs referencing IB52 or TP23 are revised to indicate that those provisions no longer exist and the updated requirements are found in paragraph (e) and (g), respectively. A commenter requested that § 173.225 be revised to allow for increased industry flexibility, regulatory uniformity, and to better align with the UN Recommendations. We agree and have made the following revisions:

• Added wording to 173.225(a) to show that organic peroxides that are not identified in the organic peroxide table, but are in paragraph (b)(3) are not subject to the requirements of § 173.128.

• Removed Note 1 from both entries of tert-Butyl cumyl peroxide and Note 11 from Dicumyl peroxide.

• Removed the sentence “The additional requirements in paragraph (h)(5)(i) and (h)(5)(ii) of this section also apply” from § 173.225(f) and renumbered (f)(i) and (f)(ii) as (f)(1) and (f)(2), respectively.

• Revised the introductory text to Paragraph (h) to indicate that the bulk packagings that follow are for materials authorized for transport in a bulk packaging by Paragraph (h) and organic peroxides listed in the Organic Peroxide Portable Tank Table.

• Removed two occurrences of the term “Type F” from Paragraph (h)(3) to broaden the applicability of the provisions.

• Removed statement from § 173.225(h)(3)(xii) indicating that DOT Specification 57 portable tanks are not subject to the requirements of paragraphs (h)(3)(ii) and (h)(3)(iv) of this section.

Sections 173.226 and 173.227

We revised the packaging requirements of §§ 173.226 and 173.227 for materials poisonous by inhalation, Division 6.1, Packing Group I, Hazardous Zone A and Hazard Zone B. These amendments have: Reduced the hydrostatic test pressure of the inner drum in a drum-within-a-drum configuration authorized in § 173.226(b); standardized the minimum thickness requirements of the inner drums in the drum-within-a-drum configuration authorized in §§ 173.226(b) and 173.227(b); clarified the test requirements for inner packaging systems in § 173.226(b)(2)(iv); and in § 173.226(d) added a provision to authorize transportation of PIH materials in single packages when subjected to additional operational controls and approved by the Associate Administrator. Section 173.226(c)(2) is reformatted for ease of understanding. We removed an expired transitional date from paragraph (a) that allows the transport of welded cylinders filled before October 1, 2003 for the purpose of reprocessing or disposal of cylinders's content until December 31, 2003. One commenter recommended that we include a provision in § 173.227(b) to allow for the testing of the outer drum of a drum-in-drum package as either as a package intended to contain inner packagings (combination package) or as a single packaging intended to contain solids or liquids. We agree and have revised § 173.227(b) accordingly. Another commenter suggested that we increase the minimum thickness of a UN 1A1 drum in PIH service from .69 mm to 1.0 mm. Increasing the minimum thickness of a UN 1A1 drum in PIH service was not proposed in this rulemaking and inclusion of such a requirement is beyond the scope of this rulemaking. However, we are reviewing this request for consideration in a future rulemaking.

Section 173.249

Paragraph (c) is revised to be consistent with the current “Bromine” entry in the § 172.101 “Hazardous Material Table” that authorizes the use of a UN portable tank conforming to tank code T22. A commenter suggested that we include a provision authorizing the returning of a tank containing bromine residue. We agree that such a provision is necessary and have amended § 173.249 accordingly.

Sections 173.306 and 173.307

To add clarity to the HMR, the text currently found in § 173.306(i) is removed and replaced with the text currently found in § 173.307(a)(5). Since § 173.306 is devoted exclusively to limited quantities of compressed gases, relocating § 173.307(a)(5) to § 173.306 makes the exception easier to find.

Section 173.313

A new § 173.313 is added to serve as the new location for the Portable Tank Code T50 Table. The table is renamed “UN Portable Tank Table for Liquefied Compressed Gases.” The table provides the maximum allowable working pressures, bottom opening requirements, pressure relief requirements and degree of filling requirements for liquefied compressed gases permitted for transport in portable tanks. The change relocates these packaging requirements to Part 173, which is a more appropriate location, and makes the special provisions less cumbersome. In addition, the new UN Portable Tank Table for Liquefied Compressed Gases is amended by revising the Column 3 heading to read “Minimum design pressure (bar) * * *” The values in column 3 are actually minimum values, however the title of the column is misleading because it uses the term “Maximum allowable working pressure (bar) * * *”

Section 173.315

In paragraph (a), the reference to “portable tank provision T50 in § 172.102” is revised to read “the UN Portable Tank Table for Liquefied Compressed Gases in § 173.313.”

Section 173.323

After further considering the proposed changes to the packaging authorizations for ethylene oxide in § 173.323, we noted that the total quantity per package of ethylene oxide authorized for transport when glass inner receptacles are used was proposed to be increased from 100 grams to 2.5 kg. Due to the extremely flammable and explosive properties of ethylene oxide and the fragile properties of glass, after further consideration we have chosen not to adopt the 2.5 kg outer package limit found in the UN Recommendations and to retain our current outer package limit of 100 grams. The total quantity per package when metal inner receptacles are used will remain unchanged from the proposed 2.5 kg. In this rule, paragraphs (b)(1)-(b)(3) are revised and consolidated for consistency with current international requirements for the transportation of ethylene oxide in combination packagings. Paragraphs (b)(1)-(b)(3) provide the current authorizations for glass, aluminum, and metal receptacles respectively. Amendments to this section include (1) removing the HMR limitation of 12 inner receptacles per outer package currently applied to aluminum and other metal receptacles, (2) removing the overpack restriction in (b)(2) which specifies a maximum of 10 boxes per overpack, (3) requiring a hot water bath test for all inner receptacles, (4) removing the pressure relief device and burst pressure requirements currently applied to metal receptacles, (5) applying the same outer package authorizations consistently to all inner packaging types and allowing any outer package authorized in § 172.201(b), and (6) requiring all inner packagings to be suitably cushioned (the top and bottom pad and perimeter liner requirement currently only applied to outer packages containing aluminum inner packagings is removed). Though we are eliminating the option to utilize certain packaging authorizations for glass and aluminum inner packagings, we believe that this change will have little or no economic impact on the ethylene oxide industry because of the amount of materials that are transported in international commerce. 3M Package Engineering requested that we reduce the maximum quantity of ethylene oxide permitted in any metal inner packaging from 340 g (12 ounces) to 200 g (7 ounces). They stated that such a change would more adequately align the HMR with international standards. We agree that such a change would align the HMR with international requirements. However, allowing a metal inner packaging to contain a maximum quantity of 340 g (12 ounces) does not limit compliance with international requirements. In addition, we cannot adopt the 200 g (7 ounces) limitation in this rulemaking because such a change would be more restrictive then the requirements we proposed. We may consider adopting the 200 g (7 ounces) limitation in a future rulemaking.

Part 175

Section 175.10

Consistent with an amendment to the ICAO TI, we are requiring that aerosol cans that are carried aboard an aircraft in accordance with § 175.10(a)(4) have their release devices protected by a cap or other suitable means. In addition, the ICAO Dangerous Goods Panel will convene a series of working groups to develop recommendations for consideration during the 20th session of the Dangerous Goods Panel to further review this issue. These recommendations may lead to additional amendments to the ICAO TI. Finally, we note that non-flammable gases (e.g., nitrogen) other than carbon dioxide are used for the operation of mechanical limbs. Consistent with an amendment to the ICAO TI, we are proposing to provide an exception from the HMR for mechanical limbs that are powered by any Division 2.2 gas. One commenter recommended that the release device requirements added to § 175.10 also be incorporated into Part 173. Specifically, they requested that aerosol cans that are transported in commerce be protected by a cap or other suitable means to prevent inadvertent release. They indicated that this change should be coordinated with the Federal Aviation Administration (FAA). We disagree. Section 173.24(b)(1) states that each package used for the shipment of hazardous materials must be constructed, maintained, filled, its contents so limited, and closed, so that under conditions normally incident to transportation there will be no identifiable release of hazardous materials to the environment. We feel this section adequately addresses the commenter's concerns, and allows shippers the flexibility to properly protect aerosol cans.

Section 175.85

In § 175.85, a new paragraph (j) is added to specify the cargo location of a package bearing the “KEEP AWAY FROM HEAT” handling marking.

Part 176

Section 176.2

Certain definitions are revised. The definitions for “Explosive article” and “Explosive substance” are revised to remove an incorrect reference. The definition for “Magazine” is revised to include a compartment in the vessel. The definition for “Magazine” is also revised to specify vessel storage location and accessibility. The term “Transport unit” is revised to read “Cargo transport unit” to be consistent with Amendment 32 of the IMDG Code. In addition, in the definition “In containers or the like” the term “transport unit” is removed and the term “cargo transport unit” is added in its place.

Section 176.27

In this section, the words “transport unit” are replaced with the words “transport vehicle” in each place they appear to be consistent with the removal of the term “transport unit” from the definitions in § 176.2.

Section 176.63

Paragraph (e) is revised to align the definition of “Closed cargo transport unit” to be consistent with the definition in Amendment 32 of the IMDG Code.

Section 176.76

Paragraph (i) is revised to clarify that for container ships, a distance equivalent to one container space athwartships (i.e., in the direction of the breadth of the vessel) away from possible sources of ignition applied in any direction satisfies the requirement that a cargo transport unit packed or loaded with flammable gas or flammable liquid having a flashpoint below +23 °C transported on deck be stowed “away from” possible ignition sources. This is consistent with Amendment 32 of the IMDG Code. In addition, in paragraphs (h) and (i), the words “transport unit” are removed and replaced with the words “cargo transport unit” in each place they appear to be consistent with Amendment 32 of the IMDG.

Section 176.83

Paragraph (l) is revised to correct an error pertaining to the Segregation Table that sets forth the general requirements for segregation of containers on board hatchless container vessels. In addition, throughout the section the words “transport units” are removed and replaced with the words “cargo transport units” in each place they appear to be consistent with Amendment 32 of the IMDG. A new paragraph (m) is added to specify the provisions for segregation groups.

Section 176.84

Paragraph (a) is revised to specify the various chemical groups listed in the segregation table. In the paragraph (b) Table of Provisions, we added eleven new provisions (codes) for certain stowage and segregation requirements for hazardous materials that are transported by vessel. In addition, in paragraph (c)(2) Provisions for the stowage of Class 1 (explosive) materials, we revised three notes. The terms “separated from” and “away from” in the codes are defined in § 176.83 of the HMR.

Code 133 is added to the entries “Barium chlorate solution,” UN3405; “Barium perchlorate solution,” UN3406; and “Chlorate and magnesium chloride mixture solution,” UN3407, that requires the material to be stowed “separated from” sulfur.

Code 134 is added to the entry “Aluminum alkyl halides, solid,” UN3461, that requires the material to be stowed “separated from” UN2716.

Code 135 is added to the entries “Methylamine, aqueous solution,” UN1235 and “Trimethylamine, aqueous solutions,” UN1297, that requires the material to be stowed “separated from” mercury and mercury compounds.

Code 136 is added to the entry “Tributylphosphane,” UN3254, that requires the material to be stowed “separated from” carbon tetrachloride.

Code 137 is added to the entries “Arsenic compounds, liquid, n.o.s.,” UN1556 and “Arsenic compounds, solid, n.o.s.,” UN1557, that requires arsenic sulphides to be stowed “separated from” acids.

Code 138 is added to the entries for UN1448; UN1456; UN1479; UN1482; UN1490; UN1503; UN1515; UN3085; UN3087; UN3098; UN3099; UN3139; and UN3214, that requires the material to be stowed “separated from” peroxides.

Code 139 is added to the entry “1, 4-Butynediol,” UN2716, that requires the material to be stowed “separated from” mercury salts.

Code 140 is added to the entry “1, 4-Butynediol,” UN2716, that requires the material to be stowed “separated from” UN3052 and UN3461.

Code 141 is added to the entries for UN1732; UN1755; UN1806; UN1908; UN2433; UN2859; and UN2861, that requires the material to be stowed “away from” radioactive materials.

Code 142 is added to the entries for UN1748; UN2208; and UN2880, that requires packages in cargo transport units to be stowed so as to allow for adequate air circulation throughout the cargo.

Code 143 is added to the entry for Organometallic Substance, Liquid, Pyrophoric, UN3392, prohibiting transportation on any vessel carrying explosives (except explosives in Division 1.4, compatibility group S.

Note 19E is revised to specify that materials under entries NA0331; UN0004; UN0222; UN0241; and UN0402 must be stowed “away from” explosives containing chlorates or perchlorates.

Note 22E is revised to specify that materials under the entry “Explosive, blasting, type C,” must be stowed “away from” ammonium compounds and explosives containing ammonium compounds or salts.

Note 23E is revised to specify that materials under entries UN0247; UN0395; UN0396; UN0397; UN0398; UN0399; UN0400; UN0449; and UN0450 must be “separated from” Division 1.4 and “separated longitudinally by an intervening complete compartment or hold from” Division 1.1, 1.2, 1.3, 1.5, and 1.6 except from explosives of compatibility group J.

A commenter questioned how adequate air circulation was achieved in a cargo transport unit. In addition, the commenter stated that it fails to understand why air circulation is necessary in a closed cargo transport unit, as indicated by Stowage Provision 142. Stowage Provision 142 indicates that packages in cargo transport units must be stowed so as to allow for adequate air circulation throughout the cargo. We feel cargo transport units that are properly loaded will allow for the adequate circulation of air by natural means so as to safeguard against excessive heat buildup within the cargo.

Section 176.116

In paragraph (c), the words “transport units” are revised to read “cargo transport units.” In addition, a new paragraph (f) is added to specify the under deck stowage requirements of Class 1 (explosive) materials allocated stowage categories 09 and 10.

Sections 176.122 and 176.124

Sections 176.122 and 176.124 are removed and reserved.

Section 176.128

In § 176.128, the section heading and section are revised.

Section 176.132

Section 176.132 is removed and reserved.

Section 176.133

Section 176.133 is revised to clarify the construction and stowage location requirements for magazine stowage type C.

Section 176.136

Section 176.136 is revised to clarify the special stowage requirements of Class 1 (explosive) materials. In addition, minor editorial revisions are made.

Section 176.138

Paragraph (a) is removed and reserved to be consistent with Amendment 32 of the IMDG Code. This paragraph currently requires Class 1 (explosive) material that is stowed on deck to be carried as close to the vessel's centerline as practicable.(See also change to § 176.170.)

Section 176.142

Paragraph (a) is revised to remove “Pyrophoric organometallic compound, water-reactive, n.o.s.” from the list of liquid hazardous materials of extreme flammability that may not be transported in a vessel carrying Class 1 (explosive) materials. Additionally, we added to the above list the following new liquid entries:

• “Organometallic substance, liquid, pyrophoric, UN3392”

• “Organometallic substance, liquid, pyrophoric, water-reactive, UN3394”

These changes are consistent with Amendment 32 of the IMDG Code.

Section 176.144

In this section, the words “transport unit” are replaced with the words “cargo transport unit” in each place they appear to be consistent with the definition in Amendment 32 of the IMDG Code. Additional notes are added to Table 176.144(a)—“Authorized Mixed Stowage For Explosives” to address additional exceptions for mixed stowage of Class 1 materials.

Section 176.146

In § 176.146, in paragraph (d)(1), the wording “transport units” is revised to read “cargo transport units.”

Section 176.168

In § 176.168, in the title before the section heading, the wording “TRANSPORT UNITS AND SHIPBORNE BARGES” are revised to read “CARGO TRANSPORT UNITS AND SHIPBORNE BARGES.”

Section 176.170

A new paragraph (b) is added to prohibit freight containers loaded with Class 1 (explosive) materials, except for explosives in Division 1.4, from being stowed in the outermost row of containers. This change is consistent with Amendment 32 of the IMDG Code.

Section 176.174

Paragraphs (a) and (b) are revised to remove the references to portable magazines. This change is consistent with Amendment 32 of the IMDG Code.

Section 176.600

In § 176.600, in paragraph (a), the wording “closed transport units” is revised to read “closed cargo transport units.”

Part 178

Section 178.274

Paragraph (f)(v) is revised to more clearly specify the rated flow capacity marking required to be placed on every UN portable tank's pressure relief device.

Section 178.275

Paragraph (i)(2) is revised to more clearly specify the combined delivery capacity of UN portable tank's pressure relief systems.

Section 178.276

In paragraph (a)(4)(ii)(A), the reference to “portable tank special provision T50” is revised to read “the UN Portable Tank Table for Liquefied Compressed Gases in § 173.313.” In addition, paragraph (d), the reference to “portable tank special provision T50 in § 172.102(c)(7)” is revised to read “UN Portable Tank Table for Liquefied Compressed Gases in § 173.313.” Finally, in paragraph (e)(3), the reference to “portable tank special provision T50 in § 172.102” is revised to read “the UN Portable Tank Table for Liquefied Compressed Gases in § 173.313.”

Section 178.602

Paragraph (b) is revised to clarify the requirements applicable to filling packaging other than bags in preparation for testing.

Section 178.603

Paragraph (c) is revised to add a definition indicating that a minimum specific gravity for solutions of water and anti-freeze is 0.95 for testing at 18 °C (0 °F) or lower. Additionally, in paragraph (e), we specify the drop test height for liquids in single packagings and for inner packagings of combination packagings, when the test is performed in water.

Section 178.810

Paragraph (b)(3) is revised to specify that water/anti-freeze solutions with a minimum specific gravity of 0.95 for testing at −18 °C (0 °F) or lower are acceptable test liquids for use when conducting IBC drop tests. This is consistent with our amendment to § 178.603(c)(1) regarding the testing of non-bulk packages. In addition, we added a sentence to clarify that when conditioning is required by § 178.810(b), the conditioning specified in § 178.802 (which requires a higher temperature) does not apply.We received a comment from the Reusable Industrial Packaging Association (RIPA) concerning this revision. RIPA believes that RSPA intended to clarify that water/antifreeze solutions with a minimum specific gravity of 0.95 are equivalent for testing purposes to IBCs containing only water, thereby eliminating the need to adjust the drop height of test units. RIPA stated that § 178.810(b)(3) should be revised to indicate that this solution may be considered equivalent to water for testing purposes. We agree and have revised the section accordingly.

Part 180

Section 180.350

Paragraph (c) is revised to expand the definition of routine maintenance of IBCs to include flexible, plastic and textile IBCs.

Section 180.352

Paragraph (d)(1)(iv) is revised to require persons other than the owner of metal, rigid plastics, and composite IBCs to mark the IBC indicating routine maintenance has been performed when such maintenance is performed. A new paragraph (d)(1)(v) is added to this section. This paragraph states that retests and inspections performed under paragraphs (d)(1)(i) and (ii) of this section may be used to satisfy the tests and inspections required by paragraph (b) of this section. This addition incorporates changes made to the 12th revised edition of the Transport of Dangerous Goods Model Regulations into the HMR. Three commenters requested that we revise § 180.352 to distinguish requirements applicable to repair and routine maintenance of IBCs. We agree and have revised § 180.352 creating a new paragraph entitled, “Requirements applicable to routine maintenance of IBCs.”

V. Regulatory Analyses and Notices

A. Statutory/Legal Authority for This Rulemaking

This final rule is published under the following statutory authorities:

1. 49 U.S.C. 5103(b) authorizes the Secretary of Transportation to prescribe regulations for the safe transportation, including security, of hazardous material in intrastate, interstate, and foreign commerce. This final rule amends regulations to maintain alignment with international standards by incorporating various amendments, including changes to proper shipping names, hazard classes, packing groups, special provisions, packaging authorizations, air transport quantity limitations and vessel stowage requirements. To this end, as discussed in detail earlier in this preamble, the final rule amends the HMR to more fully align it with the biennial updates of the UN Recommendations, the IMDG Code and the ICAO Technical Instructions to facilitate the transport of hazardous materials in international commerce.

2. 49 U.S.C. 5120(b) authorizes the Secretary of Transportation to ensure that, to the extent practicable, regulations governing the transportation of hazardous materials in commerce are consistent with standards adopted by international authorities. This final rule amends the HMR to maintain alignment with international standards by incorporating various amendments to facilitate the transport of hazardous material in international commerce. To this end, as discussed in detail earlier in this preamble, the final rule incorporates changes into the HMR based on the Thirteenth Revised Edition of the UN Recommendation, Amendment 32 to the IMDG Code, and the 2005-2006 ICAO Technical Instructions, which become effective January 1, 2005. The continually increasing amount of hazardous materials transported in international commerce warrants the harmonization of domestic and international requirements to the greatest extent possible. Harmonization serves to facilitate international transportation; at the same time, harmonization ensures the safety of people, property, and the environment by reducing the potential for confusion and misunderstanding that could result if shippers and transporters were required to comply with two or more conflicting sets of regulatory requirements. While the intent of this rulemaking is to align the HMR with international standards, we review and consider each amendment on its own merit based on its overall impact on transportation safety and the economic implications associated with its adoption into the HMR. Our goal is to harmonize without sacrificing the current HMR level of safety and without imposing undue burdens on the regulated public. Thus, as discussed in detail earlier in this preamble, there are several instances where we elected not to adopt a specific provision of the UN Recommendations, the IMDG Code or the ICAO Technical Instructions; further, we are maintaining a number of current exceptions for domestic transportation that should minimize the compliance burden on the regulated community.

B. Executive Order 12866 and DOT Regulatory Policies and Procedures

This final rule is not considered a significant regulatory action under section 3(f) of Executive Order 12866 and, therefore, was not reviewed by the Office of Management and Budget. This final rule is not considered a significant rule under the Regulatory Policies and Procedures of the Department of Transportation [44 FR 11034]. Benefits resulting from the adoption of the amendments in this final rule include enhanced transportation safety resulting from the consistency of domestic and international hazard communications and continued access to foreign markets by domestic shippers of hazardous materials. This final rule applies to offerors and carriers of hazardous materials, such as chemical manufacturers, chemical users and suppliers, packaging manufacturers, distributors, battery manufacturers, radiopharmaceutical companies, and training companies.

The majority of amendments in this final rule should result in cost savings and ease the regulatory compliance burden for shippers engaged in domestic and international commerce, including trans-border shipments within North America. For example, cost savings will be realized by shippers and carriers as a result of the following:

—Eliminating the air eligibility marking requirement.

—Amendments allowing numerous Class 3, PG II materials with a Class 8 sub-risk and others to be transported as a limited quantity.

—Allowing cylinders to be used for many more substances than currently authorized.

—Allowing salvage packagings to be used for non-conforming packages; and generally minimizing differences between U.S. and international hazardous materials transportation regulations.

We are authorizing a delayed effective date and a one-year transition period to allow for training of employees and to ease any burden on entities affected by the amendments. The total net increase in costs to businesses in implementing this rulemaking is considered to be minimal and a regulatory evaluation is available for review in the Docket.

C. Executive Order 13132

This final rule has been analyzed in accordance with the principles and criteria contained in Executive Order 13132 (“Federalism”). This final rule preempts State, local and Indian tribe requirements but does not propose any regulation that has substantial direct effects on the States, the relationship between the national government and the States, or the distribution of power and responsibilities among the various levels of government. Therefore, the consultation and funding requirements of Executive Order 13132 do not apply.

The Federal hazardous material transportation law, 49 U.S.C. 5101-5127, contains an express preemption provision (49 U.S.C. 5125(b)) that preempts State, local, and Indian tribe requirements on certain covered subjects. Covered subjects are:

(1) The designation, description, and classification of hazardous materials;

(2) The packing, repacking, handling, labeling, marking, and placarding of hazardous materials;

(3) The preparation, execution, and use of shipping documents related to hazardous materials and requirements related to the number, contents, and placement of those documents;

(4) The written notification, recording, and reporting of the unintentional release in transportation of hazardous; and

(5) The design, manufacture, fabrication, marking, maintenance, recondition, repair, or testing of a packaging or container represented, marked, certified, or sold as qualified for use in transporting hazardous material.

This final rule addresses covered subject items (1), (2), (3), and (5) above and preempts State, local, and Indian tribe requirements not meeting the “substantively the same” standard. This final rule is necessary to incorporate changes adopted in international standards, effective January 1, 2005. If the changes in this final rule are not adopted in the HMR, U.S. companies, including numerous small entities competing in foreign markets, are at an economic disadvantage. These companies are forced to comply with a dual system of regulations. The changes in this rulemaking are intended to avoid this result. Federal hazardous materials transportation law provides at section 5125(b)(2) that, if DOT issues a regulation concerning any of the covered subjects, DOT must determine and publish in the Federal Register the effective date of Federal preemption. The effective date may not be earlier than the 90th day following the date of issuance of the final rule and not later than two years after the date of issuance. The effective date of Federal preemption is March 21, 2005.

D. Executive Order 13175

This final rule was analyzed in accordance with the principles and criteria contained in Executive Order 13175 (“Consultation and Coordination with Indian Tribal Governments”). Because this final rule does not have tribal implications, does not impose substantial direct compliance costs, and is required by statute, the funding and consultation requirements of Executive Order 13175 do not apply.

E. Regulatory Flexibility Act, Executive Order 13272, and DOT Procedures and Policies

The Regulatory Flexibility Act (5 U.S.C. 601 et seq.) requires an agency to review regulations to assess their impact on small entities, unless the agency determines that a rule is not expected to have a significant impact on a substantial number of small entities. This final rule facilitates the transportation of hazardous materials in international commerce by providing consistency with international standards. This final rule applies to offerors and carriers of hazardous materials, some of whom are small entities, such as chemical users and suppliers, packaging manufacturers, distributors, battery manufacturers, and training companies. As discussed above, under Executive Order 12866, the majority of amendments in this final rule should result in cost savings and ease the regulatory compliance burden for shippers engaged in domestic and international commerce, including trans-border shipments within North America.

Many companies will realize economic benefits as a result of these amendments. Additionally, the changes brought forth by this final rule will relive U.S. companies, including small entities competing in foreign markets, from the burden of complying with a dual system of regulations. Therefore, I certify that these amendments will not, if promulgated, have a significant economic impact on a substantial number of small entities.

This final rule has been developed in accordance with Executive Order 13272 (“Proper Consideration of Small Entities in Agency Rulemaking”) and DOT's procedures and policies to promote compliance with the Regulatory Flexibility Act to ensure that potential impacts of draft rules on small entities are properly considered.

F. Paperwork Reduction Act

Under the Paperwork Reduction Act of 1995, no person is required to respond to a collection of information unless it displays a valid Office of Management and Budget (OMB) control number. Section 1320.8(d), Title 5, Code of Federal Regulations requires that RSPA provide interested members of the public and affected agencies an opportunity to comment on information collection and recordkeeping requests. RSPA currently has two approved information collections affecting this final rule: OMB Control Number 2137-0557, “Approvals for Hazardous Materials” with 25,605 burden hours and $562,837.40 burden costs; and OMB Control Number 2137-0613, “Subsidiary Hazard Class & Number/Type of Packagings” with 63,309 burden hours and $216,705 burden costs.

There are minor editorial changes under this rule. However, there is no net increase in burden for OMB Control Number 2137-0557 or OMB Control Number 2137-0613. We estimate that the total information collection and recordkeeping burden as follows:

“Approvals for Hazardous Materials”

OMB Number 2137-0557:

Total Annual Number of Respondents: 3,523.

Total Annual Responses: 3,874.8.

Total Annual Burden Hours: 25,605.

Total Annual Burden Cost: $562,837.40.

“Subsidiary Hazard Class & Number/Type of Packagings”

OMB Number 2137-0613:

Total Annual Number of Respondents: 250,000.

Total Annual Responses: 6,337,500.

Total Annual Burden Hours: 17,604.

Total Annual Burden Cost: $216,705.

Total First Year Burden Hours: 45,705.

Total First Year Burden Cost: $1,115,992.

Requests for a copy of this information collection should be directed to Deborah Boothe or T. Glenn Foster, Office of Hazardous Materials Standards (DHM-10), Research and Special Programs Administration, Room 8422, 400 Seventh Street, SW., Washington, DC 20590-0001, telephone (202) 366-8553.

G. Regulatory Identifier Number (RIN)

A regulation identifier number (RIN) is assigned to each regulatory action listed in the Unified Agenda of Federal Regulations. The Regulatory Information Service Center publishes the Unified Agenda in April and October of each year. The RIN contained in the heading of this document can be used to cross-reference this action with the Unified Agenda.

H. Unfunded Mandates Reform Act

This final rule does not impose unfunded mandates under the Unfunded Mandates Reform Act of 1995. It does not result in costs of $120.7 million or more to either State, local or tribal governments, in the aggregate, or to the private sector, and is the least burdensome alternative that achieves the objective of the rule.

I. Environmental Assessment

The National Environmental Policy Act of 1969 (NEPA) requires Federal agencies to consider the consequences of major Federal actions and prepare a detailed statement on actions significantly affecting the quality of the human environment. We developed an assessment to determine the effects of these revisions on the environment and whether a more comprehensive environmental impact statement may be required. Our findings conclude that there are no significant environmental impacts associated with this final rule. Consistency in the regulations for the transportation of hazardous materials aids in the shipper's understanding of what is required and permits shippers to more easily comply with safety regulations and avoid the potential for environmental damage or contamination. For interested parties, an environmental assessment is available in the public docket.

J. Privacy Act

Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78) or you may visit http://dms.dot.gov.

List of Subjects

49 CFR Part 171

Exports, Hazardous materials transportation, Hazardous waste, Imports, Incorporation by reference, Reporting and recordkeeping requirements.

49 CFR Part 172

Education, Hazardous materials transportation, Hazardous waste, Incorporation by reference, Labeling, Markings, Packaging and containers, Reporting and recordkeeping requirements.

49 CFR Part 173

Hazardous materials transportation, Incorporation by reference, Packaging and containers, Radioactive materials, Reporting and recordkeeping requirements, Uranium.

49 CFR Part 175

Air carriers, Hazardous materials transportation, Incorporation by reference, Radioactive materials, Reporting and recordkeeping requirements.

49 CFR Part 176

Hazardous materials transportation, Incorporation by reference, Maritime carriers, Radioactive materials, Reporting and recordkeeping requirements.

49 CFR Part 178

Hazardous materials transportation, Incorporation by reference, Motor vehicle safety, Packaging and containers, Reporting and recordkeeping requirements.

49 CFR Part 180

Hazardous materials transportation, Motor carriers, Motor vehicle safety, Packaging and containers, Railroad safety, Reporting and recordkeeping requirements.

In consideration of the foregoing, 49 CFR Chapter I is amended as follows:

PART 171—GENERAL INFORMATION, REGULATIONS, AND DEFINITIONS

1. The authority citation for part 171 continues to read as follows:

Authority: 49 U.S.C. 5101-5127, 44701; 49 CFR 1.45 and 1.53; Pub. L. 101-410 section 4 (28 U.S.C. 2461 note); Pub. L. 104-134 section 31001.

2. In § 171.7, in the paragraph (a)(3) table, the following changes are made:

a. Under the entry “International Civil Aviation Organization (ICAO),” the existing entry is revised;

b. Under the entry “International Maritime Organization (IMO),” the entry “International Maritime Dangerous Goods (IMDG) Code, 2002 Consolidated Edition, as amended by Amendment 31 (English edition)” is removed and one entry is added in its place;

c. Under the entry “United Nations,” the entry “UN Recommendations on the Transport of Dangerous Goods, Twelfth Revised Edition (2001)” is revised;

d. Under the entry “United Nations,” the entry “UN Recommendations on the Transport of Dangerous Goods, Manual of Tests and Criteria, Third Revised Edition (1999)” is revised; and

e. In paragraph (b), a new entry “American Institute of Chemical Engineers (AIChE),” 3 Park Avenue New York, NY 10016-5991, Process Safety Progress Journal, Vol. 21, No. 2, “Example of a Test Method for Venting Sizing: OPPSD/SPI Methodology” is added in alphabetical order.

The revisions and additions read as follows:

§ 171.7 Reference material.

(a) * * *

(3) Table of material incorporated by reference. * * *

Source and name of material | 49 CFR reference
* * * * * * *
International Civil Aviation Organization (ICAO),
* * * * * * *
Technical Instructions for the Safe Transport of Dangerous Goods by Air (ICAO Technical Instructions), 2005-2006 Edition | 171.8; 171.11; 172.202; 172.401; 172.512; 172.602; 173.320; 175.33; 178.3.
International Maritime Organization (IMO),
* * * * * * *
International Maritime Dangerous Goods Code (IMDG Code), 2004 Edition, Incorporating Amendment 32-04 (English Edition), Volumes 1 and 2 | 171.12; 172.202; 172.401; 172.502; 172.602; 173.21; 176.2; 176.5; 176.11; 176.27; 176.30; 178.3.
* * * * * * *
United Nations,
* * * * * * *
UN Recommendations on the Transport of Dangerous Goods, Thirteenth Revised Edition (2003), Volumes I and II | 171.12; 172.202; 172.401; 172.502; 173.22; 173.24; 173.24b; 173.197; Part 173, appendix H; 178.274; 178.801.
UN Recommendations on the Transport of Dangerous Goods, Manual of Tests and Criteria, Fourth Revised Edition, (2003) | 172.102; 173.21; 173.56; 173.57; 173.58; 173.115; 173.124; 173.125; 173.127; 173.128; 173.185.
* * * * * * *

(b) List of informational materials not requiring incorporation by reference. * * *

Source and name of material | 49 CFR reference
* * * * * * *
American Institute of Chemical Engineers (AIChE),
3 Park Avenue New York, NY 10016-5991
Process Safety Progress Journal, Vol. 21, No. 2
Example of a Test Method for Venting Sizing: OPPSD/SPI Methodology | Note to § 173. 225(h)(3)(vi).
* * * * * * *

3. In § 171.8, the definition for “Salvage packaging” is revised to read as follows:

§ 171.8 Definitions and abbreviations.

* * * * *

Salvage packaging means a special packaging conforming to § 173.3 of this subchapter into which damaged, defective, leaking, or non-conforming hazardous materials packages, or hazardous materials that have spilled or leaked, are placed for purposes of transport for recovery or disposal.

* * * * *

4. In § 171.11, paragraphs (d)(15) and (d)(17) are revised to read as follows:

§ 171.11 Use of ICAO Technical Instructions.

* * * * *

(d) * * *

(15) A chemical oxygen generator, including when fitted in protective breathing equipment or other apparatus, is forbidden for transportation aboard a passenger-carrying aircraft and must be approved, classed, described and packaged in accordance with the requirements of this subchapter for transportation on cargo-only aircraft. A chemical oxygen generator that has been used or spent is also forbidden for transportation on a passenger aircraft and cargo aircraft only.

* * * * *

(17) A self-reactive substance that is not identified by technical name in the Self-reactive Materials Table in § 173.224(b) of this subchapter must be approved by the Associate Administrator in accordance with the requirements of § 173.124(a)(2)(iii) of this subchapter. An organic peroxide that is not identified by a technical name in any of the organic peroxide tables found in § 173.225 of this subchapter must be approved by the Associate Administrator in accordance with the requirements of § 173.128(d) of this subchapter.

5. In § 171.12, paragraph (b)(20) is revised to read as follows:

§ 171.12 Import and export shipments.

* * * * *

(b) * * *

(20) A self-reactive substance that is not identified by technical name in the Self-Reactive Materials Table in § 173.224(b) of this subchapter must be approved by the Associate Administrator in accordance with the requirements of § 173.124(a)(2)(iii) of this subchapter. An organic peroxide that is not identified by a technical name in any of the organic peroxide tables found in § 173.225 of this subchapter must be approved by the Associate Administrator in accordance with the requirements of § 173.128(d) of this subchapter.

* * * * *

6. In § 171.12a, paragraphs (a), (b)(9), and (b)(18) are revised to read as follows:

§ 171.12a Canadian shipments and packagings.

(a) Scope and applicability. This section sets forth provisions for the transportation by rail or highway of shipments of hazardous materials which conform to the regulations of the Government of Canada but which may differ from the requirements of this subchapter with regard to hazard communication, classification or packaging. Except as provided in paragraph (b)(5)(iv) of this section, the provisions apply only to shipments which originate in Canada and either terminate in the U.S. or transit the U.S. to a Canadian or foreign destination, and to the return to Canada of bulk packagings that meet the requirements of a DOT or UN Specification and other bulk packagings containing only residues of hazardous materials that were originally imported into the U.S. Reciprocal provisions, applicable to exports from the U.S., appear in the regulations of the Government of Canada.

(b) * * *

(9) For hazardous waste as defined in this subchapter—

(i) The word “Waste” must precede the proper shipping name on shipping papers and packages; and

(ii) The requirements of § 172.204 of this subchapter with respect to the shipper's certification and § 172.205 of this subchapter with respect to hazardous waste manifests are applicable;

* * * * *

(18) A self-reactive substance that is not identified by technical name in the Self-reactive Materials Table in § 173.224(b) of this subchapter must be approved by the Associate Administrator in accordance with the requirements of § 173.124(a)(2)(iii) of this subchapter. An organic peroxide that is not identified by a technical name in any of the organic peroxide tables found in § 173.225 of this subchapter must be approved by the Associate Administrator in accordance with the requirements of § 173.128(d) of this subchapter.

* * * * *

7. In § 171.14, paragraphs (d) introductory text, (d)(1), and (d)(2) are revised to read as follows:

§ 171.14 Transitional provisions for implementing certain requirements.

* * * * *

(d) A final rule published in the Federal Register on December 20, 2004, effective January 1, 2005, resulted in revisions to this subchapter. During the transition period, until January 1, 2006, as provided in paragraph (d)(1) of this section, a person may elect to comply with either the applicable requirements of this subchapter in effect on December 31, 2004, or the requirements published in the December 20, 2004, final rule.

(1) Transition dates. The effective date of the final rule published on December 20, 2004, is January 1, 2005. A delayed compliance date of January 1, 2006 is authorized. On and after January 1, 2006, all applicable regulatory requirements adopted in the final rule in effect on January 1, 2005 must be met.

(2) Intermixing old and new requirements. Marking, labeling, placarding, and shipping paper descriptions must conform to either the old requirements of this subchapter in effect on December 31, 2004, or the new requirements of this subchapter in the final rule without intermixing communication elements, except that intermixing is permitted, during the applicable transition period, for packaging, hazard communication, and handling provisions, as follows:

* * * * *

PART 172—HAZARDOUS MATERIALS TABLE, SPECIAL PROVISIONS, HAZARDOUS MATERIALS COMMUNICATIONS, EMERGENCY RESPONSE INFORMATION, AND TRAINING REQUIREMENTS

8. The authority citation for part 172 continues to read as follows:

Authority: 49 U.S.C. 5101-5127; 49 CFR 1.53.

9. In § 172.101, the following amendments are made:

a. Paragraph (c)(11) is revised;

b. Paragraph (d)(4) is revised;

c. Paragraph (i)(3) is revised;

d. Hazardous Materials Table is revised as set forth below:

§ 172.101 Purpose and use of hazardous materials table.

* * * * *

(c) * * *

(11) Except for a material subject to or prohibited by § 173.21, 173.54, 173.56(d), 173.56(e), 173.224(c) or 173.225(b) of this subchapter, a material that is considered to be a hazardous waste or a sample of a material for which the hazard class is uncertain and must be determined by testing may be assigned a tentative proper shipping name, hazard class, identification number and packing group, if applicable, based on the shipper's tentative determination according to:

(i) Defining criteria in this subchapter;

(ii) The hazard precedence prescribed in § 173.2a of this subchapter;

(iii) The shipper's knowledge of the material;

(iv) In addition to paragraphs (c)(11)(i) through (iii) of this section, for a sample of a material other than a waste, the following must be met:

(A) Except when the word “Sample” already appears in the proper shipping name, the word “Sample” must appear as part of the proper shipping name or in association with the basic description on the shipping paper.

(B) When the proper shipping description for a sample is assigned a “G” in Column (1) of the § 172.101 Table, and the primary constituent(s) for which the tentative classification is based are not known, the provisions requiring a technical name for the constituent(s) do not apply; and

(C) A sample must be transported in a combination packaging that conforms to the requirements of this subchapter that are applicable to the tentative packing group assigned, and may not exceed a net mass of 2.5 kg (5.5 pounds) per package.

Note to Paragraph (c)(11): For the transportation of self-reactive, organic peroxide and explosive samples, see §§ 173.224(c)(3), 173.225(b)(2) and 173.56(d) of this subchapter, respectively.

* * * * *

(d) * * *

(4) When an entry in this column reads “Comb liq”, the material is assigned to the hazard class “Combustible liquid.” Additionally, each reference to a Class 3 material is modified to read “Combustible liquid” when that material is reclassified in accordance with § 173.150 (e) or (f) of this subchapter or has a flash point above 60.5 °C (141 °F) but below 93 °C (200 °F).

* * * * *

(i) * * *

(3) Bulk packaging. Column 8C specifies the section in part 173 of this subchapter that prescribes packaging requirements for bulk packagings, subject to the limitations, requirements and additional authorizations of Column 7. A “None” in this column means bulk packagings are not authorized, except as may be provided by special provisions in Column 7. Additional authorizations and limitations for use of UN portable tanks are set forth in Column 7. For each reference in this column to a material that is a hazardous waste or a hazardous substance, and whose proper shipping name is preceded in Column 1 of the Table by the letter “A” or “W” and that is offered for transportation or transported by a mode in which its transportation is not otherwise subject to the requirements of this subchapter:

* * * * *

BILLING CODE 4910-60-P

§ 172.101 Hazardous Materials Table
Symbols | Hazardous materials descriptions and proper shipping names | Hazard class or Division | Identification Numbers | PG | Label Codes | Special provisions (§172.102) | (8) Packaging (§173.***): Exceptions | (8) Packaging (§173.***): Non-bulk | (8) Packaging (§173.***): Bulk | (9) Quantity limitations: Passenger aircraft/rail | (9) Quantity limitations: Cargo air- craft only | (10) Vessel stowage: Location | (10) Vessel stowage: Other
(1) | (2) | (3) | (4) | (5) | (6) | (7) | (8A) | (8B) | (8C) | (9A) | (9B) | (10A) | (10B)
| Accellerene, see p-Nitrosodimethylaniline |  |  |  |  |  |  |  |  |  |  |  |
| Accumulators, electric, see Batteries, wet etc |  |  |  |  |  |  |  |  |  |  |  |
| Accumulators, pressurized, pneumatic or hydraulic (containing non-flamable gas), see Articles pressurized, pneumatic or hydraulic (containing non-flamable gas) |  |  |  |  |  |  |  |  |  |  |  |
| Acetal | 3 | UN1088 | II | 3 | IB2, T4, TP1 | 150 | 202 | 242 | 5 L | 60 L | E |
| Acetaldehyde | 3 | UN1089 | I | 3 | A3, B16, T11, TP2, TP7 | None | 201 | 243 | Forbidden | 30 L | E |
A | Acetaldehyde ammonia | 9 | UN1841 | III | 9 | IB8, IP3, IP7, T1, TP33 | 155 | 204 | 240 | 200 kg | 200 kg | A | 34
| Acetaldehyde oxime | 3 | UN2332 | III | 3 | B1, IB3, T4, TP1 | 150 | 203 | 242 | 60 L | 220 L | A |
| Acetic acid, glacial or Acetic acid solution, with more than 80 percent acid, by mass | 8 | UN2789 | II | 8, 3 | A3, A6, A7, A10, B2, IB2, T7, TP2 | 154 | 202 | 243 | 1 L | 30 L | A |
| Acetic acid solution, not less than 50 percent but not more than 80 percent acid, by mass | 8 | UN2790 | II | 8 | A3, A6, A7, A10, B2, IB2, T7, TP2 | 154 | 202 | 242 | 1 L | 30 L | A |
| Acetic acid solution, with more than 10 percent and less than 50 percent acid, by mass | 8 | UN2790 | III | 8 | IB3, T4, TP1 | 154 | 203 | 242 | 5 L | 60 L | A |
| Acetic anhydride | 8 | UN1715 | II | 8, 3 | A3, A6, A7, A10, B2, IB2, T7, TP2 | 154 | 202 | 243 | 1 L | 30 L | A | 40
| Acetone | 3 | UN1090 | II | 3 | IB2, T4, TP1 | 150 | 202 | 242 | 5 L | 60 L | B |
| Acetone cyanohydrin, stabilized | 6.1 | UN1541 | I | 6.1 | 2, B9, B14, B32, B76, B77, N34, T20, TP2, TP13, TP38, TP45 | None | 227 | 244 | Forbidden | Forbidden | D | 25, 40, 52, 53
| Acetone oils | 3 | UN1091 | II | 3 | IB2, T4, TP1, TP8 | 150 | 202 | 242 | 5 L | 60 L | B |
| Acetonitrile | 3 | UN1648 | II | 3 | IB2, T7, TP2 | 150 | 202 | 242 | 5 L | 60 L | B | 40
| Acetyl acetone peroxide with more than 9 percent by mass active oxygen | Forbidden |  |  |  |  |  |  |  |  |  |  |
| Acetyl benzoyl peroxide, solid, or with more than 40 percent in solution | Forbidden |  |  |  |  |  |  |  |  |  |  |
| Acetyl bromide | 8 | UN1716 | II | 8 | B2, IB2, T8, TP2, TP12 | 154 | 202 | 242 | 1 L | 30 L | C | 40
| Acetyl chloride | 3 | UN1717 | II | 3, 8 | A3, A6, A7, IB1, N34, T8, TP2, TP12 | 150 | 202 | 243 | 1 L | 5 L | B | 40
| Acetyl cyclohexanesulfonyl peroxide, with more than 82 percent wetted with less than 12 percent water | Forbidden |  |  |  |  |  |  |  |  |  |  |
| Acetyl iodide | 8 | UN1898 | II | 8 | B2, IB2, T7, TP2, TP13 | 154 | 202 | 242 | 1 L | 30 L | C | 40
| Acetyl methyl carbinol | 3 | UN2621 | III | 3 | B1, IB3, T2, TP1 | 150 | 203 | 242 | 60 L | 220 L | A |
| Acetyl peroxide, solid, or with more than 25 percent in solution | Forbidden |  |  |  |  |  |  |  |  |  |  |
| Acetylene, dissolved | 2.1 | UN1001 |  | 2.1 |  | None | 303 | None | Forbidden | 15 kg | D | 25, 40, 57
| Acetylene (liquefied) | Forbidden |  |  |  |  |  |  |  |  |  |  |
| Acetylene silver nitrate | Forbidden |  |  |  |  |  |  |  |  |  |  |
| Acetylene tetrabromide, see Tetrabromoethane |  |  |  |  |  |  |  |  |  |  |  |
| Acid butyl phosphate, see Butyl acid phosphate |  |  |  |  |  |  |  |  |  |  |  |
| Acid, sludge, see Sludge acid |  |  |  |  |  |  |  |  |  |  |  |
| Acridine | 6.1 | UN2713 | III | 6.1 | IB8, IP3, T1, TP33 | 153 | 213 | 240 | 100 kg | 200 kg | A |
| Acrolein dimer, stabilized | 3 | UN2607 | III | 3 | B1, IB3, T2, TP1 | 150 | 203 | 242 | 60 L | 220 L | A | 40
| Acrolein, stabilized | 6.1 | UN1092 | I | 6.1, 3 | 1, B9, B14, B30, B42, B72, B77, T22, TP2, TP7, TP13, TP38, TP44 | None | 226 | 244 | Forbidden | Forbidden | D | 40
| Acrylamide, solid | 6.1 | UN2074 | III | 6.1 | IB8, IP3, T1, TP33 | 153 | 213 | 240 | 100 kg | 200 kg | A | 12
| Acrylamide solution | 6.1 | UN3426 | III | 6.1 | IB3, T4, TP1 | 153 | 203 | 241 | 60 L | 220 L | A | 12
| Acrylic acid, stabilized | 8 | UN2218 | II | 8, 3 | B2, IB2, T7, TP2 | 154 | 202 | 243 | 1 L | 30 L | C | 25, 40
| Acrylonitrile, stabilized | 3 | UN1093 | I | 3, 6.1 | B9, T14, TP2, TP13 | None | 201 | 243 | Forbidden | 30 L | E | 40
| Actuating cartridge, explosive, see Cartridges, power device |  |  |  |  |  |  |  |  |  |  |  |
| Adhesives, containing a flammable liquid | 3 | UN1133 | I | 3 | B42, T11, TP1, TP8, TP27 | 150 | 201 | 143 | 1 L | 30 L | B |
|  |  |  | II | 3 | 149, B52, IB2, T4, TP1, TP8 | 150 | 173 | 242 | 5 L | 60 L | B |
|  |  |  | III | 3 | B1, B52, IB3, T2, TP1 | 150 | 173 | 242 | 60 L | 220 L | A |
| Adiponitrile | 6.1 | UN2205 | III | 6.1 | IB3, T3, TP1 | 153 | 203 | 241 | 60 L | 220 L | A |
| Aerosols, corrosive, Packing Group II or III, (each not exceeding 1 L capacity) | 2.2 | UN1950 |  | 2.2, 8 | 153, A34 | 306 | None | None | 75 kg | 150 kg | A | 48, 87, 126
| Aerosols, flammable, (each not exceeding 1 L capacity) | 2.1 | UN1950 |  | 2.1 | 153, N82 | 306 | None | None | 75 kg | 150 kg | A | 48, 87, 126
| Aerosols, flammable, n.o.s. (engine starting fluid) (each not exceeding 1 L capacity) | 2.1 | UN1950 |  | 2.1 | 153, N82 | 306 | 304 | None | Forbidden | 150 kg | A | 48, 87, 126
| Aerosols, non-flammable, (each not exceeding 1 L capacity) | 2.2 | UN1950 |  | 2.2 | 153 | 306 | None | None | 75 kg | 150 kg | A | 48, 87, 126
| Aerosols, poison, each not exceeding 1 L capacity | 2.2 | UN1950 |  | 2.2, 6.1 | 153 | 306 | None | None | Forbidden | Forbidden | A | 48, 87, 126
I | Air bag inflators, or Air bag modules, or Seat-belt pretensioners. | 1.4G | UN0503 | II | 1.4G | 161 | None | 62 | None | Forbidden | 75 kg | 02 |
| Air bag inflators, or Air bag modules, or Seat-belt pretensioners. | 9 | UN3268 | III | 9 | 160 | 166 | 166 | 166 | 25 kg | 100 kg | A |
| Air, compressed | 2.2 | UN1002 |  | 2.2 | 78 | 306 | 302 | 302 | 75 kg | 150 kg | A |
| Air, refrigerated liquid, (cryogenic liquid) | 2.2 | UN1003 |  | 2.2, 5.1 | T75, TP5, TP22 | 320 | 316 | 318, 319 | Forbidden | 150 kg | D | 51
| Air, refrigerated liquid, (cryogenic liquid) non-pressurized | 2.2 | UN1003 |  | 2.2, 5.1 | T75, TP5, TP22 | 320 | 316 | 318, 319 | Forbidden | Forbidden | D | 51
| Aircraft engines (including turbines), see Engines, internal combustion |  |  |  |  |  |  |  |  |  |  |  |
| Aircraft evacuation slides, see Life saving appliances etc |  |  |  |  |  |  |  |  |  |  |  |
| Aircraft hydraulic power unit fuel tank (containing a mixture of anhydrous hydrazine and monomethyl hydrazine) (M86 fuel) | 3 | UN3165 | I | 3, 6.1, 8 |  | None | 172 | None | Forbidden | 42 L | E |
| Aircraft survival kits, see Life saving appliances etc |  |  |  |  |  |  |  |  |  |  |  |
G | Alcoholates solution, n.o.s., in alcohol | 3 | UN3274 | II | 3, 8 | IB2 | 150 | 202 | 243 | 1 L | 5 L | B |
| Alcoholic beverages | 3 | UN3065 | II | 3 | 24, 149, B1, IB2, T4, TP1 | 150 | 202 | 242 | 5 L | 60 L | A |
|  |  |  | III | 3 | 24, B1, IB3, N11, T2, TP1 | 150 | 203 | 242 | 60 L | 220 L | A |
| Alcohols, n.o.s. | 3 | UN1987 | I | 3 | T11, TP1, TP8, TP27 | None | 201 | 243 | 1 L | 30 L | E |
|  |  |  | II | 3 | IB2, T7, TP1, TP8, TP28 | 150 | 202 | 242 | 5 L | 60 L | B |
|  |  |  | III | 3 | B1, IB3, T4, TP1, TP29 | 150 | 203 | 242 | 60 L | 220 L | A |
G | Alcohols, flammable, toxic, n.o.s. | 3 | UN1986 | I | 3, 6.1 | T14, TP2, TP13, TP27 | None | 201 | 243 | Forbidden | 30 L | E | 40
|  |  |  | II | 3, 6.1 | IB2, T11, TP2, TP27 | 150 | 202 | 243 | 1 L | 60 L | B | 40
|  |  |  | III | 3, 6.1 | B1, IB3, T7, TP1, TP28 | None | 203 | 242 | 60 L | 220 L | A |
| Aldehydes, n.o.s. | 3 | UN1989 | I | 3 | T11, TP1, TP27 | None | 201 | 243 | 1 L | 30 L | E |
|  |  |  | II | 3 | IB2, T7, TP1, TP8, TP28 | 150 | 202 | 242 | 5 L | 60 L | B |
|  |  |  | III | 3 | B1, IB3, T4, TP1, TP29 | 150 | 203 | 242 | 60 L | 220 L | A |
G | Aldehydes, flammable, toxic, n.o.s. | 3 | UN1988 | I | 3, 6.1 | T14, TP2, TP13, TP27 | None | 201 | 243 | Forbidden | 30 L | E | 40
|  |  |  | II | 3, 6.1 | IB2, T11, TP2, TP27 | 150 | 202 | 243 | 1 L | 60 L | B | 40
|  |  |  | III | 3, 6.1 | B1, IB3, T7, TP1, TP28 | 150 | 203 | 242 | 60 L | 220 L | A |
| Aldol | 6.1 | UN2839 | II | 6.1 | IB2, T7, TP2 | 153 | 202 | 243 | 5 L | 60 L | A | 12
G | Alkali metal alcoholates, self-heating, corrosive, n.o.s. | 4.2 | UN3206 | II | 4.2, 8 | 64, A7, IB5, IP2, T3, TP33 | None | 212 | 242 | 15 kg | 50 kg | B |
|  |  |  | III | 4.2, 8 | 64, A7, IB8, IP3, T1, TP33 | None | 213 | 242 | 25 kg | 100 kg | B |
| Alkali metal alloys, liquid, n.o.s. | 4.3 | UN1421 | I | 4.3 | A2, A3, A7, B48, N34 | None | 201 | 244 | Forbidden | 1 L | D | 52
| Alkali metal amalgam, liquid | 4.3 | UN1389 | I | 4.3 | A2, A3, A7, N34 | None | 201 | 244 | Forbidden | 1 L | D | 40, 52
| Alkali metal amalgam, solid | 4.3 | UN3401 | I | 4.3 | IB4, IP1, N40, T9, TP7, TP33 | None | 211 | 242 | Forbidden | 15 kg | D | 52
| Alkali metal amides | 4.3 | UN1390 | II | 4.3 | A6, A7, A8, A19, A20, IB7, IP2, T3, TP33 | 151 | 212 | 241 | 15 kg | 50 kg | E | 40, 52
| Alkali metal dispersions, or Alkaline earth metal dispersions | 4.3 | UN1391 | I | 4.3 | A2, A3, A7 | None | 201 | 244 | Forbidden | 1 L | D | 52
| Alkaline corrosive liquids, n.o.s., see Caustic alkali liquids, n.o.s. |  |  |  |  |  |  |  |  |  |  |  |
G | Alkaline earth metal alcoholates, n.o.s. | 4.2 | UN3205 | II | 4.2 | 65, A7, IB6, IP2, T3, TP33 | None | 212 | 241 | 15 kg | 50 kg | B |
|  |  |  | III | 4.2 | 65, A7, IB8, IP3, T1, TP33 | None | 213 | 241 | 25 kg | 100 kg | B |
| Alkaline earth metal alloys, n.o.s. | 4.3 | UN1393 | II | 4.3 | A19, IB7, IP2, T3, TP33 | 151 | 212 | 241 | 15 kg | 50 kg | E | 52
| Alkaline earth metal amalgams, liquid | 4.3 | UN1392 | I | 4.3 | A19, N34, N40 | None | 201 | 244 | Forbidden | 1 L | E | 40, 52
| Alkaline earth metal amalgams, solid | 4.3 | UN3402 | I | 4.3 | A19, N34, N40, T9, TP7, TP33 | None | 211 | 242 | Forbidden | 15 kg | D | 52
G | Alkaloids, liquid, n.o.s., or Alkaloid salts, liquid, n.o.s. | 6.1 | UN3140 | I | 6.1 | A4, T14, TP2, TP27 | None | 201 | 243 | 1 L | 30 L | A |
|  |  |  | II | 6.1 | IB2, T11, TP2, TP27 | 153 | 202 | 243 | 5 L | 60 L | A |
|  |  |  | III | 6.1 | IB3, T7, TP1, TP28 | 153 | 203 | 241 | 60 L | 220 L | A |
G | Alkaloids, solid, n.o.s. [or] Alkaloid salts, solid, n.o.s. [poisonous] | 6.1 | UN1544 | I | 6.1 | IB7, IP1, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
| Alkyl sulfonic acids, liquid or Aryl sulfonic acids, liquid with more than 5 percent free sulfuric acid | 8 | UN2584 | II | 8 | B2, IB2, T8, TP2, TP12, TP13 | 154 | 202 | 242 | 1 L | 30 L | B |
| Alkyl sulfonic acids, liquid or Aryl sulfonic acids, liquid with not more than 5 percent free sulfuric acid | 8 | UN2586 | III | 8 | IB3, T4, TP1 | 154 | 203 | 241 | 5 L | 60 L | B |
| Alkyl sulfonic acids, solid or Aryl sulfonic acids, solid, with more than 5 percent free sulfuric acid | 8 | UN2583 | II | 8 | IB8, IP2, IP4, T3, TP33 | 154 | 212 | 240 | 15 kg | 50 kg | A |
| Alkyl sulfonic acids, solid or Aryl sulfonic acids, solid with not more than 5 percent free sulfuric acid | 8 | UN2585 | III | 8 | IB8, IP3, T1, TP33 | 154 | 213 | 240 | 25 kg | 100 kg | A |
| Alkylphenols, liquid, n.o.s. (including C2-C12 homologues) | 8 | UN3145 | I | 8 | A6, T14, TP2 | None | 201 | 243 | 0.5 L | 2.5 L | B |
|  |  |  | II | 8 | IB2, T11, TP2, TP27 | 154 | 202 | 242 | 1 L | 30 L | B |
|  |  |  | III | 8 | IB3, T7, TP1, TP28 | 154 | 203 | 241 | 5 L | 60 L | A |
| Alkylphenols, solid, n.o.s. (including C2-C12 homologues) | 8 | UN2430 | I | 8 | IB7, IP1, T6, TP33 | None | 211 | 242 | 1 kg | 25 kg | B |
|  |  |  | II | 8 | IB8, IP2, IP4, T3, TP33 | 154 | 212 | 240 | 15 kg | 50 kg | B |
|  |  |  | III | 8 | IB8, IP3, T1, TP33 | 154 | 213 | 240 | 25 kg | 100 kg | A |
| Alkylsulfuric acids | 8 | UN2571 | II | 8 | B2, IB2, T8, TP2, TP12, TP13, TP28 | 154 | 202 | 242 | 1 L | 30 L | C | 14
| Allethrin, see Pesticides, liquid, toxic, n.o.s. |  |  |  |  |  |  |  |  |  |  |  |
| Allyl acetate | 3 | UN2333 | II | 3, 6.1 | IB2, T7, TP1, TP13 | 150 | 202 | 243 | 1 L | 60 L | E | 40
| Allyl alcohol | 6.1 | UN1098 | I | 6.1, 3 | 2, B9, B14, B32, B74, B77, T20, TP2, TP13, TP38, TP45 | None | 227 | 244 | Forbidden | Forbidden | D | 40
| Allyl bromide | 3 | UN1099 | I | 3, 6.1 | T14, TP2, TP13 | None | 201 | 243 | Forbidden | 30 L | B | 40
| Allyl chloride | 3 | UN1100 | I | 3, 6.1 | T14, TP2, TP13 | None | 201 | 243 | Forbidden | 30 L | E | 40
| Allyl chlorocarbonate, see Allyl chloroformate |  |  |  |  |  |  |  |  |  |  |  |
| Allyl chloroformate | 6.1 | UN1722 | I | 6.1, 3, 8 | 2, B9, B14, B32, B74, N41, T20, TP2, TP13, TP38, TP45 | None | 227 | 244 | Forbidden | Forbidden | D | 40
| Allyl ethyl ether | 3 | UN2335 | II | 3, 6.1 | IB2, T7, TP1, TP13 | 150 | 202 | 243 | 1 L | 60 L | E | 40
| Allyl formate | 3 | UN2336 | I | 3, 6.1 | T14, TP2, TP13 | None | 201 | 243 | Forbidden | 30 L | E | 40
| Allyl glycidyl ether | 3 | UN2219 | III | 3 | B1, IB3, T2, TP1 | 150 | 203 | 242 | 60 L | 220 L | A |
| Allyl iodide | 3 | UN1723 | II | 3, 8 | A3, A6, IB1, N34, T7, TP2, TP13 | 150 | 202 | 243 | 1 L | 5 L | B | 40
| Allyl isothiocyanate, stabilized | 6.1 | UN1545 | II | 6.1, 3 | A3, A7, IB2, T7, TP2 | None | 202 | 243 | Forbidden | 60 L | D | 40
| Allylamine | 6.1 | UN2334 | I | 6.1, 3 | 2, B9, B14, B32, B74, T20, TP2, TP13, TP38, TP45 | None | 227 | 244 | Forbidden | Forbidden | D | 40
| Allyltrichlorosilane, stabilized | 8 | UN1724 | II | 8, 3 | A7, B2, B6, IB2, N34, T7, TP2, TP13 | None | 202 | 243 | Forbidden | 30 L | C | 40
| Aluminum alkyl halides, liquid | 4.2 | UN3052 | I | 4.2, 4.3 | B9, B11, T21, TP2, TP7 | None | 181 | 244 | Forbidden | Forbidden | D | 134
| Aluminium alkyl halides, solid | 4.2 | UN3461 | I | 4.2, 4.3 | T21, TP7, TP33 | None | 181 | 244 | Forbidden | Forbidden | D | 134
| Aluminum alkyl hydrides | 4.2 | UN3076 | I | 4.2, 4.3 | B9, B11, T21, TP2, TP7 | None | 181 | 244 | Forbidden | Forbidden | D |
| Aluminum alkyls | 4.2 | UN3051 | I | 4.2, 4.3 | B9, B11, T21, TP2, TP7 | None | 181 | 244 | Forbidden | Forbidden | D |
| Aluminum borohydride or Aluminum borohydride in devices | 4.2 | UN2870 | I | 4.2, 4.3 | B11, T21, TP7, TP33 | None | 181 | 244 | Forbidden | Forbidden | D |
| Aluminum bromide, anhydrous | 8 | UN1725 | II | 8 | IB8, IP2, IP4, T3, TP33 | 154 | 212 | 240 | 15 kg | 50 kg | A | 40
| Aluminum bromide, solution | 8 | UN2580 | III | 8 | IB3, T4, TP1 | 154 | 203 | 241 | 5 L | 60 L | A |
| Aluminum carbide | 4.3 | UN1394 | II | 4.3 | A20, IB7, IP2, N41, T3, TP33 | 151 | 212 | 242 | 15 kg | 50 kg | A | 52
| Aluminum chloride, anhydrous | 8 | UN1726 | II | 8 | IB8, IP2, IP4, T3, TP33 | 154 | 212 | 240 | 15 kg | 50 kg | A | 40
| Aluminum chloride, solution | 8 | UN2581 | III | 8 | IB3, T4, TP1 | 154 | 203 | 241 | 5 L | 60 L | A |
| Aluminum dross, wet or hot | Forbidden |  |  |  |  |  |  |  |  |  |  |
| Aluminum ferrosilicon powder | 4.3 | UN1395 | II | 4.3, 6.1 | A19, IB5, IP2, T3, TP33 | 151 | 212 | 242 | 15 kg | 50 kg | A | 39, 40, 52, 53, 85, 103
|  |  |  | III | 4.3, 6.1 | A19, A20, IB4 | 151 | 213 | 241 | 25 kg | 100 kg | A | 39, 40, 52, 53, 85, 103
| Aluminum hydride | 4.3 | UN2463 | I | 4.3 | A19, N40 | None | 211 | 242 | Forbidden | 15 kg | E |
D | Aluminum, molten | 9 | NA9260 | III | 9 | IB3, T1, TP3 | None | None | 247 | Forbidden | Forbidden | D |
| Aluminum nitrate | 5.1 | UN1438 | III | 5.1 | A1, A29, IB8, IP3, T1, TP33 | 152 | 213 | 240 | 25 kg | 100 kg | A |
| Aluminum phosphate solution, see Corrosive liquids, etc |  |  |  |  |  |  |  |  |  |  |  |
| Aluminum phosphide | 4.3 | UN1397 | I | 4.3, 6.1 | A8, A19, N40 | None | 211 | 242 | Forbidden | 15 kg | E | 40, 52, 85
| Aluminum phosphide pesticides | 6.1 | UN3048 | I | 6.1 | A8, IB7, IP1, T6, TP33 | None | 211 | 242 | Forbidden | 15 kg | E | 40, 85
| Aluminum powder, coated | 4.1 | UN1309 | II | 4.1 | IB8, IP2, IP4, T3, TP33 | 151 | 212 | 240 | 15 kg | 50 kg | A | 13, 39, 52, 53, 74, 101
|  |  |  | III | 4.1 | IB8, IP3, T1, TP33 | 151 | 213 | 240 | 25 kg | 100 kg | A | 13, 39, 52, 53, 74, 101
| Aluminum powder, uncoated | 4.3 | UN1396 | II | 4.3 | A19, A20, IB7, IP2, T3, TP33 | 151 | 212 | 242 | 15 kg | 50 kg | A | 39, 52, 53
|  |  |  | III | 4.3 | A19, A20, IB8, IP4, T1, TP33 | 151 | 213 | 241 | 25 kg | 100 kg | A | 39, 52, 53
| Aluminum resinate | 4.1 | UN2715 | III | 4.1 | IB6, T1, TP33 | 151 | 213 | 240 | 25 kg | 100 kg | A |
| Aluminum silicon powder, uncoated | 4.3 | UN1398 | III | 4.3 | A1, A19, IB8, IP4, T1, TP33 | 151 | 213 | 241 | 25 kg | 100 kg | A | 39, 40, 52, 53, 85, 103
| Aluminum smelting by-products or Aluminum remelting by-products | 4.3 | UN3170 | II | 4.3 | 128, B115, IB7, IP2, T3, TP33 | None | 212 | 242 | 15 kg | 50 kg | B | 85, 103
|  |  |  | III | 4.3 | 128, B115, IB8, IP4, T1, TP33 | None | 213 | 241 | 25 kg | 100 kg | B | 85, 103
| Amatols, see Explosives, blasting, type B |  |  |  |  |  |  |  |  |  |  |  |
G | Amines, flammable, corrosive, n.o.s. or Polyamines, flammable, corrosive, n.o.s. | 3 | UN2733 | I | 3, 8 | T14, TP1, TP27 | None | 201 | 243 | 0.5 L | 2.5 L | D | 40
|  |  |  | II | 3, 8 | IB2, T11, TP1, TP27 | 150 | 202 | 243 | 1 L | 5 L | B | 40
|  |  |  | III | 3, 8 | B1, IB3, T7, TP1, TP28 | 150 | 203 | 242 | 5 L | 60 L | A | 40
G | Amines, liquid, corrosive, flammable, n.o.s. or Polyamines, liquid, corrosive, flammable, n.o.s. | 8 | UN2734 | I | 8, 3 | A3, A6, N34, T14, TP2, TP27 | None | 201 | 243 | 0.5 L | 2.5 L | A | 52
|  |  |  | II | 8, 3 | IB2, T11, TP2, TP27 | None | 202 | 243 | 1 L | 30 L | A | 52
G | Amines, liquid, corrosive, n.o.s., or Polyamines, liquid, corrosive, n.o.s. | 8 | UN2735 | I | 8 | A3, A6, B10, N34, T14, TP2, TP27 | None | 201 | 243 | 0.5 L | 2.5 L | A | 52
|  |  |  | II | 8 | B2, IB2, T11, TP1, TP27 | 154 | 202 | 242 | 1 L | 30 L | A | 52
|  |  |  | III | 8 | IB3, T7, TP1, TP28 | 154 | 203 | 241 | 5 L | 60 L | A | 52
G | Amines, solid, corrosive, n.o.s., or Polyamines, solid, corrosive n.o.s. | 8 | UN3259 | I | 8 | IB7, IP1, T6, TP33 | None | 211 | 242 | 1 kg | 25 kg | A | 52
|  |  |  | II | 8 | IB8, IP2, IP4, T3, TP33 | 154 | 212 | 240 | 15 kg | 50 kg | A | 52
|  |  |  | III | 8 | IB8, IP3, T1, TP33 | 154 | 213 | 240 | 25 kg | 100 kg | A | 52
| 2-Amino-4-chlorophenol | 6.1 | UN2673 | II | 6.1 | IB8, IP2, IP4, T3, TP33 | 153 | 212 | 242 | 25 kg | 100 kg | A |
| 2-Amino-5-diethylaminopentane | 6.1 | UN2946 | III | 6.1 | IB3, T4, TP1 | 153 | 203 | 241 | 60 L | 220 L | A |
| 2-Amino-4,6-Dinitrophenol, wetted with not less than 20 percent water by mass | 4.1 | UN3317 | I | 4.1 | 23, A8, A19, A20, N41 | None | 211 | None | 1 kg | 15 kg | E | 28, 36
| 2-(2-Aminoethoxy) ethanol | 8 | UN3055 | III | 8 | IB3, T4, TP1 | 154 | 203 | 241 | 5 L | 60 L | A |
| N-Aminoethylpiperazine | 8 | UN2815 | III | 8 | IB3, T4, TP1 | 154 | 203 | 241 | 5 L | 60 L | A | 12
+ | Aminophenols (o-; m-; p-) | 6.1 | UN2512 | III | 6.1 | IB8, IP3, T1, TP33 | 153 | 213 | 240 | 100 kg | 200 kg | A |
| Aminopropyldiethanolamine, see Amines, etc |  |  |  |  |  |  |  |  |  |  |  |
| n-Aminopropylmorpholine, see Amines, etc |  |  |  |  |  |  |  |  |  |  |  |
| Aminopyridines (o-; m-; p-) | 6.1 | UN2671 | II | 6.1 | IB8, IP2, IP4, T3, TP33 | 153 | 212 | 242 | 25 kg | 100 kg | B | 12, 40
I | Ammonia, anhydrous | 2.3 | UN1005 |  | 2.3, 8 | 4, T50 | None | 304 | 314, 315 | Forbidden | Forbidden | D | 40, 57
D | Ammonia, anhydrous | 2.2 | UN1005 |  | 2.2 | 13, T50 | None | 304 | 314, 315 | Forbidden | Forbidden | D | 40, 57
D | Ammonia solution, relative density less than 0.880 at 15 degrees C in water, with more than 50 percent ammonia | 2.2 | UN3318 |  | 2.2 | 13, T50 | None | 304 | 314, 315 | Forbidden | Forbidden | D | 40, 57
I | Ammonia solution, relative density less than 0.880 at 15 degrees C in water, with more than 50 percent ammonia | 2.3 | UN3318 |  | 2.3, 8 | 4, T50 | None | 304 | 314, 315 | Forbidden | Forbidden | D | 40, 57
| Ammonia solutions, relative density between 0.880 and 0.957 at 15 degrees C in water, with more than 10 percent but not more than 35 percent ammonia | 8 | UN2672 | III | 8 | IB3, IP8, T7, TP1 | 154 | 203 | 241 | 5 L | 60 L | A | 40, 85
| Ammonia solutions, relative density less than 0.880 at 15 degrees C in water, with more than 35 percent but not more than 50 percent ammonia | 2.2 | UN2073 |  | 2.2 |  | 306 | 304 | 314, 315 | Forbidden | 150 kg | E | 40, 57
| Ammonium arsenate | 6.1 | UN1546 | II | 6.1 | IB8, IP2, IP4, T3, TP33 | 153 | 212 | 242 | 25 kg | 100 kg | A | 53
| Ammonium azide | Forbidden |  |  |  |  |  |  |  |  |  |  |
| Ammonium bifluoride, solid, see Ammonium hydrogen difluoride, solid |  |  |  |  |  |  |  |  |  |  |  |
| Ammonium bifluoride solution, see Ammonium hydrogen difluoride, solution |  |  |  |  |  |  |  |  |  |  |  |
| Ammonium bromate | Forbidden |  |  |  |  |  |  |  |  |  |  |
| Ammonium chlorate | Forbidden |  |  |  |  |  |  |  |  |  |  |
| Ammonium dichromate | 5.1 | UN1439 | II | 5.1 | IB8, IP2, IP4, T3, TP33 | 152 | 212 | 242 | 5 kg | 25 kg | A | 52
| Ammonium dinitro-o-cresolate, solid | 6.1 | UN1843 | II | 6.1 | IB8, IP2, IP4, T3, TP33 | 153 | 212 | 242 | 25 kg | 100 kg | B | 36, 65, 66, 77
| Ammonium dinitro-o-cresolate solution | 6.1 | UN3424 | II | 6.1 | IB2, T7, TP2 | 153 | 202 | 243 | 5 L | 60 L | B | 36, 66, 78, 91
|  |  |  | III | 6.1 | IB2, T7, TP2 | 153 | 203 | 241 | 60 L | 220 L | A | 36, 66, 78, 91
| Ammonium fluoride | 6.1 | UN2505 | III | 6.1 | IB8, IP3, T1, TP33 | 153 | 213 | 240 | 100 kg | 200 kg | A | 52
| Ammonium fluorosilicate | 6.1 | UN2854 | III | 6.1 | IB8, IP3, T1, TP33 | 153 | 213 | 240 | 100 kg | 200 kg | A | 52
| Ammonium fulminate | Forbidden |  |  |  |  |  |  |  |  |  |  |
| Ammonium hydrogen sulfate | 8 | UN2506 | II | 8 | IB8, IP2, IP4, T3, TP33 | 154 | 212 | 240 | 15 kg | 50 kg | A | 40
| Ammonium hydrogendifluoride, solid | 8 | UN1727 | II | 8 | IB8, IP2, IP4, N34, T3, TP33 | 154 | 212 | 240 | 15 kg | 50 kg | A | 25, 40, 52
| Ammonium hydrogendifluoride, solution | 8 | UN2817 | II | 8, 6.1 | IB2, N34, T8, TP2, TP12, TP13 | 154 | 202 | 243 | 1 L | 30 L | B | 40
|  |  |  | III | 8, 6.1 | IB3, N3, T4, TP1, TP12, TP13 | 154 | 203 | 241 | 5 L | 60 L | B | 40, 95
| Ammonium hydrosulfide, solution, see Ammonium sulfide solution |  |  |  |  |  |  |  |  |  |  |  |
D | Ammonium hydroxide, see Ammonia solutions, etc |  |  |  |  |  |  |  |  |  |  |  |
| Ammonium metavanadate | 6.1 | UN2859 | II | 6.1 | IB8, IP2, IP4, T3, TP33 | 153 | 212 | 242 | 25 kg | 100 kg | A | 44, 89, 100, 141
| Ammonium nitrate based fertilizer | 5.1 | UN2067 | III | 5.1 | 52, 150, IB8, IP3, T1, TP33 | 152 | 213 | 240 | 25 kg | 100 kg | B | 48, 59, 60, 66, 117
A W | Ammonium nitrate based fertilizer | 9 | UN2071 | III | 9 | 132, IB8, IP3 | 155 | 213 | 240 | 200 kg | 200 kg | A |
| Ammonium nitrate emulsion or Ammonium nitrate suspension or Ammonium nitrate gel, intermediate for blasting explosives | 5.1 | UN3375 | II |  | 147, 163 | None | 214 | 214 | Forbidden | Forbidden | D | 48, 59, 60, 66, 124
D | Ammonium nitrate-fuel oil mixture containing only prilled ammonium nitrate and fuel oil | 1.5D | NA0331 | II | 1.5D |  | None | 62 | None | Forbidden | Forbidden | 10 | 19E
| Ammonium nitrate, liquid (hot concentrated solution) | 5.1 | UN2426 |  | 5.1 | B5, T7 | None | None | 243 | Forbidden | Forbidden | D | 59, 60
| Ammonium nitrate, with more than 0.2 percent combustible substances, including any organic substance calculated as carbon, to the exclusion of any other added substance | 1.1D | UN0222 | II | 1.1D |  | None | 62 | None | Forbidden | Forbidden | 10 | 19E
| Ammonium nitrate, with not more than 0.2% total combustible material, including any organic substance, calculated as carbon to the exclusion of any other added substance | 5.1 | UN1942 | III | 5.1 | A1, A29, IB8, IP3, T1, TP33 | 152 | 213 | 240 | 25 kg | 100 kg | A | 48, 59, 60, 116
| Ammonium nitrite | Forbidden |  |  |  |  |  |  |  |  |  |  |
| Ammonium perchlorate | 1.1D | UN0402 | II | 1.1D | 107 | None | 62 | None | Forbidden | Forbidden | 10 | 19E
| Ammonium perchlorate | 5.1 | UN1442 | II | 5.1 | 107, A9, IB6, IP2, T3, TP33 | 152 | 212 | 242 | 5 kg | 25 kg | E | 58, 69
| Ammonium permanganate | Forbidden |  |  |  |  |  |  |  |  |  |  |
| Ammonium persulfate | 5.1 | UN1444 | III | 5.1 | A1, A29, IB8, IP3, T1, TP33 | 152 | 213 | 240 | 25 kg | 100 kg | A |
| Ammonium picrate, dry or wetted with less than 10 percent water, by mass | 1.1D | UN0004 | II | 1.1D |  | None | 62 | None | Forbidden | Forbidden | 10 | 5E, 19E
| Ammonium picrate, wetted with not less than 10 percent water, by mass | 4.1 | UN1310 | I | 4.1 | 23, A2, N41 | None | 211 | None | 0.5 kg | 0.5 kg | D | 28, 36
| Ammonium polysulfide, solution | 8 | UN2818 | II | 8, 6.1 | IB2, T7, TP2, TP13 | 154 | 202 | 243 | 1 L | 30 L | B | 12, 40, 52
|  |  |  | III | 8, 6.1 | IB3, T4, TP1, TP13 | 154 | 203 | 241 | 5 L | 60 L | B | 12, 40, 52
| Ammonium polyvanadate | 6.1 | UN2861 | II | 6.1 | IB8, IP2, IP4, T3, TP33 | 153 | 212 | 242 | 25 kg | 100 kg | A | 44, 89, 100, 141
| Ammonium silicofluoride, see Ammonium fluorosilicate |  |  |  |  |  |  |  |  |  |  |  |
| Ammonium sulfide solution | 8 | UN2683 | II | 8, 6.1, 3 | IB1, T7, TP2, TP13 | 154 | 202 | 243 | 1 L | 30 L | B | 12, 22, 52, 100
| Ammunition, blank, see Cartridges for weapons, blank |  |  |  |  |  |  |  |  |  |  |  |
| Ammunition, illuminating with or without burster, expelling charge or propelling charge | 1.2G | UN0171 | II | 1.2G |  |  | 62 | None | Forbidden | Forbidden | 03 |
| Ammunition, illuminating with or without burster, expelling charge or propelling charge | 1.3G | UN0254 | II | 1.3G |  |  | 62 | None | Forbidden | Forbidden | 03 |
| Ammunition, illuminating with or without burster, expelling charge or propelling charge | 1.4G | UN0297 | II | 1.4G |  |  | 62 | None | Forbidden | 75 kg | 02 |
| Ammunition, incendiary liquid or gel, with burster, expelling charge or propelling charge | 1.3J | UN0247 | II | 1.3J |  |  | 62 | None | Forbidden | Forbidden | 04 | 23E
| Ammunition, incendiary (water-activated contrivances) with burster, expelling charge or propelling charge, see Contrivances, water-activated, etc. |  |  |  |  |  |  |  |  |  |  |  |
| Ammunition, incendiary, white phosphorus, with burster, expelling charge or propelling charge | 1.2H | UN0243 | II | 1.2H |  |  | 62 | None | Forbidden | Forbidden | 08 | 8E, 14E, 15E, 17E
| Ammunition, incendiary, white phosphorus, with burster, expelling charge or propelling charge | 1.3H | UN0244 | II | 1.3H |  |  | 62 | None | Forbidden | Forbidden | 08 | 8E, 14E, 15E, 17E
| Ammunition, incendiary with or without burster, expelling charge, or propelling charge | 1.2G | UN0009 | II | 1.2G |  |  | 62 | None | Forbidden | Forbidden | 03 |
| Ammunition, incendiary with or without burster, expelling charge, or propelling charge | 1.3G | UN0010 | II | 1.3G |  |  | 62 | None | Forbidden | Forbidden | 03 |
| Ammunition, incendiary with or without burster, expelling charge or propelling charge | 1.4G | UN0300 | II | 1.4G |  |  | 62 | None | Forbidden | 75 kg | 02 |
| Ammunition, practice | 1.4G | UN0362 | II | 1.4G |  |  | 62 | None | Forbidden | 75 kg | 02 |
| Ammunition, practice | 1.3G | UN0488 | II | 1.3G |  |  | 62 | None | Forbidden | Forbidden | 03 |
| Ammunition, proof | 1.4G | UN0363 | II | 1.4G |  |  | 62 | None | Forbidden | 75 kg | 02 |
| Ammunition, rocket, see Warheads, rocket etc |  |  |  |  |  |  |  |  |  |  |  |
| Ammunition, SA (small arms), see Cartridges for weapons, etc |  |  |  |  |  |  |  |  |  |  |  |
| Ammunition, smoke (water-activated contrivances), white phosphorus, with burster, expelling charge or propelling charge, see Contrivances, water-activated, etc. (UN 0248) |  |  |  |  |  |  |  |  |  |  |  |
| Ammunition, smoke (water-activated contrivances), without white phosphorus or phosphides, with burster, expelling charge or propelling charge, see Contrivances, water-activated, etc. (UN 0249) |  |  |  |  |  |  |  |  |  |  |  |
| Ammunition smoke, white phosphorus with burster,expelling charge, or propelling charge | 1.2H | UN0245 | II | 1.2H |  |  | 62 | None | Forbidden | Forbidden | 08 | 8E, 14E, 15E, 17E
| Ammunition, smoke, white phosphorus with burster, expelling charge, or propelling charge | 1.3H | UN0246 | II | 1.3H |  |  | 62 | None | Forbidden | Forbidden | 08 | 8E, 14E, 15E, 17E
| Ammunition, smoke with or without burster, expelling charge or propelling charge | 1.2G | UN0015 | II | 1.2G |  |  | 62 | None | Forbidden | Forbidden |  | 8E, 17E, 20E
| Ammunition, smoke with or without burster, expelling charge or propelling charge | 1.3G | UN0016 | II | 1.3G |  |  | 62 | None | Forbidden | Forbidden |  | 8E, 17E, 20E
| Ammunition, smoke with or without burster, expelling charge or propelling charge | 1.4G | UN0303 | II | 1.4G |  |  | 62 | None | Forbidden | 75 kg |  | 7E, 8E, 14E, 15E, 17E
| Ammunition, sporting, see Cartridges for weapons, etc. (UN 0012; UN 0328; UN 0339) |  |  |  |  |  |  |  |  |  |  |  |
| Ammunition, tear-producing, non-explosive, without burster or expelling charge, non-fuzed | 6.1 | UN2017 | II | 6.1, 8 |  | None | 212 | None | Forbidden | 50 kg | E | 13, 40
| Ammunition, tear-producing with burster, expelling charge or propelling charge | 1.2G | UN0018 | II | 1.2G, 8, 6.1 |  |  | 62 | None | Forbidden | Forbidden |  | 8E, 17E, 20E
| Ammunition, tear-producing with burster, expelling charge or propelling charge | 1.3G | UN0019 | II | 1.3G, 8, 6.1 |  |  | 62 | None | Forbidden | Forbidden |  | 8E, 17E, 20E
| Ammunition, tear-producing with burster, expelling charge or propelling charge | 1.4G | UN0301 | II | 1.4G, 8, 6.1 |  |  | 62 | None | Forbidden | 75 kg |  | 7E, 8E, 14E, 15E, 17E
| Ammunition, toxic, non-explosive, without burster or expelling charge, non-fuzed | 6.1 | UN2016 | II | 6.1 |  | None | 212 | None | Forbidden | 100 kg | E | 13, 40
| Ammunition, toxic (water-activated contrivances), with burster, expelling charge or propelling charge, see Contrivances, water-activated, etc |  |  |  |  |  |  |  |  |  |  |  |
G | Ammunition, toxic with burster, expelling charge, or propelling charge | 1.2K | UN0020 | II | 1.2K, 6.1 |  |  | 62 | None | Forbidden | Forbidden | 08 | 8E, 14E, 15E, 17E
G | Ammunition, toxic with burster, expelling charge, or propelling charge | 1.3K | UN0021 | II | 1.3K, 6.1 |  |  | 62 | None | Forbidden | Forbidden | 08 | 8E, 14E, 15E, 17E
| Amyl acetates | 3 | UN1104 | III | 3 | B1, IB3, T2, TP1 | 150 | 203 | 242 | 60 L | 220 L | A |
| Amyl acid phosphate | 8 | UN2819 | III | 8 | IB3, T4, TP1 | 154 | 203 | 241 | 5 L | 60 L | A |
| Amyl butyrates | 3 | UN2620 | III | 3 | B1, IB3, T2, TP1 | 150 | 203 | 242 | 60 L | 220 L | A |
| Amyl chlorides | 3 | UN1107 | II | 3 | IB2, T4, TP1 | 150 | 202 | 242 | 5 L | 60 L | B |
| Amyl formates | 3 | UN1109 | III | 3 | B1, IB3, T2, TP1 | 150 | 203 | 242 | 60 L | 220 L | A |
| Amyl mercaptans | 3 | UN1111 | II | 3 | A3, A6, IB2, T4, TP1 | None | 202 | 242 | 5 L | 60 L | B | 95, 102
| n-Amyl methyl ketone | 3 | UN1110 | III | 3 | B1, IB3, T2, TP1 | 150 | 203 | 242 | 60 L | 220 L | A |
| Amyl nitrate | 3 | UN1112 | III | 3 | B1, IB3, T2, TP1 | 150 | 203 | 242 | 60 L | 220 L | A | 40
| Amyl nitrites | 3 | UN1113 | II | 3 | IB2, T4, TP1 | 150 | 202 | 242 | 5 L | 60 L | E | 40
| Amylamines | 3 | UN1106 | II | 3, 8 | IB2, T7, TP1 | 150 | 202 | 243 | 1 L | 5 L | B |
|  |  |  | III | 3, 8 | B1, IB3, T4, TP1 | 150 | 203 | 242 | 5 L | 60 L | A |
| Amyltrichlorosilane | 8 | UN1728 | II | 8 | A7, B2, B6, IB2, N34, T7, TP2, TP13 | None | 202 | 242 | Forbidden | 30 L | C | 40
| Anhydrous ammonia, see Ammonia, anhydrous |  |  |  |  |  |  |  |  |  |  |  |
| Anhydrous hydrofluoric acid, see Hydrogen fluoride, anhydrous |  |  |  |  |  |  |  |  |  |  |  |
+ | Aniline | 6.1 | UN1547 | II | 6.1 | IB2, T7, TP2 | 153 | 202 | 243 | 5 L | 60 L | A | 40, 52
| Aniline hydrochloride | 6.1 | UN1548 | III | 6.1 | IB8, IP3, T1, TP33 | 153 | 213 | 240 | 100 kg | 200 kg | A |
| Aniline oil, see Aniline |  |  |  |  |  |  |  |  |  |  |  |
| Anisidines | 6.1 | UN2431 | III | 6.1 | IB3, T4, TP1 | 153 | 203 | 241 | 60 L | 220 L | A |
| Anisole | 3 | UN2222 | III | 3 | B1, IB3, T2, TP1 | 150 | 203 | 242 | 60 L | 220 L | A |
| Anisoyl chloride | 8 | UN1729 | II | 8 | B2, B4, IB8, IP2, IP4, T3, TP33 | 154 | 212 | 240 | 15 kg | 50 kg | A |
| Anti-freeze, liquid, see Flammable liquids, n.o.s. |  |  |  |  |  |  |  |  |  |  |  |
| Antimonous chloride, see Antimony trichloride |  |  |  |  |  |  |  |  |  |  |  |
| Antimony compounds, inorganic, liquid, n.o.s. | 6.1 | UN3141 | III | 6.1 | 35, IB3, T7, TP1, TP28 | 153 | 203 | 241 | 60 L | 220 L | A |
| Antimony compounds, inorganic, solid, n.o.s. | 6.1 | UN1549 | III | 6.1 | 35, IB8, IP3, T1, TP33 | 153 | 213 | 240 | 100 kg | 200 kg | A |
| Antimony lactate | 6.1 | UN1550 | III | 6.1 | IB8, IP3, T1, TP33 | 153 | 213 | 240 | 100 kg | 200 kg | A |
| Antimony pentachloride, liquid | 8 | UN1730 | II | 8 | B2, IB2, T7, TP2 | None | 202 | 242 | 1 L | 30 L | C | 40
| Antimony pentachloride, solutions | 8 | UN1731 | II | 8 | B2, IB2, T7, TP2 | 154 | 202 | 242 | 1 L | 30 L | C | 40
|  |  |  | III | 8 | IB3, T4, TP1 | 154 | 203 | 241 | 5 L | 60 L | C | 40
| Antimony pentafluoride | 8 | UN1732 | II | 8, 6.1 | A3, A6, A7, A10, IB2, N3, N36, T7, TP2 | None | 202 | 243 | Forbidden | 30 L | D | 44, 89, 100, 141
| Antimony potassium tartrate | 6.1 | UN1551 | III | 6.1 | IB8, IP3, T1, TP33 | 153 | 213 | 240 | 100 kg | 200 kg | A |
| Antimony powder | 6.1 | UN2871 | III | 6.1 | IB8, IP3, T1, TP33 | 153 | 213 | 240 | 100 kg | 200 kg | A |
| Antimony sulfide and a chlorate, mixtures of | Forbidden |  |  |  |  |  |  |  |  |  |  |
| Antimony sulfide, solid, see Antimony compounds, inorganic, n.o.s. |  |  |  |  |  |  |  |  |  |  |  |
| Antimony trichloride, liquid | 8 | UN1733 | II | 8 | B2, IB2 | 154 | 202 | 242 | 1 L | 30 L | C | 40
| Antimony trichloride, solid | 8 | UN1733 | II | 8 | IB8, IP2, IP4 | 154 | 212 | 240 | 15 kg | 50 kg | A | 40
| Aqua ammonia, see Ammonia solution, etc |  |  |  |  |  |  |  |  |  |  |  |
| Argon, compressed | 2.2 | UN1006 |  | 2.2 |  | 306 | 302 | 314, 315 | 75 kg | 150 kg | A |
| Argon, refrigerated liquid (cryogenic liquid) | 2.2 | UN1951 |  | 2.2 | T75, TP5 | 320 | 316 | 318 | 50 kg | 500 kg | B |
| Arsenic | 6.1 | UN1558 | II | 6.1 | IB8, IP2, IP4, T3, TP33 | 153 | 212 | 242 | 25 kg | 100 kg | A |
| Arsenic acid, liquid | 6.1 | UN1553 | I | 6.1 | T20, TP2, TP7, TP13 | None | 201 | 243 | 1 L | 30 L | B | 46
| Arsenic acid, solid | 6.1 | UN1554 | II | 6.1 | IB8, IP2, IP4, T3, TP33 | 153 | 212 | 242 | 25 kg | 100 kg | A |
| Arsenic bromide | 6.1 | UN1555 | II | 6.1 | IB8, IP2, IP4, T3, TP33 | 153 | 212 | 242 | 25 kg | 100 kg | A | 12, 40
| Arsenic chloride, see Arsenic trichloride |  |  |  |  |  |  |  |  |  |  |  |
| Arsenic compounds, liquid, n.o.s. inorganic, including arsenates, n.o.s.; arsenites, n.o.s.; arsenic sulfides, n.o.s.; and organic compounds of arsenic, n.o.s. | 6.1 | UN1556 | I | 6.1 | T14, TP2, TP13, TP27 | None | 201 | 243 | 1 L | 30 L | B | 40, 137
|  |  |  | II | 6.1 | IB2, T11, TP2, TP13, TP27 | 153 | 202 | 243 | 5 L | 60 L | B | 40, 137
|  |  |  | III | 6.1 | IB3, T7, TP2, TP28 | 153 | 203 | 241 | 60 L | 220 L | B | 40, 137
| Arsenic compounds, solid, n.o.s. inorganic, including arsenates, n.o.s.; arsenites, n.o.s.; arsenic sulfides, n.o.s.; and organic compounds of arsenic, n.o.s. | 6.1 | UN1557 | I | 6.1 | IB7, IP1, T6, TP33 | None | 211 | 242 | 5 kg | 50 kg | A | 137
|  |  |  | II | 6.1 | IB8, IP2, IP4, T3, TP33 | 153 | 212 | 242 | 25 kg | 100 kg | A | 137
|  |  |  | III | 6.1 | IB8, IP3, T1, TP33 | 153 | 213 | 240 | 100 kg | 200 kg | A | 137
| Arsenic pentoxide | 6.1 | UN1559 | II | 6.1 | IB8, IP2, IP4, T3, TP33 | 153 | 212 | 242 | 25 kg | 100 kg | A |
| Arsenic sulfide and a chlorate, mixtures of | Forbidden |  |  |  |  |  |  |  |  |  |  |
| Arsenic trichloride | 6.1 | UN1560 | I | 6.1 | 2, B9, B14, B32, B74, T20, TP2, TP13, TP38, TP45 | None | 227 | 244 | Forbidden | Forbidden | B | 40
| Arsenic trioxide | 6.1 | UN1561 | II | 6.1 | IB8, IP2, IP4, T3, TP33 | 153 | 212 | 242 | 25 kg | 100 kg | A |
| Arsenic, white, solid, see Arsenic trioxide |  |  |  |  |  |  |  |  |  |  |  |
| Arsenical dust | 6.1 | UN1562 | II | 6.1 | IB8, IP2, IP4, T3, TP33 | 153 | 212 | 242 | 25 kg | 100 kg | A |
| Arsenical pesticides, liquid, flammable, toxic, flash point less than 23 degrees C | 3 | UN2760 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Arsenical pesticides, liquid, toxic | 6.1 | UN2994 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Arsenical pesticides, liquid, toxic, flammable, flash point not less than 23 degrees C | 6.1 | UN2993 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2, TP28 | 153 | 203 | 242 | 60 L | 220 L | A | 40
| Arsenical pesticides, solid, toxic | 6.1 | UN2759 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Arsenious acid, solid, see Arsenic trioxide |  |  |  |  |  |  |  |  |  |  |  |
| Arsenious and mercuric iodide solution, see Arsenic compounds, liquid, n.o.s. |  |  |  |  |  |  |  |  |  |  |  |
| Arsine | 2.3 | UN2188 |  | 2.3, 2.1 | 1 | None | 192 | 245 | Forbidden | Forbidden | D | 40
| Articles, explosive, extremely insensitive or Articles, EEI | 1.6N | UN0486 | II | 1.6N | 101 | None | 62 | None | Forbidden | Forbidden | 07 |
G | Articles, explosive, n.o.s. | 1.4S | UN0349 | II | 1.4S | 101 | None | 62 | None | 25 kg | 100 kg | 05 |
G | Articles, explosive, n.o.s. | 1.4B | UN0350 | II | 1.4B | 101 | None | 62 | None | Forbidden | Forbidden | 06 |
G | Articles, explosive, n.o.s. | 1.4C | UN0351 | II | 1.4C | 101 | None | 62 | None | Forbidden | 75 kg | 06 |
G | Articles, explosive, n.o.s. | 1.4D | UN0352 | II | 1.4D | 101 | None | 62 | None | Forbidden | 75 kg | 06 |
G | Articles, explosive, n.o.s. | 1.4G | UN0353 | II | 1.4G | 101 | None | 62 | None | Forbidden | 75 kg | 06 |
G | Articles, explosive, n.o.s. | 1.1L | UN0354 | II | 1.1L | 101 | None | 62 | None | Forbidden | Forbidden | 08 | 8E, 14E, 15E, 17E
G | Articles, explosive, n.o.s. | 1.2L | UN0355 | II | 1.2L | 101 | None | 62 | None | Forbidden | Forbidden | 08 | 8E, 14E, 15E, 17E
G | Articles, explosive, n.o.s. | 1.3L | UN0356 | II | 1.3L | 101 | None | 62 | None | Forbidden | Forbidden | 08 | 8E, 14E, 15E, 17E
G | Articles, explosive, n.o.s. | 1.1C | UN0462 | II | 1.1C | 101 | None | 62 | None | Forbidden | Forbidden | 07 |
G | Articles, explosive, n.o.s. | 1.1D | UN0463 | II | 1.1D | 101 | None | 62 | None | Forbidden | Forbidden | 07 |
G | Articles, explosive, n.o.s. | 1.1E | UN0464 | II | 1.1E | 101 | None | 62 | None | Forbidden | Forbidden | 07 |
G | Articles, explosive, n.o.s. | 1.1F | UN0465 | II | 1.1F | 101 | None | 62 | None | Forbidden | Forbidden | 08 |
G | Articles, explosive, n.o.s. | 1.2C | UN0466 | II | 1.2C | 101 | None | 62 | None | Forbidden | Forbidden | 07 |
G | Articles, explosive, n.o.s. | 1.2D | UN0467 | II | 1.2D | 101 | None | 62 | None | Forbidden | Forbidden | 07 |
G | Articles, explosive, n.o.s. | 1.2E | UN0468 | II | 1.2E | 101 | None | 62 | None | Forbidden | Forbidden | 07 |
G | Articles, explosive, n.o.s. | 1.2F | UN0469 | II | 1.2F | 101 | None | 62 | None | Forbidden | Forbidden | 08 |
G | Articles, explosive, n.o.s. | 1.3C | UN0470 | II | 1.3C | 101 | None | 62 | None | Forbidden | Forbidden | 07 |
G | Articles, explosive, n.o.s. | 1.4E | UN0471 | II | 1.4E | 101 | None | 62 | None | Forbidden | 75 kg | 06 |
G | Articles, explosive, n.o.s. | 1.4F | UN0472 | II | 1.4F | 101 | None | 62 | None | Forbidden | Forbidden | 08 |
| Articles, pressurized pneumatic or hydraulic containing non-flammable gas | 2.2 | UN3164 |  | 2.2 |  | 306 | 302, 304 | None | No limit | No limit | A |
| Articles, pyrophoric | 1.2L | UN0380 | II | 1.2L |  | None | 62 | None | Forbidden | Forbidden | 08 | 8E, 14E, 15E, 17E
| Articles, pyrotechnic for technical purposes | 1.1G | UN0428 | II | 1.1G |  | None | 62 | None | Forbidden | Forbidden | 07 |
| Articles, pyrotechnic for technical purposes | 1.2G | UN0429 | II | 1.2G |  | None | 62 | None | Forbidden | Forbidden | 07 |
| Articles, pyrotechnic for technical purposes | 1.3G | UN0430 | II | 1.3G |  | None | 62 | None | Forbidden | Forbidden | 07 |
| Articles, pyrotechnic for technical purposes | 1.4G | UN0431 | II | 1.4G |  | None | 62 | None | Forbidden | 75 kg | 06 |
| Articles, pyrotechnic for technical purposes | 1.4S | UN0432 | II | 1.4S |  | None | 62 | None | 25 kg | 100 kg | 05 |
D | Asbestos | 9 | NA2212 | III | 9 | 156, IB8, IP2, IP4 | 155 | 216 | 240 | 200 kg | 200 kg | A | 34, 40
| Ascaridole (organic peroxide) | Forbidden |  |  |  |  |  |  |  |  |  |  |
D | Asphalt, at or above its flash point | 3 | NA1999 | III | 3 | IB3, T1, TP3 | 150 | 203 | 247 | Forbidden | Forbidden | D |
D | Asphalt, cut back, see Tars, liquid, etc |  |  |  |  |  |  |  |  |  |  |  |
| Automobile, motorcycle, tractor, other self-propelled vehicle, engine, or other mechanical apparatus, see Vehicles or Battery etc |  |  |  |  |  |  |  |  |  |  |  |
A G | Aviation regulated liquid, n.o.s. | 9 | UN3334 |  | 9 | A35 | 155 | 204 |  | No limit | No limit | A |
A G | Aviation regulated solid, n.o.s. | 9 | UN3335 |  | 9 | A35 | 155 | 204 |  | No limit | No limit | A |
| Azaurolic acid (salt of) (dry) | Forbidden |  |  |  |  |  |  |  |  |  |  |
| Azido guanidine picrate (dry) | Forbidden |  |  |  |  |  |  |  |  |  |  |
| 5-Azido-1-hydroxy tetrazole | Forbidden |  |  |  |  |  |  |  |  |  |  |
| Azido hydroxy tetrazole (mercury and silver salts) | Forbidden |  |  |  |  |  |  |  |  |  |  |
| 3-Azido-1,2-Propylene glycol dinitrate | Forbidden |  |  |  |  |  |  |  |  |  |  |
| Azidodithiocarbonic acid | Forbidden |  |  |  |  |  |  |  |  |  |  |
| Azidoethyl nitrate | Forbidden |  |  |  |  |  |  |  |  |  |  |
| 1-Aziridinylphosphine oxide-(tris), see Tris-(1-aziridinyl) phosphine oxide, solution |  |  |  |  |  |  |  |  |  |  |  |
| Azodicarbonamide | 4.1 | UN3242 | II | 4.1 | 38, IB8, T3, TP33 | 151 | 212 | 240 | Forbidden | Forbidden | D | 12, 52, 53, 74
| Azotetrazole (dry) | Forbidden |  |  |  |  |  |  |  |  |  |  |
| Barium | 4.3 | UN1400 | II | 4.3 | A19, IB7, IP2, T3, TP33 | 151 | 212 | 241 | 15 kg | 50 kg | E | 52
| Barium alloys, pyrophoric | 4.2 | UN1854 | I | 4.2 | T21, TP7, TP33 | None | 181 | None | Forbidden | Forbidden | D |
| Barium azide, dry or wetted with less than 50 percent water, by mass | 1.1A | UN0224 | II | 1.1A, 6.1 | 111, 117 | None | 62 | None | Forbidden | Forbidden | 12 |
| Barium azide, wetted with not less than 50 percent water, by mass | 4.1 | UN1571 | I | 4.1, 6.1 | 162, A2 | None | 182 | None | Forbidden | 0.5 kg | D | 28
| Barium bromate | 5.1 | UN2719 | II | 5.1, 6.1 | IB8, IP2, IP4, T3, TP33 | 152 | 212 | 242 | 5 kg | 25 kg | A | 56, 58
| Barium chlorate, solid | 5.1 | UN1445 | II | 5.1, 6.1 | A9, IB6, IP2, N34, T3, TP33 | 152 | 212 | 242 | 5 kg | 25 kg | A | 56, 58
| Barium chlorate, solution | 5.1 | UN3405 | II | 5.1, 6.1 | A9, IB2, N34, T4, TP1 | 152 | 202 | 243 | 1 L | 5 L | A | 56, 58, 133
|  |  |  | III | 5.1, 6.1 | A9, IB2, N34, T4, TP1 | 152 | 203 | 242 | 2.5 L | 30 L | A | 56, 58, 133
| Barium compounds, n.o.s. | 6.1 | UN1564 | II | 6.1 | IB8, IP2, IP4, T3, TP33 | 153 | 212 | 242 | 25 kg | 100 kg | A |
|  |  |  | III | 6.1 | IB8, IP3, T1, TP33 | 153 | 213 | 240 | 100 kg | 200 kg | A |
| Barium cyanide | 6.1 | UN1565 | I | 6.1 | IB7, IP1, N74, N75, T6, TP33 | None | 211 | 242 | 5 kg | 50 kg | A | 40, 52
| Barium hypochlorite with more than 22 percent available chlorine | 5.1 | UN2741 | II | 5.1, 6.1 | A7, A9, IB8, IP2, IP4, N34, T3, TP33 | 152 | 212 | None | 5 kg | 25 kg | B | 4, 52, 56, 58, 106
| Barium nitrate | 5.1 | UN1446 | II | 5.1, 6.1 | IB8, IP2, IP4, T3, TP33 | 152 | 212 | 242 | 5 kg | 25 kg | A |
| Barium oxide | 6.1 | UN1884 | III | 6.1 | IB8, IP3, T1, TP33 | 153 | 213 | 240 | 100 kg | 200 kg | A |
| Barium perchlorate, solid | 5.1 | UN1447 | II | 5.1, 6.1 | IB6, IP2, T3, TP33 | 152 | 212 | 242 | 5 kg | 25 kg | A | 56, 58
| Barium perchlorate, solution | 5.1 | UN3406 | II | 5.1, 6.1 | IB2, T4, TP1 | 152 | 202 | 243 | 1 L | 5 L | A | 56, 58, 133
|  |  |  | III | 5.1, 6.1 | IB2, T4, TP1 | 152 | 203 | 242 | 2.5 L | 30 L | A | 56, 58, 133
| Barium permanganate | 5.1 | UN1448 | II | 5.1, 6.1 | IB6, IP2, T3, TP33 | 152 | 212 | 242 | 5 kg | 25 kg | D | 56, 58, 138
| Barium peroxide | 5.1 | UN1449 | II | 5.1, 6.1 | A9, IB6, IP2, T3, TP33 | 152 | 212 | 242 | 5 kg | 25 kg | A | 13, 52, 56, 75
| Barium selenate, see Selenates or Selenites |  |  |  |  |  |  |  |  |  |  |  |
| Barium selenite, see Selenates or Selenites |  |  |  |  |  |  |  |  |  |  |  |
| Batteries, containing sodium | 4.3 | UN3292 | II | 4.3 |  | 189 | 189 | 189 | Forbidden | No limit | A |
| Batteries, dry, containing potassium hydroxide solid, electric, storage | 8 | UN3028 | III | 8 |  | None | 213 | None | 25 kg gross | 230 kg gross | A |
| Batteries, wet, filled with acid, electric storage | 8 | UN2794 | III | 8 |  | 159 | 159 | 159 | 30 kg gross | No limit | A |
| Batteries, wet, filled with alkali, electric storage | 8 | UN2795 | III | 8 |  | 159 | 159 | 159 | 30 kg gross | No limit | A |
| Batteries, wet, non-spillable, electric storage | 8 | UN2800 | III | 8 |  | 159 | 159 | 159 | No Limit | No Limit | A |
| Batteries, dry, not subject to the requirements of this subchapter |  |  |  |  | 130 |  |  |  |  |  |  |
| Battery fluid, acid | 8 | UN2796 | II | 8 | A3, A7, B2, B15, IB2, N6, N34, T8, TP2, TP12 | 154 | 202 | 242 | 1 L | 30 L | B |
| Battery fluid, alkali | 8 | UN2797 | II | 8 | B2, IB2, N6, T7, TP2, TP28 | 154 | 202 | 242 | 1 L | 30 L | A | 29
| Battery lithium type, see Lithium batteries etc |  |  |  |  |  |  |  |  |  |  |  |
| Battery-powered vehicle or Battery-powered equipment | 9 | UN3171 |  | 9 | 134 | 220 | 220 | None | No limit | No limit |  |
| Battery, wet, filled with acid or alkali with vehicle or mechanical equipment containing an internal combustion engine, see Vehicle, etc. or Engines, internal combustion, etc |  |  |  |  |  |  |  |  |  |  |  |
+ | Benzaldehyde | 9 | UN1990 | III | 9 | IB3, T2, TP1 | 155 | 203 | 241 | 100 L | 220 L | A |
| Benzene | 3 | UN1114 | II | 3 | IB2, T4, TP1 | 150 | 202 | 242 | 5 L | 60 L | B | 40
| Benzene diazonium chloride (dry) | Forbidden |  |  |  |  |  |  |  |  |  |  |
| Benzene diazonium nitrate (dry) | Forbidden |  |  |  |  |  |  |  |  |  |  |
| Benzene phosphorus dichloride, see Phenyl phosphorus dichloride |  |  |  |  |  |  |  |  |  |  |  |
| Benzene phosphorus thiodichloride, see Phenyl phosphorus thiodichloride |  |  |  |  |  |  |  |  |  |  |  |
| Benzene sulfonyl chloride | 8 | UN2225 | III | 8 | IB3, T4, TP1 | 154 | 203 | 241 | 5 L | 60 L | A | 40
| Benzene triozonide | Forbidden |  |  |  |  |  |  |  |  |  |  |
| Benzenethiol, see Phenyl mercaptan |  |  |  |  |  |  |  |  |  |  |  |
| Benzidine | 6.1 | UN1885 | II | 6.1 | IB8, IP2, IP4, T3, TP33 | 153 | 212 | 242 | 25 kg | 100 kg | A |
| Benzol, see Benzene |  |  |  |  |  |  |  |  |  |  |  |
| Benzonitrile | 6.1 | UN2224 | II | 6.1 | IB2, T7, TP2 | 153 | 202 | 243 | 5 L | 60 L | A | 40, 52
| Benzoquinone | 6.1 | UN2587 | II | 6.1 | IB8, IP2, IP4, T3, TP33 | 153 | 212 | 242 | 25 kg | 100 kg | A |
| Benzotrichloride | 8 | UN2226 | II | 8 | B2, IB2, T7, TP2 | 154 | 202 | 242 | 1 L | 30 L | A | 40
| Benzotrifluoride | 3 | UN2338 | II | 3 | IB2, T4, TP1 | 150 | 202 | 242 | 5 L | 60 L | B | 40
| Benzoxidiazoles (dry) | Forbidden |  |  |  |  |  |  |  |  |  |  |
| Benzoyl azide | Forbidden |  |  |  |  |  |  |  |  |  |  |
| Benzoyl chloride | 8 | UN1736 | II | 8 | B2, IB2, T8, TP2, TP12, TP13 | 154 | 202 | 242 | 1 L | 30 L | C | 40
| Benzyl bromide | 6.1 | UN1737 | II | 6.1, 8 | A3, A7, IB2, N33, N34, T8, TP2, TP12, TP13 | 153 | 202 | 243 | 1 L | 30 L | D | 13, 40
| Benzyl chloride | 6.1 | UN1738 | II | 6.1, 8 | A3, A7, B70, IB2, N33, N42, T8, TP2, TP12, TP13 | 153 | 202 | 243 | 1 L | 30 L | D | 13, 40
| Benzyl chloride unstabilized | 6.1 | UN1738 | II | 6.1, 8 | A3, A7, B8, B11, IB2, N33, N34, N43, T8, TP2, TP12, TP13 | 153 | 202 | 243 | 1 L | 30 L | D | 13, 40
| Benzyl chloroformate | 8 | UN1739 | I | 8 | A3, A6, B4, N41, T10, TP2, TP12, TP13 | None | 201 | 243 | Forbidden | 2.5 L | D | 40
| Benzyl iodide | 6.1 | UN2653 | II | 6.1 | IB2, T7, TP2 | 153 | 202 | 243 | 5 L | 60 L | B | 12, 40
| Benzyldimethylamine | 8 | UN2619 | II | 8, 3 | B2, IB2, T7, TP2 | 154 | 202 | 243 | 1 L | 30 L | A | 40, 48
| Benzylidene chloride | 6.1 | UN1886 | II | 6.1 | IB2, T7, TP2 | 153 | 202 | 243 | 5 L | 60 L | D | 40
| Beryllium compounds, n.o.s. | 6.1 | UN1566 | II | 6.1 | IB8, IP2, IP4, T3, TP33 | 153 | 212 | 242 | 25 kg | 100 kg | A |
|  |  |  | III | 6.1 | IB8, IP3, T1, TP33 | 153 | 213 | 240 | 100 kg | 200 kg | A |
| Beryllium nitrate | 5.1 | UN2464 | II | 5.1, 6.1 | IB8, IP2, IP4, T3, TP33 | 152 | 212 | 242 | 5 kg | 25 kg | A |
| Beryllium, powder | 6.1 | UN1567 | II | 6.1, 4.1 | IB8, IP2, IP4, T3, TP33 | 153 | 212 | 242 | 15 kg | 50 kg | A |
| Bicyclo [2,2,1] hepta-2,5-diene, stabilized or 2,5-Norbornadiene, stabilized | 3 | UN2251 | II | 3 | IB2, T7, TP2 | 150 | 202 | 242 | 5 L | 60 L | D |
| Biphenyl triozonide | Forbidden |  |  |  |  |  |  |  |  |  |  |
| Bipyridilium pesticides, liquid, flammable, toxic, flash point less than 23 degrees C | 3 | UN2782 | I | 3, 6.1 | T14, TP2, TP13, TP27 | None | 201 | 243 | Forbidden | 30 L | E |
|  |  |  | II | 3, 6.1 | IB2, T11, TP2, TP13, TP27 | 150 | 202 | 243 | 1 L | 60 L | B | 40
| Bipyridilium pesticides, liquid, toxic | 6.1 | UN3016 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Bipyridilium pesticides, liquid, toxic, flammable, flash point not less than 23 degrees C | 6.1 | UN3015 | I | 6.1, 3 | T14, TP2, TP13, TP27 | None | 201 | 243 | 1 L | 30 L | B | 21, 40
|  |  |  | II | 6.1, 3 | IB2, T11, TP2, TP13, TP27 | 153 | 202 | 243 | 5 L | 60 L | B | 21, 40
|  |  |  | III | 6.1, 3 | B1, IB3, T7, TP2, TP28 | 153 | 203 | 242 | 60 L | 220 L | A | 21, 40
| Bipyridilium pesticides, solid, toxic | 6.1 | UN2781 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Bis (Aminopropyl) piperazine, see Corrosive liquid, n.o.s. |  |  |  |  |  |  |  |  |  |  |  |
| Bisulfate, aqueous solution | 8 | UN2837 | II | 8 | A7, B2, IB2, N34, T7, TP2 | 154 | 202 | 242 | 1 L | 30 L | A |
|  |  |  | III | 8 | A7, IB3, N34, T4, TP1 | 154 | 203 | 241 | 5 L | 60 L | A |
| Bisulfites, aqueous solutions, n.o.s. | 8 | UN2693 | III | 8 | IB3, T7, TP1, TP28 | 154 | 203 | 241 | 5 L | 60 L | A | 40, 52
| Black powder, compressed or Gunpowder, compressed or Black powder, in pellets or Gunpowder, in pellets | 1.1D | UN0028 | II | 1.1D |  | None | 62 | None | Forbidden | Forbidden | 10 |
| Black powder or Gunpowder, granular or as a meal | 1.1D | UN0027 | II | 1.1D |  | None | 62 | None | Forbidden | Forbidden | 10 |
D | Black powder for small arms | 4.1 | NA0027 | I | 4.1 | 70 | None | 170 | None | Forbidden | Forbidden | E |
| Blasting agent, n.o.s., see Explosives, blasting etc |  |  |  |  |  |  |  |  |  |  |  |
| Blasting cap assemblies, see Detonator assemblies, non-electric, for blasting |  |  |  |  |  |  |  |  |  |  |  |
| Blasting caps, electric, see Detonators, electric for blasting |  |  |  |  |  |  |  |  |  |  |  |
| Blasting caps, non-electric, see Detonators, non-electric, for blasting |  |  |  |  |  |  |  |  |  |  |  |
| Bleaching powder, see Calcium hypochlorite mixtures, etc |  |  |  |  |  |  |  |  |  |  |  |
I | Blue asbestos (Crocidolite) or Brown asbestos (amosite, mysorite) | 9 | UN2212 | II | 9 | 156, IB8, IP2, IP4, T3, TP33 | 155 | 216 | 240 | Forbidden | Forbidden | A | 34, 40
| Bombs, photo-flash | 1.1F | UN0037 | II | 1.1F |  |  | 62 | None | Forbidden | Forbidden | 08 |
| Bombs, photo-flash | 1.1D | UN0038 | II | 1.1D |  |  | 62 | None | Forbidden | Forbidden | 03 |
| Bombs, photo-flash | 1.2G | UN0039 | II | 1.2G |  |  | 62 | None | Forbidden | Forbidden | 03 |
| Bombs, photo-flash | 1.3G | UN0299 | II | 1.3G |  |  | 62 | None | Forbidden | Forbidden | 03 |
| Bombs, smoke, non-explosive, with corrosive liquid, without initiating device | 8 | UN2028 | II | 8 |  | None | 160 | None | Forbidden | 50 kg | E | 40
| Bombs, with bursting charge | 1.1F | UN0033 | II | 1.1F |  |  | 62 | None | Forbidden | Forbidden | 08 |
| Bombs, with bursting charge | 1.1D | UN0034 | II | 1.1D |  |  | 62 | None | Forbidden | Forbidden | 03 |
| Bombs, with bursting charge | 1.2D | UN0035 | II | 1.2D |  |  | 62 | None | Forbidden | Forbidden | 03 |
| Bombs, with bursting charge | 1.2F | UN0291 | II | 1.2F |  |  | 62 | None | Forbidden | Forbidden | 08 |
| Bombs with flammable liquid, with bursting charge | 1.1J | UN0399 | II | 1.1J |  |  | 62 | None | Forbidden | Forbidden | 04 | 23E
| Bombs with flammable liquid, with bursting charge | 1.2J | UN0400 | II | 1.2J |  |  | 62 | None | Forbidden | Forbidden | 04 | 23E
| Boosters with detonator | 1.1B | UN0225 | II | 1.1B |  | None | 62 | None | Forbidden | Forbidden | 11 |
| Boosters with detonator | 1.2B | UN0268 | II | 1.2B |  | None | 62 | None | Forbidden | Forbidden | 07 |
| Boosters, without detonator | 1.1D | UN0042 | II | 1.1D |  | None | 62 | None | Forbidden | Forbidden | 07 |
| Boosters, without detonator | 1.2D | UN0283 | II | 1.2D |  | None | 62 | None | Forbidden | Forbidden | 07 |
| Borate and chlorate mixtures, see Chlorate and borate mixtures |  |  |  |  |  |  |  |  |  |  |  |
| Borneol | 4.1 | UN1312 | III | 4.1 | A1, IB8, IP3, T1, TP33 | None | 213 | 240 | 25 kg | 100 kg | A |
+ | Boron tribromide | 8 | UN2692 | I | 8, 6.1 | 2, B9, B14, B32, B74, N34, T20, TP2, TP12, TP13, TP38, TP45 | None | 227 | 244 | Forbidden | Forbidden | C | 12
| Boron trichloride | 2.3 | UN1741 |  | 2.3, 8 | 3, B9, B14 | None | 304 | 314 | Forbidden | Forbidden | D | 25, 40
| Boron trifluoride | 2.3 | UN1008 |  | 2.3 | 2, B9, B14 | None | 302 | 314, 315 | Forbidden | Forbidden | D | 40
| Boron trifluoride acetic acid complex, liquid | 8 | UN1742 | II | 8 | B2, B6, IB2, T8, TP2, TP12 | 154 | 202 | 242 | 1 L | 30 L | A |
| Boron trifluoride acetic acid complex, solid | 8 | UN3419 | II | 8 | B2, B6, IB8, IP2, IP4, T3, TP33 | 154 | 212 | 240 | 15 kg | 50 kg | A |
| Boron trifluoride diethyl etherate | 8 | UN2604 | I | 8, 3 | A3, A19, T10, TP2 | None | 201 | 243 | 0.5 L | 2.5 L | D | 40
| Boron trifluoride dihydrate | 8 | UN2851 | II | 8 | IB2, T7, TP2 | 154 | 212 | 240 | 15 kg | 50 kg | B | 12, 40,
| Boron trifluoride dimethyl etherate | 4.3 | UN2965 | I | 4.3, 8, 3 | A19, T10, TP2, TP7 | None | 201 | 243 | Forbidden | 1 L | D | 21, 28, 40, 49, 100
| Boron trifluoride propionic acid complex, liquid | 8 | UN1743 | II | 8 | B2, IB2, T8, TP2, TP12 | 154 | 202 | 242 | 1 L | 30 L | A |
| Boron trifluoride propionic acid complex, solid | 8 | UN3420 | II | 8 | B2, IB8, IP2, IP4, T3, TP33 | 154 | 212 | 240 | 15 kg | 50 kg | A |
| Box toe gum, see Nitrocellulose etc |  |  |  |  |  |  |  |  |  |  |  |
| Bromates, inorganic, aqueous solution, n.o.s. | 5.1 | UN3213 | II | 5.1 | IB2, T4, TP1 | 152 | 202 | 242 | 1 L | 5 L | B | 56, 58, 133
|  |  |  | III | 5.1 | IB2, T4, TP1 | 152 | 203 | 241 | 2.5 L | 30 L | B | 56, 58, 133
| Bromates, inorganic, n.o.s. | 5.1 | UN1450 | II | 5.1 | IB8, IP2, IP4, T3, TP33 | 152 | 212 | 242 | 5 kg | 25 kg | A | 56, 58
| Bromine azide | Forbidden |  |  |  |  |  |  |  |  |  |  |
+ | Bromine or Bromine solutions | 8 | UN1744 | I | 8, 6.1 | 1, B9, B64, B85, N34, N43, T22, TP2, TP10, TP12, TP13 | None | 226 | 249 | Forbidden | Forbidden |  | 12, 40, 66, 74, 89, 90
| Bromine chloride | 2.3 | UN2901 |  | 2.3, 8, 5.1 | 2, B9, B14 | None | 304 | 314, 315 | Forbidden | Forbidden | D | 40, 89, 90
+ | Bromine pentafluoride | 5.1 | UN1745 | I | 5.1, 6.1, 8 | 1, B9, B14, B30, B72, T22, TP2, TP12, TP13, TP38, TP44 | None | 228 | 244 | Forbidden | Forbidden | D | 25, 40, 66, 90
+ | Bromine trifluoride | 5.1 | UN1746 | I | 5.1, 6.1, 8 | 2, B9, B14, B32, B74, T22, TP2, TP12, TP13, TP38, TP45 | None | 228 | 244 | Forbidden | Forbidden | D | 25, 40, 66, 90
| 4-Bromo-1,2-dinitrobenzene | Forbidden |  |  |  |  |  |  |  |  |  |  |
| 4-Bromo-1,2-dinitrobenzene (unstable at 59 degrees C) | Forbidden |  |  |  |  |  |  |  |  |  |  |
| 1-Bromo-3-chloropropane | 6.1 | UN2688 | III | 6.1 | IB3, T4, TP1 | 153 | 203 | 241 | 60 L | 220 L | A |
| 1-Bromo-3-methylbutane | 3 | UN2341 | III | 3 | B1, IB3, T2, TP1 | 150 | 203 | 242 | 60 L | 220 L | A |
| 1-Bromo-3-nitrobenzene (unstable at 56 degrees C) | Forbidden |  |  |  |  |  |  |  |  |  |  |
| 2-Bromo-2-nitropropane-1,3-diol | 4.1 | UN3241 | III | 4.1 | 46, IB8, IP3 | 151 | 213 | None | 25 kg | 50 kg | C | 12, 25, 40
| Bromoacetic acid, solid | 8 | UN3425 | II | 8 | A7, IB8, IP2, IP4, N34, T3, TP33 | 154 | 212 | 240 | 15 kg | 50 kg | A |
| Bromoacetic acid solution | 8 | UN1938 | II | 8 | A7, B2, IB2, T7, TP2 | 154 | 202 | 242 | 1 L | 30 L | A | 40
|  |  |  | III | 8 | B2, IB3, T7, TP2 | 154 | 203 | 241 | 5 L | 60 L | A | 40
+ | Bromoacetone | 6.1 | UN1569 | II | 6.1, 3 | 2, T20, TP2, TP13 | None | 193 | 245 | Forbidden | Forbidden | D | 40
| Bromoacetyl bromide | 8 | UN2513 | II | 8 | B2, IB2, T8, TP2, TP12 | 154 | 202 | 242 | 1 L | 30 L | C | 40, 53
| Bromobenzene | 3 | UN2514 | III | 3 | B1, IB3, T2, TP1 | 150 | 203 | 242 | 60 L | 220 L | A |
| Bromobenzyl cyanides, liquid | 6.1 | UN1694 | I | 6.1 | T14, TP2, TP13 | None | 201 | 243 | Forbidden | 30 L | D | 12, 40, 52
| Bromobenzyl cyanides, solid | 6.1 | UN3449 | I | 6.1 | T6, TP33 | None | 211 | 242 | 5 kg | 50 kg | D | 12, 40, 52
| 1-Bromobutane | 3 | UN1126 | II | 3 | IB2, T4, TP1 | 150 | 202 | 242 | 5 L | 60 L | B | 40
| 2-Bromobutane | 3 | UN2339 | II | 3 | B1, IB2, T4, TP1 | 150 | 202 | 242 | 5 L | 60 L | B | 40
| Bromochloromethane | 6.1 | UN1887 | III | 6.1 | IB3, T4, TP1 | 153 | 203 | 241 | 60 L | 220 L | A |
| 2-Bromoethyl ethyl ether | 3 | UN2340 | II | 3 | IB2, T4, TP1 | 150 | 202 | 242 | 5 L | 60 L | B | 40
| Bromoform | 6.1 | UN2515 | III | 6.1 | IB3, T4, TP1 | 153 | 203 | 241 | 60 L | 220 L | A | 12, 40
| Bromomethylpropanes | 3 | UN2342 | II | 3 | IB2, T4, TP1 | 150 | 202 | 242 | 5 L | 60 L | B |
| 2-Bromopentane | 3 | UN2343 | II | 3 | IB2, T4, TP1 | 150 | 202 | 242 | 5 L | 60 L | B |
| Bromopropanes | 3 | UN2344 | II | 3 | IB2, T4, TP1 | 150 | 202 | 242 | 5 L | 60 L | B | 40
|  |  |  | III | 3 | IB3, T2, TP1 | 150 | 203 | 242 | 60 L | 220 L | A |
| 3-Bromopropyne | 3 | UN2345 | II | 3 | IB2, T4, TP1 | 150 | 202 | 242 | 5 L | 60 L | D | 40
| Bromosilane | Forbidden |  |  |  |  |  |  |  |  |  |  |
| Bromotoluene-alpha, see Benzyl bromide |  |  |  |  |  |  |  |  |  |  |  |
| Bromotrifluoroethylene | 2.1 | UN2419 |  | 2.1 |  | None | 304 | 314, 315 | Forbidden | 150 kg | B | 40
| Bromotrifluoromethane or Refrigerant gas, R 13B1. | 2.2 | UN1009 |  | 2.2 | T50 | 306 | 304 | 314, 315 | 75 kg | 150 kg | A |
| Brucine | 6.1 | UN1570 | I | 6.1 | IB7, IP1, T6, TP33 | None | 211 | 242 | 5 kg | 50 kg | A |
| Bursters, explosive | 1.1D | UN0043 | II | 1.1D |  | None | 62 | None | Forbidden | Forbidden | 07 |
| Butadienes, stabilized or Butadienes and Hydrocarbon mixture, stabilized containing more than 40% butadienes | 2.1 | UN1010 |  | 2.1 | T50 | 306 | 304 | 314, 315 | Forbidden | 150 kg | B | 40
| Butane see also Petroleum gases, liquefied | 2.1 | UN1011 |  | 2.1 | 19, T50 | 306 | 304 | 314, 315 | Forbidden | 150 kg | E | 40
| Butane, butane mixtures and mixtures having similar properties in cartridges each not exceeding 500 grams, see Receptacles, etc |  |  |  |  |  |  |  |  |  |  |  |
| Butanedione | 3 | UN2346 | II | 3 | IB2, T4, TP1 | 150 | 202 | 242 | 5 L | 60 L | B |
| 1,2,4-Butanetriol trinitrate | Forbidden |  |  |  |  |  |  |  |  |  |  |
| Butanols | 3 | UN1120 | II | 3 | IB2, T4, TP1, TP29 | 150 | 202 | 242 | 5 L | 60 L | B |
|  |  |  | III | 3 | B1, IB3, T2, TP1 | 150 | 203 | 242 | 60 L | 220 L | A |
| tert-Butoxycarbonyl azide | Forbidden |  |  |  |  |  |  |  |  |  |  |
| Butyl acetates | 3 | UN1123 | II | 3 | IB2, T4, TP1 | 150 | 202 | 242 | 5 L | 60 L | B |
|  |  |  | III | 3 | B1, IB3, T2, TP1 | 150 | 203 | 242 | 60 L | 220 L | A |
| Butyl acid phosphate | 8 | UN1718 | III | 8 | IB3, T4, TP1 | 154 | 203 | 241 | 5 L | 60 L | A |
| Butyl acrylates, stabilized | 3 | UN2348 | III | 3 | B1, IB3, T2, TP1 | 150 | 203 | 242 | 60 L | 220 L | A |
| Butyl alcohols, see Butanols |  |  |  |  |  |  |  |  |  |  |  |
| Butyl benzenes | 3 | UN2709 | III | 3 | B1, IB3, T2, TP1 | 150 | 203 | 242 | 60 L | 220 L | A |
| n-Butyl bromide, see 1-Bromobutane |  |  |  |  |  |  |  |  |  |  |  |
| n-Butyl chloride, see Chlorobutanes |  |  |  |  |  |  |  |  |  |  |  |
D | sec-Butyl chloroformate | 6.1 | NA2742 | I | 6.1, 3, 8 | 2, B9, B14, B32, B74, T20, TP4, TP12, TP13, TP38, TP45 | None | 227 | 244 | 1 L | 30 L | A | 12, 13, 22, 25, 40, 48, 100
| n-Butyl chloroformate | 6.1 | UN2743 | I | 6.1, 8, 3 | 2, B9, B14, B32, B74, T20, TP2, TP13, TP38, TP45 | None | 227 | 244 | Forbidden | Forbidden | A | 12, 13, 21, 25, 40, 100
| Butyl ethers, see Dibutyl ethers |  |  |  |  |  |  |  |  |  |  |  |
| Butyl ethyl ether, see Ethyl butyl ether |  |  |  |  |  |  |  |  |  |  |  |
| n-Butyl formate | 3 | UN1128 | II | 3 | IB2, T4, TP1 | 150 | 202 | 242 | 5 L | 60 L | B |
| tert-Butyl hydroperoxide, with more than 90 percent with water | Forbidden |  |  |  |  |  |  |  |  |  |  |
| tert-Butyl hypochlorite | 4.2 | UN3255 | I | 4.2, 8 |  | None | 211 | 243 | Forbidden | Forbidden | D |
| N-n-Butyl imidazole | 6.1 | UN2690 | II | 6.1 | IB2, T7, TP2 | 153 | 202 | 243 | 5 L | 60 L | A |
| tert-Butyl isocyanate | 6.1 | UN2484 | I | 6.1, 3 | 1, B9, B14, B30, B72, T22, TP2, TP13, TP38, TP44 | None | 226 | 244 | Forbidden | Forbidden | D | 40
| n-Butyl isocyanate | 6.1 | UN2485 | I | 6.1, 3 | 2, B9, B14, B32, B74, B77, T20, TP2, TP13, TP38, TP45 | None | 227 | 244 | Forbidden | Forbidden | D | 40
| Butyl mercaptans | 3 | UN2347 | II | 3 | A3, A6, IB2, T4, TP1 | 150 | 202 | 242 | 5 L | 60 L | D | 52, 95
| n-Butyl methacrylate, stabilized | 3 | UN2227 | III | 3 | B1, IB3, T2, TP1 | 150 | 203 | 242 | 60 L | 220 L | A |
| Butyl methyl ether | 3 | UN2350 | II | 3 | IB2, T4, TP1 | 150 | 202 | 242 | 5 L | 60 L | B |
| Butyl nitrites | 3 | UN2351 | I | 3 | T11, TP1, TP8, TP27 | 150 | 201 | 243 | 1 L | 30 L | E | 40
|  |  |  | II | 3 | IB2, T4, TP1 | 150 | 202 | 242 | 5 L | 60 L | B | 40
|  |  |  | III | 3 | B1, IB3, T2, TP1 | 150 | 203 | 242 | 60 L | 220 L | A | 40
| tert-Butyl peroxyacetate, with more than 76 percent in solution | Forbidden |  |  |  |  |  |  |  |  |  |  |
| n-Butyl peroxydicarbonate, with more than 52 percent in solution | Forbidden |  |  |  |  |  |  |  |  |  |  |
| tert-Butyl peroxyisobutyrate, with more than 77 percent in solution | Forbidden |  |  |  |  |  |  |  |  |  |  |
| Butyl phosphoric acid, see Butyl acid phosphate |  |  |  |  |  |  |  |  |  |  |  |
| Butyl propionates | 3 | UN1914 | III | 3 | B1, IB3, T2, TP1 | 150 | 203 | 242 | 60 L | 220 L | A |
| 5-tert-Butyl-2,4,6-trinitro-m-xylene or Musk xylene | 4.1 | UN2956 | III | 4.1 | 159 | None | 223 | None | Forbidden | Forbidden | D | D12, 25, 48, 127
| Butyl vinyl ether, stabilized | 3 | UN2352 | II | 3 | IB2, T4, TP1 | 150 | 202 | 242 | 5 L | 60 L | B | 40
| n-Butylamine | 3 | UN1125 | II | 3, 8 | IB2, T7, TP1 | 150 | 202 | 242 | 1 L | 5 L | B | 40
| N-Butylaniline | 6.1 | UN2738 | II | 6.1 | IB2, T7, TP2 | 153 | 202 | 243 | 5 L | 60 L | A | 74
| tert-Butylcyclohexylchloroformate | 6.1 | UN2747 | III | 6.1 | IB3, T4, TP1 | 153 | 203 | 241 | 60 L | 220 L | A | 12, 13, 25
| Butylene see also Petroleum gases, liquefied | 2.1 | UN1012 |  | 2.1 | 19, T50 | 306 | 304 | 314, 315 | Forbidden | 150 kg | E | 40
| 1,2-Butylene oxide, stabilized | 3 | UN3022 | II | 3 | IB2, T4, TP1 | 150 | 202 | 242 | 5 L | 60 L | B | 27, 49
| Butyltoluenes | 6.1 | UN2667 | III | 6.1 | IB3, T4, TP1 | 153 | 203 | 241 | 60 L | 220 L | A |
| Butyltrichlorosilane | 8 | UN1747 | II | 8, 3 | A7, B2, B6, IB2, N34, T7, TP2, TP13 | None | 202 | 243 | Forbidden | 30 L | C | 40
| 1,4-Butynediol | 6.1 | UN2716 | III | 6.1 | A1, IB8, IP3, T1, TP33 | None | 213 | 240 | 100 kg | 200 kg | A | 52, 53, 70, 139, 140
| Butyraldehyde | 3 | UN1129 | II | 3 | IB2, T4, TP1 | 150 | 202 | 242 | 5 L | 60 L | B |
| Butyraldoxime | 3 | UN2840 | III | 3 | B1, IB3, T2, TP1 | 150 | 203 | 242 | 60 L | 220 L | A |
| Butyric acid | 8 | UN2820 | III | 8 | IB3, T4, TP1 | 154 | 203 | 241 | 5 L | 60 L | A | 12
| Butyric anhydride | 8 | UN2739 | III | 8 | IB3, T4, TP1 | 154 | 203 | 241 | 5 L | 60 L | A |
| Butyronitrile | 3 | UN2411 | II | 3, 6.1 | IB2, T7, TP1, TP13 | 150 | 202 | 243 | 1 L | 60 L | E | 40
| Butyryl chloride | 3 | UN2353 | II | 3, 8 | IB2, T8, TP2, TP12, TP13 | 150 | 202 | 243 | 1 L | 5 L | C | 40
| Cacodylic acid | 6.1 | UN1572 | II | 6.1 | IB8, IP2, IP4,T3, TP33 | 153 | 212 | 242 | 25 kg | 100 kg | E | 52
| Cadmium compounds | 6.1 | UN2570 | I | 6.1 | IB7, IP1, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
| Caesium hydroxide | 8 | UN2682 | II | 8 | IB8, IP2, IP4, T3, TP33 | 154 | 212 | 240 | 15 kg | 50 kg | A | 29
| Caesium hydroxide solution | 8 | UN2681 | II | 8 | B2, IB2, T7, TP2 | 154 | 202 | 242 | 1 L | 30 L | A | 29
|  |  |  | III | 8 | IB3, T4, TP1 | 154 | 203 | 241 | 5 L | 60 L | A | 29
| Calcium | 4.3 | UN1401 | II | 4.3 | IB7, IP2, T3, TP33 | 151 | 212 | 241 | 15 kg | 50 kg | E | 52
| Calcium arsenate | 6.1 | UN1573 | II | 6.1 | IB8, IP2, IP4, T3, TP33 | 152 | 212 | 242 | 25 kg | 100 kg | A |
| Calcium arsenate and calcium arsenite, mixtures, solid | 6.1 | UN1574 | II | 6.1 | IB8, IP2, IP4, T3, TP33 | 152 | 212 | 242 | 25 kg | 100 kg | A |
| Calcium bisulfite solution, see Bisulfites, aqueous solutions, n.o.s. |  |  |  |  |  |  |  |  |  |  |  |
| Calcium carbide | 4.3 | UN1402 | I | 4.3 | A1, A8, B55, B59, IB4, IP1, N34, T9, TP7, TP33 | None | 211 | 242 | Forbidden | 15 kg | B | 52
|  |  |  | II | 4.3 | A1, A8, B55, B59, IB7, IP2, N34, T3, TP33 | 151 | 212 | 241 | 15 kg | 50 kg | B | 52
| Calcium chlorate | 5.1 | UN1452 | II | 5.1 | A9, IB8, IP2, IP4, N34, T3, TP33 | 152 | 212 | 242 | 5 kg | 25 kg | A | 56, 58
| Calcium chlorate aqueous solution | 5.1 | UN2429 | II | 5.1 | A2, IB2, N41, T4, TP1 | 152 | 202 | 242 | 1 L | 5 L | B | 56, 58, 133
|  |  |  | III | 5.1 | A2, IB2, N41, T4, TP1 | 152 | 203 | 241 | 2.5 L | 30 L | B | 56, 68, 133
| Calcium chlorite | 5.1 | UN1453 | II | 5.1 | A9, IB8, IP2, IP4, N34, T3, TP33 | 152 | 212 | 242 | 5 kg | 25 kg | A | 56, 58
| Calcium cyanamide with more than 0.1 percent of calcium carbide | 4.3 | UN1403 | III | 4.3 | A1, A19, IB8, IP4, T1, TP33 | 151 | 213 | 241 | 25 kg | 100 kg | A | 52
| Calcium cyanide | 6.1 | UN1575 | I | 6.1 | IB7, IP1, N79, N80, T6, TP33 | None | 211 | 242 | 5 kg | 50 kg | A | 40, 52
| Calcium dithionite or Calcium hydrosulfite | 4.2 | UN1923 | II | 4.2 | A19, A20, IB6, IP2, T3, TP33 | None | 212 | 241 | 15 kg | 50 kg | E | 13
| Calcium hydride | 4.3 | UN1404 | I | 4.3 | A19, N40 | None | 211 | 242 | Forbidden | 15 kg | E | 52
| Calcium hydrosulfite, see Calcium dithionite |  |  |  |  |  |  |  |  |  |  |  |
| Calcium hypochlorite, dry or Calcium hypochlorite mixtures dry with more than 39 percent available chlorine (8.8 percent available oxygen) | 5.1 | UN1748 | II | 5.1 | 165, 166, A7, A9, IB8, IP2, IP4, IP13, N34, W9 | 152 | 212 | None | 5 kg | 25 kg | D | 4, 25, 48, 52, 56, 58, 69, 142
|  |  |  | III | 5.1 | 165, 171, A7, A9, IB8, IP4, IP13, N34, W9 | 152 | 213 | 240 | 25 kg | 100 kg | D | 4, 25, 48, 52, 56, 58, 69, 142
| Calcium hypochlorite, hydrated or Calcium hypochlorite, hydrated mixtures, with not less than 5.5 percent but not more than 16 percent water | 5.1 | UN2880 | II | 5.1 | 165, 166, IB8, IP2, IP4, IP13, W9 | 152 | 212 | 240 | 5 kg | 25 kg | D | 4, 25, 48, 52, 56, 58, 69, 142
|  |  |  | III | 5.1 | 165, 171, IB8, IP4, IP13, W9 | 152 | 213 | 240 | 25 kg | 100 kg | D | 4, 25, 48, 52, 56, 58, 69, 142
| Calcium hypochlorite mixtures, dry, with more than 10 percent but not more than 39 percent available chlorine | 5.1 | UN2208 | III | 5.1 | 165, A1, A29, IB8, IP3, IP13, N34, W9 | 152 | 213 | 240 | 25 kg | 100 kg | D | 4, 25, 48, 52, 56, 58, 69, 142
| Calcium manganese silicon | 4.3 | UN2844 | III | 4.3 | A1, A19, IB8, IP2, IP4, T1, TP33 | 151 | 213 | 241 | 25 kg | 100 kg | A | 52, 85, 103
| Calcium nitrate | 5.1 | UN1454 | III | 5.1 | 34, IB8, IP3, T1, TP33 | 152 | 213 | 240 | 25 kg | 100 kg | A |
A | Calcium oxide | 8 | UN1910 | III | 8 | IB8, IP3, T1, TP33 | 154 | 213 | 240 | 25 kg | 100 kg | A |
| Calcium perchlorate | 5.1 | UN1455 | II | 5.1 | IB6, IP2, T3, TP33 | 152 | 212 | 242 | 5 kg | 25 kg | A | 56, 58
| Calcium permanganate | 5.1 | UN1456 | II | 5.1 | IB6, IP2, T3, TP33 | 152 | 212 | 242 | 5 kg | 25 kg | D | 56, 58, 138
| Calcium peroxide | 5.1 | UN1457 | II | 5.1 | IB6, IP2, T3, TP33 | 152 | 212 | 242 | 5 kg | 25 kg | A | 13, 52, 56, 75
| Calcium phosphide | 4.3 | UN1360 | I | 4.3, 6.1 | A8, A19, N40 | None | 211 | 242 | Forbidden | 15 kg | E | 40, 52, 85
| Calcium, pyrophoric or Calcium alloys, pyrophoric | 4.2 | UN1855 | I | 4.2 |  | None | 187 | None | Forbidden | Forbidden | D |
| Calcium resinate | 4.1 | UN1313 | III | 4.1 | A1, A19, IB6, T1, TP33 | None | 213 | 240 | 25 kg | 100 kg | A |
| Calcium resinate, fused | 4.1 | UN1314 | III | 4.1 | A1, A19, IB4, T1, TP33 | None | 213 | 240 | 25 kg | 100 kg | A |
| Calcium selenate, see Selenates or Selenites |  |  |  |  |  |  |  |  |  |  |  |
| Calcium silicide | 4.3 | UN1405 | II | 4.3 | A19, IB7, IP2, T3, TP33 | 151 | 212 | 241 | 15 kg | 50 kg | B | 52, 85, 103
|  |  |  | III | 4.3 | A1, A19, IB8, IP4, T1, TP33 | 151 | 213 | 241 | 25 kg | 100 kg | B | 52, 85, 103
| Camphor oil | 3 | UN1130 | III | 3 | B1, IB3, T2, TP1 | 150 | 203 | 242 | 60 L | 220 L | A |
| Camphor, synthetic | 4.1 | UN2717 | III | 4.1 | A1, IB8, IP3, T1, TP33 | None | 213 | 240 | 25 kg | 100 kg | A |
| Cannon primers, see Primers, tubular |  |  |  |  |  |  |  |  |  |  |  |
| Caproic acid | 8 | UN2829 | III | 8 | IB3, T4, TP1 | 154 | 203 | 241 | 5 L | 60 L | A |
| Caps, blasting, see Detonators, etc |  |  |  |  |  |  |  |  |  |  |  |
| Carbamate pesticides, liquid, flammable, toxic, flash point less than 23 degrees C | 3 | UN2758 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Carbamate pesticides, liquid, toxic | 6.1 | UN2992 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Carbamate pesticides, liquid, toxic, flammable, flash point not less than 23 degrees C | 6.1 | UN2991 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2, TP28 | 153 | 203 | 242 | 60 L | 220 L | A | 40
| Carbamate pesticides, solid, toxic | 6.1 | UN2757 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Carbolic acid, see Phenol, solid or Phenol, molten |  |  |  |  |  |  |  |  |  |  |  |
| Carbolic acid solutions, see Phenol solutions |  |  |  |  |  |  |  |  |  |  |  |
I | Carbon, activated | 4.2 | UN1362 | III | 4.2 | IB8, IP3, T1, TP33 | None | 213 | 241 | 0.5 kg | 0.5 kg | A | 12
I | Carbon, animal or vegetable origin | 4.2 | UN1361 | II | 4.2 | IB6, T3, TP33 | None | 212 | 242 | Forbidden | Forbidden | A | 12
|  |  |  | III | 4.2 | IB8, IP3, T1, TP33 | None | 213 | 241 | Forbidden | Forbidden | A | 12
| Carbon bisulfide, see Carbon disulfide |  |  |  |  |  |  |  |  |  |  |  |
| Carbon dioxide | 2.2 | UN1013 |  | 2.2 |  | 306 | 302, 304 | 302, 314, 315 | 75 kg | 150 kg | A |
| Carbon dioxide and nitrous oxide mixtures | 2.2 | UN1015 |  | 2.2 |  | 306 | None | 314, 315 | 75 kg | 150 kg | A |
| Carbon dioxide and oxygen mixtures, compressed | 2.2 | UN1014 |  | 2.2, 5.1 | 77, A14 | 306 | 304 | 314, 315 | 75 kg | 150 kg | A |
| Carbon dioxide, refrigerated liquid | 2.2 | UN2187 |  | 2.2 | T75, TP5 | 306 | 304 | 314, 315 | 50 kg | 500 kg | B |
A W | Carbon dioxide, solid or Dry ice | 9 | UN1845 | III | None |  | 217 | 217 | 240 | 200 kg | 200 kg | C | 40
| Carbon disulfide | 3 | UN1131 | I | 3, 6.1 | B16, T14, TP2, TP7, TP13 | None | 201 | 243 | Forbidden | Forbidden | D | 18, 40, 115
| Carbon monoxide, compressed | 2.3 | UN1016 |  | 2.3, 2.1 | 4 | None | 302 | 314, 315 | Forbidden | 25 kg | D | 40
| Carbon monoxide and hydrogen mixture, compressed | 2.3 | UN2600 |  | 2.3, 2.1 | 6 | None | 302 | 302 | Forbidden | Forbidden | D | 40, 57
D | Carbon monoxide, refrigerated liquid (cryogenic liquid) | 2.3 | NA9202 |  | 2.3, 2.1 | 4, T75, TP5 | None | 316 | 318 | Forbidden | Forbidden | D |
| Carbon tetrabromide | 6.1 | UN2516 | III | 6.1 | IB8, IP3, T1, TP33 | 153 | 213 | 240 | 100 kg | 200 kg | A | 25
| Carbon tetrachloride | 6.1 | UN1846 | II | 6.1 | IB2, N36, T7, TP2 | 153 | 202 | 243 | 5 L | 60 L | A | 40
| Carbonyl chloride, see Phosgene |  |  |  |  |  |  |  |  |  |  |  |
| Carbonyl fluoride | 2.3 | UN2417 |  | 2.3, 8 | 2 | None | 302 | None | Forbidden | Forbidden | D | 40
| Carbonyl sulfide | 2.3 | UN2204 |  | 2.3, 2.1 | 3, B14 | None | 304 | 314, 315 | Forbidden | Forbidden | D | 40
| Cartridge cases, empty primed, see Cases, cartridge, empty, with primer |  |  |  |  |  |  |  |  |  |  |  |
| Cartridges, actuating, for aircraft ejector seat catapult, fire extinguisher, canopy removal or apparatus, see Cartridges, power device |  |  |  |  |  |  |  |  |  |  |  |
| Cartridges, explosive, see Charges, demolition |  |  |  |  |  |  |  |  |  |  |  |
| Cartridges, flash | 1.1G | UN0049 | II | 1.1G |  | None | 62 | None | Forbidden | Forbidden | 07 |
| Cartridges, flash | 1.3G | UN0050 | II | 1.3G |  | None | 62 | None | Forbidden | 75 kg | 07 |
| Cartridges for weapons, blank | 1.1C | UN0326 | II | 1.1C |  | None | 62 | None | Forbidden | Forbidden | 07 |
| Cartridges for weapons, blank | 1.2C | UN0413 | II | 1.2C |  | None | 62 | None | Forbidden | Forbidden | 07 |
| Cartridges for weapons, blank or Cartridges, small arms, blank | 1.4S | UN0014 | II | None |  | 63 | 62 | None | 25 kg | 100 kg | 05 |
| Cartridges for weapons, blank or Cartridges, small arms, blank | 1.3C | UN0327 | II | 1.3C |  | None | 62 | None | Forbidden | Forbidden | 07 |
| Cartridges for weapons, blank or Cartridges, small arms, blank | 1.4C | UN0338 | II | 1.4C |  | None | 62 | None | Forbidden | 75 kg | 06 |
| Cartridges for weapons, inert projectile | 1.2C | UN0328 | II | 1.2C |  | None | 62 | None | Forbidden | Forbidden | 03 |
| Cartridges for weapons, inert projectile or Cartridges, small arms | 1.4S | UN0012 | II | None |  | 63 | 62 | None | 25 kg | 100 kg | 05 |
| Cartridges for weapons, inert projectile or Cartridges, small arms | 1.4C | UN0339 | II | 1.4C |  | None | 62 | None | Forbidden | 75 kg | 06 |
| Cartridges for weapons, inert projectile or Cartridges, small arms | 1.3C | UN0417 | II | 1.3C |  | None | 62 | None | Forbidden | Forbidden | 06 |
| Cartridges for weapons, with bursting charge | 1.1F | UN0005 | II | 1.1F |  | None | 62 | None | Forbidden | Forbidden | 08 |
| Cartridges for weapons, with bursting charge | 1.1E | UN0006 | II | 1.1E |  | None | 62 | None | Forbidden | Forbidden | 03 |
| Cartridges for weapons, with bursting charge | 1.2F | UN0007 | II | 1.2F |  | None | 62 | None | Forbidden | Forbidden | 08 |
| Cartridges for weapons, with bursting charge | 1.2E | UN0321 | II | 1.2E |  | None | 62 | None | Forbidden | Forbidden | 03 |
| Cartridges for weapons, with bursting charge | 1.4F | UN0348 | II | 1.4F |  | None | 62 | None | Forbidden | Forbidden | 08 |
| Cartridges for weapons, with bursting charge | 1.4E | UN0412 | II | 1.4E |  | None | 62 | None | Forbidden | 75 kg | 02 |
| Cartridges, oil well | 1.3C | UN0277 | II | 1.3C |  | None | 62 | None | Forbidden | Forbidden | 07 |
| Cartridges, oil well | 1.4C | UN0278 | II | 1.4C |  | None | 62 | None | Forbidden | 75 kg | 06 |
| Cartridges, power device | 1.3C | UN0275 | II | 1.3C |  | None | 62 | None | Forbidden | 75 kg | 07 |
| Cartridges, power device | 1.4C | UN0276 | II | 1.4C | 110 | None | 62 | None | Forbidden | 75 kg | 06 |
| Cartridges, power device | 1.4S | UN0323 | II | 1.4S | 110 | 63 | 62 | None | 25 kg | 100 kg | 05 |
| Cartridges, power device | 1.2C | UN0381 | II | 1.2C |  | None | 62 | None | Forbidden | Forbidden | 07 |
| Cartridges, safety, blank, see Cartridges for weapons, blank (UN 0014) |  |  |  |  |  |  |  |  |  |  |  |
| Cartridges, safety, see Cartridges for weapons, other than blank or Cartridges, power device (UN 0323) |  |  |  |  |  |  |  |  |  |  |  |
| Cartridges, signal | 1.3G | UN0054 | II | 1.3G |  | None | 62 | None | Forbidden | 75 kg | 07 |
| Cartridges, signal | 1.4G | UN0312 | II | 1.4G |  | None | 62 | None | Forbidden | 75 kg | 06 |
| Cartridges, signal | 1.4S | UN0405 | II | 1.4S |  | None | 62 | None | 25 kg | 100 kg | 05 |
D | Cartridges, small arms | ORM-D |  |  | None |  | 63 | None | None | 30 kg gross | 30 kg gross | A |
D | Cartridges power device (used to project fastening devices) | ORM-D |  |  | None |  | 63 | None | None | 30 kg gross | 30 kg gross | A |
| Cartridges, sporting, see Cartridges for weapons, other than blank |  |  |  |  |  |  |  |  |  |  |  |
| Cartridges, starter, jet engine, see Cartridges, power device |  |  |  |  |  |  |  |  |  |  |  |
| Cases, cartridge, empty with primer | 1.4S | UN0055 | II | 1.4S | 50 | None | 62 | None | 25 kg | 100 kg | 05 |
| Cases, cartridges, empty with primer | 1.4C | UN0379 | II | 1.4C | 50 | None | 62 | None | Forbidden | 75 kg | 06 |
| Cases, combustible, empty, without primer | 1.4C | UN0446 | II | 1.4C |  | None | 62 | None | Forbidden | 75 kg | 06 |
| Cases, combustible, empty, without primer | 1.3C | UN0447 | II | 1.3C |  | None | 62 | None | Forbidden | Forbidden | 07 |
| Casinghead gasoline see Gasoline |  |  |  |  |  |  |  |  |  |  |  |
A W | Castor beans or Castor meal or Castor pomace or Castor flake | 9 | UN2969 | II | None | IB8, IP2, IP4, T3, TP33 | 155 | 204 | 240 | No limit | No limit | E | 34, 40
G | Caustic alkali liquids, n.o.s. | 8 | UN1719 | II | 8 | B2, IB2, T11, TP2, TP27 | 154 | 202 | 242 | 1 L | 30 L | A | 29
|  |  |  | III | 8 | IB3, T7, TP1, TP28 | 154 | 203 | 241 | 5 L | 60 L | A | 29
| Caustic potash, see Potassium hydroxide etc |  |  |  |  |  |  |  |  |  |  |  |
| Caustic soda, (etc.) see Sodium hydroxide etc |  |  |  |  |  |  |  |  |  |  |  |
| Cells, containing sodium | 4.3 | UN3292 | II | 4.3 |  | 189 | 189 | 189 | 25 kg gross | No limit | A |
| Celluloid, in block, rods, rolls, sheets, tubes, etc., except scrap | 4.1 | UN2000 | III | 4.1 |  | None | 213 | 240 | 25 kg | 100 kg | A |
| Celluloid, scrap | 4.2 | UN2002 | III | 4.2 | IB8, IP3 | None | 213 | 241 | Forbidden | Forbidden | D |
| Cement, see Adhesives containing flammable liquid |  |  |  |  |  |  |  |  |  |  |  |
| Cerium, slabs, ingots, or rods | 4.1 | UN1333 | II | 4.1 | IB8, IP2, IP4, N34 | None | 212 | 240 | 15 kg | 50 kg | A | 74, 91
| Cerium, turnings or gritty powder | 4.3 | UN3078 | II | 4.3 | A1, IB7, IP2, T3, TP33 | 151 | 212 | 242 | 15 kg | 50 kg | E | 52
| Cesium or Caesium | 4.3 | UN1407 | I | 4.3 | A7, A19, IB4, IP1, N34, N40 | None | 211 | 242 | Forbidden | 15 kg | D | 52
| Cesium nitrate or Caesium nitrate | 5.1 | UN1451 | III | 5.1 | A1, A29, IB8, IP3, T1, TP33 | 152 | 213 | 240 | 25 kg | 100 kg | A |
D | Charcoal briquettes, shell, screenings, wood, etc. | 4.2 | NA1361 | III | 4.2 | IB8, T1, TP33 | 151 | 213 | 240 | 25 kg | 100 kg | A | 12
| Charges, bursting, plastics bonded | 1.1D | UN0457 | II | 1.1D |  | None | 62 | None | Forbidden | Forbidden | 07 |
| Charges, bursting, plastics bonded | 1.2D | UN0458 | II | 1.2D |  | None | 62 | None | Forbidden | Forbidden | 07 |
| Charges, bursting, plastics bonded | 1.4D | UN0459 | II | 1.4D |  | None | 62 | None | Forbidden | 75 kg | 06 |
| Charges, bursting, plastics bonded | 1.4S | UN0460 | II | 1.4S |  | None | 62 | None | 25 kg | 100 kg | 05 |
| Charges, demolition | 1.1D | UN0048 | II | 1.1D |  | None | 62 | None | Forbidden | Forbidden | 03 |
| Charges, depth | 1.1D | UN0056 | II | 1.1D |  | None | 62 | None | Forbidden | Forbidden | 03 |
| Charges, expelling, explosive, for fire extinguishers, see Cartridges, power device |  |  |  |  |  |  |  |  |  |  |  |
| Charges, explosive, commercial without detonator | 1.1D | UN0442 | II | 1.1D |  | None | 62 | None | Forbidden | Forbidden | 07 |
| Charges, explosive, commercial without detonator | 1.2D | UN0443 | II | 1.2D |  | None | 62 | None | Forbidden | Forbidden | 07 |
| Charges, explosive, commercial without detonator | 1.4D | UN0444 | II | 1.4D |  | None | 62 | None | Forbidden | 75 kg | 06 |
| Charges, explosive, commercial without detonator | 1.4S | UN0445 | II | 1.4S |  | None | 62 | None | 25 kg | 100 kg | 05 |
| Charges, propelling | 1.1C | UN0271 | II | 1.1C |  | None | 62 | None | Forbidden | Forbidden | 07 |
| Charges, propelling | 1.3C | UN0272 | II | 1.3C |  | None | 62 | None | Forbidden | Forbidden | 07 |
| Charges, propelling | 1.2C | UN0415 | II | 1.2C |  | None | 62 | None | Forbidden | Forbidden | 07 |
| Charges, propelling | 1.4C | UN0491 | II | 1.4C |  | None | 62 | None | Forbidden | 75 kg | 06 |
| Charges, propelling, for cannon | 1.3C | UN0242 | II | 1.3C |  | None | 62 | None | Forbidden | Forbidden | 10 |
| Charges, propelling, for cannon | 1.1C | UN0279 | II | 1.1C |  | None | 62 | None | Forbidden | Forbidden | 10 |
| Charges, propelling, for cannon | 1.2C | UN0414 | II | 1.2C |  | None | 62 | None | Forbidden | Forbidden | 10 |
| Charges, shaped, flexible, linear | 1.4D | UN0237 | II | 1.4D |  | None | 62 | None | Forbidden | 75 kg | 06 |
| Charges, shaped, flexible, linear | 1.1D | UN0288 | II | 1.1D | 101 | None | 62 | None | Forbidden | Forbidden | 07 |
| Charges, shaped, without detonator | 1.1D | UN0059 | II | 1.1D |  | None | 62 | None | Forbidden | Forbidden | 07 |
| Charges, shaped, without detonator | 1.2D | UN0439 | II | 1.2D |  | None | 62 | None | Forbidden | Forbidden | 07 |
| Charges, shaped, without detonator | 1.4D | UN0440 | II | 1.4D |  | None | 62 | None | Forbidden | 75 kg | 06 |
| Charges, shaped, without detonator | 1.4S | UN0441 | II | 1.4S |  | None | 62 | None | 25 kg | 100 kg | 05 |
| Charges, supplementary explosive | 1.1D | UN0060 | II | 1.1D |  | None | 62 | None | Forbidden | Forbidden | 10 |
D | Chemical kit | 8 | NA1760 | II | 8 |  | 154 | 161 | None | 1 L | 30 L | B | 40
| Chemical kits | 9 | UN3316 |  | 9 | 15 | 161 | 161 | None | 10 kg | 10 kg | A |
| Chloral, anhydrous, stabilized | 6.1 | UN2075 | II | 6.1 | IB2, T7, TP2 | 153 | 202 | 243 | 5 L | 60 L | D | 40
| Chlorate and borate mixtures | 5.1 | UN1458 | II | 5.1 | A9, IB8, IP2, IP4, N34, T3, TP33 | 152 | 212 | 240 | 5 kg | 25 kg | A | 56, 58
|  |  |  | III | 5.1 | A9, IB8, IP3, N34, T1, TP33 | 152 | 213 | 240 | 25 kg | 100 kg | A | 56, 58
| Chlorate and magnesium chloride mixture, solid | 5.1 | UN1459 | II | 5.1 | A9, IB8, IP2, IP4, N34, T3, TP33 | 152 | 212 | 240 | 5 kg | 25 kg | A | 56, 58
| Chlorate and magnesium chloride mixture solution | 5.1 | UN3407 | II | 5.1 | A9, IB2, N34, T4, TP1 | 152 | 202 | 242 | 1 L | 5 L | A | 56, 58, 133
|  |  |  | III | 5.1 | A9, IB2, N34, T4, TP1 | 152 | 203 | 241 | 2.5 L | 30 L | A | 56, 58, 133
| Chlorate and magnesium chloride mixture, solid | 5.1 | UN1459 | III | 5.1 | A9, IB8, IP3, N34, T1, TP33 | 152 | 213 | 240 | 25 kg | 100 kg | A | 56, 58
| Chlorate of potash, see Potassium chlorate |  |  |  |  |  |  |  |  |  |  |  |
| Chlorate of soda, see Sodium chlorate |  |  |  |  |  |  |  |  |  |  |  |
| Chlorates, inorganic, aqueous solution, n.o.s. | 5.1 | UN3210 | II | 5.1 | IB2, T4, TP1 | 152 | 202 | 242 | 1 L | 5 L | B | 56, 58, 133
|  |  |  | III | 5.1 | IB2, T4, TP1 | 152 | 203 | 241 | 2.5 L | 30 L | B | 56, 58, 133
| Chlorates, inorganic, n.o.s. | 5.1 | UN1461 | II | 5.1 | A9, IB6, IP2, N34, T3, TP33 | 152 | 212 | 242 | 5 kg | 25 kg | A | 56, 58
| Chloric acid aqueous solution, with not more than 10 percent chloric acid | 5.1 | UN2626 | II | 5.1 | IB2, T4, TP1 | None | 229 | None | Forbidden | Forbidden | D | 56, 58
| Chloride of phosphorus, see Phosphorus trichloride |  |  |  |  |  |  |  |  |  |  |  |
| Chloride of sulfur, see Sulfur chloride |  |  |  |  |  |  |  |  |  |  |  |
| Chlorinated lime, see Calcium hypochlorite mixtures, etc |  |  |  |  |  |  |  |  |  |  |  |
| Chlorine | 2.3 | UN1017 |  | 2.3, 8 | 2, B9, B14, T50, TP19 | None | 304 | 314, 315 | Forbidden | Forbidden | D | 40, 51, 55, 62, 68, 89, 90
| Chlorine azide | Forbidden |  |  |  |  |  |  |  |  |  |  |
D | Chlorine dioxide, hydrate, frozen | 5.1 | NA9191 | II | 5.1, 6.1 |  | None | 229 | None | Forbidden | Forbidden | E |
| Chlorine dioxide (not hydrate) | Forbidden |  |  |  |  |  |  |  |  |  |  |
| Chlorine pentafluoride | 2.3 | UN2548 |  | 2.3, 5.1, 8 | 1, B7, B9, B14 | None | 304 | 314 | Forbidden | Forbidden | D | 40, 89, 90
| Chlorine trifluoride | 2.3 | UN1749 |  | 2.3, 5.1, 8 | 2, B7, B9, B14 | None | 304 | 314 | Forbidden | Forbidden | D | 40, 89, 90
| Chlorite solution | 8 | UN1908 | II | 8 | A3, A6, A7, B2, IB2, N34, T7, TP2, TP24 | 154 | 202 | 242 | 1 L | 30 L | B | 26, 44, 89, 100, 141
|  |  |  | III | 8 | A3, A6, A7, B2, IB3, N34, T4, TP2, TP24 | 154 | 203 | 241 | 5 L | 60 L | B | 26, 44, 89, 100, 141
| Chlorites, inorganic, n.o.s. | 5.1 | UN1462 | II | 5.1 | A7, IB6, IP2, N34, T3, TP33 | 152 | 212 | 242 | 5 kg | 25 kg | A | 56, 58
| 1-Chloro-1,1-difluoroethane or Refrigerant gas R 142b | 2.1 | UN2517 |  | 2.1 | T50 | 306 | 304 | 314, 315 | Forbidden | 150 kg | B | 40
| 3-Chloro-4-methylphenyl isocyanate, liquid | 6.1 | UN2236 | II | 6.1 | IB2 | 153 | 202 | 243 | 5 L | 60 L | B | 40
| 3-Chloro-4-methylphenyl isocyanate, solid | 6.1 | UN3428 | II | 6.1 | IB8, IP2, IP4, T3, TP33 | 153 | 212 | 242 | 25 kg | 100 kg | B | 40
| 1-Chloro-1,2,2,2-tetrafluoroethaneor Refrigerant gas R 124 | 2.2 | UN1021 |  | 2.2 | T50 | 306 | 304 | 314, 315 | 75 kg | 150 kg | A |
| 4-Chloro-o-toluidine hydrochloride, solid | 6.1 | UN1579 | III | 6.1 | IB8, IP3, T1, TP33 | 153 | 213 | 240 | 100 kg | 200 kg | A |
| 4-Chloro-o-toluidine hydrochloride, solution | 6.1 | UN3410 | III | 6.1 | IB3, T4, TP1 | 153 | 203 | 241 | 60 L | 220 L | A |
| 1-Chloro-2,2,2-trifluoroethane or Refrigerant gas R 133a | 2.2 | UN1983 |  | 2.2 | T50 | 306 | 304 | 314, 315 | 75 kg | 150 kg | A |
| Chloroacetic acid, molten | 6.1 | UN3250 | II | 6.1, 8 | IB1, T7, TP3, TP28 | None | 202 | 243 | Forbidden | Forbidden | C | 40
| Chloroacetic acid, solid | 6.1 | UN1751 | II | 6.1, 8 | A3, A7, IB8, IP4, N34, T3, TP33 | 153 | 212 | 242 | 15 kg | 50 kg | A | 40
| Chloroacetic acid, solution | 6.1 | UN1750 | II | 6.1, 8 | A7, IB2, N34, T7, TP2 | 153 | 202 | 243 | 1 L | 30 L | C | 40
| Chloroacetone, stabilized | 6.1 | UN1695 | I | 6.1, 3, 8 | 2, B9, B14, B32, B74, N12, N32, N34, T20, TP2, TP13, TP38, TP45 | None | 227 | 244 | Forbidden | Forbidden | D | 21, 40, 100
| Chloroacetone (unstabilized) | Forbidden |  |  |  |  |  |  |  |  |  |  |
+ | Chloroacetonitrile | 6.1 | UN2668 | II | 6.1, 3 | 2, B9, B14, B32, B74, IB99, T20, TP2, TP38, TP45 | None | 227 | 244 | Forbidden | Forbidden | A | 12, 40, 52
| Chloroacetophenone, liquid CN | 6.1 | UN3416 | II | 6.1 | A3, IB2, N12, N32, N33, T7, TP2, TP13 | None | 202 | 243 | Forbidden | 60 L | D | 12, 40
| Chloroacetophenone, solid (CN) | 6.1 | UN1697 | II | 6.1 | A3, IB8, IP2, IP4, N12, N32, N33, N34, T3, TP33 TP2, TP13 | None | 212 | None | Forbidden | 100 kg | D | 12, 40
| Chloroacetyl chloride | 6.1 | UN1752 | I | 6.1, 8 | 2, B3, B8, B9, B14, B32, B74, B77, N34, N43, T20, TP2, TP13, TP38, TP45 | None | 227 | 244 | Forbidden | Forbidden | D | 40
| Chloroanilines, liquid | 6.1 | UN2019 | II | 6.1 | IB2, T7, TP2 | 153 | 202 | 243 | 5 L | 60 L | A | 52
| Chloroanilines, solid | 6.1 | UN2018 | II | 6.1 | IB8, IP2, IP4, T3, TP33 | 153 | 212 | 242 | 25 kg | 100 kg | A |
| Chloroanisidines | 6.1 | UN2233 | III | 6.1 | IB8, IP3, T1, TP33 | 153 | 213 | 240 | 100 kg | 200 kg | A |
| Chlorobenzene | 3 | UN1134 | III | 3 | B1, IB3, T2, TP1 | 150 | 203 | 242 | 60 L | 220 L | A |
| Chlorobenzol, see Chlorobenzene |  |  |  |  |  |  |  |  |  |  |  |
| Chlorobenzotrifluorides | 3 | UN2234 | III | 3 | B1, IB3, T2, TP1 | 150 | 203 | 242 | 60 L | 220 L | A | 40
| Chlorobenzyl chlorides, liquid | 6.1 | UN2235 | III | 6.1 | IB3, T4, TP1 | 153 | 203 | 241 | 60 L | 220 L | A |
| Chlorobenzyl chlorides, solid | 6.1 | UN3427 | III | 6.1 | IB8, IP3, T1, TP33 | 153 | 213 | 240 | 100 kg | 200 kg | A |
| Chlorobutanes | 3 | UN1127 | II | 3 | IB2, T4, TP1 | 150 | 202 | 242 | 5 L | 60 L | B |
| Chlorocresols solution | 6.1 | UN2669 | II | 6.1 | IB2, T7, TP2 | 153 | 202 | 243 | 5 L | 60 L | A | 12
|  |  |  | III | 6.1 | IB3, T7, TP2 | 153 | 203 | 241 | 60 L | 220 L | A | 12
| Chlorocresols, solid | 6.1 | UN3437 | II | 6.1 | IB8, IP2, IP4, T3, TP33 | 153 | 212 | 242 | 25 kg | 100 kg | A | 12
| Chlorodifluorobromomethane or Refrigerant gas R 12B1 | 2.2 | UN1974 |  | 2.2 | T50 | 306 | 304 | 314, 315 | 75 kg | 150 kg | A |
| Chlorodifluoromethane and chloropentafluoroethane mixture or Refrigerant gas R 502 with fixed boiling point, with approximately 49 percent chlorodifluoromethane | 2.2 | UN1973 |  | 2.2 | T50 | 306 | 304 | 314, 315 | 75 kg | 150 kg | A |
| Chlorodifluoromethane or Refrigerant gas R 22 | 2.2 | UN1018 |  | 2.2 | T50 | 306 | 304 | 314, 315 | 75 kg | 150 kg | A |
+ | Chlorodinitrobenzenes, liquid. | 6.1 | UN1577 | II | 6.1 | IB2, T7, TP2 | 153 | 202 | 243 | 5 L | 60 L | B | 91
| Chlorodinitro-benzenes, solid | 6.1 | UN3441 | II | 6.1 | IB8, IP2, IP4, T3, TP33 | 153 | 212 | 242 | 25 kg | 100 kg | A | 91
| 2-Chloroethanal | 6.1 | UN2232 | I | 6.1 | 2, B9, B14, B32, B74, T20, TP2, TP13, TP38, TP45 | None | 227 | 244 | Forbidden | Forbidden | D | 40
| Chloroform | 6.1 | UN1888 | III | 6.1 | IB3, N36, T7, TP2 | 153 | 203 | 241 | 60 L | 220 L | A | 40
G | Chloroformates, toxic, corrosive, flammable, n.o.s. | 6.1 | UN2742 | II | 6.1, 8, 3 | 5, IB1, T7, TP2 | 153 | 202 | 243 | 1 L | 30 L | A | 12, 13, 21, 25, 40, 100
G | Chloroformates, toxic, corrosive, n.o.s. | 6.1 | UN3277 | II | 6.1, 8 | IB2, T8, TP2, TP13, TP28 | 153 | 202 | 243 | 1 L | 30 L | A | 12, 13, 25, 40
| Chloromethyl chloroformate | 6.1 | UN2745 | II | 6.1, 8 | IB2, T7, TP2, TP13 | 153 | 202 | 243 | 1 L | 30 L | A | 12, 13, 21, 25, 40, 100
| Chloromethyl ethyl ether | 3 | UN2354 | II | 3, 6.1 | IB2, T7, TP1, TP13 | 150 | 202 | 243 | 1 L | 60 L | E | 40
| Chloronitroanilines | 6.1 | UN2237 | III | 6.1 | IB8, IP3, T1, TP33 | 153 | 213 | 240 | 100 kg | 200 kg | A |
+ | Chloronitrobenzene, liquid ortho | 6.1 | UN3409 | II | 6.1 | IB2, T7, TP2 | 153 | 202 | 243 | 5 L | 60 L | A |
+ | Chloronitrobenzenes, solid meta or para | 6.1 | UN1578 | II | 6.1 | IB8, IP2, IP4, T3, TP33 | 153 | 212 | 242 | 25 kg | 100 kg | A |
| Chloronitrotoluenes, liquid | 6.1 | UN2433 | III | 6.1 | IB3, T4, TP1 | 153 | 203 | 241 | 60 L | 220 L | A | 44, 89, 100, 141
| Chloronitrotoluenes, solid | 6.1 | UN3457 | III | 6.1 | IB8, IP3,T1, TP33 | 153 | 213 | 240 | 25 kg | 200 kg | A |
| Chloropentafluoroethane or Refrigerant gas R 115 | 2.2 | UN1020 |  | 2.2 | T50 | 306 | 304 | 314, 315 | 75 kg | 150 kg | A |
| Chlorophenolates, liquid or Phenolates, liquid | 8 | UN2904 | III | 8 | IB3 | 154 | 203 | 241 | 5 L | 60 L | A |
| Chlorophenolates, solid or Phenolates, solid | 8 | UN2905 | III | 8 | IB8, IP3, T1, TP33 | 154 | 213 | 240 | 25 kg | 100 kg | A |
| Chlorophenols, liquid | 6.1 | UN2021 | III | 6.1 | IB3, T4, TP1 | 153 | 203 | 241 | 60 L | 220 L | A |
| Chlorophenols, solid | 6.1 | UN2020 | III | 6.1 | IB8, IP3, T1, TP1, TP33 | 153 | 213 | 240 | 100 kg | 200 kg | A |
| Chlorophenyltrichlorosilane | 8 | UN1753 | II | 8 | A7, B2, B6, IB2, N34, T7, TP2 | None | 202 | 242 | Forbidden | 30 L | C | 40
+ | Chloropicrin | 6.1 | UN1580 | I | 6.1 | 2, B7, B9, B14, B32, B46, B74, T20, TP2, TP13, TP38, TP45 | None | 227 | 244 | Forbidden | Forbidden | D | 40
| Chloropicrin and methyl bromide mixtures | 2.3 | UN1581 |  | 2.3 | 2, B9, B14, T50 | None | 193 | 314, 315 | Forbidden | Forbidden | D | 25, 40
| Chloropicrin and methyl chloride mixtures | 2.3 | UN1582 |  | 2.3 | 2, T50 | None | 193 | 245 | Forbidden | Forbidden | D | 25, 40
| Chloropicrin mixture, flammable (pressure not exceeding 14.7 psia at 115 degrees F flash point below 100 degrees F) see Toxic liquids, flammable, etc |  |  |  |  |  |  |  |  |  |  |  |
| Chloropicrin mixtures, n.o.s. | 6.1 | UN1583 | I | 6.1 | 5 | None | 201 | 243 | Forbidden | Forbidden | C | 40
|  |  |  | II | 6.1 | IB2 | 153 | 202 | 243 | Forbidden | Forbidden | C | 40
|  |  |  | III | 6.1 | IB3 | 153 | 203 | 241 | Forbidden | Forbidden | C | 40
D | Chloropivaloyl chloride | 6.1 | NA9263 | I | 6.1, 8 | 2, B9, B14, B32, B74, T20, TP4, TP12, TP13, TP38, TP45 | None | 227 | 244 | Forbidden | Forbidden | B | 40
| Chloroplatinic acid, solid | 8 | UN2507 | III | 8 | IB8, IP3, T1, TP33 | 154 | 213 | 240 | 25 kg | 100 kg | A |
| Chloroprene, stabilized | 3 | UN1991 | I | 3, 6.1 | B57, T14, TP2, TP13 | None | 201 | 243 | Forbidden | 30 L | D | 40
| Chloroprene, uninhibited | Forbidden |  |  |  |  |  |  |  |  |  |  |
| 1-Chloropropane | 3 | UN1278 | II | 3 | IB2, IP8, N34, T7, TP2 | None | 202 | 242 | Forbidden | 60 L | E |
| 2-Chloropropane | 3 | UN2356 | I | 3 | N36, T11, TP2, TP13 | 150 | 201 | 243 | 1 L | 30 L | E |
| 3-Chloropropanol-1 | 6.1 | UN2849 | III | 6.1 | IB3, T4, TP1 | 153 | 203 | 241 | 60 L | 220 L | A |
| 2-Chloropropene | 3 | UN2456 | I | 3 | A3, N36, T11, TP2 | 150 | 201 | 243 | 1 L | 30 L | E |
| 2-Chloropropionic acid | 8 | UN2511 | III | 8 | IB3, T4, TP2 | 154 | 203 | 241 | 5 L | 60 L | A | 8
| 2-Chloropyridine | 6.1 | UN2822 | II | 6.1 | IB2, T7, TP2 | 153 | 202 | 243 | 5 L | 60 L | A | 40
| Chlorosilanes, corrosive, flammable, n.o.s. | 8 | UN2986 | II | 8, 3 | IB2, T11, TP2, TP27 | None | 202 | 243 | 1 L | 30 L | C | 40
| Chlorosilanes, corrosive, n.o.s. | 8 | UN2987 | II | 8 | B2, IB2, T14, TP2, TP27 | 154 | 202 | 242 | 1 L | 30 L | C | 40
| Chlorosilanes, flammable, corrosive, n.o.s. | 3 | UN2985 | II | 3, 8 | IB1, T11, TP2, TP13, TP27 | 150 | 201 | 243 | 1 L | 5 L | B | 40
| Chlorosilanes, toxic, corrosive, n.o.s. | 6.1 | UN3361 | II | 6.1, 8 | IB1, T11, TP2, TP13 | 153 | 202 | 243 | 1 L | 30 L | C | 40
| Chlorosilanes, toxic, corrosive, flammable, n.o.s. | 6.1 | UN3362 | II | 6.1, 3, 8 | IB1, T11, TP2, TP13 | 153 | 202 | 243 | 1 L | 30 L | C | 40, 125
| Chlorosilanes, water-reactive, flammable, corrosive, n.o.s. | 4.3 | UN2988 | I | 4.3, 3, 8 | A2, T10, TP2, TP7, TP13 | None | 201 | 244 | Forbidden | 1 L | D | 21, 28, 40, 49, 100
+ | Chlorosulfonic acid (with or without sulfur trioxide) | 8 | UN1754 | I | 8, 6.1 | 2, B9, B10, B14, B32, B74, T20, TP2, TP12, TP38, TP45 | None | 227 | 244 | Forbidden | Forbidden | C | 40
| Chlorotoluenes | 3 | UN2238 | III | 3 | B1, IB3, T2, TP1 | 150 | 203 | 242 | 60 L | 220 L | A |
| Chlorotoluidines, liquid | 6.1 | UN3429 | III | 6.1 | IB3, T4, TP1 | 153 | 203 | 241 | 60 L | 220 L | A |
| Chlorotoluidines, solid | 6.1 | UN2239 | III | 6.1 | IB8, IP3, T1, TP33 | 153 | 213 | 240 | 100 kg | 200 kg | A |
| Chlorotrifluoromethane and trifluoromethane azeotropic mixture or Refrigerant gas R 503 with approximately 60 percent chlorotrifluoromethane | 2.2 | UN2599 |  | 2.2 |  | 306 | 304 | 314, 315 | 75 kg | 150 kg | A |
| Chlorotrifluoromethane or Refrigerant gas R 13 | 2.2 | UN1022 |  | 2.2 |  | 306 | 304 | 314, 315 | 75 kg | 150 kg | A |
| Chromic acid solution | 8 | UN1755 | II | 8 | B2, IB2, T8, TP2, TP12 | 154 | 202 | 242 | 1 L | 30 L | C | 40, 44, 89, 100, 141
|  |  |  | III | 8 | IB3, T4, TP1, TP12 | 154 | 203 | 241 | 5 L | 60 L | C | 40, 44, 89, 100, 141
| Chromic anhydride, see Chromium trioxide, anhydrous |  |  |  |  |  |  |  |  |  |  |  |
| Chromic fluoride, solid | 8 | UN1756 | II | 8 | IB8, IP2, IP4, T3, TP33 | 154 | 212 | 240 | 15 kg | 50 kg | A | 52
| Chromic fluoride, solution | 8 | UN1757 | II | 8 | B2, IB2, T7, TP2 | 154 | 202 | 242 | 1 L | 30 L | A |
|  |  |  | III | 8 | IB3, T4, TP1 | 154 | 203 | 241 | 5 L | 60 L | A |
| Chromium nitrate | 5.1 | UN2720 | III | 5.1 | A1, A29, IB8, IP3, T1, TP33 | 152 | 213 | 240 | 25 kg | 100 kg | A |
| Chromium oxychloride | 8 | UN1758 | I | 8 | A3, A6, A7, B10, N34, T10, TP2, TP12 | None | 201 | 243 | 0.5 L | 2.5 L | C | 40, 66, 74, 89, 90
| Chromium trioxide, anhydrous | 5.1 | UN1463 | II | 5.1, 8 | IB8, IP4, T3, TP33 | None | 212 | 242 | 5 kg | 25 kg | A |
| Chromosulfuric acid | 8 | UN2240 | I | 8 | A3, A6, A7, B4, B6, N34, T10, TP2, TP12, TP13 | None | 201 | 243 | 0.5 L | 2.5 L | B | 40, 66, 74, 89, 90
| Chromyl chloride, see Chromium oxychloride |  |  |  |  |  |  |  |  |  |  |  |
| Cigar and cigarette lighters, charged with fuel, see Lighters or Lighter refills containing flammable gas. |  |  |  |  |  |  |  |  |  |  |  |
| Coal briquettes, hot | Forbidden |  |  |  |  |  |  |  |  |  |  |
| Coal gas, compressed | 2.3 | UN1023 |  | 2.3, 2.1 | 3 | None | 302 | 314, 315 | Forbidden | Forbidden | D | 40
| Coal tar distillates, flammable | 3 | UN1136 | II | 3 | IB2, T4, TP1 | 150 | 202 | 242 | 5 L | 60 L | B |
|  |  |  | III | 3 | B1, IB3, T4, TP1, TP29 | 150 | 203 | 242 | 60 L | 220 L | A |
| Coal tar dye, corrosive, liquid, n.o.s, see Dyes, liquid or solid, n.o.s. or Dye intermediates, liquid or solid, corrosive, n.o.s. |  |  |  |  |  |  |  |  |  |  |  |
| Coating solution (includes surface treatments or coatings used for industrial or other purposes such as vehicle undercoating, drum or barrel lining) | 3 | UN1139 | I | 3 | T11, TP1, TP8, TP27 | 150 | 201 | 243 | 1 L | 30 L | E |
|  |  |  | II | 3 | 149, IB2, T4, TP1, TP8 | 150 | 202 | 242 | 5 L | 60 L | B |
|  |  |  | III | 3 | B1, IB3, T2, TP1 | 150 | 203 | 242 | 60 L | 220 L | A |
| Cobalt naphthenates, powder | 4.1 | UN2001 | III | 4.1 | A19, IB8, IP3, T1, TP33 | 151 | 213 | 240 | 25 kg | 100 kg | A |
| Cobalt resinate, precipitated | 4.1 | UN1318 | III | 4.1 | A1, A19, IB6, T1, TP33 | 151 | 213 | 240 | 25 kg | 100 kg | A |
| Coke, hot | Forbidden |  |  |  |  |  |  |  |  |  |  |
| Collodion, see Nitrocellulose etc |  |  |  |  |  |  |  |  |  |  |  |
D G | Combustible liquid, n.o.s. | Comb liq | NA1993 | III | None | IB3, T1, T4, TP1 | 150 | 203 | 241 | 60 L | 220 L | A |
G | Components, explosive train, n.o.s. | 1.2B | UN0382 | II | 1.2B | 101 | None | 62 | None | Forbidden | Forbidden | 11 |
G | Components, explosive train, n.o.s. | 1.4B | UN0383 | II | 1.4B | 101 | None | 62 | None | Forbidden | 75 kg | 06 |
G | Components, explosive train, n.o.s. | 1.4S | UN0384 | II | 1.4S | 101 | None | 62 | None | 25 kg | 100 kg | 05 |
G | Components, explosive train, n.o.s. | 1.1B | UN0461 | II | 1.1B | 101 | None | 62 | None | Forbidden | Forbidden | 11 |
| Composition B, see Hexolite, etc |  |  |  |  |  |  |  |  |  |  |  |
D G | Compounds, cleaning liquid | 8 | NA1760 | I | 8 | A7, B10, T14, TP2, TP27 | None | 201 | 243 | 0.5 L | 2.5 L | B | 40
|  |  |  | II | 8 | B2, IB2, N37, T11, TP2, TP27 | 154 | 202 | 242 | 1 L | 30 L | B | 40
|  |  |  | III | 8 | IB3, N37, T7, TP1, TP28 | 154 | 203 | 241 | 5 L | 60 L | A | 40
D G | Compounds, cleaning liquid | 3 | NA1993 | I | 3 | T11, TP1 | 150 | 201 | 243 | 1 L | 30 L | E |
|  |  |  | II | 3 | IB2, T7, TP1, TP8, TP28 | 150 | 202 | 242 | 5 L | 60 L | B |
|  |  |  | III | 3 | B1, B52, IB3, T4, TP1, TP29 | 150 | 203 | 242 | 60 L | 220 L | A |
D G | Compounds, tree killing, liquid or Compounds, weed killing, liquid | 8 | NA1760 | I | 8 | A7, B10, T14, TP2, TP27 | None | 201 | 243 | 0.5 L | 2.5 L | B | 40
|  |  |  | II | 8 | B2, IB2, N37, T11, TP2, TP27 | 154 | 202 | 242 | 1 L | 30 L | B | 40
|  |  |  | III | 8 | IB3, N37, T7, TP1, TP28 | 154 | 203 | 241 | 5 L | 60 L | A | 40
D G | Compounds, tree killing, liquid or Compounds, weed killing, liquid | 3 | NA1993 | I | 3 | T11, TP1 | 150 | 201 | 243 | 1 L | 30 L | E |
|  |  |  | II | 3 | IB2, T7, TP1, TP8, TP28 | 150 | 202 | 242 | 5 L | 60 L | B |
|  |  |  | III | 3 | B1, B52, IB3, T4, TP1, TP29 | 150 | 203 | 242 | 60 L | 220 L | A |
D G | Compounds, tree killing, liquid or Compounds, weed killing, liquid | 6.1 | NA2810 | I | 6.1 | T14, TP2, TP13, TP27 | None | 201 | 243 | 1 L | 30 L | B | 40
|  |  |  | II | 6.1 | IB2, T11, TP2, TP27 | 153 | 202 | 243 | 5 L | 60 L | B | 40
|  |  |  | III | 6.1 | IB3, T7, TP1, TP28 | 153 | 203 | 241 | 60 L | 220 L | A | 40
G | Compressed gas, flammable, n.o.s. | 2.1 | UN1954 |  | 2.1 |  | 306 | 302, 305 | 314, 315 | Forbidden | 150 kg | D | 40
G | Compressed gas, n.o.s. | 2.2 | UN1956 |  | 2.2 |  | 306, 307 | 302, 305 | 314, 315 | 75 kg | 150 kg | A |
G | Compressed gas, oxidizing, n.o.s. | 2.2 | UN3156 |  | 2.2, 5.1 | A14 | 306 | 302 | 314, 315 | 75 kg | 150 kg | D |
G I | Compressed gas, toxic, corrosive, n.o.s. Inhalation Hazard Zone A | 2.3 | UN3304 |  | 2.3, 8 | 1 | None | 192 | 245 | Forbidden | Forbidden | D | 40
G I | Compressed gas, toxic, corrosive, n.o.s. Inhalation Hazard Zone B | 2.3 | UN3304 |  | 2.3, 8 | 2, B9, B14 | None | 302, 305 | 314, 315 | Forbidden | Forbidden | D | 40
G I | Compressed gas, toxic, corrosive, n.o.s. Inhalation Hazard Zone C | 2.3 | UN3304 |  | 2.3, 8 | 3, B14 | None | 302, 305 | 314, 315 | Forbidden | Forbidden | D | 40
G I | Compressed gas, toxic, corrosive, n.o.s. Inhalation Hazard Zone D | 2.3 | UN3304 |  | 2.3, 8 | 4 | None | 302, 305 | 314, 315 | Forbidden | Forbidden | D | 40
G I | Compressed gas, toxic, flammable, corrosive, n.o.s. Inhalation Hazard Zone A | 2.3 | UN3305 |  | 2.3, 2.1, 8 | 1 | None | 192 | 245 | Forbidden | Forbidden | D | 17, 40
G I | Compressed gas, toxic, flammable, corrosive, n.o.s. Inhalation Hazard Zone B | 2.3 | UN3305 |  | 2.3, 2.1, 8 | 2, B9, B14 | None | 302, 305 | 314, 315 | Forbidden | Forbidden | D | 17, 40
G I | Compressed gas, toxic, flammable, corrosive, n.o.s. Inhalation Hazard Zone C | 2.3 | UN3305 |  | 2.3, 2.1, 8 | 3, B14 | None | 302, 305 | 314, 315 | Forbidden | Forbidden | D | 17, 40
G I | Compressed gas, toxic, flammable, corrosive, n.o.s. Inhalation Hazard Zone D | 2.3 | UN3305 |  | 2.3, 2.1, 8 | 4 | None | 302, 305 | 314, 315 | Forbidden | Forbidden | D | 17, 40
G | Compressed gas, toxic, flammable, n.o.s. Inhalation hazard Zone A | 2.3 | UN1953 |  | 2.3, 2.1 | 1 | None | 192 | 245 | Forbidden | Forbidden | D | 40
G | Compressed gas, toxic, flammable, n.o.s. Inhalation hazard Zone B | 2.3 | UN1953 |  | 2.3, 2.1 | 2, B9, B14 | None | 302, 305 | 314, 315 | Forbidden | Forbidden | D | 40
G | Compressed gas, toxic, flammable, n.o.s. Inhalation Hazard Zone C | 2.3 | UN1953 |  | 2.3, 2.1 | 3, B14 | None | 302, 305 | 314, 315 | Forbidden | Forbidden | D | 40
G | Compressed gas, toxic, flammable, n.o.s. Inhalation Hazard Zone D | 2.3 | UN1953 |  | 2.3, 2.1 | 4 | None | 302, 305 | 314, 315 | Forbidden | Forbidden | D | 40
G | Compressed gas, toxic, n.o.s. Inhalation Hazard Zone A | 2.3 | UN1955 |  | 2.3 | 1 | None | 192 | 245 | Forbidden | Forbidden | D | 40
G | Compressed gas, toxic, n.o.s. Inhalation Hazard Zone B | 2.3 | UN1955 |  | 2.3 | 2, B9, B14 | None | 302, 305 | 314, 315 | Forbidden | Forbidden | D | 40
G | Compressed gas, toxic, n.o.s. Inhalation Hazard Zone C | 2.3 | UN1955 |  | 2.3 | 3, B14 | None | 302, 305 | 314, 315 | Forbidden | Forbidden | D | 40
G | Compressed gas, toxic, n.o.s. Inhalation Hazard Zone D | 2.3 | UN1955 |  | 2.3 | 4 | None | 302, 305 | 314, 315 | Forbidden | Forbidden | D | 40
G I | Compressed gas, toxic, oxdizing, corrosive, n.o.s. Inhalation Hazard Zone A | 2.3 | UN3306 |  | 2.3, 5.1, 8 | 1 | None | 192 | 244 | Forbidden | Forbidden | D | 40, 89, 90
G I | Compressed gas, toxic, oxidizing, corrosive, n.o.s. Inhalation Hazard Zone B | 2.3 | UN3306 |  | 2.3, 5.1, 8 | 2, B9, B14 | None | 302, 305 | 314, 315 | Forbidden | Forbidden | D | 40, 89, 90
G I | Compressed gas, toxic, oxidizing, corrosive, n.o.s. Inhalation Hazard Zone C | 2.3 | UN3306 |  | 2.3, 5.1, 8 | 3, B14 | None | 302, 305 | 314, 315 | Forbidden | Forbidden | D | 40, 89, 90
G I | Compressed gas, toxic, oxidizing, corrosive, n.o.s. Inhalation Hazard Zone D | 2.3 | UN3306 |  | 2.3, 5.1, 8 | 4 | None | 302, 305 | 314, 315 | Forbidden | Forbidden | D | 40, 89, 90
G | Compressed gas, toxic, oxidizing, n.o.s. Inhalation Hazard Zone A | 2.3 | UN3303 |  | 2.3, 5.1 | 1 | None | 192 | 245 | Forbidden | Forbidden | D | 40
G | Compressed gas, toxic, oxidizing, n.o.s. Inhalation Hazard Zone B | 2.3 | UN3303 |  | 2.3, 5.1 | 2, B9, B14 | None | 302, 305 | 314, 315 | Forbidden | Forbidden | D | 40
G | Compressed gas, toxic, oxidizing, n.o.s. Inhalation Hazard Zone C | 2.3 | UN3303 |  | 2.3, 5.1 | 3, B14 | None | 302, 305 | 314, 315 | Forbidden | Forbidden | D | 40
G | Compressed gas, toxic, oxidizing, n.o.s. Inhalation Hazard Zone D | 2.3 | UN3303 |  | 2.3, 5.1 | 4 | None | 302, 305 | 314, 315 | Forbidden | Forbidden | D | 40
D | Consumer commodity | ORM-D |  |  | None |  | 156, 306 | 156, 306 | None | 30 kg gross | 30 kg gross | A |
| Contrivances, water-activated, with burster, expelling charge or propelling charge | 1.2L | UN0248 | II | 1.2L | 101 | None | 62 | None | Forbidden | Forbidden | 08 | 8E, 14E, 15E, 17E
| Contrivances, water-activated, with burster, expelling charge or propelling charge | 1.3L | UN0249 | II | 1.3L | 101 | None | 62 | None | Forbidden | Forbidden | 08 | 8E, 14E, 15E, 17E
| Copper acetoarsenite | 6.1 | UN1585 | II | 6.1 | IB8, IP2, IP4, T3, TP33 | 153 | 212 | 242 | 25 kg | 100 kg | A |
| Copper acetylide | Forbidden |  |  |  |  |  |  |  |  |  |  |
| Copper amine azide | Forbidden |  |  |  |  |  |  |  |  |  |  |
| Copper arsenite | 6.1 | UN1586 | II | 6.1 | IB8, IP2, IP4, T3, TP33 | 153 | 212 | 242 | 25 kg | 100 kg | A |
| Copper based pesticides, liquid, flammable, toxic, flash point less than 23 degrees C | 3 | UN2776 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Copper based pesticides, liquid, toxic | 6.1 | UN3010 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Copper based pesticides, liquid, toxic, flammable, flash point not less than 23 degrees C | 6.1 | UN3009 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2, TP28 | 153 | 203 | 242 | 60 L | 220 L | A | 40
| Copper based pesticides, solid, toxic | 6.1 | UN2775 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Copper chlorate | 5.1 | UN2721 | II | 5.1 | A1, IB8, IP2, IP4, T3, TP33 | 152 | 212 | 242 | 5 kg | 25 kg | A | 56, 58
| Copper chloride | 8 | UN2802 | III | 8 | IB8, IP3, T1, TP33 | 154 | 213 | 240 | 25 kg | 100 kg | A |
| Copper cyanide | 6.1 | UN1587 | II | 6.1 | IB8, IP2, IP4, T3, TP33 | 153 | 204 | 242 | 25 kg | 100 kg | A | 52
| Copper selenate, see Selenates or Selenites |  |  |  |  |  |  |  |  |  |  |  |
| Copper selenite, see Selenates or Selenites |  |  |  |  |  |  |  |  |  |  |  |
| Copper tetramine nitrate | Forbidden |  |  |  |  |  |  |  |  |  |  |
A W | Copra | 4.2 | UN1363 | III | 4.2 | IB8, IP3, IP7 | None | 213 | 241 | Forbidden | Forbidden | A | 13, 19, 48, 119
| Cord, detonating, flexible | 1.1D | UN0065 | II | 1.1D | 102 | 63(a) | 62 | None | Forbidden | Forbidden | 07 |
| Cord, detonating, flexible | 1.4D | UN0289 | II | 1.4D |  | None | 62 | None | Forbidden | 75 kg | 06 |
| Cord detonating or Fuse detonating metal clad | 1.2D | UN0102 | II | 1.2D |  | None | 62 | None | Forbidden | Forbidden | 07 |
| Cord, detonating or Fuse, detonating metal clad | 1.1D | UN0290 | II | 1.1D |  | None | 62 | None | Forbidden | Forbidden | 07 |
| Cord, detonating, mild effect or Fuse, detonating, mild effect metal clad | 1.4D | UN0104 | II | 1.4D |  | None | 62 | None | Forbidden | 75 kg | 06 |
| Cord, igniter | 1.4G | UN0066 | II | 1.4G |  | None | 62 | None | Forbidden | 75 kg | 06 |
| Cordeau detonant fuse, see Cord, detonating, etc; Cord, detonating, flexible |  |  |  |  |  |  |  |  |  |  |  |
| Cordite, see Powder, smokeless |  |  |  |  |  |  |  |  |  |  |  |
G | Corrosive liquid, acidic, inorganic, n.o.s. | 8 | UN3264 | I | 8 | A6, B10, T14, TP2, TP27 | None | 201 | 243 | 0.5 L | 2.5 L | B | 40
|  |  |  | II | 8 | A6, B2, IB2, T11, TP2, TP27 | 154 | 202 | 242 | 1 L | 30 L | B | 40
|  |  |  | III | 8 | IB3, T7, TP1, TP28 | 154 | 203 | 241 | 5 L | 60 L | A | 40
G | Corrosive liquid, acidic, organic, n.o.s. | 8 | UN3265 | I | 8 | A6, B10, T14, TP2, TP27 | None | 201 | 243 | 0.5 L | 2.5 L | B | 40
|  |  |  | II | 8 | B2, IB2, T11, TP2, TP27 | 154 | 202 | 242 | 1 L | 30 L | B | 40
|  |  |  | III | 8 | IB3, T7, TP1, TP28 | 154 | 203 | 241 | 5 L | 60 L | A | 40
G | Corrosive liquid, basic, inorganic, n.o.s. | 8 | UN3266 | I | 8 | A6, T14, TP2, TP27 | None | 201 | 243 | 0.5 L | 2.5 L | B | 40, 52
|  |  |  | II | 8 | B2, IB2, T11, TP2, TP27 | 154 | 202 | 242 | 1 L | 30 L | B | 40, 52
|  |  |  | III | 8 | IB3, T7, TP1, TP28 | 154 | 203 | 241 | 5 L | 60 L | A | 40, 52
G | Corrosive liquid, basic, organic, n.o.s. | 8 | UN3267 | I | 8 | A6, B10, T14, TP2, TP27 | None | 201 | 243 | 0.5 L | 2.5 L | B | 40, 52
|  |  |  | II | 8 | B2, IB2, T11, TP2, TP27 | 154 | 202 | 242 | 1 L | 30 L | B | 40, 52
|  |  |  | III | 8 | IB3, T7, TP1, TP28 | 154 | 203 | 241 | 5 L | 60 L | A | 40, 52
G | Corrosive liquid, self-heating, n.o.s. | 8 | UN3301 | I | 8, 4.2 | A6, B10 | None | 201 | 243 | 0.5 L | 2.5 L | D |
|  |  |  | II | 8, 4.2 | B2, IB1 | 154 | 202 | 242 | 1 L | 30 L | D |
G | Corrosive liquids, flammable, n.o.s. | 8 | UN2920 | I | 8, 3 | A6, B10, T14, TP2, TP27 | None | 201 | 243 | 0.5 L | 2.5 L | C | 25, 40
|  |  |  | II | 8, 3 | B2, IB2, T11, TP2, TP27 | None | 202 | 243 | 1 L | 30 L | C | 25, 40
G | Corrosive liquids, n.o.s. | 8 | UN1760 | I | 8 | A6, A7, B10, T14, TP2, TP27 | None | 201 | 243 | 0.5 L | 2.5 L | B | 40
|  |  |  | II | 8 | B2, IB2, T11, TP2, TP27 | 154 | 202 | 242 | 1 L | 30 L | B | 40
|  |  |  | III | 8 | IB3, T7, TP1, TP28 | 154 | 203 | 241 | 5 L | 60 L | A | 40
G | Corrosive liquids, oxidizing, n.o.s. | 8 | UN3093 | I | 8, 5.1 | A6, A7 | None | 201 | 243 | Forbidden | 2.5 L | C | 89
|  |  |  | II | 8, 5.1 | A6, A7, IB2 | None | 202 | 243 | 1 L | 30 L | C | 89
G | Corrosive liquids, toxic, n.o.s. | 8 | UN2922 | I | 8, 6.1 | A7, A6, B10, T14, TP2, TP13, TP27 | None | 201 | 243 | 0.5 L | 2.5 L | B | 40
|  |  |  | II | 8, 6.1 | B3, IB2, T7, TP2 | 154 | 202 | 243 | 1 L | 30 L | B | 40
|  |  |  | III | 8, 6.1 | IB3, T7, TP1, TP28 | 154 | 203 | 241 | 5 L | 60 L | B | 40
G | Corrosive liquids, water-reactive, n.o.s. | 8 | UN3094 | I | 8, 4.3 | A6, A7 | None | 201 | 243 | Forbidden | 1 L | E |
|  |  |  | II | 8, 4.3 | A6, A7 | None | 202 | 243 | 1 L | 5 L | E |
G | Corrosive solid, acidic, inorganic, n.o.s. | 8 | UN3260 | I | 8 | IB7, IP1, T6, TP33 | None | 211 | 242 | 1 kg | 25 kg | B |
|  |  |  | II | 8 | IB8, IP2, IP4, T3, TP33 | 154 | 212 | 240 | 15 kg | 50 kg | B |
|  |  |  | III | 8 | IB8, IP3, T1, TP33 | 154 | 213 | 240 | 25 kg | 100 kg | A |
G | Corrosive solid, acidic, organic, n.o.s. | 8 | UN3261 | I | 8 | IB7, IP1, T6, TP33 | None | 211 | 242 | 1 kg | 25 kg | B |
|  |  |  | II | 8 | IB8, IP2, IP4, T3, TP33 | 154 | 212 | 240 | 15 kg | 50 kg | B |
|  |  |  | III | 8 | IB8, IP3, T1, TP33 | 154 | 213 | 240 | 25 kg | 100 kg | A |
G | Corrosive solid, basic, inorganic, n.o.s. | 8 | UN3262 | I | 8 | IB7, IP1, T6, TP33 | None | 211 | 242 | 1 kg | 25 kg | B | 52
|  |  |  | II | 8 | IB8, IP2, IP4, T3, TP33 | 154 | 212 | 240 | 15 kg | 50 kg | B | 52
|  |  |  | III | 8 | IB8, IP3, T1, TP33 | 154 | 213 | 240 | 25 kg | 100 kg | A | 52
G | Corrosive solid, basic, organic, n.o.s. | 8 | UN3263 | I | 8 | IB7, IP1, T6, TP33 | None | 211 | 242 | 1 kg | 25 kg | B | 52
|  |  |  | II | 8 | IB8, IP2, IP4, T3, TP33 | 154 | 212 | 240 | 15 kg | 50 kg | B | 52
|  |  |  | III | 8 | IB8, IP3, T1, TP33 | 154 | 213 | 240 | 25 kg | 100 kg | A | 52
G | Corrosive solids, flammable, n.o.s. | 8 | UN2921 | I | 8, 4.1 | IB6, T6, TP33 | None | 211 | 242 | 1 kg | 25 kg | B | 12, 25
|  |  |  | II | 8, 4.1 | IB8, IP2, IP4, T3, TP33 | None | 212 | 242 | 15 kg | 50 kg | B | 12, 25
G | Corrosive solids, n.o.s. | 8 | UN1759 | I | 8 | IB7, IP1, T6, TP33 | None | 211 | 242 | 1 kg | 25 kg | B |
|  |  |  | II | 8 | 128, IB8, IP2, IP4, T3, TP33 | 154 | 212 | 240 | 15 kg | 50 kg | A |
|  |  |  | III | 8 | 128, IB8, IP3, T1, TP33 | 154 | 213 | 240 | 25 kg | 100 kg | A |
G | Corrosive solids, oxidizing, n.o.s. | 8 | UN3084 | I | 8, 5.1 | T6, TP33 | None | 211 | 242 | 1 kg | 25 kg | C |
|  |  |  | II | 8, 5.1 | IB6, IP2, T3, TP33 | None | 212 | 242 | 15 kg | 50 kg | C |
G | Corrosive solids, self-heating, n.o.s. | 8 | UN3095 | I | 8, 4.2 | T6, TP33 | None | 211 | 243 | 1 kg | 25 kg | C |
|  |  |  | II | 8, 4.2 | IB6, IP2, T3, TP33 | None | 212 | 242 | 15 kg | 50 kg | C |
G | Corrosive solids, toxic, n.o.s. | 8 | UN2923 | I | 8, 6.1 | IB7, T6, TP33 | None | 211 | 242 | 1 kg | 25 kg | B | 40
|  |  |  | II | 8, 6.1 | IB8, IP2, IP4, T3, TP33 | 154 | 212 | 240 | 15 kg | 50 kg | B | 40
|  |  |  | III | 8, 6.1 | IB8, IP3, T1, TP33 | 154 | 213 | 240 | 25 kg | 100 kg | B | 40, 95
G | Corrosive solids, water-reactive, n.o.s. | 8 | UN3096 | I | 8, 4.3 | IB4, IP1, T6, TP33 | None | 211 | 243 | 1 kg | 25 kg | D |
|  |  |  | II | 8, 4.3 | IB6, IP2, T3, TP33 | None | 212 | 242 | 15 kg | 50 kg | D |
D W | Cotton | 9 | NA1365 |  | 9 | 137, IB8, IP2, IP4, W41 | None | None | None | No limit | No limit | A |
A W | Cotton waste, oily | 4.2 | UN1364 | III | 4.2 | IB8, IP3, IP7 | None | 213 | None | Forbidden | Forbidden | A | 54
A I W | Cotton, wet | 4.2 | UN1365 | III | 4.2 | IB8, IP3, IP7 | None | 204 | 241 | Forbidden | Forbidden | A |
| Coumarin derivative pesticides, liquid, flammable, toxic, flash point less than 23 degrees C | 3 | UN3024 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Coumarin derivative pesticides, liquid, toxic | 6.1 | UN3026 | I | 6.1 | T14, TP2, TP13, TP27 | None | 201 | 243 | 1 L | 30 L | B | 40
|  |  |  | II | 6.1 | IB2, T11, TP2, TP27 | 153 | 202 | 243 | 5 L | 60 L | B | 40
|  |  |  | III | 6.1 | IB3, T7, TP1, TP28 | 153 | 203 | 241 | 60 L | 220 L | A | 40
| Coumarin derivative pesticides, liquid, toxic, flammable, flash point not less than 23 degrees C | 6.1 | UN3025 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP1, TP28 | 153 | 203 | 242 | 60 L | 220 L | A | 40
| Coumarin derivative pesticides, solid, toxic | 6.1 | UN3027 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Cresols, liquid | 6.1 | UN2076 | II | 6.1, 8 | IB2, IP2, IP4, T7, TP2 | 153 | 202 | 243 | 1 L | 30 L | B |
| Cresols, solid | 6.1 | UN3455 | II | 6.1, 8 | IB8, IP2, IP4, T3, TP33 | 153 | 212 | 242 | 15 kg | 50 kg | B |
| Cresylic acid | 6.1 | UN2022 | II | 6.1, 8 | IB2, T7, TP2, TP13 | 153 | 202 | 243 | 1 L | 30 L | B |
| Crotonaldehyde, stabilized | 6.1 | UN1143 | I | 6.1, 3 | 2, B9, B14, B32, B74, B77, T20, TP2, TP13, TP38, TP45 | None | 227 | 244 | Forbidden | Forbidden | B | 40
| Crotonic acid liquid | 8 | UN2823 | III | 8 | IB8, T1 | 154 | 203 | 241 | 5 L | 60 L | A | 12
| Crotonic acid, solid | 8 | UN2823 | III | 8 | IB8, IP3, T1, TP33 | 154 | 213 | 240 | 25 kg | 100 kg | A | 12
| Crotonylene | 3 | UN1144 | I | 3 | T11, TP2 | 150 | 201 | 243 | 1 L | 30 L | E |
| Cupriethylenediamine solution | 8 | UN1761 | II | 8, 6.1 | IB2, T7, TP2 | 154 | 202 | 243 | 1 L | 30 L | A |
|  |  |  | III | 8, 6.1 | IB3, T7, TP1, TP28 | 154 | 203 | 242 | 5 L | 60 L | A | 95
| Cutters, cable, explosive | 1.4S | UN0070 | II | 1.4S |  | None | 62 | None | 25 kg | 100 kg | 05 |
| Cyanide or cyanide mixtures, dry, see Cyanides, inorganic, solid, n.o.s. |  |  |  |  |  |  |  |  |  |  |  |
| Cyanide solutions, n.o.s. | 6.1 | UN1935 | I | 6.1 | B37, T14, TP2, TP13, TP27 | None | 201 | 243 | 1 L | 30 L | B | 40, 52
|  |  |  | II | 6.1 | IB2, T11, TP2, TP13, TP27 | 153 | 202 | 243 | 5 L | 60 L | A | 40, 52
|  |  |  | III | 6.1 | IB3, T7, TP2, TP13, TP28 | 153 | 203 | 241 | 60 L | 220 L | A | 40, 52
| Cyanides, inorganic, solid, n.o.s. | 6.1 | UN1588 | I | 6.1 | IB7, IP1, N74, N75, T6, TP33 | None | 211 | 242 | 5 kg | 50 kg | A | 52
|  |  |  | II | 6.1 | IB8, IP2, IP4, N74, N75, T3, TP33 | 153 | 212 | 242 | 25 kg | 100 kg | A | 52
|  |  |  | III | 6.1 | IB8, IP3, N74, N75, T1, TP33 | 153 | 213 | 240 | 100 kg | 200 kg | A | 52
| Cyanogen | 2.3 | UN1026 |  | 2.3, 2.1 | 2 | None | 304 | 245 | Forbidden | Forbidden | D | 40
| Cyanogen bromide | 6.1 | UN1889 | I | 6.1, 8 | A6, A8, T6, TP33 | None | 211 | 242 | 1 kg | 15 kg | D | 40
| Cyanogen chloride, stabilized | 2.3 | UN1589 |  | 2.3, 8 | 1 | None | 192 | 245 | Forbidden | Forbidden | D | 40
| Cyanuric chloride | 8 | UN2670 | II | 8 | IB8, IP2, IP4, T3, TP33 | None | 212 | 240 | 15 kg | 50 kg | A | 12, 40
| Cyanuric triazide | Forbidden |  |  |  |  |  |  |  |  |  |  |
| Cyclobutane | 2.1 | UN2601 |  | 2.1 |  | 306 | 304 | 314, 315 | Forbidden | 150 kg | B | 40
| Cyclobutyl chloroformate | 6.1 | UN2744 | II | 6.1, 8, 3 | IB1, T7, TP2, TP13 | 153 | 202 | 243 | 1 L | 30 L | A | 12, 13, 21, 25, 40, 100
| 1,5,9-Cyclododecatriene | 6.1 | UN2518 | III | 6.1 | IB3, T4, TP1 | 153 | 203 | 241 | 60 L | 220 L | A | 40
| Cycloheptane | 3 | UN2241 | II | 3 | IB2, T4, TP1 | 150 | 202 | 242 | 5 L | 60 L | B | 40
| Cycloheptatriene | 3 | UN2603 | II | 3, 6.1 | IB2, T7, TP1, TP13 | 150 | 202 | 243 | 1 L | 60 L | E | 40
| Cycloheptene | 3 | UN2242 | II | 3 | B1, IB2, T4, TP1 | 150 | 202 | 242 | 5 L | 60 L | B |
| Cyclohexane | 3 | UN1145 | II | 3 | IB2, T4, TP1 | 150 | 202 | 242 | 5 L | 60 L | E |
| Cyclohexanone | 3 | UN1915 | III | 3 | B1, IB3, T2, TP1 | 150 | 203 | 242 | 60 L | 220 L | A |
| Cyclohexene | 3 | UN2256 | II | 3 | IB2, T4, TP1 | 150 | 202 | 242 | 5 L | 60 L | E |
| Cyclohexenyltrichlorosilane | 8 | UN1762 | II | 8 | A7, B2, IB2, N34, T7, TP2, TP13 | None | 202 | 242 | Forbidden | 30 L | C | 40
| Cyclohexyl acetate | 3 | UN2243 | III | 3 | B1, IB3, T2, TP1 | 150 | 203 | 242 | 60 L | 220 L | A |
| Cyclohexyl isocyanate | 6.1 | UN2488 | I | 6.1, 3 | 2, B9, B14, B32, B74, B77, T20, TP2, TP13, TP38, TP45 | None | 227 | 244 | Forbidden | Forbidden | D | 40
| Cyclohexyl mercaptan | 3 | UN3054 | III | 3 | B1, IB3, T2, TP1 | 150 | 203 | 242 | 60 L | 220 L | A | 40, 95
| Cyclohexylamine | 8 | UN2357 | II | 8, 3 | IB2, T7, TP2 | None | 202 | 243 | 1 L | 30 L | A | 40
| Cyclohexyltrichlorosilane | 8 | UN1763 | II | 8 | A7, B2, IB2, N34, T7, TP2, TP13 | None | 202 | 242 | Forbidden | 30 L | C | 40
| Cyclonite and cyclotetramethylenetetranitramine mixtures, wetted or desensitized see RDX and HMX mixtures, wetted or desensitized etc |  |  |  |  |  |  |  |  |  |  |  |
| Cyclonite and HMX mixtures, wetted or desensitized see RDX and HMX mixtures, wetted or desensitized etc |  |  |  |  |  |  |  |  |  |  |  |
| Cyclonite and octogen mixtures, wetted or desensitized see RDX and HMX mixtures, wetted or desensitized etc |  |  |  |  |  |  |  |  |  |  |  |
| Cyclonite, see Cyclotrimethylenetrinitramine, etc |  |  |  |  |  |  |  |  |  |  |  |
| Cyclooctadiene phosphines, see 9-Phosphabicyclononanes |  |  |  |  |  |  |  |  |  |  |  |
| Cyclooctadienes | 3 | UN2520 | III | 3 | B1, IB3, T2, TP1 | 150 | 203 | 242 | 60 L | 220 L | A |
| Cyclooctatetraene | 3 | UN2358 | II | 3 | IB2, T4, TP1 | 150 | 202 | 242 | 5 L | 60 L | B |
| Cyclopentane | 3 | UN1146 | II | 3 | IB2, T7, TP1 | 150 | 202 | 242 | 5 L | 60 L | E |
| Cyclopentane, methyl, see Methylcyclopentane |  |  |  |  |  |  |  |  |  |  |  |
| Cyclopentanol | 3 | UN2244 | III | 3 | B1, IB3, T2, TP1 | 150 | 203 | 242 | 60 L | 220 L | A |
| Cyclopentanone | 3 | UN2245 | III | 3 | B1, IB3, T2, TP1 | 150 | 203 | 242 | 60 L | 220 L | A |
| Cyclopentene | 3 | UN2246 | II | 3 | IB2, IP8, T7, TP2 | 150 | 202 | 242 | 5 L | 60 L | E |
| Cyclopropane | 2.1 | UN1027 |  | 2.1 | T50 | 306 | 304 | 314, 315 | Forbidden | 150 kg | E | 40
| Cyclotetramethylene tetranitramine (dry or unphlegmatized) (HMX) | Forbidden |  |  |  |  |  |  |  |  |  |  |
| Cyclotetramethylenetetranitramine, desensitized or Octogen, desensitized or HMX, desensitized | 1.1D | UN0484 | II | 1.1D |  | None | 62 | None | Forbidden | Forbidden | 10 |
| Cyclotetramethylenetetranitramine, wetted or HMX, wetted or Octogen, wetted with not less than 15 percent water, by mass | 1.1D | UN0226 | II | 1.1D |  | None | 62 | None | Forbidden | Forbidden | 10 |
| Cyclotrimethylenetrinitramine and cyclotetramethylenetetranitramine mixtures, wetted or desensitized see RDX and HMX mixtures, wetted or desensitized etc |  |  |  |  |  |  |  |  |  |  |  |
| Cyclotrimethylenenitramine and octogen, mixtures, wetted or desensitized see RDX and HMX mixtures, wetted or desensitized etc |  |  |  |  |  |  |  |  |  |  |  |
| Cyclotrimethylenetrinitramine and HMX mixtures, wetted or desensitized see RDX and HMX mixtures, wetted or desensitized etc |  |  |  |  |  |  |  |  |  |  |  |
| Cyclotrimethylenetrinitramine, desensitized or Cyclonite, desensitized or Hexogen, desensitized or RDX, desensitized | 1.1D | UN0483 | II | 1.1D |  | None | 62 | None | Forbidden | Forbidden | 10 |
| Cyclotrimethylenetrinitramine, wetted or Cyclonite, wetted or Hexogen, wetted or RDX, wetted with not less than 15 percent water by mass | 1.1D | UN0072 | II | 1.1D |  | None | 62 | None | Forbidden | Forbidden | 10 |
| Cymenes | 3 | UN2046 | III | 3 | B1, IB3, T2, TP1 | 150 | 203 | 242 | 60 L | 220 L | A |
| Dangerous Goods in Machinery or Dangerous Goods in Apparatus | 9 | UN3363 |  |  | 136 | None | 222 | None | No limit | No limit | A |
| Decaborane | 4.1 | UN1868 | II | 4.1, 6.1 | A19, A20, IB6, IP2, T3, TP33 | None | 212 | None | Forbidden | 50 kg | A | 74
| Decahydronaphthalene | 3 | UN1147 | III | 3 | B1, IB3, T2, TP1 | 150 | 203 | 242 | 60 L | 220 L | A |
| n-Decane | 3 | UN2247 | III | 3 | B1, IB3, T2, TP1 | 150 | 203 | 242 | 60 L | 220 L | A |
| Deflagrating metal salts of aromatic nitroderivatives, n.o.s. | 1.3C | UN0132 | II | 1.3C |  | None | 62 | None | Forbidden | Forbidden | 10 | 5E
| Delay electric igniter, see Igniters |  |  |  |  |  |  |  |  |  |  |  |
| Depth charges, see Charges, depth |  |  |  |  |  |  |  |  |  |  |  |
G | Desensitized explosive, liquid, n.o.s. | 3 | UN3379 | I | 3 | 164 | None | 201 | None | Forbidden | Forbidden | D | 36
G | Desensitized explosive, solid, n.o.s. | 4.1 | UN3380 | I | 4.1 | 164 | None | 211 | None | Forbidden | Forbidden | D | 28, 36
| Detonating relays, see Detonators, etc |  |  |  |  |  |  |  |  |  |  |  |
| Detonator assemblies, non-electric for blasting | 1.1B | UN0360 | II | 1.1B |  | None | 62 | None | Forbidden | Forbidden | 11 |
| Detonator assemblies, non-electric, for blasting | 1.4B | UN0361 | II | 1.4B | 103 | 63(f), 63(g) | 62 | None | Forbidden | 75 kg | 06 |
| Detonator, assemblies, non-electric for blasting | 1.4S | UN0500 | II | 1.4S |  | 63(f), 63(g) | 62 | None | 25 kg | 100 kg | 05 |
| Detonators, electric, for blasting | 1.1B | UN0030 | II | 1.1B |  | 63(f), 63(g) | 62 | None | Forbidden | Forbidden | 11 |
| Detonators, electric, for blasting | 1.4B | UN0255 | II | 1.4B | 103 | 63(f), 63(g) | 62 | None | Forbidden | 75 kg | 06 |
| Detonators, electric for blasting | 1.4S | UN0456 | II | 1.4S |  | 63(f), 63(g) | 62 | None | 25 kg | 100 kg | 05 |
| Detonators for ammunition | 1.1B | UN0073 | II | 1.1B |  | None | 62 | None | Forbidden | Forbidden | 11 |
| Detonators for ammunition | 1.2B | UN0364 | II | 1.2B |  | None | 62 | None | Forbidden | Forbidden | 11 |
| Detonators for ammunition | 1.4B | UN0365 | II | 1.4B | 103 | None | 62 | None | Forbidden | 75 kg | 06 |
| Detonators for ammunition | 1.4S | UN0366 | II | 1.4S |  | None | 62 | None | 25 kg | 100 kg | 05 |
| Detonators, non-electric, for blasting | 1.1B | UN0029 | II | 1.1B |  | None | 62 | None | Forbidden | Forbidden | 11 |
| Detonators, non-electric, for blasting | 1.4B | UN0267 | II | 1.4B | 103 | 63(f), 63(g) | 62 | None | Forbidden | 75 kg | 06 |
| Detonators, non-electric,for blasting | 1.4S | UN0455 | II | 1.4S |  | 63(f), 63(g) | 62 | None | 25 kg | 100 kg | 5 |
| Deuterium, compressed | 2.1 | UN1957 |  | 2.1 |  | 306 | 302 | None | Forbidden | 150 kg | E | 40
| Devices, small, hydrocarbon gas powered or Hydrocarbon gas refills for small devices with release device | 2.1 | UN3150 |  | 2.1 |  | 306 | 304 | None | 1 kg | 15 kg | B | 40
| Di-n-amylamine | 3 | UN2841 | III | 3, 6.1 | B1, IB3, T4, TP1 | 150 | 203 | 242 | 60 L | 220 L | A |
| Di-n-butyl peroxydicarbonate, with more than 52 percent in solution | Forbidden |  |  |  |  |  |  |  |  |  |  |
| Di-n-butylamine | 8 | UN2248 | II | 8, 3 | IB2, T7, TP2 | None | 202 | 243 | 1 L | 30 L | A |
| 2,2-Di-(tert-butylperoxy) butane, with more than 55 percent in solution | Forbidden |  |  |  |  |  |  |  |  |  |  |
| Di-(tert-butylperoxy) phthalate, with more than 55 percent in solution | Forbidden |  |  |  |  |  |  |  |  |  |  |
| 2,2-Di-(4,4-di-tert-butylperoxycyclohexyl) propane, with more than 42 percent with inert solid | Forbidden |  |  |  |  |  |  |  |  |  |  |
| Di-2,4-dichlorobenzoyl peroxide, with more than 75 percent with water | Forbidden |  |  |  |  |  |  |  |  |  |  |
| 1,2-Di-(dimethylamino)ethane | 3 | UN2372 | II | 3 | IB2, T4, TP1 | 150 | 202 | 242 | 5 L | 60 L | B |
| Di-2-ethylhexyl phosphoric acid, see Diisooctyl acid phosphate |  |  |  |  |  |  |  |  |  |  |  |
| Di-(1-hydroxytetrazole) (dry) | Forbidden |  |  |  |  |  |  |  |  |  |  |
| Di-(1-naphthoyl) peroxide | Forbidden |  |  |  |  |  |  |  |  |  |  |
| a,a'-Di-(nitroxy) methylether | Forbidden |  |  |  |  |  |  |  |  |  |  |
| Di-(beta-nitroxyethyl) ammonium nitrate | Forbidden |  |  |  |  |  |  |  |  |  |  |
| Diacetone alcohol | 3 | UN1148 | II | 3 | IB2, T4, TP1 | 150 | 202 | 242 | 5 L | 60 L | B |
|  |  |  | III | 3 | B1, IB3, T2, TP1 | 150 | 203 | 242 | 60 L | 220 L | A |
| Diacetone alcohol peroxides, with more than 57 percent in solution with more than 9 percent hydrogen peroxide, less than 26 percent diacetone alcohol and less than 9 percent water; total active oxygen content more than 9 percent by mass | Forbidden |  |  |  |  |  |  |  |  |  |  |
| Diacetyl, see Butanedione |  |  |  |  |  |  |  |  |  |  |  |
| Diacetyl peroxide, solid, or with more than 25 percent in solution | Forbidden |  |  |  |  |  |  |  |  |  |  |
| Diagnostic specimen | 6.2 |  |  |  | A82 | 134 | 199 | None | 4 L or 4 kg | 4 L or 4 kg | A | 40
| Diallylamine | 3 | UN2359 | II | 3, 6.1, 8 | IB2, T7, TP1 | 150 | 202 | 243 | 1 L | 5 L | B | 21, 40, 100
| Diallylether | 3 | UN2360 | II | 3, 6.1 | IB2, N12, T7, TP1, TP13 | 150 | 202 | 243 | 1 L | 60 L | E | 40
| 4,4'-Diaminodiphenyl methane | 6.1 | UN2651 | III | 6.1 | IB8, IP3, T1, TP33 | 153 | 213 | 240 | 100 kg | 200 kg | A |
| p-Diazidobenzene | Forbidden |  |  |  |  |  |  |  |  |  |  |
| 1,2-Diazidoethane | Forbidden |  |  |  |  |  |  |  |  |  |  |
| 1,1'-Diazoaminonaphthalene | Forbidden |  |  |  |  |  |  |  |  |  |  |
| Diazoaminotetrazole (dry) | Forbidden |  |  |  |  |  |  |  |  |  |  |
| Diazodinitrophenol (dry) | Forbidden |  |  |  |  |  |  |  |  |  |  |
| Diazodinitrophenol, wetted with not less than 40 percent water or mixture of alcohol and water, by mass | 1.1A | UN0074 | II | 1.1A | 111, 117 | None | 62 | None | Forbidden | Forbidden | 12 |
| Diazodiphenylmethane | Forbidden |  |  |  |  |  |  |  |  |  |  |
| Diazonium nitrates (dry) | Forbidden |  |  |  |  |  |  |  |  |  |  |
| Diazonium perchlorates (dry) | Forbidden |  |  |  |  |  |  |  |  |  |  |
| 1,3-Diazopropane | Forbidden |  |  |  |  |  |  |  |  |  |  |
| Dibenzyl peroxydicarbonate, with more than 87 percent with water | Forbidden |  |  |  |  |  |  |  |  |  |  |
| Dibenzyldichlorosilane | 8 | UN2434 | II | 8 | B2, IB2, T7, TP2, TP13 | 154 | 202 | 242 | 1 L | 30 L | C | 40
| Diborane | 2.3 | UN1911 |  | 2.3, 2.1 | 1 | None | 302 | None | Forbidden | Forbidden | D | 40, 57
D | Diborane mixtures | 2.1 | NA1911 |  | 2.1 | 5 | None | 302 | 245 | Forbidden | Forbidden | D | 40, 57
| Dibromoacetylene | Forbidden |  |  |  |  |  |  |  |  |  |  |
| 1,2-Dibromobutan-3-one | 6.1 | UN2648 | II | 6.1 | IB2 | 153 | 202 | 243 | 5 L | 60 L | B | 40
| Dibromochloropropane | 6.1 | UN2872 | II | 6.1 | IB2, T7, TP2 | 153 | 202 | 243 | 5 L | 60 L | A |
|  |  |  | III | 6.1 | IB3, T4, TP1 | 153 | 203 | 241 | 60 L | 220 L | A |
A | Dibromodifluoromethane, R12B2 | 9 | UN1941 | III | None | T11, TP2 | 155 | 203 | 241 | 100 L | 220 L | A | 25
| 1,2-Dibromoethane, see Ethylene dibromide |  |  |  |  |  |  |  |  |  |  |  |
| Dibromomethane | 6.1 | UN2664 | III | 6.1 | IB3, T4, TP1 | 153 | 203 | 241 | 60 L | 220 L | A |
| Dibutyl ethers | 3 | UN1149 | III | 3 | B1, IB3, T2, TP1 | 150 | 203 | 242 | 60 L | 220 L | A |
| Dibutylaminoethanol | 6.1 | UN2873 | III | 6.1 | IB3, T4, TP1 | 153 | 203 | 241 | 60 L | 220 L | A |
| N,N'-Dichlorazodicarbonamidine (salts of) (dry) | Forbidden |  |  |  |  |  |  |  |  |  |  |
| 1,1-Dichloro-1-nitroethane | 6.1 | UN2650 | II | 6.1 | IB2, T7, TP2 | 153 | 202 | 243 | 5 L | 60 L | A | 12, 40, 74
D | 3,5-Dichloro-2,4,6-trifluoropyridine | 6.1 | NA9264 | I | 6.1 | 2, B9, B14, B32, B74, T20, TP4, TP12, TP13, TP38, TP45 | None | 227 | 244 | Forbidden | Forbidden | A | 40
| Dichloroacetic acid | 8 | UN1764 | II | 8 | A3, A6, A7, B2, IB2, N34, T8, TP2, TP12 | 154 | 202 | 242 | 1 L | 30 L | A |
| 1,3-Dichloroacetone | 6.1 | UN2649 | II | 6.1 | IB8, IP2, IP4, T3, TP33 | 153 | 212 | 242 | 25 kg | 100 kg | B | 12, 40
| Dichloroacetyl chloride | 8 | UN1765 | II | 8 | A3, A6, A7, B2, B6, IB2, N34, T7, TP2 | 154 | 202 | 242 | 1 L | 30 L | D | 40
| Dichloroacetylene | Forbidden |  |  |  |  |  |  |  |  |  |  |
+ | Dichloroanilines, liquid | 6.1 | UN1590 | II | 6.1 | IB2, T7, TP2 | 153 | 202 | 243 | 5 L | 60 L | A | 40
| Dichloroanilines, solid | 6.1 | UN3442 | II | 6.1 | IB8, IP2, IP4, T3, TP33 | 153 | 212 | 242 | 25 kg | 100 kg | A | 40
+ | o-Dichlorobenzene | 6.1 | UN1591 | III | 6.1 | IB3, T4, TP1 | 153 | 203 | 241 | 60 L | 220 L | A |
| 2,2'-Dichlorodiethyl ether | 6.1 | UN1916 | II | 6.1, 3 | IB2, N33, N34, T7, TP2 | 153 | 202 | 243 | 5 L | 60 L | A |
| Dichlorodifluoromethane and difluoroethane azeotropic mixture or Refrigerant gas R 500 with approximately 74 percent dichlorodifluoromethane | 2.2 | UN2602 |  | 2.2 | T50 | 306 | 304 | 314, 315 | 75 kg | 150 kg | A |
| Dichlorodifluoromethane or Refrigerant gas R 12 | 2.2 | UN1028 |  | 2.2 | T50 | 306 | 304 | 314, 315 | 75 kg | 150 kg | A |
| Dichlorodimethyl ether, symmetrical | 6.1 | UN2249 | I | 6.1, 3 |  | None | 201 | 243 | Forbidden | Forbidden |  | 40
| 1,1-Dichloroethane | 3 | UN2362 | II | 3 | IB2, T4, TP1 | 150 | 202 | 242 | 5 L | 60 L | B | 40
| 1,2-Dichloroethane, see Ethylene dichloride |  |  |  |  |  |  |  |  |  |  |  |
| Dichloroethyl sulfide | Forbidden |  |  |  |  |  |  |  |  |  |  |
| 1,2-Dichloroethylene | 3 | UN1150 | II | 3 | IB2, T7, TP2 | 150 | 202 | 242 | 5 L | 60 L | B |
| Dichlorofluoromethane or Refrigerant gas R21 | 2.2 | UN1029 |  | 2.2 | T50 | 306 | 304 | 314, 315 | 75 kg | 150 kg | A |
| Dichloroisocyanuric acid, dry or Dichloroisocyanuric acid salts | 5.1 | UN2465 | II | 5.1 | 28, IB8, IP4, T3, TP33 | 152 | 212 | 240 | 5 kg | 25 kg | A | 13
| Dichloroisopropyl ether | 6.1 | UN2490 | II | 6.1 | IB2, T7, TP2 | 153 | 202 | 243 | 5 L | 60 L | B |
| Dichloromethane | 6.1 | UN1593 | III | 6.1 | IB3, IP8, N36, T7, TP2 | 153 | 203 | 241 | 60 L | 220 L | A |
| Dichloropentanes | 3 | UN1152 | III | 3 | B1, IB3, T2, TP1 | 150 | 203 | 242 | 60 L | 220 L | A |
| Dichlorophenyl isocyanates | 6.1 | UN2250 | II | 6.1 | IB8, IP2, IP4, T3, TP33 | 153 | 212 | 242 | 25 kg | 100 kg | B | 25, 40, 48
| Dichlorophenyltrichlorosilane | 8 | UN1766 | II | 8 | A7, B2, B6, IB2, N34, T7, TP2, TP13 | None | 202 | 242 | Forbidden | 30 L | C | 40
| 1,2-Dichloropropane | 3 | UN1279 | II | 3 | IB2, N36, T4, TP1 | 150 | 202 | 242 | 5 L | 60 L | B |
| 1,3-Dichloropropanol-2 | 6.1 | UN2750 | II | 6.1 | IB2, T7, TP2 | 153 | 202 | 243 | 5 L | 60 L | A | 12, 40
| Dichloropropene and propylene dichloride mixture, see 1,2- Dichloropropane |  |  |  |  |  |  |  |  |  |  |  |
| Dichloropropenes | 3 | UN2047 | II | 3 | IB2, T4, TP1 | 150 | 202 | 242 | 5 L | 60 L | B |
|  |  |  | III | 3 | B1, IB3, T2, TP1 | 150 | 203 | 242 | 60 L | 220 L | A |
| Dichlorosilane | 2.3 | UN2189 |  | 2.3, 2.1, 8 | 2, B9, B14 | None | 304 | 314, 315 | Forbidden | Forbidden | D | 17, 40
| 1,2-Dichloro-1,1,2,2- tetrafluoroethane or Refrigerant gas R 114 | 2.2 | UN1958 |  | 2.2 | T50 | 306 | 304 | 314, 315 | 75 kg | 150 kg | A |
| Dichlorovinylchloroarsine | Forbidden |  |  |  |  |  |  |  |  |  |  |
| Dicycloheptadiene, see Bicyclo [2,2,1] hepta-2,5-diene, stabilized |  |  |  |  |  |  |  |  |  |  |  |
| Dicyclohexylamine | 8 | UN2565 | III | 8 | IB3, T4, TP1 | 154 | 203 | 241 | 5 L | 60 L | A |
| Dicyclohexylammonium nitrite | 4.1 | UN2687 | III | 4.1 | IB8, IP3, T1, TP33 | 151 | 213 | 240 | 25 kg | 100 kg | A | 48
| Dicyclopentadiene | 3 | UN2048 | III | 3 | B1, IB3, T2, TP1 | 150 | 203 | 242 | 60 L | 220 L | A |
| Didymium nitrate | 5.1 | UN1465 | III | 5.1 | A1, IB8, IP3, T1, TP33 | 152 | 213 | 240 | 25 kg | 100 kg | A |
D | Diesel fuel | 3 | NA1993 | III | None | 144, B1, IB3, T4, TP1, TP29 | 150 | 203 | 242 | 60 L | 220 L | A |
I | Diesel fuel | 3 | UN1202 | III | 3 | 144, B1, IB3, T2, TP1 | 150 | 203 | 242 | 60 L | 220 L | A |
| Diethanol nitrosamine dinitrate (dry) | Forbidden |  |  |  |  |  |  |  |  |  |  |
| Diethoxymethane | 3 | UN2373 | II | 3 | IB2, T4, TP1 | 150 | 202 | 242 | 5 L | 60 L | E |
| 3,3-Diethoxypropene | 3 | UN2374 | II | 3 | IB2, T4, TP1 | 150 | 202 | 242 | 5 L | 60 L | B |
| Diethyl carbonate | 3 | UN2366 | III | 3 | B1, IB3, T2, TP1 | 150 | 203 | 242 | 60 L | 220 L | A |
| Diethyl cellosolve, see Ethylene glycol diethyl ether |  |  |  |  |  |  |  |  |  |  |  |
| Diethyl ether or Ethyl ether | 3 | UN1155 | I | 3 | T11, TP2 | 150 | 201 | 243 | 1 L | 30 L | E | 40
| Diethyl ketone | 3 | UN1156 | II | 3 | IB2, T4, TP1 | 150 | 202 | 242 | 5 L | 60 L | B |
| Diethyl peroxydicarbonate, with more than 27 percent in solution | Forbidden |  |  |  |  |  |  |  |  |  |  |
| Diethyl sulfate | 6.1 | UN1594 | II | 6.1 | IB2, T7, TP2 | 153 | 202 | 243 | 5 L | 60 L | C |
| Diethyl sulfide | 3 | UN2375 | II | 3 | IB2, T7, TP1, TP13 | None | 202 | 243 | 5 L | 60 L | E |
| Diethylamine | 3 | UN1154 | II | 3, 8 | A3, IB2, N34, T7, TP1 | 150 | 202 | 243 | 1 L | 5 L | E | 40
| 2-Diethylaminoethanol | 8 | UN2686 | II | 8, 3 | B2, IB2, T7, TP2 | None | 202 | 243 | 1 L | 30 L | A |
| 3-Diethyamino-propylamine. | 3 | UN2684 | III | 3, 8 | B1, IB3, T4, TP1 | 150 | 203 | 242 | 5 L | 60 L | A |
+ | N, N-Diethylaniline | 6.1 | UN2432 | III | 6.1 | IB3, T4, TP1 | 153 | 203 | 241 | 60 L | 220 L | A |
| Diethylbenzene | 3 | UN2049 | III | 3 | B1, IB3, T2, TP1 | 150 | 203 | 242 | 60 L | 220 L | A |
| Diethyldichlorosilane | 8 | UN1767 | II | 8, 3 | A7, B6, IB2, N34, T7, TP2, TP13 | None | 202 | 243 | Forbidden | 30 L | C | 40
| Diethylene glycol dinitrate | Forbidden |  |  |  |  |  |  |  |  |  |  |
| Diethyleneglycol dinitrate, desensitized with not less than 25 percent non-volatile water-insoluble phlegmatizer, by mass | 1.1D | UN0075 | II | 1.1D |  | None | 62 | None | Forbidden | Forbidden | 13 | 21E
| Diethylenetriamine | 8 | UN2079 | II | 8 | B2, IB2, T7, TP2 | 154 | 202 | 242 | 1 L | 30 L | A | 40, 52
| N,N-Diethylethylenediamine | 8 | UN2685 | II | 8, 3 | IB2, T7, TP2 | None | 202 | 243 | 1 L | 30 L | A |
| Diethylgold bromide | Forbidden |  |  |  |  |  |  |  |  |  |  |
| Diethylthiophosphoryl chloride | 8 | UN2751 | II | 8 | B2, IB2, T7, TP2 | None | 212 | 240 | 15 kg | 50 kg | D | 12, 40
| Diethylzinc | 4.2 | UN1366 | I | 4.2, 4.3 | B11, T21, TP2, TP7 | None | 181 | 244 | Forbidden | Forbidden | D | 18
| Difluorochloroethanes, see 1-Chloro-1,1-difluoroethanes |  |  |  |  |  |  |  |  |  |  |  |
| 1,1-Difluoroethane or Refrigerant gas R 152a | 2.1 | UN1030 |  | 2.1 | T50 | 306 | 304 | 314, 315 | Forbidden | 150 kg | B | 40
| 1,1-Difluoroethylene or Refrigerant gas R 1132a | 2.1 | UN1959 |  | 2.1 |  | 306 | 304 | None | Forbidden | 150 kg | E | 40
| Difluoromethane or Refrigerant gas R 32 | 2.1 | UN3252 |  | 2.1 | T50 | 306 | 302 | 314, 315 | Forbidden | 150 kg | D | 40
| Difluorophosphoric acid, anhydrous | 8 | UN1768 | II | 8 | A6, A7, B2, IB2, N5, N34, T8, TP2, TP12 | None | 202 | 242 | 1 L | 30 L | A | 40
| 2,3-Dihydropyran | 3 | UN2376 | II | 3 | IB2, T4, TP1 | 150 | 202 | 242 | 5 L | 60 L | B |
| 1,8-Dihydroxy-2,4,5,7-tetranitroanthraquinone (chrysamminic acid) | Forbidden |  |  |  |  |  |  |  |  |  |  |
| Diiodoacetylene | Forbidden |  |  |  |  |  |  |  |  |  |  |
| Diisobutyl ketone | 3 | UN1157 | III | 3 | B1, IB3, T2, TP1 | 150 | 203 | 242 | 60 L | 220 L | A |
| Diisobutylamine | 3 | UN2361 | III | 3, 8 | B1, IB3, T4, TP1 | 150 | 203 | 242 | 5 L | 60 L | A |
| Diisobutylene, isomeric compounds | 3 | UN2050 | II | 3 | IB2, T4, TP1 | 150 | 202 | 242 | 5 L | 60 L | B |
| Diisooctyl acid phosphate | 8 | UN1902 | III | 8 | IB3, T4, TP1 | 154 | 203 | 241 | 5 L | 60 L | A |
| Diisopropyl ether | 3 | UN1159 | II | 3 | IB2, T4, TP1 | 150 | 202 | 242 | 5 L | 60 L | E | 40
| Diisopropylamine | 3 | UN1158 | II | 3, 8 | IB2, T7, TP1 | 150 | 202 | 243 | 1 L | 5 L | B |
| Diisopropylbenzene hydroperoxide, with more than 72 percent in solution | Forbidden |  |  |  |  |  |  |  |  |  |  |
| Diketene, stabilized | 6.1 | UN2521 | I | 6.1, 3 | 2, B9, B14, B32, B74, T20, TP2, TP13, TP38, TP45 | None | 227 | 244 | Forbidden | Forbidden | D | 26, 27, 40
| 1,2-Dimethoxyethane | 3 | UN2252 | II | 3 | IB2, T4, TP1 | 150 | 202 | 242 | 5 L | 60 L | B |
| 1,1-Dimethoxyethane | 3 | UN2377 | II | 3 | IB2, T7, TP1 | 150 | 202 | 242 | 5 L | 60 L | B |
| Dimethyl carbonate | 3 | UN1161 | II | 3 | IB2, T4, TP1 | 150 | 202 | 242 | 5 L | 60 L | B |
| Dimethyl chlorothiophosphate, see Dimethyl thiophosphoryl chloride |  |  |  |  |  |  |  |  |  |  |  |
| 2,5-Dimethyl-2,5-dihydroperoxy hexane, with more than 82 percent with water | Forbidden |  |  |  |  |  |  |  |  |  |  |
| Dimethyl disulfide | 3 | UN2381 | II | 3 | IB2, T4, TP1 | 150 | 202 | 242 | 5 L | 60 L | B | 40
| Dimethyl ether | 2.1 | UN1033 |  | 2.1 | T50 | 306 | 304 | 314, 315 | Forbidden | 150 kg | B | 40
| Dimethyl-N-propylamine | 3 | UN2266 | II | 3, 8 | IB2, T7, TP2, TP13 | 150 | 202 | 243 | 1 L | 5 L | B | 40
| Dimethyl sulfate | 6.1 | UN1595 | I | 6.1, 8 | 2, B9, B14, B32, B74, B77, T20, TP2, TP13, TP38, TP45 | None | 227 | 244 | Forbidden | Forbidden | D | 40
| Dimethyl sulfide | 3 | UN1164 | II | 3 | IB2, IP8, T7, TP2 | 150 | 202 | 242 | 5 L | 60 L | E | 40
| Dimethyl thiophosphoryl chloride | 6.1 | UN2267 | II | 6.1, 8 | IB2, T7, TP2 | 153 | 202 | 243 | 1 L | 30 L | B | 25
| Dimethylamine, anhydrous | 2.1 | UN1032 |  | 2.1 | T50 | None | 304 | 314, 315 | Forbidden | 150 kg | D | 40
| Dimethylamine solution | 3 | UN1160 | II | 3, 8 | IB2, T7, TP1 | 150 | 202 | 243 | 1 L | 5 L | B |
| 2-Dimethylaminoacetonitrile | 3 | UN2378 | II | 3, 6.1 | IB2, T7, TP1 | 150 | 202 | 243 | 1 L | 60 L | A | 52, 40
| 2-Dimethylaminoethanol | 8 | UN2051 | II | 8, 3 | B2, IB2, T7, TP2 | 154 | 202 | 243 | 1 L | 30 L | A |
| 2-Dimethylaminoethyl acrylate | 6.1 | UN3302 | II | 6.1 | IB2, T7, TP2 | 153 | 202 | 243 | 5 L | 60 L | D | 25
| 2-Dimethylaminoethyl methacrylate | 6.1 | UN2522 | II | 6.1 | IB2, T7, TP2 | 153 | 202 | 243 | 5 L | 60 L | B | 40
| N,N-Dimethylaniline | 6.1 | UN2253 | II | 6.1 | IB1, T7, TP2 | 153 | 202 | 243 | 5 L | 60 L | A |
| 2,3-Dimethylbutane | 3 | UN2457 | II | 3 | IB2, T7, TP1 | 150 | 202 | 242 | 5 L | 60 L | E |
| 1,3-Dimethylbutylamine | 3 | UN2379 | II | 3, 8 | IB2, T7, TP1 | 150 | 202 | 243 | 1 L | 5 L | B |
| Dimethylcarbamoyl chloride | 8 | UN2262 | II | 8 | B2, IB2, T7, TP2 | 154 | 202 | 242 | 1 L | 30 L | A | 40
| Dimethylcyclohexanes | 3 | UN2263 | II | 3 | IB2, T4, TP1 | 150 | 202 | 242 | 5 L | 60 L | B |
| N,N-Dimethylcyclohexylamine | 8 | UN2264 | II | 8, 3 | B2, IB2, T7, TP2 | 154 | 202 | 243 | 1 L | 30 L | A | 40
| Dimethyldichlorosilane | 3 | UN1162 | II | 3, 8 | B77, IB2, T7, TP2, TP13 | None | 202 | 243 | Forbidden | Forbidden | B | 40
| Dimethyldiethoxysilane | 3 | UN2380 | II | 3 | IB2, T4, TP1 | 150 | 202 | 242 | 5 L | 60 L | B |
| Dimethyldioxanes | 3 | UN2707 | II | 3 | IB2, T4, TP1 | 150 | 202 | 242 | 5 L | 60 L | B |
|  |  |  | III | 3 | B1, IB3, T2, TP1 | 150 | 203 | 242 | 60 L | 220 L | A |
| N,N-Dimethylformamide | 3 | UN2265 | III | 3 | B1, IB3, T2, TP2 | 150 | 203 | 242 | 60 L | 220 L | A |
| Dimethylhexane dihydroperoxide (dry) | Forbidden |  |  |  |  |  |  |  |  |  |  |
| Dimethylhydrazine, symmetrical | 6.1 | UN2382 | I | 6.1, 3 | 2, B9, B14, B32, B74, B77, T20, TP2, TP13, TP38, TP45 | None | 227 | 244 | Forbidden | Forbidden | D | 40, 74
| Dimethylhydrazine, unsymmetrical | 6.1 | UN1163 | I | 6.1, 3, 8 | 2, B7, B9, B14, B32, B74, T20, TP2, TP13, TP38, TP45 | None | 227 | 244 | Forbidden | Forbidden | D | 21, 38, 40, 100
| 2,2-Dimethylpropane | 2.1 | UN2044 |  | 2.1 |  | 306 | 304 | 314, 315 | Forbidden | 150 kg | E | 40
| Dimethylzinc | 4.2 | UN1370 | I | 4.2, 4.3 | B11, B16, T21, TP2, TP7 | None | 181 | 244 | Forbidden | Forbidden | D | 18
| Dinitro-o-cresol | 6.1 | UN1598 | II | 6.1 | IB8, IP2, IP4, T3, TP33 | 153 | 212 | 242 | 25 kg | 100 kg | A |
| 1,3-Dinitro-5,5-dimethyl hydantoin | Forbidden |  |  |  |  |  |  |  |  |  |  |
| Dinitro-7,8-dimethylglycoluril (dry) | Forbidden |  |  |  |  |  |  |  |  |  |  |
| 1,3-Dinitro-4,5-dinitrosobenzene | Forbidden |  |  |  |  |  |  |  |  |  |  |
| 1,4-Dinitro-1,1,4,4-tetramethylolbutanetetranitrate (dry) | Forbidden |  |  |  |  |  |  |  |  |  |  |
| 2,4-Dinitro-1,3,5-trimethylbenzene | Forbidden |  |  |  |  |  |  |  |  |  |  |
| Dinitroanilines | 6.1 | UN1596 | II | 6.1 | IB8, IP2, IP4, T3, TP33 | 153 | 212 | 242 | 25 kg | 100 kg | A | 91
| Dinitrobenzenes, liquid | 6.1 | UN1597 | II | 6.1 | 11, IB2, T7, TP2 | 153 | 202 | 243 | 5 L | 60 L | A | 91
|  |  |  | III | 6.1 | 11, IB3, T7, TP2 | 153 | 203 | 241 | 60 L | 220 L | A | 91
| Dinitrobenzenes, solid | 6.1 | UN3443 | II | 6.1 | IB8, IP2, IP4, T3, TP33 | 153 | 212 | 242 | 25 kg | 100 kg | A | 91
| Dinitrochlorobenzene, see Chlorodinitrobenzene |  |  |  |  |  |  |  |  |  |  |  |
| 1,2-Dinitroethane | Forbidden |  |  |  |  |  |  |  |  |  |  |
| 1,1-Dinitroethane (dry) | Forbidden |  |  |  |  |  |  |  |  |  |  |
| Dinitrogen tetroxide | 2.3 | UN1067 |  | 2.3, 5.1, 8 | 1, B7, B14, B45, B46, B61, B66, B67, B77, T50, TP21 | None | 336 | 314 | Forbidden | Forbidden | D | 40, 89, 90
| Dinitroglycoluril or Dingu | 1.1D | UN0489 | II | 1.1D |  | None | 62 | None | Forbidden | Forbidden | 10 |
| Dinitromethane | Forbidden |  |  |  |  |  |  |  |  |  |  |
| Dinitrophenol, dry or wetted with less than 15 percent water, by mass | 1.1D | UN0076 | II | 1.1D, 6.1 |  | None | 62 | None | Forbidden | Forbidden | 10 | 5E
| Dinitrophenol solutions | 6.1 | UN1599 | II | 6.1 | IB2, T7, TP2 | 153 | 202 | 243 | 5 L | 60 L | A | 36
|  |  |  | III | 6.1 | IB3, T4, TP1 | 153 | 203 | 241 | 60 L | 220 L | A | 36
| Dinitrophenol, wetted with not less than 15 percent water, by mass | 4.1 | UN1320 | I | 4.1, 6.1 | 23, A8, A19, A20, N41 | None | 211 | None | 1 kg | 15 kg | E | 28, 36
| Dinitrophenolates alkali metals, dry or wetted with less than 15 percent water, by mass | 1.3C | UN0077 | II | 1.3C, 6.1 |  | None | 62 | None | Forbidden | Forbidden | 10 | 5E
| Dinitrophenolates, wetted with not less than 15 percent water, by mass | 4.1 | UN1321 | I | 4.1, 6.1 | 23, A8, A19, A20, N41 | None | 211 | None | 1 kg | 15 kg | E | 28, 36
| Dinitropropylene glycol | Forbidden |  |  |  |  |  |  |  |  |  |  |
| Dinitroresorcinol, dry or wetted with less than 15 percent water, by mass | 1.1D | UN0078 | II | 1.1D |  | None | 62 | None | Forbidden | Forbidden | 10 | 5E
| 2,4-Dinitroresorcinol (heavy metal salts of) (dry) | Forbidden |  |  |  |  |  |  |  |  |  |  |
| 4,6-Dinitroresorcinol (heavy metal salts of) (dry) | Forbidden |  |  |  |  |  |  |  |  |  |  |
| Dinitroresorcinol, wetted with not less than 15 percent water, by mass | 4.1 | UN1322 | I | 4.1 | 23, A8, A19, A20, N41 | None | 211 | None | 1 kg | 15 kg | E | 28, 36
| 3,5-Dinitrosalicylic acid (lead salt) (dry) | Forbidden |  |  |  |  |  |  |  |  |  |  |
| Dinitrosobenzene | 1.3C | UN0406 | II | 1.3C |  | None | 62 | None | Forbidden | Forbidden | 10 |
| Dinitrosobenzylamidine and salts of (dry) | Forbidden |  |  |  |  |  |  |  |  |  |  |
| 2,2-Dinitrostilbene | Forbidden |  |  |  |  |  |  |  |  |  |  |
| Dinitrotoluenes, liquid | 6.1 | UN2038 | II | 6.1 | IB2, T7, TP2 | 153 | 202 | 243 | 5 L | 60 L | A |
| Dinitrotoluenes, solid | 6.1 | UN3454 | II | 6.1 | IB8, IP2, IP4, T3, TP33 | 153 | 212 | 242 | 25 kg | 100 kg | A |
| Dinitrotoluenes, molten | 6.1 | UN1600 | II | 6.1 | T7, TP3 | None | 202 | 243 | Forbidden | Forbidden | C |
| 1,9-Dinitroxy pentamethylene-2,4, 6,8-tetramine (dry) | Forbidden |  |  |  |  |  |  |  |  |  |  |
| Dioxane | 3 | UN1165 | II | 3 | IB2, T4, TP1 | 150 | 202 | 242 | 5 L | 60 L | B |
| Dioxolane | 3 | UN1166 | II | 3 | IB2, T4, TP1 | 150 | 202 | 242 | 5 L | 60 L | B | 40
| Dipentene | 3 | UN2052 | III | 3 | B1, IB3, T2, TP1 | 150 | 203 | 242 | 60 L | 220 L | A |
| Diphenylamine chloroarsine | 6.1 | UN1698 | I | 6.1 | T6, TP33 | None | 201 | None | Forbidden | Forbidden | D | 40
| Diphenylchloroarsine, liquid | 6.1 | UN1699 | I | 6.1 | A8, B14, B32, N33, N34, T14, TP2, TP13, TP27 | None | 201 | 243 | Forbidden | 30 L | D | 40
| Diphenyl-chloroarsine, solid | 6.1 | UN3450 | I | 6.1 | IB7, IP1, T6, TP33 | None | 211 | 242 | 5 kg | 50 kg | D | 40
| Diphenyldichlorosilane | 8 | UN1769 | II | 8 | A7, B2, IB2, N34, T7, TP2, TP13 | None | 202 | 242 | Forbidden | 30 L | C | 40
| Diphenylmethyl bromide | 8 | UN1770 | II | 8 | IB8, IP2, IP4, T3, TP33 | 154 | 212 | 240 | 15 kg | 50 kg | D | 40
| Dipicryl sulfide, dry or wetted with less than 10 percent water, by mass | 1.1D | UN0401 | II | 1.1D |  | None | 62 | None | Forbidden | Forbidden | 10 |
| Dipicryl sulfide, wetted with not less than 10 percent water, by mass | 4.1 | UN2852 | I | 4.1 | 162, A2, N41, N84 | None | 211 | None | Forbidden | 0.5 kg | D | 28
| Dipicrylamine, see Hexanitrodiphenylamine |  |  |  |  |  |  |  |  |  |  |  |
| Dipropionyl peroxide, with more than 28 percent in solution | Forbidden |  |  |  |  |  |  |  |  |  |  |
| Di-n-propyl ether | 3 | UN2384 | II | 3 | IB2, T4, TP1 | 150 | 202 | 242 | 5 L | 60 L | B |
| Dipropyl ketone | 3 | UN2710 | III | 3 | B1, IB3, T2, TP1 | 150 | 203 | 242 | 60 L | 220 L | A |
| Dipropylamine | 3 | UN2383 | II | 3, 8 | IB2, T7, TP1 | 150 | 202 | 243 | 1 L | 5 L | B |
G | Disinfectant, liquid, corrosive, n.o.s. | 8 | UN1903 | I | 8 | A6, A7, B10, T14, TP2, TP27 | None | 201 | 243 | 0.5 L | 2.5 L | B |
G | Disinfectants, liquid, corrosive n.o.s. | 8 | UN1903 | II | 8 | B2, IB2, T7, TP2 | 154 | 202 | 242 | 1 L | 30 L | B |
|  |  |  | III | 8 | IB3, T4, TP1 | 154 | 203 | 241 | 5 L | 60 L | A |
G | Disinfectants, liquid, toxic, n.o.s. | 6.1 | UN3142 | I | 6.1 | A4, T14, TP2, TP27 | None | 201 | 243 | 1 L | 30 L | A | 40
|  |  |  | II | 6.1 | IB2, T11, TP2, TP27 | 153 | 202 | 243 | 5 L | 60 L | A | 40
|  |  |  | III | 6.1 | IB3, T7, TP1, TP28 | 153 | 203 | 241 | 60 L | 220 L | A | 40
G | Disinfectants, solid, toxic, n.o.s. | 6.1 | UN1601 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Disodium trioxosilicate | 8 | UN3253 | III | 8 | IB8, IP3, T1, TP33 | 154 | 213 | 240 | 25 kg | 100 kg | A |
G | Dispersant gases, n.o.s. see Refrigerant gases, n.o.s. |  |  |  |  |  |  |  |  |  |  |  |
| Divinyl ether, stabilized | 3 | UN1167 | I | 3 | A7, T11, TP2 | None | 201 | 243 | 1 L | 30 L | E | 40
| Dodecyltrichlorosilane | 8 | UN1771 | II | 8 | A7, B2, B6, IB2, N34, T7, TP2, TP13 | None | 202 | 242 | Forbidden | 30 L | C | 40
| Dry ice, see Carbon dioxide, solid |  |  |  |  |  |  |  |  |  |  |  |
G | Dyes, liquid, corrosive, n.o.s. or Dye intermediates, liquid, corrosive, n.o.s. | 8 | UN2801 | I | 8 | 11, A6, B10, T14, TP2, TP27 | None | 201 | 243 | 0.5 L | 2.5 L | A |
|  |  |  | II | 8 | 11, B2, IB2, T11, TP2, TP27 | 154 | 202 | 242 | 1 L | 30 L | A |
|  |  |  | III | 8 | 11, IB3, T7, TP1, TP28 | 154 | 203 | 241 | 5 L | 60 L | A |
G | Dyes, liquid, toxic, n.o.s. or Dye intermediates, liquid, toxic, n.o.s. | 6.1 | UN1602 | I | 6.1 |  | None | 201 | 243 | 1 L | 30 L | A |
|  |  |  | II | 6.1 | IB2 | 153 | 202 | 243 | 5 L | 60 L | A |
|  |  |  | III | 6.1 | IB3 | 153 | 203 | 241 | 60 L | 220 L | A |
G | Dyes, solid, corrosive, n.o.s. or Dye intermediates, solid, corrosive, n.o.s. | 8 | UN3147 | I | 8 | IB7, IP1, T6, TP33 | None | 211 | 242 | 1 kg | 25 kg | A |
|  |  |  | II | 8 | IB8, IP2, IP4, T3, TP33 | 154 | 212 | 240 | 15 kg | 50 kg | A |
|  |  |  | III | 8 | IB8, IP3, T1, TP33 | 154 | 213 | 240 | 25 kg | 100 kg | A |
G | Dyes, solid, toxic, n.o.s. or Dye intermediates, solid, toxic, n.o.s. | 6.1 | UN3143 | I | 6.1 | A5, IB7, IP1, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
| Dynamite, see Explosive, blasting, type A |  |  |  |  |  |  |  |  |  |  |  |
| Electrolyte (acid or alkali) for batteries, see Battery fluid, acid or Battery fluid, alkali |  |  |  |  |  |  |  |  |  |  |  |
| Elevated temperature liquid, flammable, n.o.s., with flash point above 37.8 C, at or above its flash point | 3 | UN3256 | III | 3 | IB1, T3, TP3, TP29 | None | None | 247 | Forbidden | Forbidden | A |
| Elevated temperature liquid, n.o.s., at or above 100 C and below its flash point (including molten metals, molten salts, etc.) | 9 | UN3257 | III | 9 | IB1, T3, TP3, TP29 | None | None | 247 | Forbidden | Forbidden | A | 85
| Elevated temperature solid, n.o.s., at or above 240 C, see § 173.247(h)(4) | 9 | UN3258 | III | 9 |  | 247(h) (4) | None | 247 | Forbidden | Forbidden | A | 85
| Engines, internal combustion, flammable gas powered | 9 | UN3166 |  | 9 | 135 | 220 | 220 | 220 | Forbidden | No limit | A |
| Engines, internal combustion, flammable liquid powered | 9 | UN3166 |  | 9 | 135 | 220 | 220 | 220 | No limit | No limit | A |
G | Environmentally hazardous substances, liquid, n.o.s. | 9 | UN3082 | III | 9 | 8, 146, IB3, T4, TP1, TP29 | 155 | 203 | 241 | No limit | No limit | A |
G | Environmentally hazardous substances, solid, n.o.s. | 9 | UN3077 | III | 9 | 8, 146, B54, IB8, IP3, N20, T1, TP33 | 155 | 213 | 240 | No limit | No limit | A |
| Epibromohydrin | 6.1 | UN2558 | I | 6.1, 3 | T14, TP2, TP13 | None | 201 | 243 | Forbidden | Forbidden | D | 40
+ | Epichlorohydrin | 6.1 | UN2023 | II | 6.1, 3 | IB2, T7, TP2, TP13 | 153 | 202 | 243 | 5 L | 60 L | A | 40
| 1,2-Epoxy-3-ethoxypropane | 3 | UN2752 | III | 3 | B1, IB3, T2, TP1 | 150 | 203 | 242 | 60 L | 220 L | A |
| Esters, n.o.s. | 3 | UN3272 | II | 3 | IB2, T7, TP1, TP8, TP28 | 150 | 202 | 242 | 5 L | 60 L | B |
|  |  |  | III | 3 | B1, IB3, T4, TP1, TP29 | 150 | 203 | 242 | 60 L | 220 L | A |
| Etching acid, liquid, n.o.s., see Hydrofluoric acid, solution etc |  |  |  |  |  |  |  |  |  |  |  |
| Ethane | 2.1 | UN1035 |  | 2.1 |  | 306 | 304 | 302 | Forbidden | 150 kg | E | 40
D | Ethane-Propane mixture, refrigerated liquid | 2.1 | NA1961 |  | 2.1 | T75, TP5 | None | 316 | 314, 315 | Forbidden | Forbidden | D | 40
| Ethane, refrigerated liquid | 2.1 | UN1961 |  | 2.1 | T75, TP5 | None | None | 315 | Forbidden | Forbidden | D | 40
| Ethanol amine dinitrate | Forbidden |  |  |  |  |  |  |  |  |  |  |
| Ethanol or Ethyl alcohol or Ethanol solutions or Ethyl alcohol solutions | 3 | UN1170 | II | 3 | 24, IB2, T4, TP1 | 150 | 202 | 242 | 5 L | 60 L | A |
|  |  |  | III | 3 | 24, B1, IB3, T2, TP1 | 150 | 203 | 242 | 60 L | 220 L | A |
| Ethanolamine or Ethanolamine solutions | 8 | UN2491 | III | 8 | IB3, T4, TP1 | 154 | 203 | 241 | 5 L | 60 L | A |
| Ether, see Diethyl ether |  |  |  |  |  |  |  |  |  |  |  |
| Ethers, n.o.s. | 3 | UN3271 | II | 3 | IB2, T7, TP1, TP8, TP28 | 150 | 202 | 242 | 5 L | 60 L | B |
|  |  |  | III | 3 | B1, IB3, T4, TP1, TP29 | 150 | 203 | 242 | 60 L | 220 L | A |
| Ethyl acetate | 3 | UN1173 | II | 3 | IB2, T4, TP1 | 150 | 202 | 242 | 5 L | 60 L | B |
| Ethyl acrylate, stabilized | 3 | UN1917 | II | 3 | IB2, T4, TP1, TP13 | 150 | 202 | 242 | 5 L | 60 L | B | 40
| Ethyl alcohol, see Ethanol |  |  |  |  |  |  |  |  |  |  |  |
| Ethyl aldehyde, see Acetaldehyde |  |  |  |  |  |  |  |  |  |  |  |
| Ethyl amyl ketone | 3 | UN2271 | III | 3 | B1, IB3, T2, TP1 | 150 | 203 | 242 | 60 L | 220 L | A |
| N-Ethylbenzyltoluidines, solid | 6.1 | UN3460 | III | 6.1 | IB8, IP3, T1, TP33 | 153 | 213 | 240 | 100 kg | 200 kg | A |
| N-Ethyl-N-benzylaniline | 6.1 | UN2274 | III | 6.1 | IB3, T4, TP1 | 153 | 203 | 241 | 60 L | 220 L | A |
| Ethyl borate | 3 | UN1176 | II | 3 | IB2, T4, TP1 | 150 | 202 | 242 | 5 L | 60 L | B |
| Ethyl bromide | 6.1 | UN1891 | II | 6.1 | IB2, IP8, T7, TP2, TP13 | 153 | 202 | 243 | 5 L | 60 L | B | 40, 85
| Ethyl bromoacetate | 6.1 | UN1603 | II | 6.1, 3 | IB2, T7, TP2 | None | 202 | 243 | Forbidden | Forbidden | D | 40
| Ethyl butyl ether | 3 | UN1179 | II | 3 | B1, IB2, T4, TP1 | 150 | 202 | 242 | 5 L | 60 L | B |
| Ethyl butyrate | 3 | UN1180 | III | 3 | B1, IB3, T2, TP1 | 150 | 203 | 242 | 60 L | 220 L | A |
| Ethyl chloride | 2.1 | UN1037 |  | 2.1 | B77, T50 | None | 322 | 314, 315 | Forbidden | 150 kg | B | 40
| Ethyl chloroacetate | 6.1 | UN1181 | II | 6.1, 3 | IB2, T7, TP2 | 153 | 202 | 243 | 5 L | 60 L | A |
| Ethyl chloroformate | 6.1 | UN1182 | I | 6.1, 3, 8 | 2, B9, B14, B32, B74, N34, T20, TP2, TP13, TP38, TP45 | None | 227 | 244 | Forbidden | Forbidden | D | 21, 40, 100
| Ethyl 2-chloropropionate | 3 | UN2935 | III | 3 | B1, IB3, T2, TP1 | 150 | 203 | 242 | 60 L | 220 L | A |
+ | Ethyl chlorothioformate | 8 | UN2826 | II | 8, 6.1, 3 | 2, B9, B14, B32, B74, T20, TP2, TP38, TP45 | None | 227 | 244 | Forbidden | Forbidden | A | 40
| Ethyl crotonate | 3 | UN1862 | II | 3 | IB2, T4, TP2 | 150 | 202 | 242 | 5 L | 60 L | B |
| Ethyl ether, see Diethyl ether |  |  |  |  |  |  |  |  |  |  |  |
| Ethyl fluoride or Refrigerant gas R161 | 2.1 | UN2453 |  | 2.1 |  | 306 | 304 | 314, 315 | Forbidden | 150 kg | E | 40
| Ethyl formate | 3 | UN1190 | II | 3 | IB2, T4, TP1 | 150 | 202 | 242 | 5 L | 60 L | E |
| Ethyl hydroperoxide | Forbidden |  |  |  |  |  |  |  |  |  |  |
| Ethyl isobutyrate | 3 | UN2385 | II | 3 | IB2, T4, TP1 | 150 | 202 | 242 | 5 L | 60 L | B |
+ | Ethyl isocyanate | 3 | UN2481 | I | 3, 6.1 | 1, B9, B14, B30, B72, T22, TP2, TP13, TP38, TP44 | None | 226 | 244 | Forbidden | Forbidden | D | 40, 52
| Ethyl lactate | 3 | UN1192 | III | 3 | B1, IB3, T2, TP1 | 150 | 203 | 242 | 60 L | 220 L | A |
| Ethyl mercaptan | 3 | UN2363 | I | 3 | A6, T11, TP2, TP13 | None | 201 | 243 | Forbidden | 30 L | E | 95, 102
| Ethyl methacrylate, stabilized | 3 | UN2277 | II | 3 | IB2, T4, TP1 | 150 | 202 | 242 | 5 L | 60 L | B |
| Ethyl methyl ether | 2.1 | UN1039 |  | 2.1 |  | None | 201 | 314, 315 | Forbidden | 150 kg | B | 40
| Ethyl methyl ketone or Methyl ethyl ketone | 3 | UN1193 | II | 3 | IB2, T4, TP1 | 150 | 202 | 242 | 5 L | 60 L | B |
| Ethyl nitrite solutions | 3 | UN1194 | I | 3, 6.1 |  | None | 201 | None | Forbidden | Forbidden | E | 40, 105
| Ethyl orthoformate | 3 | UN2524 | III | 3 | B1, IB3, T2, TP1 | 150 | 203 | 242 | 60 L | 220 L | A |
| Ethyl oxalate | 6.1 | UN2525 | III | 6.1 | IB3, T4, TP1 | 153 | 203 | 241 | 60 L | 220 L | A |
| Ethyl perchlorate | Forbidden |  |  |  |  |  |  |  |  |  |  |
D | Ethyl phosphonothioic dichloride, anhydrous | 6.1 | NA2927 | I | 6.1, 8 | 2, B9, B14, B32, B74, T20, TP4, TP12, TP13, TP38, TP45 | None | 227 | 244 | Forbidden | Forbidden | D | 40
D | Ethyl phosphonous dichloride, anhydrous pyrophoric liquid | 6.1 | NA2845 | I | 6.1, 4.2 | 2, B9, B14, B32, B74, T20, TP4, TP12, TP13, TP38, TP45 | None | 227 | 244 | Forbidden | Forbidden | D | 18
D | Ethyl phosphorodichloridate | 6.1 | NA2927 | I | 6.1, 8 | 2, B9, B14, B32, B74, T20, TP4, TP12, TP13, TP38, TP45 | None | 227 | 244 | Forbidden | Forbidden | D | 40
| Ethyl propionate | 3 | UN1195 | II | 3 | IB2, T4, TP1 | 150 | 202 | 242 | 5 L | 60 L | B |
| Ethyl propyl ether | 3 | UN2615 | II | 3 | IB2, T4, TP1 | 150 | 202 | 242 | 5 L | 60 L | E |
| Ethyl silicate, see Tetraethyl silicate |  |  |  |  |  |  |  |  |  |  |  |
| Ethylacetylene, stabilized | 2.1 | UN2452 |  | 2.1 |  | None | 304 | 314, 315 | Forbidden | 150 kg | B | 40
| Ethylamine | 2.1 | UN1036 |  | 2.1 | B77, T50 | None | 321 | 314, 315 | Forbidden | 150 kg | D | 40
| Ethylamine, aqueous solution with not less than 50 percent but not more than 70 percent ethylamine | 3 | UN2270 | II | 3, 8 | IB2, T7, TP1 | 150 | 202 | 243 | 1 L | 5 L | B | 40
| N-Ethylaniline | 6.1 | UN2272 | III | 6.1 | IB3, T4, TP1 | 153 | 203 | 241 | 60 L | 220 L | A | 52, 74
| 2-Ethylaniline | 6.1 | UN2273 | III | 6.1 | IB3, T4, TP1 | 153 | 203 | 241 | 60 L | 220 L | A | 52, 74
| Ethylbenzene | 3 | UN1175 | II | 3 | IB2, T4, TP1 | 150 | 202 | 242 | 5 L | 60 L | B |
| N-Ethylbenzyltoluidines liquid | 6.1 | UN2753 | III | 6.1 | IB3, T7, TP1 | 153 | 203 | 241 | 60 L | 220 L | A |
| 2-Ethylbutanol | 3 | UN2275 | III | 3 | B1, IB3, T2, TP1 | 150 | 203 | 242 | 60 L | 220 L | A |
| 2-Ethylbutyl acetate | 3 | UN1177 | III | 3 | B1, IB3, T2, TP1 | 150 | 203 | 242 | 60 L | 220 L | A |
| 2-Ethylbutyraldehyde | 3 | UN1178 | II | 3 | B1, IB2, T4, TP1 | 150 | 202 | 242 | 5 L | 60 L | B |
| Ethyldichloroarsine | 6.1 | UN1892 | I | 6.1 | 2, B9, B14, B32, B74, T20, TP2, TP13, TP38, TP45 | None | 227 | 244 | Forbidden | Forbidden | D | 40
| Ethyldichlorosilane | 4.3 | UN1183 | I | 4.3, 8, 3 | A2, A3, A7, N34, T10, TP2, TP7, TP13 | None | 201 | 244 | Forbidden | 1 L | D | 21, 28, 40, 49, 100
| Ethylene, acetylene and propylene in mixture, refrigerated liquid with at least 71.5 percent ethylene with not more than 22.5 percent acetylene and not more than 6 percent propylene | 2.1 | UN3138 |  | 2.1 | T75, TP5 | None | 304 | 314, 315 | Forbidden | Forbidden | D | 40, 57
| Ethylene chlorohydrin | 6.1 | UN1135 | I | 6.1, 3 | 2, B9, B14, B32, B74, T20, TP2, TP13, TP38, TP45 | None | 227 | 244 | Forbidden | Forbidden | D | 40
| Ethylene | 2.1 | UN1962 |  | 2.1 |  | 306 | 304 | 302 | Forbidden | 150 kg | E | 40
| Ethylene diamine diperchlorate | Forbidden |  |  |  |  |  |  |  |  |  |  |
| Ethylene dibromide | 6.1 | UN1605 | I | 6.1 | 2, B9, B14, B32, B74, B77, T20, TP2, TP13, TP38, TP45 | None | 227 | 244 | Forbidden | Forbidden | D | 40
| Ethylene dibromide and methyl bromide liquid mixtures, see Methyl bromide and ethylene dibromide, liquid mixtures |  |  |  |  |  |  |  |  |  |  |  |
| Ethylene dichloride | 3 | UN1184 | II | 3, 6.1 | IB2, N36, T7, TP1 | 150 | 202 | 243 | 1 L | 60 L | B | 40
| Ethylene glycol diethyl ether | 3 | UN1153 | II | 3 | IB2, T4, TP1 | 150 | 202 | 242 | 5 L | 60 L | A |
|  |  |  | III | 3 | B1, IB3, T2, TP1 | 150 | 203 | 242 | 60 L | 220 L | A |
| Ethylene glycol dinitrate | Forbidden |  |  |  |  |  |  |  |  |  |  |
| Ethylene glycol monoethyl ether | 3 | UN1171 | III | 3 | B1, IB3, T2, TP1 | 150 | 203 | 242 | 60 L | 220 L | A |
| Ethylene glycol monoethyl ether acetate | 3 | UN1172 | III | 3 | B1, IB3, T2, TP1 | 150 | 203 | 242 | 60 L | 220 L | A |
| Ethylene glycol monomethyl ether | 3 | UN1188 | III | 3 | B1, IB3, T2, TP1 | 150 | 203 | 242 | 60 L | 220 L | A |
| Ethylene glycol monomethyl ether acetate | 3 | UN1189 | III | 3 | B1, IB3, T2, TP1 | 150 | 203 | 242 | 60 L | 220 L | A |
| Ethylene oxide and carbon dioxide mixture with more than 87 percent ethylene oxide | 2.3 | UN3300 |  | 2.3, 2.1 | 4 | None | 304 | 314, 315 | Forbidden | Forbidden | D | 40
| Ethylene oxide and carbon dioxide mixtures with more than 9 percent but not more than 87 percent ethylene oxide | 2.1 | UN1041 |  | 2.1 | T50 | 306 | 304 | 314, 315 | Forbidden | 25 kg | B | 40
| Ethylene oxide and carbon dioxide mixtures with not more than 9 percent ethylene oxide | 2.2 | UN1952 |  | 2.2 |  | 306 | 304 | 314, 315 | 75 kg | 150 kg | A |
| Ethylene oxide and chlorotetrafluoroethane mixture with not more than 8.8 percent ethylene oxide | 2.2 | UN3297 |  | 2.2 | T50 | 306 | 304 | 314, 315 | 75 kg | 150 kg | A |
| Ethylene oxide and dichlorodifluoromethane mixture, with not more than 12.5 percent ethylene oxide | 2.2 | UN3070 |  | 2.2 | T50 | 306 | 304 | 314, 315 | 75 kg | 150 kg | A |
| Ethylene oxide and pentafluoroethane mixture with not more than 7.9 percent ethylene oxide | 2.2 | UN3298 |  | 2.2 | T50 | 306 | 304 | 314, 315 | 75 kg | 150 kg | A |
| Ethylene oxide and propylene oxide mixtures, with not more than 30 percent ethylene oxide | 3 | UN2983 | I | 3, 6.1 | 5, A11, N4, N34, T14, TP2, TP7, TP13 | None | 201 | 243 | Forbidden | 30 L | E | 40
| Ethylene oxide and tetrafluoroethane mixture with not more than 5.6 percent ethylene oxide | 2.2 | UN3299 |  | 2.2 | T50 | 306 | 304 | 314, 315 | 75 kg | 150 kg | A |
| Ethylene oxide or Ethylene oxide with nitrogen up to a total pressure of 1MPa (10 bar) at 50 degrees C | 2.3 | UN1040 |  | 2.3, 2.1 | 4, T50, TP20 | None | 323 | 323 | Forbidden | Forbidden | D | 40
| Ethylene, refrigerated liquid (cryogenic liquid) | 2.1 | UN1038 |  | 2.1 | T75, TP5 | None | 316 | 318, 319 | Forbidden | Forbidden | D | 40
| Ethylenediamine | 8 | UN1604 | II | 8, 3 | IB2, T7, TP2 | 154 | 202 | 243 | 1 L | 30 L | A | 40
| Ethyleneimine, stabilized | 6.1 | UN1185 | I | 6.1, 3 | 1, B9, B14, B30, B72, B77, N25, N32, T22, TP2, TP13, TP38, TP44 | None | 226 | 244 | Forbidden | Forbidden | D | 40
| Ethylhexaldehyde, see Octyl aldehydes etc |  |  |  |  |  |  |  |  |  |  |  |
| 2-Ethylhexyl chloroformate | 6.1 | UN2748 | II | 6.1, 8 | IB2, T7, TP2, TP13 | 153 | 202 | 243 | 1 L | 30 L | A | 12, 13, 21, 25, 40, 100
| 2-Ethylhexylamine | 3 | UN2276 | III | 3, 8 | B1, IB3, T4, TP1 | 150 | 203 | 242 | 5 L | 60 L | A | 40
| Ethylphenyldichlorosilane | 8 | UN2435 | II | 8 | A7, B2, IB2, N34, T7, TP2, TP13 | None | 202 | 242 | Forbidden | 30 L | C |
| 1-Ethylpiperidine | 3 | UN2386 | II | 3, 8 | IB2, T7, TP1 | 150 | 202 | 243 | 1 L | 5 L | B |
| N-Ethyltoluidines | 6.1 | UN2754 | II | 6.1 | IB2, T7, TP2 | 153 | 202 | 243 | 5 L | 60 L | A |
| Ethyltrichlorosilane | 3 | UN1196 | II | 3, 8 | A7, IB1, N34, T7, TP2, TP13 | 150 | 202 | 243 | 1 L | 5 L | B | 40
| Etiologic agent, see Infectious substances, etc |  |  |  |  |  |  |  |  |  |  |  |
| Explosive articles, see Articles, explosive , n.o.s. etc |  |  |  |  |  |  |  |  |  |  |  |
| Explosive, blasting, type A | 1.1D | UN0081 | II | 1.1D |  | None | 62 | None | Forbidden | Forbidden | 10 | 21E, 29E
| Explosive, blasting, type B | 1.1D | UN0082 | II | 1.1D |  | None | 62 | None | Forbidden | Forbidden | 10 | 29E
| Explosive, blasting, type B or Agent blasting, Type B | 1.5D | UN0331 | II | 1.5D | 105, 106 | None | 62 | None | Forbidden | Forbidden | 10 | 29E
| Explosive, blasting, type C | 1.1D | UN0083 | II | 1.1D | 123 | None | 62 | None | Forbidden | Forbidden | 10 | 22E
| Explosive, blasting, type D | 1.1D | UN0084 | II | 1.1D |  | None | 62 | None | Forbidden | Forbidden | 10 |
| Explosive, blasting, type E | 1.1D | UN0241 | II | 1.1D |  | None | 62 | None | Forbidden | Forbidden | 10 | 19E, 29E
| Explosive, blasting, type E or Agent blasting, Type E | 1.5D | UN0332 | II | 1.5D | 105, 106 | None | 62 | None | Forbidden | Forbidden | 10 | 29E
| Explosive, forbidden. See § 173.54 | Forbidden |  |  |  |  |  |  |  |  |  |  |
| Explosive substances, see Substances, explosive, n.o.s. etc |  |  |  |  |  |  |  |  |  |  |  |
| Explosives, slurry, see Explosive, blasting, type E |  |  |  |  |  |  |  |  |  |  |  |
| Explosives, water gels, see Explosive, blasting, type E |  |  |  |  |  |  |  |  |  |  |  |
| Extracts, aromatic, liquid | 3 | UN1169 | II | 3 | 149, IB2, T4, TP1, TP8 | 150 | 202 | 242 | 5 L | 60 L | B |
|  |  |  | III | 3 | B1, IB3, T2, TP1 | 150 | 203 | 242 | 60 L | 220 L | A |
| Extracts, flavoring, liquid | 3 | UN1197 | II | 3 | 149, IB2, T4, TP1, TP8 | 150 | 202 | 242 | 5 L | 60 L | B |
|  |  |  | III | 3 | B1, IB3, T2, TP1 | 150 | 203 | 242 | 60 L | 220 L | A |
| Fabric with animal or vegetable oil, see Fibers or fabrics, etc |  |  |  |  |  |  |  |  |  |  |  |
| Ferric arsenate | 6.1 | UN1606 | II | 6.1 | IB8, IP2, IP4, T3, TP33 | 153 | 212 | 242 | 25 kg | 100 kg | A |
| Ferric arsenite | 6.1 | UN1607 | II | 6.1 | IB8, IP2, IP4, T3, TP33 | 153 | 212 | 242 | 25 kg | 100 kg | A |
| Ferric chloride, anhydrous | 8 | UN1773 | III | 8 | IB8, IP3, T1, TP33 | 154 | 213 | 240 | 25 kg | 100 kg | A |
| Ferric chloride, solution | 8 | UN2582 | III | 8 | B15, IB3, T4, TP1 | 154 | 203 | 241 | 5 L | 60 L | A |
| Ferric nitrate | 5.1 | UN1466 | III | 5.1 | A1, A29, IB8, IP3, T1, TP33 | 152 | 213 | 240 | 25 kg | 100 kg | A |
| Ferrocerium | 4.1 | UN1323 | II | 4.1 | 59, A19, IB8, IP2, IP4, T3, TP33 | 151 | 212 | 240 | 15 kg | 50 kg | A |
| Ferrosilicon with 30 percent or more but less than 90 percent silicon | 4.3 | UN1408 | III | 4.3, 6.1 | A1, A19, B6, IB8, IP4, IP7, T1, TP33 | 151 | 213 | 240 | 25 kg | 100 kg | A | 13, 40, 52, 53, 85, 103
| Ferrous arsenate | 6.1 | UN1608 | II | 6.1 | IB8, IP2, IP4, T3, TP33 | 153 | 212 | 242 | 25 kg | 100 kg | A |
D | Ferrous chloride, solid | 8 | NA1759 | II | 8 | IB8, IP2, IP4, T3, TP33 | 154 | 212 | 240 | 15 kg | 50 kg | A |
D | Ferrous chloride, solution | 8 | NA1760 | II | 8 | B3, IB2, T11, TP2, TP27 | 154 | 202 | 242 | 1 L | 30 L | B | 40
| Ferrous metal borings or Ferrous metal shavings or Ferrous metal turnings or Ferrous metal cuttings in a form liable to self-heating | 4.2 | UN2793 | III | 4.2 | A1, A19, IB8, IP3, IP7 | None | 213 | 241 | 25 kg | 100 kg | A |
| Fertilizer ammoniating solution with free ammonia | 2.2 | UN1043 |  | 2.2 |  | 306 | 304 | 314, 315 | Forbidden | 150 kg | E | 40
A I W | Fibers, animal or Fibers, vegetable burnt, wet or damp. | 4.2 | UN1372 | III |  |  | 151 | 213 | 240 | Forbidden | Forbidden | A |
I W | Fibers, vegetable, dry | 4.1 | UN3360 |  | 4.1 | 137 | 151 | 213 | 240 | No Limit | No Limit | A |
A W | Fibers or Fabrics, animal or vegetable or Synthetic, n.o.s. with animal or vegetable oil | 4.2 | UN1373 | III | 4.2 | 137, IB8, IP3, T1, TP33 | None | 213 | 241 | Forbidden | Forbidden | A |
| Fibers or Fabrics impregnated with weakly nitrated nitrocellulose, n.o.s. | 4.1 | UN1353 | III | 4.1 | A1, IB8, IP3 | None | 213 | 240 | 25 kg | 100 kg | D |
| Films, nitrocellulose base, from which gelatine has been removed; film scrap, see Celluloid scrap |  |  |  |  |  |  |  |  |  |  |  |
| Films, nitrocellulose base, gelatine coated (except scrap) | 4.1 | UN1324 | III | 4.1 |  | None | 183 | None | 25 kg | 100 kg | D | 28
| Fire extinguisher charges, corrosive liquid | 8 | UN1774 | II | 8 | N41 | 154 | 202 | None | 1 L | 30 L | A |
| Fire extinguisher charges, expelling, explosive, see Cartridges, power device |  |  |  |  |  |  |  |  |  |  |  |
| Fire extinguishers containing compressed or liquefied gas | 2.2 | UN1044 |  | 2.2 | 18, 110 | 309 | 309 | None | 75 kg | 150 kg | A |
| Firelighters, solid with flammable liquid | 4.1 | UN2623 | III | 4.1 | A1, A19 | None | 213 | None | 25 kg | 100 kg | A | 52
| Fireworks | 1.1G | UN0333 | II | 1.1G | 108 | None | 62 | None | Forbidden | Forbidden | 07 |
| Fireworks | 1.2G | UN0334 | II | 1.2G | 108 | None | 62 | None | Forbidden | Forbidden | 07 |
| Fireworks | 1.3G | UN0335 | II | 1.3G | 108 | None | 62 | None | Forbidden | Forbidden | 07 |
| Fireworks | 1.4G | UN0336 | II | 1.4G | 108 | None | 62 | None | Forbidden | 75 kg | 06 |
| Fireworks | 1.4S | UN0337 | II | 1.4S | 108 | None | 62 | None | 25 kg | 100 kg | 05 |
| First aid kits | 9 | UN3316 |  | 9 | 15 | 161 | 161 | None | 10 kg | 10 kg | A |
W | Fish meal, stabilized or Fish scrap, stabilized | 9 | UN2216 | III | None | 155, IB8, IP3, T1, TP33 | 155 | 218 | 218 | No limit | No limit | B | 88, 122, 128
| Fish meal, unstablized or Fish scrap, unstabilized | 4.2 | UN1374 | II | 4.2 | 155, A1, A19, IB8, IP2, IP4, T3, TP33 | None | 212 | 241 | 15 kg | 50 kg | B | 18, 128
| Fissile radioactive materials, see Radioactive material, fissile, n.o.s. |  |  |  |  |  |  |  |  |  |  |  |
| Flammable compressed gas, see Compressed or Liquefied gas, flammable, etc |  |  |  |  |  |  |  |  |  |  |  |
| Flammable compressed gas (small receptacles not fitted with a dispersion device, not refillable), see Receptacles, etc |  |  |  |  |  |  |  |  |  |  |  |
| Flammable gas in lighters, see Lighters or lighter refills, cigarettes, containing flammable gas |  |  |  |  |  |  |  |  |  |  |  |
G | Flammable liquid, toxic, corrosive, n.o.s. | 3 | UN3286 | I | 3, 6.1, 8 | T14, TP2, TP13, TP27 | None | 201 | 243 | Forbidden | 2.5 L | E | 21, 40, 100
|  |  |  | II | 3, 6.1, 8 | IB2, T11, TP2, TP13, TP27 | 150 | 202 | 243 | 1 L | 5 L | B | 21, 40, 100
G | Flammable liquids, corrosive, n.o.s. | 3 | UN2924 | I | 3, 8 | T14, TP2 | None | 201 | 243 | 0.5 L | 2.5 L | E | 40
|  |  |  | II | 3, 8 | IB2, T11, TP2, TP27 | 150 | 202 | 243 | 1 L | 5 L | B | 40
|  |  |  | III | 3, 8 | B1, IB3, T7, TP1, TP28 | 150 | 203 | 242 | 5 L | 60 L | A | 40
G | Flammable liquids, n.o.s. | 3 | UN1993 | I | 3 | T11, TP1, TP27 | 150 | 201 | 243 | 1 L | 30 L | E |
|  |  |  | II | 3 | IB2, T7, TP1, TP8, TP28 | 150 | 202 | 242 | 5 L | 60 L | B |
|  |  |  | III | 3 | B1, B52, IB3, T4, TP1, TP29 | 150 | 203 | 242 | 60 L | 220 L | A |
G | Flammable liquids, toxic, n.o.s. | 3 | UN1992 | I | 3, 6.1 | T14, TP2, TP13, TP27 | None | 201 | 243 | Forbidden | 30 L | E | 40
|  |  |  | II | 3, 6.1 | IB2, T7, TP2, TP13 | 150 | 202 | 243 | 1 L | 60 L | B | 40
|  |  |  | III | 3, 6.1 | B1, IB3, T7, TP1, TP28 | 150 | 203 | 242 | 60 L | 220 L | A |
G | Flammable solid, corrosive, inorganic, n.o.s. | 4.1 | UN3180 | II | 4.1, 8 | A1, IB6, IP2, T3, TP33 | 151 | 212 | 242 | 15 kg | 50 kg | D | 40
|  |  |  | III | 4.1, 8 | A1, IB6, T1, TP33 | 151 | 213 | 242 | 25 kg | 100 kg | D | 40
G | Flammable solid, inorganic, n.o.s. | 4.1 | UN3178 | II | 4.1 | A1, IB8, IP2, IP4, T3, TP33 | 151 | 212 | 240 | 15 kg | 50 kg | B |
|  |  |  | III | 4.1 | A1, IB8, IP3, T1, TP33 | 151 | 213 | 240 | 25 kg | 100 kg | B |
G | Flammable solid, organic, molten, n.o.s. | 4.1 | UN3176 | II | 4.1 | IB1, T3, TP3, TP26 | 151 | 212 | 240 | Forbidden | Forbidden | C |
|  |  |  | III | 4.1 | IB1, T1, TP3, TP26 | 151 | 213 | 240 | Forbidden | Forbidden | C |
G | Flammable solid, oxidizing, n.o.s. | 4.1 | UN3097 | II | 4.1, 5.1 | 131 | None | 214 | 214 | Forbidden | Forbidden | E | 40
|  |  |  | III | 4.1, 5.1 | 131, T1, TP33 | None | 214 | 214 | Forbidden | Forbidden | D | 40
G | Flammable solid, toxic, inorganic, n.o.s. | 4.1 | UN3179 | II | 4.1, 6.1 | A1, IB6, IP2, T3, TP33 | 151 | 212 | 242 | 15 kg | 50 kg | B | 40
|  |  |  | III | 4.1, 6.1 | A1, IB6, T1, TP33 | 151 | 213 | 242 | 25 kg | 100 kg | B | 40
G | Flammable solids, corrosive, organic, n.o.s. | 4.1 | UN2925 | II | 4.1, 8 | A1, IB6, IP2, T3, TP33 | None | 212 | 242 | 15 kg | 50 kg | D | 40
|  |  |  | III | 4.1, 8 | A1, IB6, T1, TP33 | 151 | 213 | 242 | 25 kg | 100 kg | D | 40
G | Flammable solids, organic, n.o.s. | 4.1 | UN1325 | II | 4.1 | A1, IB8, IP2, IP4, T3, TP33 | 151 | 212 | 240 | 15 kg | 50 kg | B |
|  |  |  | III | 4.1 | A1, IB8, IP3, T1, TP33 | 151 | 213 | 240 | 25 kg | 100 kg | B |
G | Flammable solids, toxic, organic, n.o.s. | 4.1 | UN2926 | II | 4.1, 6.1 | A1, IB6, IP2, T3, TP33 | 151 | 212 | 242 | 15 kg | 50 kg | B | 40
|  |  |  | III | 4.1, 6.1 | A1, IB6, T1, TP33 | 151 | 213 | 242 | 25 kg | 100 kg | B | 40
| Flares, aerial | 1.3G | UN0093 | II | 1.3G |  | None | 62 | None | Forbidden | 75 kg | 07 |
| Flares, aerial | 1.4G | UN0403 | II | 1.4G |  | None | 62 | None | Forbidden | 75 kg | 06 |
| Flares, aerial | 1.4S | UN0404 | II | 1.4S |  | None | 62 | None | 25 kg | 100 kg | 05 |
| Flares, aerial | 1.1G | UN0420 | II | 1.1G |  | None | 62 | None | Forbidden | Forbidden | 07 |
| Flares, aerial | 1.2G | UN0421 | II | 1.2G |  | None | 62 | None | Forbidden | Forbidden | 07 |
| Flares, airplane, see Flares, aerial |  |  |  |  |  |  |  |  |  |  |  |
| Flares, signal, see Cartridges, signal |  |  |  |  |  |  |  |  |  |  |  |
| Flares, surface | 1.3G | UN0092 | II | 1.3G |  | None | 62 | None | Forbidden | 75 kg | 07 |
| Flares, surface | 1.1G | UN0418 | II | 1.1G |  | None | 62 | None | Forbidden | Forbidden | 07 |
| Flares, surface | 1.2G | UN0419 | II | 1.2G |  | None | 62 | None | Forbidden | Forbidden | 07 |
| Flares, water-activated, see Contrivances, water-activated, etc |  |  |  |  |  |  |  |  |  |  |  |
| Flash powder | 1.1G | UN0094 | II | 1.1G |  | None | 62 | None | Forbidden | Forbidden | 15 |
| Flash powder | 1.3G | UN0305 | II | 1.3G |  | None | 62 | None | Forbidden | Forbidden | 15 |
| Flue dusts, poisonous, see Arsenical dust |  |  |  |  |  |  |  |  |  |  |  |
| Fluoric acid, see Hydrofluoric acid, etc |  |  |  |  |  |  |  |  |  |  |  |
| Fluorine, compressed | 2.3 | UN1045 |  | 2.3, 5.1, 8 | 1 | None | 302 | None | Forbidden | Forbidden | D | 40, 89, 90
| Fluoroacetic acid | 6.1 | UN2642 | I | 6.1 | IB7, IP1, T6, TP33 | None | 211 | 242 | 1 kg | 15 kg | E |
| Fluoroanilines | 6.1 | UN2941 | III | 6.1 | IB3, T4, TP1 | 153 | 203 | 241 | 60 L | 220 L | A |
| Fluorobenzene | 3 | UN2387 | II | 3 | IB2, T4, TP1 | 150 | 202 | 242 | 5 L | 60 L | B |
| Fluoroboric acid | 8 | UN1775 | II | 8 | A6, A7, B2, B15, IB2, N3, N34, T7, TP2 | 154 | 202 | 242 | 1 L | 30 L | A |
| Fluorophosphoric acid anhydrous | 8 | UN1776 | II | 8 | A6, A7, B2, IB2, N3, N34, T8, TP2, TP12 | None | 202 | 242 | 1 L | 30 L | A |
| Fluorosilicates, n.o.s. | 6.1 | UN2856 | III | 6.1 | IB8, IP3, T1, TP33 | 153 | 213 | 240 | 100 kg | 200 kg | A | 52
| Fluorosilicic acid | 8 | UN1778 | II | 8 | A6, A7, B2, B15, IB2, N3, N34, T8, TP2, TP12 | None | 202 | 242 | 1 L | 30 L | A |
| Fluorosulfonic acid | 8 | UN1777 | I | 8 | A3, A6, A7, A10, B6, B10, N3, N36, T10, TP2, TP12 | None | 201 | 243 | 0.5 L | 2.5 L | D | 40
| Fluorotoluenes | 3 | UN2388 | II | 3 | IB2, T4, TP1 | 150 | 202 | 242 | 5 L | 60 L | B | 40
| Forbidden materials. See § 173.21 | Forbidden |  |  |  |  |  |  |  |  |  |  |
| Formaldehyde, solutions, flammable | 3 | UN1198 | III | 3, 8 | B1, IB3, T4, TP1 | 150 | 203 | 242 | 5 L | 60 L | A | 40
| Formaldehyde, solutions, with not less than 25 percent formaldehyde | 8 | UN2209 | III | 8 | IB3, T4, TP1 | 154 | 203 | 241 | 5 L | 60 L | A |
| Formalin, see Formaldehyde, solutions |  |  |  |  |  |  |  |  |  |  |  |
| Formic acid | 8 | UN1779 | II | 8 | B2, B28, IB2, T7, TP2 | 154 | 202 | 242 | 1 L | 30 L | A | 40
| Fracturing devices, explosive, without detonators for oil wells | 1.1D | UN0099 | II | 1.1D |  | None | 62 | None | Forbidden | Forbidden | 07 |
| Fuel, aviation, turbine engine | 3 | UN1863 | I | 3 | 144, T11, TP1, TP8, TP28 | 150 | 201 | 243 | 1 L | 30 L | E |
|  |  |  | II | 3 | 144, IB2, T4, TP1, TP8 | 150 | 202 | 242 | 5 L | 60 L | B |
|  |  |  | III | 3 | 144, B1, IB3, T2, TP1 | 150 | 203 | 242 | 60 L | 220 L | A |
D | Fuel oil (No. 1, 2, 4, 5, or 6) | 3 | NA1993 | III | 3 | 144, B1, IB3, T4, TP1, TP29 | 150 | 203 | 242 | 60 L | 220 L | A |
| Fuel system components (including fuel control units (FCU), carburetors, fuel lines, fuel pumps) see Dangerous Goods in Apparatus or Dangerous Goods in Machinery |  |  |  |  |  |  |  |  |  |  |  |
| Fulminate of mercury (dry) | Forbidden |  |  |  |  |  |  |  |  |  |  |
| Fulminate of mercury, wet, see Mercury fulminate, etc |  |  |  |  |  |  |  |  |  |  |  |
| Fulminating gold | Forbidden |  |  |  |  |  |  |  |  |  |  |
| Fulminating mercury | Forbidden |  |  |  |  |  |  |  |  |  |  |
| Fulminating platinum | Forbidden |  |  |  |  |  |  |  |  |  |  |
| Fulminating silver | Forbidden |  |  |  |  |  |  |  |  |  |  |
| Fulminic acid | Forbidden |  |  |  |  |  |  |  |  |  |  |
| Fumaryl chloride | 8 | UN1780 | II | 8 | B2, IB2, T7, TP2 | 154 | 202 | 242 | 1 L | 30 L | C | 8, 40
| Fumigated lading, see §§ 172.302(g), 173.9 and 176.76(h) |  |  |  |  |  |  |  |  |  |  |  |
| Fumigated transport vehicle or freight container see 173.9 |  |  |  |  |  |  |  |  |  |  |  |
| Furaldehydes | 6.1 | UN1199 | II | 6.1, 3 | IB2, T7, TP2 | 153 | 202 | 243 | 5 L | 60 L | A |
| Furan | 3 | UN2389 | I | 3 | T12, TP2, TP13 | None | 201 | 243 | 1 L | 30 L | E | 40
| Furfuryl alcohol | 6.1 | UN2874 | III | 6.1 | IB3, T4, TP1 | 153 | 203 | 241 | 60 L | 220 L | A | 52, 74
| Furfurylamine | 3 | UN2526 | III | 3, 8 | B1, IB3, T4, TP1 | 150 | 203 | 242 | 5 L | 60 L | A | 40
| Fuse, detonating, metal clad, see Cord, detonating, metal clad |  |  |  |  |  |  |  |  |  |  |  |
| Fuse, detonating, mild effect, metal clad, see Cord, detonating, mild effect, metal clad |  |  |  |  |  |  |  |  |  |  |  |
| Fuse, igniter tubular metal clad | 1.4G | UN0103 | II | 1.4G |  | None | 62 | None | Forbidden | 75 kg | 06 |
| Fuse, non-detonating instantaneous or quickmatch | 1.3G | UN0101 | II | 1.3G |  | None | 62 | None | Forbidden | Forbidden | 07 |
| Fuse, safety | 1.4S | UN0105 | II | 1.4S |  | None | 62 | None | 25 kg | 100 kg | 05 |
D | Fusee (railway or highway) | 4.1 | NA1325 | II | 4.1 |  | None | 184 | None | 15 kg | 50 kg | B |
| Fusel oil | 3 | UN1201 | II | 3 | IB2, T4, TP1 | 150 | 202 | 242 | 5 L | 60 L | B |
|  |  |  | III | 3 | B1, IB3, T2, TP1 | 150 | 203 | 242 | 60 L | 220 L | A |
| Fuses, tracer, see Tracers for ammunition |  |  |  |  |  |  |  |  |  |  |  |
| Fuzes, combination, percussion and time, see Fuzes, detonating (UN0257, UN0367); Fuzes, igniting (UN0317, UN0368) |  |  |  |  |  |  |  |  |  |  |  |
| Fuzes, detonating | 1.1B | UN0106 | II | 1.1B |  | None | 62 | None | Forbidden | Forbidden | 11 |
| Fuzes, detonating | 1.2B | UN0107 | II | 1.2B |  | None | 62 | None | Forbidden | Forbidden | 11 |
| Fuzes, detonating | 1.4B | UN0257 | II | 1.4B | 116 | None | 62 | None | Forbidden | 75 kg | 06 |
| Fuzes, detonating | 1.4S | UN0367 | II | 1.4S | 116 | None | 62 | None | 25 kg | 100 kg | 05 |
| Fuzes, detonating, with protective features | 1.1D | UN0408 | II | 1.1D |  | None | 62 | None | Forbidden | Forbidden | 07 |
| Fuzes, detonating, with protective features | 1.2D | UN0409 | II | 1.2D |  | None | 62 | None | Forbidden | Forbidden | 07 |
| Fuzes, detonating, with protective features | 1.4D | UN0410 | II | 1.4D | 116 | None | 62 | None | Forbidden | 75 kg | 06 |
| Fuzes, igniting | 1.3G | UN0316 | II | 1.3G |  | None | 62 | None | Forbidden | Forbidden | 07 |
| Fuzes, igniting | 1.4G | UN0317 | II | 1.4G |  | None | 62 | None | Forbidden | 75 kg | 06 |
| Fuzes, igniting | 1.4S | UN0368 | II | 1.4S |  | None | 62 | None | 25 kg | 100 kg | 05 |
| Galactsan trinitrate | Forbidden |  |  |  |  |  |  |  |  |  |  |
| Gallium | 8 | UN2803 | III | 8 | T1, TP33 | None | 162 | 240 | 20 kg | 20 kg | B | 48
| Gas cartridges, (flammable) without a release device, non-refillable | 2.1 | UN2037 |  | 2.1 |  | 306 | 304 | None | 1 kg | 15 kg | B | 40
| Gas generator assemblies (aircraft), containing a non-flammable non-toxic gas and a propellant cartridge | 2.2 |  |  | 2.2 |  | None | 335 | None | 75 kg | 150 kg | A |
D | Gas identification set | 2.3 | NA9035 |  | 2.3 | 6 | None | 194 | None | Forbidden | Forbidden | D |
| Gas oil | 3 | UN1202 | III | 3 | 144, B1, IB3, T2, TP1 | 150 | 203 | 242 | 60 L | 220 L | A |
G | Gas, refrigerated liquid, flammable, n.o.s. (cryogenic liquid) | 2.1 | UN3312 |  | 2.1 | T75, TP5 | None | 316 | 318 | Forbidden | Forbidden | D | 40
G | Gas, refrigerated liquid, n.o.s. (cryogenic liquid) | 2.2 | UN3158 |  | 2.2 | T75, TP5 | 320 | 316 | 318 | 50 kg | 500 kg | D |
G | Gas, refrigerated liquid, oxidizing, n.o.s. (cryogenic liquid) | 2.2 | UN3311 |  | 2.2, 5.1 | T75, TP5, TP22 | 320 | 316 | 318 | Forbidden | Forbidden | D |
| Gas sample, non-pressurized, flammable, n.o.s., not refrigerated liquid | 2.1 | UN3167 |  | 2.1 |  | 306 | 302, 304 | None | 1 L | 5 L | D |
| Gas sample, non-pressurized, toxic, flammable, n.o.s., not refrigerated liquid | 2.3 | UN3168 |  | 2.3, 2.1 | 6 | 306 | 302 | None | Forbidden | 1 L | D |
| Gas sample, non-pressurized, toxic, n.o.s., not refrigerated liquid | 2.3 | UN3169 |  | 2.3 | 6 | 306 | 302, 304 | None | Forbidden | 1 L | D |
D | Gasohol gasoline mixed with ethyl alcohol, with not more than 20 percent alcohol | 3 | NA1203 | II | 3 | 144 | 150 | 202 | 242 | 5 L | 60 L | E |
| Gasoline | 3 | UN1203 | II | 3 | 139, B33, B101, T8 | 150 | 202 | 242 | 5 L | 60 L | E |
| Gasoline, casinghead, see Gasoline |  |  |  |  |  |  |  |  |  |  |  |
| Gelatine, blasting, see Explosive, blasting, type A |  |  |  |  |  |  |  |  |  |  |  |
| Gelatine dynamites, see Explosive, blasting, type A |  |  |  |  |  |  |  |  |  |  |  |
| Germane | 2.3 | UN2192 |  | 2.3, 2.1 | 2 | None | 302 | 245 | Forbidden | Forbidden | D | 40
| Glycerol-1,3-dinitrate | Forbidden |  |  |  |  |  |  |  |  |  |  |
| Glycerol gluconate trinitrate | Forbidden |  |  |  |  |  |  |  |  |  |  |
| Glycerol lactate trinitrate | Forbidden |  |  |  |  |  |  |  |  |  |  |
| Glycerol alpha-monochlorohydrin | 6.1 | UN2689 | III | 6.1 | IB3, T4, TP1 | 153 | 203 | 241 | 60 L | 220 L | A |
| Glyceryl trinitrate, see Nitroglycerin, etc |  |  |  |  |  |  |  |  |  |  |  |
| Glycidaldehyde | 3 | UN2622 | II | 3, 6.1 | IB2, IP8, T7, TP1 | 150 | 202 | 243 | 1 L | 60 L | A | 40
| Grenades, hand or rifle, with bursting charge | 1.1D | UN0284 | II | 1.1D |  |  | 62 | None | Forbidden | Forbidden | 07 |
| Grenades, hand or rifle, with bursting charge | 1.2D | UN0285 | II | 1.2D |  |  | 62 | None | Forbidden | Forbidden | 07 |
| Grenades, hand or rifle, with bursting charge | 1.1F | UN0292 | II | 1.1F |  |  | 62 | None | Forbidden | Forbidden | 08 |
| Grenades, hand or rifle, with bursting charge | 1.2F | UN0293 | II | 1.2F |  |  | 62 | None | Forbidden | Forbidden | 08 |
| Grenades, illuminating, see Ammunition, illuminating, etc |  |  |  |  |  |  |  |  |  |  |  |
| Grenades, practice, hand or rifle | 1.4S | UN0110 | II | 1.4S |  |  | 62 | None | 25 kg | 100 kg | 05 |
| Grenades, practice, hand or rifle | 1.3G | UN0318 | II | 1.3G |  |  | 62 | None | Forbidden | Forbidden | 07 |
| Grenades, practice, hand or rifle | 1.2G | UN0372 | II | 1.2G |  |  | 62 | None | Forbidden | Forbidden | 07 |
| Grenades practice Hand or rifle | 1.4G | UN0452 | II | 1.4G |  |  | 62 | None | Forbidden | 75 kg | 06 |
| Grenades, smoke, see Ammunition, smoke, etc |  |  |  |  |  |  |  |  |  |  |  |
| Guanidine nitrate | 5.1 | UN1467 | III | 5.1 | A1, IB8, IP3, T1, TP33 | 152 | 213 | 240 | 25 kg | 100 kg | A | 73
| Guanyl nitrosaminoguanylidene hydrazine (dry) | Forbidden |  |  |  |  |  |  |  |  |  |  |
| Guanyl nitrosaminoguanylidene hydrazine, wetted with not less than 30 percent water, by mass | 1.1A | UN0113 | II | 1.1A | 111, 117 | None | 62 | None | Forbidden | Forbidden | 12 |
| Guanyl nitrosaminoguanyltetrazene (dry) | Forbidden |  |  |  |  |  |  |  |  |  |  |
| Guanyl nitrosaminoguanyltetrazene, wetted or Tetrazene, wetted with not less than 30 percent water or mixture of alcohol and water, by mass | 1.1A | UN0114 | II | 1.1A | 111, 117 | None | 62 | None | Forbidden | Forbidden | 12 |
| Gunpowder, compressed or Gunpowder in pellets, see Black powder (UN 0028) |  |  |  |  |  |  |  |  |  |  |  |
| Gunpowder, granular or as a meal, see Black powder (UN 0027) |  |  |  |  |  |  |  |  |  |  |  |
| Hafnium powder, dry | 4.2 | UN2545 | I | 4.2 |  | None | 211 | 242 | Forbidden | Forbidden | D |
|  |  |  | II | 4.2 | A19, A20, IB6, IP2, N34, T3, TP33 | None | 212 | 241 | 15 kg | 50 kg | D |
|  |  |  | III | 4.2 | IB8, IP3, T1, TP33 | None | 213 | 241 | 25 kg | 100 kg | D |
| Hafnium powder, wetted with not less than 25 percent water (a visible excess of water must be present) (a) mechanically produced, particle size less than 53 microns; (b) chemically produced, particle size less than 840 microns | 4.1 | UN1326 | II | 4.1 | A6, A19, A20, IB6, IP2, N34, T3, TP33 | None | 212 | 241 | 15 kg | 50 kg | E | 74
| Hand signal device, see Signal devices, hand |  |  |  |  |  |  |  |  |  |  |  |
| Hazardous substances, liquid or solid, n.o.s., see Environmentally hazardous substances, etc |  |  |  |  |  |  |  |  |  |  |  |
D G | Hazardous waste, liquid, n.o.s. | 9 | NA3082 | III | 9 | IB3, T2, TP1 | 155 | 203 | 241 | No limit | No limit | A |
D G | Hazardous waste, solid, n.o.s. | 9 | NA3077 | III | 9 | B54, IB8, IP2, T1, TP33 | 155 | 213 | 240 | No limit | No limit | A |
| Heating oil, light | 3 | UN1202 | III | 3 | B1, IB3, T2, TP1 | 150 | 203 | 242 | 60 L | 220 L | A |
| Helium, compressed | 2.2 | UN1046 |  | 2.2 |  | 306 | 302 | 302, 314 | 75 kg | 150 kg | A | 85
| Helium-oxygen mixture, see Rare gases and oxygen mixtures |  |  |  |  |  |  |  |  |  |  |  |
| Helium, refrigerated liquid (cryogenic liquid) | 2.2 | UN1963 |  | 2.2 | T75, TP5 | 320 | 316 | 318 | 50 kg | 500 kg | B |
| Heptafluoropropane or Refrigerant gas R 227 | 2.2 | UN3296 |  | 2.2 | T50 | 306 | 304 | 314, 315 | 75 kg | 150 kg | A |
| n-Heptaldehyde | 3 | UN3056 | III | 3 | B1, IB3, T2, TP1 | 150 | 203 | 242 | 60 L | 220 L | A |
| Heptanes | 3 | UN1206 | II | 3 | IB2, T4, TP1 | 150 | 202 | 242 | 5 L | 60 L | B |
| n-Heptene | 3 | UN2278 | II | 3 | IB2, T4, TP1 | 150 | 202 | 242 | 5 L | 60 L | B |
| Hexachloroacetone | 6.1 | UN2661 | III | 6.1 | IB3, T4, TP1 | 153 | 203 | 241 | 60 L | 220 L | B | 12, 40
| Hexachlorobenzene | 6.1 | UN2729 | III | 6.1 | B3, IB8, IP3, T1, TP33 | 153 | 203 | 241 | 60 L | 220 L | A |
| Hexachlorobutadiene | 6.1 | UN2279 | III | 6.1 | IB3, T4, TP1 | 153 | 203 | 241 | 60 L | 220 L | A |
| Hexachlorocyclopentadiene | 6.1 | UN2646 | I | 6.1 | 2, B9, B14, B32, B74, B77, T20, TP2, TP13, TP38, TP45 | None | 227 | 244 | Forbidden | Forbidden | D | 40
| Hexachlorophene | 6.1 | UN2875 | III | 6.1 | IB8, IP3, T1, TP33 | 153 | 213 | 240 | 100 kg | 200 kg | A |
| Hexadecyltrichlorosilane | 8 | UN1781 | II | 8 | A7, B2, B6, IB2, N34, T7, TP2 | None | 202 | 242 | Forbidden | 30 L | C | 40
| Hexadienes | 3 | UN2458 | II | 3 | IB2, T4, TP1 | None | 202 | 242 | 5 L | 60 L | B |
| Hexaethyl tetraphosphate and compressed gas mixtures | 2.3 | UN1612 |  | 2.3 | 3 | None | 334 | None | Forbidden | Forbidden | D | 40
| Hexaethyl tetraphosphate, liquid | 6.1 | UN1611 | II | 6.1 | IB2, N76, T7, TP2 | 153 | 202 | 243 | 5 L | 60 L | E | 40
| Hexaethyl tetraphosphate, solid | 6.1 | UN1611 | II | 6.1 | IB8, IP2, IP4, N76 | 153 | 212 | 242 | 25 kg | 100 kg | E | 40
| Hexafluoroacetone | 2.3 | UN2420 |  | 2.3, 8 | 2, B9, B14 | None | 304 | 314, 315 | Forbidden | Forbidden | D | 40
| Hexafluoroacetone hydrate, liquid | 6.1 | UN2552 | II | 6.1 | IB2, T7, TP2 | 153 | 202 | 243 | 5 L | 60 L | B | 40
| Hexafluoroacetone hydrate, solid | 6.1 | UN3436 | II | 6.1 | IB8, IP2, IP4, T3, TP33 | 153 | 212 | 242 | 25 kg | 100 kg | B | 40
| Hexafluoroethane, or Refrigerant gas R 116 | 2.2 | UN2193 |  | 2.2 |  | 306 | 304 | 314, 315 | 75 kg | 150 kg | A |
| Hexafluorophosphoric acid | 8 | UN1782 | II | 8 | A6, A7, B2, IB2, N3, N34, T8, TP2, TP12 | None | 202 | 242 | 1 L | 30 L | A |
| Hexafluoropropylene compressed or Refrigerant gas R 1216 | 2.2 | UN1858 |  | 2.2 | T50 | 306 | 304 | 314, 315 | 75 kg | 150 kg | A |
| Hexaldehyde | 3 | UN1207 | III | 3 | B1, IB3, T2, TP1 | 150 | 203 | 242 | 60 L | 220 L | A |
| Hexamethylene diisocyanate | 6.1 | UN2281 | II | 6.1 | IB2, T7, TP2, TP13 | 153 | 202 | 243 | 5 L | 60 L | C | 13, 40
| Hexamethylene triperoxide diamine (dry) | Forbidden |  |  |  |  |  |  |  |  |  |  |
| Hexamethylenediamine, solid | 8 | UN2280 | III | 8 | IB8, IP3, T1, TP33 | 154 | 213 | 240 | 25 kg | 100 kg | A | 12
| Hexamethylenediamine solution | 8 | UN1783 | II | 8 | IB2, T7, TP2 | None | 202 | 242 | 1 L | 30 L | A |
|  |  |  | III | 8 | IB3, T4, TP1 | 154 | 203 | 241 | 5 L | 60 L | A |
| Hexamethyleneimine | 3 | UN2493 | II | 3, 8 | IB2, T7, TP1 | 150 | 202 | 243 | 1 L | 5 L | B | 40
| Hexamethylenetetramine | 4.1 | UN1328 | III | 4.1 | A1, IB8, IP3, T1, TP33 | 151 | 213 | 240 | 25 kg | 100 kg | A |
| Hexamethylol benzene hexanitrate | Forbidden |  |  |  |  |  |  |  |  |  |  |
| Hexanes | 3 | UN1208 | II | 3 | IB2, T4, TP1 | 150 | 202 | 242 | 5 L | 60 L | E |
| 2,2',4,4',6,6'- Hexanitro-3,3'-dihydroxyazobenzene (dry) | Forbidden |  |  |  |  |  |  |  |  |  |  |
| Hexanitroazoxy benzene | Forbidden |  |  |  |  |  |  |  |  |  |  |
| N,N'-(hexanitrodiphenyl) ethylene dinitramine (dry) | Forbidden |  |  |  |  |  |  |  |  |  |  |
| Hexanitrodiphenyl urea | Forbidden |  |  |  |  |  |  |  |  |  |  |
| 2,2',3',4,4',6-Hexanitrodiphenylamine | Forbidden |  |  |  |  |  |  |  |  |  |  |
| Hexanitrodiphenylamine or Dipicrylamine or Hexyl | 1.1D | UN0079 | II | 1.1D |  | None | 62 | None | Forbidden | Forbidden | 10 |
| 2,3',4,4',6,6'-Hexanitrodiphenylether | Forbidden |  |  |  |  |  |  |  |  |  |  |
| Hexanitroethane | Forbidden |  |  |  |  |  |  |  |  |  |  |
| Hexanitrooxanilide | Forbidden |  |  |  |  |  |  |  |  |  |  |
| Hexanitrostilbene | 1.1D | UN0392 | II | 1.1D |  | None | 62 | None | Forbidden | Forbidden | 10 |
| Hexanoic acid, see Corrosive liquids, n.o.s. |  |  |  |  |  |  |  |  |  |  |  |
| Hexanols | 3 | UN2282 | III | 3 | B1, IB3, T2, TP1 | 150 | 203 | 242 | 60 L | 220 L | A | 74
| 1-Hexene | 3 | UN2370 | II | 3 | IB2, T4, TP1 | 150 | 202 | 242 | 5 L | 60 L | E |
| Hexogen and cyclotetramethylenetetranitramine mixtures, wetted or desensitized see RDX and HMX mixtures, wetted or desensitized etc |  |  |  |  |  |  |  |  |  |  |  |
| Hexogen and HMX mixtures, wetted or desensitized see RDX and HMX mixtures, wetted or desensitized etc |  |  |  |  |  |  |  |  |  |  |  |
| Hexogen and octogen mixtures, wetted or desensitized see RDX and HMX mixtures, wetted or desensitized etc |  |  |  |  |  |  |  |  |  |  |  |
| Hexogen, see Cyclotrimethylenetrinitramine, etc |  |  |  |  |  |  |  |  |  |  |  |
| Hexolite, or Hexotol dry or wetted with less than 15 percent water, by mass | 1.1D | UN0118 | II | 1.1D |  | None | 62 | None | Forbidden | Forbidden | 10 |
| Hexotonal | 1.1D | UN0393 | II | 1.1D |  | None | 62 | None | Forbidden | Forbidden | 10 |
| Hexyl, see Hexanitrodiphenylamine |  |  |  |  |  |  |  |  |  |  |  |
| Hexyltrichlorosilane | 8 | UN1784 | II | 8 | A7, B2, B6, IB2, N34, T7, TP2, TP13 | None | 202 | 242 | Forbidden | 30 L | C | 40
| High explosives, see individual explosives' entries |  |  |  |  |  |  |  |  |  |  |  |
| HMX, see Cyclotetramethylenete tranitramine, etc |  |  |  |  |  |  |  |  |  |  |  |
| Hydrazine, anhydrous | 8 | UN2029 | I | 8, 3, 6.1 | A3, A6, A7, A10, B7, B16, B53 | None | 201 | 243 | Forbidden | 2.5 L | D | 40, 125
| Hydrazine, aqueous solution with not more than 37 percent hydrazine, by mass | 6.1 | UN3293 | III | 6.1 | IB3, T4, TP1 | 153 | 203 | 241 | 60 L | 220 L | A |
| Hydrazine azide | Forbidden |  |  |  |  |  |  |  |  |  |  |
| Hydrazine chlorate | Forbidden |  |  |  |  |  |  |  |  |  |  |
| Hydrazine dicarbonic acid diazide | Forbidden |  |  |  |  |  |  |  |  |  |  |
| Hydrazine aqueous solution, with more than 37% hydrazine, by mass | 8 | UN2030 | I | 8, 6.1 | 151, B16, B53, T10, TP2, TP13 | None | 201 | 243 | Forbidden | 2.5 L | D | 40
|  |  |  | II | 8, 6.1 | B16, B53, IB2, T7, TP2, TP13 | None | 202 | 243 | Forbidden | 30 L | D | 40
|  |  |  | III | 8, 6.1 | B16, B53, IB3, T4, TP1 | 154 | 203 | 241 | 5 L | 60 L | D | 40
| Hydrazine perchlorate | Forbidden |  |  |  |  |  |  |  |  |  |  |
| Hydrazine selenate | Forbidden |  |  |  |  |  |  |  |  |  |  |
| Hydriodic acid, anhydrous, see Hydrogen iodide, anhydrous |  |  |  |  |  |  |  |  |  |  |  |
| Hydriodic acid | 8 | UN1787 | II | 8 | A3, A6, B2, IB2, N41, T7, TP2 | 154 | 202 | 242 | 1 L | 30 L | C |
|  |  |  | III | 8 | IB3, T4, TP1 | 154 | 203 | 241 | 5 L | 60 L | C | 8
| Hydrobromic acid, anhydrous, see Hydrogen bromide, anhydrous |  |  |  |  |  |  |  |  |  |  |  |
| Hydrobromic acid, with more than 49 percent hydrobromic acid | 8 | UN1788 | II | 8 | B2, B15, IB2, N41, T7, TP2 | 154 | 202 | 242 | Forbidden | Forbidden | C |
|  |  |  | III | 8 | IB3, T4, TP1 | 154 | 203 | 241 | Forbidden | Forbidden | C | 8
| Hydrobromic acid, with not more than 49 percent hydrobromic acid | 8 | UN1788 | II | 8 | A3, A6, B2, B15, IB2, N41, T7, TP2 | 154 | 202 | 242 | 1 L | 30 L | C |
|  |  |  | III | 8 | A3, IB3, T4, TP1 | 154 | 203 | 241 | 5 L | 60 L | C | 8
| Hydrocarbon gas mixture, compressed, n.o.s. | 2.1 | UN1964 |  | 2.1 |  | 306 | 302 | 314, 315 | Forbidden | 150 kg | E | 40
| Hydrocarbon gas mixture, liquefied, n.o.s. | 2.1 | UN1965 |  | 2.1 | T50 | 306 | 304 | 314, 315 | Forbidden | 150 kg | E | 40
| Hydrocarbons, liquid, n.o.s. | 3 | UN3295 | I | 3 | 144, T11, TP1, TP8, TP28 | 150 | 201 | 243 | 1 L | 30 L | E |
|  |  |  | II | 3 | 144, IB2, T7, TP1, TP8, TP28 | 150 | 202 | 242 | 5 L | 60 L | B |
|  |  |  | III | 3 | 144, B1, IB3, T4, TP1, TP29 | 150 | 203 | 242 | 60 L | 220 L | A |
| Hydrochloric acid, anhydrous, see Hydrogen chloride, anhydrous |  |  |  |  |  |  |  |  |  |  |  |
| Hydrochloric acid | 8 | UN1789 | II | 8 | A3, A6, B3, B15, IB2, N41, T8, TP2, TP12 | 154 | 202 | 242 | 1 L | 30 L | C |
|  |  |  | III | 8 | A3, IB3, T4, TP1, TP12 | 154 | 203 | 241 | 5 L | 60 L | C | 8
| Hydrocyanic acid, anhydrous, see Hydrogen cyanide etc |  |  |  |  |  |  |  |  |  |  |  |
| Hydrocyanic acid, aqueous solutions or Hydrogen cyanide, aqueous solutions with not more than 20 percent hydrogen cyanide | 6.1 | UN1613 | I | 6.1 | 2, B61, B65, B77, B82, T20, TP2, TP13 | None | 195 | 244 | Forbidden | Forbidden | D | 40
D | Hydrocyanic acid, aqueous solutions with less than 5 percent hydrogen cyanide | 6.1 | NA1613 | II | 6.1 | IB1, T14, TP2, TP13, TP27 | None | 195 | 243 | Forbidden | 5 L | D | 40
| Hydrocyanic acid, liquefied, see Hydrogen cyanide, etc |  |  |  |  |  |  |  |  |  |  |  |
| Hydrocyanic acid (prussic), unstabilized | Forbidden |  |  |  |  |  |  |  |  |  |  |
| Hydrofluoric acid and Sulfuric acid mixtures | 8 | UN1786 | I | 8, 6.1 | A6, A7, B15, B23, N5, N34, T10, TP2, TP12, TP13 | None | 201 | 243 | Forbidden | 2.5 L | D | 40
| Hydrofluoric acid, anhydrous, see Hydrogen fluoride, anhydrous |  |  |  |  |  |  |  |  |  |  |  |
| Hydrofluoric acid, with more than 60 percent strength | 8 | UN1790 | I | 8, 6.1 | A6, A7, B4, B15, B23, N5, N34, T10, TP2, TP12, TP13 | None | 201 | 243 | 0.5 L | 2.5 L | D | 12, 40
| Hydrofluoric acid, with not more than 60 percent strength | 8 | UN1790 | II | 8, 6.1 | A6, A7, B15, IB2, N5, N34, T8, TP2, TP12 | 154 | 202 | 243 | 1 L | 30 L | D | 12, 40
| Hydrofluoroboric acid, see Fluoroboric acid |  |  |  |  |  |  |  |  |  |  |  |
| Hydrofluorosilicic acid, see Fluorosilicic acid |  |  |  |  |  |  |  |  |  |  |  |
| Hydrogen and Methane mixtures, compressed | 2.1 | UN2034 |  | 2.1 |  | 306 | 302 | 302, 314, 315 | Forbidden | 150 kg | E | 40, 57
| Hydrogen bromide, anhydrous | 2.3 | UN1048 |  | 2.3, 8 | 3, B14 | None | 304 | 314, 315 | Forbidden | Forbidden | D | 40
| Hydrogen chloride, anhydrous | 2.3 | UN1050 |  | 2.3, 8 | 3 | None | 304 | None | Forbidden | Forbidden | D | 40
| Hydrogen chloride, refrigerated liquid | 2.3 | UN2186 |  | 2.3, 8 | 3, B6 | None | None | 314, 315 | Forbidden | Forbidden | B | 40
| Hydrogen, compressed | 2.1 | UN1049 |  | 2.1 |  | 306 | 302 | 302, 314 | Forbidden | 150 kg | E | 40, 57
| Hydrogen cyanide, solution in alcohol with not more than 45 percent hydrogen cyanide | 6.1 | UN3294 | I | 6.1, 3 | 2, B9, B14, B32, B74, T20, TP2, TP13, TP38, TP45 | None | 227 | 244 | Forbidden | Forbidden | D | 40
| Hydrogen cyanide, stabilized with less than 3 percent water | 6.1 | UN1051 | I | 6.1, 3 | 1, B35, B61, B65, B77, B82 | None | 195 | 244 | Forbidden | Forbidden | D | 40
| Hydrogen cyanide, stabilized, with less than 3 percent water and absorbed in a porous inert material | 6.1 | UN1614 | I | 6.1 | 5 | None | 195 | None | Forbidden | Forbidden | D | 25, 40
| Hydrogen fluoride, anhydrous | 8 | UN1052 | I | 8, 6.1 | 3, B7, B46, B71, B77, T10, TP2 | None | 163 | 243 | Forbidden | Forbidden | D | 40
| Hydrogen in a metal hydride storage system | 2.1 | UN3468 |  | 2.1 | 167 | None | 214 | None | Forbidden | Forbidden | D |
| Hydrogen iodide, anhydrous | 2.3 | UN2197 |  | 2.3 | 3, B14 | None | 304 | 314, 315 | Forbidden | Forbidden | D | 40
| Hydrogen iodide solution, see Hydriodic acid, solution |  |  |  |  |  |  |  |  |  |  |  |
| Hydrogen peroxide and peroxyacetic acid mixtures, stabilized with acids, water and not more than 5 percent peroxyacetic acid | 5.1 | UN3149 | II | 5.1, 8 | 145, A2, A3, A6, B53, IB2, IP5, T7, TP2, TP6, TP24 | None | 202 | 243 | 1 L | 5 L | D | 25, 66, 75
| Hydrogen peroxide, aqueous solutions with more than 40 percent but not more than 60 percent hydrogen peroxide (stabilized as necessary) | 5.1 | UN2014 | II | 5.1, 8 | 12, B53, B80, B81, B85, IB2, T7, TP2, TP6, TP24, TP37 | None | 202 | 243 | Forbidden | Forbidden | D | 25, 66, 75
| Hydrogen peroxide, aqueous solutions with not less than 20 percent but not more than 40 percent hydrogen peroxide (stabilized as necessary) | 5.1 | UN2014 | II | 5.1, 8 | A2, A3, A6, B53, IB2, IP5, T7, TP2, TP6, TP24, TP37 | None | 202 | 243 | 1 L | 5 L | D | 25, 66, 75
| Hydrogen peroxide, aqueous solutions with not less than 8 percent but less than 20 percent hydrogen peroxide (stabilized as necessary) | 5.1 | UN2984 | III | 5.1 | A1, IB2, IP5, T4, TP1, TP6, TP24, TP37 | 152 | 203 | 241 | 2.5 L | 30 L | B | 25, 66, 75
| Hydrogen peroxide, stabilized or Hydrogen peroxide aqueous solutions, stabilized with more than 60 percent hydrogen peroxide | 5.1 | UN2015 | I | 5.1, 8 | 12, B53, B80, B81, B85, T10, TP2, TP6, TP24, TP37 | None | 201 | 243 | Forbidden | Forbidden | D | 25, 66, 75
| Hydrogen, refrigerated liquid (cryogenic liquid) | 2.1 | UN1966 |  | 2.1 | T75, TP5 | None | 316 | 318, 319 | Forbidden | Forbidden | D | 40
| Hydrogen selenide, anhydrous | 2.3 | UN2202 |  | 2.3, 2.1 | 1 | None | 192 | 245 | Forbidden | Forbidden | D | 40
| Hydrogen sulfate, see Sulfuric acid |  |  |  |  |  |  |  |  |  |  |  |
| Hydrogen sulfide | 2.3 | UN1053 |  | 2.3, 2.1 | 2, B9, B14 | None | 304 | 314, 315 | Forbidden | Forbidden | D | 40
| Hydrogendifluorides, n.o.s. | 8 | UN1740 | II | 8 | IB8, IP2, IP4, N3, N34, T3, TP33 | None | 212 | 240 | 15 kg | 50 kg | A | 25, 40, 52
|  |  |  | III | 8 | IB8, IP3, N3, N34, T1, TP33 | 154 | 213 | 240 | 25 kg | 100 kg | A | 25, 40, 52
| Hydroquinone, solid | 6.1 | UN2662 | III | 6.1 | IB8, IP3, T1, TP33 | 153 | 213 | 240 | 100 kg | 200 kg | A |
| Hydroquinone solution | 6.1 | UN3435 | III | 6.1 | IB3, T4, TP1 | 153 | 203 | 241 | 60 L | 220 L | A |
| Hydrosilicofluoric acid, see Fluorosilicic acid |  |  |  |  |  |  |  |  |  |  |  |
| Hydroxyl amine iodide | Forbidden |  |  |  |  |  |  |  |  |  |  |
| Hydroxylamine sulfate | 8 | UN2865 | III | 8 | IB8, IP3, T1, TP33 | 154 | 213 | 240 | 25 kg | 100 kg | A |
| Hypochlorite solutions | 8 | UN1791 | II | 8 | A7, B2, B15, IB2, IP5, N34, T7, TP2, TP24 | 154 | 202 | 242 | 1 L | 30 L | B | 26
|  |  |  | III | 8 | IB3, N34, T4, TP2, TP24 | 154 | 203 | 241 | 5 L | 60 L | B | 26
| Hypochlorites, inorganic, n.o.s. | 5.1 | UN3212 | II | 5.1 | A9, IB8, IP2, IP4, T3, TP33 | 152 | 212 | 240 | 5 kg | 25 kg | D | 4, 48, 52, 56, 58, 69, 106, 116 118
| Hyponitrous acid | Forbidden |  |  |  |  |  |  |  |  |  |  |
| Igniter fuse, metal clad, see Fuse, igniter, tubular, metal clad |  |  |  |  |  |  |  |  |  |  |  |
| Igniters | 1.1G | UN0121 | II | 1.1G |  | None | 62 | None | Forbidden | Forbidden | 07 |
| Igniters | 1.2G | UN0314 | II | 1.2G |  | None | 62 | None | Forbidden | Forbidden | 07 |
| Igniters | 1.3G | UN0315 | II | 1.3G |  | None | 62 | None | Forbidden | Forbidden | 07 |
| Igniters | 1.4G | UN0325 | II | 1.4G |  | None | 62 | None | Forbidden | 75 kg | 06 |
| Igniters | 1.4S | UN0454 | II | 1.4S |  | None | 62 | None | 25 kg | 100 kg | 05 |
| 3,3'-Iminodipropylamine | 8 | UN2269 | III | 8 | IB3, T4, TP2 | 154 | 203 | 241 | 5 L | 60 L | A |
G | Infectious substances, affecting animals only | 6.2 | UN2900 |  | 6.2 | A81, A82 | 134 | 196 | None | 50 mL or 50 g | 4 L or 4 kg | B | 40
G | Infectious substances, affecting humans | 6.2 | UN2814 |  | 6.2 | A81, A82 | 134 | 196 | None | 50 mL or 50 g | 4 L or 4 kg | B | 40
| Inflammable, see Flammable |  |  |  |  |  |  |  |  |  |  |  |
| Initiating explosives (dry) | Forbidden |  |  |  |  |  |  |  |  |  |  |
| Inositol hexanitrate (dry) | Forbidden |  |  |  |  |  |  |  |  |  |  |
G | Insecticide gases, n.o.s. | 2.2 | UN1968 |  | 2.2 |  | 306 | 304 | 314, 315 | 75 kg | 150 kg | A |
G | Insecticide gases, flammable, n.o.s. | 2.1 | UN3354 |  | 2.1 | T50 | 306 | 304 | 314, 315 | Forbidden | 150 kg | D | 40
G | Insecticide gases, toxic, flammable, n.o.s. Inhalation hazard Zone A | 2.3 | UN3355 |  | 2.3, 2.1 | 1 | None | 192 | 245 | Forbidden | Forbidden | D | 40
G | Insecticide gases, toxic, flammable, n.o.s. Inhalation hazard Zone B | 2.3 | UN3355 |  | 2.3, 2.1 | 2, B9, B14 | None | 302, 305 | 314, 315 | Forbidden | Forbidden | D | 40
G | Insecticide gases, toxic, flammable, n.o.s. Inhalation hazard Zone C | 2.3 | UN3355 |  | 2.3, 2.1 | 3, B14 | None | 302, 305 | 314, 315 | Forbidden | Forbidden | D |
G | Insecticide gases, toxic, flammable, n.o.s. Inhalation hazard Zone D | 2.3 | UN3355 |  | 2.3, 2.1 | 4 | None | 302, 305 | 314, 315 | Forbidden | Forbidden | D |
G | Insecticide gases, toxic, n.o.s. | 2.3 | UN1967 |  | 2.3 | 3 | None | 193, 334 | 245 | Forbidden | Forbidden | D | 40
| Inulin trinitrate (dry) | Forbidden |  |  |  |  |  |  |  |  |  |  |
| Iodine azide (dry) | Forbidden |  |  |  |  |  |  |  |  |  |  |
| Iodine monochloride | 8 | UN1792 | II | 8 | B6, IB8, IP2, IP4, N41, T7, TP2 | None | 212 | 240 | Forbidden | 50 kg | D | 40, 66, 74, 89, 90
| Iodine pentafluoride | 5.1 | UN2495 | I | 5.1, 6.1, 8 |  | None | 205 | 243 | Forbidden | Forbidden | D | 25, 40, 52, 66, 90
| 2-Iodobutane | 3 | UN2390 | II | 3 | IB2, T4, TP1 | 150 | 202 | 242 | 5 L | 60 L | B |
| Iodomethylpropanes | 3 | UN2391 | II | 3 | IB2, T4, TP1 | 150 | 202 | 242 | 5 L | 60 L | B |
| Iodopropanes | 3 | UN2392 | III | 3 | B1, IB3, T2, TP1 | 150 | 203 | 242 | 60 L | 220 L | A |
| Iodoxy compounds (dry) | Forbidden |  |  |  |  |  |  |  |  |  |  |
| Iridium nitratopentamine iridium nitrate | Forbidden |  |  |  |  |  |  |  |  |  |  |
| Iron chloride, see Ferric chloride |  |  |  |  |  |  |  |  |  |  |  |
| Iron oxide, spent, or Iron sponge, spent obtained from coal gas purification | 4.2 | UN1376 | III | 4.2 | B18, IB8, IP3, T1, TP33 | None | 213 | 240 | Forbidden | Forbidden | E |
| Iron pentacarbonyl | 6.1 | UN1994 | I | 6.1, 3 | 1, B9, B14, B30, B72, B77, T22, TP2, TP13, TP38, TP44 | None | 226 | 244 | Forbidden | Forbidden | D | 40
| Iron sesquichloride, see Ferric chloride |  |  |  |  |  |  |  |  |  |  |  |
| Irritating material, see Tear gas substances, etc |  |  |  |  |  |  |  |  |  |  |  |
| Isobutane see also Petroleum gases, liquefied | 2.1 | UN1969 |  | 2.1 | 19, T50 | 306 | 304 | 314, 315 | Forbidden | 150 kg | E | 40
| Isobutanol or Isobutyl alcohol | 3 | UN1212 | III | 3 | B1, IB3, T2, TP1 | 150 | 203 | 242 | 60 L | 220 L | A |
| Isobutyl acetate | 3 | UN1213 | II | 3 | IB2, T4, TP1 | 150 | 202 | 242 | 5 L | 60 L | B |
| Isobutyl acrylate, stabilized | 3 | UN2527 | III | 3 | B1, IB3, T2, TP1 | 150 | 203 | 242 | 60 L | 220 L | A |
| Isobutyl alcohol, see Isobutanol |  |  |  |  |  |  |  |  |  |  |  |
| Isobutyl aldehyde, see Isobutyraldehyde |  |  |  |  |  |  |  |  |  |  |  |
D | Isobutyl chloroformate | 6.1 | NA2742 | I | 6.1, 3, 8 | 2, B9, B14, B32, B74, T20, TP4, TP12, TP13, TP38, TP45 | None | 227 | 244 | 1 L | 30 L | A | 12, 13, 22, 25, 40, 48, 100
| Isobutyl formate | 3 | UN2393 | II | 3 | IB2, T4, TP1 | 150 | 202 | 242 | 5 L | 60 L | B |
| Isobutyl isobutyrate | 3 | UN2528 | III | 3 | B1, IB3, T2, TP1 | 150 | 203 | 242 | 60 L | 220 L | A |
+ | Isobutyl isocyanate | 3 | UN2486 | I | 3, 6.1 | 1, B9, B14, B30, B72, T22, TP2, TP13, TP27 | None | 226 | 244 | Forbidden | Forbidden | D | 40
| Isobutyl methacrylate, stabilized | 3 | UN2283 | III | 3 | B1, IB3, T2, TP1 | 150 | 203 | 242 | 60 L | 220 L | A |
| Isobutyl propionate | 3 | UN2394 | III | 3 | B1, IB3, T2, TP1 | 150 | 203 | 242 | 60 L | 220 L | B |
| Isobutylamine | 3 | UN1214 | II | 3, 8 | IB2, T7, TP1 | 150 | 202 | 243 | 1 L | 5 L | B | 40
| Isobutylene see also Petroleum gases, liquefied | 2.1 | UN1055 |  | 2.1 | 19, T50 | 306 | 304 | 314, 315 | Forbidden | 150 kg | E | 40
| Isobutyraldehyde or Isobutyl aldehyde | 3 | UN2045 | II | 3 | IB2, T4, TP1 | 150 | 202 | 242 | 5 L | 60 L | E | 40
| Isobutyric acid | 3 | UN2529 | III | 3, 8 | B1, IB3, T4, TP1 | 150 | 203 | 242 | 5 L | 60 L | A |
| Isobutyronitrile | 3 | UN2284 | II | 3, 6.1 | IB2, T7, TP2, TP13 | 150 | 202 | 243 | 1 L | 60 L | E | 40
| Isobutyryl chloride | 3 | UN2395 | II | 3, 8 | IB1, T7, TP2 | 150 | 202 | 243 | 1 L | 5 L | C | 40
G | Isocyanates, flammable, toxic, n.o.s. or Isocyanate solutions, flammable, toxic, n.o.s. flash point less than 23 degrees C | 3 | UN2478 | II | 3, 6.1 | 5, A3, A7, IB2, T11, TP2, TP13, TP27 | 150 | 202 | 243 | 1 L | 60 L | D | 40
|  |  |  | III | 3, 6.1 | 5, A3, A7, IB3, T7, TP1, TP13, TP28 | 150 | 203 | 242 | 60 L | 220 L | A |
G | Isocyanates, toxic, flammable, n.o.s. or Isocyanate solutions, toxic, flammable, n.o.s., flash point not less than 23 degrees C but not more than 61 degrees C and boiling point less than 300 degrees C | 6.1 | UN3080 | II | 6.1, 3 | IB2, T11, TP2, TP13, TP27 | 153 | 202 | 243 | 5 L | 60 L | B | 25, 40, 48
G | Isocyanates, toxic, n.o.s. or Isocyanate solutions, toxic, n.o.s., flash point more than 61 degrees C and boiling point less than 300 degrees C | 6.1 | UN2206 | II | 6.1 | IB2, T11, TP2, TP13, TP27 | 153 | 202 | 243 | 5 L | 60 L | E | 25, 40, 48
|  |  |  | III | 6.1 | IB3, T7, TP1, TP13, TP28 | 153 | 203 | 241 | 60 L | 220 L | E | 25, 40, 48
| Isocyanatobenzotrifluorides | 6.1 | UN2285 | II | 6.1, 3 | 5, IB2, T7, TP2 | 153 | 202 | 243 | 5 L | 60 L | D | 25, 40, 48
| Isoheptenes | 3 | UN2287 | II | 3 | IB2, T4, TP1 | 150 | 202 | 242 | 5 L | 60 L | B |
| Isohexenes | 3 | UN2288 | II | 3 | IB2, IP8, T11, TP1 | 150 | 202 | 242 | 5 L | 60 L | E |
| Isooctane, see Octanes |  |  |  |  |  |  |  |  |  |  |  |
| Isooctenes | 3 | UN1216 | II | 3 | IB2, T4, TP1 | 150 | 202 | 242 | 5 L | 60 L | B |
| Isopentane, see Pentane |  |  |  |  |  |  |  |  |  |  |  |
| Isopentanoic acid, see Corrosive liquids, n.o.s. |  |  |  |  |  |  |  |  |  |  |  |
| Isopentenes | 3 | UN2371 | I | 3 | T11, TP2 | 150 | 201 | 243 | 1 L | 30 L | E |
| Isophorone diisocyanate | 6.1 | UN2290 | III | 6.1 | IB3, T4, TP2 | 153 | 203 | 241 | 60 L | 220 L | B | 40
| Isophoronediamine | 8 | UN2289 | III | 8 | IB3, T4, TP1 | 154 | 203 | 241 | 5 L | 60 L | A |
| Isoprene, stabilized | 3 | UN1218 | I | 3 | T11, TP2 | 150 | 201 | 243 | 1 L | 30 L | E |
| Isopropanol or Isopropyl alcohol | 3 | UN1219 | II | 3 | IB2, T4, TP1 | 150 | 202 | 242 | 5 L | 60 L | B |
| Isopropenyl acetate | 3 | UN2403 | II | 3 | IB2, T4, TP1 | 150 | 202 | 242 | 5 L | 60 L | B |
| Isopropenylbenzene | 3 | UN2303 | III | 3 | B1, IB3, T2, TP1 | 150 | 203 | 242 | 60 L | 220 L | A |
| Isopropyl acetate | 3 | UN1220 | II | 3 | IB2, T4, TP1 | 150 | 202 | 242 | 5 L | 60 L | B |
| Isopropyl acid phosphate | 8 | UN1793 | III | 8 | IB2, T4, TP1 | 154 | 213 | 240 | 25 kg | 100 kg | A |
| Isopropyl alcohol, see Isopropanol |  |  |  |  |  |  |  |  |  |  |  |
| Isopropyl butyrate | 3 | UN2405 | III | 3 | B1, IB3, T2, TP1 | 150 | 203 | 242 | 60 L | 220 L | A |
| Isopropyl chloroacetate | 3 | UN2947 | III | 3 | B1, IB3, T2, TP1 | 150 | 203 | 242 | 60 L | 220 L | A |
| Isopropyl chloroformate | 6.1 | UN2407 | I | 6.1, 3, 8 | 2, B9, B14, B32, B74, B77, T20, TP2, TP13, TP38, TP44 | None | 227 | 244 | Forbidden | Forbidden | B | 40
| Isopropyl 2-chloropropionate | 3 | UN2934 | III | 3 | B1, IB3, T2, TP1 | 150 | 203 | 242 | 60 L | 220 L | A |
| Isopropyl isobutyrate | 3 | UN2406 | II | 3 | IB2, T4, TP1 | 150 | 202 | 242 | 5 L | 60 L | B |
+ | Isopropyl isocyanate | 3 | UN2483 | I | 3, 6.1 | 1, B9, B14, B30, B72, T22, TP2, TP13, TP38, TP44 | None | 226 | 244 | Forbidden | Forbidden | D | 40
| Isopropyl mercaptan, see Propanethiols |  |  |  |  |  |  |  |  |  |  |  |
| Isopropyl nitrate | 3 | UN1222 | II | 3 | IB99 | 150 | 202 | None | 5 L | 60 L | D |
| Isopropyl phosphoric acid, see Isopropyl acid phosphate |  |  |  |  |  |  |  |  |  |  |  |
| Isopropyl propionate | 3 | UN2409 | II | 3 | IB2, T4, TP1 | 150 | 202 | 242 | 5 L | 60 L | B |
| Isopropylamine | 3 | UN1221 | I | 3, 8 | T11, TP2 | None | 201 | 243 | 0.5 L | 2.5 L | E |
| Isopropylbenzene | 3 | UN1918 | III | 3 | B1, IB3, T2, TP1 | 150 | 203 | 242 | 60 L | 220 L | A |
| Isopropylcumyl hydroperoxide, with more than 72 percent in solution | Forbidden |  |  |  |  |  |  |  |  |  |  |
| Isosorbide dinitrate mixture with not less than 60 percent lactose, mannose, starch or calcium hydrogen phosphate | 4.1 | UN2907 | II | 4.1 | IB6, IP2, N85 | None | 212 | None | 15 kg | 50 kg | E | 28, 36
| Isosorbide-5-mononitrate | 4.1 | UN3251 | III | 4.1 | 66, IB8 | 151 | 213 | 240 | Forbidden | Forbidden | D | 12
| Isothiocyanic acid | Forbidden |  |  |  |  |  |  |  |  |  |  |
| Jet fuel, see Fuel aviation, turbine engine |  |  |  |  |  |  |  |  |  |  |  |
D | Jet perforating guns, charged oil well, with detonator | 1.1D | NA0124 | II | 1.1D | 55, 56 | None | 62 | None | Forbidden | Forbidden | 07 |
D | Jet perforating guns, charged oil well, with detonator | 1.4D | NA0494 | II | 1.4D | 55, 56 | None | 62 | None | Forbidden | Forbidden | 06 |
| Jet perforating guns, charged oil well, without detonator | 1.1D | UN0124 | II | 1.1D | 55 | None | 62 | None | Forbidden | Forbidden | 07 |
| Jet perforating guns, charged, oil well, without detonator | 1.4D | UN0494 | II | 1.4D | 55, 114 | None | 62 | None | Forbidden | 300 kg | 06 |
| Jet perforators, see Charges, shaped, etc |  |  |  |  |  |  |  |  |  |  |  |
| Jet tappers, without detonator, see Charges, shaped, etc |  |  |  |  |  |  |  |  |  |  |  |
| Jet thrust igniters, for rocket motors or Jato, see Igniters |  |  |  |  |  |  |  |  |  |  |  |
| Jet thrust unit (Jato), see Rocket motors |  |  |  |  |  |  |  |  |  |  |  |
| Kerosene | 3 | UN1223 | III | 3 | 144, B1, IB3, T2, TP2 | 150 | 203 | 242 | 60 L | 220 L | A |
G | Ketones, liquid, n.o.s. | 3 | UN1224 | I | 3 | T11, TP1, TP8, TP27 | None | 201 | 243 | 1 L | 30 L | E |
|  |  |  | II | 3 | IB2, T7, TP1, TP8, TP28 | 150 | 202 | 242 | 5 L | 60 L | B |
|  |  |  | III | 3 | B1, IB3, T4, TP1, TP29 | 150 | 203 | 242 | 60 L | 220 L | A |
| Krypton, compressed | 2.2 | UN1056 |  | 2.2 |  | 306 | 302 | None | 75 kg | 150 kg | A |
| Krypton, refrigerated liquid (cryogenic liquid) | 2.2 | UN1970 |  | 2.2 | T75, TP5 | 320 | None | None | 50 kg | 500 kg | B |
| Lacquer base or lacquer chips, nitrocellulose, dry, see Nitrocellulose, etc. (UN 2557) |  |  |  |  |  |  |  |  |  |  |  |
| Lacquer base or lacquer chips, plastic, wet with alcohol or solvent, see Nitrocellulose (UN2059, UN2555, UN2556, UN2557) or Paint etc.(UN1263) |  |  |  |  |  |  |  |  |  |  |  |
| Lead acetate | 6.1 | UN1616 | III | 6.1 | IB8, IP3, T1, TP33 | 153 | 213 | 240 | 100 kg | 200 kg | A |
| Lead arsenates | 6.1 | UN1617 | II | 6.1 | IB8, IP2, IP4, T3, TP33 | 153 | 212 | 242 | 25 kg | 100 kg | A |
| Lead arsenites | 6.1 | UN1618 | II | 6.1 | IB8, IP2, IP4, T3, TP33 | 153 | 212 | 242 | 25 kg | 100 kg | A |
| Lead azide (dry) | Forbidden |  |  |  |  |  |  |  |  |  |  |
| Lead azide, wetted with not less than 20 percent water or mixture of alcohol and water, by mass | 1.1A | UN0129 | II | 1.1A | 111, 117 | None | 62 | None | Forbidden | Forbidden | 12 |
| Lead compounds, soluble, n.o.s. | 6.1 | UN2291 | III | 6.1 | 138, IB8, IP3, T1, TP33 | 153 | 213 | 240 | 100 kg | 200 kg | A |
| Lead cyanide | 6.1 | UN1620 | II | 6.1 | IB8, IP2, IP4, T3, TP33 | 153 | 212 | 242 | 25 kg | 100 kg | A | 52
| Lead dioxide | 5.1 | UN1872 | III | 5.1 | A1, IB8, IP3, T1, TP33 | 152 | 213 | 240 | 25 kg | 100 kg | A |
| Lead dross, see Lead sulfate, with more than 3 percent free acid |  |  |  |  |  |  |  |  |  |  |  |
| Lead nitrate | 5.1 | UN1469 | II | 5.1, 6.1 | IB8, IP2, IP4, T3, TP33 | 152 | 212 | 242 | 5 kg | 25 kg | A |
| Lead nitroresorcinate (dry) | Forbidden |  |  |  |  |  |  |  |  |  |  |
| Lead perchlorate, solid | 5.1 | UN1470 | II | 5.1, 6.1 | IB6, IP2, T3, TP33 | 152 | 212 | 242 | 5 kg | 25 kg | A | 56, 58
| Lead perchlorate, solution | 5.1 | UN3408 | III | 5.1, 6.1 | IB2, T4, TP1 | 152 | 203 | 242 | 2.5 L | 30 L | A | 56, 58
|  |  |  | II | 5.1, 6.1 | IB2, T4, TP1 | 152 | 202 | 243 | 1 L | 5 L | A | 56, 58
| Lead peroxide, see Lead dioxide |  |  |  |  |  |  |  |  |  |  |  |
| Lead phosphite, dibasic | 4.1 | UN2989 | II | 4.1 | IB8, IP2, IP4, T3, TP33 | None | 212 | 240 | 5 kg | 25 kg | B | 34
|  |  |  | III | 4.1 | IB8, IP3, T1, TP33 | 151 | 213 | 240 | 15 kg | 50 kg | B | 34
| Lead picrate (dry) | Forbidden |  |  |  |  |  |  |  |  |  |  |
| Lead styphnate (dry) | Forbidden |  |  |  |  |  |  |  |  |  |  |
| Lead styphnate, wetted or Lead trinitroresorcinate, wetted with not less than 20 percent water or mixture of alcohol and water, by mass | 1.1A | UN0130 | II | 1.1A | 111, 117 | None | 62 | None | Forbidden | Forbidden | 12 |
| Lead sulfate with more than 3 percent free acid | 8 | UN1794 | II | 8 | IB8, IP2, IP4, T3, TP33 | 154 | 212 | 240 | 15 kg | 50 kg | A |
| Lead trinitroresorcinate, see Lead styphnate, etc |  |  |  |  |  |  |  |  |  |  |  |
| Life-saving appliances, not self inflating containing dangerous goods as equipment | 9 | UN3072 |  | None |  | None | 219 | None | No limit | No limit | A |
| Life-saving appliances, self inflating | 9 | UN2990 |  | None |  | None | 219 | None | No limit | No limit | A |
| Lighter replacement cartridges containing liquefied petroleum gases (and similar devices, each not exceeding 65 grams), see Lighters or lighter refills etc. containing flammable gas |  |  |  |  |  |  |  |  |  |  |  |
| Lighters, fuse | 1.4S | UN0131 | II | 1.4S |  | None | 62 | None | 25 kg | 100 kg | 05 |
| Lighters or Lighter refills containing flammable gas | 2.1 | UN1057 |  | 2.1 | N10 | None | 21, 308 | None | 1 kg | 15 kg | B | 40
| Lime, unslaked, see Calcium oxide |  |  |  |  |  |  |  |  |  |  |  |
G | Liquefied gas, flammable, n.o.s. | 2.1 | UN3161 |  | 2.1 | T50 | 306 | 304 | 314, 315 | Forbidden | 150 kg | D | 40
G | Liquefied gas, n.o.s. | 2.2 | UN3163 |  | 2.2 | T50 | 306 | 304 | 314, 315 | 75 kg | 150 kg | A |
G | Liquefied gas, oxidizing, n.o.s. | 2.2 | UN3157 |  | 2.2, 5.1 | A14 | 306 | 304 | 314, 315 | 75 kg | 150 kg | D |
G I | Liquefied gas, toxic, corrosive, n.o.s. Inhalation Hazard Zone A | 2.3 | UN3308 |  | 2.3, 8 | 1 | None | 192 | 245 | Forbidden | Forbidden | D | 40
G I | Liquefied gas, toxic, corrosive, n.o.s. Inhalation Hazard Zone B | 2.3 | UN3308 |  | 2.3, 8 | 2, B9, B14 | None | 304 | 314, 315 | Forbidden | Forbidden | D | 40
G I | Liquefied gas, toxic, corrosive, n.o.s. Inhalation Hazard Zone C | 2.3 | UN3308 |  | 2.3, 8 | 3, B14 | None | 304 | 314, 315 | Forbidden | Forbidden | D | 40
G I | Liquefied gas, toxic, corrosive, n.o.s. Inhalation Hazard Zone D | 2.3 | UN3308 |  | 2.3, 8 | 4 | None | 304 | 314, 315 | Forbidden | Forbidden | D | 40
G I | Liquefied gas, toxic, flammable, corrosive, n.o.s. Inhalation Hazard Zone A | 2.3 | UN3309 |  | 2.3, 2.1, 8 | 1 | None | 192 | 245 | Forbidden | Forbidden | D | 17, 40
G I | Liquefied gas toxic, flammable, corrosive, n.o.s. Inhalation Hazard Zone B | 2.3 | UN3309 |  | 2.3, 2.1, 8 | 2, B9, B14 | None | 304 | 314, 315 | Forbidden | Forbidden | D | 17, 40
G I | Liquefied gas, toxic, flammable, corrosive, n.o.s. Inhalation Hazard Zone C | 2.3 | UN3309 |  | 2.3, 2.1, 8 | 3, B14 | None | 304 | 314, 315 | Forbidden | Forbidden | D | 17, 40
G I | Liquefied gas, toxic, flammable, corrosive, n.o.s. Inhalation Hazard Zone D | 2.3 | UN3309 |  | 2.3, 2.1, 8 | 4 | None | 304 | 314, 315 | Forbidden | Forbidden | D | 17, 40
G | Liquefied gas, toxic, flammable, n.o.s. Inhalation Hazard Zone A | 2.3 | UN3160 |  | 2.3, 2.1 | 1 | None | 192 | 245 | Forbidden | Forbidden | D | 40
G | Liquefied gas, toxic, flammable, n.o.s. Inhalation Hazard Zone B | 2.3 | UN3160 |  | 2.3, 2.1 | 2, B9, B14 | None | 304 | 314, 315 | Forbidden | Forbidden | D | 40
G | Liquefied gas, toxic, flammable, n.o.s. Inhalation Hazard Zone C | 2.3 | UN3160 |  | 2.3, 2.1 | 3, B14 | None | 304 | 314, 315 | Forbidden | Forbidden | D | 40
G | Liquefied gas, toxic, flammable, n.o.s. Inhalation Hazard Zone D | 2.3 | UN3160 |  | 2.3, 2.1 | 4 | None | 304 | 314, 315 | Forbidden | Forbidden | D | 40
G | Liquefied gas, toxic, n.o.s. Inhalation Hazard Zone A | 2.3 | UN3162 |  | 2.3 | 1 | None | 192 | 245 | Forbidden | Forbidden | D | 40
G | Liquefied gas, toxic, n.o.s. Inhalation Hazard Zone B | 2.3 | UN3162 |  | 2.3 | 2, B9, B14 | None | 304 | 314, 315 | Forbidden | Forbidden | D | 40
G | Liquefied gas, toxic, n.o.s. Inhalation Hazard Zone C | 2.3 | UN3162 |  | 2.3 | 3, B14 | None | 304 | 314, 315 | Forbidden | Forbidden | D | 40
G | Liquefied gas, toxic, n.o.s. Inhalation Hazard Zone D | 2.3 | UN3162 |  | 2.3 | 4 | None | 304 | 314, 315 | Forbidden | Forbidden | D | 40
G I | Liquefied gas, toxic, oxidizing, corrosive, n.o.s. Inhalation Hazard Zone A | 2.3 | UN3310 |  | 2.3, 5.1, 8 | 1 | None | 192 | 245 | Forbidden | Forbidden | D | 40, 89, 90
G I | Liquefied gas, toxic, oxidizing, corrosive, n.o.s. Inhalation Hazard Zone B | 2.3 | UN3310 |  | 2.3, 5.1, 8 | 2, B9, B14 | None | 304 | 314, 315 | Forbidden | Forbidden | D | 40, 89, 90
G I | Liquefied gas, toxic, oxidizing, corrosive, n.o.s. Inhalation Hazard Zone C | 2.3 | UN3310 |  | 2.3, 5.1, 8 | 3, B14 | None | 304 | 314, 315 | Forbidden | Forbidden | D | 40, 89, 90
G I | Liquefied gas, toxic, oxidizing, corrosive, n.o.s. Inhalation Hazard Zone D | 2.3 | UN3310 |  | 2.3, 5.1, 8 | 4 | None | 304 | 314, 315 | Forbidden | Forbidden | D | 40, 89, 90
G | Liquefied gas, toxic, oxidizing, n.o.s. Inhalation Hazard Zone A | 2.3 | UN3307 |  | 2.3, 5.1 | 1 | None | 192 | 245 | Forbidden | Forbidden | D | 40
G | Liquefied gas, toxic, oxidizing, n.o.s. Inhalation Hazard Zone B | 2.3 | UN3307 |  | 2.3, 5.1 | 2, B9, B14 | None | 304 | 314, 315 | Forbidden | Forbidden | D | 40
G | Liquefied gas, toxic, oxidizing, n.o.s. Inhalation Hazard Zone C | 2.3 | UN3307 |  | 2.3, 5.1 | 3, B14 | None | 304 | 314, 315 | Forbidden | Forbidden | D | 40
G | Liquefied gas, toxic, oxidizing, n.o.s. Inhalation Hazard Zone D | 2.3 | UN3307 |  | 2.3, 5.1 | 4 | None | 304 | 314, 315 | Forbidden | Forbidden | D | 40
| Liquefied gases, non-flammable charged with nitrogen, carbon dioxide or air | 2.2 | UN1058 |  | 2.2 |  | 306 | 304 | None | 75 kg | 150 kg | A |
| Liquefied hydrocarbon gas, see Hydrocarbon gas mixture, liquefied, n.o.s. |  |  |  |  |  |  |  |  |  |  |  |
| Liquefied natural gas, see Methane, etc. (UN 1972) |  |  |  |  |  |  |  |  |  |  |  |
| Liquefied petroleum gas see Petroleum gases, liquefied |  |  |  |  |  |  |  |  |  |  |  |
| Lithium | 4.3 | UN1415 | I | 4.3 | A7, A19, IB4, IP1, N45 | None | 211 | 244 | Forbidden | 15 kg | E | 52
| Lithium acetylide ethylenediamine complex, see Water reactive solid etc |  |  |  |  |  |  |  |  |  |  |  |
| Lithium alkyls, liquid | 4.2 | UN2445 | I | 4.2, 4.3 | B11, T21, TP2, TP7 | None | 181 | 244 | Forbidden | Forbidden | D |
| Lithium alkyls, solid | 4.2 | UN3433 | I | 4.2, 4.3 | B11, T21, TP7, TP33 | None | 181 | 244 | Forbidden | Forbidden | D |
| Lithium aluminum hydride | 4.3 | UN1410 | I | 4.3 | A19 | None | 211 | 242 | Forbidden | 15 kg | E | 52
| Lithium aluminum hydride, ethereal | 4.3 | UN1411 | I | 4.3, 3 | A2, A3, A11, N34 | None | 201 | 244 | Forbidden | 1 L | D | 40
| Lithium batteries, contained in equipment | 9 | UN3091 | II | 9 | 29, A54, A55, A102, A104 | 185 | 185 | None | 5 kg | 5 kg | A |
| Lithium batteries packed with equipment | 9 | UN3091 | II | 9 | 29, A54, A55, A101, A103 | 185 | 185 | None | 5 kg gross | 35 kg gross | A |
| Lithium battery | 9 | UN3090 | II | 9 | 29, A54, A55, A100 | 185 | 185 | None | 5 kg gross | 35 kg gross | A |
| Lithium borohydride | 4.3 | UN1413 | I | 4.3 | A19, N40 | None | 211 | 242 | Forbidden | 15 kg | E | 52
| Lithium ferrosilicon | 4.3 | UN2830 | II | 4.3 | A19, IB7, IP2, T3, TP33 | 151 | 212 | 241 | 15 kg | 50 kg | E | 40, 85, 103
| Lithium hydride | 4.3 | UN1414 | I | 4.3 | A19, N40 | None | 211 | 242 | Forbidden | 15 kg | E | 52
| Lithium hydride, fused solid | 4.3 | UN2805 | II | 4.3 | A8, A19, A20, IB4, T3, TP33 | 151 | 212 | 241 | 15 kg | 50 kg | E | 52
| Lithium hydroxide | 8 | UN2680 | II | 8 | IB8, IP2, IP4, T3, TP33 | 154 | 212 | 240 | 15 kg | 50 kg | A |
| Lithium hydroxide, solution | 8 | UN2679 | II | 8 | B2, IB2, T7, TP2 | 154 | 202 | 242 | 1 L | 30 L | A | 29
|  |  |  | III | 8 | IB3, T4, TP2 | 154 | 203 | 241 | 5 L | 60 L | A | 29, 96
| Lithium hypochlorite, dry with more than 39% available chlorine (8.8% available oxygen) or Lithium hypochlorite mixtures, dry with more than 39% available chlorine (8.8% available oxygen) | 5.1 | UN1471 | II | 5.1 | A9, IB8, IP2, IP4, N34 | 152 | 212 | 240 | 5 kg | 25 kg | A | 4, 48, 52, 56, 58, 69, 106, 116
| Lithium in cartridges, see Lithium |  |  |  |  |  |  |  |  |  |  |  |
| Lithium nitrate | 5.1 | UN2722 | III | 5.1 | A1, IB8, IP3, T1, TP33 | 152 | 213 | 240 | 25 kg | 100 kg | A |
| Lithium nitride | 4.3 | UN2806 | I | 4.3 | A19, IB4, IP1, N40 | None | 211 | 242 | Forbidden | 15 kg | E |
| Lithium peroxide | 5.1 | UN1472 | II | 5.1 | A9, IB6, IP2, N34, T3, TP33 | 152 | 212 | None | 5 kg | 25 kg | A | 13, 52, 66, 75
| Lithium silicon | 4.3 | UN1417 | II | 4.3 | A19, A20, IB7, IP2, T3, TP33 | 151 | 212 | 241 | 15 kg | 50 kg | A | 85, 103
| LNG, see Methane etc. (UN 1972) |  |  |  |  |  |  |  |  |  |  |  |
| London purple | 6.1 | UN1621 | II | 6.1 | IB8, IP2, IP4, T3, TP33 | 153 | 212 | 242 | 25 kg | 100 kg | A |
| LPG, see Petroleum gases, liquefied |  |  |  |  |  |  |  |  |  |  |  |
| Lye, see Sodium hydroxide, solutions |  |  |  |  |  |  |  |  |  |  |  |
| Magnesium alkyls | 4.2 | UN3053 | I | 4.2, 4.3 | B11, T21, TP2, TP7 | None | 181 | 244 | Forbidden | Forbidden | D | 18
| Magnesium aluminum phosphide | 4.3 | UN1419 | I | 4.3, 6.1 | A19, N34, N40 | None | 211 | 242 | Forbidden | 15 kg | E | 40, 52, 85
+ | Magnesium arsenate | 6.1 | UN1622 | II | 6.1 | IB8, IP2, IP4, T3, TP33 | 153 | 212 | 242 | 25 kg | 100 kg | A |
| Magnesium bisulfite solution, see Bisulfites, aqueous solutions, n.o.s. |  |  |  |  |  |  |  |  |  |  |  |
| Magnesium bromate | 5.1 | UN1473 | II | 5.1 | A1, IB8, IP4, T3, TP33 | 152 | 212 | 242 | 5 kg | 25 kg | A | 56, 58
| Magnesium chlorate | 5.1 | UN2723 | II | 5.1 | IB8, IP2, IP4, T3, TP33 | 152 | 212 | 242 | 5 kg | 25 kg | A | 56, 58
| Magnesium diamide | 4.2 | UN2004 | II | 4.2 | A8, A19, A20, IB6, T3, TP33 | None | 212 | 241 | 15 kg | 50 kg | C |
| Magnesium diphenyl | 4.2 | UN2005 | I | 4.2 | T21, TP7, TP33 | None | 187 | 244 | Forbidden | Forbidden | C |
| Magnesium dross, wet or hot | Forbidden |  |  |  |  |  |  |  |  |  |  |
| Magnesium fluorosilicate | 6.1 | UN2853 | III | 6.1 | IB8, IP3, T1, TP33 | 153 | 213 | 240 | 100 kg | 200 kg | A | 52
| Magnesium granules, coated, particle size not less than 149 microns | 4.3 | UN2950 | III | 4.3 | A1, A19, IB8, IP4, T1, TP33 | 151 | 213 | 240 | 25 kg | 100 kg | A | 52
| Magnesium hydride | 4.3 | UN2010 | I | 4.3 | A19, N40 | None | 211 | 242 | Forbidden | 15 kg | E | 52
| Magnesium or Magnesium alloys with more than 50 percent magnesium in pellets, turnings or ribbons | 4.1 | UN1869 | III | 4.1 | A1, IB8, IP3, T1, TP33 | 151 | 213 | 240 | 25 kg | 100 kg | A | 39, 52, 53, 74, 101
| Magnesium nitrate | 5.1 | UN1474 | III | 5.1 | A1, IB8, IP3, T1, TP33 | 152 | 213 | 240 | 25 kg | 100 kg | A |
| Magnesium perchlorate | 5.1 | UN1475 | II | 5.1 | IB6, IP2, T3, TP33 | 152 | 212 | 242 | 5 kg | 25 kg | A | 56, 58
| Magnesium peroxide | 5.1 | UN1476 | II | 5.1 | IB6, IP2, T3, TP33 | 152 | 212 | 242 | 5 kg | 25 kg | A | 13, 52, 66, 75
| Magnesium phosphide | 4.3 | UN2011 | I | 4.3, 6.1 | A19, N40 | None | 211 | None | Forbidden | 15 kg | E | 40, 52, 85
| Magnesium, powder or Magnesium alloys, powder | 4.3 | UN1418 | I | 4.3, 4.2 | A19, B56 | None | 211 | 244 | Forbidden | 15 kg | A | 39, 52
|  |  |  | II | 4.3, 4.2 | A19, B56, IB5, IP2, T3, TP33 | None | 212 | 241 | 15 kg | 50 kg | A | 39, 52
|  |  |  | III | 4.3, 4.2 | A19, B56, IB8, IP4, T1, TP33 | None | 213 | 241 | 25 kg | 100 kg | A | 39, 52
| Magnesium scrap, see Magnesium, etc. (UN 1869) |  |  |  |  |  |  |  |  |  |  |  |
| Magnesium silicide | 4.3 | UN2624 | II | 4.3 | A19, A20, IB7, IP2, T3, TP33 | 151 | 212 | 241 | 15 kg | 50 kg | B | 85, 103
| Magnetized material, see § 173.21 |  |  |  |  |  |  |  |  |  |  |  |
| Maleic anhydride | 8 | UN2215 | III | 8 | IB8, IP3, T1, TP33 | 154 | 213 | 240 | 25 kg | 100 kg | A |
| Maleic anhydride, molten | 8 | UN2215 | III | 8 | T4, TP3 | None | 213 | 240 | Forbidden | Forbidden | A |
| Malononitrile | 6.1 | UN2647 | II | 6.1 | IB8, IP2, IP4, T3, TP33 | 153 | 212 | 242 | 25 kg | 100 kg | A | 12
| Mancozeb (manganese ethylenebisdithiocarbamate complex with zinc) see Maneb |  |  |  |  |  |  |  |  |  |  |  |
| Maneb or Maneb preparations with not less than 60 percent maneb | 4.2 | UN2210 | III | 4.2, 4.3 | 57, A1, A19, IB6, T1, TP33 | None | 213 | 242 | 25 kg | 100 kg | A | 34
| Maneb stabilized or Maneb preparations, stabilized against self-heating | 4.3 | UN2968 | III | 4.3 | 54, A1, A19, IB8, IP4, T1, TP33 | 151 | 213 | 242 | 25 kg | 100 kg | B | 34, 52
| Manganese nitrate | 5.1 | UN2724 | III | 5.1 | A1, IB8, IP3, T1, TP33 | 152 | 213 | 240 | 25 kg | 100 kg | A |
| Manganese resinate | 4.1 | UN1330 | III | 4.1 | A1, IB6, T1, TP33 | 151 | 213 | 240 | 25 kg | 100 kg | A |
| Mannitan tetranitrate | Forbidden |  |  |  |  |  |  |  |  |  |  |
| Mannitol hexanitrate (dry) | Forbidden |  |  |  |  |  |  |  |  |  |  |
| Mannitol hexanitrate, wetted or Nitromannite, wetted with not less than 40 percent water, or mixture of alcohol and water, by mass | 1.1D | UN0133 | II | 1.1D | 121 | None | 62 | None | Forbidden | Forbidden | 10 |
| Marine pollutants, liquid or solid, n.o.s., see Environmentally hazardous substances, liquid or solid, n.o.s. |  |  |  |  |  |  |  |  |  |  |  |
| Matches, block, see Matches, 'strike anywhere' |  |  |  |  |  |  |  |  |  |  |  |
| Matches, fusee | 4.1 | UN2254 | III | 4.1 |  | 186 | 186 | None | Forbidden | Forbidden | A |
| Matches, safety (book, card or strike on box) | 4.1 | UN1944 | III | 4.1 |  | 186 | 186 | None | 25 kg | 100 kg | A |
| Matches, strike anywhere | 4.1 | UN1331 | III | 4.1 |  | 186 | 186 | None | Forbidden | Forbidden | B |
| Matches, wax, Vesta | 4.1 | UN1945 | III | 4.1 |  | 186 | 186 | None | 25 kg | 100 kg | B |
| Matting acid, see Sulfuric acid |  |  |  |  |  |  |  |  |  |  |  |
| Medicine, liquid, flammable, toxic, n.o.s. | 3 | UN3248 | II | 3, 6.1 | 36, IB2 | 150 | 202 | None | 1 L | 5 L | B | 40
|  |  |  | III | 3, 6.1 | 36, IB3 | 150 | 203 | None | 5 L | 5 L | A |
| Medicine, liquid, toxic, n.o.s. | 6.1 | UN1851 | II | 6.1 | 36 | 153 | 202 | 243 | 5 L | 5 L | C | 40
|  |  |  | III | 6.1 | 36 | 153 | 203 | 241 | 5 L | 5 L | C | 40
| Medicine, solid, toxic, n.o.s. | 6.1 | UN3249 | II | 6.1 | 36, T3, TP33 | 153 | 212 | None | 5 kg | 5 kg | C | 40
|  |  |  | III | 6.1 | 36, T1, TP33 | 153 | 213 | None | 5 kg | 5 kg | C | 40
| Memtetrahydrophthalic anhydride, see Corrosive liquids, n.o.s. |  |  |  |  |  |  |  |  |  |  |  |
| Mercaptans, liquid, flammable, n.o.s. or Mercaptan mixture, liquid, flammable, n.o.s. | 3 | UN3336 | I | 3 | T11, TP2 | 150 | 201 | 243 | 1 L | 30 L | E | 95
|  |  |  | II | 3 | IB2, T7, TP1, TP8, TP28 | 150 | 202 | 242 | 5 L | 60 L | B | 95
|  |  |  | III | 3 | B1, B52, IB3, T4, TP1, TP29 | 150 | 203 | 241 | 60 L | 220 L | B | 95
| Mercaptans, liquid, flammable, toxic, n.o.s. or Mercaptan mixtures, liquid, flammable, toxic, n.o.s. | 3 | UN1228 | II | 3, 6.1 | IB2, T11, TP2, TP27 | None | 202 | 243 | Forbidden | 60 L | B | 40, 95
|  |  |  | III | 3, 6.1 | A6, B1, IB3, T7, TP1, TP28 | 150 | 203 | 242 | 5 L | 220 L | A | 40, 95
| Mercaptans, liquid, toxic, flammable, n.o.s. or Mercaptan mixtures, liquid, toxic, flammable, n.o.s., flash point not less than 23 degrees C | 6.1 | UN3071 | II | 6.1, 3 | A6, IB2, T11, TP2, TP13, TP27 | 153 | 202 | 243 | 5 L | 60 L | C | 40, 121
| 5-Mercaptotetrazol-1-acetic acid | 1.4C | UN0448 | II | 1.4C |  | None | 62 | None | Forbidden | 75 kg | 09 |
| Mercuric arsenate | 6.1 | UN1623 | II | 6.1 | IB8, IP2, IP4, T3, TP33 | 153 | 212 | 242 | 25 kg | 100 kg | A |
| Mercuric chloride | 6.1 | UN1624 | II | 6.1 | IB8, IP2, IP4, T3, TP33 | 153 | 212 | 242 | 25 kg | 100 kg | A |
| Mercuric compounds, see Mercury compounds, etc |  |  |  |  |  |  |  |  |  |  |  |
| Mercuric nitrate | 6.1 | UN1625 | II | 6.1 | IB8, IP2, IP4, N73, T3, TP33 | 153 | 212 | 242 | 25 kg | 100 kg | A |
+ | Mercuric potassium cyanide | 6.1 | UN1626 | I | 6.1 | IB7, IP1, N74, N75, T6, TP33 | None | 211 | 242 | 5 kg | 50 kg | A | 52
| Mercuric sulfocyanate, see Mercury thiocyanate |  |  |  |  |  |  |  |  |  |  |  |
| Mercurol, see Mercury nucleate |  |  |  |  |  |  |  |  |  |  |  |
| Mercurous azide | Forbidden |  |  |  |  |  |  |  |  |  |  |
| Mercurous compounds, see Mercury compounds, etc |  |  |  |  |  |  |  |  |  |  |  |
| Mercurous nitrate | 6.1 | UN1627 | II | 6.1 | IB8, IP2, IP4, T3, TP33 | 153 | 212 | 242 | 25 kg | 100 kg | A |
A W | Mercury | 8 | UN2809 | III | 8 |  | 164 | 164 | 240 | 35 kg | 35 kg | B | 40, 97
| Mercury acetate | 6.1 | UN1629 | II | 6.1 | IB8, IP2, IP4, T3, TP33 | 153 | 212 | 242 | 25 kg | 100 kg | A |
| Mercury acetylide | Forbidden |  |  |  |  |  |  |  |  |  |  |
| Mercury ammonium chloride | 6.1 | UN1630 | II | 6.1 | IB8, IP2, IP4, T3, TP33 | 153 | 212 | 242 | 25 kg | 100 kg | A |
| Mercury based pesticides, liquid, flammable, toxic, flash point less than 23 degrees C | 3 | UN2778 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Mercury based pesticides, liquid, toxic | 6.1 | UN3012 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Mercury based pesticides, liquid, toxic, flammable, flash point not less than 23 degrees C | 6.1 | UN3011 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | IB3, T7, TP2, TP28 | 153 | 203 | 242 | 60 L | 220 L | A | 40
| Mercury based pesticides, solid, toxic | 6.1 | UN2777 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Mercury benzoate | 6.1 | UN1631 | II | 6.1 | IB8, IP2, IP4, T3, TP33 | 153 | 212 | 242 | 25 kg | 100 kg | A |
| Mercury bromides | 6.1 | UN1634 | II | 6.1 | IB8, IP2, IP4, T3, TP33 | 153 | 212 | 242 | 25 kg | 100 kg | A |
| Mercury compounds, liquid, n.o.s. | 6.1 | UN2024 | I | 6.1 |  | None | 201 | 243 | 1 L | 30 L | B | 40
|  |  |  | II | 6.1 | IB2 | 153 | 202 | 243 | 5 L | 60 L | B | 40
|  |  |  | III | 6.1 | IB3 | 153 | 203 | 241 | 60 L | 220 L | B | 40
| Mercury compounds, solid, n.o.s. | 6.1 | UN2025 | I | 6.1 | IB7, IP1, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
A | Mercury contained in manufactured articles | 8 | UN2809 | III | 8 |  | None | 164 | None | No limit | No limit | B | 40, 97
| Mercury cyanide | 6.1 | UN1636 | II | 6.1 | IB8, IP2, IP4, N74, N75, T3, TP33 | 153 | 212 | 242 | 25 kg | 100 kg | A | 52
| Mercury fulminate, wetted with not less than 20 percent water, or mixture of alcohol and water, by mass | 1.1A | UN0135 | II | 1.1A | 111, 117 | None | 62 | None | Forbidden | Forbidden | 12 |
| Mercury gluconate | 6.1 | UN1637 | II | 6.1 | IB8, IP2, IP4, T3, TP33 | 153 | 212 | 242 | 25 kg | 100 kg | A |
| Mercury iodide | 6.1 | UN1638 | II | 6.1 | IB2, IP2, IP4, T3, TP33 | 153 | 212 | 242 | 25 kg | 100 kg | A |
| Mercury iodide aquabasic ammonobasic (Iodide of Millon's base) | Forbidden |  |  |  |  |  |  |  |  |  |  |
| Mercury nitride | Forbidden |  |  |  |  |  |  |  |  |  |  |
| Mercury nucleate | 6.1 | UN1639 | II | 6.1 | IB8, IP2, IP4, T3, TP33 | 153 | 212 | 242 | 25 kg | 100 kg | A |
| Mercury oleate | 6.1 | UN1640 | II | 6.1 | IB8, IP2, IP4, T3, TP33 | 153 | 212 | 242 | 25 kg | 100 kg | A |
| Mercury oxide | 6.1 | UN1641 | II | 6.1 | IB8, IP2, IP4, T3, TP33 | 153 | 212 | 242 | 25 kg | 100 kg | A |
| Mercury oxycyanide | Forbidden |  |  |  |  |  |  |  |  |  |  |
| Mercury oxycyanide, desensitized | 6.1 | UN1642 | II | 6.1 | IB8, IP2, IP4, T3, TP33 | 153 | 212 | 242 | 25 kg | 100 kg | A | 52, 91
| Mercury potassium iodide | 6.1 | UN1643 | II | 6.1 | IB8, IP2, IP4, T3, TP33 | 153 | 212 | 242 | 25 kg | 100 kg | A |
| Mercury salicylate | 6.1 | UN1644 | II | 6.1 | IB8, IP2, IP4, T3, TP33 | 153 | 212 | 242 | 25 kg | 100 kg | A |
+ | Mercury sulfates | 6.1 | UN1645 | II | 6.1 | IB8, IP2, IP4, T3, TP33 | 153 | 212 | 242 | 25 kg | 100 kg | A |
| Mercury thiocyanate | 6.1 | UN1646 | II | 6.1 | IB8, IP2, IP4, T3, TP33 | 153 | 212 | 242 | 25 kg | 100 kg | A |
| Mesityl oxide | 3 | UN1229 | III | 3 | B1, IB3, T2, TP1 | 150 | 203 | 242 | 60 L | 220 L | A |
G | Metal carbonyls, liquid, n.o.s. | 6.1 | UN3281 | I | 6.1 | 5, T14, TP2, TP13, TP27 | None | 201 | 243 | 1 L | 30 L | B | 40
|  |  |  | II | 6.1 | IB2, T11, TP2, TP27 | 153 | 202 | 243 | 5 L | 60 L | B | 40
|  |  |  | III | 6.1 | IB3, T7, TP1, TP28 | 153 | 203 | 241 | 60 L | 220 L | A | 40
G | Metal carbonyls, solid, n.o.s. | 6.1 | UN3466 | I | 6.1 | IB7, IP1, T6, TP33 | None | 211 | 242 | 5 kg | 50 kg | D | 40
|  |  |  | II | 6.1 | IB8, IP2, IP4, T3, TP33 | 153 | 212 | 242 | 25 kg | 100 kg | B | 40
|  |  |  | III | 6.1 | IB8, IP3, T1, TP33 | 153 | 213 | 240 | 100 kg | 200 kg | B | 40
| Metal catalyst, dry | 4.2 | UN2881 | I | 4.2 | N34, T21, TP7, TP33 | None | 187 | None | Forbidden | Forbidden | C |
|  |  |  | II | 4.2 | IB6, IP2, N34, T3, TP33 | None | 187 | 242 | Forbidden | 50 kg | C |
|  |  |  | III | 4.2 | IB8, IP3, N34, T1, TP33 | None | 187 | 241 | 25 kg | 100 kg | C |
| Metal catalyst, wetted with a visible excess of liquid | 4.2 | UN1378 | II | 4.2 | A2, A8, IB1, N34, T3, TP33 | None | 212 | None | Forbidden | 50 kg | C |
| Metal hydrides, flammable, n.o.s. | 4.1 | UN3182 | II | 4.1 | A1, IB4, T3, TP33 | 151 | 212 | 240 | 15 kg | 50 kg | E |
|  |  |  | III | 4.1 | A1, IB4, T1, TP33 | 151 | 213 | 240 | 25 kg | 100 kg | E |
| Metal hydrides, water reactive, n.o.s. | 4.3 | UN1409 | I | 4.3 | A19, N34, N40 | None | 211 | 242 | Forbidden | 15 kg | D | 52
|  |  |  | II | 4.3 | A19, IB4, N34, N40, T3, TP33 | 151 | 212 | 242 | 15 kg | 50 kg | D | 52
| Metal powder, self-heating, n.o.s. | 4.2 | UN3189 | II | 4.2 | IB6, IP2, T3, TP33 | None | 212 | 241 | 15 kg | 50 kg | C |
|  |  |  | III | 4.2 | IB8, IP3, T1, TP33 | None | 213 | 241 | 25 kg | 100 kg | C |
| Metal powders, flammable, n.o.s. | 4.1 | UN3089 | II | 4.1 | IB8, IP2, IP4, T3, TP33 | 151 | 212 | 240 | 15 kg | 50 kg | B |
|  |  |  | III | 4.1 | IB6, T1, TP33 | 151 | 213 | 240 | 25 kg | 100 kg | B |
| Metal salts of methyl nitramine (dry) | Forbidden |  |  |  |  |  |  |  |  |  |  |
G | Metal salts of organic compounds, flammable, n.o.s. | 4.1 | UN3181 | II | 4.1 | A1, IB8, IP2, IP4, T3, TP33 | 151 | 212 | 240 | 15 kg | 50 kg | B | 40
|  |  |  | III | 4.1 | A1, IB8, IP3, T1, TP33 | 151 | 213 | 240 | 25 kg | 100 kg | B | 40
| Metaldehyde | 4.1 | UN1332 | III | 4.1 | A1, IB8, IP3, T1, TP33 | 151 | 213 | 240 | 25 kg | 100 kg | A |
G | Metallic substance, water-reactive, n.o.s. | 4.3 | UN3208 | I | 4.3 | A7, IB4 | None | 211 | 242 | Forbidden | 15 kg | E | 40
|  |  |  | II | 4.3 | A7, IB7, IP2, T3, TP33 | 151 | 212 | 242 | 15 kg | 50 kg | E | 40
|  |  |  | III | 4.3 | A7, IB8, IP4, T1, TP33 | 151 | 213 | 241 | 25 kg | 100 kg | E | 40
G | Metallic substance, water-reactive, self-heating, n.o.s. | 4.3 | UN3209 | I | 4.3, 4.2 | A7 | None | 211 | 242 | Forbidden | 15 kg | E | 40
|  |  |  | II | 4.3, 4.2 | A7, IB5, IP2, T3, TP33 | None | 212 | 242 | 15 kg | 50 kg | E | 40
|  |  |  | III | 4.3, 4.2 | A7, IB8, IP4, T1, TP33 | None | 213 | 242 | 25 kg | 100 kg | E | 40
| Methacrylaldehyde, stabilized | 3 | UN2396 | II | 3, 6.1 | 45, IB2, T7, TP1, TP13 | 150 | 202 | 243 | 1 L | 60 L | E | 40
| Methacrylic acid, stabilized | 8 | UN2531 | II | 8 | IB2, T7, TP1, TP18, TP30 | 154 | 202 | 242 | 1 L | 30 L | C | 40
+ | Methacrylonitrile, stabilized | 3 | UN3079 | I | 3, 6.1 | 2, B9, B14, B32, B74, T20, TP2, TP13, TP38, TP45 | None | 227 | 244 | Forbidden | Forbidden | D | 12, 40, 48
| Methallyl alcohol | 3 | UN2614 | III | 3 | B1, IB3, T2, TP1 | 150 | 203 | 242 | 60 L | 220 L | A |
| Methane and hydrogen, mixtures, see Hydrogen and methane, mixtures, etc |  |  |  |  |  |  |  |  |  |  |  |
| Methane, compressed or Natural gas, compressed (with high methane content) | 2.1 | UN1971 |  | 2.1 |  | 306 | 302 | 302 | Forbidden | 150 kg | E | 40
| Methane, refrigerated liquid (cryogenic liquid) or Natural gas, refrigerated liquid (cryogenic liquid), with high methane content) | 2.1 | UN1972 |  | 2.1 | T75, TP5 | None | None | 318 | Forbidden | Forbidden | D | 40
| Methanesulfonyl chloride | 6.1 | UN3246 | I | 6.1, 8 | 2, B9, B14, B32, B74, T20, TP2, TP12, TP13, TP38, TP45 | None | 227 | 244 | Forbidden | Forbidden | D | 40
+ I | Methanol | 3 | UN1230 | II | 3, 6.1 | IB2, T7, TP2 | 150 | 202 | 242 | 1 L | 60 L | B | 40
D | Methanol | 3 | UN1230 | II | 3 | IB2, T7, TP2 | 150 | 202 | 242 | 1 L | 60 L | B | 40
| Methazoic acid | Forbidden |  |  |  |  |  |  |  |  |  |  |
| 4-Methoxy-4-methylpentan-2-one | 3 | UN2293 | III | 3 | B1, IB3, T2, TP1 | 150 | 203 | 242 | 60 L | 220 L | A |
| 1-Methoxy-2-propanol | 3 | UN3092 | III | 3 | B1, IB3, T2, TP1 | 150 | 203 | 242 | 60 L | 220 L | A |
+ | Methoxymethyl isocyanate | 3 | UN2605 | I | 3, 6.1 | 1, B9, B14, B30, B72, T22, TP2, TP13, TP38, TP44 | None | 226 | 244 | Forbidden | Forbidden | D | 40
| Methyl acetate | 3 | UN1231 | II | 3 | IB2, T4, TP1 | 150 | 202 | 242 | 5 L | 60 L | B |
| Methyl acetylene and propadiene mixtures, stabilized | 2.1 | UN1060 |  | 2.1 | T50 | 306 | 304 | 314, 315 | Forbidden | 150 kg | B | 40
| Methyl acrylate, stabilized | 3 | UN1919 | II | 3 | IB2, T4, TP1, TP13 | 150 | 202 | 242 | 5 L | 60 L | B |
| Methyl alcohol, see Methanol |  |  |  |  |  |  |  |  |  |  |  |
| Methyl allyl chloride | 3 | UN2554 | II | 3 | IB2, T4, TP1, TP13 | 150 | 202 | 242 | 5 L | 60 L | E |
| Methyl amyl ketone, see Amyl methyl ketone |  |  |  |  |  |  |  |  |  |  |  |
| Methyl bromide | 2.3 | UN1062 |  | 2.3 | 3, B14, T50 | None | 193 | 314, 315 | Forbidden | Forbidden | D | 40
| Methyl bromide and chloropicrin mixtures with more than 2 percent chloropicrin, see Chloropicrin and methyl bromide mixtures |  |  |  |  |  |  |  |  |  |  |  |
| Methyl bromide and chloropicrin mixtures with not more than 2 percent chloropicrin, see Methyl bromide |  |  |  |  |  |  |  |  |  |  |  |
| Methyl bromide and ethylene dibromide mixtures, liquid | 6.1 | UN1647 | I | 6.1 | 2, B9, B14, B32, B74, N65, T20, TP2, TP13, TP38, TP44 | None | 227 | 244 | Forbidden | Forbidden | C | 40
| Methyl bromoacetate | 6.1 | UN2643 | II | 6.1 | IB2, T7, TP2 | 153 | 202 | 243 | 5 L | 60 L | D | 40
| 2-Methlybutanal | 3 | UN3371 | II |  | 3IB2, T4, TP1 | 150 | 202 | 242 | 5 L | 60 L | B |
| 2-Methyl-1-butene | 3 | UN2459 | I | 3 | T11, TP2 | None | 201 | 243 | 1 L | 30 L | E |
| 2-Methyl-2-butene | 3 | UN2460 | II | 3 | IB2, IP8, T7, TP1 | None | 202 | 242 | 5 L | 60 L | E |
| 3-Methyl-1-butene | 3 | UN2561 | I | 3 | T11, TP2 | None | 201 | 243 | 1 L | 30 L | E |
| Methyl tert-butyl ether | 3 | UN2398 | II | 3 | IB2, T7, TP1 | 150 | 202 | 242 | 5 L | 60 L | E |
| Methyl butyrate | 3 | UN1237 | II | 3 | IB2, T4, TP1 | 150 | 202 | 242 | 5 L | 60 L | B |
| Methyl chloride, or Refrigerant gas R 40 | 2.1 | UN1063 |  | 2.1 | T50 | 306 | 304 | 314, 315 | 5 kg | 100 kg | D | 40
| Methyl chloride and chloropicrin mixtures, see Chloropicrin and methyl chloride mixtures |  |  |  |  |  |  |  |  |  |  |  |
| Methyl chloride and methylene chloride mixtures | 2.1 | UN1912 |  | 2.1 | T50 | 306 | 304 | 314, 315 | Forbidden | 150 kg | D | 40
| Methyl chloroacetate | 6.1 | UN2295 | I | 6.1, 3 | T14, TP2, TP13 | None | 201 | 243 | 1 L | 30 L | D |
| Methyl chlorocarbonate, see Methyl chloroformate |  |  |  |  |  |  |  |  |  |  |  |
| Methyl chloroform, see 1,1,1-Trichloroethane |  |  |  |  |  |  |  |  |  |  |  |
| Methyl chloroformate | 6.1 | UN1238 | I | 6.1, 3, 8 | 1, B9, B14, B30, B72, N34, T22, TP2, TP13, TP38, TP44 | None | 226 | 244 | Forbidden | Forbidden | D | 21, 40, 100
| Methyl chloromethyl ether | 6.1 | UN1239 | I | 6.1, 3 | 1, B9, B14, B30, B72, T22, TP2, TP38, TP44 | None | 226 | 244 | Forbidden | Forbidden | D | 40
| Methyl 2-chloropropionate | 3 | UN2933 | III | 3 | B1, IB3, T2, TP1 | 150 | 203 | 242 | 60 L | 220 L | A |
| Methyl dichloroacetate | 6.1 | UN2299 | III | 6.1 | IB3, T4, TP1 | 153 | 203 | 241 | 60 L | 220 L | A |
| Methyl ethyl ether, see Ethyl methyl ether |  |  |  |  |  |  |  |  |  |  |  |
| Methyl ethyl ketone, see Ethyl methyl ketone |  |  |  |  |  |  |  |  |  |  |  |
| Methyl ethyl ketone peroxide, in solution with more than 9 percent by mass active oxygen | Forbidden |  |  |  |  |  |  |  |  |  |  |
| 2-Methyl-5-ethylpyridine | 6.1 | UN2300 | III | 6.1 | IB3, T4, TP1 | 153 | 203 | 241 | 60 L | 220 L | A |
| Methyl fluoride, or Refrigerant gas R 41 | 2.1 | UN2454 |  | 2.1 |  | 306 | 304 | 314, 315 | Forbidden | 150 kg | E | 40
| Methyl formate | 3 | UN1243 | I | 3 | T11, TP2 | 150 | 201 | 243 | 1 L | 30 L | E |
| 2-Methyl-2-heptanethiol | 6.1 | UN3023 | I | 6.1, 3 | 2, B9, B14, B32, B74, T20, TP2, TP13, TP38, TP45 | None | 227 | 244 | Forbidden | Forbidden | D | 40, 102
| Methyl iodide | 6.1 | UN2644 | I | 6.1 | 2, B9, B14, B32, B74, T20, TP2, TP13, TP38, TP45 | None | 227 | 244 | Forbidden | Forbidden | A | 12, 40
| Methyl isobutyl carbinol | 3 | UN2053 | III | 3 | B1, IB3, T2, TP1 | 150 | 203 | 242 | 60 L | 220 L | A |
| Methyl isobutyl ketone | 3 | UN1245 | II | 3 | IB2, T4, TP1 | 150 | 202 | 242 | 5 L | 60 L | B |
| Methyl isobutyl ketone peroxide, in solution with more than 9 percent by mass active oxygen | Forbidden |  |  |  |  |  |  |  |  |  |  |
| Methyl isocyanate | 6.1 | UN2480 | I | 6.1, 3 | 1, B9, B14, B30, B72, T22, TP2, TP13, TP38, TP44 | None | 226 | 244 | Forbidden | Forbidden | D | 40, 52
| Methyl isopropenyl ketone, stabilized | 3 | UN1246 | II | 3 | IB2, T4, TP1 | 150 | 202 | 242 | 5 L | 60 L | B |
| Methyl isothiocyanate | 6.1 | UN2477 | I | 6.1, 3 | 2, B9, B14, B32, B74, T20, TP2, TP13, TP38, TP45 | None | 227 | 244 | Forbidden | Forbidden | A |
| Methyl isovalerate | 3 | UN2400 | II | 3 | IB2, T4, TP1 | 150 | 202 | 242 | 5 L | 60 L | B |
| Methyl magnesium bromide, in ethyl ether | 4.3 | UN1928 | I | 4.3, 3 |  | None | 201 | 243 | Forbidden | 1 L | D |
| Methyl mercaptan | 2.3 | UN1064 |  | 2.3, 2.1 | 3, B7, B9, B14, T50 | None | 304 | 314, 315 | Forbidden | Forbidden | D | 40
| Methyl mercaptopropionaldehyde, see Thia-4-pentanal |  |  |  |  |  |  |  |  |  |  |  |
| Methyl methacrylate monomer, stabilized | 3 | UN1247 | II | 3 | IB2, T4, TP1 | 150 | 202 | 242 | 5 L | 60 L | B | 40
| Methyl nitramine (dry) | Forbidden |  |  |  |  |  |  |  |  |  |  |
| Methyl nitrate | Forbidden |  |  |  |  |  |  |  |  |  |  |
| Methyl nitrite | Forbidden |  |  |  |  |  |  |  |  |  |  |
| Methyl norbornene dicarboxylic anhydride, see Corrosive liquids, n.o.s. |  |  |  |  |  |  |  |  |  |  |  |
| Methyl orthosilicate | 6.1 | UN2606 | I | 6.1, 3 | 2, B9, B14, B32, B74, T20, TP2, TP13, TP38, TP45 | None | 227 | 244 | Forbidden | Forbidden | E | 40
D | Methyl phosphonic dichloride | 6.1 | NA9206 | I | 6.1, 8 | 2, B9, B14, B32, B74, N34, N43, T20, TP4, TP12, TP13, TP38, TP45 | None | 227 | 244 | Forbidden | Forbidden | C |
| Methyl phosphonothioic dichloride, anhydrous, see Corrosive liquid, n.o.s. |  |  |  |  |  |  |  |  |  |  |  |
D | Methyl phosphonous dichloride, pyrophoric liquid | 6.1 | NA2845 | I | 6.1, 4.2 | 2, B9, B14, B16, B32, B74, T20, TP4, TP12, TP13, TP38, TP45 | None | 227 | 244 | Forbidden | Forbidden | D | 18
| Methyl picric acid (heavy metal salts of) | Forbidden |  |  |  |  |  |  |  |  |  |  |
| Methyl propionate | 3 | UN1248 | II | 3 | IB2, T4, TP1 | 150 | 202 | 242 | 5 L | 60 L | B |
| Methyl propyl ether | 3 | UN2612 | II | 3 | IB2, IP8, T7, TP2 | 150 | 202 | 242 | 5 L | 60 L | E | 40
| Methyl propyl ketone | 3 | UN1249 | II | 3 | IB2, T4, TP1 | 150 | 202 | 242 | 5 L | 60 L | B |
| Methyl sulfate, see Dimethyl sulfate |  |  |  |  |  |  |  |  |  |  |  |
| Methyl sulfide, see Dimethyl sulfide |  |  |  |  |  |  |  |  |  |  |  |
| Methyl trichloroacetate | 6.1 | UN2533 | III | 6.1 | IB3, T4, TP1 | 153 | 203 | 241 | 60 L | 220 L | A |
| Methyl trimethylol methane trinitrate | Forbidden |  |  |  |  |  |  |  |  |  |  |
| Methyl vinyl ketone, stabilized | 6.1 | UN1251 | I | 6.1, 3, 8 | 1, B9, B14, B30, B72, T22, TP2, TP13, TP38, TP44 | None | 226 | 244 | Forbidden | Forbidden | B | 40
| Methylal | 3 | UN1234 | II | 3 | IB2, IP8, T7, TP2 | None | 202 | 242 | 5 L | 60 L | E |
| Methylamine, anhydrous | 2.1 | UN1061 |  | 2.1 | T50 | 306 | 304 | 314, 315 | Forbidden | 150 kg | B | 40
| Methylamine, aqueous solution | 3 | UN1235 | II | 3, 8 | B1, IB2, T7, TP1 | 150 | 202 | 243 | 1 L | 5 L | E | 135
| Methylamine dinitramine and dry salts thereof | Forbidden |  |  |  |  |  |  |  |  |  |  |
| Methylamine nitroform | Forbidden |  |  |  |  |  |  |  |  |  |  |
| Methylamine perchlorate (dry) | Forbidden |  |  |  |  |  |  |  |  |  |  |
| Methylamyl acetate | 3 | UN1233 | III | 3 | B1, IB3, T2, TP1 | 150 | 203 | 242 | 60 L | 220 L | A |
| N-Methylaniline | 6.1 | UN2294 | III | 6.1 | IB3, T4, TP1 | 153 | 203 | 241 | 60 L | 220 L | A |
| alpha-Methylbenzyl alcohol, liquid | 6.1 | UN2937 | III | 6.1 | IB3, T4, TP1 | 153 | 203 | 241 | 60 L | 220 L | A |
| alpha-Methylbenzyl alcohol, solid | 6.1 | UN3438 | III | 6.1 | IB8, IP3, T1, TP33 | 153 | 213 | 240 | 100 kg | 200 kg | A |
| 3-Methylbutan-2-one | 3 | UN2397 | II | 3 | IB2, T4, TP1 | 150 | 202 | 242 | 5 L | 60 L | B |
| N-Methylbutylamine | 3 | UN2945 | II | 3, 8 | IB2, T7, TP1 | 150 | 202 | 243 | 1 L | 5 L | B | 40
| Methylchlorosilane | 2.3 | UN2534 |  | 2.3, 2.1, 8 | 2, B9, B14, N34 | None | 226 | 314, 315 | Forbidden | Forbidden | D | 17, 40
| Methylcyclohexane | 3 | UN2296 | II | 3 | B1, IB2, T4, TP1 | 150 | 202 | 242 | 5 L | 60 L | B |
| Methylcyclohexanols, flammable | 3 | UN2617 | III | 3 | B1, IB3, T2, TP1 | 150 | 203 | 242 | 60 L | 220 L | A |
| Methylcyclohexanone | 3 | UN2297 | III | 3 | B1, IB3, T2, TP1 | 150 | 203 | 242 | 60 L | 220 L | A |
| Methylcyclopentane | 3 | UN2298 | II | 3 | IB2, T4, TP1 | 150 | 202 | 242 | 5 L | 60 L | B |
D | Methyldichloroarsine | 6.1 | NA1556 | I | 6.1 | 2, T20, TP4, TP12, TP13, TP38, TP45 | None | 192 | None | Forbidden | Forbidden | D | 40
| Methyldichlorosilane | 4.3 | UN1242 | I | 4.3, 8, 3 | A2, A3, A7, B6, B77, N34, T10, TP2, TP7, TP13 | None | 201 | 243 | Forbidden | 1 L | D | 21, 28, 40, 49, 100
| Methylene chloride, see Dichloromethane |  |  |  |  |  |  |  |  |  |  |  |
| Methylene glycol dinitrate | Forbidden |  |  |  |  |  |  |  |  |  |  |
| 2-Methylfuran | 3 | UN2301 | II | 3 | IB2, T4, TP1 | 150 | 202 | 242 | 5 L | 60 L | E |
| a-Methylglucoside tetranitrate | Forbidden |  |  |  |  |  |  |  |  |  |  |
| a-Methylglycerol trinitrate | Forbidden |  |  |  |  |  |  |  |  |  |  |
| 5-Methylhexan-2-one | 3 | UN2302 | III | 3 | B1, IB3, T2, TP1 | 150 | 203 | 242 | 60 L | 220 L | A |
| Methylhydrazine | 6.1 | UN1244 | I | 6.1, 3, 8 | 1, B7, B9, B14, B30, B72, B77, N34, T22, TP2, TP13, TP38, TP44 | None | 226 | 244 | Forbidden | Forbidden | D | 21, 40, 49, 100
| 4-Methylmorpholine or n-methylmorpholine | 3 | UN2535 | II | 3, 8 | B6, IB2, T7, TP1 | 150 | 202 | 243 | 1 L | 5 L | B | 40
| Methylpentadienes | 3 | UN2461 | II | 3 | IB2, T4, TP1 | 150 | 202 | 242 | 5 L | 60 L | E |
| 2-Methylpentan-2-ol | 3 | UN2560 | III | 3 | B1, IB3, T2, TP1 | 150 | 203 | 242 | 60 L | 220 L | A |
| Methylpentanes, see Hexanes |  |  |  |  |  |  |  |  |  |  |  |
| Methylphenyldichlorosilane | 8 | UN2437 | II | 8 | IB2, T7, TP2, TP13 | 154 | 202 | 242 | 1 L | 30 L | C | 40
| 1-Methylpiperidine | 3 | UN2399 | II | 3, 8 | IB2, T7, TP1 | 150 | 202 | 243 | 1 L | 5 L | B |
| Methyltetrahydrofuran | 3 | UN2536 | II | 3 | IB2, T4, TP1 | 150 | 202 | 242 | 5 L | 60 L | B |
| Methyltrichlorosilane | 3 | UN1250 | I | 3, 8 | A7, B6, B77, N34, T11, TP2, TP13 | None | 201 | 243 | Forbidden | 2.5 L | B | 40
| alpha-Methylvaleraldehyde | 3 | UN2367 | II | 3 | B1, IB2, T4, TP1 | 150 | 202 | 242 | 5 L | 60 L | B |
| Mine rescue equipment containing carbon dioxide, see Carbon dioxide |  |  |  |  |  |  |  |  |  |  |  |
| Mines with bursting charge | 1.1F | UN0136 | II | 1.1F |  |  | 62 | None | Forbidden | Forbidden | 08 |
| Mines with bursting charge | 1.1D | UN0137 | II | 1.1D |  |  | 62 | None | Forbidden | Forbidden | 03 |
| Mines with bursting charge | 1.2D | UN0138 | II | 1.2D |  |  | 62 | None | Forbidden | Forbidden | 03 |
| Mines with bursting charge | 1.2F | UN0294 | II | 1.2F |  |  | 62 | None | Forbidden | Forbidden | 08 |
| Mixed acid, see Nitrating acid, mixtures etc |  |  |  |  |  |  |  |  |  |  |  |
| Mobility aids, see Battery powered equipment or Battery powered vehicle' |  |  |  |  |  |  |  |  |  |  |  |
D | Model rocket motor | 1.4C | NA0276 | II | 1.4C | 51 | None | 62 | None | Forbidden | 75 kg | 06 |
D | Model rocket motor | 1.4S | NA0323 | II | 1.4S | 51 | None | 62 | None | 25 kg | 100 kg | 05 |
| Molybdenum pentachloride | 8 | UN2508 | III | 8 | IB8, IP3, T1, TP33 | 154 | 213 | 240 | 25 kg | 100 kg | C | 40
| Monochloroacetone (unstabilized) | Forbidden |  |  |  |  |  |  |  |  |  |  |
| Monochloroethylene, see Vinyl chloride, stabilized |  |  |  |  |  |  |  |  |  |  |  |
| Monoethanolamine, see Ethanolamine, solutions |  |  |  |  |  |  |  |  |  |  |  |
| Monoethylamine, see Ethylamine |  |  |  |  |  |  |  |  |  |  |  |
| Morpholine | 8 | UN2054 | I | 8, 3 | A6, T10, TP2 | None | 201 | 243 | 0.5 L | 2.5 L | A |
| Morpholine, aqueous, mixture, see Corrosive liquids, n.o.s. |  |  |  |  |  |  |  |  |  |  |  |
| Motor fuel anti-knock compounds see Motor fuel anti-knock mixtures |  |  |  |  |  |  |  |  |  |  |  |
+ | Motor fuel anti-knock mixtures | 6.1 | UN1649 | I | 6.1, 3 | 14, 151, B9, B90, T14, TP2, TP13 | None | 201 | 244 | Forbidden | 30 L | D | 25, 40
| Motor spirit, see Gasoline |  |  |  |  |  |  |  |  |  |  |  |
| Muriatic acid, see Hydrochloric acid |  |  |  |  |  |  |  |  |  |  |  |
| Musk xylene, see 5-tert-Butyl-2,4,6-trinitro-m-xylene |  |  |  |  |  |  |  |  |  |  |  |
| Naphtha see Petroleum distillates n.o.s. |  |  |  |  |  |  |  |  |  |  |  |
| Naphthalene, crude or Naphthalene, refined | 4.1 | UN1334 | III | 4.1 | A1, IB8, IP3, T1, TP33 | 151 | 213 | 240 | 25 kg | 100 kg | A |
| Naphthalene diozonide | Forbidden |  |  |  |  |  |  |  |  |  |  |
| beta-Naphthylamine | 6.1 | UN1650 | II | 6.1 | IB8, IP2, IP4, T3, TP33 | 153 | 212 | 242 | 25 kg | 100 kg | A |
| beta-Naphthylamine, solid | 6.1 | UN1650 | II | 6.1 | IB8, IP2, IP4, T3, TP33 | 153 | 212 | 242 | 25 kg | 100 kg | A |
| beta-Naphthylamine solution | 6.1 | UN3411 | II | 6.1 | IB2, T7, TP2 | 153 | 202 | 243 | 5 L | 60 L | A |
|  |  |  | III | 6.1 | IB2, T7, TP2 | 153 | 203 | 241 | 60 L | 220 L | A |
| alpha-Naphthylamine | 6.1 | UN2077 | III | 6.1 | IB8, IP3, T1, TP33 | 153 | 213 | 240 | 100 kg | 200 kg | A |
| Naphthalene, molten | 4.1 | UN2304 | III | 4.1 | IB1, T1, TP3 | 151 | 213 | 241 | Forbidden | Forbidden | C |
| Naphthylamineperchlorate | Forbidden |  |  |  |  |  |  |  |  |  |  |
| Naphthylthiourea | 6.1 | UN1651 | II | 6.1 | IB8, IP2, IP4, T3, TP33 | 153 | 212 | 242 | 25 kg | 100 kg | A |
| Naphthylurea | 6.1 | UN1652 | II | 6.1 | IB8, IP2, IP4, T3, TP33 | 153 | 212 | 242 | 25 kg | 100 kg | A |
| Natural gases (with high methane content), see Methane, etc. (UN 1971, UN 1972) |  |  |  |  |  |  |  |  |  |  |  |
| Neohexane, see Hexanes |  |  |  |  |  |  |  |  |  |  |  |
| Neon, compressed | 2.2 | UN1065 |  | 2.2 |  | 306 | 302 | 302 | 75 kg | 150 kg | A |
| Neon, refrigerated liquid (cryogenic liquid) | 2.2 | UN1913 |  | 2.2 | T75, TP5 | 320 | 316 | None | 50 kg | 500 kg | B |
| New explosive or explosive device, see §§ 173.51 and 173.56 |  |  |  |  |  |  |  |  |  |  |  |
| Nickel carbonyl | 6.1 | UN1259 | I | 6.1, 3 | 1 | None | 198 | None | Forbidden | Forbidden | D | 18, 40
| Nickel cyanide | 6.1 | UN1653 | II | 6.1 | IB8, IP2, IP4, N74, N75, T3, TP33 | 153 | 212 | 242 | 25 kg | 100 kg | A | 52
| Nickel nitrate | 5.1 | UN2725 | III | 5.1 | A1, IB8, IP3, T1, TP33 | 152 | 213 | 240 | 25 kg | 100 kg | A |
| Nickel nitrite | 5.1 | UN2726 | III | 5.1 | A1, IB8, IP3, T1, TP33 | 152 | 213 | 240 | 25 kg | 100 kg | A | 56, 58
| Nickel picrate | Forbidden |  |  |  |  |  |  |  |  |  |  |
| Nicotine | 6.1 | UN1654 | II | 6.1 | IB2 | 153 | 202 | 243 | 5 L | 60 L | A |
| Nicotine compounds, liquid, n.o.s. or Nicotine preparations, liquid, n.o.s. | 6.1 | UN3144 | I | 6.1 | A4 | None | 201 | 243 | 1 L | 30 L | B | 40
|  |  |  | II | 6.1 | IB2, T11, TP2, TP27 | 153 | 202 | 243 | 5 L | 60 L | B | 40
|  |  |  | III | 6.1 | IB3, T7, TP1, TP28 | 153 | 203 | 241 | 60 L | 220 L | B | 40
| Nicotine compounds, solid, n.o.s. or Nicotine preparations, solid, n.o.s. | 6.1 | UN1655 | I | 6.1 | IB7, IP1, T6, TP33 | None | 211 | 242 | 5 kg | 50 kg | B |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
| Nicotine hydrochloride liquid or solution | 6.1 | UN1656 | II | 6.1 | IB2 | 153 | 202 | 243 | 5 L | 60 L | A |
|  |  |  | III | 6.1 | IB3 | 153 | 203 | 241 | 60 L | 220 L | A |
| Nicotine hydrochloride, solid | 6.1 | UN3444 | II | 6.1 | IB8, IP2, IP4, T3, TP33 | 153 | 212 | 242 | 25 kg | 100 kg | A |
| Nicotine salicylate | 6.1 | UN1657 | II | 6.1 | IB8, IP2, IP4, T3, TP33 | 153 | 212 | 242 | 25 kg | 100 kg | A |
| Nicotine sulfate solution | 6.1 | UN1658 | II | 6.1 | IB2, T7, TP2 | 153 | 202 | 243 | 5 L | 60 L | A |
|  |  |  | III | 6.1 | IB3, T7, TP2 | 153 | 203 | 241 | 60 L | 220 L | A |
| Nicotine sulphate, solid | 6.1 | UN3445 | II | 6.1 | IB8, IP2, IP4, T3, TP33 | 153 | 212 | 242 | 25 kg | 100 kg | A |
| Nicotine tartrate | 6.1 | UN1659 | II | 6.1 | IB8, IP2, IP4, T3, TP33 | 153 | 212 | 242 | 25 kg | 100 kg | A |
| Nitrated paper (unstable) | Forbidden |  |  |  |  |  |  |  |  |  |  |
| Nitrates, inorganic, aqueous solution, n.o.s. | 5.1 | UN3218 | II | 5.1 | 58, IB2, T4, TP1 | 152 | 202 | 242 | 1 L | 5 L | B | 56, 58, 133
|  |  |  | III | 5.1 | 58, IB2, T4, TP1 | 152 | 203 | 241 | 2.5 L | 30 L | B | 56, 58, 133
| Nitrates, inorganic, n.o.s. | 5.1 | UN1477 | II | 5.1 | IB8, IP2, IP4, T3, TP33 | 152 | 212 | 240 | 5 kg | 25 kg | A | 56, 58
|  |  |  | III | 5.1 | IB8, IP3, T1, TP33 | 152 | 213 | 240 | 25 kg | 100 kg | A | 56, 58
| Nitrates of diazonium compounds | Forbidden |  |  |  |  |  |  |  |  |  |  |
| Nitrating acid mixtures, spent with more than 50 percent nitric acid | 8 | UN1826 | I | 8, 5.1 | A7, T10, TP2, TP12, TP13 | None | 158 | 243 | Forbidden | 2.5 L | D | 40, 66
| Nitrating acid mixtures spent with not more than 50 percent nitric acid | 8 | UN1826 | II | 8 | A7, B2, IB2, T8, TP2, TP12 | None | 158 | 242 | Forbidden | 30 L | D | 40
| Nitrating acid mixtures with more than 50 percent nitric acid | 8 | UN1796 | I | 8, 5.1 | A7, T10, TP2, TP12, TP13 | None | 158 | 243 | Forbidden | 2.5 L | D | 40, 66
| Nitrating acid mixtures with not more than 50 percent nitric acid | 8 | UN1796 | II | 8 | A7, B2, IB2, T8, TP2, TP12, TP13 | None | 158 | 242 | Forbidden | 30 L | D | 40
| Nitric acid other than red fuming, with more than 70 percent nitric acid | 8 | UN2031 | I | 8, 5.1 | A3, B47, B53, T10, TP2, TP12, TP13 | None | 158 | 243 | Forbidden | 2.5 L | D | 44, 66, 89, 90, 110, 111
| Nitric acid other than red fuming, with not more than 70 percent nitric acid | 8 | UN2031 | II | 8 | A6, B2, B47, B53, IB2, T8, TP2, TP12 | None | 158 | 242 | Forbidden | 30 L | D | 44, 66, 89, 90, 110, 111
+ | Nitric acid, red fuming | 8 | UN2032 | I | 8, 5.1, 6.1 | 2, B9, B32, B74, T20, TP2, TP12, TP13, TP38, TP45 | None | 227 | 244 | Forbidden | Forbidden | D | 40, 66, 74, 89, 90
| Nitric oxide, compressed | 2.3 | UN1660 |  | 2.3, 5.1, 8 | 1, B37, B46, B50, B60, B77 | None | 337 | None | Forbidden | Forbidden | D | 40, 89, 90
| Nitric oxide and dinitrogen tetroxide mixtures or Nitric oxide and nitrogen dioxide mixtures | 2.3 | UN1975 |  | 2.3, 5.1, 8 | 1, B7, B9, B14, B45, B46, B61, B66, B67, B77 | None | 337 | None | Forbidden | Forbidden | D | 40, 89, 90
G | Nitriles, flammable, toxic, n.o.s. | 3 | UN3273 | I | 3, 6.1 | T14, TP2, TP13, TP27 | None | 201 | 243 | Forbidden | 30 L | E | 40, 52
|  |  |  | II | 3, 6.1 | IB2, T11, TP2, TP13, TP27 | 150 | 202 | 243 | 1 L | 60 L | B | 40, 52
G | Nitriles, toxic, flammable, n.o.s. | 6.1 | UN3275 | I | 6.1, 3 | 5, T14, TP2, TP13, TP27 | None | 201 | 243 | 1 L | 30 L | B | 40, 52
|  |  |  | II | 6.1, 3 | IB2, T11, TP2, TP13, TP27 | 153 | 202 | 243 | 5 L | 60 L | B | 40, 52
G | Nitriles, toxic, liquid, n.o.s. | 6.1 | UN3276 | I | 6.1 | 5, T14, TP2, TP13, TP27 | None | 201 | 243 | 1 L | 30 L | B | 52
G | Nitriles, toxic, solid, n.o.s. | 6.1 | UN3439 | I | 6.1 | IB7, IP1, T6, TP33 | None | 211 | 242 | 5 kg | 50 kg | D | 52
G | Nitriles, toxic, liquid, n.o.s. | 6.1 | UN3276 | II | 6.1 | IB2, T11, TP2, TP27 | 153 | 202 | 243 | 5 L | 60 L | B | 52
G | Nitriles, toxic, solid, n.o.s. | 6.1 | UN3439 | II | 6.1 | IB8, IP2, IP4, T3, TP33 | 153 | 212 | 242 | 25 kg | 100 kg | B | 52
G | Nitriles, toxic, liquid, n.o.s. | 6.1 | UN3276 | III | 6.1 | IB3, T7, TP1, TP28 | 153 | 203 | 241 | 60 L | 220 L | A | 52
G | Nitriles, toxic, solid, n.o.s. | 6.1 | UN3439 | III | 6.1 | IB8, IP3, T1, TP33 | 153 | 213 | 240 | 100 kg | 200 kg | A | 52
| Nitrites, inorganic, aqueous solution, n.o.s. | 5.1 | UN3219 | II | 5.1 | IB1, T4, TP1 | 152 | 202 | 242 | 1 L | 5 L | B | 46, 56, 58, 133
|  |  |  | III | 5.1 | IB2, T4, TP1 | 152 | 203 | 241 | 2.5 L | 30 L | B | 46, 56, 58, 133
| Nitrites, inorganic, n.o.s. | 5.1 | UN2627 | II | 5.1 | 33, IB8, IP4, T3, TP33 | 152 | 212 | None | 5 kg | 25 kg | A | 46, 56, 58, 133
| 3-Nitro-4-chlorobenzotrifluoride | 6.1 | UN2307 | II | 6.1 | IB2, T7, TP2 | 153 | 202 | 243 | 5 L | 60 L | A | 40
| 6-Nitro-4-diazotoluene-3-sulfonic acid (dry) | Forbidden |  |  |  |  |  |  |  |  |  |  |
| Nitro isobutane triol trinitrate | Forbidden |  |  |  |  |  |  |  |  |  |  |
| N-Nitro-N-methylglycolamide nitrate | Forbidden |  |  |  |  |  |  |  |  |  |  |
| 2-Nitro-2-methylpropanol nitrate | Forbidden |  |  |  |  |  |  |  |  |  |  |
| Nitro urea | 1.1D | UN0147 | II | 1.1D |  | None | 62 | None | Forbidden | Forbidden | 10 |
| N-Nitroaniline | Forbidden |  |  |  |  |  |  |  |  |  |  |
+ | Nitroanilines (o-; m-; p-;) | 6.1 | UN1661 | II | 6.1 | IB8, IP2, IP4, T3, TP33 | 153 | 212 | 242 | 25 kg | 100 kg | A |
| Nitroanisole, liquid | 6.1 | UN2730 | III | 6.1 | IB3, T4, TP1 | 153 | 203 | 241 | 60 L | 220 L | A |
| Nitroanisoles, solid | 6.1 | UN3458 | III | 6.1 | IB8, IP3, T1, TP33 | 153 | 213 | 240 | 100 kg | 200 kg | A |
+ | Nitrobenzene | 6.1 | UN1662 | II | 6.1 | IB2, T7, TP2 | 153 | 202 | 243 | 5 L | 60 L | A | 40
| m-Nitrobenzene diazonium perchlorate | Forbidden |  |  |  |  |  |  |  |  |  |  |
| Nitrobenzenesulfonic acid | 8 | UN2305 | II | 8 | B2, B4, IB8, IP2, IP4, T3, TP33 | 154 | 202 | 242 | 1 L | 30 L | A |
| Nitrobenzol, see Nitrobenzene |  |  |  |  |  |  |  |  |  |  |  |
| 5-Nitrobenzotriazol | 1.1D | UN0385 | II | 1.1D |  | None | 62 | None | Forbidden | Forbidden | 10 |
| Nitrobenzotrifluorides, liquid | 6.1 | UN2306 | II | 6.1 | IB2, T7, TP2 | 153 | 202 | 243 | 5 L | 60 L | A | 40
| Nitrobenzotrifluorides, solid | 6.1 | UN3431 | II | 6.1 | IB8, IP2, IP4, T3, TP33 | 153 | 212 | 242 | 25 kg | 100 kg | A | 40
| Nitrobromobenzenes, liquid | 6.1 | UN2732 | III | 6.1 | IB3, T4, TP1 | 153 | 203 | 241 | 60 L | 220 L | A |
| Nitrobromobenzenes, solid | 6.1 | UN3459 | III | 6.1 | IB8, IP3, T1, TP33 | 153 | 213 | 240 | 100 kg | 200 kg | A |
| Nitrocellulose, dry or wetted with less than 25 percent water (or alcohol), by mass | 1.1D | UN0340 | II | 1.1D |  | None | 62 | None | Forbidden | Forbidden | 13 | 27E
| Nitrocellulose membrane filters, with not more than 12.6% nitrogen, by dry mass | 4.1 | UN3270 | II | 4.1 | 43, A1 | 151 | 212 | 240 | 1 kg | 15 kg | D |
| Nitrocellulose, plasticized with not less than 18 percent plasticizing substance, by mass | 1.3C | UN0343 | II | 1.3C |  | None | 62 | None | Forbidden | Forbidden | 10 |
| Nitrocellulose, solution, flammable with not more than 12.6 percent nitrogen, by mass, and not more than 55 percent nitrocellulose | 3 | UN2059 | I | 3 | T11, TP1, TP8, TP27 | None | 201 | 243 | 1 L | 30 L | E |
|  |  |  | II | 3 | IB2, T4, TP1, TP8 | 150 | 202 | 242 | 5 L | 60 L | B |
|  |  |  | III | 3 | B1, IB3, T2, TP1 | 150 | 203 | 242 | 60 L | 220 L | A |
| Nitrocellulose, unmodified or plasticized with less than 18 percent plasticizing substance, by mass | 1.1D | UN0341 | II | 1.1D |  | None | 62 | None | Forbidden | Forbidden | 13 | 27E
| Nitrocellulose, wetted with not less than 25 percent alcohol, by mass | 1.3C | UN0342 | II | 1.3C |  | None | 62 | None | Forbidden | Forbidden | 10 |
| Nitrocellulose with alcohol with not less than 25 percent alcohol by mass, and with not more than 12.6 percent nitrogen, by dry mass | 4.1 | UN2556 | II | 4.1 |  | 151 | 212 | None | 1 kg | 15 kg | D | 28
| Nitrocellulose, with not more than 12.6 percent nitrogen, by dry mass, or Nitrocellulose mixture with pigment or Nitrocellulose mixture with plasticizer or Nitrocellulose mixture with pigment and plasticizer | 4.1 | UN2557 | II | 4.1 | 44 | 151 | 212 | None | 1 kg | 15 kg | D | 28
| Nitrocellulose with water with not less than 25 percent water, by mass | 4.1 | UN2555 | II | 4.1 |  | 151 | 212 | None | 15 kg | 50 kg | E | 28
| Nitrochlorobenzene, see Chloronitrobenzenes etc |  |  |  |  |  |  |  |  |  |  |  |
| Nitrocresols, solid | 6.1 | UN2446 | III | 6.1 | IB8, IP3, T1, TP33 | 153 | 213 | 240 | 100 kg | 200 kg | A |
| Nitrocresols, liquid | 6.1 | UN3434 | III | 6.1 | IB3, T4, TP1 | 153 | 203 | 241 | 60 L | 220 L | A |
| Nitroethane | 3 | UN2842 | III | 3 | B1, IB3, T2, TP1 | 150 | 203 | 242 | 60 L | 220 L | A |
| Nitroethyl nitrate | Forbidden |  |  |  |  |  |  |  |  |  |  |
| Nitroethylene polymer | Forbidden |  |  |  |  |  |  |  |  |  |  |
| Nitrogen, compressed | 2.2 | UN1066 |  | 2.2 |  | 306 | 302 | 314, 315 | 75 kg | 150 kg | A |
| Nitrogen dioxide, see Dinitrogen tetroxide |  |  |  |  |  |  |  |  |  |  |  |
| Nitrogen fertilizer solution, see Fertilizer ammoniating solution etc |  |  |  |  |  |  |  |  |  |  |  |
| Nitrogen, mixtures with rare gases, see Rare gases and nitrogen mixtures |  |  |  |  |  |  |  |  |  |  |  |
| Nitrogen peroxide, see Dinitrogen tetroxide |  |  |  |  |  |  |  |  |  |  |  |
| Nitrogen, refrigerated liquid cryogenic liquid | 2.2 | UN1977 |  | 2.2 | T75, TP5 | 320 | 316 | 318 | 50 kg | 500 kg | D |
| Nitrogen tetroxide and nitric oxide mixtures, see Nitric oxide and nitrogen tetroxide mixtures |  |  |  |  |  |  |  |  |  |  |  |
| Nitrogen tetroxide, see Dinitrogen tetroxide |  |  |  |  |  |  |  |  |  |  |  |
| Nitrogen trichloride | Forbidden |  |  |  |  |  |  |  |  |  |  |
| Nitrogen trifluoride | 2.2 | UN2451 |  | 2.2, 5.1 |  | None | 302 | None | 75 kg | 150 kg | D | 40
| Nitrogen triiodide | Forbidden |  |  |  |  |  |  |  |  |  |  |
| Nitrogen triiodide monoamine | Forbidden |  |  |  |  |  |  |  |  |  |  |
| Nitrogen trioxide | 2.3 | UN2421 |  | 2.3, 5.1, 8 | 1 | None | 336 | 245 | Forbidden | Forbidden | D | 40, 89, 90
| Nitroglycerin, desensitized with not less than 40 percent non-volatile water insoluble phlegmatizer, by mass | 1.1D | UN0143 | II | 1.1D, 6.1 | 125 | None | 62 | None | Forbidden | Forbidden | 13 | 21E
| Nitroglycerin, liquid, not desensitized | Forbidden |  |  |  |  |  |  |  |  |  |  |
| Nitroglycerin mixture, desensitized, liquid, flammable, n.o.s. with not more than 30 percent nitroglycerin, by mass | 3 | UN3343 |  | 3 | 129 | None | 214 | None | Forbidden | Forbidden | D |
| Nitroglycerin mixture, desensitized, liquid, n.o.s. with not more than 30% nitroglycerin, by mass | 3 | UN3357 | II | 3 | 142 | None | 202 | 243 | 5 L | 60 L | E |
| Nitroglycerin mixture, desensitized, solid, n.o.s. with more than 2 percent but not more than 10 percent nitroglycerin, by mass | 4.1 | UN3319 | II | 4.1 | 118 | None | None | None | Forbidden | 0.5 kg | E |
| Nitroglycerin, solution in alcohol, with more than 1 percent but not more than 5 percent nitroglycerin | 3 | UN3064 | II | 3 | N8 | None | 202 | None | Forbidden | 5 L | E |
| Nitroglycerin, solution in alcohol, with more than 1 percent but not more than 10 percent nitrogylcerin | 1.1D | UN0144 | II | 1.1D |  | None | 62 | None | Forbidden | Forbidden | 10 | 21E
| Nitroglycerin solution in alcohol with not more than 1 percent nitroglycerin | 3 | UN1204 | II | 3 | IB2, N34 | 150 | 202 | None | 5 L | 60 L | B |
| Nitroguanidine nitrate | Forbidden |  |  |  |  |  |  |  |  |  |  |
| Nitroguanidine or Picrite, dry or wetted with less than 20 percent water, by mass | 1.1D | UN0282 | II | 1.1D |  | None | 62 | None | Forbidden | Forbidden | 10 |
| Nitroguanidine, wetted or Picrite, wetted with not less than 20 percent water, by mass | 4.1 | UN1336 | I | 4.1 | 23, A8, A19, A20, N41 | None | 211 | None | 1 kg | 15 kg | E | 28
| 1-Nitrohydantoin | Forbidden |  |  |  |  |  |  |  |  |  |  |
| Nitrohydrochloric acid | 8 | UN1798 | I | 8 | A3, B10, N41, T10, TP2, TP12, TP13 | None | 201 | 243 | Forbidden | 2.5 L | D | 40, 66, 74, 89, 90
| Nitromannite (dry) | Forbidden |  |  |  |  |  |  |  |  |  |  |
| Nitromannite, wetted, see Mannitol hexanitrate, etc |  |  |  |  |  |  |  |  |  |  |  |
| Nitromethane | 3 | UN1261 | II | 3 |  | 150 | 202 | None | Forbidden | 60 L | A |
| Nitromuriatic acid, see Nitrohydrochloric acid |  |  |  |  |  |  |  |  |  |  |  |
| Nitronaphthalene | 4.1 | UN2538 | III | 4.1 | A1, IB8, IP3, T1, TP33 | 151 | 213 | 240 | 25 kg | 100 kg | A |
| 4-Nitrophenylhydrazine, with not less than 30% water, by mass | 4.1 | UN3376 | I | 4.1 | 164, A8, A19, A20, N41 | None | 211 | None | Forbidden | 15 kg | E | 36
+ | Nitrophenols (o-; m-; p-;) | 6.1 | UN1663 | III | 6.1 | IB8, IP3, T1, TP33 | 153 | 213 | 240 | 100 kg | 200 kg | A |
| m-Nitrophenyldinitro methane | Forbidden |  |  |  |  |  |  |  |  |  |  |
| Nitropropanes | 3 | UN2608 | III | 3 | B1, IB3, T2, TP1 | 150 | 203 | 242 | 60 L | 220 L | A |
| p-Nitrosodimethylaniline | 4.2 | UN1369 | II | 4.2 | A19, A20, IB6, IP2, N34, T3, TP33 | None | 212 | 241 | 15 kg | 50 kg | D | 34
| Nitrostarch, dry or wetted with less than 20 percent water, by mass | 1.1D | UN0146 | II | 1.1D |  | None | 62 | None | Forbidden | Forbidden | 10 |
| Nitrostarch, wetted with not less than 20 percent water, by mass | 4.1 | UN1337 | I | 4.1 | 23, A8, A19, A20, N41 | None | 211 | None | 1 kg | 15 kg | D | 28
| Nitrosugars (dry) | Forbidden |  |  |  |  |  |  |  |  |  |  |
| Nitrosyl chloride | 2.3 | UN1069 |  | 2.3, 8 | 3, B14 | None | 304 | 314, 315 | Forbidden | Forbidden | D | 40
| Nitrosylsulfuric acid, liquid | 8 | UN2308 | II | 8 | A3, A6, A7, B2, IB2, N34, T8, TP2, TP12 | 154 | 202 | 242 | 1 L | 30 L | D | 40, 66, 74, 89, 90
| Nitrosylsulphuric acid, solid | 8 | UN3456 | II | 8 | IB8, IP2, IP4, T3, TP33 | 154 | 212 | 240 | 15 kg | 50 kg | D | 40, 66, 74, 89, 90
| Nitrotoluenes, liquid | 6.1 | UN1664 | II | 6.1 | IB2, T7, TP2 | 153 | 202 | 243 | 5 L | 60 L | A |
| Nitrotoluenes, solid | 6.1 | UN3446 | II | 6.1 | IB8, IP2, IP4, T3, TP33 | 153 | 212 | 242 | 25 kg | 100 kg | A |
| Nitrotoluidines (mono) | 6.1 | UN2660 | III | 6.1 | IB8, IP3, T1, TP33 | 153 | 213 | 240 | 100 kg | 200 kg | A |
| Nitrotriazolone or NTO | 1.1D | UN0490 | II | 1.1D |  | None | 62 | None | Forbidden | Forbidden | 10 |
| Nitrous oxide and carbon dioxide mixtures, see Carbon dioxide and nitrous oxide mixtures |  |  |  |  |  |  |  |  |  |  |  |
| Nitrous oxide | 2.2 | UN1070 |  | 2.2, 5.1 | A14 | 306 | 304 | 314, 315 | 75 kg | 150 kg | A | 40
| Nitrous oxide, refrigerated liquid | 2.2 | UN2201 |  | 2.2, 5.1 | B6, T75, TP5, TP22 | None | 304 | 314, 315 | Forbidden | Forbidden | B | 40
| Nitroxylenes, liquid | 6.1 | UN1665 | II | 6.1 | IB2, T7, TP2 | 153 | 202 | 243 | 5 L | 60 L | A |
| Nitroxylenes, solid | 6.1 | UN3447 | II | 6.1 | IB8, IP2, IP4, T3, TP33 | 153 | 212 | 242 | 25 kg | 100 kg | A |
| Nitroxylol, see Nitroxylenes |  |  |  |  |  |  |  |  |  |  |  |
| Nonanes | 3 | UN1920 | III | 3 | B1, IB3, T2, TP1 | 150 | 203 | 242 | 60 L | 220 L | A |
| Non-flammable gas, n.o.s., see Compressed gas, etc. or Liquefied gas, etc |  |  |  |  |  |  |  |  |  |  |  |
| Nonliquefied gases, see Compressed gases, etc |  |  |  |  |  |  |  |  |  |  |  |
| Nonliquefied hydrocarbon gas, see Hydrocarbon gas mixture, compressed, n.o.s. |  |  |  |  |  |  |  |  |  |  |  |
| Nonyltrichlorosilane | 8 | UN1799 | II | 8 | A7, B2, B6, IB2, N34, T7, TP2, TP13 | None | 202 | 242 | Forbidden | 30 L | C | 40
| Nordhausen acid, see Sulfuric acid, fuming etc |  |  |  |  |  |  |  |  |  |  |  |
| 2,5-Norbornadiene, stabilized, see Bicyclo 2,2,1 hepta-2,5-diene, stabilized |  |  |  |  |  |  |  |  |  |  |  |
| Octadecyltrichlorosilane | 8 | UN1800 | II | 8 | A7, B2, B6, IB2, N34, T7, TP2, TP13 | None | 202 | 242 | Forbidden | 30 L | C | 40
| Octadiene | 3 | UN2309 | II | 3 | B1, IB2, T4, TP1 | 150 | 202 | 242 | 5 L | 60 L | B |
| 1,7-Octadine-3,5-diyne-1,8-dimethoxy-9-octadecynoic acid | Forbidden |  |  |  |  |  |  |  |  |  |  |
| Octafluorobut-2-ene or Refrigerant gas R 1318 | 2.2 | UN2422 |  | 2.2 |  | None | 304 | 314, 315 | 75 kg | 150 kg | A |
| Octafluorocyclobutane, or Refrigerant gas RC 318 | 2.2 | UN1976 |  | 2.2 | T50 | None | 304 | 314, 315 | 75 kg | 150 kg | A |
| Octafluoropropaneor Refrigerant gas R 218 | 2.2 | UN2424 |  | 2.2 | T50 | None | 304 | 314, 315 | 75 kg | 150 kg | A |
| Octanes | 3 | UN1262 | II | 3 | IB2, T4, TP1 | 150 | 202 | 242 | 5 L | 60 L | B |
| Octogen, etc. see Cyclotetramethylene tetranitramine, etc. |  |  |  |  |  |  |  |  |  |  |  |
| Octolite or Octol, dry or wetted with less than 15 percent water, by mass | 1.1D | UN0266 | II | 1.1D |  | None | 62 | None | Forbidden | Forbidden | 10 |
| Octonal | 1.1D | UN0496 |  | 1.1D |  | None | 62 | None | Forbidden | Forbidden | 10 |
| Octyl aldehydes | 3 | UN1191 | III | 3 | B1, IB3, T2, TP1 | 150 | 203 | 242 | 60 L | 220 L | A |
| Octyltrichlorosilane | 8 | UN1801 | II | 8 | A7, B2, B6, IB2, N34, T7, TP2, TP13 | None | 202 | 242 | Forbidden | 30 L | C | 40
| Oil gas, compressed | 2.3 | UN1071 |  | 2.3, 2.1 | 6 | None | 304 | 314, 315 | Forbidden | 25 kg | D | 40
| Oleum, see Sulfuric acid, fuming |  |  |  |  |  |  |  |  |  |  |  |
| Organic peroxide type A, liquid or solid | Forbidden |  |  |  |  |  |  |  |  |  |  |
G | Organic peroxide type B, liquid | 5.2 | UN3101 | II | 5.2, 1 | 53 | 152 | 225 | None | Forbidden | Forbidden | D | 12, 40, 52, 53
G | Organic peroxide type B, liquid, temperature controlled | 5.2 | UN3111 | II | 5.2, 1 | 53 | None | 225 | None | Forbidden | Forbidden | D | 2, 40, 52, 53
G | Organic peroxide type B, solid | 5.2 | UN3102 | II | 5.2, 1 | 53 | 152 | 225 | None | Forbidden | Forbidden | D | 12, 40, 52, 53
G | Organic peroxide type B, solid, temperature controlled | 5.2 | UN3112 | II | 5.2, 1 | 53 | None | 225 | None | Forbidden | Forbidden | D | 2, 40, 52, 53
G | Organic peroxide type C, liquid | 5.2 | UN3103 | II | 5.2 |  | 152 | 225 | None | 5 L | 10 L | D | 12, 40, 52, 53
G | Organic peroxide type C, liquid, temperature controlled | 5.2 | UN3113 | II | 5.2 |  | None | 225 | None | Forbidden | Forbidden | D | 2, 40, 52, 53
G | Organic peroxide type C, solid | 5.2 | UN3104 | II | 5.2 |  | 152 | 225 | None | 5 kg | 10 kg | D | 12, 40, 52, 53
G | Organic peroxide type C, solid, temperature controlled | 5.2 | UN3114 | II | 5.2 |  | None | 225 | None | Forbidden | Forbidden | D | 2, 40, 52, 53
G | Organic peroxide type D, liquid | 5.2 | UN3105 | II | 5.2 |  | 152 | 225 | None | 5 L | 10 L | D | 12, 40, 52, 53
G | Organic peroxide type D, liquid, temperature controlled | 5.2 | UN3115 | II | 5.2 |  | None | 225 | None | Forbidden | Forbidden | D | 2, 40, 52, 53
G | Organic peroxide type D, solid | 5.2 | UN3106 | II | 5.2 |  | 152 | 225 | None | 5 kg | 10 kg | D | 12, 40, 52, 53
G | Organic peroxide type D, solid, temperature controlled | 5.2 | UN3116 | II | 5.2 |  | None | 225 | None | Forbidden | Forbidden | D | 2, 40, 52, 53
G | Organic peroxide type E, liquid | 5.2 | UN3107 | II | 5.2 |  | 152 | 225 | None | 10 L | 25 L | D | 12, 40, 52, 53
G | Organic peroxide type E, liquid, temperature controlled | 5.2 | UN3117 | II | 5.2 |  | None | 225 | None | Forbidden | Forbidden | D | 2, 40, 52, 53
G | Organic peroxide type E, solid | 5.2 | UN3108 | II | 5.2 |  | 152 | 225 | None | 10 kg | 25 kg | D | 12, 40, 52, 53
G | Organic peroxide type E, solid, temperature controlled | 5.2 | UN3118 | II | 5.2 |  | None | 225 | None | Forbidden | Forbidden | D | 2, 40, 52, 53
G | Organic peroxide type F, liquid | 5.2 | UN3109 | II | 5.2 | IP5 | 152 | 225 | 225 | 10 L | 25 L | D | 12, 40, 52, 53
G | Organic peroxide type F, liquid, temperature controlled | 5.2 | UN3119 | II | 5.2 | IP5 | None | 225 | 225 | Forbidden | Forbidden | D | 2, 40, 52, 53
G | Organic peroxide type F, solid | 5.2 | UN3110 | II | 5.2 | TP33 | 152 | 225 | 225 | 10 kg | 25 kg | D | 12, 40, 52, 53
G | Organic peroxide type F, solid, temperature controlled | 5.2 | UN3120 | II | 5.2 | TP33 | None | 225 | 225 | Forbidden | Forbidden | D | 2, 52, 53
D | Organic phosphate, mixed with compressed gas or Organic phosphate compound, mixed with compressed gas or Organic phosphorus compound, mixed with compressed gas | 2.3 | NA1955 |  | 2.3 | 3 | None | 334 | None | Forbidden | Forbidden | D | 40
| Organic pigments, self-heating | 4.2 | UN3313 | II | 4.2 | IB8, IP2, IP4, T3, TP33 | None | 212 | 241 | 15 kg | 50 kg | C |
|  |  |  | III | 4.2 | IB8, IP3, T1, TP33 | None | 213 | 241 | 25 kg | 100 kg | C |
G | Organoarsenic compound, liquid, n.o.s. | 6.1 | UN3280 | I | 6.1 | 5, T14, TP2, TP13, TP27 | None | 211 | 242 | 5 kg | 50 kg | B |
|  |  |  | II | 6.1 | IB2, T11, TP2, TP27 | 153 | 212 | 242 | 25 kg | 100 kg | B |
|  |  |  | III | 6.1 | IB3, T7, TP1, TP28 | 153 | 213 | 240 | 100 kg | 200 kg | A |
G | Organoarsenic compound, solid, n.o.s. | 6.1 | UN3465 | I | 6.1 | IB7, IP1, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
| Organochlorine pesticides liquid, flammable, toxic, flash point less than 23 degrees C | 3 | UN2762 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Organochlorine pesticides, liquid, toxic | 6.1 | UN2996 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Organochlorine pesticides, liquid, toxic, flammable, flash point not less than 23 degrees C | 6.1 | UN2995 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2, TP28 | 153 | 203 | 242 | 60 L | 220 L | A | 40
| Organochlorine pesticides, solid, toxic | 6.1 | UN2761 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
G | Organometallic compound, toxic, liquid, n.o.s. | 6.1 | UN3282 | I | 6.1 | T14, TP2, TP13, TP27 | None | 211 | 242 | 5 kg | 50 kg | B |
|  |  |  | II | 6.1 | IB2, T11, TP2, TP27 | 153 | 212 | 242 | 25 kg | 100 kg | B |
|  |  |  | III | 6.1 | IB3, T7, TP1, TP28 | 153 | 213 | 240 | 100 kg | 200 kg | A |
G | Organometallic compound, toxic, solid, n.o.s. | 6.1 | UN3467 | I | 6.1 | IB7, IP1, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
G | Organometallic substance, liquid, pyrophoric | 4.2 | UN3392 | I | 4.2 | B11, T21, TP2, TP7 | None | 181 | 244 | Forbidden | Forbidden | D | 143
G | Organometallic substance, liquid, pyrophoric, water-reactive | 4.2 | UN3394 | I | 4.2, 4.3 | B11, T21, TP2, TP7 | None | 181 | 244 | Forbidden | Forbidden | D |
G | Organometallic substance, liquid, water-reactive | 4.3 | UN3398 | I | 4.3 | T13, TP2, TP7 | None | 201 | 244 | Forbidden | Forbidden | E | 40, 52
|  |  |  | II | 4.3 | IB1, T7, TP2, TP7 | None | 202 | 243 | 1 L | 5 L | E | 40, 52
|  |  |  | III | 4.3 | IB2, T7, TP2, TP7 | None | 203 | 242 | 5 L | 60 L | E | 40, 52
G | Organometallic substance, liquid, water-reactive, flammable | 4.3 | UN3399 | I | 4.3, 3 | T13, TP2, TP7 | None | 201 | 244 | Forbidden | Fobidden | E | 40, 52
|  |  |  | II | 4.3, 3 | IB1, T7, TP2, TP7 | None | 202 | 243 | Forbidden | Forbidden | E | 40, 52
|  |  |  | III | 4.3, 3 | IB2, T7, TP2, TP7 | None | 203 | 242 | Forbidden | Forbidden | E | 40, 52
G | Organometallic substance, solid, pyrophoric | 4.2 | UN3391 | I | 4.2 | T21, TP7, TP33 | None | 181 | 244 | Forbidden | Forbidden | D |
G | Organometallic substance, solid, pyrophoric, water-reactive | 4.2 | UN3393 | I | 4.2, 4.3 | B11, T21, TP7, TP33 | None | 181 | 244 | Forbidden | Forbidden | D | 52
G | Organometallic substance, solid, self-heating | 4.2 | UN3400 | II | 4.2 | IB6, T3, TP33 | None | 212 | 242 | 15 kg | 50 kg | C |
|  |  |  | III | 4.2 | IB8, T1, TP33 | None | 203 | 242 | 25 kg | 100 kg | C |
G | Organometallic substance, solid, water-reactive | 4.3 | UN3395 | I | 4.3 | N40, T9, TP7, TP33 | None | 211 | 242 | Forbidden | Forbidden | E | 40, 52
|  |  |  | II | 4.3 | IB4, T3, TP33 | 151 | 212 | 242 | 15 kg | 50 kg | E | 40, 52
|  |  |  | III | 4.3 | IB6, T1, TP33 | 151 | 213 | 241 | 25 kg | 100 kg | E | 40, 52
G | Organometallic substance, solid, water-reactive, flammable | 4.3 | UN3396 | I | 4.3, 4.1 | N40, T9, TP7, TP33 | None | 211 | 242 | Forbidden | Forbidden | E | 40, 52
|  |  |  | II | 4.3, 4.1 | IB4, T3, TP33 | 151 | 212 | 242 | 15 kg | 50 kg | E | 40, 52
|  |  |  | III | 4.3, 4.1 | IB6, T1, TP33 | 151 | 213 | 241 | 25 kg | 100 kg | E | 40, 52
G | Organometallic substance, solid, water-reactive, self-heating | 4.3 | UN3397 | I | 4.3, 4.2 | N40, T9, TP7, TP33 | None | 211 | 242 | Forbidden | Forbidden | E | 40, 52
|  |  |  | II | 4.3, 4.2 | IB4, T3, TP33 | None | 212 | 242 | 15 kg | 50 kg | E | 40, 52
|  |  |  | III | 4.3, 4.2 | IB6, T1, TP33 | None | 213 | 241 | 25 kg | 100 kg | E | 40, 52
| Organophosphorus compound, toxic, flammable, n.o.s. | 6.1 | UN3279 | I | 6.1, 3 | 5, T14, TP2, TP13, TP27 | None | 201 | 243 | 1 L | 30 L | B | 40
|  |  |  | II | 6.1, 3 | IB2, T11, TP2, TP13, TP27 | 153 | 202 | 243 | 5 L | 60 L | B | 40
G | Organophosphorus compound, toxic, liquid, n.o.s. | 6.1 | UN3278 | I | 6.1 | 5, T14, TP2, TP13, TP27 | None | 201 | 243 | 1 L | 30 L | B |
|  |  |  | II | 6.1 | IB2, T11, TP2, TP27 | 153 | 202 | 243 | 5 L | 60 L | B |
|  |  |  | III | 6.1 | IB3, T7, TP1, TP28 | 153 | 203 | 241 | 60 L | 220 L | A |
G | Organophosphorus compound, toxic, solid, n.o.s. | 6.1 | UN3464 | I | 6.1 | IB7, IP1, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
| Organophosphorus pesticides, liquid, flammable, toxic, flash point less than 23 degrees C | 3 | UN2784 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Organophosphorus pesticides, liquid, toxic | 6.1 | UN3018 | I | 6.1 | N76, T14, TP2, TP13, TP27 | None | 201 | 243 | 1 L | 30 L | B | 40
|  |  |  | II | 6.1 | IB2, N76, T11, TP2, TP13, TP27 | 153 | 202 | 243 | 5 L | 60 L | B | 40
|  |  |  | III | 6.1 | IB3, N76, T7, TP2, TP28 | 153 | 203 | 241 | 60 L | 220 L | A | 40
| Organophosphorus pesticides, liquid, toxic, flammable, flash point not less than 23 degrees C | 6.1 | UN3017 | I | 6.1, 3 | N76, T14, TP2, TP13, TP27 | None | 201 | 243 | 1 L | 30 L | B | 40
|  |  |  | II | 6.1, 3 | IB2, N76, T11, TP2, TP13, TP27 | 153 | 202 | 243 | 5 L | 60 L | B | 40
|  |  |  | III | 6.1, 3 | B1, IB3, N76, T7, TP2, TP28 | 153 | 203 | 242 | 60 L | 220 L | A | 40
| Organophosphorus pesticides, solid, toxic | 6.1 | UN2783 | I | 6.1 | IB7, IP1, N77, T6, TP33 | None | 211 | 242 | 5 kg | 50 kg | A | 40
|  |  |  | II | 6.1 | IB8, IP2, IP4, N77, T3, TP33 | 153 | 212 | 242 | 25 kg | 100 kg | A | 40
|  |  |  | III | 6.1 | IB8, IP3, N77, T1, TP33 | 153 | 213 | 240 | 100 kg | 200 kg | A | 40
| Organotin compounds, liquid, n.o.s. | 6.1 | UN2788 | I | 6.1 | A3, N33, N34, T14, TP2, TP13, TP27 | None | 201 | 243 | 1 L | 30 L | B | 40
|  |  |  | II | 6.1 | A3, IB2, N33, N34, T11, TP2, TP13, TP27 | 153 | 202 | 243 | 5 L | 60 L | A | 40
|  |  |  | III | 6.1 | IB3, T7, TP2, TP28 | 153 | 203 | 241 | 60 L | 220 L | A | 40
| Organotin compounds, solid, n.o.s. | 6.1 | UN3146 | I | 6.1 | A5, IB7, IP1, T6, TP33 | None | 211 | 242 | 5 kg | 50 kg | B | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Organotin pesticides, liquid, flammable, toxic, flash point less than 23 degrees C | 3 | UN2787 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Organotin pesticides, liquid, toxic | 6.1 | UN3020 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Organotin pesticides, liquid, toxic, flammable, flash point not less than 23 degrees C | 6.1 | UN3019 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2, TP28 | 153 | 203 | 242 | 60 L | 220 L | A | 40
| Organotin pesticides, solid, toxic | 6.1 | UN2786 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Orthonitroaniline, see Nitroanilines etc |  |  |  |  |  |  |  |  |  |  |  |
| Osmium tetroxide | 6.1 | UN2471 | I | 6.1 | A8, IB7, IP1, N33, N34, T6, TP33 | None | 211 | 242 | 5 kg | 50 kg | B | 40
D G | Other regulated substances, liquid, n.o.s. | 9 | NA3082 | III | 9 | IB3, T2, TP1 | 155 | 203 | 241 | No limit | No limit | A |
D G | Other regulated substances, solid, n.o.s. | 9 | NA3077 | III | 9 | B54, IB8, IP2, T1, TP33 | 155 | 213 | 240 | No limit | No limit | A |
G | Oxidizing liquid, corrosive, n.o.s. | 5.1 | UN3098 | I | 5.1, 8 | A6 | None | 201 | 244 | Forbidden | 2.5 L | D | 13, 56, 58, 106, 138
|  |  |  | II | 5.1, 8 | IB1 | None | 202 | 243 | 1 L | 5 L | B | 34, 56, 58, 106, 138
|  |  |  | III | 5.1, 8 | IB2 | 152 | 203 | 242 | 2.5 L | 30 L | B | 34, 56, 58, 106, 138
G | Oxidizing liquid, n.o.s. | 5.1 | UN3139 | I | 5.1 | 127, A2, A6 | None | 201 | 243 | Forbidden | 2.5 L | D | 56, 58, 106, 138
|  |  |  | II | 5.1 | 127, A2, IB2 | 152 | 202 | 242 | 1 L | 5 L | B | 56, 58, 106, 138
|  |  |  | III | 5.1 | 127, A2, IB2 | 152 | 203 | 241 | 2.5 L | 30 L | B | 56, 58, 106, 138
G | Oxidizing liquid, toxic, n.o.s. | 5.1 | UN3099 | I | 5.1, 6.1 | A6 | None | 201 | 244 | Forbidden | 2.5 L | D | 56, 58, 106, 138
|  |  |  | II | 5.1, 6.1 | IB1 | 152 | 202 | 243 | 1 L | 5 L | B | 56, 58, 95, 106, 138
|  |  |  | III | 5.1, 6.1 | IB2 | 152 | 203 | 242 | 2.5 L | 30 L | B | 56, 58, 95, 106, 138
G | Oxidizing solid, corrosive, n.o.s. | 5.1 | UN3085 | I | 5.1, 8 |  | None | 211 | 242 | 1 kg | 15 kg | D | 13, 56, 58, 106, 138
|  |  |  | II | 5.1, 8 | IB6, IP2, T3, TP33 | None | 212 | 242 | 5 kg | 25 kg | B | 13, 34, 56, 58, 106, 138
|  |  |  | III | 5.1, 8 | IB8, IP3, T1, TP33 | 152 | 213 | 240 | 25 kg | 100 kg | B | 13, 34, 56, 58, 106, 138
G | Oxidizing solid, flammable, n.o.s. | 5.1 | UN3137 | I | 5.1, 4.1 |  | None | 214 | 214 | Forbidden | Forbidden |  |
G | Oxidizing solid, n.o.s. | 5.1 | UN1479 | I | 5.1 | IB5, IP1 | None | 211 | 242 | 1 kg | 15 kg | D | 56, 58, 106, 138
|  |  |  | II | 5.1 | IB8, IP2, IP4, T3, TP33 | 152 | 212 | 240 | 5 kg | 25 kg | B | 56, 58, 106, 138
|  |  |  | III | 5.1 | IB8, IP3, T1, TP33 | 152 | 213 | 240 | 25 kg | 100 kg | B | 56, 58, 106, 138
G | Oxidizing solid, self-heating, n.o.s. | 5.1 | UN3100 | I | 5.1, 4.2 |  | None | 214 | 214 | Forbidden | Forbidden |  |
|  |  |  | II | 5.1, 4.2 |  | None | 214 | 214 | Forbidden | Forbidden |  |
G | Oxidizing solid, toxic, n.o.s. | 5.1 | UN3087 | I | 5.1, 6.1 |  | None | 211 | 242 | 1 kg | 15 kg | D | 56, 58, 106, 138
|  |  |  | II | 5.1, 6.1 | IB6, IP2, T3, TP33 | 152 | 212 | 242 | 5 kg | 25 kg | B | 56, 58, 95, 106, 138
|  |  |  | III | 5.1, 6.1 | IB8, IP3, T1, TP33 | 152 | 213 | 240 | 25 kg | 100 kg | B | 56, 58, 95, 106, 138
G | Oxidizing solid, water-reactive, n.o.s. | 5.1 | UN3121 |  | 5.1, 4.3 |  | None | 214 | 214 | Forbidden | Forbidden |  |
| Oxygen and carbon dioxide mixtures, see Carbon dioxide and oxygen mixtures |  |  |  |  |  |  |  |  |  |  |  |
| Oxygen, compressed | 2.2 | UN1072 |  | 2.2, 5.1 | A14, A52 | 306 | 302 | 314, 315 | 75 kg | 150 kg | A |
| Oxygen difluoride, compressed | 2.3 | UN2190 |  | 2.3, 5.1, 8 | 1 | None | 304 | None | Forbidden | Forbidden | D | 13, 40, 89, 90
| Oxygen generator, chemical (including when contained in associated equipment, e.g., passenger service units (PSUs), portable breathing equipment (PBE), etc). | 5.1 | UN3356 | II | 5.1 | 60, A51 | None | 212 | None | Forbidden | 25 kg gross | D | 56, 58, 69, 106
+ | Oxygen generator, chemical, spent | 9 | NA3356 | III | 9 | 61 | None | 213 | None | Forbidden | Forbidden | A |
| Oxygen, mixtures with rare gases, see Rare gases and oxygen mixtures |  |  |  |  |  |  |  |  |  |  |  |
| Oxygen, refrigerated liquid (cryogenic liquid) | 2.2 | UN1073 |  | 2.2, 5.1 | T75, TP5, TP22 | 320 | 316 | 318 | Forbidden | Forbidden | D |
| Paint including paint, lacquer, enamel, stain, shellac solutions, varnish, polish, liquid filler, and liquid lacquer base | 3 | UN1263 | I | 3 | T11, TP1, TP8 | 150 | 201 | 243 | 1 L | 30 L | E |
|  |  |  | II | 3 | 149, B52, IB2, T4, TP1, TP8 | 150 | 173 | 242 | 5 L | 60 L | B |
|  |  |  | III | 3 | B1, B52, IB3, T2, TP1 | 150 | 173 | 242 | 60 L | 220 L | A |
| Paint or Paint related material | 8 | UN3066 | II | 8 | B2, IB2, T7, TP2 | 154 | 173 | 242 | 1 L | 30 L | A |
|  |  |  | III | 8 | B52, IB3, T4, TP1 | 154 | 173 | 241 | 5 L | 60 L | A |
| Paint related material including paint thinning, drying, removing, or reducing compound | 3 | UN1263 | I | 3 | T11, TP1, TP8 | 150 | 201 | 243 | 1 L | 30 L | E |
|  |  |  | II | 3 | 149, B52, IB2, T4, TP1, TP8 | 150 | 173 | 242 | 5 L | 60 L | B |
|  |  |  | III | 3 | B1, B52, IB3, T2, TP1 | 150 | 173 | 242 | 60 L | 220 L | A |
| Paper, unsaturated oil treated incompletely dried (including carbon paper) | 4.2 | UN1379 | III | 4.2 | IB8, IP3 | None | 213 | 241 | Forbidden | Forbidden | A |
| Paraformaldehyde | 4.1 | UN2213 | III | 4.1 | A1, IB8, IP3, T1, TP33 | 151 | 213 | 240 | 25 kg | 100 kg | A |
| Paraldehyde | 3 | UN1264 | III | 3 | B1, IB3, T2, TP1 | 150 | 203 | 242 | 60 L | 220 L | A |
| Paranitroaniline, solid, see Nitroanilines etc |  |  |  |  |  |  |  |  |  |  |  |
D | Parathion and compressed gas mixture | 2.3 | NA1967 |  | 2.3 | 3 | None | 334 | 245 | Forbidden | Forbidden | E | 40
| Paris green, solid, see Copper acetoarsenite |  |  |  |  |  |  |  |  |  |  |  |
A W | PCB, see Polychlorinated biphenyls |  |  |  |  |  |  |  |  |  |  |  |
+ | Pentaborane | 4.2 | UN1380 | I | 4.2, 6.1 | 1 | None | 205 | 245 | Forbidden | Forbidden | D |
| Pentachloroethane | 6.1 | UN1669 | II | 6.1 | IB2, T7, TP2 | 153 | 202 | 243 | 5 L | 60 L | A | 40
| Pentachlorophenol | 6.1 | UN3155 | II | 6.1 | IB8, IP2, IP4, T3, TP33 | 153 | 212 | 242 | 25 kg | 100 kg | A |
| Pentaerythrite tetranitrate (dry) | Forbidden |  |  |  |  |  |  |  |  |  |  |
| Pentaerythrite tetranitrate mixture, desensitized, solid, n.o.s. with more than 10 percent but not more than 20 percent PETN, by mass | 4.1 | UN3344 | II | 4.1 | 118, N85 | None | 214 | None | Forbidden | Forbidden | E |
| Pentaerythrite tetranitrate or Pentaerythritol tetranitrate or PETN, with not less than 7 percent wax by mass | 1.1D | UN0411 | II | 1.1D |  | None | 62 | None | Forbidden | Forbidden | 10 |
| Pentaerythrite tetranitrate, wetted or Pentaerythritol tetranitrate, wetted, or PETN, wetted with not less than 25 percent water, by mass, or Pentaerythrite tetranitrate, or Pentaerythritol tetranitrate or PETN, desensitized with not less than 15 percent phlegmatizer by mass | 1.1D | UN0150 | II | 1.1D | 121 | None | 62 | None | Forbidden | Forbidden | 10 |
| Pentaerythritol tetranitrate, see Pentaerythrite tetranitrate, etc |  |  |  |  |  |  |  |  |  |  |  |
| Pentafluoroethane or Refrigerant gas R 125 | 2.2 | UN3220 |  | 2.2 | T50 | 306 | 304 | 314, 315 | 75 kg | 150 kg | A |
| Pentamethylheptane | 3 | UN2286 | III | 3 | B1, IB3, T2, TP1 | 150 | 203 | 242 | 60 L | 220 L | A |
| Pentane-2,4-dione | 3 | UN2310 | III | 3, 6.1 | B1, IB3, T4, TP1 | 150 | 203 | 242 | 60 L | 220 L | A |
| Pentanes | 3 | UN1265 | I | 3 | T11, TP2 | 150 | 201 | 243 | 1 L | 30 L | E |
|  |  |  | II | 3 | IB2, IP8, T4, TP1 | 150 | 202 | 242 | 5 L | 60 L | E |
| Pentanitroaniline (dry) | Forbidden |  |  |  |  |  |  |  |  |  |  |
| Pentanols | 3 | UN1105 | II | 3 | IB2, T4, TP1, TP29 | 150 | 202 | 242 | 5 L | 60 L | B |
|  |  |  | III | 3 | B1, B3, IB3, T2, TP1 | 150 | 203 | 242 | 60 L | 220 L | A |
| 1-Pentene (n-amylene) | 3 | UN1108 | I | 3 | T11, TP2 | 150 | 201 | 243 | 1 L | 30 L | E |
| 1-Pentol | 8 | UN2705 | II | 8 | B2, IB2, T7, TP2 | 154 | 202 | 242 | 1 L | 30 L | B | 26, 27
| Pentolite, dry or wetted with less than 15 percent water, by mass | 1.1D | UN0151 | II | 1.1D |  | None | 62 | None | Forbidden | Forbidden | 10 |
| Pepper spray, see Aerosols, etc. or Self-defense spray, non-pressurized |  |  |  |  |  |  |  |  |  |  |  |
| Perchlorates, inorganic, aqueous solution, n.o.s. | 5.1 | UN3211 | II | 5.1 | IB2, T4, TP1 | 152 | 202 | 242 | 1 L | 5 L | B | 56, 58, 133
|  |  |  | III | 5.1 | IB2, T4, TP1 | 152 | 202 | 241 | 2.5 L | 30 L | B | 56, 58, 69, 133
| Perchlorates, inorganic, n.o.s. | 5.1 | UN1481 | II | 5.1 | IB6, IP2, T3, TP33 | 152 | 212 | 242 | 5 kg | 25 kg | A | 56, 58
|  |  |  | III | 5.1 | IB8, IP3, T1, TP33 | 152 | 213 | 240 | 25 kg | 100 kg | A | 56, 58
| Perchloric acid, with more than 72 percent acid by mass | Forbidden |  |  |  |  |  |  |  |  |  |  |
| Perchloric acid with more than 50 percent but not more than 72 percent acid, by mass | 5.1 | UN1873 | I | 5.1, 8 | A2, A3, N41, T10, TP1, TP12 | None | 201 | 243 | Forbidden | 2.5 L | D | 66
| Perchloric acid with not more than 50 percent acid by mass | 8 | UN1802 | II | 8, 5.1 | IB2, N41, T7, TP2 | None | 202 | 243 | Forbidden | 30 L | C | 66
| Perchloroethylene, see Tetrachloroethylene |  |  |  |  |  |  |  |  |  |  |  |
| Perchloromethyl mercaptan | 6.1 | UN1670 | I | 6.1 | 2, B9, B14, B32, B74, N34, T20, TP2, TP13, TP38, TP45 | None | 227 | 244 | Forbidden | Forbidden | D | 40
| Perchloryl fluoride | 2.3 | UN3083 |  | 2.3, 5.1 | 2, B9, B14 | None | 302 | 314, 315 | Forbidden | Forbidden | D | 40
| Percussion caps, see Primers, cap type |  |  |  |  |  |  |  |  |  |  |  |
| Perfluoro-2-butene, see Octafluorobut-2-ene |  |  |  |  |  |  |  |  |  |  |  |
| Perfluoro(ethyl vinyl ether) | 2.1 | UN3154 |  | 2.1 |  | 306 | 302, 304, 305 | 314, 315 | Forbidden | 150 kg | E | 40
| Perfluoro(methyl vinyl ether) | 2.1 | UN3153 |  | 2.1 | T50 | 306 | 302, 304, 305 | 314, 315 | Forbidden | 150 kg | E | 40
| Perfumery products with flammable solvents | 3 | UN1266 | II | 3 | 149, IB2, T4, TP1, TP8 | 150 | 202 | 242 | 15 L | 60 L | B |
|  |  |  | III | 3 | B1, IB3, T2, TP1 | 150 | 203 | 242 | 60 L | 220 L | A |
| Permanganates, inorganic, aqueous solution, n.o.s. | 5.1 | UN3214 | II | 5.1 | 26, IB2, T4, TP1 | 152 | 202 | 242 | 1 L | 5 L | D | 56, 58, 133, 138
| Permanganates, inorganic, n.o.s. | 5.1 | UN1482 | II | 5.1 | 26, A30, IB6, IP2, T3, TP33 | 152 | 212 | 242 | 5 kg | 25 kg | D | 56, 58, 138
|  |  |  | III | 5.1 | 26, A30, IB8, IP3, T1, TP33 | 152 | 213 | 240 | 25 kg | 100 kg | D | 56, 58, 138
| Peroxides, inorganic, n.o.s. | 5.1 | UN1483 | II | 5.1 | A7, A20, IB6, IP2, N34, T3, TP33 | None | 212 | 242 | 5 kg | 25 kg | A | 13, 52, 66, 75
|  |  |  | III | 5.1 | A7, A20, IB8, IP3, N34, T1, TP33 | 152 | 213 | 240 | 25 kg | 100 kg | A | 13, 52, 66, 75
| Peroxyacetic acid, with more than 43 percent and with more than 6 percent hydrogen peroxide | Forbidden |  |  |  |  |  |  |  |  |  |  |
| Persulfates, inorganic, aqueous solution, n.o.s. | 5.1 | UN3216 | III | 5.1 | IB2, T4, TP1, TP29 | 152 | 203 | 241 | 2.5 L | 30 L | A | 56, 133
| Persulfates, inorganic, n.o.s. | 5.1 | UN3215 | III | 5.1 | IB8, IP3, T1, TP33 | 152 | 213 | 240 | 25 kg | 100 kg | A | 56, 58
G | Pesticides, liquid, flammable, toxic, flash point less than 23 degrees C | 3 | UN3021 | I | 3, 6.1 | B5, T14, TP2, TP13, TP27 | None | 201 | 243 | Forbidden | 30 L | B |
|  |  |  | II | 3, 6.1 | IB2, T11, TP2, TP13, TP27 | 150 | 202 | 243 | 1 L | 60 L | B |
G | Pesticides, liquid, toxic, flammable, n.o.s. flash point not less than 23 degrees C | 6.1 | UN2903 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2 | 153 | 203 | 242 | 60 L | 220 L | A | 40
G | Pesticides, liquid, toxic, n.o.s. | 6.1 | UN2902 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
G | Pesticides, solid, toxic, n.o.s. | 6.1 | UN2588 | I | 6.1 | IB7, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| PETN, see Pentaerythrite tetranitrate |  |  |  |  |  |  |  |  |  |  |  |
| PETN/TNT, see Pentolite, etc |  |  |  |  |  |  |  |  |  |  |  |
| Petrol, see Gasoline |  |  |  |  |  |  |  |  |  |  |  |
| Petroleum crude oil | 3 | UN1267 | I | 3 | 144, T11, TP1, TP8 | 150 | 201 | 243 | 1 L | 30 L | E |
|  |  |  | II | 3 | 144, IB2, T4, TP1, TP8 | 150 | 202 | 242 | 5 L | 60 L | B |
|  |  |  | III | 3 | 144, B1, IB3, T2, TP1 | 150 | 203 | 242 | 60 L | 220 L | A |
| Petroleum distillates, n.o.s. or Petroleum products, n.o.s. | 3 | UN1268 | I | 3 | 144, T11, TP1, TP8 | 150 | 201 | 243 | 1 L | 30 L | E |
|  |  |  | II | 3 | 144, IB2, T7, TP1, TP8, TP28 | 150 | 202 | 242 | 5 L | 60 L | B |
|  |  |  | III | 3 | 144, B1, IB3, T4, TP1, TP29 | 150 | 203 | 242 | 60 L | 220 L | A |
| Petroleum gases, liquefied or Liquefied petroleum gas | 2.1 | UN1075 |  | 2.1 | T50 | 306 | 304 | 314, 315 | Forbidden | 150 kg | E | 40
D | Petroleum oil | 3 | NA1270 | I | 3 | 144, T11, TP1 | None | 201 | 243 | 1 L | 30 L | E |
|  |  |  | II | 3 | 144, IB2, T7, TP1, TP8, TP28 | 150 | 202 | 242 | 5 L | 60 L | B |
|  |  |  | III | 3 | 144, B1, IB3, T4, TP1, TP29 | 150 | 203 | 242 | 60 L | 220 L | A |
| Phenacyl bromide | 6.1 | UN2645 | II | 6.1 | IB8, IP2, IP4, T3, TP33 | 153 | 212 | 242 | 25 kg | 100 kg | B | 40
+ | Phenetidines | 6.1 | UN2311 | III | 6.1 | IB3, T4, TP1 | 153 | 203 | 241 | 60 L | 220 L | A |
| Phenol, molten | 6.1 | UN2312 | II | 6.1 | B14, T7, TP3 | None | 202 | 243 | Forbidden | Forbidden | B | 40
+ | Phenol, solid | 6.1 | UN1671 | II | 6.1 | IB8, IP2, IP4, N78, T3, TP33 | 153 | 212 | 242 | 25 kg | 100 kg | A |
| Phenol solutions | 6.1 | UN2821 | II | 6.1 | IB2, T7, TP2 | 153 | 202 | 243 | 5 L | 60 L | A |
|  |  |  | III | 6.1 | IB3, T4, TP1 | 153 | 203 | 241 | 60 L | 220 L | A |
| Phenolsulfonic acid, liquid | 8 | UN1803 | II | 8 | B2, IB2, N41, T7, TP2 | 154 | 202 | 242 | 1 L | 30 L | C | 14
| Phenoxyacetic acid derivative pesticide, liquid, flammable, toxic flash point less than 23 degrees C | 3 | UN3346 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Phenoxyacetic acid derivative pesticide, liquid, toxic | 6.1 | UN3348 | I | 6.1 | T14, TP2, TP13, TP27 | None | 201 | 243 | 1 L | 30 L | B | 40
|  |  |  | II | 6.1 | IB2, T11, TP2, TP27 | 153 | 202 | 243 | 5 L | 60 L | B | 40
|  |  |  | III | 6.1 | IB3, T7, TP2, TP28 | 153 | 203 | 241 | 60 L | 220 L | A | 40
| Phenoxyacetic acid derivative pesticide, liquid, toxic, flammable, flash point not less than 23 degrees C | 6.1 | UN3347 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | IB3, T7, TP2, TP28 | 153 | 203 | 241 | 60 L | 220 L | A | 40
| Phenoxyacetic acid derivative pesticide, solid, toxic | 6.1 | UN3345 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Phenyl chloroformate | 6.1 | UN2746 | II | 6.1, 8 | IB2, T7, TP2, TP13 | 153 | 202 | 243 | 1 L | 30 L | A | 12, 13, 21, 25, 40, 100
| Phenyl isocyanate | 6.1 | UN2487 | I | 6.1, 3 | 2, B9, B14, B32, B74, B77, N33, N34, T20, TP2, TP13, TP38, TP45 | None | 227 | 244 | Forbidden | Forbidden | D | 40
| Phenyl mercaptan | 6.1 | UN2337 | I | 6.1, 3 | 2, B9, B14, B32, B74, B77, T20, TP2, TP13, TP38, TP45 | None | 227 | 244 | Forbidden | Forbidden | B | 40, 52
| Phenyl phosphorus dichloride | 8 | UN2798 | II | 8 | B2, B15, IB2, T7, TP2 | 154 | 202 | 242 | Forbidden | 30 L | B | 40
| Phenyl phosphorus thiodichloride | 8 | UN2799 | II | 8 | B2, B15, IB2, T7, TP2 | 154 | 202 | 242 | Forbidden | 30 L | B | 40
| Phenylacetonitrile, liquid | 6.1 | UN2470 | III | 6.1 | IB3, T4, TP1 | 153 | 203 | 241 | 60 L | 220 L | A | 52
| Phenylacetyl chloride | 8 | UN2577 | II | 8 | B2, IB2, T7, TP2 | 154 | 202 | 242 | 1 L | 30 L | C | 40
| Phenylcarbylamine chloride | 6.1 | UN1672 | I | 6.1 | 2, B9, B14, B32, B74, T20, TP2, TP13, TP38, TP45 | None | 227 | 244 | Forbidden | Forbidden | D | 40
| m-Phenylene diaminediperchlorate (dry) | Forbidden |  |  |  |  |  |  |  |  |  |  |
+ | Phenylenediamines (o-; m-; p-;) | 6.1 | UN1673 | III | 6.1 | IB8, IP3, T1, TP33 | 153 | 213 | 240 | 100 kg | 200 kg | A |
| Phenylhydrazine | 6.1 | UN2572 | II | 6.1 | IB2, T7, TP2 | 153 | 202 | 243 | 5 L | 60 L | A | 40
| Phenylmercuric acetate | 6.1 | UN1674 | II | 6.1 | IB8, IP2, IP4, T3, TP33 | 153 | 212 | 242 | 25 kg | 100 kg | A |
| Phenylmercuric compounds, n.o.s. | 6.1 | UN2026 | I | 6.1 | IB7, IP1, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
| Phenylmercuric hydroxide | 6.1 | UN1894 | II | 6.1 | IB8, IP2, IP4, T3, TP33 | 153 | 212 | 242 | 25 kg | 100 kg | A |
| Phenylmercuric nitrate | 6.1 | UN1895 | II | 6.1 | IB8, IP2, IP4, T3, TP33 | 153 | 212 | 242 | 25 kg | 100 kg | A |
| Phenyltrichlorosilane | 8 | UN1804 | II | 8 | A7, B6, IB2, N34, T7, TP2 | None | 202 | 242 | Forbidden | 30 L | C | 40
| Phosgene | 2.3 | UN1076 |  | 2.3, 8 | 1, B7, B46 | None | 192 | 314 | Forbidden | Forbidden | D | 40
| 9-Phosphabicyclononanes or Cyclooctadiene phosphines | 4.2 | UN2940 | II | 4.2 | A19, IB6, IP2, T3, TP33 | None | 212 | 241 | 15 kg | 50 kg | A |
| Phosphine | 2.3 | UN2199 |  | 2.3, 2.1 | 1 | None | 192 | 245 | Forbidden | Forbidden | D | 40
| Phosphoric acid solution | 8 | UN1805 | III | 8 | A7, IB3, N34, T4, TP1 | 154 | 203 | 241 | 5 L | 60 L | A |
| Phosphoric acid, solid | 8 | UN3453 | III | 8 | IB8, IP3, T1, TP33 | 154 | 213 | 240 | 25 kg | 100 kg | A |
| Phosphoric acid triethyleneimine, see Tris-(1-aziridiyl)phosphine oxide, solution |  |  |  |  |  |  |  |  |  |  |  |
| Phosphoric anhydride, see Phosphorus pentoxide |  |  |  |  |  |  |  |  |  |  |  |
| Phosphorous acid | 8 | UN2834 | III | 8 | IB8, IP3, T1, TP33 | 154 | 213 | 240 | 25 kg | 100 kg | A | 48
| Phosphorus, amorphous | 4.1 | UN1338 | III | 4.1 | A1, A19, B1, B9, B26, IB8, IP3, T1, TP33 | None | 213 | 243 | 25 kg | 100 kg | A | 74
| Phosphorus bromide, see Phosphorus tribromide |  |  |  |  |  |  |  |  |  |  |  |
| Phosphorus chloride, see Phosphorus trichloride |  |  |  |  |  |  |  |  |  |  |  |
| Phosphorus heptasulfide, free from yellow or white phosphorus | 4.1 | UN1339 | II | 4.1 | A20, IB4, N34, T3, TP33 | None | 212 | 240 | 15 kg | 50 kg | B | 74
| Phosphorus oxybromide | 8 | UN1939 | II | 8 | B8, IB8, IP2, IP4, N41, N43, T3, TP33 | None | 212 | 240 | Forbidden | 50 kg | C | 12, 40
| Phosphorus oxybromide, molten | 8 | UN2576 | II | 8 | B2, B8, IB1, N41, N43, T7, TP3, TP13 | None | 202 | 242 | Forbidden | Forbidden | C | 40
+ | Phosphorus oxychloride | 8 | UN1810 | II | 8, 6.1 | 2, B9, B14, B32, B74, B77, N34, T20, TP2, TP38, TP45 | None | 227 | 244 | Forbidden | Forbidden | C | 40
| Phosphorus pentabromide | 8 | UN2691 | II | 8 | A7, IB8, IP2, IP4, N34, T3, TP33 | 154 | 212 | 240 | Forbidden | 50 kg | B | 12, 40, 53, 55
| Phosphorus pentachloride | 8 | UN1806 | II | 8 | A7, IB8, IP2, IP4, N34, T3, TP33 | None | 212 | 240 | Forbidden | 50 kg | C | 40, 44, 89, 100, 141
| Phosphorus | 2.3 | UN2198 |  | 2.3, 8 | 2, B9, B14 | None | 302, 304 | 314, 315 | Forbidden | Forbidden | D | 40
| Phosphorus pentasulfide, free from yellow or white phosphorus | 4.3 | UN1340 | II | 4.3, 4.1 | A20, B59, IB4, T3, TP33 | 151 | 212 | 242 | 15 kg | 50 kg | B | 74
| Phosphorus pentoxide | 8 | UN1807 | II | 8 | A7, IB8, IP2, IP4, N34, T3, TP33 | 154 | 212 | 240 | 15 kg | 50 kg | A |
| Phosphorus sesquisulfide, free from yellow or white phosphorus | 4.1 | UN1341 | II | 4.1 | A20, IB4, N34, T3, TP33 | None | 212 | 240 | 15 kg | 50 kg | B | 74
| Phosphorus tribromide | 8 | UN1808 | II | 8 | A3, A6, A7, B2, B25, IB2, N34, N43, T7, TP2 | None | 202 | 242 | Forbidden | 30 L | C | 40
| Phosphorus trichloride | 6.1 | UN1809 | I | 6.1, 8 | 2, B9, B14, B15, B32, B74, B77, N34, T20, TP2, TP13, TP38, TP45 | None | 227 | 244 | Forbidden | Forbidden | C | 40
| Phosphorus trioxide | 8 | UN2578 | III | 8 | IB8, IP3, T1, TP33 | 154 | 213 | 240 | 25 kg | 100 kg | A | 12
| Phosphorus trisulfide, free from yellow or white phosphorus | 4.1 | UN1343 | II | 4.1 | A20, IB4, N34, T3, TP33 | None | 212 | 240 | 15 kg | 50 kg | B | 74
| Phosphorus, white dry or Phosphorus, white, under water or Phosphorus white, in solution or Phosphorus, yellow dry or Phosphorus, yellow, under water or Phosphorus, yellow, in solution | 4.2 | UN1381 | I | 4.2, 6.1 | B9, B26, N34, T9, TP3, TP31 | None | 188 | 243 | Forbidden | Forbidden | E |
| Phosphorus white, molten | 4.2 | UN2447 | I | 4.2, 6.1 | B9, B26, N34, T21, TP3, TP7, TP26 | None | 188 | 243 | Forbidden | Forbidden | D |
| Phosphorus (white or red) and a chlorate, mixtures of | Forbidden |  |  |  |  |  |  |  |  |  |  |
| Phosphoryl chloride, see Phosphorus oxychloride |  |  |  |  |  |  |  |  |  |  |  |
| Phthalic anhydride with more than .05 percent maleic anhydride | 8 | UN2214 | III | 8 | IB8, IP3, T1, TP33 | 154 | 213 | 240 | 25 kg | 100 kg | A |
| Picolines | 3 | UN2313 | III | 3 | B1, IB3, T4, TP1 | 150 | 203 | 242 | 60 L | 220 L | A | 40
| Picric acid, see Trinitrophenol, etc |  |  |  |  |  |  |  |  |  |  |  |
| Picrite, see Nitroguanidine, etc |  |  |  |  |  |  |  |  |  |  |  |
| Picryl chloride, see Trinitrochlorobenzene |  |  |  |  |  |  |  |  |  |  |  |
| Pine oil | 3 | UN1272 | III | 3 | B1, IB3, T2, TP1 | 150 | 203 | 242 | 60 L | 220 L | A |
| alpha-Pinene | 3 | UN2368 | III | 3 | B1, IB3, T2, TP1 | 150 | 203 | 242 | 60 L | 220 L | A |
| Piperazine | 8 | UN2579 | III | 8 | IB8, IP3, T1, TP33 | 154 | 213 | 240 | 25 kg | 100 kg | A | 12, 52
| Piperidine | 8 | UN2401 | I | 8, 3 | A10, T10, TP2 | None | 201 | 243 | 0.5 L | 2.5 L | B | 52
| Pivaloyl chloride, see Trimethylacetyl chloride |  |  |  |  |  |  |  |  |  |  |  |
| Plastic molding compound in dough, sheet or extruded rope form evolving flammable vapor | 9 | UN3314 | III | 9 | 32, IB8, IP3, IP7 | 155 | 221 | 221 | 100 kg | 200 kg | A | 85, 87
| Plastic solvent, n.o.s., see Flammable liquids, n.o.s. |  |  |  |  |  |  |  |  |  |  |  |
| Plastics, nitrocellulose-based, self-heating, n.o.s. | 4.2 | UN2006 | III | 4.2 |  | None | 213 | None | Forbidden | Forbidden | C |
| Poisonous gases, n.o.s., see Compressed or liquefied gases, flammable or toxic, n.o.s. |  |  |  |  |  |  |  |  |  |  |  |
| Polyalkylamines, n.o.s., see Amines, etc |  |  |  |  |  |  |  |  |  |  |  |
| Polychlorinated biphenyls, liquid | 9 | UN2315 | II | 9 | 9, 81, 140, IB3, T4, TP1 | 155 | 202 | 241 | 100 L | 220 L | A | 95
| Polychlorinated biphenyls, solid | 9 | UN3432 | II | 9 | 9, 81, 140, IB8, T3, TP33 | 155 | 212 | 240 | 100 kg | 200 kg | A | 95
| Polyester resin kit | 3 | UN3269 |  | 3 | 40, 149 | 152 | 225 | None | 5 kg | 5 kg | B |
| Polyhalogenated biphenyls, liquid or Polyhalogenated terphenyls liquid | 9 | UN3151 | II | 9 | IB2 | 155 | 204 | 241 | 100 L | 220 L | A | 95
| Polyhalogenated biphenyls, solid or Polyhalogenated terphenyls, solid | 9 | UN3152 | II | 9 | IB8, IP2, IP4, T3, TP33 | 155 | 204 | 241 | 100 kg | 200 kg | A | 95
| Polymeric beads, expandable, evolving flammable vapor | 9 | UN2211 | III | 9 | 32, IB8, IP3, IP7, T1, TP33 | 155 | 221 | 221 | 100 kg | 200 kg | A | 85, 87
| Potassium | 4.3 | UN2257 | I | 4.3 | A7, A19, A20, B27, IB4, IP1, N6, N34, T9, TP7, TP33 | None | 211 | 244 | Forbidden | 15 kg | D | 52
| Potassium arsenate | 6.1 | UN1677 | II | 6.1 | IB8, IP2, IP4, T3, TP33 | 153 | 212 | 242 | 25 kg | 100 kg | A |
| Potassium arsenite | 6.1 | UN1678 | II | 6.1 | IB8, IP2, IP4, T3, TP33 | 153 | 212 | 242 | 25 kg | 100 kg | A |
| Potassium bisulfite solution, see Bisulfites, aqueous solutions, n.o.s. |  |  |  |  |  |  |  |  |  |  |  |
| Potassium borohydride | 4.3 | UN1870 | I | 4.3 | A19, N40 | None | 211 | 242 | Forbidden | 15 kg | E | 52
| Potassium bromate | 5.1 | UN1484 | II | 5.1 | IB8, IP4, T3, TP33 | 152 | 212 | 242 | 5 kg | 25 kg | A | 56, 58
| Potassium carbonyl | Forbidden |  |  |  |  |  |  |  |  |  |  |
| Potassium chlorate | 5.1 | UN1485 | II | 5.1 | A9, IB8, IP4, N34, T3, TP33 | 152 | 212 | 242 | 5 kg | 25 kg | A | 56, 58
| Potassium chlorate, aqueous solution | 5.1 | UN2427 | II | 5.1 | A2, IB2, T4, TP1 | 152 | 202 | 241 | 1 L | 5 L | B | 56, 58, 133
|  |  |  | III | 5.1 | A2, IB2, T4, TP1 | 152 | 203 | 241 | 2.5 L | 30 L | B | 56, 58, 69, 133
| Potassium chlorate mixed with mineral oil, see Explosive, blasting, type C |  |  |  |  |  |  |  |  |  |  |  |
| Potassium cuprocyanide | 6.1 | UN1679 | II | 6.1 | IB8, IP2, IP4, T3, TP33 | 153 | 212 | 242 | 25 kg | 100 kg | A | 52
| Potassium cyanide, solid | 6.1 | UN1680 | I | 6.1 | B69, B77, IB7, IP1, N74, N75, T6, TP33 | None | 211 | 242 | 5 kg | 50 kg | B | 52
| Potassium cyanide solution | 6.1 | UN3413 | I | 6.1 | B69, B77, N74, N75, T14, TP2, TP13 | None | 201 | 243 | 1 L | 30 L | B | 52
|  |  |  | II | 6.1 | B69, B77, IB2, N74, N75, T11, TP2, TP13, TP27 | 153 | 202 | 243 | 5 L | 60 L | B | 52
|  |  |  | III | 6.1 | B69, B77, IB3, N74, N75, T7, TP2, TP13, TP28 | 153 | 203 | 241 | 60 L | 220 L | A | 52
| Potassium dichloro isocyanurate or Potassium dichloro-s-triazinetrione, see Dichloroisocyanuric acid, dry or Dichloroisocyanuric acid salts etc |  |  |  |  |  |  |  |  |  |  |  |
| Potassium dithionite or Potassium hydrosulfite | 4.2 | UN1929 | II | 4.2 | A8, A19, A20, IB6, IP2, T3, TP33 | None | 212 | 241 | 15 kg | 50 kg | E | 13
| Potassium fluoride, solid | 6.1 | UN1812 | III | 6.1 | IB8, IP3, T1, TP33 | 153 | 213 | 240 | 100 kg | 200 kg | A | 52
| Potassium fluoride solution | 6.1 | UN3422 | III | 6.1 | IB3, T4, TP1 | 153 | 203 | 241 | 60 L | 220 L | A | 52
| Potassium fluoroacetate | 6.1 | UN2628 | I | 6.1 | IB7, IP1, T6, TP33 | None | 211 | 242 | 5 kg | 50 kg | E |
| Potassium fluorosilicate | 6.1 | UN2655 | III | 6.1 | IB8, IP3, T1, TP33 | 153 | 213 | 240 | 100 kg | 200 kg | A | 52
| Potassium hydrate, see Potassium hydroxide, solid |  |  |  |  |  |  |  |  |  |  |  |
| Potassium hydrogen fluoride, see Potassium hydrogen difluoride |  |  |  |  |  |  |  |  |  |  |  |
| Potassium hydrogen fluoride solution, see Corrosive liquid, n.o.s. |  |  |  |  |  |  |  |  |  |  |  |
| Potassium hydrogen sulfate | 8 | UN2509 | II | 8 | A7, IB8, IP2, IP4, N34, T3, TP33 | 154 | 212 | 240 | 15 kg | 50 kg | A |
| Potassium hydrogendifluoride solid | 8 | UN1811 | II | 8, 6.1 | IB8, IP2, IP4, N3, N34, T3, TP33 | 154 | 212 | 240 | 15 kg | 50 kg | A | 25, 40, 52
| Potassium hydrogendifluoride solution | 8 | UN3421 | II | 8, 6.1 | IB2, N3, N34, T7, TP2 | 154 | 202 | 243 | 1 L | 30 L | A | 25, 40, 52
|  |  |  | III | 8, 6.1 | IB3, N3, N34, T4, TP1 | 154 | 203 | 241 | 5 L | 60 L | A | 40, 52
| Potassium hydrosulfite, see Potassium dithionite |  |  |  |  |  |  |  |  |  |  |  |
| Potassium hydroxide, liquid, see Potassium hydroxide solution |  |  |  |  |  |  |  |  |  |  |  |
| Potassium hydroxide, solid | 8 | UN1813 | II | 8 | IB8, IP2, IP4, T3, TP33 | 154 | 212 | 240 | 15 kg | 50 kg | A |
| Potassium hydroxide, solution | 8 | UN1814 | II | 8 | B2, IB2, T7, TP2 | 154 | 202 | 242 | 1 L | 30 L | A |
|  |  |  | III | 8 | IB3, T4, TP1 | 154 | 203 | 241 | 5 L | 60 L | A |
| Potassium hypochlorite, solution, see Hypochlorite solutions, etc |  |  |  |  |  |  |  |  |  |  |  |
| Potassium, metal alloys, liquid | 4.3 | UN1420 | I | 4.3 | A7, A19, A20, B27 | None | 201 | 244 | Forbidden | 1 L | E | 40, 52
| Potassium, metal alloys, solid | 4.3 | UN3403 | I | 4.3 | A19, A20, B27, IB4, IP1, T9, TP7, TP33 | None | 211 | 244 | Forbidden | 15 kg | D |
| Potassium metal, liquid alloy, see Alkali metal alloys, liquid, n.o.s. |  |  |  |  |  |  |  |  |  |  |  |
| Potassium metavanadate | 6.1 | UN2864 | II | 6.1 | IB8, IP2, IP4, T3, TP33 | 153 | 212 | 242 | 25 kg | 100 kg | A |
| Potassium monoxide | 8 | UN2033 | II | 8 | IB8, IP2, IP4, T3, TP33 | 154 | 212 | 240 | 15 kg | 50 kg | A | 29
| Potassium nitrate | 5.1 | UN1486 | III | 5.1 | A1, A29, IB8, IP3, T1, TP33 | 152 | 213 | 240 | 25 kg | 100 kg | A |
| Potassium nitrate and sodium nitrite mixtures | 5.1 | UN1487 | II | 5.1 | B78, IB8, IP4, T3, TP33 | 152 | 212 | 240 | 5 kg | 25 kg | A | 56, 58
| Potassium nitrite | 5.1 | UN1488 | II | 5.1 | IB8, IP4, T3, TP33 | 152 | 212 | 242 | 5 kg | 25 kg | A | 56, 58
| Potassium perchlorate | 5.1 | UN1489 | II | 5.1 | IB6, IP2, T3, TP33 | 152 | 212 | 242 | 5 kg | 25 kg | A | 56, 58
| Potassium permanganate | 5.1 | UN1490 | II | 5.1 | IB8, IP4, T3, TP33 | 152 | 212 | 240 | 5 kg | 25 kg | D | 56, 58, 138
| Potassium peroxide | 5.1 | UN1491 | I | 5.1 | A20, IB6, IP1, N34 | None | 211 | None | Forbidden | 15 kg | B | 13, 52, 66, 75
| Potassium persulfate | 5.1 | UN1492 | III | 5.1 | A1, A29, IB8, IP3, T1, TP33 | 152 | 213 | 240 | 25 kg | 100 kg | A | 56, 58
| Potassium phosphide | 4.3 | UN2012 | I | 4.3, 6.1 | A19, N40 | None | 211 | None | Forbidden | 15 kg | E | 40, 52, 85
| Potassium selenate, see Selenates or Selenites |  |  |  |  |  |  |  |  |  |  |  |
| Potassium selenite, see Selenates or Selenites |  |  |  |  |  |  |  |  |  |  |  |
| Potassium sodium alloys, solid | 4.3 | UN3404 | I | 4.3 | A19, B27, N34, N40, T9, TP7, TP33 | None | 211 | 244 | Forbidden | 15 kg | D | 52
| Potassium sodium alloys, liquid | 4.3 | UN1422 | I | 4.3 | A7, A19, B27, N34, N40, T9, TP3, TP7, TP31 | None | 201 | 244 | Forbidden | 1 L | E | 40, 52
| Potassium sulfide, anhydrous or Potassium sulfide with less than 30 percent water of crystallization | 4.2 | UN1382 | II | 4.2 | A19, A20, B16, IB6, IP2, N34, T3, TP33 | None | 212 | 241 | 15 kg | 50 kg | A | 52
| Potassium sulfide, hydrated with not less than 30 percent water of crystallization | 8 | UN1847 | II | 8 | IB8, IP2, IP4, T3, TP33 | 154 | 212 | 240 | 15 kg | 50 kg | A | 52
| Potassium superoxide | 5.1 | UN2466 | I | 5.1 | A20, IB6, IP1 | None | 211 | None | Forbidden | 15 kg | B | 13, 52, 66, 75
| Powder cake, wetted or Powder paste, wetted with not less than 17 percent alcohol by mass | 1.1C | UN0433 | II | 1.1C |  | None | 62 | None | Forbidden | Forbidden | 10 |
| Powder cake, wetted or Powder paste, wetted with not less than 25 percent water, by mass | 1.3C | UN0159 | II | 1.3C |  | None | 62 | None | Forbidden | Forbidden | 10 |
| Powder paste, see Powder cake, etc |  |  |  |  |  |  |  |  |  |  |  |
| Powder, smokeless | 1.1C | UN0160 | II | 1.1C |  | None | 62 | None | Forbidden | Forbidden |  | 26E
| Powder, smokeless | 1.3C | UN0161 | II | 1.3C |  | None | 62 | None | Forbidden | Forbidden |  | 26E
| Power device, explosive, see Cartridges, power device |  |  |  |  |  |  |  |  |  |  |  |
| Primers, cap type | 1.4S | UN0044 | II | None |  | None | 62 | None | 25 kg | 100 kg | 05 |
| Primers, cap type | 1.1B | UN0377 | II | 1.1B |  | None | 62 | None | Forbidden | Forbidden | 11 |
| Primers, cap type | 1.4B | UN0378 | II | 1.4B |  | None | 62 | None | Forbidden | 75 kg | 06 |
| Primers, small arms, see Primers, cap type |  |  |  |  |  |  |  |  |  |  |  |
| Primers, tubular | 1.3G | UN0319 | II | 1.3G |  | None | 62 | None | Forbidden | Forbidden | 07 |
| Primers, tubular | 1.4G | UN0320 | II | 1.4G |  | None | 62 | None | Forbidden | 75 kg | 06 |
| Primers, tubular | 1.4S | UN0376 | II | None |  | None | 62 | None | 25 kg | 100 kg | 05 |
| Printing ink, flammable or Printing ink related material (including printing ink thinning or reducing compound), flammable | 3 | UN1210 | I | 3 | T11, TP1, TP8 | 150 | 173 | 243 | 1 L | 30 L | E |
|  |  |  | II | 3 | 149, IB2, T4, TP1, TP8 | 150 | 173 | 242 | 5 L | 60 L | B |
|  |  |  | III | 3 | B1, IB3, T2, TP1 | 150 | 173 | 242 | 60 L | 220 L | A |
| Projectiles, illuminating, see Ammunition, illuminating, etc |  |  |  |  |  |  |  |  |  |  |  |
| Projectiles, inert with tracer | 1.4S | UN0345 | II | 1.4S |  |  | 62 | None | 25 kg | 100 kg | 01 |
| Projectiles, inert, with tracer | 1.3G | UN0424 | II | 1.3G |  |  | 62 | None | Forbidden | Forbidden | 03 |
| Projectiles, inert, with tracer | 1.4G | UN0425 | II | 1.4G |  |  | 62 | None | Forbidden | 75 kg | 02 |
| Projectiles, with burster or expelling charge | 1.2D | UN0346 | II | 1.2D |  |  | 62 | None | Forbidden | Forbidden | 03 |
| Projectiles, with burster or expelling charge | 1.4D | UN0347 | II | 1.4D |  |  | 62 | None | Forbidden | 75 kg | 02 |
| Projectiles, with burster or expelling charge | 1.2F | UN0426 | II | 1.2F |  |  | 62 | None | Forbidden | Forbidden | 08 |
| Projectiles, with burster or expelling charge | 1.4F | UN0427 | II | 1.4F |  |  | 62 | None | Forbidden | Forbidden | 08 |
| Projectiles, with burster or expelling charge | 1.2G | UN0434 | II | 1.2G |  |  | 62 | None | Forbidden | Forbidden | 03 |
| Projectiles, with burster or expelling charge | 1.4G | UN0435 | II | 1.4G |  |  | 62 | None | Forbidden | 75 kg | 02 |
| Projectiles, with bursting charge | 1.1F | UN0167 | II | 1.1F |  |  | 62 | None | Forbidden | Forbidden | 08 |
| Projectiles, with bursting charge | 1.1D | UN0168 | II | 1.1D |  |  | 62 | None | Forbidden | Forbidden | 03 |
| Projectiles, with bursting charge | 1.2D | UN0169 | II | 1.2D |  |  | 62 | None | Forbidden | Forbidden | 03 |
| Projectiles, with bursting charge | 1.2F | UN0324 | II | 1.2F |  |  | 62 | None | Forbidden | Forbidden | 08 |
| Projectiles, with bursting charge | 1.4D | UN0344 | II | 1.4D |  |  | 62 | None | Forbidden | 75 kg | 02 |
| Propadiene, stabilized | 2.1 | UN2200 |  | 2.1 |  | None | 304 | 314, 315 | Forbidden | 150 kg | B | 40
| Propadiene mixed with methyl acetylene, see Methyl acetylene and propadiene mixtures, stabilized |  |  |  |  |  |  |  |  |  |  |  |
| Propane see also Petroleum gases, liquefied | 2.1 | UN1978 |  | 2.1 | 19, T50 | 306 | 304 | 314, 315 | Forbidden | 150 kg | E | 40
| Propanethiols | 3 | UN2402 | II | 3 | A6, IB2, T4, TP1, TP13 | 150 | 202 | 242 | 5 L | 60 L | E | 95, 102
| n-Propanol or Propyl alcohol, normal | 3 | UN1274 | II | 3 | B1, IB2, T4, TP1 | 150 | 202 | 242 | 5 L | 60 L | B |
|  |  |  | III | 3 | B1, IB3, T2, TP1 | 150 | 203 | 242 | 60 L | 220 L | A |
| Propellant, liquid | 1.3C | UN0495 | II | 1.3C | 37 | None | 62 | None | Forbidden | Forbidden | 10 |
| Propellant, liquid | 1.1C | UN0497 | II | 1.1C | 37 | None | 62 | None | Forbidden | Forbidden | 10 |
| Propellant, solid | 1.1C | UN0498 | II | 1.1C |  | None | 62 | None | Forbidden | Forbidden |  | 26E
| Propellant, solid | 1.3C | UN0499 | II | 1.3C |  | None | 62 | None | Forbidden | Forbidden |  | 26E
| Propellant, solid | 1.4C | UN0501 |  | 1.4C |  | None | 62 | None | Forbidden | Forbidden | A | 24E
| Propionaldehyde | 3 | UN1275 | II | 3 | IB2, T7, TP1 | 150 | 202 | 242 | 5 L | 60 L | E |
| Propionic acid | 8 | UN1848 | III | 8 | IB3, T4, TP1 | 154 | 203 | 241 | 5 L | 60 L | A |
| Propionic anhydride | 8 | UN2496 | III | 8 | IB3, T4, TP1 | 154 | 203 | 241 | 5 L | 60 L | A |
| Propionitrile | 3 | UN2404 | II | 3, 6.1 | IB2, T7, TP1, TP13 | None | 202 | 243 | Forbidden | 60 L | E | 40
| Propionyl chloride | 3 | UN1815 | II | 3, 8 | IB1, T7, TP1 | 150 | 202 | 243 | 1 L | 5 L | B | 40
| n-Propyl acetate | 3 | UN1276 | II | 3 | IB2, T4, TP1 | 150 | 202 | 242 | 5 L | 60 L | B |
| Propyl alcohol, see Propanol |  |  |  |  |  |  |  |  |  |  |  |
| n-Propyl benzene | 3 | UN2364 | III | 3 | B1, IB3, T2, TP1 | 150 | 203 | 242 | 60 L | 220 L | A |
| n-Propyl chloroformate | 6.1 | UN2740 | I | 6.1, 3, 8 | 2, B9, B14, B32, B74, B77, N34, T20, TP2, TP13, TP38, TP44 | None | 227 | 244 | Forbidden | Forbidden | B | 21, 40, 100
| Propyl chloride see 1-Chloropropane |  |  |  |  |  |  |  |  |  |  |  |
| Propyl formates | 3 | UN1281 | II | 3 | IB2, T4, TP1 | 150 | 202 | 242 | 5 L | 60 L | B |
| n-Propyl isocyanate | 6.1 | UN2482 | I | 6.1, 3 | 1, B9, B14, B30, B72, T22, TP2, TP13, TP38, TP44 | None | 226 | 244 | Forbidden | Forbidden | D | 40
| Propyl mercaptan, see Propanethiols |  |  |  |  |  |  |  |  |  |  |  |
| n-Propyl nitrate | 3 | UN1865 | II | 3 | IB99 | 150 | 202 | None | 5 L | 60 L | D | 44, 89, 90, 100
| Propylamine | 3 | UN1277 | II | 3, 8 | A7, IB2, N34, T7, TP1 | 150 | 202 | 243 | 1 L | 5 L | E | 40
| Propylene see also Petroleum gases, liquefied | 2.1 | UN1077 |  | 2.1 | 19, T50 | 306 | 304 | 314, 315 | Forbidden | 150 kg | E | 40
| Propylene chlorohydrin | 6.1 | UN2611 | II | 6.1, 3 | IB2, T7, TP2, TP13 | 153 | 202 | 243 | 5 L | 60 L | A | 12, 40, 48
| Propylene oxide | 3 | UN1280 | I | 3 | A3, N34, T11, TP2, TP7 | None | 201 | 243 | 1 L | 30 L | E | 40
| Propylene tetramer | 3 | UN2850 | III | 3 | B1, IB3, T2, TP1 | 150 | 203 | 242 | 60 L | 220 L | A |
| 1,2-Propylenediamine | 8 | UN2258 | II | 8, 3 | A3, A6, IB2, N34, T7, TP2 | None | 202 | 243 | 1 L | 30 L | A | 40
| Propyleneimine, stabilized | 3 | UN1921 | I | 3, 6.1 | A3, N34, T14, TP2, TP13 | None | 201 | 243 | 1 L | 30 L | B | 40
| Propyltrichlorosilane | 8 | UN1816 | II | 8, 3 | A7, B2, B6, IB2, N34, T7, TP2, TP13 | None | 202 | 243 | Forbidden | 30 L | C | 40
| Prussic acid, see Hydrogen cyanide |  |  |  |  |  |  |  |  |  |  |  |
| Pyrethroid pesticide, liquid, flammable, toxic, flash point less than 23 degrees C | 3 | UN3350 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Pyrethroid pesticide, liquid toxic | 6.1 | UN3352 | I | 6.1 | T14, TP2, TP13, TP27 | None | 211 | 242 | 1 L | 30 L | A | 40
|  |  |  | II | 6.1 | IB2, T11, TP2, TP27 | 153 | 212 | 242 | 5 L | 60 L | A | 40
|  |  |  | III | 6.1 | IB3, T7, TP2, TP28 | 153 | 213 | 240 | 60 L | 220 L | A | 40
| Pyrethroid pesticide, liquid, toxic, flammable, flash point not less than 23 degrees C | 6.1 | UN3351 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | IB3, T7, TP2, TP28 | 153 | 203 | 241 | 60 L | 220 L | B | 40
| Pyrethroid pesticide, solid, toxic | 6.1 | UN3349 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Pyridine | 3 | UN1282 | II | 3 | IB2, T4, TP2 | None | 202 | 242 | 5 L | 60 L | B | 21, 100
| Pyridine perchlorate | Forbidden |  |  |  |  |  |  |  |  |  |  |
G | Pyrophoric liquid, inorganic, n.o.s. | 4.2 | UN3194 | I | 4.2 |  | None | 181 | 244 | Forbidden | Forbidden | D | 18
G | Pyrophoric liquids, organic, n.o.s. | 4.2 | UN2845 | I | 4.2 | B11, T22, TP2, TP7 | None | 181 | 244 | Forbidden | Forbidden | D | 18
G | Pyrophoric metals, n.o.s., or Pyrophoric alloys, n.o.s. | 4.2 | UN1383 | I | 4.2 | B11, T21, TP7, TP33 | None | 187 | 242 | Forbidden | Forbidden | D |
G | Pyrophoric solid, inorganic, n.o.s. | 4.2 | UN3200 | I | 4.2 | T21, TP7, TP33 | None | 187 | 242 | Forbidden | Forbidden | D |
G | Pyrophoric solids, organic, n.o.s. | 4.2 | UN2846 | I | 4.2 |  | None | 187 | 242 | Forbidden | Forbidden | D |
| Pyrosulfuryl chloride | 8 | UN1817 | II | 8 | B2, IB2, T8, TP2, TP12 | 154 | 202 | 242 | 1 L | 30 L | C | 40
| Pyroxylin solution or solvent, see Nitrocellulose |  |  |  |  |  |  |  |  |  |  |  |
| Pyrrolidine | 3 | UN1922 | II | 3, 8 | IB2, T7, TP1 | 150 | 202 | 243 | 1 L | 5 L | B | 40
| Quebrachitol pentanitrate | Forbidden |  |  |  |  |  |  |  |  |  |  |
| Quicklime, see Calcium oxide |  |  |  |  |  |  |  |  |  |  |  |
| Quinoline | 6.1 | UN2656 | III | 6.1 | IB3, T4, TP1 | 153 | 203 | 241 | 60 L | 220 L | A | 12
| R 12, see Dichlorodifluoromethane |  |  |  |  |  |  |  |  |  |  |  |
| R 12B1, see Chlorodifluorobromomethane |  |  |  |  |  |  |  |  |  |  |  |
| R 13, see Chlorotrifluoromethane |  |  |  |  |  |  |  |  |  |  |  |
| R 13B1, see Bromotrifluoromethane |  |  |  |  |  |  |  |  |  |  |  |
| R 14, see Tetrafluoromethane |  |  |  |  |  |  |  |  |  |  |  |
| R 21, see Dichlorofluoromethane |  |  |  |  |  |  |  |  |  |  |  |
| R 22, see Chlorodifluoromethane |  |  |  |  |  |  |  |  |  |  |  |
| R 114, see Dichlorotetrafluoroethane |  |  |  |  |  |  |  |  |  |  |  |
| R 115, see Chloropentafluoroethane |  |  |  |  |  |  |  |  |  |  |  |
| R 116, see Hexafluoroethane |  |  |  |  |  |  |  |  |  |  |  |
| R 124, see Chlorotetrafluoroethane |  |  |  |  |  |  |  |  |  |  |  |
| R 133a, see Chlorotrifluoroethane |  |  |  |  |  |  |  |  |  |  |  |
| R 152a, see Difluoroethane |  |  |  |  |  |  |  |  |  |  |  |
| R 500, see Dichlorodifluoromethane and difluorethane, etc |  |  |  |  |  |  |  |  |  |  |  |
| R 502, see Chlorodifluoromethane and chloropentafluoroethane mixture, etc |  |  |  |  |  |  |  |  |  |  |  |
| R 503, see Chlorotrifluoromethane and trifluoromethane, etc |  |  |  |  |  |  |  |  |  |  |  |
| Radioactive material, excepted package-articles manufactured from natural uranium or depleted uranium or natural thorium | 7 | UN2909 |  | None |  | 422, 426 | 422, 426 | 422, 426 |  |  | A |
| Radioactive material, excepted package-empty packaging | 7 | UN2908 |  | Empty |  | 422, 428 | 422, 428 | 422, 428 |  |  | A |
| Radioactive material, excepted package-instruments or articles | 7 | UN2911 |  | None |  | 422, 424 | 422, 424 |  |  |  | A |
| Radioactive material, excepted package-limited quantity of material | 7 | UN2910 |  | None |  | 421, 422 | 421, 422 | 421, 422 |  |  | A |
| Radioactive material, low specific activity (LSA-I) non fissile or fissile-excepted | 7 | UN2912 |  | 7 | A56, T5, TP4, W7 | 421, 422, 428 | 427 | 427 |  |  | A | 95, 129
| Radioactive material, low specific activity (LSA-II) non fissile or fissile-excepted | 7 | UN3321 |  | 7 | A56, T5, TP4, W7 | 421, 422, 428 | 427 | 427 |  |  | A | 95, 129
| Radioactive material, low specific activity (LSA-III) non fissile or fissile excepted | 7 | UN3322 |  | 7 | A56, T5, TP4, W7 | 421, 422, 428 | 427 | 427 |  |  | A | 95, 129
| Radioactive material, surface contaminated objects (SCO-I or SCO-II) non fissile or fissile-excepted | 7 | UN2913 |  | 7 | A56 | 421, 422, 428 | 427 | 427 |  |  | A | 95
| Radioactive material, transported under special arrangement, non fissile or fissile excepted | 7 | UN2919 |  | 7 | A56, 139 |  |  |  |  |  | A | 95, 105
| Radioactive material, transported under special arrangement, fissile | 7 | UN3331 |  | 7 | A56, 139 |  |  |  |  |  | A | 95, 105
| Radioactive material, Type A package, fissile non-special form | 7 | UN3327 |  | 7 | A56, W7, W8 | 453 | 417 | 417 |  |  | A | 95, 105, 131
| Radioactive material, Type A package non-special form, non fissile or fissile-excepted | 7 | UN2915 |  | 7 | A56, W7, W8 |  | 415 | 415 |  |  | A | 95, 130
| Radioactive material, Type A package, special form non fissile or fissile-excepted | 7 | UN3332 |  | 7 | A56, W7, W8 |  | 415, 476 | 415, 476 |  |  | A | 95
| Radioactive material, Type A package, special form, fissile | 7 | UN3333 |  | 7 | A56, W7, W8 | 453 | 417, 476 | 417, 476 |  |  | A | 95, 105
| Radioactive material, Type B(M) package, fissile | 7 | UN3329 |  | 7 | A56 | 453 | 417 | 417 |  |  | A | 95, 105
| Radioactive material, Type B(M) package non fissile or fissile-excepted | 7 | UN2917 |  | 7 | A56 |  | 416 | 416 |  |  | A | 95, 105
| Radioactive material, Type B(U) package, fissile | 7 | UN3328 |  | 7 | A56 | 453 | 417 | 417 |  |  | A | 95, 105
| Radioactive material, Type B(U) package non fissile or fissile-excepted | 7 | UN2916 |  | 7 | A56 |  | 416 | 416 |  |  | A | 95, 105
| Radioactive material, uranium hexafluoride non fissile or fissile-excepted | 7 | UN2978 |  | 7, 8 |  | 423 | 420, 427 | 420, 427 |  |  | A | 95, 132
I | Radioactive material, uranium hexafluoride, fissile | 7 | UN2977 |  | 7, 8 |  | 453 | 417, 420 | 417, 420 |  |  | A | 95, 132
A W | Rags, oily | 4.2 | UN1856 | III | 4.2 |  | 151 | 213 | 240 | Forbidden | Forbidden | A |
| Railway torpedo, see Signals, railway track, explosive |  |  |  |  |  |  |  |  |  |  |  |
| Rare gases and nitrogen mixtures, compressed | 2.2 | UN1981 |  | 2.2 |  | 306 | 302 | None | 75 kg | 150 kg | A |
| Rare gases and oxygen mixtures, compressed | 2.2 | UN1980 |  | 2.2 | 79 | 306 | 302 | None | 75 kg | 150 kg | A |
| Rare gases mixtures, compressed | 2.2 | UN1979 |  | 2.2 |  | 306 | 302 | None | 75 kg | 150 kg | A |
| RC 318, see Octafluorocyclobutane |  |  |  |  |  |  |  |  |  |  |  |
| RDX and cyclotetramethylenetetranitramine, wetted or desensitized see RDX and HMX mixtures, wetted or desensitized |  |  |  |  |  |  |  |  |  |  |  |
| RDX and HMX mixtures, wetted with not less than 15 percent water by mass or RDX and HMX mixtures, desensitized with not less than 10 percent phlegmatizer by mass | 1.1D | UN0391 | II | 1.1D |  | None | 62 | None | Forbidden | Forbidden | 10 |
| RDX and Octogen mixtures, wetted or desensitized see RDX and HMX mixtures, wetted or desensitized etc |  |  |  |  |  |  |  |  |  |  |  |
| RDX, see Cyclotrimethylene trinitramine, etc |  |  |  |  |  |  |  |  |  |  |  |
| Receptacles, small, containing gas (gas cartridges) flammable, without release device, not refillable and not exceeding 1 L capacity | 2.1 | UN2037 |  | 2.1 |  | 306 | 304 | None | 1 kg | 15 kg | B | 40
| Receptacles, small, containing gas (gas cartridges) non-flammable, without release device, not refillable and not exceeding 1 L capacity | 2.2 | UN2037 |  | 2.2 |  | 306 | 304 | None | 1 kg | 15 kg | B | 40
|  |  |  |  | 2.2, 5.1 | A14 | 306 | 304 | None | 1 kg | 15 kg | B | 40
| Red phosphorus, see Phosphorus, amorphous |  |  |  |  |  |  |  |  |  |  |  |
| Refrigerant gas R 404A | 2.2 | UN3337 |  | 2.2 | T50 | 306 | 304 | 314, 315 | 75 kg | 150 kg | A |
| Refrigerant gas R 407A | 2.2 | UN3338 |  | 2.2 | T50 | 306 | 304 | 314, 315 | 75 kg | 150 kg | A |
| Refrigerant gas R 407B | 2.2 | UN3339 |  | 2.2 | T50 | 306 | 304 | 314, 315 | 75 kg | 150 kg | A |
| Refrigerant gas R 407C | 2.2 | UN3340 |  | 2.2 | T50 | 306 | 304 | 314, 315 | 75 kg | 150 kg | A |
G | Refrigerant gases, n.o.s. | 2.2 | UN1078 |  | 2.2 | T50 | 306 | 304 | 314, 315 | 75 kg | 150 kg | A |
D | Refrigerant gases, n.o.s. or Dispersant gases, n.o.s. | 2.1 | NA1954 |  | 2.1 | T50 | 306 | 304 | 314, 315 | Forbidden | 150 kg | D | 40
| Refrigerating machines, containing flammable, non-toxic, liquefied gas | 2.1 | UN3358 |  | 2.1 |  | 306 | 306 | 306 | Forbidden | Forbidden | C | 40
| Refrigerating machines, containing non-flammable, non-toxic, or ammonia solution (UN2672) | 2.2 | UN2857 |  | 2.2 | A53 | 306, 307 | 306 | 306, 307 | 450 kg | 450 kg | A |
| Regulated medical waste | 6.2 | UN3291 | II | 6.2 | A13 | 134 | 197 | 197 | No limit | No limit | A | 40
| Release devices, explosive | 1.4S | UN0173 | II | 1.4S |  | None | 62 | None | 25 kg | 100 kg | 05 |
| Resin solution, flammable | 3 | UN1866 | I | 3 | B52, T11, TP1, TP8, TP28 | 150 | 201 | 243 | 1 L | 30 L | E |
|  |  |  | II | 3 | 149, B52, IB2, T4, TP1, TP8 | 150 | 173 | 242 | 5 L | 60 L | B |
|  |  |  | III | 3 | B1, B52, IB3, T2, TP1 | 150 | 173 | 242 | 60 L | 220 L | A |
| Resorcinol | 6.1 | UN2876 | III | 6.1 | IB8, IP3, T1, TP33 | 153 | 213 | 240 | 100 kg | 200 kg | A |
| Rifle grenade, see Grenades, hand or rifle, etc |  |  |  |  |  |  |  |  |  |  |  |
| Rifle powder, see Powder, smokeless (UN 0160) |  |  |  |  |  |  |  |  |  |  |  |
| Rivets, explosive | 1.4S | UN0174 | II | 1.4S |  | None | 62 | None | 25 kg | 100 kg | 05 |
| Road asphalt or tar liquid, see Tars, liquid, etc |  |  |  |  |  |  |  |  |  |  |  |
| Rocket motors | 1.3C | UN0186 | II | 1.3C | 109 | None | 62 | None | Forbidden | 220 kg | 03 |
| Rocket motors | 1.1C | UN0280 | II | 1.1C | 109 | None | 62 | None | Forbidden | Forbidden | 03 |
| Rocket motors | 1.2C | UN0281 | II | 1.2C | 109 | None | 62 | None | Forbidden | Forbidden | 03 |
| Rocket motors, liquid fueled | 1.2J | UN0395 | II | 1.2J | 109 | None | 62 | None | Forbidden | Forbidden | 04 | 23E
| Rocket motors, liquid fueled | 1.3J | UN0396 | II | 1.3J | 109 | None | 62 | None | Forbidden | Forbidden | 04 | 23E
| Rocket motors with hypergolic liquids with or without an expelling charge | 1.3L | UN0250 | II | 1.3L | 109 | None | 62 | None | Forbidden | Forbidden | 08 | 8E, 14E, 15E
| Rocket motors with hypergolic liquids with or without an expelling charge | 1.2L | UN0322 | II | 1.2L | 109 | None | 62 | None | Forbidden | Forbidden | 08 | 8E, 14E, 15E
| Rockets, line-throwing | 1.2G | UN0238 | II | 1.2G |  | None | 62 | None | Forbidden | Forbidden | 07 |
| Rockets, line-throwing | 1.3G | UN0240 | II | 1.3G |  | None | 62 | None | Forbidden | 75 kg | 07 |
| Rockets, line-throwing | 1.4G | UN0453 | II | 1.4G |  | None | 62 | None | Forbidden | 75 kg | 06 |
| Rockets, liquid fueled with bursting charge | 1.1J | UN0397 | II | 1.1J |  | None | 62 | None | Forbidden | Forbidden | 04 | 23E
| Rockets, liquid fueled with bursting charge | 1.2J | UN0398 | II | 1.2J |  | None | 62 | None | Forbidden | Forbidden | 04 | 23E
| Rockets, with bursting charge | 1.1F | UN0180 | II | 1.1F |  | None | 62 | None | Forbidden | Forbidden | 08 |
| Rockets, with bursting charge | 1.1E | UN0181 | II | 1.1E |  | None | 62 | None | Forbidden | Forbidden | 03 |
| Rockets, with bursting charge | 1.2E | UN0182 | II | 1.2E |  | None | 62 | None | Forbidden | Forbidden | 03 |
| Rockets, with bursting charge | 1.2F | UN0295 | II | 1.2F |  | None | 62 | None | Forbidden | Forbidden | 08 |
| Rockets, with expelling charge | 1.2C | UN0436 | II | 1.2C |  | None | 62 | None | Forbidden | Forbidden | 03 |
| Rockets, with expelling charge | 1.3C | UN0437 | II | 1.3C |  | None | 62 | None | Forbidden | Forbidden | 03 |
| Rockets, with expelling charge | 1.4C | UN0438 | II | 1.4C |  | None | 62 | None | Forbidden | 75 kg | 02 |
| Rockets, with inert head | 1.3C | UN0183 | II | 1.3C |  | None | 62 | None | Forbidden | Forbidden | 03 |
| Rockets, with inert head | 1.2C | UN0502 |  | 1.2C |  | None | 62 | None | Forbidden | Forbidden | B | 1E, 5E
| Rosin oil | 3 | UN1286 | II | 3 | IB2, T4, TP1 | 150 | 202 | 242 | 5 L | 60 L | B |
|  |  |  | III | 3 | B1, IB3, T2, TP1 | 150 | 203 | 242 | 60 L | 220 L | A |
| Rubber solution | 3 | UN1287 | II | 3 | 149, IB2, T4, TP1, TP8 | 150 | 202 | 242 | 5 L | 60 L | B |
| Rubber scrap or shoddy, powdered or granulated, not exceeding 840 microns and rubber contend exceeding 45% | 4.1 | UN1345 | II | 4.1 | IB8, IP2, IP4, T3, TP33 | 151 | 212 | 240 | 15 kg | 50 kg | A |
| Rubber solution | 3 | UN1287 | III | 3 | B1, IB3, T2, TP1 | 150 | 203 | 242 | 60 L | 220 L | A |
| Rubidium | 4.3 | UN1423 | I | 4.3 | 22, A7, A19, IB4, IP1, N34, N40, N45 | None | 211 | 242 | Forbidden | 15 kg | D | 52
| Rubidium hydroxide | 8 | UN2678 | II | 8 | IB8, IP2, IP4, T3, TP33 | 154 | 212 | 240 | 15 kg | 50 kg | A | 29
| Rubidium hydroxide solution | 8 | UN2677 | II | 8 | B2, IB2, T7, TP2 | 154 | 202 | 242 | 1 L | 30 L | A | 29
|  |  |  | III | 8 | IB3, T4, TP1 | 154 | 203 | 241 | 5 L | 60 L | A | 29
| Safety fuse, see Fuse, safety |  |  |  |  |  |  |  |  |  |  |  |
| Sand acid, see Fluorosilicic acid |  |  |  |  |  |  |  |  |  |  |  |
| Seed cake, containing vegetable oil solvent extractions and expelled seeds, with not more than 10 percent of oil and when the amount of moisture is higher than 11 percent, with not more than 20 percent of oil and moisture combined | 4.2 | UN1386 | III | None | IB8, IP3, IP7, N7 | None | 213 | 241 | Forbidden | Forbidden | A | 13
I | Seed cake with more than 1.5 percent oil and not more than 11 percent moisture | 4.2 | UN1386 | III | None | IB8, IP3, IP7, N7 | None | 213 | 241 | Forbidden | Forbidden | E | 13
I | Seed cake with not more than 1.5 percent oil and not more than 11 percent moisture | 4.2 | UN2217 | III | None | IB8, IP3, IP7, N7 | None | 213 | 241 | Forbidden | Forbidden | A | 13
| Selenates or Selenites | 6.1 | UN2630 | I | 6.1 | IB7, IP1, T6, TP33 | None | 211 | 242 | 5 kg | 50 kg | E |
| Selenic acid | 8 | UN1905 | I | 8 | IB7, IP1, N34, T6, TP33 | None | 211 | 242 | Forbidden | 25 kg | A |
| Selenium compound, solid, n.o.s. | 6.1 | UN3283 | I | 6.1 | IB7, IP1, T6, TP33 | None | 211 | 242 | 5 kg | 50 kg | B |
| Selenium compound, liquid, n.o.s. | 6.1 | UN3440 | I | 6.1 | T14, TP2, TP27 | None | 201 | 243 | 1 L | 30 L | B |
| Selenium compound, solid, n.o.s. | 6.1 | UN3283 | II | 6.1 | IB8, IP2, IP4, T3, TP33 | 153 | 212 | 242 | 25 kg | 100 kg | B |
| Selenium compound, liquid, n.o.s. | 6.1 | UN3440 | II | 6.1 | IB2, T11, TP2, TP27 | 153 | 202 | 243 | 5 L | 60 L | B |
| Selenium compound, solid, n.o.s. | 6.1 | UN3283 | III | 6.1 | IB8, IP3, T1, TP33 | 153 | 213 | 240 | 100 kg | 200 kg | A |
| Selenium compound, liquid, n.o.s. | 6.1 | UN3440 | III | 6.1 | IB3, T7, TP1, TP28 | 153 | 203 | 241 | 60 L | 220 L | A |
| Selenium disulfide | 6.1 | UN2657 | II | 6.1 | IB8, IP2, IP4, T3, TP33 | 153 | 212 | 242 | 25 kg | 100 kg | A |
| Selenium hexafluoride | 2.3 | UN2194 |  | 2.3, 8 | 1 | None | 302 | None | Forbidden | Forbidden | D | 40
| Selenium nitride | Forbidden |  |  |  |  |  |  |  |  |  |  |
| Selenium oxychloride | 8 | UN2879 | I | 8, 6.1 | A3, A6, A7, N34, T10, TP2, TP12, TP13 | None | 201 | 243 | 0.5 L | 2.5 L | E | 40
| Self-defense spray, aerosol, see Aerosols, etc |  |  |  |  |  |  |  |  |  |  |  |
+ A D | Self-defense spray, non-pressurized | 9 | NA3334 | III | 9 | A37 | 155 | 203 | None | No limit | No limit | A |
G | Self-heating liquid, corrosive, inorganic, n.o.s. | 4.2 | UN3188 | II | 4.2, 8 | IB2 | None | 202 | 243 | 1 L | 5 L | C |
|  |  |  | III | 4.2, 8 | IB2 | None | 203 | 241 | 5 L | 60 L | C |
G | Self-heating liquid, corrosive, organic, n.o.s. | 4.2 | UN3185 | II | 4.2, 8 | IB2 | None | 202 | 243 | 1 L | 5 L | C |
|  |  |  | III | 4.2, 8 | IB2 | None | 203 | 241 | 5 L | 60 L | C |
G | Self-heating liquid, inorganic, n.o.s. | 4.2 | UN3186 | II | 4.2 | IB2 | None | 202 | 242 | 1 L | 5 L | C |
|  |  |  | III | 4.2 | IB2 | None | 203 | 241 | 5 L | 60 L | C |
G | Self-heating liquid, organic, n.o.s. | 4.2 | UN3183 | II | 4.2 | IB2 | None | 202 | 242 | 1 L | 5 L | C |
|  |  |  | III | 4.2 | IB2 | None | 203 | 241 | 5 L | 60 L | C |
G | Self-heating liquid, toxic, inorganic, n.o.s. | 4.2 | UN3187 | II | 4.2, 6.1 | IB2 | None | 202 | 243 | 1 L | 5 L | C |
|  |  |  | III | 4.2, 6.1 | IB2 | None | 203 | 241 | 5 L | 60 L | C |
G | Self-heating liquid, toxic, organic, n.o.s. | 4.2 | UN3184 | II | 4.2, 6.1 | IB2 | None | 202 | 243 | 1 L | 5 L | C |
|  |  |  | III | 4.2, 6.1 | IB2 | None | 203 | 241 | 5 L | 60 L | C |
G | Self-heating solid, corrosive, inorganic, n.o.s. | 4.2 | UN3192 | II | 4.2, 8 | IB5, IP2, T3, TP33 | None | 212 | 242 | 15 kg | 50 kg | C |
|  |  |  | III | 4.2, 8 | IB8, IP3, T1, TP33 | None | 213 | 242 | 25 kg | 100 kg | C |
G | Self-heating, solid, corrosive, organic, n.o.s. | 4.2 | UN3126 | II | 4.2, 8 | IB5, IP2, T3, TP33 | None | 212 | 242 | 15 kg | 50 kg | C |
|  |  |  | III | 4.2, 8 | IB8, IP3, T1, TP33 | None | 213 | 242 | 25 kg | 100 kg | C |
G | Self-heating solid, inorganic, n.o.s. | 4.2 | UN3190 | II | 4.2 | IB6, IP2, T3, TP33 | None | 212 | 241 | 15 kg | 50 kg | C |
|  |  |  | III | 4.2 | IB8, IP3, T1, TP33 | None | 213 | 241 | 25 kg | 100 kg | C |
G | Self-heating, solid, organic, n.o.s. | 4.2 | UN3088 | II | 4.2 | IB6, IP2, T3, TP33 | None | 212 | 241 | 15 kg | 50 kg | C |
|  |  |  | III | 4.2 | IB8, IP3, T1, TP33 | None | 213 | 241 | 25 kg | 100 kg | C |
G | Self-heating, solid, oxidizing, n.o.s. | 4.2 | UN3127 |  | 4.2, 5.1 |  | None | 214 | 214 | Forbidden | Forbidden |  |
G | Self-heating solid, toxic, inorganic, n.o.s. | 4.2 | UN3191 | II | 4.2, 6.1 | IB5, IP2, T3, TP33 | None | 212 | 242 | 15 kg | 50 kg | C |
|  |  |  | III | 4.2, 6.1 | IB8, IP3, T1, TP33 | None | 213 | 242 | 25 kg | 100 kg | C |
G | Self-heating, solid, toxic, organic, n.o.s. | 4.2 | UN3128 | II | 4.2, 6.1 | IB5, IP2, T3, TP33 | None | 212 | 242 | 15 kg | 50 kg | C |
|  |  |  | III | 4.2, 6.1 | IB8, IP3, T1, TP33 | None | 213 | 242 | 25 kg | 100 kg | C |
| Self-propelled vehicle, see Engines or Batteries etc |  |  |  |  |  |  |  |  |  |  |  |
G | Self-reactive liquid type B | 4.1 | UN3221 | II | 4.1 | 53 | None | 224 | None | Forbidden | Forbidden | D | 52, 53
G | Self-reactive liquid type B, temperature controlled | 4.1 | UN3231 | II | 4.1 | 53 | None | 224 | None | Forbidden | Forbidden | D | 2, 52, 53
G | Self-reactive liquid type C | 4.1 | UN3223 | II | 4.1 |  | None | 224 | None | 5 L | 10 L | D | 52, 53
G | Self-reactive liquid type C, temperature controlled | 4.1 | UN3233 | II | 4.1 |  | None | 224 | None | Forbidden | Forbidden | D | 2, 52, 53
G | Self-reactive liquid type D | 4.1 | UN3225 | II | 4.1 |  | None | 224 | None | 5 L | 10 L | D | 52, 53
G | Self-reactive liquid type D, temperature controlled | 4.1 | UN3235 | II | 4.1 |  | None | 224 | None | Forbidden | Forbidden | D | 2, 52, 53
G | Self-reactive liquid type E | 4.1 | UN3227 | II | 4.1 |  | None | 224 | None | 10 L | 25 L | D | 52, 53
G | Self-reactive liquid type E, temperature controlled | 4.1 | UN3237 | II | 4.1 |  | None | 224 | None | Forbidden | Forbidden | D | 2, 52, 53
G | Self-reactive liquid type F | 4.1 | UN3229 | II | 4.1 | T23 | None | 224 | None | 10 L | 25 L | D | 52, 53
G | Self-reactive liquid type F, temperature controlled | 4.1 | UN3239 | II | 4.1 |  | None | 224 | None | Forbidden | Forbidden | D | 2, 52, 53
G | Self-reactive solid type B | 4.1 | UN3222 | II | 4.1 | 53 | None | 224 | None | Forbidden | Forbidden | D | 52, 53
G | Self-reactive solid type B, temperature controlled | 4.1 | UN3232 | II | 4.1 | 53 | None | 224 | None | Forbidden | Forbidden | D | 2, 52, 53
G | Self-reactive solid type C | 4.1 | UN3224 | II | 4.1 |  | None | 224 | None | 5 kg | 10 kg | D | 52, 53
G | Self-reactive solid type C, temperature controlled | 4.1 | UN3234 | II | 4.1 |  | None | 224 | None | Forbidden | Forbidden | D | 2, 52, 53
G | Self-reactive solid type D | 4.1 | UN3226 | II | 4.1 |  | None | 224 | None | 5 kg | 10 kg | D | 52, 53
G | Self-reactive solid type D, temperature controlled | 4.1 | UN3236 | II | 4.1 |  | None | 224 | None | Forbidden | Forbidden | D | 2, 52, 53
G | Self-reactive solid type E | 4.1 | UN3228 | II | 4.1 |  | None | 224 | None | 10 kg | 25 kg | D | 52, 53
G | Self-reactive solid type E, temperature controlled | 4.1 | UN3238 | II | 4.1 |  | None | 224 | None | Forbidden | Forbidden | D | 2, 52, 53
G | Self-reactive solid type F | 4.1 | UN3230 | II | 4.1 |  | None | 224 | None | 10 kg | 25 kg | D | 52, 53
G | Self-reactive solid type F, temperature controlled | 4.1 | UN3240 | II | 4.1 |  | None | 224 | None | Forbidden | Forbidden | D | 2, 52, 53
| Shale oil | 3 | UN1288 | I | 3 | T11, TP1, TP8, TP27 | None | 201 | 243 | 1 L | 30 L | B |
|  |  |  | II | 3 | IB2, T4, TP1, TP8 | 150 | 202 | 242 | 5 L | 60 L | B |
|  |  |  | III | 3 | B1, IB3, T2, TP1 | 150 | 203 | 242 | 60 L | 220 L | A |
| Shaped charges, see Charges, shaped, etc |  |  |  |  |  |  |  |  |  |  |  |
| Signal devices, hand | 1.4G | UN0191 | II | 1.4G |  | None | 62 | None | Forbidden | 75 kg | 06 |
| Signal devices, hand | 1.4S | UN0373 | II | 1.4S |  | None | 62 | None | 25 kg | 100 kg | 05 |
| Signals, distress, ship | 1.1G | UN0194 | II | 1.1G |  | None | 62 | None | Forbidden | Forbidden | 07 |
| Signals, distress, ship | 1.3G | UN0195 | II | 1.3G |  | None | 62 | None | Forbidden | 75 kg | 07 |
| Signals, highway, see Signal devices, hand |  |  |  |  |  |  |  |  |  |  |  |
| Signals, railway track, explosive | 1.1G | UN0192 | II | 1.1G |  | None | 62 | None | Forbidden | Forbidden | 07 |
| Signals, railway track, explosive | 1.4S | UN0193 | II | 1.4S |  | None | 62 | None | 25 kg | 100 kg | 05 |
| Signals, railway track, explosive | 1.3G | UN0492 |  | 1.3G |  | None | 62 | None | Forbidden | Forbidden | 07 |
| Signals, railway track, explosive | 1.4G | UN0493 |  | 1.4G |  | None | 62 | None | Forbidden | 75 kg | 06 |
| Signals, ship distress, water-activated, see Contrivances, water-activated, etc |  |  |  |  |  |  |  |  |  |  |  |
| Signals, smoke | 1.1G | UN0196 | II | 1.1G |  | None | 62 | None | Forbidden | Forbidden | 07 |
| Signals, smoke | 1.4G | UN0197 | II | 1.4G |  | None | 62 | None | Forbidden | 75 kg | 06 |
| Signals, smoke | 1.2G | UN0313 | II | 1.2G |  | None | 62 | None | Forbidden | Forbidden | 07 |
| Signals, smoke | 1.3G | UN0487 | II | 1.3G |  | None | 62 | None | Forbidden | Forbidden | 07 |
| Silane | 2.1 | UN2203 |  | 2.1 |  | None | 302 | None | Forbidden | Forbidden | E | 40, 57, 104
| Silicofluoric acid, see Fluorosilicic acid |  |  |  |  |  |  |  |  |  |  |  |
| Silicon chloride, see Silicon tetrachloride |  |  |  |  |  |  |  |  |  |  |  |
| Silicon powder, amorphous | 4.1 | UN1346 | III | 4.1 | A1, IB8, IP3, T1, TP33 | None | 213 | 240 | 25 kg | 100 kg | A | 74
| Silicon tetrachloride | 8 | UN1818 | II | 8 | A3, A6, B2, B6, IB2, T7, TP2, TP7 | 154 | 202 | 242 | 1 L | 30 L | C | 40
| Silicon tetrafluoride | 2.3 | UN1859 |  | 2.3, 8 | 2 | None | 302 | None | Forbidden | Forbidden | D | 40
| Silver acetylide (dry) | Forbidden |  |  |  |  |  |  |  |  |  |  |
| Silver arsenite | 6.1 | UN1683 | II | 6.1 | IB8, IP2, IP4, T3, TP33 | 153 | 212 | 242 | 25 kg | 100 kg | A |
| Silver azide (dry) | Forbidden |  |  |  |  |  |  |  |  |  |  |
| Silver chlorite (dry) | Forbidden |  |  |  |  |  |  |  |  |  |  |
| Silver cyanide | 6.1 | UN1684 | II | 6.1 | IB8, IP2, IP4, T3, TP33 | 153 | 212 | 242 | 25 kg | 100 kg | A | 40, 52
| Silver fulminate (dry) | Forbidden |  |  |  |  |  |  |  |  |  |  |
| Silver nitrate | 5.1 | UN1493 | II | 5.1 | IB8, IP4, T3, TP33 | 152 | 212 | 242 | 5 kg | 25 kg | A |
| Silver oxalate (dry) | Forbidden |  |  |  |  |  |  |  |  |  |  |
| Silver picrate (dry) | Forbidden |  |  |  |  |  |  |  |  |  |  |
| Silver picrate, wetted with not less than 30 percent water, by mass | 4.1 | UN1347 | I | 4.1 | 23 | None | 211 | None | Forbidden | Forbidden | D | 28, 36
| Sludge, acid | 8 | UN1906 | II | 8 | A3, A7, B2, IB2, N34, T8, TP2, TP12, TP28 | None | 202 | 242 | Forbidden | 30 L | C | 14
D | Smokeless powder for small arms (100 pounds or less) | 4.1 | NA3178 | I | 4.1 | 16 | None | 171 | None | Forbidden | 7.3 kg | A |
| Soda lime with more than 4 percent sodium hydroxide | 8 | UN1907 | III | 8 | IB8, IP3, T1, TP33 | 154 | 213 | 240 | 25 kg | 100 kg | A |
| Sodium | 4.3 | UN1428 | I | 4.3 | A7, A8, A19, A20, B9, B48, B68, IB4, IP1, N34, T9, TP7, TP33, TP46 | None | 211 | 244 | Forbidden | 15 kg | D | 52
| Sodium aluminate, solid | 8 | UN2812 | III | 8 | IB8, IP3, T1, TP33 | 154 | 213 | 240 | 25 kg | 100 kg | A |
| Sodium aluminate, solution | 8 | UN1819 | II | 8 | B2, IB2, T7, TP2 | 154 | 202 | 242 | 1 L | 30 L | A |
|  |  |  | III | 8 | IB3, T4, TP1 | 154 | 203 | 241 | 5 L | 60 L | A |
| Sodium aluminum hydride | 4.3 | UN2835 | II | 4.3 | A8, A19, A20, IB4, T3, TP33 | 151 | 212 | 242 | Forbidden | 50 kg | E | 52
| Sodium ammonium vanadate | 6.1 | UN2863 | II | 6.1 | IB8, IP2, IP4, T3, TP33 | 153 | 212 | 242 | 25 kg | 100 kg | A |
| Sodium arsanilate | 6.1 | UN2473 | III | 6.1 | IB8, IP3, T1, TP33 | 153 | 213 | 240 | 100 kg | 200 kg | A |
| Sodium arsenate | 6.1 | UN1685 | II | 6.1 | IB8, IP2, IP4, T3, TP33 | 153 | 212 | 242 | 25 kg | 100 kg | A |
| Sodium arsenite, aqueous solutions | 6.1 | UN1686 | II | 6.1 | IB2, T7, TP2 | 153 | 202 | 243 | 5 L | 60 L | A |
|  |  |  | III | 6.1 | IB3, T4, TP2 | 153 | 203 | 241 | 60 L | 220 L | A |
| Sodium arsenite, solid | 6.1 | UN2027 | II | 6.1 | IB8, IP2, IP4, T3, TP33 | 153 | 212 | 242 | 25 kg | 100 kg | A |
| Sodium azide | 6.1 | UN1687 | II | 6.1 | IB8, IP2, IP4 | 153 | 212 | 242 | 25 kg | 100 kg | A | 36, 52, 91
| Sodium bifluoride, see Sodium hydrogendifluoride |  |  |  |  |  |  |  |  |  |  |  |
| Sodium bisulfite, solution, see Bisulfites, aqueous solutions, n.o.s. |  |  |  |  |  |  |  |  |  |  |  |
| Sodium borohydride | 4.3 | UN1426 | I | 4.3 | N40 | None | 211 | 242 | Forbidden | 15 kg | E | 52
| Sodium borohydride and sodium hydroxide solution, with not more than 12 percent sodium borohydride and not more than 40 percent sodium hydroxide by mass | 8 | UN3320 | II | 8 | B2, IB2, N34, T7, TP2 | 154 | 202 | 242 | 1 L | 30 L | A | 52
|  |  |  | III | 8 | B2, IB3, N34, T4, TP2 | 154 | 203 | 241 | 5 L | 60 L | A | 52
| Sodium bromate | 5.1 | UN1494 | II | 5.1 | IB8, IP4, T3, TP33 | 152 | 212 | 242 | 5 kg | 25 kg | A | 56, 58
| Sodium cacodylate | 6.1 | UN1688 | II | 6.1 | IB8, IP2, IP4, T3, TP33 | 153 | 212 | 242 | 25 kg | 100 kg | A | 52
| Sodium carbonate peroxyhydrate | 5.1 | UN3378 | II | 5.1 | IB8, IP2, IP4, T3, TP33 | 152 | 212 | 240 | 5 kg | 25 kg | A | 13, 48, 75
|  |  |  | III | 5.1 | IB8, IP3, T1, TP33 | 152 | 213 | 240 | 25 kg | 100 kg | A | 13, 48, 75
| Sodium chlorate | 5.1 | UN1495 | II | 5.1 | A9, IB8, IP4, N34, T3, TP33 | 152 | 212 | 240 | 5 kg | 25 kg | A | 56, 58
| Sodium chlorate, aqueous solution | 5.1 | UN2428 | II | 5.1 | A2, IB2, T4, TP1 | 152 | 202 | 241 | 1 L | 5 L | B | 56, 58, 133
|  |  |  | III | 5.1 | A2, IB2, T4, TP1 | 152 | 203 | 241 | 2.5 L | 30 L | B | 56, 58, 69, 133
| Sodium chlorate mixed with dinitrotoluene, see Explosive blasting, type C |  |  |  |  |  |  |  |  |  |  |  |
| Sodium chlorite | 5.1 | UN1496 | II | 5.1 | A9, IB8, IP2, IP4, N34, T3, TP33 | None | 212 | 242 | 5 kg | 25 kg | A | 56, 58
| Sodium chloroacetate | 6.1 | UN2659 | III | 6.1 | IB8, IP3, T1, TP33 | 153 | 213 | 240 | 100 kg | 200 kg | A |
| Sodium cuprocyanide, solid | 6.1 | UN2316 | I | 6.1 | IB7, IP1, T6, TP33 | None | 211 | 242 | 5 kg | 50 kg | A | 52
| Sodium cuprocyanide, solution | 6.1 | UN2317 | I | 6.1 | T14, TP2, TP13 | None | 201 | 243 | 1 L | 30 L | B | 40, 52
| Sodium cyanide, solid | 6.1 | UN1689 | I | 6.1 | B69, B77, IB7, N74, N75, T6, TP33 | None | 211 | 242 | 5 kg | 50 kg | B | 52
| Sodium cyanide solution | 6.1 | UN3414 | I | 6.1 | B69, B77, N74, N75, T14, TP2, TP13 | None | 201 | 243 | 1 L | 30 L | B | 52
|  |  |  | II | 6.1 | B69, B77, IB2, N74, N75, T11, TP2, TP13, TP27 | 153 | 202 | 243 | 5 L | 60 L | B | 52
|  |  |  | III | 6.1 | B69, B77, IB3, N74, N75, T7, TP2, TP13, TP28 | 153 | 203 | 241 | 60 L | 220 L | A | 52
| Sodium dichloroisocyanurate or Sodium dichloro-s-triazinetrione, see Dichloroisocyanuric acid etc |  |  |  |  |  |  |  |  |  |  |  |
| Sodium dinitro-o-cresolate, dry or wetted with less than 15 percent water, by mass | 1.3C | UN0234 | II | 1.3C |  | None | 62 | None | Forbidden | Forbidden | 10 | 5E
| Sodium dinitro-o-cresolate, wetted with not less than 10% water, by mass | 4.1 | UN3369 | I | 4.1 | 162, A8, A19, N41, N84 | None | 211 | None | 0.5 kg | 0.5 kg | E | 36
| Sodium dinitro-o-cresolate, wetted with not less than 15 percent water, by mass | 4.1 | UN1348 | I | 4.1, 6.1 | 23, A8, A19, A20, N41 | None | 211 | None | 1 kg | 15 kg | E | 28, 36
| Sodium dithionite or Sodium hydrosulfite | 4.2 | UN1384 | II | 4.2 | A19, A20, IB6, IP2, T3, TP33 | None | 212 | 241 | 15 kg | 50 kg | E | 13
| Sodium fluoride, solid | 6.1 | UN1690 | III | 6.1 | IB8, IP3, T1, TP33 | 153 | 213 | 240 | 100 kg | 200 kg | A | 52
| Sodium fluoride solution | 6.1 | UN3415 | III | 6.1 | IB3, T4, TP1 | 153 | 203 | 241 | 60 L | 220 L | A | 52
| Sodium fluoroacetate | 6.1 | UN2629 | I | 6.1 | IB7, IP1, T6, TP33 | None | 211 | 242 | 5 kg | 50 kg | E |
| Sodium fluorosilicate | 6.1 | UN2674 | III | 6.1 | IB8, IP3, T1, TP33 | 153 | 213 | 240 | 100 kg | 200 kg | A | 52
| Sodium hydrate, see Sodium hydroxide, solid |  |  |  |  |  |  |  |  |  |  |  |
| Sodium hydride | 4.3 | UN1427 | I | 4.3 | A19, N40 | None | 211 | 242 | Forbidden | 15 kg | E | 52
| Sodium hydrogendifluoride | 8 | UN2439 | II | 8 | IB8, IP2, IP4, N3, N34, T3, TP33 | 154 | 212 | 240 | 15 kg | 50 kg | A | 12, 25, 40, 52
| Sodium hydrosulfide, with less than 25 percent water of crystallization | 4.2 | UN2318 | II | 4.2 | A7, A19, A20, IB6, IP2, T3, TP33 | None | 212 | 241 | 15 kg | 50 kg | A |
| Sodium hydrosulfide with not less than 25 percent water of crystallization | 8 | UN2949 | II | 8 | A7, IB8, IP2, IP4, T7, TP2 | 154 | 212 | 240 | 15 kg | 50 kg | A | 52
| Sodium hydrosulfite, see Sodium dithionite |  |  |  |  |  |  |  |  |  |  |  |
| Sodium hydroxide, solid | 8 | UN1823 | II | 8 | IB8, IP2, IP4, T3, TP33 | 154 | 212 | 240 | 15 kg | 50 kg | A |
| Sodium hydroxide solution | 8 | UN1824 | II | 8 | B2, IB2, N34, T7, TP2 | 154 | 202 | 242 | 1 L | 30 L | A |
|  |  |  | III | 8 | IB3, N34, T4, TP1 | 154 | 203 | 241 | 5 L | 60 L | A |
| Sodium hypochlorite, solution, see Hypochlorite solutions etc |  |  |  |  |  |  |  |  |  |  |  |
| Sodium metal, liquid alloy, see Alkali metal alloys, liquid, n.o.s. |  |  |  |  |  |  |  |  |  |  |  |
| Sodium methylate | 4.2 | UN1431 | II | 4.2, 8 | A7, A19, IB5, IP2, T3, TP33 | None | 212 | 242 | 15 kg | 50 kg | B |
| Sodium methylate solutions in alcohol | 3 | UN1289 | II | 3, 8 | IB2, T7, TP1, TP8 | 150 | 202 | 243 | 1 L | 5 L | B |
|  |  |  | III | 3, 8 | B1, IB3, T4, TP1 | 150 | 203 | 242 | 5 L | 60 L | A |
| Sodium monoxide | 8 | UN1825 | II | 8 | IB8, IP2, IP4, T3, TP33 | 154 | 212 | 240 | 15 kg | 50 kg | A |
| Sodium nitrate | 5.1 | UN1498 | III | 5.1 | A1, A29, IB8, IP3, T1, TP33 | 152 | 213 | 240 | 25 kg | 100 kg | A |
| Sodium nitrate and potassium nitrate mixtures | 5.1 | UN1499 | III | 5.1 | A1, A29, IB8, IP3, T1, TP33 | 152 | 213 | 240 | 25 kg | 100 kg | A |
| Sodium nitrite | 5.1 | UN1500 | III | 5.1, 6.1 | A1, A29, IB8, IP3, T1, TP33 | 152 | 213 | 240 | 25 kg | 100 kg | A | 56, 58
| Sodium pentachlorophenate | 6.1 | UN2567 | II | 6.1 | IB8, IP2, IP4, T3, TP33 | 153 | 212 | 242 | 25 kg | 100 kg | A |
| Sodium perborate monohydrate | 5.1 | UN3377 | III | 5.1 | IB8, IP3, T1, TP33 | 152 | 213 | 240 | 25 kg | 100 kg | A | 13, 48, 75
| Sodium perchlorate | 5.1 | UN1502 | II | 5.1 | IB6, IP2, T3, TP33 | 152 | 212 | 242 | 5 kg | 25 kg | A | 56, 58
| Sodium permanganate | 5.1 | UN1503 | II | 5.1 | IB6, IP2, T3, TP33 | 152 | 212 | 242 | 5 kg | 25 kg | D | 56, 58, 138
| Sodium peroxide | 5.1 | UN1504 | I | 5.1 | A20, IB5, IP1, N34 | None | 211 | None | Forbidden | 15 kg | B | 13, 52, 66, 75
| Sodium peroxoborate, anhydrous | 5.1 | UN3247 | II | 5.1 | IB8, IP4, T3, TP33 | 152 | 212 | 240 | 5 kg | 25 kg | A | 13, 25
| Sodium persulfate | 5.1 | UN1505 | III | 5.1 | A1, IB8, IP3, T1, TP33 | 152 | 213 | 240 | 25 kg | 100 kg | A | 56, 58
| Sodium phosphide | 4.3 | UN1432 | I | 4.3, 6.1 | A19, N40 | None | 211 | None | Forbidden | 15 kg | E | 40, 52, 85
| Sodium picramate, dry or wetted with less than 20 percent water, by mass | 1.3C | UN0235 | II | 1.3C |  | None | 62 | None | Forbidden | Forbidden | 10 | 5E
| Sodium picramate, wetted with not less than 20 percent water, by mass | 4.1 | UN1349 | I | 4.1 | 23, A8, A19, N41 | None | 211 | None | Forbidden | 15 kg | E | 28, 36
| Sodium picryl peroxide | Forbidden |  |  |  |  |  |  |  |  |  |  |
| Sodium potassium alloys, see Potassium sodium alloys |  |  |  |  |  |  |  |  |  |  |  |
| Sodium selenate, see Selenates or Selenites |  |  |  |  |  |  |  |  |  |  |  |
| Sodium sulfide, anhydrous or Sodium sulfide with less than 30 percent water of crystallization | 4.2 | UN1385 | II | 4.2 | A19, A20, IB6, IP2, N34, T3, TP33 | None | 212 | 241 | 15 kg | 50 kg | A | 52
| Sodium sulfide, hydrated with not less than 30 percent water | 8 | UN1849 | II | 8 | IB8, IP2, IP4, T3, TP33 | 154 | 212 | 240 | 15 kg | 50 kg | A | 26
| Sodium superoxide | 5.1 | UN2547 | I | 5.1 | A20, IB6, IP1, N34 | None | 211 | None | Forbidden | 15 kg | E | 13, 52, 66, 75
| Sodium tetranitride | Forbidden |  |  |  |  |  |  |  |  |  |  |
G | Solids containing corrosive liquid, n.o.s. | 8 | UN3244 | II | 8 | 49, IB5, T3, TP33 | 154 | 212 | 240 | 15 kg | 50 kg | B | 40
G | Solids containing flammable liquid, n.o.s. | 4.1 | UN3175 | II | 4.1 | 47, IB6, IP2, T3, TP33 | 151 | 212 | 240 | 15 kg | 50 kg | B |
G | Solids containing toxic liquid, n.o.s. | 6.1 | UN3243 | II | 6.1 | 48, IB2, T2, TP33 | 153 | 212 | 240 | 25 kg | 100 kg | B | 40
| Sounding devices, explosive | 1.2F | UN0204 | II | 1.2F |  | None | 62 | None | Forbidden | Forbidden | 08 |
| Sounding devices, explosive | 1.1F | UN0296 | II | 1.1F |  | None | 62 | None | Forbidden | Forbidden | 08 |
| Sounding devices, explosive | 1.1D | UN0374 | II | 1.1D |  | None | 62 | None | Forbidden | Forbidden | 07 |
| Sounding devices, explosive | 1.2D | UN0375 | II | 1.2D |  | None | 62 | None | Forbidden | Forbidden | 07 |
| Spirits of salt, see Hydrochloric acid |  |  |  |  |  |  |  |  |  |  |  |
| Squibs, see Igniters etc |  |  |  |  |  |  |  |  |  |  |  |
| Stannic chloride, anhydrous | 8 | UN1827 | II | 8 | B2, IB2, T7, TP2 | 154 | 202 | 242 | 1 L | 30 L | C |
| Stannic chloride pentahydrate | 8 | UN2440 | III | 8 | IB8, IP3, T1, TP33 | 154 | 213 | 240 | 25 kg | 100 kg | A |
| Stannic phosphide | 4.3 | UN1433 | I | 4.3, 6.1 | A19, N40 | None | 211 | 242 | Forbidden | 15 kg | E | 40, 52, 85
| Steel swarf, see Ferrous metal borings, etc |  |  |  |  |  |  |  |  |  |  |  |
| Stibine | 2.3 | UN2676 |  | 2.3, 2.1 | 1 | None | 304 | None | Forbidden | Forbidden | D | 40
| Storage batteries, wet, see Batteries, wet etc |  |  |  |  |  |  |  |  |  |  |  |
| Strontium arsenite | 6.1 | UN1691 | II | 6.1 | IB8, IP2, IP4, T3, TP33 | 153 | 212 | 242 | 25 kg | 100 kg | A |
| Strontium chlorate | 5.1 | UN1506 | II | 5.1 | A1, A9, IB8, IP2, IP4, N34, T3, TP33 | 152 | 212 | 242 | 5 kg | 25 kg | A | 56, 58
| Strontium nitrate | 5.1 | UN1507 | III | 5.1 | A1, A29, IB8, IP3, T1, TP33 | 152 | 213 | 240 | 25 kg | 100 kg | A |
| Strontium perchlorate | 5.1 | UN1508 | II | 5.1 | IB6, IP2, T3, TP33 | 152 | 212 | 242 | 5 kg | 25 kg | A | 56, 58
| Strontium peroxide | 5.1 | UN1509 | II | 5.1 | IB6, IP2, T3, TP33 | 152 | 212 | 242 | 5 kg | 25 kg | A | 13, 52, 66, 75
| Strontium phosphide | 4.3 | UN2013 | I | 4.3, 6.1 | A19, N40 | None | 211 | None | Forbidden | 15 kg | E | 40, 52, 85
| Strychnine or Strychnine salts | 6.1 | UN1692 | I | 6.1 | IB7, IP1, T6, TP33 | None | 211 | 242 | 5 kg | 50 kg | A | 40
| Styphnic acid, see Trinitroresorcinol, etc |  |  |  |  |  |  |  |  |  |  |  |
| Styrene monomer, stabilized | 3 | UN2055 | III | 3 | B1, IB3, T2, TP1 | 150 | 203 | 242 | 60 L | 220 L | A |
G | Substances, explosive, n.o.s. | 1.1L | UN0357 | II | 1.1L | 101 | None | 62 | None | Forbidden | Forbidden |  | 8E, 14E, 15E, 17E
G | Substances, explosive, n.o.s. | 1.2L | UN0358 | II | 1.2L | 101 | None | 62 | None | Forbidden | Forbidden |  | 8E, 14E, 15E, 17E
G | Substances, explosive, n.o.s. | 1.3L | UN0359 | II | 1.3L | 101 | None | 62 | None | Forbidden | Forbidden |  | 8E, 14E, 15E, 17E
G | Substances, explosive, n.o.s. | 1.1A | UN0473 | II | 1.1A | 101, 111 | None | 62 | None | Forbidden | Forbidden | 12 |
G | Substances, explosive, n.o.s. | 1.1C | UN0474 | II | 1.1C | 101 | None | 62 | None | Forbidden | Forbidden | 10 |
G | Substances, explosive, n.o.s. | 1.1D | UN0475 | II | 1.1D | 101 | None | 62 | None | Forbidden | Forbidden | 10 |
G | Substances, explosive, n.o.s. | 1.1G | UN0476 | II | 1.1G | 101 | None | 62 | None | Forbidden | Forbidden | 08 |
G | Substances, explosive, n.o.s. | 1.3C | UN0477 | II | 1.3C | 101 | None | 62 | None | Forbidden | Forbidden | 10 |
G | Substances, explosive, n.o.s. | 1.3G | UN0478 | II | 1.3G | 101 | None | 62 | None | Forbidden | Forbidden | 08 |
G | Substances, explosive, n.o.s. | 1.4C | UN0479 | II | 1.4C | 101 | None | 62 | None | Forbidden | 75 kg | 09 |
G | Substances, explosive, n.o.s. | 1.4D | UN0480 | II | 1.4D | 101 | None | 62 | None | Forbidden | 75 kg | 09 |
G | Substances, explosive, n.o.s. | 1.4S | UN0481 | II | 1.4S | 101 | None | 62 | None | 25 kg | 75 kg | 05 |
G | Substances, explosive, n.o.s. | 1.4G | UN0485 | II | 1.4G | 101 | None | 62 | None | Forbidden | 75 kg | 08 |
G | Substances, explosive, very insensitive, n.o.s., or Substances, EVI, n.o.s. | 1.5D | UN0482 | II | 1.5D | 101 | None | 62 | None | Forbidden | Forbidden | 10 |
| Substituted nitrophenol pesticides, liquid, flammable, toxic, flash point less than 23 degrees C | 3 | UN2780 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Substituted nitrophenol pesticides, liquid, toxic | 6.1 | UN3014 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Substituted nitrophenol pesticides, liquid, toxic, flammable, flash point not less than 23 degrees C | 6.1 | UN3013 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | B1, IB3, T7, TP2, TP28 | 153 | 203 | 242 | 60 L | 220 L | A | 40
| Substituted nitrophenol pesticides, solid, toxic | 6.1 | UN2779 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Sucrose octanitrate (dry) | Forbidden |  |  |  |  |  |  |  |  |  |  |
| Sulfamic acid | 8 | UN2967 | III | 8 | IB8, IP3, T1, TP33 | 154 | 213 | 240 | 25 kg | 100 kg | A |
D | Sulfur | 9 | NA1350 | III | 9 | 10, IB8, IP2 | None | None | 240 | No limit | No limit | A | 19, 74
I | Sulfur | 4.1 | UN1350 | III | 4.1 | 30, IB8, IP3, T1, TP33 | None | None | 240 | No limit | No limit | A | 19, 74
| Sulfur and chlorate, loose mixtures of | Forbidden |  |  |  |  |  |  |  |  |  |  |
| Sulfur chlorides | 8 | UN1828 | I | 8 | 5, A3, A7, A10, B10, B77, N34, T20, TP2, TP12 | None | 201 | 243 | Forbidden | 2.5 L | C | 40
| Sulfur dichloride, see Sulfur chlorides |  |  |  |  |  |  |  |  |  |  |  |
| Sulfur dioxide | 2.3 | UN1079 |  | 2.3, 8 | 3, B14, T50, TP19 | None | 304 | 314, 315 | Forbidden | Forbidden | D | 40
| Sulfur dioxide solution, see Sulfurous acid |  |  |  |  |  |  |  |  |  |  |  |
| Sulfur hexafluoride | 2.2 | UN1080 |  | 2.2 |  | 306 | 304 | 314, 315 | 75 kg | 150 kg | A |
D | Sulfur, molten | 9 | NA2448 | III | 9 | 30, IB3, T1, TP3 | None | 213 | 247 | Forbidden | Forbidden | C | 61
I | Sulfur, molten | 4.1 | UN2448 | III | 4.1 | 30, IB1, T1, TP3 | None | 213 | 247 | Forbidden | Forbidden | C | 61
| Sulfur tetrafluoride | 2.3 | UN2418 |  | 2.3, 8 | 1 | None | 302 | 245 | Forbidden | Forbidden | D | 40, 52
+ | Sulfur trioxide, stabilized | 8 | UN1829 | I | 8, 6.1 | 2, B9, B14, B32, B49, B74, B77, N34, T20, TP4, TP12, TP13, TP25, TP26, TP38, TP45 | None | 227 | 244 | Forbidden | Forbidden | A | 40
| Sulfuretted hydrogen, see Hydrogen sulfide |  |  |  |  |  |  |  |  |  |  |  |
| Sulfuric acid, fuming with less than 30 percent free sulfur trioxide | 8 | UN1831 | I | 8 | B84, N34, T20, TP2, TP12, TP13 | None | 201 | 243 | Forbidden | 2.5 L | C | 14, 40
+ | Sulfuric acid, fuming with 30 percent or more free sulfur trioxide | 8 | UN1831 | I | 8, 6.1 | 2, A3, A6, A7, B9, B14, B32, B74, B77, B84, N34, T20, TP2, TP12, TP13 | None | 227 | 244 | Forbidden | Forbidden | C | 14, 40
| Sulfuric acid, spent | 8 | UN1832 | II | 8 | A3, A7, B2, B83, B84, IB2, N34, T8, TP2, TP12 | None | 202 | 242 | Forbidden | 30 L | C | 14
| Sulfuric acid with more than 51 percent acid | 8 | UN1830 | II | 8 | A3, A7, B3, B83, B84, IB2, N34, T8, TP2, TP12 | 154 | 202 | 242 | 1 L | 30 L | C | 14
| Sulfuric acid with not more than 51% acid | 8 | UN2796 | II | 8 | A3, A7, B2, B15, IB2, N6, N34, T8, TP2, TP12 | 154 | 202 | 242 | 1 L | 30 L | B |
| Sulfuric and hydrofluoric acid mixtures, see Hydrofluoric and sulfuric acid mixtures |  |  |  |  |  |  |  |  |  |  |  |
| Sulfuric anhydride, see Sulfur trioxide, stabilized |  |  |  |  |  |  |  |  |  |  |  |
| Sulfurous acid | 8 | UN1833 | II | 8 | B3, IB2, T7, TP2 | 154 | 202 | 242 | 1 L | 30 L | B | 40
+ | Sulfuryl chloride | 8 | UN1834 | I | 8, 6.1 | 1, B6, B9, B10, B14, B30, B74, B77, N34, T22, TP2, TP12, TP38, TP44 | None | 226 | 244 | Forbidden | Forbidden | C | 40
| Sulfuryl fluoride | 2.3 | UN2191 |  | 2.3 | 4 | None | 304 | 314, 315 | Forbidden | Forbidden | D | 40
| Tars, liquid including road asphalt and oils, bitumen and cut backs | 3 | UN1999 | II | 3 | 149, B13, IB2, T3, TP3, TP29 | 150 | 202 | 242 | 5 L | 60 L | B |
|  |  |  | III | 3 | B1, B13, IB3, T1, TP3 | 150 | 203 | 242 | 60 L | 220 L | A |
| Tear gas candles | 6.1 | UN1700 | II | 6.1, 4.1 |  | None | 340 | None | Forbidden | 50 kg | D | 40
| Tear gas cartridges, see Ammunition, tear-producing, etc |  |  |  |  |  |  |  |  |  |  |  |
D | Tear gas devices with more than 2 percent tear gas substances, by mass | 6.1 | NA1693 | I | 6.1 |  | None | 340 | None | Forbidden | Forbidden | D | 40
|  |  |  | II | 6.1 |  | None | 340 | None | Forbidden | Forbidden | D | 40
| Tear gas devices, with not more than 2 percent tear gas substances, by mass, see Aerosols, etc |  |  |  |  |  |  |  |  |  |  |  |
| Tear gas grenades, see Tear gas candles |  |  |  |  |  |  |  |  |  |  |  |
G | Tear gas substances, liquid, n.o.s. | 6.1 | UN1693 | I | 6.1 |  | None | 201 | None | Forbidden | Forbidden | D | 40
|  |  |  | II | 6.1 | IB2 | None | 202 | None | Forbidden | 5 L | D | 40
G | Tear gas substance, solid, n.o.s. | 6.1 | UN3448 | I | 6.1 | T6, TP33 | None | 211 | 242 | Forbidden | Forbidden | D | 40
|  |  |  | II | 6.1 | IB8, IP2, IP4, T3, TP33 | None | 212 | 242 | Forbidden | 25 kg | D | 40
| Tellurium compound, n.o.s. | 6.1 | UN3284 | I | 6.1 | IB7, IP1, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
| Tellurium hexafluoride | 2.3 | UN2195 |  | 2.3, 8 | 1 | None | 302 | None | Forbidden | Forbidden | D | 40
| Terpene hydrocarbons, n.o.s. | 3 | UN2319 | III | 3 | B1, IB3, T4, TP1, TP29 | 150 | 203 | 242 | 60 L | 220 L | A |
| Terpinolene | 3 | UN2541 | III | 3 | B1, IB3, T2, TP1 | 150 | 203 | 242 | 60 L | 220 L | A |
| Tetraazido benzene quinone | Forbidden |  |  |  |  |  |  |  |  |  |  |
| Tetrabromoethane | 6.1 | UN2504 | III | 6.1 | IB3, T4, TP1 | 153 | 203 | 241 | 60 L | 220 L | A |
| 1,1,2,2-Tetrachloroethane | 6.1 | UN1702 | II | 6.1 | IB2, N36, T7, TP2 | 153 | 202 | 243 | 5 L | 60 L | A | 40
| Tetrachloroethylene | 6.1 | UN1897 | III | 6.1 | IB3, N36, T4, TP1 | 153 | 203 | 241 | 60 L | 220 L | A | 40
| Tetraethyl dithiopyrophosphate | 6.1 | UN1704 | II | 6.1 | IB2, T7, TP2 | 153 | 212 | 242 | 25 kg | 100 kg | D | 40
| Tetraethyl silicate | 3 | UN1292 | III | 3 | B1, IB3, T2, TP1 | 150 | 203 | 242 | 60 L | 220 L | A |
| Tetraethylammonium perchlorate (dry) | Forbidden |  |  |  |  |  |  |  |  |  |  |
| Tetraethylenepentamine | 8 | UN2320 | III | 8 | IB3, T4, TP1 | 154 | 203 | 241 | 5 L | 60 L | A |
| 1,1,1,2-Tetrafluoroethane or Refrigerant gas R 134a | 2.2 | UN3159 |  | 2.2 | T50 | 306 | 304 | 314, 315 | 75 kg | 150 kg | A |
| Tetrafluoroethylene, stabilized | 2.1 | UN1081 |  | 2.1 |  | 306 | 304 | None | Forbidden | 150 kg | E | 40
| Tetrafluoromethane or Refrigerant gas R 14 | 2.2 | UN1982 |  | 2.2 |  | None | 302 | None | 75 kg | 150 kg | A |
| 1,2,3,6-Tetrahydrobenzaldehyde | 3 | UN2498 | III | 3 | B1, IB3, T2, TP1 | 150 | 203 | 242 | 60 L | 220 L | A |
| Tetrahydrofuran | 3 | UN2056 | II | 3 | IB2, T4, TP1 | None | 202 | 242 | 5 L | 60 L | B |
| Tetrahydrofurfurylamine | 3 | UN2943 | III | 3 | B1, IB3, T2, TP1 | 150 | 203 | 242 | 60 L | 220 L | A |
| Tetrahydrophthalic anhydrides with more than 0.05 percent of maleic anhydride | 8 | UN2698 | III | 8 | IB8, IP3, T1, TP33 | 154 | 213 | 240 | 25 kg | 100 kg | A |
| 1,2,3,6-Tetrahydropyridine | 3 | UN2410 | II | 3 | IB2, T4, TP1 | 150 | 202 | 242 | 5 L | 60 L | B |
| Tetrahydrothiophene | 3 | UN2412 | II | 3 | IB2, T4, TP1 | 150 | 202 | 242 | 5 L | 60 L | B |
| Tetramethylammonium hydroxide, solid | 8 | UN3423 | II | 8 | B2, IB8, IP2, IP4, T3, TP33 | 154 | 213 | 240 | 15 kg | 50 kg | A | 52
| Tetramethylammonium hydroxide solution | 8 | UN1835 | II | 8 | B2, IB2, T7, TP2 | 154 | 202 | 242 | 1 L | 30 L | A | 52
|  |  |  | III | 8 | B2, IB3, T7, TP2 | 154 | 203 | 241 | 5 L | 60 L | A | 52
| Tetramethylene diperoxide dicarbamide | Forbidden |  |  |  |  |  |  |  |  |  |  |
| Tetramethylsilane | 3 | UN2749 | I | 3 | A7, T14, TP2 | None | 201 | 243 | Forbidden | 30 L | D |
| Tetranitro diglycerin | Forbidden |  |  |  |  |  |  |  |  |  |  |
| Tetranitroaniline | 1.1D | UN0207 | II | 1.1D |  | None | 62 | None | Forbidden | Forbidden | 10 |
+ | Tetranitromethane | 5.1 | UN1510 | I | 5.1, 6.1 | 2, B9, B14, B32, B74, T20, TP2, TP13, TP38, TP44 | None | 227 | None | Forbidden | Forbidden | D | 40, 66
| 2,3,4,6-Tetranitrophenol | Forbidden |  |  |  |  |  |  |  |  |  |  |
| 2,3,4,6-Tetranitrophenyl methyl nitramine | Forbidden |  |  |  |  |  |  |  |  |  |  |
| 2,3,4,6-Tetranitrophenylnitramine | Forbidden |  |  |  |  |  |  |  |  |  |  |
| Tetranitroresorcinol (dry) | Forbidden |  |  |  |  |  |  |  |  |  |  |
| 2,3,5,6-Tetranitroso-1,4-dinitrobenzene | Forbidden |  |  |  |  |  |  |  |  |  |  |
| 2,3,5,6-Tetranitroso nitrobenzene (dry) | Forbidden |  |  |  |  |  |  |  |  |  |  |
| Tetrapropylorthotitanate | 3 | UN2413 | III | 3 | B1, IB3, T4, TP1 | 150 | 203 | 242 | 60 L | 220 L | A |
| Tetrazene, see Guanyl nitrosaminoguanyltetrazene |  |  |  |  |  |  |  |  |  |  |  |
| Tetrazine (dry) | Forbidden |  |  |  |  |  |  |  |  |  |  |
| Tetrazol-1-acetic acid | 1.4C | UN0407 | II | 1.4C |  | None | 62 | None | Forbidden | 75 kg | 09 |
| 1H-Tetrazole | 1.1D | UN0504 |  | 1.1D |  | None | 62 | None | Forbidden | Forbidden | B | 1E, 5E
| Tetrazolyl azide (dry) | Forbidden |  |  |  |  |  |  |  |  |  |  |
| Tetryl, see Trinitrophenylmethylnitramine |  |  |  |  |  |  |  |  |  |  |  |
A I W | Textile waste, wet | 4.2 | UN1857 | III | 4.2 |  | 151 | 213 | 240 | Forbidden | Forbidden | A |
| Thallium chlorate | 5.1 | UN2573 | II | 5.1, 6.1 | IB6, IP2, T3, TP33 | 152 | 212 | 242 | 5 kg | 25 kg | A | 56, 58
| Thallium compounds, n.o.s. | 6.1 | UN1707 | II | 6.1 | IB8, IP2, IP4, T3, TP33 | 153 | 212 | 242 | 25 kg | 100 kg | A |
| Thallium nitrate | 6.1 | UN2727 | II | 6.1, 5.1 | IB6, IP2, T3, TP33 | 153 | 212 | 242 | 5 kg | 25 kg | A |
| 4-Thiapentanal | 6.1 | UN2785 | III | 6.1 | IB3, T4, TP1 | 153 | 203 | 241 | 60 L | 220 L | D | 25, 49
| Thioacetic acid | 3 | UN2436 | II | 3 | IB2, T4, TP1 | 150 | 202 | 242 | 5 L | 60 L | B |
| Thiocarbamate pesticide, liquid, flammable, toxic, flash point less than 23 degrees C | 3 | UN2772 | I | 3, 6.1 | T14, TP2, TP13, TP27 | None | 201 | 243 | Forbidden | 30 L | B | 40
|  |  |  | II | 3, 6.1 | IB2, T11, TP13, TP27 | 150 | 202 | 243 | 1 L | 60 L | B | 40
| Thiocarbamate pesticide, liquid, toxic, flammable, flash point not less than 23 degrees C | 6.1 | UN3005 | I | 6.1, 3 | T14, TP2, TP13 | None | 201 | 243 | 1 L | 30 L | B | 40
|  |  |  | II | 6.1, 3 | IB2, T11, TP2, TP13, TP27 | 153 | 202 | 243 | 5 L | 60 L | B | 40
|  |  |  | III | 6.1, 3 | IB3, T7, TP2, TP28 | 153 | 203 | 242 | 60 L | 220 L | A | 40
| Thiocarbamate pesticide, liquid, toxic | 6.1 | UN3006 | I | 6.1 | T14, TP2, TP13 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Thiocarbamate pesticides, solid, toxic | 6.1 | UN2771 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Thiocarbonylchloride, see Thiophosgene |  |  |  |  |  |  |  |  |  |  |  |
| Thioglycol | 6.1 | UN2966 | II | 6.1 | IB2, T7, TP2 | 153 | 202 | 243 | 5 L | 60 L | A |
| Thioglycolic acid | 8 | UN1940 | II | 8 | A7, B2, IB2, N34, T7, TP2 | 154 | 202 | 242 | 1 L | 30 L | A |
| Thiolactic acid | 6.1 | UN2936 | II | 6.1 | IB2, T7, TP2 | 153 | 202 | 243 | 5 L | 60 L | A |
| Thionyl chloride | 8 | UN1836 | I | 8 | B6, B10, N34, T10, TP2, TP12, TP13 | None | 201 | 243 | Forbidden | Forbidden | C | 40
| Thiophene | 3 | UN2414 | II | 3 | IB2, T4, TP1 | 150 | 202 | 242 | 5 L | 60 L | B | 40
+ | Thiophosgene | 6.1 | UN2474 | II | 6.1 | 2, B9, B14, B32, B74, N33, N34, T20, TP2, TP38, TP45 | None | 227 | 244 | Forbidden | Forbidden | B | 40, 52
| Thiophosphoryl chloride | 8 | UN1837 | II | 8 | A3, A7, B2, B8, B25, IB2, N34, T7, TP2 | None | 202 | 242 | Forbidden | 30 L | C | 40
| Thiourea dioxide | 4.2 | UN3341 | II | 4.2 | IB6, IP2, T3, TP33 | None | 212 | 241 | 15 kg | 50 kg | D |
|  |  |  | III | 4.2 | IB8, IP3, T1, TP33 | None | 213 | 241 | 25 kg | 100 kg | D |
| Tin chloride, fuming, see Stannic chloride, anhydrous |  |  |  |  |  |  |  |  |  |  |  |
| Tin perchloride or Tin tetrachloride, see Stannic chloride, anhydrous |  |  |  |  |  |  |  |  |  |  |  |
| Tinctures, medicinal | 3 | UN1293 | II | 3 | IB2, T4, TP1, TP8 | 150 | 202 | 242 | 5 L | 60 L | B |
|  |  |  | III | 3 | B1, IB3, T2, TP1 | 150 | 203 | 242 | 60 L | 220 L | A |
| Tinning flux, see Zinc chloride |  |  |  |  |  |  |  |  |  |  |  |
| Titanium disulphide | 4.2 | UN3174 | III | 4.2 | IB8, IP3, T1, TP33 | None | 213 | 241 | 25 kg | 100 kg | A |
| Titanium hydride | 4.1 | UN1871 | II | 4.1 | A19, A20, IB4, N34, T3, TP33 | None | 212 | 241 | 15 kg | 50 kg | E |
| Titanium powder, dry | 4.2 | UN2546 | I | 4.2 |  | None | 211 | 242 | Forbidden | Forbidden | D |
|  |  |  | II | 4.2 | A19, A20, IB6, IP2, N5, N34, T3, TP33 | None | 212 | 241 | 15 kg | 50 kg | D |
|  |  |  | III | 4.2 | IB8, IP3, T1, TP33 | None | 213 | 241 | 25 kg | 100 kg | D |
| Titanium powder, wetted with not less than 25 percent water (a visible excess of water must be present) (a) mechanically produced, particle size less than 53 microns; (b) chemically produced, particle size less than 840 microns | 4.1 | UN1352 | II | 4.1 | A19, A20, IB6, IP2, N34, T3, TP33 | None | 212 | 240 | 15 kg | 50 kg | E | 74
| Titanium sponge granules or Titanium sponge powders | 4.1 | UN2878 | III | 4.1 | A1, IB8, IP3, T1, TP33 | None | 213 | 240 | 25 kg | 100 kg | D | 74
+ | Titanium tetrachloride | 8 | UN1838 | II | 8, 6.1 | 2, B7, B9, B14, B32, B74, B77, T20, TP2, TP13, TP38, TP45 | None | 227 | 244 | Forbidden | Forbidden | C | 40
| Titanium trichloride mixtures | 8 | UN2869 | II | 8 | A7, IB8, IP2, IP4, N34, T3, TP33 | 154 | 212 | 240 | 15 kg | 50 kg | A | 40
|  |  |  | III | 8 | A7, IB8, IP3, N34, T1, TP33 | 154 | 213 | 240 | 25 kg | 100 kg | A | 40
| Titanium trichloride, pyrophoric or Titanium trichloride mixtures, pyrophoric | 4.2 | UN2441 | I | 4.2, 8 | N34 | None | 181 | 244 | Forbidden | Forbidden | D | 40
| TNT mixed with aluminum, see Tritonal |  |  |  |  |  |  |  |  |  |  |  |
| TNT, see Trinitrotoluene, etc |  |  |  |  |  |  |  |  |  |  |  |
| Toluene | 3 | UN1294 | II | 3 | IB2, T4, TP1 | 150 | 202 | 242 | 5 L | 60 L | B |
+ | Toluene diisocyanate | 6.1 | UN2078 | II | 6.1 | IB2, T7, TP2, TP13 | 153 | 202 | 243 | 5 L | 60 L | D | 25, 40
| Toluene sulfonic acid, see Alkyl, or Aryl sulfonic acid etc |  |  |  |  |  |  |  |  |  |  |  |
+ | Toluidines, liquid | 6.1 | UN1708 | II | 6.1 | IB2, T7, TP2 | 153 | 202 | 243 | 5 L | 60 L | A |
| Toluidines, solid | 6.1 | UN3451 | II | 6.1 | IB8, IP2, IP4, T3, TP33 | 153 | 212 | 242 | 25 kg | 100 kg | A |
| 2,4-Toluylenediamine, solid or 2,4-Toluenediamine, solid | 6.1 | UN1709 | III | 6.1 | IB8, IP3, T1, TP33 | 153 | 213 | 240 | 100 kg | 200 kg | A |
| 2,4-Toluylenediamine solution or 2,4-Toluenediamine solution | 6.1 | UN3418 | III | 6.1 | IB3, T4, TP1 | 153 | 203 | 241 | 60 L | 220 L | A |
| Torpedoes, liquid fueled, with inert head | 1.3J | UN0450 | II | 1.3J |  |  | 62 | None | Forbidden | Forbidden | 04 | 23E
| Torpedoes, liquid fueled, with or without bursting charge | 1.1J | UN0449 | II | 1.1J |  |  | 62 | None | Forbidden | Forbidden | 04 | 23E
| Torpedoes with bursting charge | 1.1E | UN0329 | II | 1.1E |  |  | 62 | None | Forbidden | Forbidden | 03 |
| Torpedoes with bursting charge | 1.1F | UN0330 | II | 1.1F |  |  | 62 | None | Forbidden | Forbidden | 08 |
| Torpedoes with bursting charge | 1.1D | UN0451 | II | 1.1D |  |  | 62 | None | Forbidden | Forbidden | 03 |
G | Toxic by inhalation liquid, n.o.s. with an inhalation toxicity lower than or equal to 200 ml/m3 and saturated vapor concentration greater than or equal to 500 LC50 | 6.1 | UN3381 | I | 6.1 | 1, B9, B14, B30, B72, T22, TP2, TP13, TP27, TP38, TP44 | None | 226 | 244 | Forbidden | Forbidden | D | 40
G | Toxic by inhalation liquid, n.o.s. with an inhalation toxicity toxicity lower than or equal to 1000 ml/m3 and saturated vapor concentration greater than or equal to 10 LC50 | 6.1 | UN3382 | I | 6.1 | 2, B9, B14, B32, B74, T20, TP2, TP13, TP27, TP38, TP4527, TP38, TP4513 | None | 227 | 244 | Forbidden | Forbidden | D | 40
G | Toxic by inhalation liquid, flammable, n.o.s. with an inhalation toxicity lower than or equal to 200 ml/m3 and saturated vapor concentration greater than or equal to 500 LC50 | 6.1 | UN3383 | I | 6.1, 3 | 1, B9, B14, B30, B72, T22, TP2, TP13, TP27, TP38, TP44 | None | 226 | 244 | Forbidden | Forbidden | D | 40
G | Toxic by inhalation liquid, flammable, n.o.s. with an inhalation toxicity lower than or equal to 1000 ml/m3 and saturated vapor concentration greater than or equal to 10 LC50 | 6.1 | UN3384 | I | 6.1, 3 | 2, B9, B14, B32, B74, T20, TP2, TP13, TP27, TP38, TP45 | None | 227 | 244 | Forbidden | Forbidden | D | 40
G | Toxic by inhalation liquid, water-reactive, n.o.s. with an inhalation toxicity lower than or equal to 200 ml/m3 and saturated vapor concentration greater than or equal to 500 LC50 | 6.1 | UN3385 | I | 6.1, 4.3 | 1, B9, B14, B30, B72, T22, TP2, TP13, TP38, TP44 | None | 226 | 244 | Forbidden | Forbidden | D | 40
G | Toxic by inhalation liquid, water-reactive, n.o.s. with an inhalation toxicity lower than or equal to 1000 ml/m3 and saturated vapor concentration greater than or equal to 10 LC50 | 6.1 | UN3386 | I | 6.1, 4.3 | 2, B9, B14, B32, B74, T20, TP2, TP13, TP38, TP44 | None | 227 | 244 | Forbidden | Forbidden | D | 40
G | Toxic by inhalation liquid, oxidizing, n.o.s. with an inhalation toxicity lower than or equal to 200 ml/m3 and saturated vapor concentration greater than or equal to 500 LC50 | 6.1 | UN3387 | I | 6.1, 5.1 | 1, B9, B14, B30, B72, T22, TP2, TP13, TP38, TP44 | None | 226 | 244 | Forbidden | Forbidden | D | 40
G | Toxic by inhalation liquid, oxidizing, n.o.s. with an inhalation toxicity lower than or equal to 1000 ml/m3 and saturated vapor concentration greater than or equal to 10 LC50 | 6.1 | UN3388 | I | 6.1, 5.1 | 2, B9, B14, B32, T20, TP2, TP13, TP38, TP44 | None | 227 | 244 | Forbidden | Forbidden | D | 40
G | Toxic by inhalation liquid, corrosive, n.o.s. with an inhalation toxicity lower than or equal to 200 ml/m3 and saturated vapor concentration greater than or equal to 500 LC50 | 6.1 | UN3389 | I | 6.1, 8 | 1, B9, B14, B30, B72, T22, TP2, TP13, TP27, TP38, TP44 | None | 226 | 244 | Forbidden | Forbidden | D | 40
G | Toxic by inhalation liquid, corrosive, n.o.s. with an inhalation toxicity lower than or equal to 1000 ml/m3 and saturated vapor concentration greater than or equal to 10 LC50 | 6.1 | UN3390 | I | 6.1, 8 | 2, B9, B14, B32, B74, T20, TP2, TP13, TP27, TP38, TP45 | None | 227 | 244 | Forbidden | Forbidden | D | 40
G | Toxic liquid, corrosive, inorganic, n.o.s. | 6.1 | UN3289 | I | 6.1, 8 | T14, TP2, TP13, TP27 | None | 201 | 243 | 0.5 L | 2.5 L | A |
|  |  |  | II | 6.1, 8 | IB2, T11, TP2, TP27 | 153 | 202 | 243 | 1 L | 30 L | A |
G | Toxic liquid, inorganic, n.o.s. | 6.1 | UN3287 | I | 6.1 | T14, TP2, TP13, TP27 | None | 201 | 243 | 1 L | 30 L | A |
|  |  |  | II | 6.1 | IB2, T11, TP2, TP27 | 153 | 202 | 243 | 5 L | 60 L | A |
|  |  |  | III | 6.1 | IB3, T7, TP1, TP28 | 153 | 203 | 241 | 60 L | 220 L | A |
G | Toxic liquids, corrosive, organic, n.o.s. | 6.1 | UN2927 | I | 6.1, 8 | T14, TP2, TP13, TP27 | None | 201 | 243 | 0.5 L | 2.5 L | B | 40
|  |  |  | II | 6.1, 8 | IB2, T11, TP2, TP27 | 153 | 202 | 243 | 1 L | 30 L | B | 40
G | Toxic liquids, flammable, organic, n.o.s. | 6.1 | UN2929 | I | 6.1, 3 | T14, TP2, TP13, TP27 | None | 201 | 243 | 1 L | 30 L | B | 40
|  |  |  | II | 6.1, 3 | IB2, T11, TP2, TP13, TP27 | 153 | 202 | 243 | 5 L | 60 L | B | 40
G | Toxic, liquids, organic, n.o.s. | 6.1 | UN2810 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP1, TP28 | 153 | 203 | 241 | 60 L | 220 L | A | 40
G | Toxic liquids, oxidizing, n.o.s. | 6.1 | UN3122 | I | 6.1, 5.1 | A4 | None | 201 | 243 | Forbidden | 2.5 L | C |
|  |  |  | II | 6.1, 5.1 | IB2 | 153 | 202 | 243 | 1 L | 5 L | C |
G | Toxic liquids, water-reactive, n.o.s. | 6.1 | UN3123 | I | 6.1, 4.3 | A4 | None | 201 | 243 | Forbidden | 1 L | E | 40
|  |  |  | II | 6.1, 4.3 | IB2 | None | 202 | 243 | 1 L | 5 L | E | 40
G | Toxic solid, corrosive, inorganic, n.o.s. | 6.1 | UN3290 | I | 6.1, 8 | IB7, T6, TP33 | None | 211 | 242 | 1 kg | 25 kg | A |
|  |  |  | II | 6.1, 8 | IB6, IP2, T3, TP33 | 153 | 212 | 242 | 15 kg | 50 kg | A |
G | Toxic solid, inorganic, n.o.s. | 6.1 | UN3288 | I | 6.1 | IB7, T6, TP33 | None | 211 | 242 | 5 kg | 50 kg | A |
|  |  |  | II | 6.1 | IB8, IP2, IP4, T3, TP33 | 153 | 212 | 242 | 25 kg | 100 kg | A |
|  |  |  | III | 6.1 | IB8, IP3, T1, TP33 | 153 | 213 | 240 | 100 kg | 200 kg | A |
G | Toxic solids, corrosive, organic, n.o.s. | 6.1 | UN2928 | I | 6.1, 8 | IB7, T6, TP33 | None | 211 | 242 | 1 kg | 25 kg | B | 40
|  |  |  | II | 6.1, 8 | IB6, IP2, T3, TP33 | 153 | 212 | 242 | 15 kg | 50 kg | B | 40
G | Toxic solids, flammable, organic, n.o.s. | 6.1 | UN2930 | I | 6.1, 4.1 | IB6, T6, TP33 | None | 211 | 242 | 1 kg | 15 kg | B |
|  |  |  | II | 6.1, 4.1 | IB8, IP2, IP4, T3, TP33 | 153 | 212 | 242 | 15 kg | 50 kg | B |
G | Toxic solids, organic, n.o.s. | 6.1 | UN2811 | I | 6.1 | IB7, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
G | Toxic solids, oxidizing, n.o.s. | 6.1 | UN3086 | I | 6.1, 5.1 | T6, TP33 | None | 211 | 242 | 1 kg | 15 kg | C |
|  |  |  | II | 6.1, 5.1 | IB6, IP2, T3, TP33 | 153 | 212 | 242 | 15 kg | 50 kg | C |
G | Toxic solids, self-heating, n.o.s. | 6.1 | UN3124 | I | 6.1, 4.2 | A5, T6, TP33 | None | 211 | 242 | 5 kg | 15 kg | D | 40
|  |  |  | II | 6.1, 4.2 | IB6, IP2, T3, TP33 | None | 212 | 242 | 15 kg | 50 kg | D | 40
G | Toxic solids, water-reactive, n.o.s. | 6.1 | UN3125 | I | 6.1, 4.3 | A5, T6, TP33 | None | 211 | 242 | 5 kg | 15 kg | D | 40
|  |  |  | II | 6.1, 4.3 | IB6, IP2, T3, TP33 | 153 | 212 | 242 | 15 kg | 50 kg | D | 40
G | Toxins, extracted from living sources, liquid, n.o.s. | 6.1 | UN3172 | I | 6.1 | 141 | None | 201 | 243 | 1 L | 30 L | B | 40
|  |  |  | II | 6.1 | 141, IB2 | None | 202 | 243 | 5 L | 60 L | B | 40
|  |  |  | III | 6.1 | 141, IB3 | 153 | 203 | 241 | 60 L | 220 L | B | 40
| Toxins, extracted from living sources, solid, n.o.s. | 6.1 | UN3462 | I | 6.1 | 141, IB7, IP1, T6, TP33 | None | 211 | 243 | 5 kg | 50 kg | B |
|  |  |  | II | 6.1 | 141, IB8, IP2, IP4, T3, TP33 | None | 212 | 243 | 25 kg | 100 kg | B |
|  |  |  | III | 6.1 | 141, IB8, IP3, T1, TP33 | 153 | 213 | 241 | 100 kg | 200 kg | A |
D | Toy Caps | 1.4S | NA0337 | II | 1.4S |  | None | 62 | None | 25 kg | 100 kg | 05 |
| Tracers for ammunition | 1.3G | UN0212 | II | 1.3G |  | None | 62 | None | Forbidden | Forbidden | 07 |
| Tracers for ammunition | 1.4G | UN0306 | II | 1.4G |  | None | 62 | None | Forbidden | 75 kg | 06 |
| Tractors, see Vehicle, etc |  |  |  |  |  |  |  |  |  |  |  |
| Tri-(b-nitroxyethyl) ammonium nitrate | Forbidden |  |  |  |  |  |  |  |  |  |  |
| Triallyl borate | 6.1 | UN2609 | III | 6.1 | IB3 | 153 | 203 | 241 | 60 L | 220 L | A | 13
| Triallylamine | 3 | UN2610 | III | 3, 8 | B1, IB3, T4, TP1 | None | 203 | 242 | 5 L | 60 L | A | 40
| Triazine pesticides, liquid, flammable, toxic, flash point less than 23 degrees C | 3 | UN2764 | I | 3, 6.1 | T14, TP2, TP13, TP27 | None | 201 | 243 | Forbidden | 30 L | B | 40
|  |  |  | II | 3, 6.1 | IB2, T11, TP2, TP13, TP27 | 150 | 202 | 243 | 1 L | 60 L | B | 40
| Triazine pesticides, liquid, toxic | 6.1 | UN2998 | I | 6.1 | T14, TP2, TP13, TP27 | None | 201 | 243 | 1 L | 30 L | B | 40
|  |  |  | II | 6.1 | IB2, T11, TP2, TP13, TP27 | 153 | 202 | 243 | 5 L | 60 L | B | 40
|  |  |  | III | 6.1 | IB3, T7, TP2, TP28 | 153 | 203 | 241 | 60 L | 220 L | A | 40
| Triazine pesticides, liquid, toxic, flammable, flash point not less than 23 degrees C | 6.1 | UN2997 | I | 6.1, 3 | T14, TP2, TP13, TP27 | None | 201 | 243 | 1 L | 30 L | B | 40
|  |  |  | II | 6.1, 3 | IB2, T11, TP2, TP13, TP27 | 153 | 202 | 243 | 5 L | 60 L | B | 40
|  |  |  | III | 6.1, 3 | IB3, T7, TP2, TP28 | 153 | 203 | 242 | 60 L | 220 L | A | 40
| Triazine pesticides, solid, toxic | 6.1 | UN2763 | I | 6.1 | IB7, IP1, T6, TP33 | None | 211 | 242 | 5 kg | 50 kg | A | 40
|  |  |  | II | 6.1 | IB8, IP2, IP4, T3, TP33 | 153 | 212 | 242 | 25 kg | 100 kg | A | 40
|  |  |  | III | 6.1 | IB8, IP3, T1, TP33 | 153 | 213 | 240 | 100 kg | 200 kg | A | 40
| Tributylamine | 6.1 | UN2542 | II | 6.1 | IB2, T7, TP2 | 153 | 202 | 243 | 5 L | 60 L | A |
| Tributylphosphane | 4.2 | UN3254 | I | 4.2 | T21, TP7, TP33 | None | 211 | 242 | Forbidden | Forbidden | D | 136
| Trichloro-s-triazinetrione dry, with more than 39 percent available chlorine, see Trichloroisocyanuric acid, dry |  |  |  |  |  |  |  |  |  |  |  |
| Trichloroacetic acid | 8 | UN1839 | II | 8 | A7, IB8, IP2, IP4, N34, T3, TP33 | 154 | 212 | 240 | 15 kg | 50 kg | A |
| Trichloroacetic acid, solution | 8 | UN2564 | II | 8 | A3, A6, A7, B2, IB2, N34, T7, TP2 | 154 | 202 | 242 | 1 L | 30 L | B |
|  |  |  | III | 8 | A3, A6, A7, IB3, N34, T4, TP1 | 154 | 203 | 241 | 5 L | 60 L | B | 8
+ | Trichloroacetyl chloride | 8 | UN2442 | II | 8, 6.1 | 2, B9, B14, B32, B74, N34, T20, TP2, TP38, TP45 | None | 227 | 244 | Forbidden | Forbidden | D | 40
| Trichlorobenzenes, liquid | 6.1 | UN2321 | III | 6.1 | IB3, T4, TP1 | 153 | 203 | 241 | 60 L | 220 L | A |
| Trichlorobutene | 6.1 | UN2322 | II | 6.1 | IB2, T7, TP2 | 153 | 202 | 243 | 5 L | 60 L | A | 25, 40
| 1,1,1-Trichloroethane | 6.1 | UN2831 | III | 6.1 | IB3, N36, T4, TP1 | 153 | 203 | 241 | 60 L | 220 L | A | 40
| Trichloroethylene | 6.1 | UN1710 | III | 6.1 | IB3, N36, T4, TP1 | 153 | 203 | 241 | 60 L | 220 L | A | 40
| Trichloroisocyanuric acid, dry | 5.1 | UN2468 | II | 5.1 | IB8, IP4, T3, TP33 | 152 | 212 | 240 | 5 kg | 25 kg | A | 13
| Trichloromethyl perchlorate | Forbidden |  |  |  |  |  |  |  |  |  |  |
| Trichlorosilane | 4.3 | UN1295 | I | 4.3, 3, 8 | N34, T14, TP2, TP7, TP13 | None | 201 | 244 | Forbidden | Forbidden | D | 21, 28, 40, 49, 100
| Tricresyl phosphate with more than 3 percent ortho isomer | 6.1 | UN2574 | II | 6.1 | A3, IB2, N33, N34, T7, TP2 | 153 | 202 | 243 | 5 L | 60 L | A |
| Triethyl phosphite | 3 | UN2323 | III | 3 | B1, IB3, T2, TP1 | 150 | 203 | 242 | 60 L | 220 L | A |
| Triethylamine | 3 | UN1296 | II | 3, 8 | IB2, T7, TP1 | 150 | 202 | 243 | 1 L | 5 L | B | 40
| Triethylenetetramine | 8 | UN2259 | II | 8 | B2, IB2, T7, TP2 | 154 | 202 | 242 | 1 L | 30 L | B | 40, 52
| Trifluoroacetic acid | 8 | UN2699 | I | 8 | A3, A6, A7, B4, N3, N34, N36, T10, TP2, TP12 | None | 201 | 243 | 0.5 L | 2.5 L | B | 12, 40
| Trifluoroacetyl chloride | 2.3 | UN3057 |  | 2.3, 8 | 2, B7, B9, B14, T50, TP21 | None | 304 | 314, 315 | Forbidden | Forbidden | D | 40
| Trifluorochloroethylene, stabilized | 2.3 | UN1082 |  | 2.3, 2.1 | 3, B14, T50 | None | 304 | 314, 315 | Forbidden | Forbidden | D | 40
| Trifluoromethane or Refrigerant gas R 23 | 2.2 | UN1984 |  | 2.2 |  | 306 | 304 | 314, 315 | 75 kg | 150 kg | A |
| 1,1,1-Trifluoroethane or Refrigerant gas, R 143a | 2.1 | UN2035 |  | 2.1 | T50 | 306 | 304 | 314, 315 | Forbidden | 150 kg | B | 40
| Trifluoromethane, refrigerated liquid | 2.2 | UN3136 |  | 2.2 | T75, TP5 | 306 | None | 314, 315 | 50 kg | 500 kg | D |
| 2-Trifluoromethylaniline | 6.1 | UN2942 | III | 6.1 | IB3 | 153 | 203 | 241 | 60 L | 220 L | A |
| 3-Trifluoromethylaniline | 6.1 | UN2948 | II | 6.1 | IB2, T7, TP2 | 153 | 202 | 243 | 5 L | 60 L | A | 40
| Triformoxime trinitrate | Forbidden |  |  |  |  |  |  |  |  |  |  |
| Triisobutylene | 3 | UN2324 | III | 3 | B1, IB3, T4, TP1 | 150 | 203 | 242 | 60 L | 220 L | A |
| Triisopropyl borate | 3 | UN2616 | II | 3 | IB2, T4, TP1 | 150 | 202 | 242 | 5 L | 60 L | A |
|  |  |  | III | 3 | B1, IB3, T2, TP1 | 150 | 203 | 242 | 60 L | 220 L | A |
D | Trimethoxysilane | 6.1 | NA9269 | I | 6.1, 3 | 2, B9, B14, B32, B74, T20, TP4, TP12, TP13, TP38, TP45 | None | 227 | 244 | Forbidden | Forbidden | E | 40
| Trimethyl borate | 3 | UN2416 | II | 3 | IB2, T7, TP1 | 150 | 202 | 242 | 5 L | 60 L | B |
| Trimethyl phosphite | 3 | UN2329 | III | 3 | B1, IB3, T2, TP1 | 150 | 203 | 242 | 60 L | 220 L | A |
| 1,3,5-Trimethyl-2,4,6-trinitrobenzene | Forbidden |  |  |  |  |  |  |  |  |  |  |
| Trimethylacetyl chloride | 6.1 | UN2438 | I | 6.1, 8, 3 | 2, B3, B9, B14, B32, B74, N34, T20, TP2, TP13, TP38, TP45 | None | 227 | 244 | Forbidden | Forbidden | D | 25, 40
| Trimethylamine, anhydrous | 2.1 | UN1083 |  | 2.1 | T50 | 306 | 304 | 314, 315 | Forbidden | 150 kg | B | 40
| Trimethylamine, aqueous solutions with not more than 50 percent trimethylamine by mass | 3 | UN1297 | I | 3, 8 | T11, TP1 | None | 201 | 243 | 0.5 L | 2.5 L | D | 40, 135
|  |  |  | II | 3, 8 | B1, IB2, T7, TP1 | 150 | 202 | 243 | 1 L | 5 L | B | 40, 41
|  |  |  | III | 3, 8 | B1, IB3, T7, TP1 | 150 | 203 | 242 | 5 L | 60 L | A | 40, 41
| 1,3,5-Trimethylbenzene | 3 | UN2325 | III | 3 | B1, IB3, T2, TP1 | 150 | 203 | 242 | 60 L | 220 L | A |
| Trimethylchlorosilane | 3 | UN1298 | II | 3, 8 | A3, A7, B77, IB2, N34, T7, TP2, TP13 | 150 | 202 | 243 | 1 L | 5 L | E | 40
| Trimethylcyclohexylamine | 8 | UN2326 | III | 8 | IB3, T4, TP1 | 154 | 203 | 241 | 5 L | 60 L | A |
| Trimethylene glycol diperchlorate | Forbidden |  |  |  |  |  |  |  |  |  |  |
| Trimethylhexamethylene diisocyanate | 6.1 | UN2328 | III | 6.1 | IB3, T4, TP2, TP13 | 153 | 203 | 241 | 60 L | 220 L | B |
| Trimethylhexamethylenediamines | 8 | UN2327 | III | 8 | IB3, T4, TP1 | 154 | 203 | 241 | 5 L | 60 L | A |
| Trimethylol nitromethane trinitrate | Forbidden |  |  |  |  |  |  |  |  |  |  |
| Trinitro-meta-cresol | 1.1D | UN0216 | II | 1.1D |  | None | 62 | None | Forbidden | Forbidden | 10 | 5E
| 2,4,6-Trinitro-1,3-diazobenzene | Forbidden |  |  |  |  |  |  |  |  |  |  |
| 2,4,6-Trinitro-1,3,5-triazido benzene (dry) | Forbidden |  |  |  |  |  |  |  |  |  |  |
| Trinitroacetic acid | Forbidden |  |  |  |  |  |  |  |  |  |  |
| Trinitroacetonitrile | Forbidden |  |  |  |  |  |  |  |  |  |  |
| Trinitroamine cobalt | Forbidden |  |  |  |  |  |  |  |  |  |  |
| Trinitroaniline or Picramide | 1.1D | UN0153 | II | 1.1D |  | None | 62 | None | Forbidden | Forbidden | 10 |
| Trinitroanisole | 1.1D | UN0213 | II | 1.1D |  | None | 62 | None | Forbidden | Forbidden | 10 |
| Trinitrobenzene (picryl chloride), wetted, with not less than 10% water by mass | 4.1 | UN3365 | I | 4.1 | 162, A8, A19, N41, N84 | None | 211 | None | 0.5 kg | 0.5 kg | E | 36
| Trinitrobenzene, wetted, with not less than 10% water, by mass | 4.1 | UN3367 | I | 4.1 | 162, A8, A19, N41, N84 | None | 211 | None | 0.5 kg | 0.5 kg | E | 36
| Trinitrobenzene, dry or wetted with less than 30 percent water, by mass | 1.1D | UN0214 | II | 1.1D |  | None | 62 | None | Forbidden | Forbidden | 10 |
| Trinitrobenzene, wetted with not less than 30 percent water, by mass | 4.1 | UN1354 | I | 4.1 | 23, A2, A8, A19, N41 | None | 211 | None | 0.5 kg | 0.5 kg | E | 28
| Trinitrobenzenesulfonic acid | 1.1D | UN0386 | II | 1.1D |  | None | 62 | None | Forbidden | Forbidden | 10 | 5E
| Trinitrobenzoic acid, dry or wetted with less than 30 percent water, by mass | 1.1D | UN0215 | II | 1.1D |  | None | 62 | None | Forbidden | Forbidden | 10 |
| Trinitrobenzoic acid, wetted with not less than 10% water by mass | 4.1 | UN3368 | I | 4.1 | 162, A8, A19, N41, N84 | None | 211 | None | 0.5 kg | 0.5 kg | E | 36
| Trinitrobenzoic acid, wetted with not less than 30 percent water, by mass | 4.1 | UN1355 | I | 4.1 | 23, A2, A8, A19, N41 | None | 211 | None | 0.5 kg | 0.5 kg | E | 28
| Trinitrochlorobenzene or Picryl chloride | 1.1D | UN0155 | II | 1.1D |  | None | 62 | None | Forbidden | Forbidden | 10 |
| Trinitroethanol | Forbidden |  |  |  |  |  |  |  |  |  |  |
| Trinitroethylnitrate | Forbidden |  |  |  |  |  |  |  |  |  |  |
| Trinitrofluorenone | 1.1D | UN0387 | II | 1.1D |  | None | 62 | None | Forbidden | Forbidden | 10 |
| Trinitromethane | Forbidden |  |  |  |  |  |  |  |  |  |  |
| 1,3,5-Trinitronaphthalene | Forbidden |  |  |  |  |  |  |  |  |  |  |
| Trinitronaphthalene | 1.1D | UN0217 | II | 1.1D |  | None | 62 | None | Forbidden | Forbidden | 10 |
| Trinitrophenetole | 1.1D | UN0218 | II | 1.1D |  | None | 62 | None | Forbidden | Forbidden | 10 |
| Trinitrophenol (picric acid), wetted, with not less than 10 percent water by mass | 4.1 | UN3364 | I | 4.1 | 162, A8, A19, N41, N84 | None | 211 | None | 0.5 kg | 0.5 kg | E | 36
| Trinitrophenol or Picric acid, dry or wetted with less than 30 percent water, by mass | 1.1D | UN0154 | II | 1.1D |  | None | 62 | None | Forbidden | Forbidden | 10 | 5E
| Trinitrophenol, wetted with not less than 30 percent water, by mass | 4.1 | UN1344 | I | 4.1 | 23, A8, A19, N41 | None | 211 | None | 1 kg | 15 kg | E | 28, 36
| 2,4,6-Trinitrophenyl guanidine (dry) | Forbidden |  |  |  |  |  |  |  |  |  |  |
| 2,4,6-Trinitrophenyl nitramine | Forbidden |  |  |  |  |  |  |  |  |  |  |
| 2,4,6-Trinitrophenyl trimethylol methyl nitramine trinitrate (dry) | Forbidden |  |  |  |  |  |  |  |  |  |  |
| Trinitrophenylmethylnitramine or Tetryl | 1.1D | UN0208 | II | 1.1D |  | None | 62 | None | Forbidden | Forbidden | 10 |
| Trinitroresorcinol or Styphnic acid, dry or wetted with less than 20 percent water, or mixture of alcohol and water, by mass | 1.1D | UN0219 | II | 1.1D |  | None | 62 | None | Forbidden | Forbidden | 10 | 5E
| Trinitroresorcinol, wetted or Styphnic acid, wetted with not less than 20 percent water, or mixture of alcohol and water by mass | 1.1D | UN0394 | II | 1.1D |  | None | 62 | None | Forbidden | Forbidden | 10 | 5E
| 2,4,6-Trinitroso-3-methyl nitraminoanisole | Forbidden |  |  |  |  |  |  |  |  |  |  |
| Trinitrotetramine cobalt nitrate | Forbidden |  |  |  |  |  |  |  |  |  |  |
| Trinitrotoluene and Trinitrobenzene mixtures or TNT and trinitrobenzene mixtures or TNT and hexanitrostilbene mixtures or Trinitrotoluene and hexanitrostilnene mixtures | 1.1D | UN0388 | II | 1.1D |  | None | 62 | None | Forbidden | Forbidden | 10 |
| Trinitrotoluene mixtures containing Trinitrobenzene and Hexanitrostilbene or TNT mixtures containing trinitrobenzene and hexanitrostilbene | 1.1D | UN0389 | II | 1.1D |  | None | 62 | None | Forbidden | Forbidden | 10 |
| Trinitrotoluene or TNT, dry or wetted with less than 30 percent water, by mass | 1.1D | UN0209 | II | 1.1D |  | None | 62 | None | Forbidden | Forbidden | 10 |
| Trinitrotoluene (TNT), wetted, with not less than 10 percent water by mass | 4.1 | UN3366 | I | 4.1 | 162, A8, A19, N41, N84 | None | 211 | None | 0.5 kg | 0.5 kg | E | 36
| Trinitrotoluene, wetted with not less than 30 percent water, by mass | 4.1 | UN1356 | I | 4.1 | 23, A2, A8, A19, N41 | None | 211 | None | 0.5 kg | 0.5 kg | E | 28
| Tripropylamine | 3 | UN2260 | III | 3, 8 | B1, IB3, T4, TP1 | 150 | 203 | 242 | 5 L | 60 L | A | 40
| Tripropylene | 3 | UN2057 | II | 3 | IB2, T4, TP1 | 150 | 202 | 242 | 5 L | 60 L | B |
|  |  |  | III | 3 | B1, IB3, T2, TP1 | 150 | 203 | 242 | 60 L | 220 L | A |
| Tris-(1-aziridinyl)phosphine oxide, solution | 6.1 | UN2501 | II | 6.1 | IB2, T7, TP2 | 153 | 202 | 243 | 5 L | 60 L | A |
|  |  |  | III | 6.1 | IB3, T4, TP1 | 153 | 203 | 241 | 60 L | 220 L | A |
| Tris, bis-bifluoroamino diethoxy propane (TVOPA) | Forbidden |  |  |  |  |  |  |  |  |  |  |
| Tritonal | 1.1D | UN0390 | II | 1.1D |  | None | 62 | None | Forbidden | Forbidden | 10 |
| Tungsten hexafluoride | 2.3 | UN2196 |  | 2.3, 8 | 2 | None | 338 | None | Forbidden | Forbidden | D | 40
| Turpentine | 3 | UN1299 | III | 3 | B1, IB3, T2, TP1 | 150 | 203 | 242 | 60 L | 220 L | A |
| Turpentine substitute | 3 | UN1300 | I | 3 | T11, TP1, TP8, TP27 | None | 201 | 243 | 1 L | 30 L | B |
|  |  |  | II | 3 | IB2, T4, TP1 | 150 | 202 | 242 | 5 L | 60 L | B |
|  |  |  | III | 3 | B1, IB3, T2, TP1 | 150 | 203 | 242 | 60 L | 220 L | A |
| Undecane | 3 | UN2330 | III | 3 | B1, IB3, T2, TP1 | 150 | 203 | 242 | 60 L | 220 L | A |
| Urea hydrogen peroxide | 5.1 | UN1511 | III | 5.1, 8 | A1, A7, A29, IB8, IP3, T1, TP33 | 152 | 213 | 240 | 25 kg | 100 kg | A | 13
| Urea nitrate, dry or wetted with less than 20 percent water, by mass | 1.1D | UN0220 | II | 1.1D | 119 | None | 62 | None | Forbidden | Forbidden | 10 |
| Urea nitrate, wetted, with not less than 10 percent water by mass | 4.1 | UN3370 | I | 4.1 | 162, A8, A19, N41, N84 | None | 211 | None | 0.5 kg | 0.5 kg | E | 36
| Urea nitrate, wetted with not less than 20 percent water, by mass | 4.1 | UN1357 | I | 4.1 | 23, 39, A8, A19, N41 | None | 211 | None | 1 kg | 15 kg | E | 28, 36
| Urea peroxide, see Urea hydrogen peroxide |  |  |  |  |  |  |  |  |  |  |  |
| Valeraldehyde | 3 | UN2058 | II | 3 | IB2, T4, TP1 | 150 | 202 | 242 | 5 L | 60 L | B |
| Valeric acid, see Corrosive liquids, n.o.s. |  |  |  |  |  |  |  |  |  |  |  |
| Valeryl chloride | 8 | UN2502 | II | 8, 3 | A3, A6, A7, B2, IB2, N34, T7, TP2 | 154 | 202 | 243 | 1 L | 30 L | C | 40
| Vanadium compound, n.o.s. | 6.1 | UN3285 | I | 6.1 | IB7, IP1, T6, TP33 | None | 211 | 242 | 5 kg | 50 kg | B |
|  |  |  | II | 6.1 | IB8, IP2, IP4, T3, TP33 | 153 | 212 | 242 | 25 kg | 100 kg | B |
|  |  |  | III | 6.1 | IB8, IP3, T1, TP33 | 153 | 213 | 240 | 100 kg | 200 kg | A |
| Vanadium oxytrichloride | 8 | UN2443 | II | 8 | A3, A6, A7, B2, B16, IB2, N34, T7, TP2 | 154 | 202 | 242 | Forbidden | 30 L | C | 40
| Vanadium pentoxide, non-fused form | 6.1 | UN2862 | III | 6.1 | IB8, IP3, T1, TP33 | 153 | 213 | 240 | 100 kg | 200 kg | A | 40
| Vanadium tetrachloride | 8 | UN2444 | I | 8 | A3, A6, A7, B4, N34, T10, TP2 | None | 201 | 243 | Forbidden | 2.5 L | C | 40
| Vanadium trichloride | 8 | UN2475 | III | 8 | IB8, IP3, T1, TP33 | 154 | 213 | 240 | 25 kg | 100 kg | A | 40
| Vanadyl sulfate | 6.1 | UN2931 | II | 6.1 | IB8, IP2, IP4, T3, TP33 | 153 | 212 | 242 | 25 kg | 100 kg | A |
| Vehicle, flammable gas powered | 9 | UN3166 |  | 9 | 135, 157 | 220 | 220 | 220 | Forbidden | No limit | A |
| Vehicle, flammable liquid powered | 9 | UN3166 |  | 9 | 135, 157 | 220 | 220 | 220 | No limit | No limit | A |
| Very signal cartridge, see Cartridges, signal |  |  |  |  |  |  |  |  |  |  |  |
| Vinyl acetate, stabilized | 3 | UN1301 | II | 3 | IB2, T4, TP1 | 150 | 202 | 242 | 5 L | 60 L | B |
| Vinyl bromide, stabilized | 2.1 | UN1085 |  | 2.1 | T50 | 306 | 304 | 314, 315 | Forbidden | 150 kg | B | 40
| Vinyl butyrate, stabilized | 3 | UN2838 | II | 3 | IB2, T4, TP1 | 150 | 202 | 242 | 5 L | 60 L | B |
| Vinyl chloride, stabilized | 2.1 | UN1086 |  | 2.1 | 21, B44, T50 | 306 | 304 | 314, 315 | Forbidden | 150 kg | B | 40
| Vinyl chloroacetate | 6.1 | UN2589 | II | 6.1, 3 | IB2, T7, TP2 | 153 | 202 | 243 | 5 L | 60 L | A |
| Vinyl ethyl ether, stabilized | 3 | UN1302 | I | 3 | A3, T11, TP2 | None | 201 | 243 | 1 L | 30 L | D |
| Vinyl fluoride, stabilized | 2.1 | UN1860 |  | 2.1 |  | 306 | 304 | 314, 315 | Forbidden | 150 kg | E | 40
| Vinyl isobutyl ether, stabilized | 3 | UN1304 | II | 3 | IB2, T4, TP1 | 150 | 202 | 242 | 5 L | 60 L | B |
| Vinyl methyl ether, stabilized | 2.1 | UN1087 |  | 2.1 | B44, T50 | 306 | 304 | 314, 315 | Forbidden | 150 kg | B | 40
| Vinyl nitrate polymer | Forbidden |  |  |  |  |  |  |  |  |  |  |
| Vinylidene chloride, stabilized | 3 | UN1303 | I | 3 | T12, TP2, TP7 | 150 | 201 | 243 | 1 L | 30 L | E | 40
| Vinylpyridines, stabilized | 6.1 | UN3073 | II | 6.1, 3, 8 | IB1, T7, TP2, TP13 | 153 | 202 | 243 | 1 L | 30 L | B | 40
| Vinyltoluenes, stabilized | 3 | UN2618 | III | 3 | B1, IB3, T2, TP1 | 150 | 203 | 242 | 60 L | 220 L | A |
| Vinyltrichlorosilane, stabilized | 3 | UN1305 | I | 3, 8 | A3, A7, B6, N34, T11, TP2, TP13 | None | 201 | 243 | Forbidden | 2.5 L | B | 40
| Warheads, rocket with burster or expelling charge | 1.4D | UN0370 | II | 1.4D |  | None | 62 | None | Forbidden | 75 kg | 02 |
| Warheads, rocket with burster or expelling charge | 1.4F | UN0371 | II | 1.4F |  | None | 62 | None | Forbidden | Forbidden | 08 |
| Warheads, rocket with bursting charge | 1.1D | UN0286 | II | 1.1D |  | None | 62 | None | Forbidden | Forbidden | 03 |
| Warheads, rocket with bursting charge | 1.2D | UN0287 | II | 1.2D |  | None | 62 | None | Forbidden | Forbidden | 03 |
| Warheads, rocket with bursting charge | 1.1F | UN0369 | II | 1.1F |  | None | 62 | None | Forbidden | Forbidden | 08 |
| Warheads, torpedo with bursting charge | 1.1D | UN0221 | II | 1.1D |  | None | 62 | None | Forbidden | Forbidden | 03 |
G | Water-reactive liquid, corrosive, n.o.s. | 4.3 | UN3129 | I | 4.3, 8 |  | None | 201 | 243 | Forbidden | 1 L | D |
|  |  |  | II | 4.3, 8 | IB1 | None | 202 | 243 | 1 L | 5 L | E | 85
|  |  |  | III | 4.3, 8 | IB2 | None | 203 | 242 | 5 L | 60 L | E |
G | Water-reactive liquid, n.o.s. | 4.3 | UN3148 | I | 4.3 |  | None | 201 | 244 | Forbidden | 1 L | E | 40
|  |  |  | II | 4.3 | IB1 | None | 202 | 243 | 1 L | 5 L | E | 40
|  |  |  | III | 4.3 | IB2 | None | 203 | 242 | 5 L | 60 L | E | 40
G | Water-reactive liquid, toxic, n.o.s. | 4.3 | UN3130 | I | 4.3, 6.1 | A4 | None | 201 | 243 | Forbidden | 1 L | D |
|  |  |  | II | 4.3, 6.1 | IB1 | None | 202 | 243 | 1 L | 5 L | E | 85
|  |  |  | III | 4.3, 6.1 | IB2 | None | 203 | 242 | 5 L | 60 L | E | 85
G | Water-reactive solid, corrosive, n.o.s. | 4.3 | UN3131 | I | 4.3, 8 | IB4, IP1, N40 | None | 211 | 242 | Forbidden | 15 kg | D |
|  |  |  | II | 4.3, 8 | IB6, IP2, T3, TP33 | 151 | 212 | 242 | 15 kg | 50 kg | E | 85
|  |  |  | III | 4.3, 8 | IB8, IP4, T1, TP33 | 151 | 213 | 241 | 25 kg | 100 kg | E | 85
G | Water-reactive solid, flammable, n.o.s. | 4.3 | UN3132 | I | 4.3, 4.1 | IB4, N40 | None | 211 | 242 | Forbidden | 15 kg | D |
|  |  |  | II | 4.3, 4.1 | IB4, T3, TP33 | 151 | 212 | 242 | 15 kg | 50 kg | E |
|  |  |  | III | 4.3, 4.1 | IB6, T1, TP33 | 151 | 213 | 241 | 25 kg | 100 kg | E |
G | Water-reactive solid, n.o.s. | 4.3 | UN2813 | I | 4.3 | IB4, N40 | None | 211 | 242 | Forbidden | 15 kg | E | 40
|  |  |  | II | 4.3 | IB7, IP2, T3, TP33 | 151 | 212 | 242 | 15 kg | 50 kg | E | 40
|  |  |  | III | 4.3 | IB8, IP4, T1, TP33 | 151 | 213 | 241 | 25 kg | 100 kg | E | 40
G | Water-reactive, solid, oxidizing, n.o.s. | 4.3 | UN3133 | II | 4.3, 5.1 |  | None | 214 | 214 | Forbidden | Forbidden | E | 40
|  |  |  | III | 4.3, 5.1 |  | None | 214 | 214 | Forbidden | Forbidden | E | 40
G | Water-reactive solid, self-heating, n.o.s. | 4.3 | UN3135 | I | 4.3, 4.2 | N40 | None | 211 | 242 | Forbidden | 15 kg | E |
|  |  |  | II | 4.3, 4.2 | IB5, IP2, T3, TP33 | None | 212 | 242 | 15 kg | 50 kg | E |
|  |  |  | III | 4.3, 4.2 | IB8, IP4, T1, TP33 | None | 213 | 241 | 25 kg | 100 kg | E |
G | Water-reactive solid, toxic, n.o.s. | 4.3 | UN3134 | I | 4.3, 6.1 | A8, IB4, IP1, N40 | None | 211 | 242 | Forbidden | 15 kg | D |
|  |  |  | II | 4.3, 6.1 | IB5, IP2, T3, TP33 | 151 | 212 | 242 | 15 kg | 50 kg | E | 85
|  |  |  | III | 4.3, 6.1 | IB8, IP4, T1, TP33 | 151 | 213 | 241 | 25 kg | 100 kg | E | 85
| Wheel chair, electric, see Battery powered vehicle or Battery powered equipment |  |  |  |  |  |  |  |  |  |  |  |
| White acid, see Hydrofluoric acid |  |  |  |  |  |  |  |  |  |  |  |
I | White asbestos (chrysotile, actinolite, anthophyllite, tremolite) | 9 | UN2590 | III | 9 | 156, IB8, IP2, IP3, T1, TP33 | 155 | 216 | 240 | 200 kg | 200 kg | A | 34, 40
| Wood preservatives, liquid | 3 | UN1306 | II | 3 | 149, IB2, T4, TP1, TP8 | 150 | 202 | 242 | 5 L | 60 L | B |
|  |  |  | III | 3 | B1, IB3, T2, TP1 | 150 | 203 | 242 | 60 L | 220 L | A | 40
A I W | Wool waste, wet | 4.2 | UN1387 | III | 4.2 |  | 151 | 213 | 240 | Forbidden | Forbidden | A |
| Xanthates | 4.2 | UN3342 | II | 4.2 | IB6, IP2, T3, TP33 | None | 212 | 241 | 15 kg | 50 kg | D | 40
|  |  |  | III | 4.2 | IB8, IP3, T1, TP33 | None | 213 | 241 | 25 kg | 100 kg | D | 40
| Xenon | 2.2 | UN2036 |  | 2.2 |  | 306 | 302 | None | 75 kg | 150 kg | A |
| Xenon, refrigerated liquid (cryogenic liquids) | 2.2 | UN2591 |  | 2.2 | T75, TP5 | 320 | None | None | 50 kg | 500 kg | B |
| Xylenes | 3 | UN1307 | II | 3 | IB2, T4, TP1 | 150 | 202 | 242 | 5 L | 60 L | B |
|  |  |  | III | 3 | B1, IB3, T2, TP1 | 150 | 203 | 242 | 60 L | 220 L | A |
| Xylenols, solid | 6.1 | UN2261 | II | 6.1 | IB8, IP2, IP4, T3, TP33 | 153 | 212 | 242 | 25 kg | 100 kg | A |
| Xylenols, liquid | 6.1 | UN3430 | II | 6.1 | IB2, T7, TP2 | 153 | 202 | 243 | 5 L | 60 L | A |
| Xylidines, liquid | 6.1 | UN1711 | II | 6.1 | IB2, T7, TP2 | 153 | 202 | 243 | 5 L | 60 L | A |
| Xylidines, solid | 6.1 | UN3452 | II | 6.1 | IB8, IP2, IP4, T3, TP33 | 153 | 212 | 242 | 25 kg | 100 kg | A |
| Xylyl bromide, liquid | 6.1 | UN1701 | II | 6.1 | A3, A6, A7, IB2, N33, T7, TP2, TP13 | None | 340 | None | Forbidden | 60 L | D | 40
| Xylyl bromide, solid | 6.1 | UN3417 | II | 6.1 | A3, A6, A7, IB8, IP2, IP4, N33, T3, TP33 | None | 340 | None | 25 kg | 100 kg | B | 40
| p-Xylyl diazide | Forbidden |  |  |  |  |  |  |  |  |  |  |
| Zinc ammonium nitrite | 5.1 | UN1512 | II | 5.1 | IB8, IP4, T3, TP33 | None | 212 | 242 | 5 kg | 25 kg | E |
| Zinc arsenate or Zinc arsenite or Zinc arsenate and zinc arsenite mixtures | 6.1 | UN1712 | II | 6.1 | IB8, IP2, IP4, T3, TP33 | 153 | 212 | 242 | 25 kg | 100 kg | A |
| Zinc ashes | 4.3 | UN1435 | III | 4.3 | A1, A19, IB8, IP4, T1, TP33 | 151 | 213 | 241 | 25 kg | 100 kg | A |
| Zinc bisulfite solution, see Bisulfites, aqueous solutions, n.o.s. |  |  |  |  |  |  |  |  |  |  |  |
| Zinc bromate | 5.1 | UN2469 | III | 5.1 | A1, A29, IB8, IP3, T1, TP33 | 152 | 213 | 240 | 25 kg | 100 kg | A | 56, 58
| Zinc chlorate | 5.1 | UN1513 | II | 5.1 | A9, IB8, IP2, IP4, N34, T3, TP33 | 152 | 212 | 242 | 5 kg | 25 kg | A | 56, 58
| Zinc chloride, anhydrous | 8 | UN2331 | III | 8 | IB8, IP3, T1, TP33 | None | 213 | 240 | 25 kg | 100 kg | A |
| Zinc chloride, solution | 8 | UN1840 | III | 8 | IB3, T4, TP1 | 154 | 203 | 241 | 5 L | 60 L | A |
| Zinc cyanide | 6.1 | UN1713 | I | 6.1 | IB7, IP1, T6, TP33 | None | 211 | 242 | 5 kg | 50 kg | A | 52
| Zinc dithionite or Zinc hydrosulfite | 9 | UN1931 | III | None | IB8, IP3, T1, TP33 | 155 | 204 | 240 | 100 kg | 200 kg | A | 49
| Zinc ethyl, see Diethylzinc |  |  |  |  |  |  |  |  |  |  |  |
| Zinc fluorosilicate | 6.1 | UN2855 | III | 6.1 | IB8, IP3, T1, TP33 | 153 | 213 | 240 | 100 kg | 200 kg | A | 52
| Zinc hydrosulfite, see Zinc dithionite |  |  |  |  |  |  |  |  |  |  |  |
| Zinc muriate solution, see Zinc chloride, solution |  |  |  |  |  |  |  |  |  |  |  |
| Zinc nitrate | 5.1 | UN1514 | II | 5.1 | IB8, IP4, T3, TP33 | 152 | 212 | 240 | 5 kg | 25 kg | A |
| Zinc permanganate | 5.1 | UN1515 | II | 5.1 | IB6, IP2, T3, TP33 | 152 | 212 | 242 | 5 kg | 25 kg | D | 56, 58, 138
| Zinc peroxide | 5.1 | UN1516 | II | 5.1 | IB6, IP2, T3, TP33 | 152 | 212 | 242 | 5 kg | 25 kg | A | 13, 52, 66, 75
| Zinc phosphide | 4.3 | UN1714 | I | 4.3, 6.1 | A19, N40 | None | 211 | None | Forbidden | 15 kg | E | 40, 52, 85
| Zinc powder or Zinc dust | 4.3 | UN1436 | I | 4.3, 4.2 | A19, IB4, IP1, N40 | None | 211 | 242 | Forbidden | 15 kg | A | 52, 53
|  |  |  | II | 4.3, 4.2 | A19, IB7, IP2, T3, TP33 | None | 212 | 242 | 15 kg | 50 kg | A | 52, 53
|  |  |  | III | 4.3, 4.2 | IB8, IP4, T1, TP33 | None | 213 | 242 | 25 kg | 100 kg | A | 52, 53
| Zinc resinate | 4.1 | UN2714 | III | 4.1 | A1, IB6, T1, TP33 | 151 | 213 | 240 | 25 kg | 100 kg | A |
| Zinc selenate, see Selenates or Selenites |  |  |  |  |  |  |  |  |  |  |  |
| Zinc selenite, see Selenates or Selenites |  |  |  |  |  |  |  |  |  |  |  |
| Zinc silicofluoride, see Zinc fluorosilicate |  |  |  |  |  |  |  |  |  |  |  |
| Zirconium, dry, coiled wire, finished metal sheets, strip (thinner than 254 microns but not thinner than 18 microns) | 4.1 | UN2858 | III | 4.1 | A1 | 151 | 213 | 240 | 25 kg | 100 kg | A |
| Zirconium, dry, finished sheets, strip or coiled wire | 4.2 | UN2009 | III | 4.2 | A1, A19 | None | 213 | 240 | 25 kg | 100 kg | D |
| Zirconium hydride | 4.1 | UN1437 | II | 4.1 | A19, A20, IB4, N34, T3, TP33 | None | 212 | 240 | 15 kg | 50 kg | E |
| Zirconium nitrate | 5.1 | UN2728 | III | 5.1 | A1, A29, IB8, IP3, T1, TP33 | 152 | 213 | 240 | 25 kg | 100 kg | A |
| Zirconium picramate, dry or wetted with less than 20 percent water, by mass | 1.3C | UN0236 | II | 1.3C |  | None | 62 | None | Forbidden | Forbidden | 10 | 5E
| Zirconium picramate, wetted with not less than 20 percent water, by mass | 4.1 | UN1517 | I | 4.1 | 23, N41 | None | 211 | None | 1 kg | 15 kg | D | 28, 36
| Zirconium powder, dry | 4.2 | UN2008 | I | 4.2 | T21, TP7, TP33 | None | 211 | 242 | Forbidden | Forbidden | D |
|  |  |  | II | 4.2 | A19, A20, IB6, IP2, N5, N34, T3, TP33 | None | 212 | 241 | 15 kg | 50 kg | D |
|  |  |  | III | 4.2 | IB8, IP3, T1, TP33 | None | 213 | 241 | 25 kg | 100 kg | D |
| Zirconium powder, wetted with not less than 25 percent water (a visible excess of water must be present) (a) mechanically produced, particle size less than 53 microns; (b) chemically produced, particle size less than 840 microns | 4.1 | UN1358 | II | 4.1 | A19, A20, IB6, IP2, N34, T3, TP33 | None | 212 | 241 | 15 kg | 50 kg | E | 74
| Zirconium scrap | 4.2 | UN1932 | III | 4.2 | IB8, IP3, N34, T1, TP33 | None | 213 | 240 | Forbidden | Forbidden | D |
| Zirconium suspended in a liquid | 3 | UN1308 | I | 3 |  | None | 201 | 243 | Forbidden | Forbidden | B |
|  |  |  | II | 3 | IB2 | None | 202 | 242 | 5 L | 60 L | B |
|  |  |  | III | 3 | B1, IB2 | 150 | 203 | 242 | 60 L | 220 L | B |
| Zirconium tetrachloride | 8 | UN2503 | III | 8 | IB8, IP3, T1, TP33 | 154 | 213 | 240 | 25 kg | 100 kg | A |

BILLING CODE 4910-01-S

* * * * *

10. In Appendix B to § 172.101, the List of Marine Pollutants is amended by removing three entries, revising one entry and adding one entry in appropriate alphabetical order to read as follows:

Appendix B to § 172.101—List of Marine Pollutants.

* * * * *

List of Marine Pollutants
S, M, P (1) | Marine Pollutant (2)
[Remove:] | Diphenyl oxide and biphenyl phenyl ether mixtures Isoamyl mercaptan Pentanethiols Tetrachlorophenol
[Revise:]
PP | 2, 6-Di-tert-Butylphenol
[Add:]
* * * * *
| Chloropicrin
* * * * *

11. In § 172.102:

a. Paragraphs (b)(3), (b)(4), (b)(7) and (b)(8) are revised and a new paragraph (b)(9) is added.

b. In paragraph (c)(1), Special Provisions 47, 135, and 137 are revised; Special Provisions 163, 164, 165, 166, 167, 170 and 171 are added; and Special Provision 143 and 153 are removed.

c. In paragraph (c)(2), a new Special Provision A14 is added.

d. The introductory text of paragraph (c)(3) is revised; in paragraph (c)(3) Special Provision B69 is revised and paragraph (c)(4) is revised.

e. Paragraphs (c)(7)(viii) and (c)(8) are redesignated as paragraphs (c)(8) and (c)(9) respectively, the introductory paragraph of (c)(8) is revised, a new paragraph (c)(8)(ii) is added, Special Provisions TP3 and TP6 are revised and a new Special Provision TP32 and TP33 are added.

f. Paragraph (c)(7) is revised.

The additions and revisions read as follows:

§ 172.102 Special provisions.

* * * * *

(b) * * *

(3) A code containing the letter “B” refers to a special provision that applies only to bulk packaging requirements. Unless otherwise provided in this subchapter, these special provisions do not apply to UN, IM Specification portable tanks or IBCs.

(4) A code containing the letters “IB” or “IP” refers to a special provision that applies only to transportation in IBCs.

* * * * *

(7) A code containing the letter “T” refers to a special provision which applies only to transportation in UN or IM Specification portable tanks.

(8) A code containing the letters “TP” refers to a portable tank special provision for UN or IM Specification portable tanks that is in addition to those provided by the portable tank instructions or the requirements in part 178 of this subchapter.

(9) A code containing the letter “W” refers to a special provision that applies only to transportation by water.

(c) * * *

(1) * * *

Code/Special Provisions

* * * * *

47 Mixtures of solids that are not subject to this subchapter and flammable liquids may be transported under this entry without first applying the classification criteria of Division 4.1, provided there is no free liquid visible at the time the material is loaded or at the time the packaging or transport unit is closed. Except when the liquids are fully absorbed in solid material contained in sealed bags, each packaging must correspond to a design type that has passed a leakproofness test at the Packing Group II level. Small inner packagings consisting of sealed packets containing less than 10 mL of a Class 3 liquid in Packing Group II or III absorbed into a solid material are not subject to this subchapter provided there is no free liquid in the packet.

* * * * *

135 The entries “Vehicle, flammable gas powered” or “Vehicle, flammable liquid powered,” as appropriate, must be used when internal combustion engines are installed in a vehicle. These entries include hybrid electric vehicles powered by both an internal combustion engine and batteries.

* * * * *

137 Cotton, dry; flax, dry; and sisal, dry are not subject to the requirements of this subchapter when they are baled in accordance with ISO 8115, “Cotton Bales—Dimensions and Density” (IBR, see § 171.7 of this subchapter) to a density of not less than 360 kg/m³ (22.1 lb/ft³) for cotton, 400 kg/m³ (24.97 lb/ft³) for flax and 620 kg/m³ (38.71 lb/ft³) for sisal and transported in a freight container or closed transport vehicle.

* * * * *

163 Substances must satisfactorily pass Test Series 8 of the UN Manual of Tests and Criteria, Part I, Section 18 (IBR, see § 171.7 of this subchapter).

164 Substances must not be transported under this entry unless approved by the Associate Administrator on the basis of the results of appropriate tests according to Part I of the UN Manual of Tests and Criteria (IBR, see § 171.7 of this subchapter). The material must be packaged so that the percentage of diluent does not fall below that stated in the approval at any time during transportation.

165 These substances are susceptible to exothermic decomposition at elevated temperatures. Decomposition can be initiated by heat, moisture or by impurities (e.g., powdered metals (iron, manganese, cobalt, magnesium)). During the course of transportation, these substances must be shaded from direct sunlight and all sources of heat and be placed in adequately ventilated areas.

166 When transported in non-friable tablet form calcium hypochlorite, dry or hydrated, may be transported as a Packing Group III material.

167 These storage systems shall always be considered as containing hydrogen.

170 Air must be eliminated from the vapor space by nitrogen or other means.

171 This entry may only be used when the material is transported in non-friable tablet form or for granular or powered mixtures that have been shown to meet the PG III criteria in § 173.127.

(2) “A” codes. These provisions apply only to transportation by aircraft:

Code/Special Provisions

* * * * *

A14 This material is not authorized to be transported as a limited quantity or consumer commodity in accordance with § 173.306 of this subchapter when transported aboard an aircraft.

* * * * *

(3) “B” codes. These provisions apply only to bulk packagings. Except as otherwise provided in this subchapter, these special provisions do not apply to UN portable tanks or IBCs:

Code/Special Provisions

* * * * *

B69 Dry sodium cyanide or potassium cyanide may be shipped in sift-proof weather-resistant metal covered hopper cars, covered motor vehicles, portable tanks or non-specification bins. Bins must approved by the Associate Administrator.

* * * * *

(4) Table 1 and Table 2—IB Codes and IP Special IBC Packing Provisions. These provisions apply only to transportation in IBCs. When no IBC code is assigned in the § 172.101 Table for a specific proper shipping name, or in § 173.225(e) for Type F organic peroxides, an IBC may not be used unless authorized by the Associate Administrator. The letter “Z” shown in the marking code for composite IBCs must be replaced with a capital code letter designation found in § 178.702(a)(2) of this subchapter to specify the material used for the outer packaging. Tables 1 and 2 follow:

Table 1.—IB Codes (IBC Codes)
IBC Code | Authorized IBCs
IB1 | Authorized IBCs: Metal (31A, 31B and 31N).
| Additional Requirement: Only liquids with a vapor pressure less than or equal to 110 kPa at 50 °C (1.1 bar at 122 °F), or 130 kPa at 55 °C (1.3 bar at 131 °F) are authorized.
B2 | Authorized IBCs: Metal (31A, 31B and 31N); Rigid plastics (31H1 and 31H2); Composite (31HZ1).
| Additional Requirement: Only liquids with a vapor pressure less than or equal to 110 kPa at 50 °C (1.1 bar at 122 °F), or 130kPa at 55 °C (1.3 bar at 131 °F) are authorized.
IB3 | Authorized IBCs: Metal (31A, 31B and 31N); Rigid plastics (31H1 and 31H2); Composite (31HZ1 and 31HA2, 31HB2, 31HN2, 31HD2 and 31HH2).
| Additional Requirement: Only liquids with a vapor pressure less than or equal to 110 kPa at 50 °C (1.1 bar at 122 °F), or 130 kPa at 55 °C (1.3 bar at 131 °F) are authorized, except for UN2672 (also see Special Provision IP8 in Table 3 for UN2672).
IB4 | Authorized IBCs: Metal (11A, 11B, 11N, 21A, 21B, 21N, 31A, 31B and 31N).
IB5 | Authorized IBCs: Metal (11A, 11B, 11N, 21A, 21B, 21N, 31A, 31B and 31N); Rigid plastics (11H1, 11H2, 21H1, 21H2, 31H1 and 31H2); Composite (11HZ1, 21HZ1 and 31HZ1).
IB6 | Authorized IBCs: Metal (11A, 11B, 11N, 21A, 21B, 21N, 31A, 31B and 31N); Rigid plastics (11H1, 11H2, 21H1, 21H2, 31H1 and 31H2); Composite (11HZ1, 11HZ2, 21HZ1, 21HZ2, 31HZ1 and 31HZ2).
| Additional Requirement: Composite IBCs 11HZ2 and 21HZ2 may not be used when the hazardous materials being transported may become liquid during transport.
IB7 | Authorized IBCs: Metal (11A, 11B, 11N, 21A, 21B, 21N, 31A, 31B and 31N); Rigid plastics (11H1, 11H2, 21H1, 21H2, 31H1 and 31H2); Composite (11HZ1, 11HZ2, 21HZ1, 21HZ2, 31HZ1 and 31HZ2); Wooden (11C, 11D and 11F).
| Additional Requirement: Liners of wooden IBCs must be sift- proof.
IB8 | Authorized IBCs: Metal (11A, 11B, 11N, 21A, 21B, 21N, 31A, 31B and 31N); Rigid plastics (11H1, 11H2, 21H1, 21H2, 31H1 and 31H2); Composite (11HZ1, 11HZ2, 21HZ1, 21HZ2, 31HZ1 and 31HZ2); Fiberboard (11G); Wooden (11C, 11D and 11F); Flexible (13H1, 13H2, 13H3, 13H4, 13H5, 13L1, 13L2, 13L3, 13L4, 13M1 or 13M2).
IB9 | IBCs are only authorized if approved by the Associate Administrator.

Table 2.—IP Codes
IBC Code | Authorized IBCs
IP1 | IBCs must be packed in closed freight containers or a closed transport vehicle.
IP2 | When IBCs other than metal or rigid plastics IBCs are used, they must be offered for transportation in a closed freight container or a closed transport vehicle.
IP3 | Flexible IBCs must be sift-proof and water-resistant or must be fitted with a sift-proof and water-resistant liner.
IP4 | Flexible, fiberboard or wooden IBCs must be sift-proof and water-resistant or be fitted with a sift-proof and water-resistant liner.
IP5 | IBCs must have a device to allow venting. The inlet to the venting device must be located in the vapor space of the IBC under maximum filling conditions.
IP6 | Non-specification bulk bins are authorized.
IP7 | For UN identification numbers 1327, 1363, 1364, 1365, 1386, 1841, 2211, 2217, 2793 and 3314, IBCs are not required to meet the IBC performance tests specified in part 178, subpart N of this subchapter.
IP8 | Ammonia solutions may be transported in rigid or composite plastic IBCs (31H1, 31H2 and 31HZ1) that have successfully passed, without leakage or permanent deformation, the hydrostatic test specified in § 178.814 of this subchapter at a test pressure that is not less than 1.5 times the vapor pressure of the contents at 55 °C (131 °F).
IP13 | Transportation by vessel in IBCs is prohibited.
IP14 | Air shall be eliminated from the vapor space by nitrogen or other means.
IP20 | Dry sodium cyanide or potassium cyanide is also permitted in siftproof, water-resistant, fiberboard IBCs when transported in closed freight containers or transport vehicles.

* * * * *

(7) “T” codes. (i) These provisions apply to the transportation of hazardous materials in UN portable tanks. Portable tank instructions specify the requirements applicable to a portable tank when used for the transportation of a specific hazardous material. These requirements must be met in addition to the design and construction specifications in part 178 of this subchapter. Portable tank instructions T1 through T22 specify the applicable minimum test pressure, the minimum shell thickness (in reference steel), bottom opening requirements and pressure relief requirements. Liquefied compressed gases are assigned to portable tank instruction T50. Refrigerated liquefied gases that are authorized to be transported in portable tanks are specified in tank instruction T75.

(ii) The following table specifies the portable tank requirements applicable to “T” Codes T1 through T22. Column 1 specifies the “T” Code. Column 2 specifies the minimum test pressure, in bar (1 bar = 14.5 psig), at which the periodic hydrostatic testing required by § 180.605 of this subchapter must be conducted. Column 3 specifies the section reference for minimum shell thickness or, alternatively, the minimum shell thickness value. Column 4 specifies the applicability of § 178.275(g)(3) of this subchapter for the pressure relief devices. When the word “Normal” is indicated, § 178.275(g)(3) of this subchapter does not apply. Column 5 references the applicable requirements for bottom openings in part 178 of this subchapter or references “Prohibited” which means bottom openings are prohibited. The table follows:

Table of Portable Tank T Codes T1-T22
[Portable tank codes T1-T22 apply to liquid and solid hazardous materials of Classes 3 through 9 which are transported in portable tanks.]
Portable tank instruction (1) | Minimum test pressure (bar) (2) | Minimum shell thickness (in mm-reference steel) (See § 178.274(d)) (3) | Pressure-relief requirements (See § 178.275(g)) (4) | Bottom opening requirements (See § 178.275(d)) (5)
T1 | 1.5 | § 178.274(d)(2) | Normal | § 178.275(d)(2)0
T2 | 1.5 | § 178.274(d)(2) | Normal | § 178.275(d)(3)
T3 | 2.65 | § 178.274(d)(2) | Normal | § 178.275(d)(2)
T4 | 2.65 | § 178.274(d)(2) | Normal | § 178.275(d)(3)
T5 | 2.65 | § 178.274(d)(2) | § 178.275(g)(3) | Prohibited
T6 | 4 | § 178.274(d)(2) | Normal | § 178.275(d)(2)
T7 | 4 | § 178.274(d)(2) | Normal | § 178.275(d)(3)
T8 | 4 | § 178.274(d)(2) | Normal | Prohibited
T9 | 4 | 6 mm | Normal | Prohibited
T10 | 4 | 6 mm | § 178.275(g)(3) | Prohibited
T11 | 6 | § 178.274(d)(2) | Normal | § 178.275(d)(3)
T12 | 6 | § 178.274(d)(2) | § 178.275(g)(3) | § 178.275(d)(3)
T13 | 6 | 6 mm | Normal | Prohibited
T14 | 6 | 6 mm | § 178.275(g)(3) | Prohibited
T15 | 10 | § 178.274(d)(2) | Normal | § 178.275(d)(3)
T16 | 10 | § 178.274(d)(2) | § 178.275(g)(3) | § 178.275(d)(3)
T17 | 10 | 6 mm | Normal | § 178.275(d)(3)
T18 | 10 | 6 mm | § 178.275(g)(3) | § 178.275(d)(3)
T19 | 10 | 6 mm | § 178.275(g)(3) | Prohibited
T20 | 10 | 8 mm | § 178.275(g)(3) | Prohibited
T21 | 10 | 10 mm | Normal | Prohibited
T22 | 10 | 10 mm | § 178.275(g)(3) | Prohibited

(iii) T50. When portable tank instruction T50 is referenced in Column (7) of the § 172.101 Table, the applicable liquefied compressed gases are authorized to be transported in portable tanks in accordance with the requirements of § 173.313 of this subchapter.

(iv) T75. When portable tank instruction T75 is referenced in Column (7) of the § 172.101 Table, the applicable refrigerated liquefied gases are authorized to be transported in portable tanks in accordance with the requirements of § 178.277 of this subchapter.

(v) UN and IM portable tank codes/special provisions. When a specific portable tank instruction is specified by a “T” Code in Column (7) of the § 172.101 Table for a specific hazardous material, a specification portable tank conforming to an alternative tank instruction may be used if:

(A) The alternative portable tank has a higher or equivalent test pressure (for example, 4 bar when 2.65 bar is specified);

(B) The alternative portable tank has greater or equivalent wall thickness (for example, 10 mm when 6 mm is specified);

(C) The alternative portable tank has a pressure relief device as specified in the “T” Code. If a frangible disc is required in series with the reclosing pressure relief device for the specified portable tank, the alternative portable tank must be fitted with a frangible disc in series with the reclosing pressure relief device; and

(D) With regard to bottom openings—

(1) When two effective means are specified, the alternative portable tank is fitted with bottom openings having two or three effective means of closure or no bottom openings; or

(2) When three effective means are specified, the portable tank has no bottom openings or three effective means of closure; or

(3) When no bottom openings are authorized, the alternative portable tank must not have bottom openings.

(vi) Except when an organic peroxide is authorized under § 173.225(g), if a hazardous material is not assigned a portable tank “T” Code, the hazardous material may not be transported in a portable tank unless approved by the Associate Administrator.

(8) “TP” codes. (i) These provisions apply to the transportation of hazardous materials in IM and UN Specification portable tanks. Portable tank special provisions are assigned to certain hazardous materials to specify requirements that are in addition to those provided by the portable tank instructions or the requirements in part 178 of this subchapter. Portable tank special provisions are designated with the abbreviation TP (tank provision) and are assigned to specific hazardous materials in Column (7) of the § 172.101 Table.

(ii) The following is a list of the portable tank special provisions:

* * * * *

Code/Special Provisions

* * * * *

TP3 The maximum degree of filling (in %) for solids transported above their melting points and for elevated temperature liquids shall be determined by the following:

Where: df and dr are the mean densities of the liquid at the mean temperature of the liquid during filling and the maximum mean bulk temperature during transport respectively.

* * * * *

TP6 The tank must be equipped with a pressure release device which prevent a tank from bursting under fire engulfment conditions (the conditions prescribed in CGA pamphlet S-1.2 (see § 171.7 of this subchapter) or alternative conditions approved by the Associate Administrator may be used to consider the fire engulfment condition), taking into account the properties of the hazardous material to be transported.

* * * * *

TP32 Portable tanks may be used subject to the following conditions:

a. Each portable tank constructed of metal must be fitted with a pressure-relief device consisting of a reclosing spring loaded type, a frangible disc or a fusible element. The set to discharge for the spring loaded pressure relief device and the burst pressure for the frangible disc, as applicable, must not be greater than 2.65 bar for portable tanks with minimum test pressures greater than 4 bar;

b. The suitability for transport in tanks must be demonstrated using test 8(d) in Test Series 8 (see UN Manual of Tests and Criteria, Part 1, Sub-section 18.7) (IBR, see § 171.7 of this subchapter) or an alternative means approved by the Associate Administrator.

TP33 The portable tank instruction assigned for this substance applies for granular and powdered solids and for solids which are filled and discharged at temperatures above their melting point which are cooled and transported as a solid mass. Solid substances transported or offered for transport above their melting point are authorized for transportation in portable tanks conforming to the provisions of portable tank instruction T4 for solid substances of packing group III or T7 for solid substances of packing group II, unless a tank with more stringent requirements for minimum shell thickness, maximum allowable working pressure, pressure-relief devices or bottom outlets are assigned in which case the more stringent tank instruction and special provisions shall apply. Filling limits must be in accordance with portable tank special provision TP3. Solids meeting the definition of an elevated temperature material must be transported in accordance with the applicable requirements of this subchapter.

* * * * *

12. In § 172.202, paragraphs (a)(2)(iii) and (a)(5)(i) are revised to read as follows:

§ 172.202 Description of hazardous material on shipping papers.

(a) * * *

(2) * * *

(iii) For domestic shipments, primary and subsidiary hazard class or division names may be entered following the numerical hazard class or division, or following the basic description.

(5) * * *

(i) For Class I materials, the quantity must be the net explosive mass. For an explosive that is an article, such as Cartridges, small arms, the net explosive mass may be expressed in terms of the net mass of either the article or the explosive materials contained in the article.

* * * * *

13. In § 172.203, paragraphs (f), (m)(2) and (o)(3) are revised and a new paragraph (i)(3) is added to read as follows:

§ 172.203 Additional description requirements.

* * * * *

(f) Transportation by air. A statement indicating that the shipment is within the limitations prescribed for either passenger and cargo aircraft or cargo aircraft only must be entered on the shipping paper.

* * * * *

(i) * * *

(3) For a hazardous material consigned under an “n.o.s.” entry not included in the segregation groups listed in section 3.1.4 of the IMDG Code but belonging, in the opinion of the consignor, to one of these groups, the appropriate segregation group must be shown in association with the basic description (for example, IMDG Code segregation group—1 Acids). When no segregation group is applicable, there is no requirement to indicate that condition.

* * * * *

(m) * * *

(2) For materials that are poisonous by inhalation (see § 171.8 of this subchapter), the words “Poison-Inhalation Hazard” or “Toxic-Inhalation Hazard” and the words “Zone A”, “Zone B”, “Zone C”, or “Zone D”, for gases or “Zone A” or “Zone B” for liquids, as appropriate, must be entered on the shipping description. The word “Poison” or “Toxic” or the phrase “Poison-Inhalation Hazard” or “Toxic Inhalation Hazard” need not be repeated if it otherwise appears in the shipping description.

* * * * *

(o) * * *

(3) The word “SAMPLE” must be included in association with the basic description when a sample of a Division 4.1 (self-reactive) material (see § 173.224(c)(3) of this subchapter) or Division 5.2 (organic peroxide) material (see § 173.225(b)(2) of this subchapter) is offered for transportation.

14. In § 172.204, paragraph (c)(3) is revised to read as follows:

§ 172.204 Shipper's certification.

* * * * *

(c) * * *

(3) Additional certification requirements. Effective October 1, 2006, each person who offers a hazardous material for transportation by air must add to the certification required in this section the following statement:

“I declare that all of the applicable air transport requirements have been met.”

(i) Each person who offers any package or overpack of hazardous materials for transport by air must ensure that:

(A) The articles or substances are not prohibited for transport by air (see the § 172.101 Table);

(B) The articles or substances are properly classed, marked and labeled and otherwise in a condition for transport as required by this subchapter;

(C) The articles or substances are packaged in accordance with all the applicable air transport requirements, including appropriate types of packaging that conform to the packing requirements and the “A” Special Provisions in § 172.102; inner packaging and maximum quantity per package limits; the compatibility requirements (see, for example, § 173.24 of this subchapter); and requirements for closure for both inner and outer packagings, absorbent materials, and pressure differential in § 173.27 of this subchapter. Other requirements may also apply. For example, single packagings may be prohibited, inner packaging may need to be packed in intermediate packagings, and certain materials may be required to be transported in packagings meeting a more stringent performance level.

(ii) [Reserved]

* * * * *

14a. The introductory text of § 172.315 is revised to read as follows:

§ 172.315 Packages containing limited quantities.

Except for transportation by aircraft or as otherwise provided in this subchapter, a package containing a limited quantity of hazardous materials is not required to be marked with the proper shipping name provided it is marked with the identification (ID) number, preceded by the letters “UN” or “NA,” as applicable, for the entry as shown in the § 172.101 Table, and placed within a square-on-point border in accordance with the following:

* * * * *

15. A new § 172.317 is added to read as follows:

§ 172.317 KEEP AWAY FROM HEAT handling mark.

(a) General. For transportation by aircraft, each package containing self-reactive substances of Division 4.1 or organic peroxides of Division 5.2 must be marked with the KEEP AWAY FROM HEAT handling mark specified in this section.

(b) Location and design. The marking must be a rectangle measuring at least 105 mm (4.1 inches) in height by 74 mm (2.9 inches) in width. Markings with not less than half this dimension are permissible where the dimensions of the package can only bear a smaller mark.

(c) KEEP AWAY FROM HEAT handling mark. The KEEP AWAY FROM HEAT handling mark must conform to the following:

(1) Except for size, the KEEP AWAY FROM HEAT handling mark must appear as follows:

BILLING CODE 4910-60-U

(2) The symbol, letters and border must be black and the background white, except for the starburst which must be red.

(3) The KEEP AWAY FROM HEAT handling marking required by paragraph (a) of this section must be durable, legible and displayed on a background of contrasting color.

§ 172.321 [Removed]

16. Section 172.321 is removed.

PART 173—SHIPPERS—GENERAL REQUIREMENTS FOR SHIPMENTS AND PACKAGINGS

17. The authority citation for part 173 continues to read as follows:

Authority: 49 U.S.C. 5101-5127, 44701; 49 CFR 1.45, 1.53.

18. In § 173.3, paragraph (c) introductory text is revised to read as follows:

§ 173.3 Packaging and exceptions.

* * * * *

(c) Salvage drums. During transportation, as defined in 49 U.S.C. 5102(12), damaged or defective hazardous materials packages, hazardous materials packages that are found not to conform with the requirements of this subchapter, leaking hazardous materials packages, or hazardous materials that have spilled or leaked may be placed for repackaging or disposal in a metal or plastic removable head salvage drum that is compatible with the lading under the following conditions:

* * * * *

19. In § 173.24, paragraphs (g) and (i) are revised to read as follows:

§ 173.24 General requirements for packagings and packages.

* * * * *

(g) Venting. Venting of packagings, to reduce internal pressure which may develop by the evolution of gas from the contents, is permitted only when—

(1) Transportation by aircraft is not involved;

(2) Except as otherwise provided in this subchapter, the evolved gases are not poisonous, likely to create a flammable mixture with air or be an asphyxiant under normal conditions of transportation;

(3) The packaging is designed so as to preclude an unintentional release of hazardous materials from the receptacle;

(4) For bulk packagings, other than IBCs, venting is authorized for the specific hazardous material by a special provision in the § 172.101 table or by the applicable bulk packaging specification in part 178 of this subchapter; and

(5) Intermediate bulk packagings (IBCs) may be vented when required to reduce internal pressure that may develop by the evolution of gas subject to the requirements of paragraphs (g)(1) through (g)(3) of this section. The IBC must be of a type that has successfully passed (with the vent in place) the applicable design qualification tests with no release of hazardous material.

* * * * *

(i) Air transportation. Packages offered or intended for transportation by aircraft are subject to requirements additional to those of other modes of transport (e.g., quantity limitations, requirements for absorbent material, pressure differential requirements, appropriate closure procedures, and specific packaging requirements) and must conform to the general requirements for transportation by aircraft in § 173.27.

20. In § 173.25, paragraphs (a)(2) and (a)(4) are revised to read as follows:

§ 173.25 Authorized packagings and overpacks.

(a) * * *

* * * * *

(2) The overpack is marked with the proper shipping name and identification number, when applicable, and is labeled as required by this subchapter for each hazardous material contained therein, unless marking and labels representative of each hazardous material in the overpack are visible.

* * * * *

(4) The overpack is marked with the word “OVERPACK” when specification packagings are required, unless specification markings on the inside packages are visible. Alternatively, until October 1, 2007, the overpack may be marked with a statement indicating that the “inside (inner) packages comply with prescribed specifications.”

* * * * *

21. In § 173.27, paragraph (i) is revised to read as follows:

§ 173.27 General requirements for transportation by aircraft.

* * * * *

(i) Effective October 1, 2006, each person who offers a hazardous material for transportation by aircraft must include the certification statement specified in § 172.204(c)(3).

22. In § 173.28, paragraph (c)(2) introductory text is revised to read as follows:

§ 173.28 Reuse, reconditioning and remanufacture of packagings.

* * * * *

(c) * * *

(2) For the purpose of this subchapter, reconditioning of a non-bulk packaging other than a metal drum includes:

* * * * *

23. In § 173.115, a new paragraph (k) is added to read as follows:

§ 173.115 Class 2, Division 2.1, 2.2 and 2.3—Definitions.

* * * * *

(k) The following applies to aerosols (see § 171.8 of this subchapter):

(1) An aerosol must be assigned to Division 2.1 if the contents include 85% by mass or more flammable components and the chemical heat of combustion is 30 kJ/g or more;

(2) An aerosol must be assigned to Division 2.2 if the contents contain 1% by mass or less flammable components and the heat of combustion is less than 20 kJ/g.

(3) Aerosols not meeting the provisions of paragraphs (a) or (b) of this section must be classed in accordance with the appropriate tests of the UN Manual of Tests and Criteria (IBR, see § 171.7 of this subchapter).

(4) Division 2.3 gases may not be transported in an aerosol container.

(5) When the contents are classified as Division 6.1 or Class 8, PG III, the aerosol must be assigned a subsidiary hazard of Division 6.1 or Class 8.

(6) Substances of Division 6.1, PG I or II, and substances of Class 8, PG I are forbidden from transportation in an aerosol container.

(7) Flammable components are Class 3 flammable liquids, Class 4.1 flammable solids, or Division 2.1 flammable gases. The chemical heat of combustion must be determined in accordance with the UN Manual of Tests and Criteria (IBR, see § 171.7 of this subchapter).

24. In § 173.128, paragraph (d)(1) is revised to read as follows:

§ 173.128 Class 5, Division 5.2—Definitions and types.

* * * * *

(d) Approvals. (1) An organic peroxide must be approved, in writing, by the Associate Administrator, before being offered for transportation or transported, including assignment of a generic type and shipping description, except for—

(i) An organic peroxide which is identified by technical name in the Organic Peroxides Table in § 173.225(c);

(ii) A mixture of organic peroxides prepared according to § 173.225(b); or

(iii) An organic peroxide which may be shipped as a sample under the provisions of § 173.225(b).

* * * * *

25. In 173.132, paragraph (b)(1) is revised to read as follows:

§ 173.132 Class 6, Division 6.1—Definitions.

* * * * *

(b) * * *

(1) LD50 (median lethal dose) for acute oral toxicity is the statistically derived single dose of a substance that can be expected to cause death within 14 days in 50% of young adult albino rats when administered by the oral route. The LD50 value is expressed in terms of mass of test substance per mass of test animal (mg/kg).

* * * * *

26. In § 173.136, paragraph (d) is added to read as follows:

§ 173.136 Class 8—Definitions.

* * * * *

(d) Steel or aluminum corrosion test data produced no later than September 30, 2005, using the procedures of § 173.137(c)(2), in effect on September 30, 2004 (see 49 CFR 173.137 revised as of October 1, 2003), for appropriate steel or aluminum types may be used for classification and assignment of packing group for Class 8 materials corrosive to steel or aluminum.

27. In § 173.137, paragraph (c)(2) is revised to read as follows:

§ 173.137 Class 8—Assignment of packing group.

* * * * *

(c) * * *

* * * * *

(2) That do not cause full thickness destruction of intact skin tissue but exhibit a corrosion on steel or aluminum surfaces exceeding 6.25 mm (0.25 inch) a year at a test temperature of 55 °C (130 °F). The corrosion must be determined in accordance with the UN Manual of Tests and Criteria (IBR, see § 171.7 of this subchapter).

28. In § 173.150, paragraph (a), the introductory text of paragraph (b), paragraph (b)(2) and paragraph (c) are revised to read as follows:

§ 173.150 Exceptions for Class 3 (flammable) and combustible liquids.

(a) General. Exceptions for hazardous materials shipments in the following paragraphs are permitted only if this section is referenced for the specific hazardous material in the § 172.101 Table of this subchapter.

(b) Limited quantities. Limited quantities of flammable liquids (Class 3) and combustible liquids are excepted from labeling requirements, unless the material also meets the definition of Division 6.1 or is offered for transportation or transported by aircraft, and the specification packaging requirements of this subchapter when packaged in combination packagings according to this paragraph. In addition, shipments of limited quantities are not subject to subpart F (Placarding) of part 172 of this subchapter. Each package must conform to the packaging requirements of subpart B of this part and may not exceed 30 kg (66 pounds) gross weight. The following combination packagings are authorized:

* * * * *

(2) For flammable liquids in Packing Group II, inner packagings not over 1.0 L (0.3 gallons) net capacity each, unless the material has a subsidiary hazard of Division 6.1, Packing Group II, in which case the inner packagings may not exceed 100 mL (3.38 ounces) net capacity each, packed in a strong outer packaging.

* * * * *

(c) Consumer commodities. Except for a material that has a subsidiary hazard of Division 6.1, Packing Group II, a limited quantity which conforms to the provisions of paragraph (b) of this section and is a “consumer commodity” as defined in 171.8 of this subchapter, may be renamed “Consumer commodity” and reclassed as ORM-D material. In addition to the exceptions provided by paragraph (b) of this section, shipments of ORM-D materials are not subject to the shipping paper requirements of subpart C of part 172 of this subchapter, unless the material meets the definition of a hazardous substance, hazardous waste, marine pollutant, or are offered for transportation and transported by aircraft, and are eligible for the exceptions provided in § 173.156.

* * * * *

29. In 173.151, paragraphs (b) and (c), and the introductory text of paragraph (d) are revised to read as follows:

§ 173.151 Exceptions for Class 4.

* * * * *

(b) Limited quantities of Division 4.1. Limited quantities of flammable solids (Division 4.1) in Packing Group II or III are excepted from labeling requirements, unless the material also meets the definition of Division 6.1 or is offered for transportation or transported by aircraft, and the specification packaging requirements of this subchapter when packaged in combination packagings according to this paragraph. In addition, shipments of limited quantities are not subject to subpart F (Placarding) of part 172 of this subchapter. Each package must conform to the packaging requirements of subpart B of this part and may not exceed 30 kg (66 pounds) gross weight. The following combination packagings are authorized:

(1) For flammable solids in Packing Group II, inner packagings not over 1.0 kg (2.2 pounds) net capacity each, unless the material has a subsidiary hazard of Division 6.1, Packing Group II, in which case the inner packagings may not exceed 0.5 kg (1.1 pounds) net capacity each, packed in a strong outer packaging.

(2) For flammable solids in Packing Group III, inner packagings not over 5.0 kg (11 pounds) net capacity each, packed in a strong outer packaging.

(c) Consumer commodities. Except for a material that has a subsidiary hazard of Division 6.1, Packing Group II, a limited quantity which conforms to the provisions of paragraph (b) of this section, and charcoal briquettes in packagings not exceeding 30 kg (66 pounds) gross weight, may be renamed “Consumer commodity” and reclassed as ORM-D material if the material is a “consumer commodity” as defined in 171.8 of this subchapter. In addition to the exceptions provided by paragraph (b) of this section, shipments of ORM-D materials are not subject to the shipping paper requirements of subpart C of part 172 of this subchapter, unless the material meets the definition of a hazardous substance, hazardous waste, marine pollutant, or is offered for transportation and transported by aircraft, and are eligible for the exceptions provided in § 173.156.

(d) Limited quantities of Division 4.3. Limited quantities of dangerous when wet (Division 4.3) solids in Packing Group II or III are excepted from labeling requirements, unless the material also meets the definition of Division 6.1 or is offered for transportation or transported by aircraft, and the specification packaging requirements of this subchapter when packaged in combination packagings according to this paragraph. In addition, shipments of limited quantities are not subject to subpart F (Placarding) of part 172 of this subchapter. Each package must conform to the packaging requirements of subpart B of this part and may not exceed 30 kg (66 pounds) gross weight. The following combination packagings are authorized:

* * * * *

30. In § 173.152, the introductory text of paragraph (b), paragraph (b)(1), and paragraph (c) are revised to read as follows:

§ 173.152 Exceptions for Division 5.1 (oxidizers) and Division 5.2 (organic peroxides).

* * * * *

(b) Limited quantities. Limited quantities of oxidizers (Division 5.1) in Packing Group II and III and organic peroxides are excepted from labeling requirements, unless the material also meets the definition of Division 6.1 or is offered for transportation or transported by aircraft, and the specification packaging requirements of this subchapter when packaged in combination packagings according to this paragraph. In addition, shipments of limited quantities are not subject to subpart F (Placarding) of part 172 of this subchapter. Each package must conform to the packaging requirements of subpart B of this part and may not exceed 30 kg (66 pounds) gross weight. The following combination packagings are authorized:

(1) For oxidizers in Packing Group II, inner packagings not over 1.0 L (0.3 gallon) net capacity each for liquids or not over 1.0 kg (2.2 pounds) net capacity each for solids, unless the material has a subsidiary hazard of Division 6.1, Packing Group II, in which case the inner packagings may not exceed 100 mL (3.38 ounces) for liquids or 0.5 kg (1.1 pounds) for solids, packed in a strong outer packaging.

* * * * *

(c) Consumer commodities. Except for a material that has a subsidiary hazard of Division 6.1, Packing Group II, a limited quantity which conforms to the provisions of paragraph (b) of this section, and is a “consumer commodity” as defined in § 171.8 of this subchapter, may be renamed “Consumer commodity” and reclassed as ORM-D. In addition to the exceptions provided by paragraph (b) of this section, shipments of ORM-D materials are not subject to the shipping paper requirements of subpart C of part 172 of this subchapter, unless the material meets the definition of a hazardous substance, hazardous waste, marine pollutant, or are offered for transportation and transported by aircraft, and are eligible for the exceptions provided in § 173.156.

31. In § 173.153, paragraph (b), and paragraph (c)(1) are revised to read as follows:

§ 173.153 Exceptions for Division 6.1 (poisonous materials).

* * * * *

(b) Limited quantities. The exceptions in this paragraph do not apply to poison-by-inhalation materials. Limited quantities of poisonous materials (Division 6.1) in Packing Group II and III are excepted from the specification packaging requirements of this subchapter when packaged in combination packagings according to this paragraph. In addition, shipments of limited quantities are not subject to subpart F (Placarding) of part 172 of this subchapter. Each package must conform to the packaging requirements of subpart B of this part and may not exceed 30 kg (66 pounds) gross weight. The following combination packagings are authorized:

(1) For poisonous materials in Packing Group II, inner packagings not over 100 mL (3.38 ounces) each for liquids or 0.5 kg (1.1 pounds) each for solids, packed in a strong outer packaging.

(2) For poisonous materials in Packing Group III, inner packagings not over 4 L (1.0 gallon) each for liquids or 5.0 kg (11 pounds) each for solids, packed in a strong outer packaging.

(c) * * *

(1) A limited quantity of poisonous material in Packing Group III which conforms to the provisions of paragraph (b) of this section, and is a “consumer commodity” as defined in § 171.8 of this subchapter, may be renamed “Consumer commodity” and reclassed as ORM-D.

* * * * *

32. In § 173.154, the introductory text of paragraph (b), paragraph (b)(1), and paragraph (c) are revised to read as follows:

§ 173.154 Exceptions for Class 8 (corrosive materials).

* * * * *

(b) Limited quantities. Limited quantities of corrosive materials (Class 8) in Packing Group II and III are excepted from labeling requirements, unless the material also meets the definition of Division 6.1 or is offered for transportation or transported by aircraft, and the specification packaging requirements of this subchapter when packaged in combination packagings according to this paragraph. In addition, shipments of limited quantities are not subject to subpart F (Placarding) of part 172 of this subchapter. Each package must conform to the packaging requirements of subpart B of this part and may not exceed 30 kg (66 pounds) gross weight. The following combination packagings are authorized:

(1) For corrosive materials in Packing Group II, inner packagings not over 1.0 L (0.3 gallon) net capacity each for liquids or not over 1.0 kg (2.2 pounds) net capacity each for solids, unless the material has a subsidiary hazard of Division 6.1, Packing Group II in which case the inner packagings may not exceed 100 mL (3.38 ounces) for liquids or 0.5 kg (1.1 pounds) for solids, packed in a strong outer packaging.

* * * * *

(c) Consumer commodities. Except for a material that has a subsidiary hazard of Division 6.1, Packing Group II, a limited quantity which conforms to the provisions of paragraph (b) of this section, and is a “consumer commodity” as defined in § 171.8 of this subchapter, may be renamed “Consumer commodity” and reclassed as ORM-D. In addition to the exceptions provided by paragraph (b) of this section, shipments of ORM-D materials are not subject to the shipping paper requirements of subpart C of part 172 of this subchapter, unless the material meets the definition of a hazardous substance, hazardous waste, marine pollutant, or are offered for transportation and transported by aircraft, and are eligible for the exceptions provided in § 173.156.

* * * * *

33. In § 173.185, paragraphs (c)(3) and (e)(6) are revised to read as follows:

§ 173.185 Lithium batteries and cells.

* * * * *

(c) * * *

(3) Each cell or battery is of the type proven to be non-dangerous by testing in accordance with Tests in the UN Manual of Tests and Criteria (IBR; see § 171.7 of this subchapter). Such testing must be carried out on each type of cell or battery prior to the initial transport of that type. A cell or battery and equipment containing a cell or battery which was first transported prior to January 1, 2006 and is of a type proven to meet the criteria of Class 9 by testing in accordance with the tests in the UN Manual of Tests and Criteria, Third Revised Edition, 1999 is not required to be retested;

* * * * *

(e) * * *

(6) Each cell or battery is of the type proven to meet the lithium battery requirements in the UN Manual of Tests and Criteria (IBR; see § 171.7 of this subchapter). A cell or battery and equipment containing a cell or battery which was first transported prior to January 1, 2006 and is of a type proven to meet the criteria of Class 9 by testing in accordance with the tests in the UN Manual of Tests and Criteria, Third Revised Edition, 1999 is not required to be retested.

* * * * *

34. In § 173.186, paragraph (e) is revised to read as follows:

§ 173.186 Matches.

* * * * *

(e) Packagings. Strike-anywhere matches must be tightly packed in securely closed chipboard, fiberboard, wooden, or metal inner packagings to prevent accidental ignition under conditions normally incident to transportation. Each inner packaging may contain no more than 700 strike-anywhere matches and must be packed in outer steel drums (1A2), aluminum drums (1B2), steel jerricans (3A2), wooden (4C1, 4C2), plywood (4D), reconstituted wood (4F) or fiberboard (4G) boxes, plywood (1D) or fiber (1G) drums. Gross weight of fiberboard boxes (4G) must not exceed 30 kg (66 pounds). Gross weight of other outer packagings must not exceed 45 kg (100 pounds).

35. In § 173.187, a new paragraph (f) is added to read as follows:

§ 173.187 Pyrophoric solids, metals or alloys, n.o.s.

* * * * *

(f) In specification cylinders, as prescribed for any compressed gas, except for Specifications 8 and 3HT.

36. In § 173.211, paragraph (c) is revised to read as follows:

§ 173.211 Non-bulk packagings for solid hazardous materials in Packing Group I.

* * * * *

(c) Except for transportation by passenger aircraft, the following single packagings are authorized:

Steel drum: 1A1 or 1A2

Aluminum drum: 1B1 or 1B2

Metal drum other than steel or aluminum: 1N1 or 1N2

Plastic drum: 1H1 or 1H2

Fiber drum: 1G

Steel jerrican: 3A1 or 3A2

Plastic jerrican: 3H1 or 3H2

Aluminum jerrican: 3B1 or 3B2

Steel box with liner: 4A

Aluminum box with liner: 4B

Natural wood box, sift proof: 4C2

Plastic receptacle in steel, aluminum, plywood, fiber or plastic drum: 6HA1, 6HB1, 6HD1, 6HG1 or 6HH1

Glass, porcelain or stoneware in steel, aluminum, plywood or fiber drum: 6PA1, 6PB1, 6PD1 or 6PG1

Glass, porcelain or stoneware in steel, aluminum, wooden or fiberboard box: 6PA2, 6PB2, 6PC or 6PG2

Glass, porcelain or stoneware in expanded or solid plastic packaging: 6PH1 or 6PH2

Cylinders, as prescribed for any compressed gas, except for Specification 8 and 3HT

37. In § 173.212, paragraph (c) is revised to read as follows:

§ 173.212 Non-bulk packagings for solid hazardous materials in Packing Group III.

* * * * *

(c) Except for transportation by passenger aircraft, the following single packagings are authorized:

Steel drum: 1A1 or 1A2

Aluminum drum: 1B1 or 1B2

Plywood drum: 1D

Plastic drum: 1H1 or 1H2

Fiber drum: 1G

Metal drum other than steel or aluminum: 1N1 or 1N2

Wooden barrel: 2C1 or 2C2

Steel jerrican: 3A1 or 3A2

Plastic jerrican: 3H1 or 3H2

Aluminum jerrican: 3B1 or 3B2

Steel box: 4A

Steel box with liner: 4A

Aluminum box: 4B

Aluminum box with liner: 4B

Natural wood box: 4C1

Natural wood box, sift proof: 4C2

Plywood box: 4D

Reconstituted wood box: 4F

Fiberboard box: 4G

Expanded plastic box: 4H1

Solid plastic box: 4H2

Bag, woven plastic: 5H1, 5H2 or 5H3

Bag, plastic film: 5H4

Bag, textile: 5L1, 5L2 or 5L3

Bag, paper, multiwall, water resistant: 5M2

Plastic receptacle in steel, aluminum, plywood, fiber or plastic drum: 6HA1, 6HB1, 6HD1, 6HG1 or 6HH1

Plastic receptacle in steel, aluminum, wood, plywood or fiberboard box: 6HA2, 6HB2, 6HC, 6HD2 or 6HG2

Glass, porcelain or stoneware in steel, aluminum, plywood or fiber drum: 6PA1, 6PB1, 6PD1 or 6PG1

Glass, porcelain or stoneware in steel, aluminum, wooden or fiberboard box: 6PA2, 6PB1, 6PC or 6PG2

Glass, porcelain or stoneware in expanded or solid plastic packaging: 6PH1 or 6PH2

Cylinders, as prescribed for any compressed gas, except for Specification 8 and 3HT

38. In § 173.213, paragraph (c) is revised to read as follows:

§ 173.213 Non-bulk packagings for solid hazardous materials in Packing Group III.

* * * * *

(c) The following single packagings are authorized:

Steel drum: 1A1 or 1A2

Aluminum drum: 1B1 or 1B2

Plywood drum: 1D

Plastic drum: 1H1 or 1H2

Fiber drum: 1G

Metal drum other than steel or aluminum: 1N1 or 1N2

Wooden barrel: 2C1 or 2C2

Steel jerrican: 3A1 or 3A2

Plastic jerrican: 3H1 or 3H2

Aluminum jerrican: 3B1 or 3B2

Steel box: 4A

Steel box with liner: 4A

Aluminum box: 4B

Aluminum box with liner: 4B

Natural wood box: 4C1

Natural wood box, sift proof: 4C2

Plywood box: 4D

Reconstituted wood box: 4F

Fiberboard box: 4G

Expanded plastic box: 4H1

Solid plastic box: 4H2

Bag, woven plastic: 5H1, 5H2 or 5H3

Bag, plastic film: 5H4

Bag, textile: 5L1, 5L2 or 5L3

Bag, paper, multiwall, water resistant: 5M2

Plastic receptacle in steel, aluminum, plywood, fiber or plastic drum: 6HA1, 6HB1, 6HD1, 6HG1 or 6HH1

Plastic receptacle in steel, aluminum, wood, plywood or fiberboard box: 6HA2, 6HB2, 6HC, 6HD2 or 6HG2

Glass, porcelain or stoneware in steel, aluminum, plywood or fiber drum: 6PA1, 6PB1, 6PD1 or 6PG1

Glass, porcelain or stoneware in steel, aluminum, wooden or fiberboard box: 6PA2, 6PB1, 6PC or 6PG2

Glass, porcelain or stoneware in expanded or solid plastic packaging: 6PH1 or 6PH2

Cylinders, as prescribed for any compressed gas, except for Specification 8 and 3HT

39. Section 173.219 is revised to read as follows:

§ 173.219 Life-saving appliances.

(a) A life-saving appliance, self-inflating or non-self-inflating, containing small quantities of hazardous materials that are required as part of the life-saving appliance must conform to the requirements of this section. Packagings must conform to the general packaging requirements of subpart B of this part but need not conform to the requirements of part 178 of this subchapter. The appliances must be packed, so that they cannot be accidentally activated and, except for life vests, the hazardous materials must be in inner packagings packed so as to prevent movement. The hazardous materials must be an integral part of the appliance and in quantities that do not exceed those appropriate for the actual appliance when in use.

(b) Life saving appliances may contain:

(1) Division 2.2 compressed gases, including oxygen. However, oxygen generators are not permitted;

(2) Signal devices (Class 1), which may include smoke and illumination signal flares;

(3) Electric storage batteries and lithium batteries (Life saving appliances containing lithium batteries must be transported in accordance with § 173.185.);

(4) First aid or repair kits conforming to the applicable material and quantity limitations of § 173.161 of this subchapter;

(5) Strike-anywhere matches;

(6) For self-inflating life saving appliances only, cartridges power device of Division 1.4S, for purposes of the self-inflating mechanism provided that the quantity of explosives per appliance does not exceed 3.2 g; or

(7) Limited quantities of other hazardous materials.

(c) Hazardous materials in life saving appliances must be packaged as follows:

(1) Division 2.2 compressed gases must be packaged in cylinders in accordance with the requirements of this subchapter;

(2) Signal devices (Class 1) must be in packagings that prevent them from being inadvertently activated;

(3) Strike-anywhere matches must be cushioned to prevent movement or friction in a metal or composition receptacle with a screw-type closure in a manner that prevents them from being inadvertently activated;

(4) Limited quantities of other hazardous materials must be packaged in accordance with the requirements of this subchapter; and

(5) For other than transportation by aircraft, life saving appliances containing no hazardous materials other than carbon dioxide cylinders with a capacity not exceeding 100 cm³ are not subject to the provisions of this subchapter provided they are overpacked in rigid outer packagings with a maximum gross mass of 40 kg.

40. In § 173.220, paragraph (b)(2) is revised to read as follows:

§ 173.220 Internal combustion engines, self-propelled vehicles, mechanical equipment containing internal combustion engines, and battery powered vehicles or equipment.

* * * * *

(b) * * *

(2) Flammable liquefied or compressed gas fuel. (i) For transportation by motor vehicle, rail car or vessel, fuel tanks and fuel systems containing flammable liquefied or compressed gas fuel must be securely closed. For transportation by vessel, the requirements of §§ 176.78(k) and 176.905 of this subchapter apply.

(ii) For transportation by aircraft:

(A) Flammable gas-powered vehicles, machines, equipment or cylinders containing the flammable gas must be completely emptied of flammable gas. Lines from vessels to gas regulators, and gas regulators themselves, must also be drained of all traces of flammable gas. To ensure that these conditions are met, gas shut-off valves must be left open and connections of lines to gas regulators must be left disconnected upon delivery of the vehicle to the operator. Shut-off valves must be closed and lines reconnected at gas regulators before loading the vehicle aboard the aircraft; or alternatively

(B) Flammable gas powered vehicles, machines or equipment, which have cylinders (fuel tanks) that are equipped with electrically operated valves, may be transported under the following conditions:

(1) The valves must be in the closed position and in the case of electrically operated valves, power to those valves must be disconnected;

(2) After closing the valves, the vehicle, equipment or machinery must be operated until it stops from lack of fuel before being loaded aboard the aircraft;

(3) In no part of the system between the pressure receptacle and the shut off valve shall the pressure exceed more than 5% of the maximum allowable working pressure of the system; and

(4) There must not be any residual liquefied gas in the system, including the fuel tank.

41. In § 173.224, paragraph (b)(4) is revised to read as follows:

§ 173.224 Packaging and control and emergency temperatures for self-reactive materials.

* * * * *

(b) * * *

(4) Packing method. Column 4 specifies the highest packing method which is authorized for the self-reactive material. A packing method corresponding to a smaller package size may be used, but a packing method corresponding to a larger package size may not be used. The Table of Packing Methods in § 173.225(d) defines the packing methods. Bulk packagings for Type F self-reactive substances are authorized by § 173.225(f) for IBCs and § 173.225(h) for bulk packagings other than IBCs. Additional bulk packagings are authorized if approved by the Associate Administrator.

* * * * *

42. Section 173.225 is revised to read as follows:

§ 173.225 Packaging requirements and other provisions for organic peroxides.

(a) General. When the § 172.101 table specifies that an organic peroxide must be packaged under this section, the organic peroxide must be packaged and offered for transportation in accordance with the provisions of this section. Each packaging must conform to the general requirements of subpart B of part 173 and to the applicable requirements of part 178 of this subchapter. Non-bulk packagings must meet Packing Group II performance levels. To avoid unnecessary confinement, metallic non-bulk packagings meeting Packing Group I are not authorized. No used material, other than production residues or regrind from the same production process, may be used in plastic packagings. Organic peroxides that require temperature control are subject to the provisions of § 173.21(f). When an IBC or bulk packaging is authorized and meets the requirements of paragraph (f) or (h) of this section, respectively, lower control temperatures than those specified for non-bulk packaging may be required. An organic peroxide not identified in paragraph (c), (e), or (g) of this section by technical name, or not assigned to a generic type in accordance with the provisions in paragraph (b)(3) of this section, must conform to the provisions of paragraph (c) of § 173.128.

(b) New organic peroxides, formulations and samples. (1) Except as provided for samples in paragraph (b)(2) of this section, no person may offer for transportation an organic peroxide that is not identified by technical name in the Organic Peroxides Table, Organic Peroxide IBC Table, or the Organic Peroxide Portable Tank Table of this section, or a formulation of one or more organic peroxides that are identified by technical name in one of those tables, unless the organic peroxide is assigned a generic type and shipping description and is approved by the Associate Administrator under the provisions of § 173.128(d) of this subchapter.

(2) Samples. Samples of new organic peroxides or new formulations of organic peroxides identified in the Organic Peroxides Table in paragraph (c) of this section, for which complete test data are not available, and that are to be transported for further testing or product evaluation, may be assigned an appropriate shipping description for organic peroxide Type C, packaged and offered for transportation, under the following conditions:

(i) Data available to the person offering the material for transportation must indicate that the sample would pose a level of hazard no greater than that of an organic peroxide Type B and that the control temperature, if any, is sufficiently low to prevent any dangerous decomposition and sufficiently high to prevent any dangerous phase separation;

(ii) The sample must be packaged in accordance with packing method OP2, for a liquid or solid, respectively;

(iii) Packages of the organic peroxide may be offered for transportation and transported in a quantity not to exceed 10 kg (22 pounds) per transport vehicle; and

(iv) One of the following shipping descriptions must be assigned:

(A) Organic peroxide Type C, liquid, 5.2, UN 3103;

(B) Organic peroxide Type C, solid, 5.2, UN 3104;

(C) Organic peroxide Type C, liquid, temperature controlled, 5.2, UN 3113; or

(D) Organic peroxide Type C, solid, temperature controlled, 5.2, UN 3114.

(3) Mixtures. Mixtures of organic peroxides individually identified in the Organic Peroxides Table in paragraph (c) of this section may be classified as the same type of organic peroxide as that of the most dangerous component and be transported under the conditions for transportation given for this type. If the stable components form a thermally less stable mixture, the SADT of the mixture must be determined and the new control and emergency temperature derived under the provisions of § 173.21(f).

(c) Organic peroxides table. The following Organic Peroxides Table specifies by technical name those organic peroxides that are authorized for transportation and not subject to the approval provisions of § 173.128 of this part. An organic peroxide identified by technical name in the following table is authorized for transportation only if it conforms to all applicable provisions of the table. The column headings of the Organic Peroxides Table are as follows:

(1) Technical name. The first column specifies the technical name.

(2) ID number. The second column specifies the identification (ID) number which is used to identify the proper shipping name in the § 172.101 table. The word “EXEMPT” appearing in the column denotes that the material is not regulated as an organic peroxide.

(3) Concentration of organic peroxide. The third column specifies concentration (mass percent) limitations, if any, in mixtures or solutions for the organic peroxide. Limitations are given as minimums, maximums, or a range, as appropriate. A range includes the lower and upper limits (i.e., “53-100” means from, and including, 53% to, and including 100%). See introductory paragraph of § 172.203(k) of this subchapter for additional description requirements for an organic peroxide that may qualify for more than one generic listing, depending on its concentration.

(4) Concentration of diluents. The fourth column specifies the type and concentration (mass percent) of diluent or inert solid, when required. Other types and concentrations of diluents may be used if approved by the Associate Administrator.

(i) The required mass percent of “Diluent type A” is specified in column 4a. A diluent type A is an organic liquid that does not detrimentally affect the thermal stability or increase the hazard of the organic peroxide and with a boiling point not less than 150 °C at atmospheric pressure. Type A diluents may be used for desensitizing all organic peroxides.

(ii) The required mass percent of “Diluent type B” is specified in column 4b. A diluent type B is an organic liquid which is compatible with the organic peroxide and which has a boiling point, at atmospheric pressure, of less than 150 °C (302 °F) but at least 60 °C (140 °F), and a flash point greater than 5 °C (41 °F). Type B diluents may be used for desensitizing all organic peroxides, when specified in the organic peroxide tables, provided that the boiling point is at least 60 °C (140 °F) above the SADT of the peroxide in a 50 kg (110 lbs) package. A type A diluent may be used to replace a type B diluent in equal concentration.

(iii) The required mass percent of “Inert solid” is specified in column 4c. An inert solid is a solid that does not detrimentally affect the thermal stability or hazard of the organic peroxide.

(5) Concentration of water. Column 5 specifies, in mass percent, the minimum amount of water, if any, which must be in formulation.

(6) Packing method. Column 6 specifies the highest packing method (largest packaging capacity) authorized for the organic peroxide. Lower numbered packing methods (smaller packaging capacities) are also authorized. For example, if OP3 is specified, then OP2 and OP1 are also authorized. The Table of Packing Methods in paragraph (d) of this section defines the non-bulk packing methods.

(7) Temperatures. Column 7a specifies the control temperature. Column 7b specifies the emergency temperature. Temperatures are specified only when temperature controls are required. (See § 173.21(f)).

(8) Notes. Column 8 specifies other applicable provisions, as set forth in notes following the table.

BILLING CODE 4910-60-U

Organic Peroxide Table
Technical name | ID number | Concentration (mass %) | Diluent (mass %): A | Diluent (mass %): B | Diluent (mass %): I | Water (mass %) | Packing method | Temperature (°C): Control | Temperature (°C): Emergency | Notes
(1) | (2) | (3) | (4a) | (4b) | (4c) | (5) | (6) | (7a) | (7b) | (8)
Acetyl acetone peroxide | UN3105 | ≤42 | ≥48 |  |  | ≥8 | OP7 |  |  | 2
Acetyl acetone peroxide [as a paste] | UN3106 | ≤32 |  |  |  |  | OP7 |  |  | 21
Acetyl cyclohexanesulfonyl peroxide | UN3112 | ≤82 |  |  |  | ≥12 | OP4 | −10 | 0 |
Acetyl cyclohexanesulfonyl peroxide | UN3115 | ≤32 |  | ≥68 |  |  | OP7 | −10 | 0 |
tert-Amyl hydroperoxide | UN3107 | ≤88 | ≥6 |  |  | ≥6 | OP8 |  |  |
tert-Amyl peroxyacetate | UN3105 | ≤62 | ≥38 |  |  |  | OP7 |  |  |
tert-Amyl peroxybenzoate | UN3103 | ≤100 |  |  |  |  | OP5 |  |  |
tert-Amyl peroxy-2-ethylhexanoate | UN3115 | ≤100 |  |  |  |  | OP7 | +20 | +25 |
tert-Amyl peroxy-2-ethylhexyl carbonate | UN3105 | ≤100 |  |  |  |  | OP7 |  |  |
tert-Amyl peroxy isopropyl carbonate | UN3103 | ≤77 | ≥23 |  |  |  | OP5 |  |  |
tert-Amyl peroxyneodecanoate | UN3115 | ≤77 |  | ≥23 |  |  | OP7 | 0 | +10 |
tert-Amyl peroxypivalate | UN3113 | ≤77 |  | ≥23 |  |  | OP5 | +10 | +15 |
tert-Amyl peroxy-3,5,5-trimethylhexanoate | UN3101 | ≤100 |  |  |  |  | OP5 |  |  |
tert-Butyl cumyl peroxide | UN3107 | >42-100 |  |  |  |  | OP8 |  |  | 9
tert-Butyl cumyl peroxide | UN3108 | ≤52 |  |  | ≥48 |  | OP8 |  |  | 9
n-Butyl-4,4-di-(tert-butylperoxy)valerate | UN3103 | >52-100 |  |  |  |  | OP5 |  |  |
n-Butyl-4,4-di-(tert-butylperoxy)valerate | UN3108 | ≤52 |  |  | ≥48 |  | OP8 |  |  |
tert-Butyl hydroperoxide | UN3103 | >79-90 |  |  |  | ≥10 | OP5 |  |  | 13
tert-Butyl hydroperoxide | UN3105 | ≤80 | ≥20 |  |  |  | OP7 |  |  | 4, 13
tert-Butyl hydroperoxide | UN3107 | ≤79 |  |  |  | >14 | OP8 |  |  | 13, 16
tert-Butyl hydroperoxide | UN3109 | ≤72 |  |  |  | ≥28 | OP8 |  |  | 13
tert-Butyl hydroperoxide [and] Di-tert-butylperoxide | UN3103 | <82+>9 |  |  |  | ≥7 | OP5 |  |  | 13
tert-Butyl monoperoxymaleate | UN3102 | >52-100 |  |  |  |  | OP5 |  |  |
tert-Butyl monoperoxymaleate | UN3103 | ≤52 | ≥48 |  |  |  | OP6 |  |  |
tert-Butyl monoperoxymaleate | UN3108 | ≤52 |  |  | ≥48 |  | OP8 |  |  |
tert-Butyl monoperoxymaleate [as a paste] | UN3108 | ≤52 |  |  |  |  | OP8 |  |  |
tert-Butyl peroxyacetate | UN3101 | >52-77 | ≥23 |  |  |  | OP5 |  |  |
tert-Butyl peroxyacetate | UN3103 | >32-52 | ≥48 |  |  |  | OP6 |  |  |
tert-Butyl peroxyacetate | UN3109 | ≤32 |  | ≥68 |  |  | OP8 |  |  |
tert-Butyl peroxybenzoate | UN3103 | >77-100 |  |  |  |  | OP5 |  |  |
tert-Butyl peroxybenzoate | UN3105 | >52-77 | ≥23 |  |  |  | OP7 |  |  | 1
tert-Butyl peroxybenzoate | UN3106 | ≤52 |  |  | ≥48 |  | OP7 |  |  |
tert-Butyl peroxybutyl fumarate | UN3105 | ≤52 | ≥48 |  |  |  | OP7 |  |  |
tert-Butyl peroxycrotonate | UN3105 | ≤77 | ≥23 |  |  |  | OP7 |  |  |
tert-Butyl peroxydiethylacetate | UN3113 | ≤100 |  |  |  |  | OP5 | +20 | +25 |
tert-Butyl peroxy-2-ethylhexanoate | UN3113 | >52-100 |  |  |  |  | OP6 | +20 | +25 |
tert-Butyl peroxy-2-ethylhexanoate | UN3117 | >32-52 |  | ≥48 |  |  | OP8 | +30 | +35 |
tert-Butyl peroxy-2-ethylhexanoate | UN3118 | ≤52 |  |  | ≥48 |  | OP8 | +20 | +25 |
tert-Butyl peroxy-2-ethylhexanoate | UN3119 | ≤32 |  | ≥68 |  |  | OP8 | +40 | +45 |
tert-Butyl peroxy-2-ethylhexanoate [and] 2,2-di-(tert-Butylperoxy)butane | UN3106 | ≤12+≤14 | ≥14 |  | ≥60 |  | OP7 |  |  |
tert-Butyl peroxy-2-ethylhexanoate [and] 2,2-di-(tert-Butylperoxy)butane | UN3115 | ≤31+≤36 |  | ≥33 |  |  | OP7 | +35 | +40 |
tert-Butyl peroxy-2-ethylhexylcarbonate | UN3105 | ≤100 |  |  |  |  | OP7 |  |  |
tert-Butyl peroxyisobutyrate | UN3111 | >52-77 |  | ≥23 |  |  | OP5 | +15 | +20 |
tert-Butyl peroxyisobutyrate | UN3115 | ≤52 |  | ≥48 |  |  | OP7 | +15 | +20 |
tert-Butylperoxy isopropylcarbonate | UN3103 | ≤77 | ≥23 |  |  |  | OP5 |  |  |
1-(2-tert-Butylperoxy isopropyl)-3-isopropenylbenzene | UN3105 | ≤77 | ≥23 |  |  |  | OP7 |  |  |
1-(2-tert-Butylperoxy isopropyl)-3-isopropenylbenzene | UN3108 | ≤42 |  |  | ≥58 |  | OP8 |  |  |
tert-Butyl peroxy-2-methylbenzoate | UN3103 | ≤100 |  |  |  |  | OP5 |  |  |
tert-Butyl peroxyneodecanoate | UN3115 | >77-100 |  |  |  |  | OP7 | −5 | +5 |
tert-Butyl peroxyneodecanoate | UN3115 | ≤77 |  | ≥23 |  |  | OP7 | 0 | +10 |
tert-Butyl peroxyneodecanoate [as a stable dispersion in water] | UN3119 | ≤52 |  |  |  |  | OP8 | 0 | +10 |
tert-Butyl peroxyneodecanoate [as a stable dispersion in water (frozen)] | UN3118 | ≤42 |  |  |  |  | OP8 | 0 | +10 |
tert-Butyl peroxyneodecanoate | UN3119 | ≤32 | ≥68 |  |  |  | OP8 | 0 | +10 |
tert-Butyl peroxyneoheptanoate | UN3115 | ≤77 | ≥23 |  |  |  | OP7 | 0 | +10 |
tert-Butyl peroxyneoheptanoate [as a stable dispersion in water] | UN3117 | ≤42 |  |  |  |  | OP8 | 0 | +10 |
tert-Butyl peroxypivalate | UN3113 | >67-77 | ≥23 |  |  |  | OP5 | 0 | +10 |
tert-Butyl peroxypivalate | UN3115 | >27-67 |  | ≥33 |  |  | OP7 | 0 | +10 |
tert-Butyl peroxypivalate | UN3119 | ≤27 |  | ≥73 |  |  | OP8 | +30 | +35 |
tert-Butylperoxy stearylcarbonate | UN3106 | ≤100 |  |  |  |  | OP7 |  |  |
tert-Butyl peroxy-3,5,5-trimethylhexanoate | UN3105 | >32-100 |  |  |  |  | OP7 |  |  |
tert-Butyl peroxy-3,5,5-trimethylhexanoate | UN3109 | ≤32 |  | ≥68 |  |  | OP8 |  |  |
3-Chloroperoxybenzoic acid | UN3102 | >57-86 |  |  | ≥14 |  | OP1 |  |  |
3-Chloroperoxybenzoic acid | UN3106 | ≤57 |  |  | ≥3 | ≥40 | OP7 |  |  |
3-Chloroperoxybenzoic acid | UN3106 | ≤77 |  |  | ≥6 | ≥17 | OP7 |  |  |
Cumyl hydroperoxide | UN3107 | >90-98 | ≤10 |  |  |  | OP8 |  |  | 13
Cumyl hydroperoxide | UN3109 | ≤90 | ≥10 |  |  |  | OP8 |  |  | 13, 15
Cumyl peroxyneodecanoate | UN3115 | ≤77 |  | ≥23 |  |  | OP7 | −10 | 0 |
Cumyl peroxyneodecanoate [as a stable dispersion in water] | UN3119 | ≤52 |  |  |  |  | OP8 | −10 | 0 |
Cumyl peroxyneoheptanoate | UN3115 | ≤77 | ≥23 |  |  |  | OP7 | −10 | 0 |
Cumyl peroxypivalate | UN3115 | ≤77 |  | ≥23 |  |  | OP7 | −5 | +5 |
Cyclohexanone peroxide(s) | UN3104 | ≤91 |  |  |  | ≥9 | OP6 |  |  | 13
Cyclohexanone peroxide(s) | UN3105 | ≤72 | ≥28 |  |  |  | OP7 |  |  | 5
Cyclohexanone peroxide(s) [as a paste] | UN3106 | ≤72 |  |  |  |  | OP7 |  |  | 5, 21
Cyclohexanone peroxide(s) | Exempt | ≤32 |  |  | ≥68 |  | Exempt |  |  |
Diacetone alcohol peroxides | UN3115 | ≤57 |  | ≥26 |  | ≥8 | OP7 | +40 | +45 | 5
Diacetyl peroxide | UN3115 | ≤27 |  | ≥73 |  |  | OP7 | +20 | +25 | 8,13
Di-tert-amyl peroxide | UN3107 | ≤100 |  |  |  |  | OP8 |  |  |
1,1-Di-(tert-amylperoxy)cyclohexane | UN3103 | ≤82 | ≥18 |  |  |  | OP6 |  |  |
Dibenzoyl peroxide | UN3102 | >51-100 |  |  | ≤48 |  | OP2 |  |  | 3
Dibenzoyl peroxide | UN3102 | >77-94 |  |  |  | ≥6 | OP4 |  |  | 3
Dibenzoyl peroxide | UN3104 | ≤77 |  |  |  | ≥23 | OP6 |  |  |
Dibenzoyl peroxide | UN3106 | ≤62 |  |  | ≥28 | ≥10 | OP7 |  |  |
Dibenzoyl peroxide [as a paste] | UN3106 | >52-62 |  |  |  |  | OP7 |  |  | 21
Dibenzoyl peroxide | UN3106 | >35-52 |  |  | ≥48 |  | OP7 |  |  |
Dibenzoyl peroxide | UN3107 | >36-42 | ≥18 |  |  | ≤40 | OP8 |  |  |
Dibenzoyl peroxide [as a paste] | UN3108 | ≤56.5 |  |  |  | ≥15 | OP8 |  |  |
Dibenzoyl peroxide [as a paste] | UN3108 | ≤52 |  |  |  |  | OP8 |  |  | 21
Dibenzoyl peroxide [as a stable dispersion in water] | UN3109 | ≤42 |  |  |  |  | OP8 |  |  |
Dibenzoyl peroxide | Exempt | ≤35 |  |  | ≥65 |  | Exempt |  |  |
Di-(4-tert-butylcyclohexyl)peroxydicarbonate | UN3114 | ≤100 |  |  |  |  | OP6 | +30 | +35 |
Di-(4-tert-butylcyclohexyl)peroxydicarbonate [as a stable dispersion in water] | UN3119 | ≤42 |  |  |  |  | OP8 | +30 | +35 |
Di-tert-butyl peroxide | UN3107 | >52-100 |  |  |  |  | OP8 |  |  |
Di-tert-butyl peroxide | UN3109 | ≤52 |  | ≥48 |  |  | OP8 |  |  | 24
Di-tert-butyl peroxyazelate | UN3105 | ≤52 | ≥48 |  |  |  | OP7 |  |  |
2,2-Di-(tert-butylperoxy)butane | UN3103 | ≤52 | ≥48 |  |  |  | OP6 |  |  |
1,6-Di-(tert-butylperoxycarbonyloxy)hexane | UN3103 | ≤72 | ≥28 |  |  |  | OP5 |  |  |
1,1-Di-(tert-butylperoxy)cyclohexane | UN3101 | >80-100 |  |  |  |  | OP5 |  |  |
1,1-Di-(tert-butylperoxy)cyclohexane | UN3103 | >52-80 | ≥20 |  |  |  | OP5 |  |  |
1,1-Di-(tert-butylperoxy)cyclohexane | UN3105 | >42-52 | ≥48 |  |  |  | OP7 |  |  |
1,1-Di-(tert-butylperoxy)cyclohexane | UN3106 | ≤42 | ≥13 |  | ≥45 |  | OP7 |  |  |
1,1-Di-(tert-butylperoxy)cyclohexane | UN3107 | ≤27 | ≥25 |  |  |  | OP8 |  |  | 22
1,1-Di-(tert-butylperoxy)cyclohexane | UN3109 | ≤42 | ≥58 |  |  |  | OP8 |  |  |
1,1-Di-(tert-butylperoxy)cyclohexane | UN3109 | ≤25 | ≥25 | ≥50 |  |  | OP8 |  |  | 29
1,1-Di-(tert-butylperoxy)cyclohexane | UN3109 | ≤13 | ≥13 | ≥74 |  |  | OP8 |  |  |
Di-n-butyl peroxydicarbonate | UN3115 | >27-52 |  | ≥48 |  |  | OP7 | −15 | −5 |
Di-n-butyl peroxydicarbonate | UN3117 | ≤27 |  | ≥73 |  |  | OP8 | −10 | 0 |
Di-n-butyl peroxydicarbonate [as a stable dispersion in water (frozen)] | UN3118 | ≤42 |  |  |  |  | OP8 | −15 | −5 |
Di-sec-butyl peroxydicarbonate | UN3113 | >52-100 |  |  |  |  | OP4 | −20 | −10 | 6
Di-sec-butyl peroxydicarbonate | UN3115 | ≤52 |  | ≥48 |  |  | OP7 | −15 | −5 |
Di-(2-tert-butylperoxyisopropyl)benzene(s) | UN3106 | >42-100 |  |  | ≤57 |  | OP7 |  |  | 1, 9
Di-(2-tert-butylperoxyisopropyl)benzene(s) | Exempt | ≤42 |  |  | ≥58 |  | Exempt |  |  |
Di-(tert-butylperoxy)phthalate | UN3105 | >42-52 | ≥48 |  |  |  | OP7 |  |  |
Di-(tert-butylperoxy)phthalate [as a paste] | UN3106 | ≤52 |  |  |  |  | OP7 |  |  | 21
Di-(tert-butylperoxy)phthalate | UN3107 | ≤42 | ≥58 |  |  |  | OP8 |  |  |
2,2-Di-(tert-butylperoxy)propane | UN3105 | ≤52 | ≥48 |  |  |  | OP7 |  |  |
2,2-Di-(tert-butylperoxy)propane | UN3106 | ≤42 | ≥13 |  | ≥45 |  | OP7 |  |  |
1,1-Di-(tert-butylperoxy)-3,3,5-trimethylcyclohexane | UN3101 | >90-100 |  |  |  |  | OP5 |  |  |
1,1-Di-(tert-butylperoxy)-3,3,5-trimethylcyclohexane | UN3103 | >57-90 | ≥10 |  |  |  | OP5 |  |  |
1,1-Di-(tert-butylperoxy)-3,3,5-trimethylcyclohexane | UN3103 | ≤77 |  | ≥23 |  |  | OP5 |  |  |
1,1-Di-(tert-butylperoxy)-3,3,5-trimethylcyclohexane | UN3110 | ≤57 |  |  | ≥43 |  | OP8 |  |  |
1,1-Di-(tert-butylperoxy)-3,3,5-trimethylcyclohexane | UN3107 | ≤57 | ≥43 |  |  |  | OP8 |  |  |
1,1-Di-(tert-butylperoxy)-3,3,5-trimethylcyclohexane | UN3107 | ≤32 | ≥26 | ≥42 |  |  | OP8 |  |  |
Dicetyl peroxydicarbonate | UN3116 | ≤100 |  |  |  |  | OP7 | +30 | +35 |
Dicetyl peroxydicarbonate [as a stable dispersion in water] | UN3119 | ≤42 |  |  |  |  | OP8 | +30 | +35 |
Di-4-chlorobenzoyl peroxide | UN3102 | ≤77 |  |  |  | ≥23 | OP5 |  |  |
Di-4-chlorobenzoyl peroxide [as a paste] | UN3106 | ≤52 |  |  |  |  | OP7 |  |  | 21
Di-4-chlorobenzoyl peroxide | Exempt | ≤32 |  |  | ≥68 |  | Exempt |  |  |
Dicumyl peroxide | UN3110 | >52-100 |  |  | ≤48 |  | OP8 |  |  |
Dicumyl peroxide | Exempt | ≤52 |  |  | ≥48 |  | Exempt |  |  |
Dicyclohexyl peroxydicarbonate | UN3112 | >91-100 |  |  |  |  | OP3 | +10 | +15 |
Dicyclohexyl peroxydicarbonate | UN3114 | ≤91 |  |  |  | ≥9 | OP5 | +10 | +15 |
Dicyclohexyl peroxydicarbonate [as a stable dispersion in water] | UN3119 | ≤42 |  |  |  |  | OP8 | +15 | +20 |
Didecanoyl peroxide | UN3114 | ≤100 |  |  |  |  | OP6 | +30 | +35 |
2,2-Di-(4,4-di(tert-butylperoxy)cyclohexyl)propane | UN3106 | ≤42 |  |  | ≥58 |  | OP7 |  |  |
2,2-Di-(4,4-di(tert-butylperoxy)cyclohexyl)propane | UN3107 | ≤22 |  | ≥78 |  |  | OP8 |  |  |
Di-2,4-dichlorobenzoyl peroxide | UN3102 | ≤77 |  |  |  | ≥23 | OP5 |  |  |
Di-2,4-dichlorobenzoyl peroxide [as a paste with silicone oil] | UN3106 | ≤52 |  |  |  |  | OP7 |  |  |
Di-(2-ethoxyethyl) peroxydicarbonate | UN3115 | ≤52 |  | ≥48 |  |  | OP7 | −10 | 0 |
Di-(2-ethylhexyl) peroxydicarbonate | UN3113 | >77-100 |  |  |  |  | OP5 | −20 | −10 |
Di-(2-ethylhexyl) peroxydicarbonate | UN3115 | ≤77 |  | ≥23 |  |  | OP7 | −15 | −5 |
Di-(2-ethylhexyl) peroxydicarbonate [as a stable dispersion in water] | UN3117 | ≤62 |  |  |  |  | OP8 | −15 | −5 |
Di-(2-ethylhexyl) peroxydicarbonate [as a stable dispersion in water] | UN3119 | ≤52 |  |  |  |  | OP8 | −15 | −5 |
Di-(2-ethylhexyl) peroxydicarbonate [as a stable dispersion in water (frozen)] | UN3120 | ≤52 |  |  |  |  | OP8 | −15 | −5 |
2,2-Dihydroperoxypropane | UN3102 | ≤27 |  |  | ≥73 |  | OP5 |  |  |
Di-(1-hydroxycyclohexyl)peroxide | UN3106 | ≤100 |  |  |  |  | OP7 |  |  |
Diisobutyryl peroxide | UN3111 | >32-52 |  | ≥48 |  |  | OP5 | −20 | −10 |
Diisobutyryl peroxide | UN3115 | ≤32 |  | ≥68 |  |  | OP7 | −20 | −10 |
Diisopropylbenzene dihydroperoxide | UN3106 | ≤82 | ≥5 |  |  | ≥5 | OP7 |  |  | 17
Diisopropyl peroxydicarbonate | UN3112 | >52-100 |  |  |  |  | OP2 | −15 | −5 |
Diisopropyl peroxydicarbonate | UN3115 | ≤52 |  | ≥48 |  |  | OP7 | −20 | −10 |
Diisopropyl peroxydicarbonate | UN3115 | ≤28 | ≥72 |  |  |  | OP7 | −15 | −5 |
Dilauroyl peroxide | UN3106 | ≤100 |  |  |  |  | OP7 |  |  |
Dilauroyl peroxide [as a stable dispersion in water] | UN3109 | ≤42 |  |  |  |  | OP8 |  |  |
Di-(3-methoxybutyl) peroxydicarbonate | UN3115 | ≤52 |  | ≥48 |  |  | OP7 | −5 | +5 |
Di-(2-methylbenzoyl)peroxide | UN3112 | ≤87 |  |  |  | ≥13 | OP5 | +30 | +35 |
Di-(4-methylbenzoyl)peroxide [as a paste with silicone oil] | UN3106 | ≤52 |  |  |  |  | OP7 |  |  |
Di-(3-methylbenzoyl) peroxide + Benzoyl (3-methylbenzoyl) peroxide + Dibenzoyl peroxide | UN3115 | ≤20+≤18+≤4 |  | ≥58 |  |  | OP7 | +35 | +40 |
2,5-Dimethyl-2,5-di-(benzoylperoxy)hexane | UN3102 | >82-100 |  |  |  |  | OP5 |  |  |
2,5-Dimethyl-2,5-di-(benzoylperoxy)hexane | UN3106 | ≤82 |  |  | ≥18 |  | OP7 |  |  |
2,5-Dimethyl-2,5-di-(benzoylperoxy)hexane | UN3104 | ≤82 |  |  |  | ≥18 | OP5 |  |  |
2,5-Dimethyl-2,5-di-(tert-butylperoxy)hexane | UN3105 | >52-100 |  |  |  |  | OP7 |  |  |
2,5-Dimethyl-2,5-di-(tert-butylperoxy)hexane | UN3108 | ≤77 |  |  | ≥23 |  | OP8 |  |  |
2,5-Dimethyl-2,5-di-(tert-butylperoxy)hexane | UN3109 | ≤52 | ≥48 |  |  |  | OP8 |  |  |
2,5-Dimethyl-2,5-di-(tert-butylperoxy)hexane [as a paste] | UN3108 | ≤47 |  |  |  |  | OP8 |  |  |
2,5-Dimethyl-2,5-di-(tert-butylperoxy)hexyne-3 | UN3101 | >86-100 |  |  |  |  | OP5 |  |  |
2,5-Dimethyl-2,5-di-(tert-butylperoxy)hexyne-3 | UN3103 | >52-86 | ≥14 |  |  |  | OP5 |  |  |
2,5-Dimethyl-2,5-di-(tert-butylperoxy)hexyne-3 | UN3106 | ≤52 |  |  | ≥48 |  | OP7 |  |  |
2,5-Dimethyl-2,5-di-(2-ethylhexanoylperoxy)hexane | UN3113 | ≤100 |  |  |  |  | OP5 | +20 | +25 |
2,5-Dimethyl-2,5-dihydroperoxyhexane | UN3104 | ≤82 |  |  |  | ≥18 | OP6 |  |  |
2,5-Dimethyl-2,5-di-(3,5,5-trimethylhexanoylperoxy)hexane | UN3105 | ≤77 | ≥23 |  |  |  | OP7 |  |  |
1,1-Dimethyl-3-hydroxybutylperoxyneoheptanoate | UN3117 | ≤52 | ≥48 |  |  |  | OP8 | 0 | +10 |
Dimyristyl peroxydicarbonate | UN3116 | ≤100 |  |  |  |  | OP7 | +20 | +25 |
Dimyristyl peroxydicarbonate [as a stable dispersion in water] | UN3119 | ≤42 |  |  |  |  | OP8 | +20 | +25 |
Di-(2-neodecanoylperoxyisopropyl)benzene | UN3115 | ≤52 | ≥48 |  |  |  | OP7 | −10 | 0 |
Di-n-nonanoyl peroxide | UN3116 | ≤100 |  |  |  |  | OP7 | 0 | +10 |
Di-n-octanoyl peroxide | UN3114 | ≤100 |  |  |  |  | OP5 | +10 | +15 |
Di-(2-phenoxyethyl)peroxydicarbonate | UN3102 | >85-100 |  |  |  |  | OP5 |  |  |
Di-(2-phenoxyethyl)peroxydicarbonate | UN3106 | ≤85 |  |  |  | ≥15 | OP7 |  |  |
Dipropionyl peroxide | UN3117 | ≤27 |  | ≥73 |  |  | OP8 | +15 | +20 |
Di-n-propyl peroxydicarbonate | UN3113 | ≤100 |  |  |  |  | OP3 | −25 | −15 |
Di-n-propyl peroxydicarbonate | UN3113 | ≤77 |  | ≥23 |  |  | OP5 | −20 | −10 |
Disuccinic acid peroxide | UN3102 | >72-100 |  |  |  |  | OP4 |  |  | 18
Disuccinic acid peroxide | UN3116 | ≤72 |  |  |  | ≥28 | OP7 | +10 | +15 |
Di-(3,5,5-trimethylhexanoyl)peroxide | UN3115 | >38-82 | ≥18 |  |  |  | OP7 | 0 | +10 |
Di-(3,5,5-trimethylhexanoyl)peroxide [as a stable dispersion in water] | UN3119 | ≤52 |  |  |  |  | OP8 | +10 | +15 |
Di-(3,5,5-trimethylhexanoyl)peroxide | UN3119 | ≤38 | ≥62 |  |  |  | OP8 | +20 | +25 |
Ethyl 3,3-di-(tert-amylperoxy)butyrate | UN3105 | ≤67 | ≥33 |  |  |  | OP7 |  |  |
Ethyl 3,3-di-(tert-butylperoxy)butyrate | UN3103 | >77-100 |  |  |  |  | OP5 |  |  |
Ethyl 3,3-di-(tert-butylperoxy)butyrate | UN3105 | ≤77 | ≥23 |  |  |  | OP7 |  |  |
Ethyl 3,3-di-(tert-butylperoxy)butyrate | UN3106 | ≤52 |  |  | ≥48 |  | OP7 |  |  |
1-(2-ethylhexanoylperoxy)-1,3-Dimethylbutyl peroxypivalate | UN3115 | ≤52 | ≥45 | ≥10 |  |  | OP7 | −20 | −10 |
tert-Hexyl peroxyneodecanoate | UN3115 | ≤71 | ≥29 |  |  |  | OP7 | 0 | +10 |
tert-Hexyl peroxypivalate | UN3115 | ≤72 |  | ≥28 |  |  | OP7 | +10 | +15 |
Isopropyl sec-butyl peroxydicarbonat +Di-sec-butyl peroxydicarbonate+Di-isopropyl peroxydicarbonate | UN3111 | ≤52+≤28+≤22 |  |  |  |  | OP5 | −20 | −10 |
Isopropyl sec-butyl peroxydicarbonate+Di-sec-butyl peroxydicarbonate+Di-isopropyl peroxydicarbonate | UN3115 | ≤32+≤15−18+≤12−15 | ≥38 |  |  |  | OP7 | −20 | −10 |
Isopropylcumyl hydroperoxide | UN3109 | ≤72 | ≥28 |  |  |  | OP8 |  |  | 13
p-Menthyl hydroperoxide | UN3105 | > 72-100 |  |  |  |  | OP7 |  |  | 13
p-Menthyl hydroperoxide | UN3109 | ≤72 | ≥28 |  |  |  | OP8 |  |  |
Methylcyclohexanone peroxide(s) | UN3115 | ≤67 |  | ≥33 |  |  | OP7 | +35 | +40 |
Methyl ethyl ketone peroxide(s) | UN3101 | ≤52 | ≥48 |  |  |  | OP5 |  |  | 5, 13, 29
Methyl ethyl ketone peroxide(s) | UN3105 | ≤45 | ≥55 |  |  |  | OP7 |  |  | 5, 29
Methyl ethyl ketone peroxide(s) | UN3107 | ≤40 | ≥60 |  |  |  | OP8 |  |  | 7
Methyl isobutyl ketone peroxide(s) | UN3105 | ≤62 | ≥19 |  |  |  | OP7 |  |  | 5, 23
Organic peroxide, liquid, sample | UN3103 |  |  |  |  |  | OP2 |  |  | 12
Organic peroxide, liquid, sample, temperature controlled | UN3113 |  |  |  |  |  | OP2 |  |  | 12
Organic peroxide, solid, sample | UN3104 |  |  |  |  |  | OP2 |  |  | 12
Organic peroxide, solid, sample, temperature controlled | UN3114 |  |  |  |  |  | OP2 |  |  | 12
Peroxyacetic acid, type D, stabilized | UN3105 | ≤43 |  |  |  |  | OP7 |  |  | 13, 20
Peroxyacetic acid, type E, stabilized | UN3107 | ≤43 |  |  |  |  | OP8 |  |  | 13, 20
Peroxyacetic acid, type F, stabilized | UN3109 | ≤43 |  |  |  |  | OP8 |  |  | 13, 20, 28
Peroxyacetic acid or peracetic acid [with not more than 7% hydrogen peroxide] | UN3107 | ≤36 |  |  |  | ≥15 | OP8 |  |  | 13, 20, 28, 29
Peroxyacetic acid or peracetic acid [with not more than 20% hydrogen peroxide] | Exempt | ≤6 |  |  |  | ≥60 | Exempt |  |  | 28, 29
Peroxyacetic acid or peracetic acid [with not more than 26% hydrogen peroxide] | UN3109 | ≤17 |  |  |  |  | OP8 |  |  | 13, 20, 28, 29
Peroxylauric acid | UN3118 | ≤100 |  |  |  |  | OP8 | +35 | +40 |
Pinanyl hydroperoxide | UN3105 | >56-100 |  |  |  |  | OP7 |  |  | 13
Pinanyl hydroperoxide | UN3109 | ≤56 | ≥44 |  |  |  | OP8 |  |  |
Polyether poly-tert-butylperoxycarbonate | UN3107 | ≤52 |  | ≥48 |  |  | OP8 |  |  |
Tetrahydronaphthyl hydroperoxide | UN3106 | ≤100 |  |  |  |  | OP7 |  |  |
1,1,3,3-Tetramethylbutyl hydroperoxide | UN3105 | ≤100 |  |  |  |  | OP7 |  |  |
1,1,3,3-Tetramethylbutyl peroxy-2-ethylhexanoate | UN3115 | ≤100 |  |  |  |  | OP7 | +15 | +20 |
1,1,3,3-Tetramethylbutyl peroxyneodecanoate | UN3115 | ≤72 |  | ≥28 |  |  | OP7 | -5 | +5 |
1,1,3,3-Tetramethylbutyl peroxyneodecanoate [as a stable dispersion in water] | UN3119 | ≤52 |  |  |  |  | OP8 | −5 | +5 |
1,1,3,3-tetramethylbutyl peroxypivalate | UN3115 | ≤77 | ≥23 |  |  |  | OP7 | 0 | +10 |
3,6,9-Triethyl-3,6,9-trimethyl-1,4,7-triperoxonane | UN3105 | ≤42 | ≥58 |  |  |  | OP7 |  |  | 26

BILLING CODE 4910-60-S

Notes

1. For domestic shipments, OP8 is authorized.

2. Available oxygen must be <4.7%.

3. For concentrations <80% OP5 is allowed. For concentrations of at least 80% but <85%, OP4 is allowed. For concentrations of at least 85%, maximum package size is OP2.

4. The diluent may be replaced by di-tert-butyl peroxide.

5. Available oxygen must be ≤9% with or without water.

6. For domestic shipments, OP5 is authorized.

7. Available oxygen must be ≤8.2% with or without water.

8. Only non-metallic packagings are authorized.

9. For domestic shipments this material maybe transported under the provisions of paragraph (h)(3)(xii) of this section.

10. [Reserved]

11. [Reserved]

12. Samples may only be offered for transportation under the provisions of paragraph (c)(2) of this section.

13. “Corrosive” subsidiary risk label is required.

14. [Reserved]

15. No “Corrosive” subsidiary risk label is required for concentrations below 80%.

16. With <6% di-tert-butyl peroxide.

17. With ≥8% 1-isopropylhydroperoxy-4-isopropylhydroxybenzene.

18. Addition of water to this organic peroxide will decrease its thermal stability.

19. [Reserved]

20. Mixtures with hydrogen peroxide, water and acid(s).

21. With diluent type A, with or without water.

22. With ≥36% diluent type A by mass, and in addition ethylbenzene.

23. With ≥19% diluent type A by mass, and in addition methyl isobutyl ketone.

24. Diluent type B with boiling point >100 C.

25. No “Corrosive” subsidiary risk label is required for concentrations below 56%.

26. Available oxygen must be ≤7.6%.

27. Formulations derived from distillation of peroxyacetic acid originating from peroxyacetic acid in a concentration of not more than 41% with water, total active oxygen less than or equal to 9.5% (peroxyacetic acid plus hydrogen peroxide).

28. For the purposes of this section, the names “Peroxyacetic acid” and “Peracetic acid” are synonymous.

29. For international transportation, shipments of this material must be accompanied by a Competent Authority approval from the Associate Administrator.

(d) Packing Method Table. Packagings for organic peroxides and self-reactive substances are listed in the Maximum Quantity per Packing Method Table. The packing methods are designated OP1 to OP8. The quantities specified for each packing method represent the maximum that is authorized.

(1) The following types of packagings are authorized:

(i) Drums: 1A1, 1A2, 1B1, 1B2, 1D, 1G, 1H1, 1H2;

(ii) Jerricans: 3A1, 3A2, 3B1, 3B2, 3H1, 3H2;

(iii) Boxes: 4C1, 4C2, 4D, 4F, 4G, 4H1, 4H2, 4A, 4B; or

(iv) Composite packagings with a plastic inner receptacle: 6HA1, 6HA2, 6HB1, 6HB2, 6HC, 6HD1, 6HD2, 6HG1, 6HG2, 6HH1, 6HH2.

(2) Metal packaging (including inner packagings of combination packagings and outer packagings of combination or composite packagings) are used only for packing methods OP7 and OP8.

(3) In combination packagings, glass receptacles are used only as inner packagings with a maximum content of 0.5 kg for solids or 0.5 L for liquids.

(4) The maximum quantity per packaging or package for Packing Methods OP1-OP8 must be as follows:

Maximum Quantity Per Packaging/Package
[For Packing Methods OP1 to OP8]
Maximum quantity | Packing Method: OP1 | Packing Method: OP2 | Packing Method: OP3 | Packing Method: OP4 ¹ | Packing Method: OP5 | Packing Method: OP6 | Packing Method: OP7 | Packing Method: OP8
Solids and combination packagings (liquid and solid) (kg) | 0.5 | 0.5/10 | 5 | 5 | 25 | 50 | 50 | ² 400
Liquids (L) | 0.5 |  | 5 |  | 30 | 60 | 60 | ³ 225
¹ If two values are given, the first applies to the maximum net mass per inner packaging and the second to the maximum net mass of the complete package.
² 60 kg for jerricans/200 kg for boxes and, for solids, 400 kg in combination packagings with outer packagings comprising boxes (4C1, 4C2, 4D, 4F, 4G, 4H1, and 4H2) and with inner packagings of plastics or fiber with a maximum net mass of 25 kg.
³ 60 L for jerricans.

(e) Organic Peroxide IBC Table. The following Organic Peroxide IBC Table specifies, by technical name, those organic peroxides that are authorized for transportation in certain IBCs and not subject to the approval provisions of § 173.128 of this part. Additional requirements for authorized IBCs are found in paragraph (f) of this section.

Organic Peroxide IBC Table
UN No. | Organic peroxide | Type of IBC | Maximum quantity (litres) | Control temperature | Emergency temperature
3109 | ORGANIC PEROXIDE, TYPE F, LIQUID
| tert-Butyl hydroperoxide, not more than 72% with water | 31A | 1250
| tert-Butyl peroxyacetate, not more than 32% in diluent type A | 31A | 1250
|  | 31HA1 | 1000
| tert-Butyl peroxy-3,5,5-trimethylhexanoate, not more than 32% in diluent type A | 31A | 1250
|  | 31HA1 | 1000
| Cumyl hydroperoxide, not more than 90% in diluent type A | 31HA1 | 1250
| Dibenzoyl peroxide, not more than 42% as a stable dispersion | 31H1 | 1000
| Di-tert-butyl peroxide, not more than 52% in diluent type B | 31A | 1250
|  | 31HA1 | 1000
| 1,1-Di-(tert-butylperoxy) cyclohexane, not more than 42% in diluent type A | 31H1 | 1000
| Dicumyl peroxide, less than or equal to 100% | 31A | 1250
|  | 31HA1 | 1000
| Dilauroyl peroxide, not more than 42%, stable dispersion, in water | 31HA1 | 1000
| Isopropyl cumyl hydroperoxide, not more than 72% in diluent type A | 31HA1 | 1250
| p-Menthyl hydroperoxide, not more than 72% in diluent type A | 31HA1 | 1250
| Peroxyacetic acid, stabilized, not more than 17% | 31H1 | 1500
|  | 31HA1 | 1500
|  | 31A | 1500
| Peroxyacetic acid, with not more than 26% hydrogen peroxide | 31A | 1500
|  | 31HA1 | 1500
| Peroxyacetic acid, type F, stabilized | 31A | 1500
|  | 31HA1 | 1500
3110 | ORGANIC PEROXIDE TYPE F, SOLID
| Dicumyl peroxide, less than or equal to 100% | 31A | 2000
|  | 31H1
|  | 31HA1
3119 | ORGANIC PEROXIDE, TYPE F, LIQUID, TEMPERATURE CONTROLLED
| tert-Butyl peroxy-2-ethylhexanoate, not more than 32% in diluent type B | 31HA1 | 1000 | +30 °C | +35 °C
|  | 31A | 1250 | +30 °C | +35 °C
| tert-Butyl peroxyneodecanoate, not more than 32% in diluent type A | 31A | 1250 | 0 °C | +10 °C
| tert-Butyl peroxyneodecanoate, not more than 42% stable dispersion, in water | 31A | 1250 | −5 °C | +5 °C
| tert-Butyl peroxypivalate, not more than 27% in diluent type B | 31HA1 | 1000 | +10 °C | +15 °C
|  | 31A | 1250 | +10 °C | +15 °C
| Cumyl peroxyneodecanoate, not more than 52%, stable dispersion, in water | 31A | 1250 | −15 °C | −5 °C
| Dicyclohexylperoxydicarbonate, not more than 42% as a stable dispersion, in water | 31A | 1250 | +10 °C | +15 °C
| Di-(4-tert-butylcyclohexyl) peroxydicarbonate, not more than 42%, stable dispersion, in water | 31HA1 | 1000 | +30 °C | +35 °C
| Dicetyl peroxydicarbonate, not more than 42%, stable dispersion, in water | 31HA1 | 1000 | +30 °C | +35 °C
| Di-(2-ethylhexyl) peroxydicarbonate, not more than 52%, stable dispersion, in water | 31A | 1250 | −20 °C | −10 °C
| Dimyristyl peroxydicarbonate, not more than 42%, stable dispersion, in water | 31HA1 | 1000 | +15 °C | +20 °C
| Di-(3,5,5-trimethylhexanoyl) peroxide, not more than 38% in diluent type A | 31HA1 | 1000 | +10 °C | +15 °C
|  | 31A | 1250 | +10 °C | +15 °C
| Di-(3,5,5-trimethylhexanoyl) peroxide, not more than 52%, stable dispersion, in water | 31A | 1250 | +10 °C | +15 °C
| 1,1,3,3-Tetramethylbutyl peroxyneodecanoate, not more than 52%, stable dispersion, in water | 31A | 1250 | −5 °C | +5 °C

(f) IBCs. IBCs are authorized subject to the conditions and limitations of this section if the IBC type is authorized according to paragraph (e) of this section, as applicable, and the IBC conforms to the requirements in subpart O of part 178 of this subchapter at the Packing Group II performance level. Type F organic peroxides or self-reactive substances are not authorized for transportation in IBCs other than those specified, unless approved by the Associate Administrator.

(1) IBCs shall be provided with a device to allow venting during transportation. The inlet to the pressure relief device shall be sited in the vapor space of the IBC under maximum filling conditions during transportation.

(2) To prevent explosive rupture of metal IBCs or composite IBCs with a complete metal casing, the emergency-relief devices shall be designed to vent all the decomposition products and vapors evolved during self-accelerating decomposition or during a period of not less than one hour of complete fire-engulfment as calculated by the formula in paragraph (h)(3)(v) of this section. The control and emergency temperatures specified in the Organic Peroxide IBC Table are based on a non-insulated IBC.

(g) Organic Peroxide Portable Tank Table. The following Organic Peroxide Portable Tank Table provides certain portable tank requirements and identifies, by technical name, those organic peroxides that are authorized for transportation in the bulk packagings listed in paragraph (h). Organic peroxides listed in this table, provided they meet the specific packaging requirements found in paragraph (h), are not subject to the approval provisions of § 173.128 of this part.

Organic Peroxide Portable Tank Table
UN No. | Hazardous material | Minimum test pressure (bar) | Minimum shell thickness (mm-reference steel) See. . . | Bottom opening requirements See. . . | Pressure-relief requirements See. . . | Filling limits | Control temperature | Emergency temperature
3109 | ORGANIC PEROXIDE, TYPE F, LIQUID
| tert-Butyl hydroperoxide, not more than 72% with water *Provided that steps have been taken to achieve the safety equivalence of 65% tert-Butyl hydroperoxide and 35% water | 4 | § 178.274(d)(2) | § 178.275(d)(3) | § 178.275(g)(1) | Not more than 90% at 59 °F (15 °C)
| Cumyl hydro-peroxide, not more than 90% in diluent type A | 4 | § 178.274(d)(2) | § 178.275(d)(3) | § 178.275(g)(1) | Not more than 90% at 59 °F (15 °C)
| Di-tert-butyl peroxide, not more 32% in diluent type A | 4 | § 178.274(d)(2) | § 178.275(d)(3) | § 178.275(g)(1) | Not more than 90% at 59 °F (15 °C)
| Dicumyl peroxide, less than or equal to 100% in diluent type B | 4 | § 178.274(d)(2) | § 178.275(d)(3) | § 178.275(g)(1) | Not more than 90% at 59 °F (15 °C)
| Isopropyl cumyl hydroperoxide, not more 72% in diluent type A | 4 | § 178.274(d)(2) | § 178.275(d)(3) | § 178.275(g)(1) | Not more than 90% at 59 °F (15 °C)
| p-Menthyl hydro-peroxide, not more 72% in diluent type A | 4 | § 178.274(d)(2) | § 178.275(d)(3) | § 178.275(g)(1) | Not more than 90% at 59 °F (15 °C)
| Pinanyl hydro-peroxide, not more than 56% in diluent type A | 4 | § 178.274(d)(2) | § 178.275(d)(3) | § 178.275(g)(1) | Not more than 90% at 59 °F (15 °C)
3110 | ORGANIC PEROXIDE, TYPE F, SOLID
| Dicumyl peroxide less than or equal to 100% with inert solids *Maximum quantity per portable tank 2,000 kg | 4 | § 178.274(d)(2) | § 178.275(d)(3) | § 178.275(g)(1) | Not more than 90% at 59 °F (15 °C)
3119 | ORGANIC PEROXIDE, TYPE F, LIQUID, TEMPERATURE CONTROLLED
| tert-Butyl peroxyacetate, not more than 32% in diluent type B | 4 | § 178.274(d)(2) | § 178.275(d)(3) | § 178.275(g)(1) | Not more than 90% at 59 °F (15 °C) | +30 °C | +35 °C
| tert-Butyl peroxy-2-ethylhexanoate, not more than 32% in diluent B | 4 | § 178.274(d)(2) | § 178.275(d)(3) | § 178.275(g)(1) | Not more than 90% at 59 °F (15 °C) | +15 °C | +20 °C
| tert-Butylperoxypivalate, not more than 27% in diluent type B | 4 | § 178.274(d)(2) | § 178.275(d)(3) | § 178.275(g)(1) | Not more than 90% at 59 °F (15 °C) | +5 °C | +10 °C
| tert-Butyl peroxy-3,5,5-trimethyl-hexanoate, not more than 32% in diluent type B | 4 | § 178.274(d)(2) | § 178.275(d)(3) | § 178.275(g)(1) | Not more than 90% at 59 °F (15 °C) | +35 °C | +40 °C
| Di-(3,5,5-trimethyl-hexanoyl) peroxide, not more than 38% in diluent type A | 4 | § 178.274(d)(2) | § 178.275(d)(3) | § 178.275(g)(1) | Not more than 90% at 59 °F (15 °C) | 0 °C | +5 °C
| Peroxyacetic acid, distilled, stabilized, not more than 41% | 4 | § 178.274(d)(2) | § 178.275(d)(3) | § 178.275(g)(1) | Not more than 90% at 59 °F (15 °C) | +30 °C | +35 °C

(h) Bulk packagings other than IBCs. The following bulk packagings are authorized, subject to the conditions and limitations of this section, if the organic peroxide is listed in the Organic Peroxide Portable Tank Table and bulk packagings are authorized, or if the organic peroxide is specifically authorized for transport in a bulk packaging by this paragraph (h), and the bulk packaging conforms to the requirements of this subchapter:

(1) Rail cars. Class DOT 103, 104, 105, 109, 111, 112, 114, 115, or 120 fusion-weld tank car tanks are authorized. DOT 103W, 111A60F1 and 111A60W1 tank car tanks must have bottom outlets effectively sealed from inside. Gauging devices are required on DOT 103W tank car tanks. Riveted tank car tanks are not authorized.

(2) Cargo tanks. Specification MC 307, MC 310, MC 311, MC 312, DOT 407, and DOT 412 cargo tank motor vehicles with a tank design pressure of at least 172 kPa (25 psig) are authorized.

(3) Portable tanks. The following requirements apply to portable tanks intended for the transport of organic peroxides or self-reactive substances. DOT 51, 57, IM 101 portable tanks, and UN portable tanks that conform to the requirements of paragraph (g) of this section, are authorized. Type F organic peroxide or self-reactive substance formulations other than those indicated in the Organic Peroxide Portable Tank Table may be transported in portable tanks if approved by the Associate Administrator. The following conditions also apply:

(i) The portable tank must be designed for a test pressure of at least 0.4 MPa (4 bar).

(ii) The portable tank must be fitted with temperature-sensing devices.

(iii) The portable tank must be fitted with pressure relief devices and emergency-relief devices. Vacuum-relief devices may also be used. Pressure relief devices must operate at pressures determined according to both the properties of the hazardous material and the construction characteristics of the portable tank. Fusible elements are not allowed in the shell.

(iv) The pressure relief devices must consist of reclosing devices fitted to prevent significant build-up within the portable tank of the decomposition products and vapors released at a temperature of 50 °C (122 °F). The capacity and start-to-discharge pressure of the relief devices must be in accordance with the applicable requirements of this subchapter specified for the portable tank. The pressure relief devices must not allow liquid to escape in the event the portable tank is overturned in a loaded condition.

(v)(A) The emergency-relief devices may be of the reclosing or frangible types, or a combination of the two, designed to vent all the decomposition products and vapors evolved during a period of not less than one hour of complete fire engulfment as calculated by the following formula:

Where:

q = heat absorption (W)

A = wetted area (m²)

F = insulation factor (−)

(B) Insulation factor (F) in the formula in paragraph (h)(3)(v)(A) of this section equals 1 for non-insulated vessels and for insulated vessels F is calculated using the following formula:

Where:

U = K/L = heat transfer coefficient of the insulation (W·m⁻²·K⁻¹); where K = heat conductivity of insulation layer (W·m⁻¹·K⁻¹), and L = thickness of insulation layer (m).

TPO = temperature of material at relieving conditions (K).

(vi) The start-to-discharge pressure of emergency-relief devices must be higher than that specified for the pressure relief devices in paragraph (h)(3)(iv) of this section. The emergency-relief devices must be sized and designed in such a way that the maximum pressure in the shell never exceeds the test pressure of the portable tank.

Note to Paragraph (h)(3)(vi): An example of a method to determine the size of emergency-relief devices is given in Appendix 5 of the UN Manual of Tests and Criteria (IBR, see § 171.7 of this subchapter). A second example of a test method for venting sizing is given in the American Institute of Chemical Engineers Process Safety Progress Journal, June 2002 issue (Vol. 21, No. 2) (Informational materials not requiring incorporation by reference, see § 171.7(b)).

(vii) For insulated portable tanks, the capacity and setting of emergency-relief devices must be determined assuming a loss of insulation from 1% of the surface area.

(viii) Vacuum-relief devices and reclosing devices on portable tanks used for flammable hazardous materials must be provided with flame arresters. Any reduction of the relief capacity caused by the flame arrester must be taken into account and the appropriate relief capacity must be provided.

(ix) Service equipment such as devices and external piping must be designed and constructed so that no hazardous material remains in them after filling the portable tank.

(x) Portable tanks may be either insulated or protected by a sun-shield. If the SADT of the hazardous material in the portable tank is 55 °C (131 °F) or less, the portable tank must be completely insulated. The outer surface must be finished in white or bright metal.

(xi) The degree of filling must not exceed 90% at 15 °C (59 °F).

(xii) DOT 57 metal portable tanks are authorized only for tert-butyl cumyl peroxide, di-(2-tert-butylperoxyisopropyl-benzene(s)), dicumyl peroxide and mixtures of two or more of these peroxides. DOT 57 portable tanks must conform to the venting requirements of paragraph (f) of this section. These portable tanks are not subject to any other requirements of paragraph (h) of this section.

(4) For tertiary butyl hydroperoxide (TBHP), each tank car, cargo tank or portable tank must contain 7.6 cm (3.0 inches) low density polyethylene (PE) saddles having a melt index of at least 0.2 grams per 10 minutes (for example see, ASTM D1238, condition E) as part of the lading, with a ratio of PE to TBHP over a range of 0.008 to 0.012 by mass. Alternatively, plastic or metal containers equipped with fusible plugs having a melting point between 69 °C (156 °F) and 71 °C (160 °F) and filled with a sufficient quantity of water to dilute the TBHP to 65% or less by mass may be used. The PE saddles must be visually inspected after each trip and, at a minimum, once every 12 months, and replaced when discoloration, fracture, severe deformation, or other indication of change is noted.

43. Section 173.226 is revised to read as follows:

§ 173.226 Materials poisonous by inhalation, Division 6.1, Packing Group I, Hazard Zone A.

Division 6.1, Packing Group I, Zone A poisonous by inhalation (see § 173.133) must be packed in non-bulk packagings in accordance with the following paragraphs:

(a) In seamless specification cylinders conforming to the requirements of § 173.40.

(b) In 1A1, 1B1, 1H1, 1N1, or 6HA1 drums further packed in a 1A2 or 1H2 drum. Both inner and outer drums must conform to the performance test requirements of subpart M of part 178 of this subchapter at the Packing Group I performance level. The outer drums may be tested either as a package intended to contain inner packagings (combination package) or as a single packaging intended to contain solids or liquids at a mass corresponding to the mass of the assembled packaging system. All outer drums, even those tested to contain inner packaging or as single packagings for solids, must withstand a hydrostatic test pressure of 100 kPa (15 psig). The outer drum must have a minimum thickness of 1.35 mm (0.053 inch) for a 1A2 outer drum or 6.3 mm (0.248 inch) for a 1H2 outer drum. In addition, the inner drum must—

(1) Be capable of satisfactorily withstanding the hydrostatic pressure test in § 178.605 of this subchapter at a test pressure of 300 kPa (45 psig);

(2) Satisfactorily withstand the leakproofness test in § 178.604 of this subchapter using an internal air pressure of at least twice the vapor pressure at 55 °C (131 °F) of the material to be packaged;

(3) Have screw-type closures that are—

(i) Closed and tightened to a torque prescribed by the closure manufacturer, using a properly calibrated device that is capable of measuring torque;

(ii) Physically held in place by any means capable of preventing back-off or loosening of the closure by impact or vibration during transportation; and

(iii) Provided with a cap seal that is properly applied in accordance with the cap seal manufacturer's recommendations and is capable of withstanding an internal pressure of at least 100 kPa (15 psig).

(4) Have a minimum thickness as follows:

(i) For a 1A1 or 1N1 drum, 1.3 mm (0.051 inch);

(ii) For a 1B1 drum, 3.9 mm (0.154 inch);

(iii) For a 1H1 drum, 3.16 mm (0.124 inch); and

(iv) For a 6HA1 drum, the plastic inner container shall be 1.58 mm (0.0622 inch) and the outer steel drum shall be 0.96 mm (0.0378 inch).

(5) Be isolated from the outer drum by a shock-mitigating, non-reactive material, which completely surrounds the inner packaging on all sides.

(c) In combination packagings, consisting of an inner packaging system and an outer packaging, as follows:

(1) Outer packagings:

Steel drum: 1A2

Aluminum drum: 1B2

Metal drum, other than steel or aluminum: 1N2

Plywood drum: 1D

Fiber drum: 1G

Plastic drum: 1H2

Steel box: 4A

Aluminum box: 4B

Natural wood box: 4C1 or 4C2

Plywood box: 4D

Reconstituted wood box: 4F

Fiberboard box: 4G

Expanded plastic box: 4H2

Solid plastic box: 4H2

(2) Inner packaging system. The inner packaging system consists of two packagings:

(i) an impact-resistant receptacle of glass, earthenware, plastic or metal securely cushioned with a non-reactive, absorbent material, and

(A) Capacity of each inner receptacle may not exceed 4 L (1 gallon).

(B) An inner receptacle that has a closure must have a closure which is physically held in place by any means capable of preventing back-off or loosening of the closure by impact or vibration during transportation.

(ii) Packed within a leak-tight packaging of metal or plastic.

(iii) This combination packaging in turn is packed within the outer packaging.

(A) The total amount of liquid contained in the outer packaging may not exceed 16 L (4 gallons).

(iv) the inner packaging system must conform to the performance test requirements of subpart M of part 178 of this subchapter, at the Packaging Group I performance level when subjected to the following tests:

(A) § 178.603—Drop Test

(B) § 178.604—Leakproofness Test

(C) § 178.605—Hydrostatic Pressure Test

(v) The inner packaging system must meet the above tests without the benefit of the outer packaging.

(vi) The leakproofness and hydrostatic pressure test may be conducted on either the inner receptacle or the outer packaging of the inner packaging system.

(vii) In addition to the requirements in § 173.226(b), the outer package must conform to the performance test requirements of subpart M of part 178 of this subchapter, at the Packaging Group I performance level as applicable for the type of package being used.

(d) If approved by the Associate Administrator, 1A1, 1B1, 1H1, 1N1, 6HA1 or 6HH1 drums described in paragraph (b) of this section may be used without being further packed in a 1A2 or 1H2 drum if the shipper loads the material, palletizes the drums, blocks and braces the drums within the transport vehicle and seals the transport vehicle used. Drums may not be stacked (double decked) within the transport vehicle. Shipments must be from one origin to one destination only without any intermediate pickup or delivery.

(e) Prior to reuse, all authorized inner drums must be leakproofness tested and marked in accordance with § 173.28 using a minimum test pressure as indicated in paragraph (b)(2) of this section.

44. Section 173.227 is revised to read as follows:

§ 173.227 Materials poisonous by inhalation. Division 6.1, Packing Group I, Hazard Zone B.

(a) In packagings as authorized in § 173.226 and seamless and welded specification cylinders conforming to the requirements of § 173.40.

(b) 1A1, 1B1, 1N1 or 1H1 drum or 6HA1 composite further packed in a 1A2 or 1H2 drum. Both the inner and outer drums must conform to the performance test requirements of subpart M of part 178 of this subchapter at the Packing Group I performance level. The outer drums may be tested either as a package intended to contain inner packagings (combination package) or as a single packaging intended to contain solids or liquids at a mass corresponding to the mass of the assembled packaging system. The outer drum must have a minimum thickness of 1.35 mm (0.053 inches) for a 1A2 outer drum or 6.30 mm (0.248 inches) for a 1H2 outer drum. Outer 1A2 and 1H2 drums must withstand a hydrostatic test pressure of 100 kPa (15 psig). Capacity of the inner drum may not exceed 220 liters. In addition, the inner drum must conform to all of the following requirements:

(2) Have screw closures that are—

(i) Closed and tightened to a torque prescribed by the closure manufacturer, using a properly calibrated device that is capable of measuring torque;

(ii) Physically held in place by any means capable of preventing back-off or loosening of the closure by impact or vibration during transportation; and

(iii) Provided with a cap seal that is properly applied in accordance with the cap seal manufacturer's recommendations and is capable of withstanding an internal pressure of at least 100 kPa (15 psig).

(3) Have a minimum thickness as follows:

(i) For a 1A1 drum, 0.69 mm (0.027 inch);

(ii) For a 1B1 drum, 2.79 mm (0.110 inch);

(iii) For a 1H1 drum, 1.14 mm (0.045 inch); or

(iv) For a 6HA1 drum, the plastic inner container shall be 1.58 mm (0.0625 inch), the outer steel drum shall be 0.70 mm (0.027 inch).

(4) Be isolated from the outer drum by a shock-mitigating, non-reactive material which completely surrounds the inner packaging on all sides.

(5) Prior to reuse, all authorized inner drums must be leakproofness tested and marked in accordance with § 173.28 using a minimum test pressure as indicated in paragraph (b)(1) of this section.

(c) 1A1, 1B1, 1H1, 1N1, 6HA1 or 6HH1 drums described in paragraph (b) of this section may be used without being further packed in a 1A2 or 1H2 drum if the shipper loads the material, blocks and braces the drums within the transport vehicle and seals the transport vehicle used. Drums may not be stacked (double decked) within the transport vehicle. Shipments must be from one origin to one destination only without any intermediate pickup or delivery.

45. In § 173.249, paragraph (c) is revised to read as follows:

§ 173.249 Bromine.

* * * * *

(c) UN portable tanks conforming to tank code T22 (see § 172.102 of this subchapter) or specification IM 101 portable tanks conforming with paragraphs (d) through (f) of this section. Except when transported as a residue, the total quantity in one tank may not be less than 88% nor more than 92% of the volume of the tank.

* * * * *

46. In § 173.306, paragraphs (i) and (j) are removed and a new paragraph (i) is added to read as follows:

§ 173.306 Limited quantities of compressed gases.

* * * * *

(i) Aerosols with a capacity of less than 50 ml. Aerosols, as defined in § 171.8 of this subchapter, with a capacity not exceeding 50 ml and with a pressure not exceeding 970 kPa (141 psig) at 55 °C (131 °F), containing no hazardous materials other than a Division 2.2 gas, are not subject to the requirements of this subchapter.

* * * * *

§ 173.307 [Amended]

47. In § 173.307, paragraph (a)(5) is removed.

48. Section 173.313 is added to read as follows:

§ 173.313 UN Portable Tank Table for Liquefied Compressed Gases.

The UN Portable Tank Table for Liquefied Compressed Gases is referenced in § 172.102(c)(7)(iii) of this subchapter for portable tanks that are used to transport liquefied compressed gases. The table applies to each liquefied compressed gas that is identified with Special Provision T50 in Column (7) of the § 172.101 Table. In addition to providing the UN identification number and proper shipping name, the table provides maximum allowable working pressures, bottom opening requirements, pressure relief device requirements, and degree of filling requirements for liquefied compressed gas permitted for transportation in a T50 portable tank. In the minimum test pressure column, “small” means a portable tank with a diameter of 1.5 meters or less when measured at the widest part of the shell, “sunshield” means a portable tank with a shield covering at least the upper third of the shell, “bare” means no sunshield or insulation is provided, and “insulated” means a complete cladding of sufficient thickness of insulating material necessary to provide a minimum conductance of not more than 0.67 w/m²/k. In the pressure relief requirements column, the word “Normal” denotes that a frangible disc as specified in § 178.276(e)(3) of this subchapter is not required.

UN Portable Tank Table for Liquefied Compressed Gases
UN No. | Non-refrigerated liquefied compressed gases | Minimum design pressure (bar) small; bare; sunshield; insulated | Openings below liquid level | Pressure relief requirements (See § 178.276(e)) | Maximum filling density (kg/l)
1005 | Ammonia, anhydrous | 29.0 | Allowed | § 178.276(e)(3) | 0.53
|  | 25.7
|  | 22.0
|  | 19.7
1009 | Bromotrifluoromethane or Refrigerant gas R 13B1 | 38.0 | Allowed | Normal | 1.13
|  | 34.0
|  | 30.0
|  | 27.5
1010 | Butadienes, stabilized | 7.5 | Allowed | Normal | 0.55
|  | 7.0
|  | 7.0
|  | 7.0
1011 | Butane | 7.0 | Allowed | Normal | 0.51
|  | 7.0
|  | 7.0
|  | 7.0
1012 | Butylene | 8.0 | Allowed | Normal | 0.53
|  | 7.0
|  | 7.0
|  | 7.0
1017 | Chlorine | 19.0 | Not | § 178.276(e)(3) | 1.25
|  | 17.0 | Allowed
|  | 15.0
|  | 13.5
1018 | Chlorodifluoromethane or Refrigerant gas R 22 | 26.0 | Allowed | Normal | 1.03
|  | 24.0
|  | 21.0
|  | 19.0
1020 | Chloropentafluoroethane or Refrigerant gas R 115 | 23.0 | Allowed | Normal | 1.06
|  | 20.0
|  | 18.0
|  | 16.0
1021 | 1-Chloro-1,2,2,2-tetrafluoroethane or Refrigerant gas R 124 | 10.3 | Allowed | Normal | 1.2
|  | 9.8
|  | 7.9
|  | 7.0
1027 | Cyclopropane | 18.0 | Allowed | Normal | 0.53
|  | 16.0
|  | 14.5
|  | 13.0
1028 | Dichlorodifluoromethane or Refrigerant gas R 12 | 16.0 | Allowed | Normal | 1.15
|  | 15.0
|  | 13.0
|  | 11.5
1029 | Dichlorofluoromethane or Refrigerant gas R 21 | 7.0 | Allowed | Normal | 1.23
|  | 7.0
|  | 7.0
|  | 7.0
1030 | 1,1-Difluoroethane or Refrigerant gas R 152a | 16.0 | Allowed | Normal | 0.79
|  | 14.0
|  | 12.4
|  | 11.0
1032 | Dimethylamine, anhydrous | 7.0 | Allowed | Normal | 0.59
|  | 7.0
|  | 7.0
|  | 7.0
1033 | Dimethyl ether | 15.5 | Allowed | Normal | 0.58
|  | 13.8
|  | 12.0
|  | 10.6
1036 | Ethylamine | 7.0 | Allowed | Normal | 0.61
|  | 7.0
|  | 7.0
|  | 7.0
1037 | Ethyl chloride | 7.0 | Allowed | Normal | 0.8
|  | 7.0
|  | 7.0
|  | 7.0
1040 | Ethylene oxide with nitrogen up to a total pressure of 1MPa (10 bar) at 50 °C | Only authorized in 10 bar insulated portable tanks— | Not Allowed | § 178.276(e)(3) | 0.78
1041 | Ethylene oxide and carbon dioxide mixture with more than 9% but not more than 87% ethylene oxide | See MAWP definition in § 178.276(a) | Allowed | Normal | See § 173.32(f)
1055 | Isobutylene | 8.1 | Allowed | Normal | 0.52
|  | 7.0
|  | 7.0
|  | 7.0
1060 | Methyl acetylene and propadiene mixture, stabilized | 28.0 | Allowed | Normal | 0.43
|  | 24.5
|  | 22.0
|  | 20.0
1061 | Methylamine, anhydrous | 10.8 | Allowed | Normal | 0.58
|  | 9.6
|  | 7.8
|  | 7.0
1062 | Methyl bromide | 7.0 | Not Allowed | § 178.276(e)(3) | 1.51
|  | 7.0
|  | 7.0
|  | 7.0
1063 | Methyl chloride or Refrigerant gas R 40 | 14.5 | Allowed | Normal | 0.81
|  | 12.7
|  | 11.3
|  | 10.0
1064 | Methyl mercaptan | 7.0 | Not Allowed | § 178.276(e)(3) | 0.78
|  | 7.0
|  | 7.0
|  | 7.0
1067 | Dinitrogen tetroxide | 7.0 | Not Allowed | § 178.276(e)(3) | 1.3
|  | 7.0
|  | 7.0
|  | 7.0
1075 | Petroleum gas, liquefied | See MAWP definition in § 178.276(a) | Allowed | Normal | See § 173.32(f)
1077 | Propylene | 28.0 | Allowed | Normal | 0.43
|  | 24.5
|  | 22.0
|  | 20.0
1078 | Refrigerant gas, n.o.s. | See MAWP definition in § 178.276(a) | Allowed | Normal | See § 173.32(f)
1079 | Sulphur dioxide | 11.6 | Not Allowed | § 178.276(e)(3) | 1.23
|  | 10.3
|  | 8.5
|  | 7.6
1082 | Trifluorochloroethylene, stabilized or Refrigerant gas R 1113 | 17.0 | Not Allowed | § 178.276(e)(3) | 1.13
|  | 15.0
|  | 13.1
|  | 11.6
1083 | Trimethylamine, anhydrous | 7.0 | Allowed | Normal | 0.56
|  | 7.0
|  | 7.0
|  | 7.0
1085 | Vinyl bromide, stabilized | 7.0 | Allowed | Normal | 1.37
|  | 7.0
|  | 7.0
|  | 7.0
1086 | Vinyl chloride, stabilized | 10.6 | Allowed | Normal | 0.81
|  | 9.3
|  | 8.0
|  | 7.0
1087 | Vinyl methyl ether, stabilized | 7.0 | Allowed | Normal | 0.67
|  | 7.0
|  | 7.0
|  | 7.0
1581 | Chloropicrin and methyl bromide mixture | 7.0 | Not Allowed | § 178.276(e)(3) | 1.51
|  | 7.0
|  | 7.0
|  | 7.0
1582 | Chloropicrin and methyl chloride mixture | 19.2 | Not Allowed | § 178.276(e)(3) | 0.81
|  | 16.9
|  | 15.1
|  | 13.1
1858 | Hexafluoropropylene compressed or Refrigerant gas R 1216 | 19.2 | Allowed | Normal | 1.11
|  | 16.9
|  | 15.1
|  | 13.1
1912 | Methyl chloride and methylene chloride mixture | 15.2 | Allowed | Normal | 0.811954
1954 | n.o.s.
|  | 13.0
|  | 11.6
|  | 10.1
NA | Insecticide gases, flammable, | See MAWP definition in § 178.276(a) | Allowed | Normal | § 173.32(f)
1958 | 1,2-Dichloro-1,1,2,2-tetrafluoroethane or Refrigerant gas R 114 | 7.0 | Allowed | Normal | 1.3
|  | 7.0
|  | 7.0
|  | 7.0
1965 | Hydrocarbon gas, mixture liquefied, n.o.s. | See MAWP definition in 178.276(a) | Allowed | Normal | See § 173.32(f)
1969 | Isobutane | 8.5 | Allowed | Normal | 0.49
|  | 7.5
|  | 7.0
|  | 7.0
1973 | Chlorodifluoromethane and chloropentafluoroethane mixture with fixed boiling point, with approximately 49% chlorodifluoromethane or Refrigerant gas R 502 | 28.3 | Allowed | Normal | 1.05
|  | 25.3
|  | 22.8
|  | 20.3
1974 | Chlorodifluorobromomethane or Refrigerant gas R 12B1 | 7.4 | Allowed | Normal | 1.61
|  | 7.0
|  | 7.0
|  | 7.0
1976 | Octafluorocyclobutane or Refrigerant gas RC 318 | 8.8 | Allowed | Normal | 1.34
|  | 7.8
|  | 7.0
|  | 7.0
1978 | Propane | 22.5 | Allowed | Normal | 0.42
|  | 20.4
|  | 18.0
|  | 16.5
1983 | 1-Chloro-2,2,2-trifluoroethane or Refrigerant gas R 133a | 7.0 | Allowed | Normal | 1.18
|  | 7.0
|  | 7.0
|  | 7.0
2035 | 1,1,1-Trifluoroethane compressed or Refrigerant gas R 143a | 31.0 | Allowed | Normal | 0.76
|  | 27.5
|  | 24.2
|  | 21.8
2424 | Octafluoropropane or Refrigerant gas R 218 | 23.1 | Allowed | Normal | 1.07
|  | 20.8
|  | 18.6
|  | 16.6
2517 | 1-Chloro-1,1-difluoroethane or Refrigerant gas R 142b | 8.9 | Allowed | Normal | 0.99
|  | 7.8
|  | 7.0
|  | 7.0
2602 | Dichlorodifluoromethane and difluoroethane azeotropic mixture with approximately 74% dichlorodifluoromethane or Refrigerant gas R 500 | 20.0 | Allowed | Normal | 1.01
|  | 18.0
|  | 16.0
|  | 14.5
3057 | Trifluoroacetyl chloride | 14.6 | Not allowed | § 178.276(e)(3) | 1.17
|  | 12.9
|  | 11.3
|  | 9.9
3070 | Ethylene oxide and dichlorodifluoromethane mixture with not more than 12.5% ethylene oxide | 14.0 | Allowed | § 178.276(e)(3) | 1.09
|  | 12.0
|  | 11.0
|  | 9.0
3153 | Perfluoro (methyl vinyl ether) | 14.3 | Allowed | Normal | 1.14
|  | 13.4
|  | 11.2
|  | 10.2
3159 | 1,1,1,2-Tetrafluoroethane or Refrigerant gas R 134a | 17.7 | Allowed | Normal | 1.04
|  | 15.7
|  | 13.8
|  | 12.1
3161 | Liquefied gas, flammable, n.o.s. | See MAWP definition in § 178.276(a) | Allowed | Normal | § 173.32(f)
3163 | Liquefied gas, n.o.s. | See MAWP definition in § 178.276(a) | Allowed | Normal | § 173.32(f)
3220 | Pentafluoroethane or Refrigerant gas R 125 | 34.4 | Allowed | Normal | 0.95
|  | 30.8
|  | 27.5
|  | 24.5
3252 | Difluoromethane or Refrigerant gas R 32 | 43.0 | Allowed | Normal | 0.78
|  | 39.0
|  | 34.4
|  | 30.5
3296 | Heptafluoropropane or Refrigerant gas R 227 | 16.0 | Allowed | Normal | 1.2
|  | 14.0
|  | 12.5
|  | 11.0
3297 | Ethylene oxide and chlorotetrafluoroethane mixture, with not more than 8.8% ethylene oxide | 8.1 | Allowed | Normal | 1.16
|  | 7.0
|  | 7.0
|  | 7.0
3298 | Ethylene oxide and pentafluoroethane mixture, with not more than 7.9% ethylene oxide | 25.9 | Allowed | Normal | 1.02
|  | 23.4
|  | 20.9
|  | 18.6
3299 | Ethylene oxide and tetrafluoroethane mixture, with not more than 5.6% ethylene oxide | 16.7 | Allowed | Normal | 1.03
|  | 14.7
|  | 12.9
|  | 11.2
3318 | Ammonia solution, relative density less than 0.880 at 15 °C in water, with more than 50% ammonia | See MAWP definition in § 178.276(a) | Allowed | § 178.276(e)(3) | § 173.32(f)
3337 | Refrigerant gas R 404A | 31.6 | Allowed | Normal | 0.84
|  | 28.3
|  | 25.3
|  | 22.5
3338 | Refrigerant gas R 407A | 31.3 | Allowed | Normal | 0.95
|  | 28.1
|  | 25.1
|  | 22.4
3339 | Refrigerant gas R 407B | 33.0 | Allowed | Normal | 0.95
|  | 29.6
|  | 26.5
|  | 23.6
3340 | Refrigerant gas R 407C | 29.9 | Allowed | Normal | 0.95
|  | 26.8
|  | 23.9
|  | 21.3

49. In § 173.315, paragraph (a) introductory text is revised to read as follows:

§ 173.315 Compressed gases in cargo tanks and portable tanks.

(a) Liquefied compressed gases that are transported in UN portable tanks must be loaded and offered for transportation in accordance with the UN Portable Tank Table for Liquefied Compressed Gases in § 173.313. A liquefied compressed gas offered for transportation in a cargo tank motor vehicle or a portable tank must be prepared in accordance with this section, §§ 173.32 and 173.33 and subpart E or subpart G of part 180 of this subchapter, as applicable. For cryogenic liquids, see § 173.318. For marking requirements, see §§ 172.326 and 172.328 of this subchapter. Except for UN portable tanks, a liquefied compressed gas must be loaded and offered for transportation in accordance with the following table:

* * * * *

50. In § 173.323, paragraph (b) is revised to read as follows:

§ 173.323 Ethylene oxide.

* * * * *

(b) Ethylene oxide must be packaged in one of the following:

(1) In hermetically sealed glass or metal inner packagings suitably cushioned in an outer package authorized by § 173.201(b). The maximum quantity permitted in any glass inner packaging is 100 g (3.5 ounces), and the maximum quantity permitted in any metal inner packaging is 340 g (12 ounces). After filling, each inner packaging shall be determined to be leak-tight by placing the inner packaging in a hot water bath at a temperature, and for a period of time, sufficient to ensure that an internal pressure equal to the vapor pressure of ethylene oxide at 55 °C is achieved. The total quantity in any outer packaging shall not exceed 100 g (3.5 ounces), and the total quantity in any outer packaging containing only metal inner packagings shall not exceed 2.5 kg (5.5 pounds). Each completed package must be capable of passing all Packing Group I performance tests.

(2) In specification cylinders, as authorized for any compressed gas except acetylene. Pressurizing valves and insulation are required for cylinders over 4 L (1 gallon) capacity. Eductor tubes must be provided for cylinders over 19 L (5 gallons) capacity. Cylinders must be seamless or welded steel (not brazed) with a nominal capacity of no more than 115 L (30 gallons) and may not be liquid full below 82 °C (180 °F). Before each refilling, each cylinder must be tested for leakage at no less than 103.4 kPa (15 psig) pressure. In addition, each cylinder must be equipped with a fusible type relief device with yield temperature of 69 °C to 77 °C (157 °F to 170 °F). The capacity of the relief device and the effectiveness of the insulation must be such that the charged cylinder will not explode when tested by the method described in CGA Pamphlet C-14 or other equivalent method.

(3) In 1A1 steel drums of no more than 231 L (61 gallons) and meeting Packing Group I performance standards. The drum must be lagged of all welded construction with the inner shell having a minimum thickness of 1.7 mm (0.068 inches) and the outer shell having a minimum thickness of 2.4 mm (0.095 inches). Drums must be capable of withstanding a hydrostatic test pressure of 690 kPa (100 psig). Lagging must be of sufficient thickness so that the drum, when filled with ethylene oxide and equipped with the required pressure relief device, will not rupture when exposed to fire. The drum may not be liquid full below 85 °C (185 °F), and must be marked “THIS END UP” on the top head. Before each refilling, each drum must be tested for leakage at no less than 103 kPa (15 psig) pressure. Each drum must be equipped with a fusible type relief device with yield temperature of 69 °C to 77 °C (157 °F to 170 °F), and the capacity of the relief device must be such that the filled drum is capable of passing, without rupture, the test method described in CGA Pamphlet C-14 or other equivalent method.

* * * * *

50a. In Appendix H to Part 173, the fifth sentence of paragraph 3. and paragraph 3.(a) are revised to read as follows:

Appendix H to Part 173—Method of Testing for Sustained Combustibility

3. * * * A suitable apparatus is shown in Figure 32.5.2.1 of the UN Manual of Test and Criteria, and the essential dimensions are given in Figures 32.5.2.1 and 32.5.2.2 of the UN Manual and Tests and Criteria. * * *

(a) Gauge, for checking that the height of the center of the gas jet above the top of the test portion well is 2.2 mm (see Figure 32.5.2.1);

* * * * *

PART 175—CARRIAGE BY AIRCRAFT

51. The authority citation for part 175 continues to read as follows:

Authority: 49 U.S.C. 5101-5127; 49 CFR 1.53.

52. In § 175.10, paragraphs (a)(4)(i), (a)(4)(iii), and (a)(18) are revised to read as follows:

§ 175.10 Exceptions.

(a) * * *

(4) * * *

(i) Non-radioactive medicinal and toilet articles (including aerosols) may be carried in checked or carry-on baggage. Release devices on aerosols must be protected by a cap or other suitable means to prevent inadvertent release;

* * * * *

(iii) Other aerosols in Division 2.2 with no subsidiary risk may be carried in checked baggage only. Release devices on aerosols must be protected by a cap or other suitable means to prevent inadvertent release;

* * * * *

(18) Compressed gas cylinders of Division 2.2 worn by passengers for the operation of mechanical limbs and spare cylinders of a similar size for the same purpose in sufficient quantities to ensure an adequate supply for the duration of the journey.

* * * * *

53. Section 175.85 is revised by adding new paragraph (j) to read as follows:

§ 175.85 Cargo location.

* * * * *

(j) A package bearing a KEEP AWAY FROM HEAT handling marking must be protected from direct sunshine and stored in a cool and ventilated place, away from sources of heat.

PART 176—CARRIAGE BY VESSEL

54. The authority citation for part 176 continues to read as follows:

Authority: 49 U.S.C. 5101-5127; 49 CFR 1.53.

55. In § 176.2:

a. The definitions for “Explosive article”, “Explosive substance” and “Magazine” are revised.

b. The term “Transport unit” is revised to read “Cargo transport unit”.

c. In the definition “In containers or the like”, the term “transport unit” is removed and the term “cargo transport unit” is added in its place.

The revisions and additions read as follows:

* * * * *

Cargo transport unit means a transport vehicle, a freight container or a portable tank. A closed cargo transport unit means a cargo transport unit in which the contents are totally enclosed by permanent structures. An open cargo transport unit means a cargo transport unit that is not a closed cargo transport unit. Cargo transport units with fabric sides or tops are not closed cargo transport units for the purposes of this part.

* * * * *

Explosive article means an article or device which contains one or more explosive substances. Individual explosive substances are identified in column 17 of the Dangerous Goods List in the IMDG Code.

* * * * *

Explosive substance means a solid or liquid material, or a mixture of materials, which is in itself capable by chemical reaction of producing gas at such a temperature and pressure and at such a speed as to cause damage to its surroundings. Individual explosive substances are identified in column 17 of the Dangerous Goods List in the IMDG Code.

* * * * *

In containers or the like means any clean, substantial, weatherproof box structure which can be secured to the vessel's structure, including a portable magazine or a closed cargo transport unit. Whenever this stowage is specified, stowage in deckhouses, mast lockers and oversized weatherproof packages (overpacks) is also acceptable.

* * * * *

Magazine means an enclosure designed to protect certain goods of Class 1 (explosive) materials from damage by other cargo and adverse weather conditions during loading, unloading, and when in transit; and to prevent unauthorized access. A magazine may be a fixed structure or compartment in the vessel, a closed freight container, a closed transport vehicle, or a portable magazine. Magazines may be positioned in any part of the ship conforming with the relevant provisions for Class 1 (explosive) materials contained in Subpart G of this part provided that magazines which are fixed structures are sited so that their doors, where fitted, are easily accessible.

* * * * *

56. Section 176.27 is revised to read as follows:

§ 176.27 Certificate.

(a) A carrier may not transport a hazardous material by vessel unless a certificate prepared in accordance with § 172.204 of this subchapter has been received.

(b) In the case of an import or export shipment of a hazardous material that will not be transported by rail, highway, or air, the shipper may certify on the bill of lading or other shipping paper that the hazardous material is properly classed, described, marked, packaged, and labeled according to part 172 of this subchapter or in accordance with the requirements of the IMDG Code (IBR, see § 171.7 of this subchapter). See § 171.12 of this subchapter.

(c)(1) A person responsible for packing or loading a freight container or transport vehicle with packages of hazardous materials for transportation by a manned vessel in ocean or coastwise service, must provide the vessel operator, at the time the shipment is offered for transportation by vessel, with a signed container packing certificate stating, at a minimum, that—

(i) The freight container or transport vehicle is serviceable for the materials loaded therein, contains no incompatible goods, and is properly marked, labeled or placarded, as applicable; and

(ii) When the freight container or transport vehicle contains packages, those packages have been inspected prior to loading, are properly marked, labeled or placarded, as applicable; are not damaged; and are properly secured.

(2) The certification may appear on a shipping paper or on a separate document as a statement, such as “It is declared that the packing of the container has been carried out in accordance with the applicable provisions [of 49 CFR], [of the IMDG Code], or [of 49 CFR and the IMDG Code].”

57. In § 176.63, paragraph (e) is revised to read as follows:

§ 176.63 Stowage locations.

* * * * *

(e) Closed cargo transport unit, for the purpose of stowage of Class 1 (explosive) materials on board a vessel, means a unit which fully encloses the contents by permanent structures and can be secured to the ship's structure, and includes a magazine. Cargo transport units with fabric sides or tops are not closed cargo transport units. Where this stowage is specified, stowage in small compartments such as deck-houses and mast lockers are acceptable alternatives. The floor of any closed cargo transport unit or compartment shall either be constructed of wood, close-boarded or so arranged that goods are stowed on sparred gratings, wooden pallets or dunnage. Provided that the necessary additional specifications are met, a closed cargo transport unit may be used for type “A” or “C” class 1 stowage or as a magazine.”

* * * * *

58. In § 176.76, paragraphs (h) and (i) are revised to read as follows:

§ 176.76 Transport vehicles, freight containers, and portable tanks containing hazardous materials.

* * * * *

(h) A fumigated cargo transport unit may only be transported on board a vessel subject to the following conditions and limitations:

(1) The fumigated cargo transport unit may be placed on board a vessel only if at least 24 hours have elapsed since the unit was last fumigated;

(2) The fumigated cargo transport unit is accompanied by a document showing the date of fumigation and the type and amount of fumigant used;

(3) Prior to loading, the master is informed of the intended placement of the fumigated cargo transport unit on board the vessel and the information provided on the accompanying document;

(4) Equipment that is capable of detecting the fumigant and instructions for the equipment's use is provided on the vessel;

(5) The fumigated cargo transport unit must be stowed at least 5 m from any opening to accommodation spaces;

(6) Fumigated cargo transport units may only be transported on deck on vessels carrying more than 25 passengers; and

(7) Fumigants may not be added to cargo transport units while on board a vessel.

(i) A cargo transport unit packed or loaded with flammable gas or flammable liquid having a flashpoint below +23 °C transported on deck must be stowed “away from” possible sources of ignition. In the case of container ships, a distance equivalent to one container space athwartships away from possible sources of ignition applied in any direction will satisfy this requirement.

59. In § 176.83:

a. Paragraphs (a)(5), (d), (e), (f)(1), (f)(3), (g)(1), (g)(2), (g)(3), and (l) are revised;

b. The headings to paragraphs (g) and (f) and the title to Table 176.83(g) are revised; and

c. A new paragraph (m) is added.

The revisions and additions read as follows:

§ 176.83 Segregation.

* * * * *

(a) * * *

(5) Whenever hazardous materials are stowed together, whether or not in a cargo transport unit, the segregation of such hazardous materials from others must always be in accordance with the most restrictive requirements for any of the hazardous materials concerned.

* * * * *

(d) Segregation in cargo transport units: Two hazardous materials for which any segregation is required may not be stowed in the same cargo transport unit.

(e) Segregation of hazardous materials stowed as breakbulk cargo from those packed in cargo transport units: (1) Hazardous materials stowed as breakbulk cargo must be segregated from materials packed in open cargo transport units in accordance with paragraph (c) of this section.

(2) Hazardous materials stowed as breakbulk cargo must be segregated from materials packed in closed cargo transport units in accordance with paragraph (c) of this section, except that:

(i) Where “away from” is required, no segregation between packages and the closed cargo transport units is required; and

(ii) Where “separated from” is required, the segregation between the packages and the closed cargo transport units may be the same as for “away from”.

(f) Segregation of cargo transport units on board container vessels: (1) Except for hatchless container ships, this paragraph applies to segregation of cargo transport units that are carried on board container vessels, or on other types of vessels, provided these cargo spaces are properly fitted for permanent stowage of containers during transport.

* * * * *

(3) Segregation Table. Table § 176.83(f) sets forth the general requirements for segregation between cargo transport units on board container vessels.

* * * * *

(g) Segregation of cargo transport units on board trailerships and trainships: (1) The requirements of this paragraph apply to the segregation of cargo transport units which are carried on board trailerships and trainships or in “roll-on/roll-off” cargo spaces.

(2) For trailerships and trainships which have spaces suitable for breakbulk cargo, containers, or any other method of stowage, the appropriate paragraph of this section applies to the relevant cargo space.

(3) Segregation Table. Table § 176.83(g) sets forth the general requirements for segregation between transport units on board trailerships and trainships.

Table 176.83(g).—Segregation of Cargo Transport Units on Board Trailerships and Trainships

* * * * *

(1) Segregation of containers on board hatchless (open-top) container ships: (1) This paragraph applies to the segregation of cargo transport units that are transported on board hatchless container ships provided that the cargo spaces are properly fitted to give permanent stowage of the cargo transport units during transport.

(2) For container ships that have both hatchless container spaces and other spaces suitable for breakbulk cargo, conventional container stowage, or any other method of stowage, the appropriate requirements of this section apply to the relevant cargo space.

(3) Segregation Table. Table § 176.83(l)(3) sets forth the general requirements for segregation of cargo transport units on board hatchless container ships.

(4) In Table § 176.83(l)(3), a container space means a distance of not less than 6 m (20 feet) fore and aft or not less than 2.5 m (8 feet) athwartship.

TABLE 176.83(l)(3)—Segregation of Cargo Transport Units on Board Hatchless Container Ships
Segregation requirement | VERTICAL: Closed versus closed | VERTICAL: Closed versus open | VERTICAL: Open versus open | HORIZONTAL | HORIZONTAL: Closed versus closed: On deck | HORIZONTAL: Closed versus closed: Under deck | HORIZONTAL: Closed versus open: On deck | HORIZONTAL: Closed versus open: Under deck | HORIZONTAL: Open versus open: On deck | HORIZONTAL: Open versus open: Under deck
“Away from” 1. | One on top of the other permitted | Open on top of closed permitted |  | Fore and AFT | No restriction | No restriction | No restriction | No restriction | one container space | one container space or one bulkhead
|  | Otherwise as for “Open versus open” |  | Athwart-ships | No restriction | No restriction | No restriction | No restriction | One container space | One container space
“Separated from” 2. |  |  | Not in the same vertical line | Fore and AFT | One container space | One container space or one bulkhead | One container space | one container space or one bulkhead | One container space and not in or above same hold | One bulkhead
| Not in the same vertical line | As for “open versus open” |  | Athwart-ships | One container space | One container space | Two container spaces | Two container spaces | Two container spaces and not in or above same hold | One bulkhead
“Separated by a complete compartment or hold from” 3. |  |  |  | Fore and AFT | One container space and not in or above same hold | One bulkhead | One container space and not in or above same hold | One bulkhead | Two container spaces and not in or above same hold | Two bulkheads
|  |  |  | Athwart-ships | Two container spaces and not in or above same hold | One bulkhead | Two container spaces and not in or above same hold | One bulkhead | Tree container spaces and not in or above same hold | Two bulkheads
“Separated longitudinally by an intervening complete compartment or hold from” 4. | Prohibited | Fore and AFT | Minimum horizontal distance of 24 m and not in or above same hold | One bulkhead and minimum horizontal distance of 24 M* | Minimum horizontal distance of 24 m and not in or above same hold | Two bulkheads | Minimum horizontal distance of 24 m and not in or above same hold | Two bulkheads
|  | Athwart-ships | Prohibited | Prohibited | Prohibited | Prohibited | Prohibited | Prohibited
*Containers not less than 6 m (20 feet) from intervening bulkhead.
Note: All bulkheads and decks must be resistant to fire and liquid.

(m) Provisions for segregation groups: (1) For the purpose of segregation, materials having certain similar chemical properties have been grouped together in segregation groups. The segregation groups ( such as “acids”, “chlorates”, “permanganates”) and the entries allocated to each of these groups include the substances identified in section 3.1.4 of the IMDG Code. When column (10B) of the § 172.101 Table refers to a numbered stowage provision set forth in § 176.84(b) such as “Stow ‘away from’ acids”, that particular stowage/segregation requirement applies to all the materials allocated to the respective segregation group.

(2) Not all hazardous materials falling within a segregation group are listed by name in the regulations. These materials are shipped under “n.o.s.” entries. Although these “n.o.s.” entries are not listed themselves in the above groups, the shipper must decide whether allocation under a segregation group is appropriate. Mixtures, solutions or preparations containing hazardous materials falling within a segregation group and shipped under an “n.o.s.” entry are also considered to fall within that segregation group.

(3) The segregation groups described above do not address materials which fall outside the classification criteria of the hazardous materials regulations although it is recognized that some non-hazardous materials have certain chemical properties similar to hazardous materials listed in the segregation groups. A shipper or the person responsible for packing the materials into a cargo transport unit who does have knowledge of the chemical properties of such non-hazardous materials may identify a relevant segregation group and apply the segregation requirements for that segregation group.

60. In § 176.84, paragraph (a) is revised, in paragraph (b), Table of provisions, eleven new entries are added in appropriate numerical order and in paragraph (c)(2), three notes in the Provisions for the stowage of Class 1 (explosive) materials table are revised to read as follows: § 176.84 Other requirements for stowage and segregation for cargo vessels and passenger vessels.

(a) General. When Column 10B of the § 172.101 Table refers to a numbered or alpha-numeric stowage provision for water shipments, the meaning and requirements of that provision are set forth in this section. Terms in quotation marks are defined in § 176.83. Other terms used in the table in this section such as “acids”, “chlorates” and “permanganates” indicate different chemical groups referred to here as segregation groups. Materials falling within a segregation group are considered to have certain similar chemical properties and, although not exhaustive in nature, the materials belonging to each group include those substances identified in section 3.1.4 of the IMDG Code as set forth in § 176.83(m).

(b) * * *

Code | Provisions
* * * * *
133 | Stow “separated from” sulfur.
134 | Stow “separated from” UN2716.
135 | Stow “Separated from” mercury and mercury compounds.
136 | Stow “Separated from” carbon tetrachloride.
137 | For arsenic sulphides, Stow “separated from” acids.
138 | Stow “Separated from” peroxides.
139 | Stow “Separated from” mercury salts.
140 | Stow “Separated from” UN3052 and UN3461.
141 | Stow “away from” radioactive materials.
142 | Packages in cargo transport units must be stowed so as to allow for adequate air circulation throughout the cargo.
143 | Prohibited on any vessel carrying explosives (except explosives in Division 1.4, Compatibility group S).
* * * * *

* * * * *

(c) * * *

(2) * * *

Note | Provision
* * * * *
19E | “Away from” explosives containing chlorates or perchlorates.
* * * * *
22E | “Away from” ammonium compounds and explosives containing ammonium compounds or salts.
23E | “Separated from” Division 1.4 and “separated longitudinally by an intervening complete compartment or hold from” Division 1.1, 1.2, 1.3, 1.5, and 1.6 except from explosives of compatibility group J.
* * * * *

* * * * *

61. In § 176.116, paragraph (c) is revised and a new paragraph (f) is added to read as follows:

§ 176.116 General stowage conditions for Class 1 (explosive) materials.

* * * * *

(c) Security: All compartments, magazines, and cargo transport units containing Class 1 (explosive) materials must be locked or suitably secured in order to prevent unauthorized access.

* * * * *

(f) Under deck stowage of Class 1 (explosive) materials allocated stowage categories 09 and 10:

(1) These Class 1 (explosive) materials must not be stowed in the same compartment or hold with other cargo that is readily combustible (such as items packaged in straw).

(2) The position of stowage of these Class 1 (explosive) materials must be such as to maintain direct access to the hatchway by not overstowing with other cargo except for other Class 1 (explosive) materials.

(3) In all cases, all cargo within the compartment or hold, including Class 1 (explosive) materials stowed in cargo transport units, must be secured so as to eliminate the possibility of significant movement. Where an entire deck is used as a magazine, the stowage must be so arranged that the Class 1 (explosive) materials stowed therein must be removed from the ship before working any cargo in any decks above or below the space in the same hold.

§ 176.122 [Removed and Reserved]

62. Section 176.122 is removed and reserved.

§ 176.124 [Removed and Reserved]

63. Section 176.124 is removed and reserved.

64. Section 176.128 is revised to read as follows:

§ 176.128 Magazine stowage types “A”, “C” and Special Stowage.

(a) The stowage arrangements of Class 1 (explosive) substances and certain articles are subject to varying levels of containment, (except for compatibility group S substances), when stowed below deck. The levels are dependent on the hazard presented and the nature of the particular explosives involved. Columns (10A) and (10B) of the Hazardous Materials Table specify the stowage applicable to each substance or article. The different levels of containment are defined below as “A”, “C” and “Special”.

(b) Magazine stowage type “A”. Magazine stowage type A is required for those substances that must be kept clear of steelwork.

(c) Magazine stowage type “C”. Magazine stowage type C is required for those substances in compatibility group A.

(d) Special Stowage. Special Stowage is required for Explosive substances, n.o.s. in compatibility groups G or L, and for articles in compatibility groups G, H, L and K, which are particularly hazardous.

§ 176.132 [Removed and Reserved]

65. Section 176.132 is removed and reserved.

66. Section 176.133 is revised to read as follows:

§ 176.133 Magazine stowage Type C.

The construction requirements for magazine stowage type C are the same as for a closed cargo transport unit in § 176.63(e). In addition, the magazine must be located as near as practicable to the centerline of the vessel and must not be closer to the vessel's side than a distance equal to one-eighth of the vessel's beam or 2.4 m (8 feet), whichever is less.

67. Section 176.136 is revised to read as follows:

§ 176.136 Special stowage.

(a) Special stowage is required for certain articles presenting both explosive and chemical hazards, such as smoke or lachrymatory (compatibility group G or H), toxic (compatibility group K), or substances and articles which present a special risk (compatibility group L). Except as permitted in paragraph (c) of this section, Class 1 (explosive) materials requiring special stowage must be stowed on deck unless such stowage is impracticable and the COTP authorizes special stowage below deck. Where on deck stowage is recommended and an alternative stowage below deck is permitted by the COTP, the stowage must always be subject to special stowage.

(b) Class 1 (explosive) materials for which special stowage is required must be stowed as far away as practicable from living, accommodation, and working areas, and may not be overstowed. Closed cargo transport units in which such Class 1 (explosive) materials are stowed may not be located closer to the vessel's side than a distance equal to one-eighth of the vessel's beam or 2.4 m (8 feet), whichever is less.

(c) Class 1 (explosive) materials in compatibility groups G and H may be transported in steel magazines or in freight containers. If a freight container is used for this purpose, the floor of the freight container must be leakproof; for example, an all-metal container may be used and a fillet of cement or other material worked across the bottom of the door opening.

(d) Class 1 (explosive) materials stowed in one compartment may not be of more than one compatibility group, except the COTP may allow Class 1 (explosive) materials of compatibility groups G and H in separate steel magazines to be stowed in the same compartment, not less than 3 m (10 feet) apart.

(e) Class 1 (explosive) materials in compatibility groups K and L must be stowed in a steel magazine regardless of the stowage position in the vessel.

68. In § 176.138, paragraph (a) is revised to read as follows:

§ 176.138 Deck stowage.

(a) [Reserved]

* * * * *

69. In § 176.142, paragraph (a) is revised to read as follows:

§ 176.142 Hazardous materials of extreme flammability.

(a) Except as allowed by paragraph (b) of this section, certain hazardous materials of extreme flammability may not be transported in a vessel carrying Class 1 (explosive) materials. This prohibition applies to the following liquid hazardous materials:

Carbon disulfide | UN1131 | Class 3
Diethylzinc | UN1366 | Division 4.2
Dimethylzinc | UN1370 | Division 4.2
Magnesium alkys | UN3053 | Division 4.2
Methyl phosphonous di-chloride, pyrophoric liquid. | NA2845 | Division 6.1
Nickel carbonyl | UN1259 | Division 6.1
Pyrophoric liquid, inorganic, n.o.s. | UN3194 | Division 4.2
Pyrophoric liquid, organic, n.o.s. | UN2845 | Division 4.2
Organometallic substance, liquid, pyrophoric. | UN3392 | Division 4.2
Organometallic substance, liquid, pyrophoric, water-reactive. | UN3394 | Division 4.2

* * * * *

70. In § 176.144, paragraphs (a), (b), (c) and (e) are revised to read as follows:

§ 176.144 Segregation of Class 1 (explosive) materials.

(a) Except as provided in § 176.145 of this subchapter, stowage of Class 1 (explosive) materials within the same compartment, magazine, or cargo transport unit is subject to provisions contained in table 176.144(a).

Table 176.144(a)—Authorized Mixed Stowage for Explosives
[An “X” indicates that explosives in the two different compatibility groups reflected by the location of the “X” may not be stowed in the same compartment, magazine, or cargo transport unit]
Compatibility groups | A | B | C | D | E | F | G | H | J | K | L | N | S
A |  | X | X | X | X | X | X | X | X | X | X | X | X
B | X |  | X | X | X | X | X | X | X | X | X | X |
C | X | X |  | 6 | 6 | X | 1 | X | X | X | X | 4 |
D | X | X | 6 |  | 6 | X | 1 | X | X | X | X | 4 |
E | X | X | 6 | 6 |  |  | 1 | X | X | X | X | 4 |
F | X | X | X | X | X | X | X | X | X | X | X | X |
G | X | X | 1 | 1 | 1 | X |  | X | X | X | X | X |
H | X | X | X | X | X | X | X |  | X | X | X | X |
J | X | X | X | X | X | X | X | X |  | X | X | X |
K | X | X | X | X | X | X | X | X | X |  | X | X |
L | X | X | X | X | X | X | X | X | X | X | 2 | X | X
N | X | X | 4 | 4 | 4 | X | X | X | X | X | X | 3 | 5
S | X |  |  |  |  |  |  |  |  |  | X | 5 |
Notes: 1. Explosive articles in compatibility group G, other than fireworks and those requiring special stowage, may be stowed with articles of compatibility groups C, D, and E, provided no explosive substances are carried in the same compartment, magazine or cargo transport unit.
2. Explosives in compatibility group L may only be stowed in the same compartment, magazine or cargo transport unit with identical explosives within compatibility group L.
3. Different types of articles of Division 1.6, compatibility group N, may only be transported together when it is proven that there is no additional risk of sympathetic detonation between the articles. Otherwise they must be treated as division 1.1.
4. When articles of compatibility group N are transported with articles or substances of compatibility groups C, D or E, the goods of compatibility group N must be treated as compatibility group D.
5. When articles of compatibility group N are transported together with articles or substances of compatibility group S, the entire load must be treated as compatibility group N.
6. Any combination of articles in compatibility groups C, D and E must be treated as compatibility group E. Any combination of substances in compatibility groups C and D must be treated as the most appropriate compatibility group shown in Table 2 of § 173.52 taking into account the predominant characteristics of the combined load. This overall classification code must be displayed on any label or placard on a unit load or cargo transport unit as prescribed in subpart E (Labeling) and subpart F (Placarding).

(b) Where Class 1 (explosive) materials of different compatibility groups are allowed to be stowed in the same compartment, magazine, or cargo transport unit, the stowage arrangements must conform to the most stringent requirements for the entire load.

(c) Where a mixed load of Class 1 (explosive) materials of different hazard divisions and/or stowage arrangements is carried within a compartment, magazine, or cargo transport unit, the entire load must be treated as belonging to the hazard division having the greatest hazard. (For example, if a load of Division 1.1 (explosive) materials is mixed with Division 1.3 (explosive) materials, the load is treated as a Division 1.1 (explosive) material as defined in § 173.50(b) of this subchapter and the stowage must conform to the most stringent requirements for the entire load).

* * * * *

(e) Segregation on deck: When Class 1 (explosive) materials in different compatibility groups are carried on deck, they must be stored not less than 6 m (20 feet) apart unless they are allowed under Table 176.144(a) to be stowed in the same compartment, magazine, or cargo transport unit.

* * * * *

71. In § 176.146, paragraph (d)(1) is revised to read as follows:

§ 176.146 Segregation from non-hazardous materials.

* * * * *

(d) In order to avoid contamination:

(1) An explosive substance or article which has a secondary POISON hazard label must be stowed “separated from” all foodstuffs, except when such materials are stowed in separate closed cargo transport units, the requirements for “away from” segregation apply.

* * * * *

§ 176.168 [Amended]

72. In § 176.168, the undesignated center heading before § 176.168 is revised to read “CARGO TRANSPORT UNITS AND SHIPBORNE BARGES”.

73. In § 176.170, a new paragraph (b) is added to read as follows:

§ 176.170 Transport of Class 1 (explosive) materials in freight containers.

* * * * *

(b) Freight containers loaded with Class 1 (explosive) materials, except for explosives in Division 1.4, must not be stowed in the outermost row of containers.

* * * * *

74. In § 176.174, paragraphs (a) and (b) are revised to read as follows:

§ 176.174 Transport of Class 1 (explosive) materials in shipborne barges.

(a) Fixed magazines may be built within a shipboard barge. Freight containers may be used as magazines within a barge.

(b) Shipborne barges may be used for the carriage of all types of Class 1 (explosive) materials. When carrying Class 1 (explosive) materials requiring special stowage, the following requirements apply:

(1) Class 1 (explosive) materials in compatibility group G or H must be stowed in freight containers.

(2) Class 1 (explosive) materials in compatibility group K or L must be stowed in steel magazines.

* * * * *

§ 176.600 [Amended]

75. In § 176.600, in paragraph (a), in the last sentence, the wording “closed transport units” is removed and the wording “closed cargo transport units” is added in its place.

PART 178—SPECIFICATIONS FOR PACKAGINGS

76. The authority citation for part 178 continues to read as follows:

Authority: 49 U.S.C. 5101-5127; 49 CFR 1.53.

77. In § 178.274, paragraph (f)(l)(v) is revised to read as follows:

§ 178.274 Specifications for UN portable tanks.

* * * * *

(f) * * *

(l) * * *

(v) The rated flow capacity of the spring loaded pressure relief devices, frangible disc or fusible elements in standard cubic meters of air per second (m³/s). For spring loaded pressure relief device the rated flow capacity shall be determined according to ISO 4126-1 (IBR, see § 171.1 of this subchapter); and

* * * * *

78. In § 178.275, paragraph (i)(2) is revised to read as follows:

§ 178.275 Specification for UN Portable Tanks intended for the transportation of liquid and solid hazardous materials.

* * * * *

(i) * * *

(2) The combined delivery capacity of the pressure relief system (taking into account the reduction of the flow when the portable tank is fitted with frangible-discs preceding spring-loaded pressure-relief devices or when the spring-loaded pressure-relief devices are provided with a device to prevent the passage of the flame), in condition of complete fire engulfment of the portable tank must be sufficient to limit the pressure in the shell to 20% above the start to discharge pressure limiting device (pressure relief device). The total required capacity of the relief devices may be determined using the formula in paragraph (i)(2)(i)(A) of this section or the table in paragraph (i)(2)(iii) of this section.

* * * * *

79. In § 178.276, paragraphs (a)(4)(ii)(A), (d), and (e)(3) are revised to read as follows:

§ 178.276 Requirements for the design, construction, inspection and testing of portable tanks intended for the transportation of non-refrigerated liquefied compressed gases.

(a) * * *

(4) * * *

(ii) * * *

(A) Not less than the pressure specified for each liquefied compressed gas listed in the UN Portable Tank Table for Liquefied Compressed Gases in § 173.313; and

* * * * *

(d) Bottom openings. Bottom openings are prohibited on portable tanks when the UN Portable Tank Table for Liquefied Compressed Gases in § 173.313 of this subchapter indicates that bottom openings are not allowed. In this case, there may be no openings located below the liquid level of the shell when it is filled to its maximum permissible filling limit.

(e) * * *

(3) A portable tank intended for the transportation of certain liquefied compressed gases identified in the UN Portable Tank Table for Liquefied Compressed Gases in § 173.313 of this subchapter must have a pressure relief device which conforms to the requirements of this subchapter. Unless a portable tank, in dedicated service, is fitted with a relief device constructed of materials compatible with the hazardous material, the relief device must be comprised of a frangible disc preceded by a reclosing device. The space between the frangible disc and the device must be provided with a pressure gauge or a suitable tell-tale indicator. This arrangement must facilitate the detection of disc rupture, pinholing or leakage which could cause a malfunction of the pressure relief device. The frangible disc must rupture at a nominal pressure 10% above the start-to-discharge pressure of the relief device.

* * * * *

80. In § 178.602, paragraph (b) is revised to read as follows:

§ 178.602 Preparation of packagings and packages for testing.

* * * * *

(b) For the drop and stacking test, inner and single-unit receptacles other than bags must be filled to not less than 95% of maximum capacity (see § 171.8 of this subchapter) in the case of solids and not less than 98% of maximum in the case of liquids. Bags shall be filled to the maximum mass at which they may be used. The material to be transported in the packagings may be replaced by a non-hazardous material, except for chemical compatibility testing or where this would invalidate the results of the tests.

* * * * *

81. In § 178.603, paragraphs (c) and (e)(2) introductory text are revised to read as follows:

§ 178.603 Drop test.

* * * * *

(c) Special preparation of test samples for the drop test.

(1) Testing of plastic drums, plastic jerricans, plastic boxes other than expanded polystyrene boxes, composite packagings (plastic material), and combination packagings with plastic inner packagings other than plastic bags intended to contain solids or articles must be carried out when the temperature of the test sample and its contents has been reduced to −18 °C (0 °F) or lower. Test liquids must be kept in the liquid state, if necessary, by the addition of anti-freeze. Water/anti-freeze solutions with a minimum specific gravity of 0.95 for testing at −18 °C (0 °F) or lower are considered acceptable test liquids. Test samples prepared in this way are not required to be conditioned in accordance with § 178.602(d).

* * * * *

(e) * * *

* * * * *

(2) For liquids in single packagings and for inner packagings of combination packagings, if the test is performed with water:

* * * * *

82. In § 178.810, paragraph (b)(3) is revised to read as follows:

§ 178.810 Drop test.

* * * * *

(b) Special preparation for the drop test.

* * * * *

(3) Rigid plastic IBCs and composite IBCs with plastic inner receptacles must be conditioned for testing by reducing the temperature of the packaging and its contents to −18 °C (0 °F) or lower. Test liquids must be kept in the liquid state, if necessary, by the addition of anti-freeze. Water/anti-freeze solutions with a minimum specific gravity of 0.95 for testing at −18 °C (0 °F) or lower are considered acceptable test liquids, and may be considered equivalent to water for test purposes. IBCs conditioned in this way are not required to be conditioned in accordance with § 178.802.

* * * * *

PART 180—CONTINUING QUALIFICATION AND MAINTENANCE OF PACKAGINGS

83. The authority citation for part 180 continues to read as follows:

Authority: 49 U.S.C. 5101-5127; 49 CFR 1.53.

84. In § 180.350, paragraph (c) is revised to read as follows:

§ 180.350 Applicability and definitions.

* * * * *

(c) Routine maintenance of IBCs is the routine performance on:

(1) Metal, rigid plastic or composite IBCs of operations such as:

(i) Cleaning;

(ii) Removal and reinstallation or replacement of body closures (including associated gaskets), or of service equipment conforming to the original manufacturer's specifications provided that the leaktightness of the IBC is verified; or

(iii) Restoration of structural equipment not directly performing a hazardous material containment or discharge pressure retention function so as to conform to the design type (for example, the straightening of legs or lifting attachments), provided the containment function of the IBC is not affected.

(2) Plastics or textile flexible IBCs of operations, such as:

(i) Cleaning; or

(ii) Replacement of non-integral components, such as non-integral liners and closure ties, with components conforming to the original manufacturer's specification; provided that these operations do not adversely affect the containment function of the flexible IBC or alter the design type.

85. In § 180.352, paragraph (d)(1)(iv) is revised and a new paragraph (d)(1)(v) is added to read as follows:

§ 180.352 Requirements for retest and inspection of IBCs.

* * * * *

(d) * * *

(1) * * *

(iv) Retests and inspections performed in accordance with paragraphs (d)(1)(i) and (ii) of this section may be used to satisfy the requirements for the 2.5 and five year periodic tests and inspections required by paragraph (b) of this section, as applicable.

(A) The County in which the routine maintenance was carried out; and

(B) The name or authorized symbol of the party performing the routine maintenance.

(v) Retests and inspections performed in accordance with paragraphs (d)(1)(i) and (ii) of this section may be used to satisfy the requirements for the 2.5 and five year periodic tests and inspections required by paragraph (b) of this section, as applicable.

(e) Requirements applicable to routine maintenance of IBCs. Except for routine maintenance of metal, rigid plastics and composite IBCs performed by the owner of the IBC, whose State and name or authorized symbol is durably marked on the IBC, the party performing the routine maintenance shall durably mark the IBC near the manufacturer's UN design type marking to show the following:

(1) The County in which the routine maintenance was carried out; and

(2) The name or authorized symbol of the party performing the routine maintenance.

(f) Retest date. The date of the most recent periodic retest must be marked as provided in § 178.703(b) of this subchapter.

(g) Record retention. The owner or lessee of the IBC must keep records of periodic retests, initial and periodic inspections, and tests performed on the IBC if it has been repaired. Records must include design types and packaging specifications, test and inspection dates, name and address of test and inspection facilities, names or name of any persons conducting tests or inspections, and test or inspection specifics and results. Records must be kept for each packaging at each location where periodic tests are conducted, until such tests are successfully performed again or for at least 2.5 years from the date of the last test. These records must be made available for inspection by a representative of the Department on request.

* * * * *

Issued in Washington, DC on November 24, 2004, under authority delegated in 49 CFR part 1.
Elaine E. Joost,
Acting Deputy Administrator, Research and Special Programs Administration.

[FR Doc. 04-27087 Filed 12-17-04; 8:45 am]

BILLING CODE 4910-60-P